DEPARTMENT OF AGRICULTURE

Farm Service Agency

Conference Entitled “Conservation Reserve Program: Planting for the Future”

AGENCY: Farm Service Agency, USDA.

ACTION: Notice of a scientific conference on the Conservation Reserve Program.

SUMMARY: USDA's Farm Service Agency (FSA) and the Department of Interior's U.S. Geological Survey are hosting a national conference on the future of the Conservation Reserve Program (CRP)—the Nation's largest conservation program.

DATES: June 6-9, 2004. An optional field trip is planned for June 9, 2004, depending on attendee interest. Details will be announced at the conference.

ADDRESSES: The conference will be held at the University Park Holiday Inn, Fort Collins, Colorado. The field trip, if held, will be to the Pawnee National Grasslands and neighboring CRP fields, about 30 miles west of Fort Collins, Colorado. Transportation and directions for the field trip will be provided at the conference.

FOR FURTHER INFORMATION CONTACT: Alexander Barbarika, Natural Resources Analysis Group, Economic Policy and Analysis Group, Farm Service Agency, USDA, 1400 Independence Avenue, SW, STOP 0516, Washington, DC 20250-0516; telephone: (202) 720-7093; FAX (202) 690-2186; email: Alexander.Barbarika@usda.gov.

Persons with disabilities who require special accommodation to attend or participate in the conference should contact Laurie Montgomery, telephone: (202) 205-7832; email: laurie.montgomery@usda.gov, by May 31, 2004.

Healthy Homes Demonstration Program

Overview Information

A. Federal Agency Name: Department of Housing and Urban Development, Office of Healthy Homes and Lead Hazard Control.

B. Funding Opportunity Title: Healthy Homes Demonstration Program.

C. Announcement Type: Initial announcement.

D. Funding Opportunity Number: The Federal Register number is: FR-4900-N-04. The OMB Paperwork approval number is 2539-0015.

E. Catalog of Federal Domestic Assistance (CFDA) Number(s): 14.901 Healthy Homes Demonstration Program.

F. Dates: An original and three copies of your application must be submitted on or before July 13, 2004. See the General Section of the SuperNOFA Section IV, Application and submission Information, regarding application submission procedures and timely filing requirements.

G. Additional Overview Content Information: 1. Purpose of the Program. The purpose of the Healthy Homes Demonstration Program is to develop, demonstrate, and promote cost-effective, preventive measures to correct multiple safety and health hazards in the home environment that produce serious diseases and injuries in children of low-income families. Through the Healthy Homes Demonstration program, HUD will initiate competitive projects to promote implementation of available risk reduction techniques for the control of key hazards described in Appendix A.

2. Available Funds. HUD anticipates that approximately $5 million in Fiscal Year 2004 funds will be available.

3. Number of Awards. Approximately four to approximately six grants will be awarded, ranging from approximately $250,000 to approximately $1,000,000. The average award in 2003 was $845,000.

4. Eligible Applicants. Not-for-profit institutions, and for-profit firms located in the U.S., state and local governments, and federally recognized Indian Tribes are eligible to apply. For-profit firms are not allowed to include a fee in the cost proposal (i.e., no profit can be made from the project).

5. Type of Award. Grant.

6. Match. None required, but strongly encouraged.

7. Limitations. There are no limitations on the number of applications that each applicant can submit.

8. Information on Application. Information and procedures for completing an application are provided below.

Full Text of Announcement

I. Funding Opportunity Description

A. Background

The Healthy Homes Demonstration Program is a part of HUD's Healthy Homes Initiative (HHI). In April 1999, HUD submitted to Congress a preliminary plan containing a full description of the HHI. This description (Summary and Full Report) is available on the HUD Web site at: www.hud.gov; this site also contains additional information on the HHI and a link to its website.

The HHI builds upon HUD's existing housing-related health and safety issues, including lead hazard control, building structural safety, electrical safety, and fire protection to address multiple childhood diseases and injuries, such as asthma, mold-induced illness, carbon monoxide poisoning, and other conditions related to housing in a coordinated fashion. The HHI departs from the more traditional approach of attempting to correct one hazard at a time (e.g., asbestos, radon); a coordinated effort is feasible because a limited number of building deficiencies contribute to many hazards. Substantial savings are possible using this approach, because separate visits to a home by an inspector, public health nurse, or outreach worker can add significant costs to efforts to eliminate hazards.

In addition to deficiencies in basic housing facilities that may impact health, changes in the U.S. housing stock and more sophisticated epidemiological methods and biomedical research have led to the identification of new and often more subtle health hazards in the residential environment. While such hazards will tend to be found disproportionately in housing that is substandard (e.g., structural problems, lack of adequate heat, etc.), such housing-related environmental hazards may also exist in housing that is otherwise of good quality. Appendix A of this NOFA briefly describes the housing-associated health and injury hazards HUD considers key targets for intervention. Appendix D lists references that serve as the basis for the information provided in the Healthy Homes Demonstration Program NOFA.

B. Healthy Homes Initiative Goals

1. Mobilize public and private resources, involving cooperation among all levels of government, the private sector, and faith-based and other community-based organizations to develop the most promising, cost-effective methods for identifying and controlling housing-based hazards;

2. Build local capacity to operate sustainable programs that will prevent and control housing-based hazards in low- and very low-income residences when HUD funding is exhausted; and

3. Affirmatively further fair housing and environmental justice.

HUD is interested in promoting approaches that are cost-effective and efficient and that result in the reduction of health threats for the maximum number of residents for the long run, and, in particular, for children in low-income families. In addition, HUD encourages applicants to undertake specific activities that will assist the Department in implementing its Policy Priorities. HUD's Fiscal Year 2004 Policy Priorities are discussed in the General Section to the SuperNOFA (hereafter referred to as the General Section of the SuperNOFA).

Policy Priorities that are applicable to the Healthy Homes Demonstration NOFA are: (1) Improving our Nation's Communities (focus on distressed communities); (2) Providing Full and Equal Access to GrassRoots Faith-based or other Community-based Organizations in HUD Program Implementation; (3) Participation of Minority-Serving Institutions in HUD Programs and (4) Removal of Regulatory Barriers to Affordable Housing. Applicants that address these Policy priorities are eligible to earn additional points toward the overall score awarded their submission.

C. Healthy Homes Demonstration Objectives

HUD will initiate competitive projects that implement housing assessment, maintenance, renovation and construction techniques to identify and correct housing-related illness and injury risk factors, disseminate healthy homes information and replicate successful interventions. The objectives of the Healthy Homes Demonstration program include:

1. Identification of target areas and homes where assessment and interventions will occur;

2. Identification and evaluation of effective methods of hazard abatement and risk reduction;

3. Development of appropriately scaled, flexible, cost-effective and efficient assessment and intervention strategies that take into account the range of conditions likely to be encountered in housing, and that maximize the number of housing units that receive interventions;

4. Development of methodologies for evaluating intervention effectiveness;

5. Development of local capacity in target areas and training programs for target groups to operate sustainable programs to prevent and control housing-based hazards, especially in low- and very low-income residences;

6. Development of cost-effective protocols for identifying homes that are candidates for interventions, identifying hazards in these homes, and screening out homes where structural or other factors (e.g., cost) make interventions impractical;

7. Development and delivery of public outreach programs that provide information about effective methods for preventing housing-related childhood diseases and injuries and for promoting the use of these interventions;

8. Targeting, through education and outreach, specific high-risk communities and other identified audiences such as homeowners, landlords, health care deliverers, pregnant women, children, residential construction contractors, maintenance personnel, housing inspectors, real estate professionals, home buyers, and low-income minority families;

9. Implementation of media strategies to use print, radio and television to increase public awareness of housing-related hazards that threaten children, including the use of minority media, nonprofit organizations that work with persons with disabilities (including providing materials in alternative formats), advocates for racial and ethnic minorities (including providing materials in other languages for populations with Limited English Proficiency (LEP)), and faith-based organizations;

10. Dissemination of tools currently used by the applicant and/or tools available from other sources and, as needed, tools to be developed, to inform parents and caregivers about housing-related hazards and enable them to take prompt corrective action; and

11. Development of training programs for Healthy Homes activities to emphasize assessment and intervention methods applicable to public and private housing in target areas.

Specific project activities applicable to these objectives can be found under Rating Factor 3.1.b.

D. Authority

The authority for this program is sections 501 and 502 of the Housing and Urban Development Act of 1970 and the Consolidated Appropriations Resolution of 2004, Public Law 108-199.

II. Award Information

A. Funding Available

Approximately $5 million in Fiscal Year 2004 funds is available for the Healthy Homes Demonstration Program Grants. Grants will be awarded on a competitive basis. HUD anticipates that approximately four to six grants will be awarded, ranging from approximately $250,000 to approximately $1,000,000. In fiscal year 2003, the average award was $845,000. The rating factors and selection process are discussed in Section V.

Abstracts of currently funded grantees are available on the Healthy Homes Web site at: www.hud.gov/healthyhomes. Applicants may wish to review these for program content and may also contact Project Directors for additional information.

B. Anticipated Start Date and Period of Performance for New Grants

The start date for new grants is expected to be October 1, 2004, with a period of performance not to exceed 36 months. HUD reserves the right to approve no cost time extensions for any grant under this program for a period not to exceed 12 months.

C. Type of Award Instrument

All awards in response to this NOFA will be made as grants. However, HUD will require quarterly reporting and will work closely with grantees to develop and monitor projects.

III. Eligibility Information

A. Eligible Applicants

Not-for-profit institutions, and for-profit firms located in the U.S., Native American Tribes, state and local governments, and federally recognized Indian Tribes are eligible to apply. For-profit firms are not allowed to include a fee in the cost proposal (i.e., no profit can be made from the project).

B. Cost Sharing or Matching

Cost sharing or matching is not required. In rating your application, however, HUD will award a higher score under Rating Factor 4 (see Section V.d) if you provide evidence of significant cost sharing.

C. Other

1. Threshold Requirements Applicable to all Applicants Under the SuperNOFA

As an applicant, you must meet all of the threshold requirements described in the General Section of the SuperNOFA. Information about threshold requirements is provided in the General Section of the SuperNOFA. These requirements include the requirement to affirmatively further fair housing (AFFH). Applications that meet all of the threshold requirements will be eligible to be scored and ranked. Grants will be awarded on a competitive basis following evaluation of all proposals according to the rating factors described in the General Section of this SuperNOFA. A minimum score of 75 out of a possible 102, including EZ/EC bonus points, is required for award consideration.

Applications will not be rated or ranked if they do not meet the threshold requirements of the General Section of the SuperNOFA.

2. Eligible Activities

The following activities and support tasks are eligible under the Healthy Homes Demonstration grant program.

a. Performing evaluations of eligible housing to determine the presence of housing-based hazards (e.g., moisture intrusion, mold growth, pests and allergens, unvented appliances, exposed steam pipes or radiators, deteriorated lead-based paint) through the use of accepted assessment procedures.

b. Conducting housing interventions to remediate existing housing-based hazards and address conditions that could result in their recurrence. Refer to the HUD Guidelines for the Evaluation and Control of Lead-Based Paint Hazards in Housing (Guidelines) for information about conducting such remediation. The Guidelines and/or applicable regulations may be downloaded from the Office of Healthy Homes and Lead Hazard Control's homepage, linked to HUD's website at: www.hud.gov.

c. Undertaking housing rehabilitation activities that are specifically required to carry out effective control of housing-based hazards, and without which the intervention could not be completed and maintained. Funds under this program may also be used to control lead-based paint hazards; however, such controls may not be a principal focus of the grant. Lead hazard control activities are carried out under HUD's Lead-Based Paint Hazard Control Grant Program.

d. Carrying out temporary relocation of families and individuals, when necessary, during the period in which intervention is conducted and until the time the affected unit receives clearance for re-occupancy.

e. Conducting medical examinations, when such examinations of young children for conditions caused or exacerbated by exposure to residential hazards are demonstrated to be critical to the outcome of your project, and there are no alternative sources to cover these costs.

f. Environmental sampling and medical testing recommended by a physician or applicable occupational or public health agency to protect the health of the intervention workers, supervisors, and contractors, unless reimbursable from another source.

g. Conducting testing, analysis, and mitigation for lead, mold, carbon monoxide and/or other housing-related hazards as appropriate, with respect to generally accepted standards or criteria, or if standards are unavailable, other appropriate levels justified in conjunction with the project. A laboratory recognized by the Environmental Protection Agency's (EPA's) National Lead Laboratory Accreditation Program (NLLAP) must analyze clearance dust samples related to lead-based paint. It is recommended that samples to be analyzed for fungal species be submitted to a laboratory accredited in the Environmental Microbiological Laboratory Accreditation Program (EMLAP), administered by the American Industrial Hygiene Association (AIHA) and the American Association for Laboratory Accreditation (A2LA).

h. Carrying out architectural, engineering and work specification development and other construction management services to control housing-based hazards and remediate existing hazards.

i. Providing training on Healthy Homes practices to homeowners, renters, painters, remodelers, and housing maintenance staff working in low- or very low-income housing.

j. Providing cleaning supplies for hazard intervention and hazard control to faith-based or other community-based organizations for use by homeowners and tenants in low-income housing, or to such homeowners and tenants directly. (See the General Section of the SuperNOFA for more information about faith-based or other community-based organizations.)

k. Conducting general or targeted community education programs on environmental health and safety hazards. This activity would include, but not be restricted to, training on Healthy Homes maintenance and renovation practices. It would also include making materials available in alternative formats for persons with disabilities (e.g., Braille, audio, large type) upon request, and providing materials in languages other than English that are common in the community, consistent with HUD's published “Limited English Proficiency (LEP)” Recipient Guidance.

l. Securing liability insurance for hazard evaluation and control activities to be performed. This is not considered an administrative cost.

m. Supporting data collection, analysis, and evaluation of project activities. As a condition of the receipt of financial assistance under this NOFA all successful applicants will be required to cooperate with all HUD staff and contractors performing HUD funded research and evaluation studies.

n. Preparing quarterly progress reports and an overall final grant report detailing activities (e.g., number of units tested, hazards found, types of interventions provided, evaluation of the most cost-efficient methodologies by type of unit), findings, and recommended future actions for cost-effective interventions at the conclusion of grant activities.

3. Program Requirements

a. Work Activities. All lead hazard control activities must be conducted in compliance with the applicable requirements of HUD's Lead-Safe Housing Rule, 24 CFR Part 35, especially § 35.1325 for abatement and § 35.1330 for interim controls and as clarified in HUD's Interpretive Guidance about this rule. Activities must also comply with any additional requirements in effect under a state or Native American Tribal Lead-Based Paint Training and Certification Program that has been authorized by the EPA pursuant to 40 CFR 745.320.

b. Institutional Review Board Approval. In conformance with the Common rule (Federal Policy for the Protection of Human Subjects, codified by HUD at 24 CFR part 60), if your research involves human subjects, your organization must provide an assurance (e.g., a letter signed by an appropriate official) that the research has been reviewed and approved by an IRB before you can initiate activities that require IRB approval. You must also provide the number for your organization's assurance (i.e., an “institutional assurance”) that has been approved by the Department of Health and Human Service's Office of Human Research Protections (OHRP). For additional information on what constitutes human subject research or how to obtain an institutional assurance see the OHRP website at: http://ohrp.osophs.dhhs.gov.

c. Program Performance. Grantees shall take all reasonable steps to accomplish all healthy homes activities within the approved period of performance. HUD will closely monitor the grantee's performance with particular attention to completion of specified activities, deliverables and milestones, and number of units proposed to be assessed or receive interventions within the approved period of performance. HUD reserves the right to terminate the grant prior to the expiration of the period of performance if the grantee fails to meet 25 percent of the milestones, including all deliverables, as scheduled in their work plan.

d. Certified and Trained Providers. Lead hazard control activities must be conducted by persons qualified for the activities according to 24 CFR Part 35 (possessing certification as abatement contractors, risk assessors, inspectors, abatement workers, or sampling technicians, or others having been trained in a HUD-approved course in lead-safe work practices).

e. Clearance Testing for Lead Hazard Control Activities. Clearance dust testing must be conducted according to the EPA Lead Hazards Standards Rule (40 CFR part 745) for abatement projects and the Lead-Safe Housing Rule (24 CFR part 35) for lead hazard control activities other than abatement. These are available at: www.epa.gov/lead and www.hud.gov, respectively.

f. All tests results related to lead-based paint must be provided to the owner of the unit, together with a notice describing the owner's legal duty to disclose the results to tenants and buyers. Disclosure of other housing-related hazards to the owner of the unit is encouraged but not required.

g. All pest control activities shall incorporate the principles and methods of integrated pest management (IPM). In technical terms, IPM is the coordinated use of pest and environmental information with available pest control methods to prevent unacceptable levels of pest damage by the most economical means and with the least possible hazard to people, property, and the environment. The IPM approach emphasizes a targeted use of pesticides that limits the possibility of human exposure (e.g., as opposed to wide-spread applications) and includes interventions based on the behavior of the target pest (e.g., preventing access to food or water). (One information source is the University of Minnesota's electronic textbook of Integrated Pest Management, available at: http://ipmworld.umn.edu/textbook.htm.)

h. Grantees collecting samples of settled dust from participant homes for environmental allergen analyses (e.g., cockroach, dust mite) will be required to use a standard dust sampling protocol, unless there is a strong justification to use an alternate protocol. The HUD protocol will be posted on the OHHLHC website at: http://www.hud.gov/offices/lead/hhi/hhiresources.cfm. Grantees conducting these analyses will also be required to include quality control dust samples, provided by OHHLHC at no cost to the grantee, with the samples that are submitted for laboratory analyses. For the purpose of budgeting laboratory costs, assume that five percent of your total allergen dust samples would consist of QC samples.

i. Occupational Health and Safety Administration (OSHA) (e.g., 29 CFR part 1910 and/or 1926, as applicable), the EPA (e.g., 40 CFR parts 61, 260-282, 300-374, and/or 700-799, as applicable), the Department of Transportation (e.g., 49 CFR parts 171-177), and/or appropriate state or local regulatory agencies and applicable EPA, HUD, state, and local regulatory agency guidance. You must handle disposal of wastes from hazard control activities that contain lead-based paint, but are not classified as hazardous in accordance with state or local law or the HUD Guidelines for the Evaluation and Control of Lead-Based Hazards in Housing (HUD Guidelines). The HUD Guidelines may be downloaded from the HUD Web site at: www.hud.gov.

j. Worker Protection Procedures. You must comply with the procedures for worker protection established in the HUD Guidelines as well as the requirements of the OHSA, e.g., 29 CFR part 1910 and/or 1926, as applicable, or the state or local occupational safety and health regulations, whichever are more stringent.

k. Written Policies and Procedures. You must have written policies and procedures for all phases of interventions, including evaluation, development of specifications, financing, occupant relocation, independent project inspection, and clearance testing (e.g., for mold, lead, carbon monoxide or other hazards, as applicable). You and all your subcontractors, subrecipients, and their contractors must comply with these policies and procedures.

l. Continued Availability of Safe Housing to Low-Income Families. Units in which housing-based hazards have been controlled under this program shall be occupied by and/or continue to be available to low-income residents for not less than three years following the completion of intervention activities.

m. Data Collection and Provision. You must collect, maintain, and provide to HUD the data necessary to document the various approaches used to evaluate and control housing-based hazards, including evaluation and control methods, building conditions, medical and familial information (with confidentiality of individually-identifiable information ensured) in order to determine the effectiveness and relative cost of these methods.

n. Section 3 Employment Opportunities. Recipients of assistance in the Healthy Homes Demonstration Program must comply with Section 3 of the Housing and Urban Development Act of 1968, 12 U.S.C. 1701u (Economic Opportunities for Low- and Very Low-Income Persons in Connection with Assisted Projects) and the HUD regulations at 24 CFR part 135, including the reporting requirements of subpart E. Please see the General Section of the SuperNOFA for additional information about Section 3 requirements.

o. Certifications and Assurances. You must include the certifications and assurances listed in the General Section of this SuperNOFA with your application. A Certification of Consistency with the Consolidated Plan is not required for the Healthy Homes Demonstration NOFA.

p. Conducting Business in Accordance with HUD Core Values and Ethical Standards. If awarded assistance under the Healthy Homes Demonstration NOFA, you will be required, prior to entering into a grant agreement with HUD, to submit a copy of your code of conduct and describe the methods you will use to ensure that all officers, employees, and agents of your organization are aware of your code of conduct. See the General Section of the SuperNOFA for information about conducting business in accordance with HUD's core values and ethical standards.

4. DUNS Requirement

Refer to the General Section of the SuperNOFA for information regarding the DUNS requirement.

IV. Application and Submission Information

If you are interested in applying for funding under this program, please review carefully the General Section of this Notice of Funding Availability and the following additional information.

A. Address To Request an Application Package

An application kit is not available for this NOFA. The information and material needed for an application is available from this program NOFA and the General Section of the SuperNOFA. Required forms are available online at: www.hud.gov. There are no materials available by mail for this NOFA.

B. Content and Form of Application Submission

Your application must include the following items and must be in concordance with the format and instructions described therein. The application should follow the outline provided in the Checklist to be found in Appendix E.

1. Provide a one-page transmittal letter, signed by the chief executive or other authorized official, that provides the title of your proposed project, the dollar amount requested, and identifies you and your partners in the application. Include the name, mailing address, and telephone number of the principal contact person. If you are a consortium of associates, subrecipients, partners, major subcontractors, joint venture participants, or others contributing resources to the project, similar information shall also be provided for each of these entities. You must also specify the primary entity.

2. An abstract describing the goals and objectives of your proposed program (2-page limit, single-spaced, 12-point standard font, one-inch margins) must be included in the proposal.

3. Checklist and Submission Table of Contents (see Appendix E of this NOFA; inclusion of the checklist is voluntary; however, it is recommended.).

4. Required Forms. All required forms are discussed in the General Section of the SuperNOFA and listed on the checklist in Appendix E. These forms are available at: www.grants.gov. They are also available as fillable Adobe Reader (PDF) or Word (DOC) formats from the HUD Web site at: www.hud.gov.

5. A narrative statement addressing the rating factors for award. The narrative statement must be numbered in accordance with each factor for award (Rating Factors 1 through 5). We recommend that you number all pages consecutively, including all appendices. The response to the rating factors must not exceed a total of 25 pages (single-spaced, 12-point font, one-inch margins). Key points to consider in preparing your application are provided in Appendix C of this NOFA. Any pages in excess of this limit will not be read.

6. Any attachments, appendices, references, or other relevant information that directly support the narrative may accompany it, but must not exceed twenty pages (12-point font with 1-inch margins) for your entire application. As discussed above, we recommend that you number pages consecutively. Any pages in excess of this limit will not be read. This material should be placed in Appendix 2 of your application. Specific criteria for the content of the appendices for the Healthy Homes Demonstration Program grant application are listed in the Checklist and Submission Table of Contents (see Appendix E of this NOFA.)

7. A detailed budget with supporting cost justification for all budget categories of your funding request, in accordance with Rating Factor 3, (2)(b). The budget and related materials should be placed in Appendix 3 of your application. This information will not be counted towards the page limits. In completing the budget forms and justification, you should address the following elements:

a. Direct Labor costs should include all full- and part-time staff required for the planning and implementation phases of the project. These costs should be based on FTE (full time equivalent) or hours per year (hours/year) (i.e., one FTE equals 2,080 hours/year)

b. You should budget for three trips to HUD Headquarters in Washington, DC, planning each trip for two people, assuming the first trip occurring shortly after grant award for a stay of two or three days, depending on your location, and the remaining trips having a stay of one or two days, depending on your location.

c. A separate budget proposal should be provided for any subrecipients receiving more than 10 percent of the total federal budget request.

d. You should be prepared to provide supporting documentation for salaries and prices of materials and equipment upon request.

e. Organizations that have a federally negotiated indirect rate should use that rate and the appropriate base. Other organizations must obtain a rate from their cognizant federal agency; otherwise the organization will be required to obtain a negotiated rate from HUD.

f. You should submit the negotiated rate agreements for fringe benefits and indirect costs, if applicable, as an attachment to the budget sheets.

8. The position descriptions and resumes, if available, of your project director and project manager and up to three additional key personnel (in accordance with Rating Factor 1), not to exceed three pages each (single-spaced, 12-point font with 1-inch margins). This information is to be included in Appendix 1 of your application and will not be counted toward the page limit.

C. Submission Dates and Times

You must submit an original and three copies of your application on or before July 13, 2004. Refer to the General Section of the SuperNOFA for additional submission requirements including acceptable submission methods, acceptable proof of delivery, and other information regarding application submission.

D. Intergovernmental Review

Not required for this submission.

E. Funding Restrictions

1. Administrative Costs. There is a 10 percent maximum allowance for administrative costs. Additional information about allowable administrative costs is provided in Appendix F of this NOFA.

2. Purchase of Real Property is not permitted.

3. Purchase or lease of equipment having a per unit cost in excess of $5,000 is not permitted, unless prior written approval is obtained from HUD.

4. Medical costs, except as specified above in Section III.C.2., are not permitted.

G. Other Submission Requirements

1. Application Submission Procedures

Submit an original and three copies of your application to: HUD Headquarters; Robert C. Weaver Federal Building; 451 Seventh Street, SW., Room P3206; Washington, DC 20410-3000; ATTN: Healthy Homes Demonstration Program.

See the General Section of this SuperNOFA for specific procedures concerning the form of application submission (e.g., mailed applications, express mail, or overnight delivery).

V. Application Review Information

A. Criteria

1. Rating and Ranking. Applications will be reviewed by an Application Review Panel (ARP) which will assign each application a numerical score based on the rating factors presented below. The ARP chairperson initially selects and provides at least one application to panel members to score during a calibration round to ensure that all panel members are consistent in their interpretation of the rating factors. When the calibration round is completed, each application is reviewed and scored by at least two panel members who will assign a score based on the rating factors presented in section V.A.2 below. Each factor is weighted as indicated by the number of points that are attainable for it. An average score is then computed for each application. The ARP chair may call upon an advisor to the ARP to review and comment on a proposal; however, the advisor does not score the application. The ARP holds a final meeting to identify the top-ranking applications to be recommended for funding. Awards will be made separately in rank order within the limits of funding availability. The maximum score that can be assigned to an application is 102 points. Applicants should be certain that these factors are adequately addressed in the project description and accompanying materials.

a. Five rating factors:

Rating Factor 1: Capacity of the Applicant and Relevant Organizational xperience (20 points);

Rating Factor 2: Need/Extent of the Problem (15 points);

Rating Factor 3: Soundness of Approach (40 points);

Rating Factor 4: Leveraging Resources (10 points);

Rating Factor 5: Achieving Results and Program Evaluation (15 points);

RC/EZ/EC Bonus Points (2 points);

Total: 102 points.

Applicants are eligible to receive two bonus points for projects located within federally designated Renewable Communities (RC)/Employment Zones (EZ)/Enterprise Communities (EC) (RC/EZ/ECs) and which will serve the residents of these communities (see the General Section of the SuperNOFA).

2. Rating Factors. The factors for rating and ranking applicants, and maximum points for each factor, are provided below.

a. Rating Factor 1: Capacity of the Applicant and Relevant Organizational Experience (20 Points)

This factor addresses your organizational capacity necessary to successfully implement your proposed activities in a timely manner. The rating of you or your staff includes any faith-based or other community-based organizations, sub-contractors, consultants, subrecipients, and members of consortia that are firmly committed to your project. Applicants that either are or propose to partner, fund, or sub-contract with grassroots organizations, including faith-based or other community-based nonprofits, in conducting their work programs will receive higher rating points as specified in the General Section of the SuperNOFA. In rating this factor, HUD will consider the four items listed below.

(1) Capacity and Qualifications of Principal Investigator and Key Personnel. Your recent, relevant, and successful demonstrated experience in undertaking eligible program activities. You must describe the knowledge and experience of the proposed overall project director and day-to-day project manager in planning and managing large and complex interdisciplinary programs, especially those involving housing, public health, or environmental programs. In your narrative response for this factor, you should include information on your project staff, their experience with housing and health programs, percentage commitment to the project, and position titles. Resumes of up to three pages each and position descriptions for up to three key personnel in addition to the project director and project manager, and a clearly delineated organizational chart for the Healthy Homes project you propose, must be included in Appendix 1 of your application. Position descriptions and copies of job announcements (including salary range) should be included for any key positions that are currently vacant or contingent upon an award. Indicate the name of the position, the percentage of time that proposed staff will devote to your project and any salary costs to be paid by funds from this program. Successful applicants must hire within 120 days of award all key staff positions identified in the proposal as vacant or required in the award agreement. HUD reserves the right to terminate grant awards made to applicants that fail to timely hire (within 120 days of award) such staff. Include descriptions of the experience and qualifications of subcontractors and consultants. You may find it useful to include a table indicating the name, position and percentage contribution of staff members, specifying organizational affiliation.

(2) Qualifications of Applicant and Partner Organizations. To carry out the proposed activities as evidenced by experience, academic background, training, and/or relevant publications of project staff. Document whether you have sufficient personnel, or will be able to quickly retain qualified experts or professionals to begin your proposed project immediately, and to perform your proposed activities in a timely and effective fashion. Describe how principal components of your organization will participate in, or support, your project and how you propose to coordinate with your partners. You should thoroughly describe capacity, as demonstrated by experience in initiating and implementing related environmental, health, or housing projects.

(3) Past performance of the organization. Applicant or partners in another Healthy Homes or Lead Hazard Control grant, another grant related to environmental health and safety issues, or other experience in a similar program. Provide details about the nature of the project, the funding agency, and your performance, relative to performance measures and the achievement of desired housing and health related outcomes.

(4) Performance as a Healthy Homes Grantee. If your organization is an existing Healthy Homes grantee, provide a description of the progress and outcomes achieved in that grant. If you received previous Healthy Homes Demonstration funding, this experience will be evaluated in terms of cumulative progress and achievements under the previous grant.

Please complete the Factor 1 table, Capacity of the Applicant and Relevant Organizational Experience, in Appendix B to support narrative information submitted.

b. Rating Factor 2: Need/Extent of the Problem (15 Points)

This factor addresses the extent to which there is a need for your proposed project activities to address documented problems related to healthy homes issues and housing-related hazards in your target area(s) and target group(s).

(1) Specifically identify a target area for your proposed activities. Document a critical level of need for your proposed activities in this target area. You should pay specific attention to documenting the need as it applies to your target area(s), and provide statistics for this area, if available, rather than general statistics or information pertinent to a larger geographic area. If your target area comprises a Renewal Community/Enterprise Community/Empowerment Zone, indicate the location of this area in the narrative for this rating factor. (2 bonus points are awarded if your target area is located in a Renewal Zone/Enterprise Community/Empowerment Zone.)

(2) Your documentation should summarize available data linking housing-based hazards to disease or injuries to children in your target area(s), if available. Examples of data that might be used to demonstrate need include:

(a) Economic and demographic data relevant to your target area(s), including poverty and unemployment rates;

(b) Rates of childhood illnesses (e.g., asthma, allergies, hypertension, elevated blood lead levels) or injuries (e.g., falls, burns) among children residing in your target areas that could be caused or exacerbated by exposure to conditions in the home environment; and

(3) For the areas targeted for your project activities, provide data available in your jurisdiction's currently approved Consolidated Plan and the Analysis of Impediments to Fair Housing Choice (AI) or Indian Housing Plan or derived from current census data or from other sources. Provide and reference data that address the following:

(a) The age and condition of housing;

(b) The number and percentage of low- and very low-income families with incomes less than 50 percent and 80 percent of the median income, respectively, as determined by HUD, for the area, with adjustments for smaller and larger families. Statistics that describe low- and very-low income families are available at: www.huduser.org/datasets/il/fmr00/sect82.html. Additional census statistics are available at: www.census.gov/hhes/www/income00.html, www.census.gov/hhes/income/income00/statemhi.html, and www.huduser.org/datasets/il/fmr00/index.html;

(c) To the extent that statistics and other data contained in your community's Consolidated Plan or AI support the extent of the problem, you should include references to the Consolidated Plan or AI in your response; and

(d) Data documenting targeted groups that are traditionally underserved or have special needs. For a maximum score in this rating factor, data provided should specifically represent the target area. If the data presented in your response do not specifically represent your target area, you should discuss why the target areas are being proposed. If your application addresses needs that are in the Consolidated Plan or AI, you will receive more points than applicants that do not relate their project to a previously identified need.

Complete the Factor 2 table, Need/Extent of Problem, in Appendix B to support narrative information (and section A if lead poisoning risk is part of demonstrated need).

c. Rating Factor 3: Soundness of Approach (40 Points)

This factor addresses the quality and cost-effectiveness of your proposed work plan. You should present detailed information on the proposed approach for addressing housing-based hazards and describe how proposed activities would help HUD achieve its goals for this program area. For you to receive maximum points for this factor, there must be a direct relationship between the proposed activities, documented and demonstrated community needs, and the purpose of the project. Your application will be evaluated according to the comprehensiveness of addressing activities that are applicable to your project. The response to this factor should include details about your technical approach and project activities. HUD is looking for a clear statement of activities, timeline for completing the work and expected deliverables, including any quantitative deliverables.

(1) Approach for Implementing the Project (25 points).

(a) Technical Approach. Describe your overall technical approach for strategizing and implementing your proposed project. Your narrative response to this sub-factor will be used to assess how well your proposed project will be executed. In this factor, describe the methods, schedule, milestones, and quality assurance activities that will be carried out to identify and control housing-based hazards and to achieve the desired project outcomes. Include summary information about the estimated numbers of clients to be contacted, clients enrolled, units to be assessed, units to receive interventions, individuals to be trained and individuals to be reached through education/outreach activities.

(b) Project Activities. Your project description must include a discussion of specific planned project activities that address one or more of the following activities.

(i) Describe in detail how you will identify, select, prioritize, and enroll units of eligible housing in which you will undertake housing-based hazard interventions, how you will integrate safe work practices into housing maintenance, repair, and improvements, and then target such units to low-income families with young children. Describe impediments that you anticipate for recruitment, measures you will perform to sustain recruitment, and the staff responsible for both monitoring recruitment status and implementing the measures identified to sustain recruitment. Describe any anticipated impact of the Health Insurance Portability and Accountability Act (HIPPA) on your recruitment strategy.

(ii) Describe any assessment tools you would employ to establish baseline data. These tools include questionnaires, visual assessment protocols and environmental sampling and analysis. Include a description of the Informed Consent/Disclosure process you intend to follow for obtaining Institutional Review Board (IRB) approval, if necessary. In particular, describe how you will provide informed consent (e.g., from the subjects, and their parents and guardians, as applicable) to help ensure their understanding of, and consent to, the elements of informed consent, such as the purposes, benefits and risks of the research activities. Describe how this information will be provided and how the consent will be collected. For example, describe the use of “plain language” forms, flyers, and verbal scripts, and discuss your plans to work with persons with limited English proficiency and their families, and with families including persons with disabilities.

(iii) Describe your process for evaluating units of eligible housing in which you will undertake housing-based hazard interventions. Provide the estimated total number of owner-occupied and/or rental units in which you will perform assessments and conduct interventions.

(iv) Describe any specialized testing, if applicable, or visual assessment that you will conduct during assessment of units and provide a reference to source(s) of the protocol(s). Provide a description of protocols or include protocols in an appendix of your application.

(v) Discuss efforts to incorporate cost-effective methods to address multiple environmental health and safety hazards, and describe the specific interventions you will utilize to control housing-based hazards before children are affected; and/or to control these hazards in units where children have already been treated for illnesses or injuries associated with housing-based hazards (e.g., burns, lead poisoning, asthma). Provide an estimate of the cost of each intervention (material costs and labor costs associated with installation) and an estimate of costs projected per unit. Describe your management processes to be used to ensure the cost-effectiveness of the housing interventions.

(vi) Describe the process to be followed for referring children for medical case management and indicate organizations that will be involved in this process.

(vii) Describe your process for the development of work specifications for the selected interventions.

(viii) Discuss your process to select and obtain contractors for conducting interventions in selected units and provide details about the competitive bidding process, if applicable.

(ix) Describe your plan for the relocation of occupants of units selected for intervention, if temporary relocation is necessary. Describe criteria that will determine the need for relocation and identify staff that will make relocation decisions. Address the use of safe houses and other housing arrangements, storage of household goods, stipends, incentives, etc., and the source of funding for relocation.

(x) Describe your plan for ensuring right of return and/or first referral for occupants of units selected for intervention who have had to move for intervention to occur.

(xi) Describe how you will affirmatively further fair housing, which would include, but not be limited to: Affirmative marketing of the program to those least likely to apply based on race, color, sex, familial status, national origin, religion, disability, especially when persons in these demographic groups are generally not served by the nonprofit or faith-based applicant or partner organizations; providing materials in alternative formats for persons with disabilities; providing materials in languages other than English for individuals with limited English proficiency and their families; assuring long-term residency by families currently living in the community; and assuring that priority for treated units go to those who need the features (treatment) of the unit.

(xii) Describe the financing strategy, including eligibility requirements, terms, conditions, and amounts available, to be employed in conducting housing-based hazards activities. You must discuss the way funds will be administered (e.g., use of grants, deferred loans, forgivable loans, other resources, private sector financing, etc.) as well as the agency that will administer the process.

(xiii) Describe your proposed methods for community and/or targeted education and training. These should include community awareness, education, training, and outreach programs that support your work plan and are culturally sensitive and targeted appropriately. Provide information about specific educational/outreach activities with quantitative data (number of individuals to be reached, etc.) and a description of the intended audience. Describe proposed activities to deliver culturally appropriate educational materials and methods to the target population and communities. Describe efforts to understand and incorporate culturally sensitive approaches to assessment and interventions.

(xiv) Provide detailed information about training staff or other organizations to provide the knowledge and skills required to address Healthy Homes issues that are essential for successfully implementing your project (e.g., education, assessments and interventions). Include an outline of training curricula, a description of qualifications of trainers, and selection of individuals or groups who will receive the training. Describe how Healthy Homes training programs will be expanded to include public housing agencies or Tribally Designated Housing Entities and other potential collaborators, such as faith-based or other community-based organizations.

(xv) Describe your proposed involvement of neighborhood, or faith-based and other community-based organizations in the proposed activities. These activities may include outreach, community education, marketing, inspection, and housing evaluations and interventions.

(xvi) Describe your proposed methods to reach high-risk groups and communities, vulnerable populations and persons traditionally underserved.

(xvii) Indicate if, and describe how, you will address any of HUD's departmental policy priorities (see General Section of the SuperNOFA for a fuller explanation of HUD's policy priorities). You will receive points under Rating Factor 3 for each of the applicable FY 2004 policy priorities that are adequately addressed in your application to a maximum of five points (see the General Section of this NOFA). Policy priorities that are applicable to the Healthy Homes Demonstration NOFA are: (1) Improving our Nation's Communities (focus on distressed communities; (2) Providing Full and Equal Access to GrassRoots Faith-based or other Community-based Organizations in HUD Program Implementation); (3) Participation of Minority-Serving Institutions in HUD Programs; and (4) Removal of Regulatory Barriers to Affordable Housing. Each policy priority is worth one point, except for policy priority (4), Removal of Regulatory Barriers to Affordable Housing, which is worth up to 2 points. Applicants that include work activities that specifically address one or more applicable policy priorities will receive higher rating scores than applicants that do not address these HUD priorities, up to a maximum of 5 points

(2) Approach for Managing the Project. (12 points). Describe your project goals and objectives and the strategy you will use in managing and executing the project. You should provide information on the general approach and overall plan employed.

(a) Project Management Plan (10 points). Include a management plan that:

(i) Incorporates appropriate performance goals;

(ii) Lists the project objectives, major tasks and activities. All specific activities necessary to complete the proposed project must be included in the task listing;

(iii) Provides a schedule for the assignment, tracking and completion of major tasks and activities, and a timeframe for delivery;

(iv) Ensures that quality assurance activities and corrective actions are managed;

(v) Designates resources and identifies responsible entities (project staff/ partner organizations);

(vi) Describes the strategy and methods for coordination and communication between partners; and

(vii) Describes the management processes to manage costs and ensure that cost-effective housing interventions will be implemented.

(b) Budget Justification (2 points). Your proposed budget will be evaluated for the extent to which it is reasonable, clearly justified, and consistent with the project management plan and intended use of program funds. HUD is not required to approve or fund all proposed activities. Your detailed budget should be submitted using Form HUD-CBW. An electronic copy of this and other budgetary forms are available at: www.grants.gov. You must thoroughly document and justify all budget categories and costs (form HUD-424-CB) and all major tasks for yourself, subrecipients, partners, major subcontractors, joint venture participants, or others contributing resources to the project. Include a 2-page narrative that describes clearly and in detail your budgeted costs for each required program element (major task) included in your overall plan. (You may include this narrative along with the budget forms; it will not count toward the 25-page limit of the narrative.)

(3) Economic Opportunity (3 points). To the greatest extent feasible, your project should promote job training, employment, and other economic opportunities for low-income and minority residents and businesses which are owned by, and/or employ, low-income and minority residents as defined in 24 CFR 135.5. You should:

(a) Describe how you or your partners will comply with Section 3 of the Housing and Urban Development Act of 1968 (12 U.S.C. 1701u) and HUD's implementing rules at 24 CFR part 135. Describe how you will accomplish this requirement by:

(i) providing training and employment opportunities for low- and very low-income persons living within the grantee's jurisdiction, and by

(ii) providing business opportunities to businesses owned by low- and very low-income persons living within the targeted jurisdiction; information about Section 3 requirements is available by searching HUD's website, www.hud.gov;

(b) Describe how your proposed project will provide opportunities for self-sufficiency, particularly for persons enrolled in welfare-to-work programs, or providing educational and job training opportunities; and

(c) Describe the extent to which your proposed activities will occur in an Empowerment Zone or Enterprise Community (EZ/EC), Urban Enhanced Enterprise Community (EEC), or Renewal Community (RC) as defined in the General Section of the SuperNOFA. (You may identify the RC/EC/EZ in Rating Factor 2, Need/Extent of the Problem.)

d. Rating Factor 4: Leveraging Resources (10 Points)

This factor addresses your ability to secure other community resources (e.g., financing, supplies, or services) that can be combined with HUD's resources to achieve project purposes. These community resources may be contributions from organizations such as the applicant, partners, or other organizations not directly involved in the project.

(1) In evaluating this factor, HUD will consider the extent to which you have developed partnerships to secure additional resources to increase the effectiveness of your proposed project. Describe how other organizations will participate in or support your project. Resources may include funding or in-kind contributions (e.g., labor, fringe benefits, services, supplies, or equipment) budgeted for your proposed project. Resources may be provided by state and local governmental entities, public or private organizations, or other partners.

(2) Each source of contributions (financial or in-kind) must be supported by a letter of commitment from the contributing entity, whether the applicant, a partner organization, or a public or private source. The letter must describe the contributed resource(s) that will be used in your project and the dollar value of each contribution. Staff in-kind contributions should be given a market-based monetary value. If you fail to provide letters of commitment with specific details, including the amount of the actual contributions, you will not get rating points for this factor. Each letter of commitment, memorandum of understanding, or agreement to participate shall include the organization's name and the proposed level of commitment and responsibilities as they relate to the proposed project. The commitment must be signed by an official legally able to make commitments on behalf of the organization. Letters of support (letters that indicate support, but do not specify a monetary commitment to the project) will not be considered in the scoring of Rating Factor 4. Include information to address the following elements.

(a) The extent to which you have coordinated your activities with other known organizations that are not directly participating in your proposed work activities, but with which you share common goals and objectives.

(i) Describe your plan for integrating and coordinating housing-based hazard interventions with other housing-related activities (e.g., rehabilitation, weatherization, correction of code violations, and other similar work).

(ii) Describe your plans to generate and use public subsidies or other resources, such as revolving loan funds, to finance future interventions to prevent and control housing-based hazards, particularly in low- and very low-income housing.

(b) The extent to which your project exhibits the potential to be financially self-sustaining by decreasing dependence on federal funding and relying more on state, local and private funding to continue healthy homes activities after the grant period is completed.

Applicants are to complete the Factor 4 table, Leveraging Resources, in Appendix B to support narrative information submitted.

e. Rating Factor 5: Achieving Results and Program Evaluation (15 Points)

This rating factor reflects HUD's goal to embrace high standards of ethics, management and accountability. HUD is committed to ensuring that applicants keep promises made in their applications and assess their performance to ensure that performance goals are met. Achieving results means you, the applicant, have clearly identified the benefits or outcomes of your program. Outcomes are ultimate goals. Benchmarks or outputs are interim activities or products that lead to the ultimate achievement of your goals.

Program evaluation requires that you identify program outcomes, interim benchmarks, and performance indicators that will allow you to measure your performance. Performance indicators should be objectively quantifiable and measure actual achievements against anticipated achievements. Your Evaluation Plan should identify what you are going to measure, how you are going to measure it, and the steps you have in place to make adjustments to your work plan if performance targets are not met within established time frames.

In your response to this rating factor, you are to discuss the performance goals for your project, and identify specific outcome measures. Identify and discuss the specific methods you will use to measure progress towards your goals, track and report results of assessments and interventions, and evaluate the effectiveness of interventions; identify important project milestones (e.g., the end of specific phases in a multi-phased project) and deliverables specific to your project timeline, and identify milestones that are critical to achieving project objectives (e.g., developing questionnaires or protocols, hiring staff, recruitment of participants, and Institutional Review Board approval, if applicable); identify benchmarks such as number of units that received intervention, percent of interventions that occurred in high-risk communities, etc. that you will use to track the progress of your project.

You should also identify how your project will be held accountable for meeting project goals, objectives, and the actions undertaken in implementing the grant program. You should provide assurances that work plans and performance measures developed for your project will be achieved in a timely and cost-effective manner.

You must complete and return the Form HUD-96010, Logic Model, showing your proposed project long-term, mid-term, short-term, and final results, and how they support HUD's departmental goals and objectives. Information about developing a Logic Model is available at: www.hud.gov.

In evaluating Rating Factor 5, HUD will consider how you have described the benefits and outcome measures of your program.

B. Reviews and Selection Process

Information on the review and selection process is provided in the General Section of the SuperNOFA. The General Section also provides the procedures for correcting deficient applications.

C. Anticipated Announcement and Award Dates

The anticipated award date for this NOFA is September 30, 2004.

VI. Award Administration Information

A. Award Notices

1. Applicants Selected for Award

Successful Applicants will receive a letter from the Office of Healthy Homes and Lead Hazard Control Grant Officer. The letter will provide additional details regarding the effective start date of the grant and any additional data and information to be submitted to execute a grant agreement. This letter is not an authorization to begin work or incur costs under the grant.

HUD may require that all the grantees participate in negotiations to determine the specific terms of the grant agreement and budget. In cases where HUD cannot successfully conclude negotiations with a selected applicant or a selected applicant fails to provide HUD with requested information, an award will not be made to that applicant. In this instance, HUD may offer an award, and proceed with negotiations with the next highest-ranking applicant. If you accept the terms and conditions of the grant, you must return your signed grant agreement by the date specified during negotiation.

After receiving the letter, additional instructions on how to have the grant account entered into HUD's Line of Credit Control System (LOCCS) payment system will be provided. Other forms and program requirements will also be provided.

In accordance with OMB Circular A-133 (Audits of States, Local Governments and Non-Profit Organizations), grantees will have to submit their completed audit-reporting package along with the Data Collection Form (SF-SAC) to the Single Audit Clearinghouse. The address can be obtained from their website. The SF-SAC can be downloaded at: http://harvester.census.gov/sac/.

2. Debriefing

The General Section of the SuperNOFA provides the procedures for applicants to request a debriefing.

B. Administrative and National Policy Requirements

Refer to the General Section of the SuperNOFA for additional details regarding the Administrative and National Policy Requirements applicable to HUD Programs.

1. Environmental Requirements

Activities assisted under this program are subject to HUD environmental review to the extent required under 24 CFR part 50. An award under the Healthy Homes Initiative does not constitute approval of specific sites where activities may be carried out. Following award execution, HUD will perform environmental reviews for activities to be carried out on properties proposed by your organization. You must comply with HUD's regulations in 24 CFR 50.3(h) in carrying out responsibilities regarding environmental review. You may not rehabilitate, convert, repair or construct a property, or commit or expend program funds or non-HUD funds for these program activities for any eligible property, until you receive written notification from the appropriate HUD official that HUD has completed its environmental review and the property has been approved. The results of environmental reviews may require that proposed activities be modified or proposed sites rejected. Recipients of a grant under this NOFA will be given guidance in these responsibilities.

2. Coastal Barrier Resources Act

Pursuant to the Coastal Barrier Resources Act (16 U.S.C. 3501), funds may not be used for properties located in the Coastal Barrier Resources System.

3. Flood Disaster Protection Act

Under the Flood Disaster Protection Act of 1973 (42 U.S.C. 4001-4128), funds may not be used for construction, reconstruction, repair or improvement of a building or mobile home which is located in an area identified by the Federal Emergency Management Agency (FEMA) as having special flood hazards unless:

a. The community in which the area is situated is participating in the National Flood Insurance Program in accordance with the applicable regulations (44 CFR parts 59-79), or less than a year has passed since FEMA notification regarding these hazards; and

b. Where the community is participating in the National Flood Insurance Program, flood insurance on the property is obtained in accordance with section 102(a) of the Flood Disaster Protection Act (42 U.S.C. 4012a(a)). You are responsible for assuring that flood insurance is obtained and maintained for the appropriate amount and term.

4. National Historic Preservation Act

The National Historic Preservation Act of 1966 (16 U.S.C. 470) (NHPA) and the regulations at 36 CFR part 800 apply to the mold intervention and related hazard control activities that are undertaken pursuant to this program. HUD and the Advisory Council for Historic Preservation have developed an optional Model Agreement for use by grantees and State Historic Preservation Officers in carrying out any lead hazard control activities under this program. A Model Agreement (Prototype Programmatic Agreement) is available at the Office of Healthy Homes and Lead Hazard Control's website, linked to www.hud.gov.

5. Relocation

Any person (including individuals, partnerships, corporations, or associations) who moves from real property or moves personal property from real property directly (1) because of a written notice to acquire real property, in whole or in part, or (2) because of the acquisition of the real property, in whole or in part, for a HUD-assisted activity, is covered by federal relocation statutes and regulations. Specifically, this type of move is covered by the acquisition policies and procedures and the relocation requirements of the Uniform Relocation Assistance and Real Property Acquisition Policies Act of 1970 URA, as amended, and the implementing governmentwide regulation at 49 CFR part 24. The relocation requirements of the URA and the governmentwide regulations cover any person who moves permanently from real property or moves personal property from real property directly because of acquisition, rehabilitation or demolition for an activity undertaken with HUD assistance. See Section V (G) of the General Section of the SuperNOFA for additional information about relocation.

6. Davis-Bacon Act

The Davis-Bacon Act does not apply to this program. However, if program funds are used in conjunction with other federal programs in which Davis-Bacon prevailing wage rates apply, then Davis-Bacon provisions would apply to the extent required under the other federal programs.

C. Reporting

Successful applicants will be required to submit quarterly and final program and financial reports according the requirements of the Office of Healthy Homes and Lead Hazard Control. Specific guidance and additional details will be provided to successful applicants.

The following items are a part of OHHLHC” reporting requirements.

1. Final Work Plan and Budget are due prior to the effective start of the grant.

2. Quality Assurance Plan (QAP). Successful Healthy Homes Demonstration applicants that will be collecting housing, demographic or environmental data in a formalized manner for use in assessing accomplishments of the approaches being demonstrated under the grant will be required to submit a Quality Assurance Plan (QAP) to HUD prior to initiating work under the grant. This is a streamlined version of the format used by some other federal agencies, and is intended to help ensure the accuracy and validity of the data that you will collect under the grant. Your proposed project activities should include developing this QAP. The QAP will be submitted to HUD as a part of your work plan.

3. Progress reports are due on a quarterly basis.

4. A final report is due at the end of the grant. Specific information on all reporting requirements will be provided to successful applicants.

5. Racial and Ethnic Beneficiary Data. HUD does not require grantees to collect and report racial and ethnic beneficiary data for this program. If, however, racial and ethic data are collected and reported as part of a study funded under this program NOFA, you must use the Office of Management and Budget's Standards for the Collection of Racial and Ethnic Data as presented on Form HUD-27061, Racial and Ethnic Data Reporting Form (and instructions for its use), found on www.grants.gov.

VII. Agency Contacts

For technical or programmatic questions, you may contact by writing: Emily Williams, Acting Director; Healthy Homes Division; U.S. Department of Housing and Urban Development; Office of Healthy Homes and Lead Hazard Control; 451 Seventh Street, SW., Room P3206; Washington, DC 20410-3000; or by telephone by calling (336) 547-4002, extension 2067 (this is not a toll-free number). For administrative questions, you may contact Curtissa L. Coleman, Grants Officer, at the address above or by telephone at: (202) 755-1785, extension 119 (this is not a toll-free number). If you are hearing or speech-impaired, you may reach the above telephone numbers via TTY by calling the toll-free Federal Information Relay Service at 800-877-8339.

VIII. Other Information

1. The provisions of the HUD Reform Act of 1989 that apply to this NOFA are discussed in the General Section. Refer to the General Section of the SuperNOFA for details regarding other information on submitting a complete application that meets HUD requirements. For additional general, technical, and grant program information pertaining to the Office of Healthy Homes and Lead Hazard Control, visit: http://www.hud.gov/healthyhomes.

2. The information collection requirements contained in this document have been approved by the Office of Management and Budget (OMB) under the Paperwork Reduction Act of 1995 (44 U.S.C. 3501-3520) and assigned OMB control number 2539-0015. In accordance with the Paperwork Reduction Act, HUD may not conduct or sponsor, and a person is not required to respond to, a collection of information unless the collection displays a currently valid OMB control number. Public reporting burden for the collection of information is estimated to average 96 hours per annum per respondent for the application and grant administration. This includes the time for collecting, reviewing, and reporting the data for the application, quarterly reports, and final report. The information will be used for grantee selection and monitoring the administration of funds. Response to this request for information is required in order to receive the benefits to be derived.

3. The appendices to this NOFA follow.

Appendix A: Housing-Related Health and Injury Hazards

The following briefly describes the housing-associated health and injury hazards HUD considers key targets for intervention. More information about housing-associated health and injury hazards is available at the Healthy Homes Initiative Web site at: www.hud.gov.

Allergens and asthma: Experts estimate that 14 million Americans have asthma, with an associated annual cost of $6.2 billion. Asthma is now recognized as the leading cause of school and work absences, emergency room visits, and hospitalizations. For sensitized children, exposure to antigens from dust mites, certain pets, and cockroaches has been associated with more severe asthma. There is a preponderance of evidence showing a dose-response relationship between exposure and prevalence of asthma and allergies; some evidence also indicates that exposure to antigens early in life may predispose or hasten the onset of allergies and asthma. Dust mites have been identified as the largest trigger for asthma and allergies. Cockroach allergens appear to be excessive in 30-50 percent of inner-city housing and affect 5-15 percent of the population, whereas dust mites appear to be the dominant allergen in other environments.

Interventions known to have beneficial effects include the installation of impervious mattress and pillow covers, which can reduce allergen exposure by 90 percent. Other dust mite control measures include dehumidification, laundering bedding, and removal of carpets and other dust sinks. Cleaning carpets with tannic acid solution has also been demonstrated to greatly reduce dust mites. Asthma prevention program costs have been estimated at about $500 per unit, which includes about $150 for educational interventions. Additional information is available in HUD's research topic paper, “Healthy Homes Issues: Asthma” available at the Resources, Technical Resources link of HUD's Healthy Homes Initiative website, linked to HUD's Web site, www.hud.gov.

Asbestos: Asbestos is a mineral fiber that has been used commonly in a variety of building construction materials and household products for insulation and as a fire-retardant. The Environmental Protection Agency (EPA) and the Consumer Product Safety Commission (CPSC) have banned most asbestos products. Manufacturers have also voluntarily limited uses of asbestos. Today, asbestos is most commonly found in older homes, in pipe and furnace insulation materials, asbestos shingles, millboard, textured paints and other coating materials, and floor tiles. Elevated concentrations of airborne asbestos can occur when asbestos-containing materials (ACMs) are disturbed by cutting, sanding, or other remodeling activities. Improper attempts to remove these materials can release asbestos fibers into the air in homes, increasing asbestos levels and endangering the people living in those homes. The most dangerous asbestos fibers are too small to be visible. After they are inhaled, they can remain and accumulate in the lungs. Asbestos can cause lung cancer, mesothelioma (a cancer of the chest and abdominal linings), and asbestosis (irreversible lung scarring that can be fatal). Most people with an asbestos-related disease were exposed to elevated concentrations on the job; some developed disease from exposure to clothing and equipment brought home from job sites. As with radon, dose-response extrapolations suggest that lower level exposures, as may occur when asbestos-containing building materials deteriorate or are disturbed, may also cause cancer.

Intact asbestos-containing materials are not a hazard; they should be monitored for damage or deterioration and isolated if possible. Repair of damaged or deteriorating ACMs usually involves either sealing (encapsulation) or covering (enclosure) it. Repair is usually cheaper than removal, but it may make later removal of asbestos more difficult and costly. Only a professional who is trained and certified to handle asbestos safely should do repairs. Repairs can cost from a few hundred to a few thousand dollars and removal can be more expensive.

Combustion products of heating and cooking appliances: Burning of oil, natural gas, kerosene, and wood for heating or cooking purposes can release a variety of combustion products of health concern. Depending upon the fuel, these may include carbon monoxide (a chemical asphyxiate), oxides of nitrogen (respiratory irritants), polycyclic aromatic hydrocarbons (e.g., the carcinogen benzo[a]pyrene), and airborne particulate matter (respiratory irritants). Carbon monoxide, an odorless gas, can be fatal. Nitrogen dioxide can damage the respiratory tract, and sulfur dioxide can irritate the eyes, nose and respiratory tract. Smoke and other particulates irritate the eyes, nose and throat, and can cause lung cancer.

Improper venting and poor maintenance of heating systems and cooking appliances can dramatically increase exposure to combustion products. Experts recommend having combustion heating systems inspected by a trained professional every year to identify blocked openings to flues and chimneys, cracked or disconnected flue pipes, dirty filters, rust or cracks in heat exchangers, soot or creosote build-up, and exhaust or gas odors. Installing a carbon monoxide detector is also recommended; however, such a detector will not detect other combustion by-products.

Insect and rodent pests: The observed association between exposure to cockroach antigen and asthma severity has already been noted above. In addition, cockroaches may act as vehicles to contaminate environmental surfaces with certain pathogenic organisms. Rodents can transmit a number of communicable diseases to humans, either through bites, arthropod vectors, or exposure to aerosolized excreta. In addition, humans can become sensitized to proteins in rodent urine, dander, and saliva. Such sensitization may contribute to asthma severity among children. Insect and rodent infestation is frequently associated with substandard housing that makes it difficult to eliminate. Treatment of rodent and insect infestations often includes the use of toxic pesticides that may present hazards to occupants (see below). Integrated pest management (IPM) for rodents and cockroaches, which reduces the use of pesticides, is estimated to cost approximately $150 per unit. IPM control measures include sealing holes and cracks, removing food sources and the use of traps. In technical terms, IPM is the coordinated use of pest and environmental information with available pest control methods to prevent unacceptable levels of pest damage by the most economical means and with the least possible hazard to people, property, and the environment. (One information source is the University of Minnesota's electronic textbook of Integrated Pest Management, available at: http://ipmworld.umn.edu/textbook.htm.)

Lead: Exposure to lead, especially from deteriorating lead-based paint, remains one of the most important and best studied of the household environmental hazards to children. Although blood lead levels have fallen nationally, a large reservoir of lead remains in housing. The Centers for Disease Control and Prevention has found, for example, for children under age 6, that about 434,000 have elevated blood lead levels. Overall, the prevalence rate among all children under six years of age is 4.4 percent. Among low-income children living in older housing where lead-based paint is most prevalent, the rate climbs to 16 percent; and for African-American children living in such housing, it reaches 21 percent.

The National Survey of Lead and Allergens in Housing (2000) estimates that 38 million dwellings have some lead-based paint, and that 24 million have significant lead-based paint hazards. Of those, about 4.8 million have young children and of those, about 1.2 million have household incomes under $30,000 per year. Costs for Lead Hazard Control can range anywhere from $500 to $15,000 per unit. Corrective measures include paint stabilization, enclosure and removal of certain building components coated with lead paint, and cleanup and “clearance testing,” which ensures the unit is safe for young children.

Mold and moisture: An analysis of several pulmonary disease studies estimates that 25 percent of airways disease, and 60 percent of interstitial lung disease may be associated with moisture in the home or work environment. Moisture is a precursor to the growth of mold and other biological agents, which is also associated with respiratory symptoms. An investigation of a cluster of pulmonary hemosiderosis (PH) cases in infants showed PH was associated with a history of recent water damage to homes and with levels of the mold Stachybotrys atra (SA) in air and in cultured surface samples. Associations between exposure to SA and “sick building” symptoms in adults have also been observed. Other related toxigenic fungi have been found in association with SA-associated illness and could play a role. For sensitive individuals, exposure to a wide variety of common molds may also aggravate asthma. Addressing mold problems in housing requires coordination among the medical, public health, microbiological, housing, and building science communities. Additional information is available in HUD's research topic paper, “Healthy Homes Issues: Mold” available at the Resources, Technical Resources link of HUD's Healthy Homes Initiative Web site, linked to HUD's Web site, www.hud.gov.

The cost of mold/moisture-related intervention work (e.g., IPM, clean and tune furnace, remove debris, vent clothes dryer, cover dirt floor with impermeable vapor barrier) is a few hundred dollars, unless major modification of the ventilation system is needed. For example, in Cleveland, mold interventions, including repairs to ventilation systems and basement flooring, in the most heavily contaminated homes range from $500-$5,000, with some costs also being dedicated to lead hazard control simultaneously through its Lead+Asthma program.

Pesticide residues: According to the EPA, 75 percent of U.S. households used at least one pesticide product indoors during the past year. Products used most often are insecticides and disinfectants. Another study suggests that 80 percent of most people's exposure to pesticides occurs indoors and that measurable levels of up to a dozen pesticides have been found in the air inside homes. The amount of pesticides found in homes appears to be greater than can be explained by recent pesticide use in those households; other possible sources include contaminated soil or dust that migrates in from outside, stored pesticide containers, and household surfaces that collect and then release the pesticides. Pesticides used in and around the home include products to control insects (insecticides), termites (termiticides), rodents (rodenticides), molds and fungi (fungicides), and microbes (disinfectants). In 1990, the American Association of Poison Control Centers reported that some 79,000 children were involved in common household pesticide poisonings or exposures. In households with children under five years of age, almost half stored at least one pesticide product within the reach of children. Data are available on hazard evaluation methods and remediation effectiveness regarding pesticide residues in the home environment.

Radon progeny: The National Academy of Sciences estimates that approximately 15,000 cases of lung cancer per year are related to radon exposure. Epidemiological studies of miners exposed to high levels of radon in inhaled air have defined the dose response relation for radon-induced lung cancer at high exposure levels. Extrapolation of this data has been used to estimate the excess risk of lung cancer attributable to exposure to radon gas at the lower levels found in homes. These estimates indicate that radon gas is an important cause of lung cancer deaths in the U.S. Excessive exposures are typically related to home ventilation, structural integrity, and location.

Radon measurement and remediation methods are well developed, and the EPA recommends that every home be measured for radon. The EPA estimates that materials and labor costs for radon reduction in an existing home are $800-$2,500. Including radon resistant techniques in new home construction costs $350-$500, and can save up to $65 annually in energy costs, according to the EPA.

Take-home hazards from work/hobbies and work at home: When the clothing, hair, skin, or shoes of workers become contaminated with hazardous materials in the workplace, such contaminants may inadvertently be carried to the home environment and/or an automobile. Such “take-home” exposures have been demonstrated, for example, in homes of lead-exposed workers. In addition, certain hobbies or workplaces located in the home may provide an especially great risk of household contamination.

Control methods include storing and laundering work clothes separately, and showering and changing clothes before leaving work or immediately after arriving at home. Once a home becomes contaminated, cleaning floors and contact surfaces, and replacing furnishings may be necessary to reduce exposures.

Unintentional injuries/fire: Unintentional injury is now the leading cause of death and disability among children younger than 15 years of age. In 1997, nearly 7 million persons in the U.S. were disabled for at least one full day by unintentional injuries received at home. During the same year, 28,400 deaths were attributable to unintentional home injuries, of which 1,800 occurred among children four years of age and younger. Among young children, three types of events accounted for more than 75 percent of deaths: fires/ burns; drowning; and mechanical suffocation. Falls and poisoning are the next most common causes of death.

Home visitation protocols have been shown to be effective in reducing exposure to such hazards. The “add-on” cost of injury prevention measures, when combined with other housing interventions are estimated at about $100 per unit. This includes the cost of some injury prevention devices (e.g., smoke alarms, electrical socket covers, etc.).

BILLING CODE 4210-32-P

BILLING CODE 4210-32-C

Appendix C: Preparing Your Application

Rating Factor 1: Capacity of the Applicant and Relevant Organizational Experience

In this rating factor, you should provide details about the following:

1. The skills and experience of the staff and the applicant organization;

2. A description of the participating organization, its roles and experience;

3. The past performance of the organization (applicant or partners) in another Healthy Homes or Lead Hazard Control grant, another grant related to environmental health and safety issues, or other experience in a similar program; include the name of the project, funding organization, amount funded and desired outcomes and results achieved in these projects;

4. The percentage of time each staff person or subcontractor will devote to the project. A staffing table or roster may be helpful to address this element. You may want to use the template provided as Worksheet 1 of Appendix B;

5. Level of involvement of the applicant organization in general oversight of the project and oversight of the partnering organizations.

Rating Factor 2: Need/Extent of the Problem

In this rating factor, you should provide details about the following:

1. The location of the target area(s) and the rationale for selecting these area(s); include backup documentation;

2. The number of children at risk of environmental illnesses or injuries, and the sources of this information;

3. The age and condition of the housing to receive interventions, and the sources of this information;

4. The number of low- and very low-income families and the demographic composition of families served by race, ethnicity, disability, size of family and ages of children, number of single-parent households in the target area(s);

5. Other socio-economic or environmental factors relating to need in the target area(s);

6. The relationship of the Consolidated Plan, Indian Housing Plan or the Analysis of Impediments to Fair Housing Choice (AI) to the request for assistance.

Rating Factor 3: Soundness of Approach

In this rating factor, you should provide details about the following:

1. A project work plan that identifies tasks, deliverables, and quality assurance activities and describes how the applicant will organize and perform Healthy Homes activities;

2. A schedule of deliverables and project milestones;

3. The target population for the project and the selection criteria involved, and the relationship of the activities to “Need/Extent of the Problem” as established in Rating Factor 2;

4. The number of families or individuals to be enrolled and/or units to receive assessment and interventions;

5. The rationale for selecting hazards of concern and intervention methods;

6. The mechanism for funding assessments and interventions;

7. The costs/unit for intervention;

8. The medical case management process, if applicable;

9. The process used to develop work specifications;

10. The temporary relocation plan, if appropriate, that includes who will decide on the need for relocation and the source of funding for relocation. Indicate how you will distinguish between temporary and permanent relocation and the benefits to be provided;

11. Awareness, outreach and education activities;

12. A discussion of project evaluation, data collection, and outcome analysis;

13. The proposed budget, with justification of costs by task;

14. Actions to affirmatively further fair housing;

15. Provisions for employment and economic development opportunities for low- and very low-income individuals;

16. Mechanisms for communication between the applicant organization and partners; and

17. The coordination of activities in this project with other similar projects being performed by the applicant or partnering organizations.

Rating Factor 4: Leveraging Resources

In this rating factor, you should provide details about the following:

1. Identify participating faith-based and community-based organizations and other private sector organizations that will contribute time and resources to the project;

2. Include (in Appendix 1 of your application) letters of commitment or memoranda of understanding from organizations. These letters must provide details about resources to be contributed and a dollar amount for the contributed (in-kind or matching) resources. (Letters of support that do not provide a dollar amount of contributed funding should be included in Appendix 2 of your application.);

3. Applicants should provide a discussion of their plans to enhance or expand partnership efforts under this application;

4. Describe how the effectiveness of grant funds will be increased as a result of leveraged efforts; and

5. Describe any existing or potential Community Reinvestment Act funding mechanisms.

Rating Factor 5: Achieving Results and Program Evaluation

In this rating factor, you should provide details about the following:

1. Desired outcomes for your project;

2. Mechanisms for collecting and archiving data to develop the outcome analysis; and

3. Include a Logic Model in this Rating Factor. (Information about developing a Logic Model is available at www.hud.gov.), and in the General Section of this SuperNOFA.

A tabular summary of the Rating Factors and Bonus Points is provided below.

Rating Factor | Points
1. Capacity of the Applicant and Relevant Organizational Experience | 20
2. Need/Extent of the Problem | 15
3. Soundness of Approach | 40
4. Leveraging Resources | 10
5. Achieving Results and Program Evaluation | 15
Empowerment Zone and Enterprise Community Bonus. | 2
Total | 102

Appendix D: References

To secure any of the documents listed, call the telephone number provided. A number of these references are provided on HUD's CD, “Residential Lead Desktop Reference, 3rd Edition.” This CD can be obtained at no charge by calling the National Lead Information Clearinghouse, 800-424-LEAD. If you are a hearing-or speech-impaired person, you may reach the telephone numbers listed in this section through TTY by calling the toll-free Federal Information Relay Service at 800-877-8339.

Regulations

1. Worker Protection: The two Occupational Safety and Health Administration (OSHA) publications listed below can be purchased by calling either OSHA Regulations at 202-693-1888 or the Government Printing Office (GPO) at 202-512-1800 (these are not toll-free numbers).

(a) General Industry Lead Standard, 29 CFR 1910.1025 (Document Number 869022001124). This document can be downloaded without charge from the OSHA website at www.osha-slc.gov/OshStd_data/1910_1025.html;

(b) Lead Exposure in Construction, 29 CFR 1926.62, and appendices A, B, C, and D (Document Number 869022001141). This document can be downloaded without charge from the OSHA website at www.osha-slc.gov/OshStd_data/1926_0062.html.

2. Waste Disposal. A copy of the EPA regulations at 40 CFR parts 260-268 can be purchased by calling 1-800-424-9346 (this is a toll-free number) downloaded without charge from the EPA website at www.epa.gov/docs/epacfr40/chapt-I.info/subch-I.htm.

3. Lead.

(a) Requirements for Lead-Based Paint Activities in Target Housing and Child-Occupied Facilities; Final Rule: 40 CFR Part 745, (EPA) (Lead Hazard Standards, Work Practice Standards, EDP and State Certification and Accreditation programs for those engaged in lead-based paint activities). Can be purchased by calling the Toxic Substances Control Act Hotline at 202-554-1404 (this is not a toll-free number) or downloaded from without charge from the EPA website at www.epa.gov/lead.

Guidelines

1. Guidelines for the Evaluation and Control of Lead-Based Paint Hazards in Housing; HUD, June 1995, and amended September 1997. These guidelines can be purchased by calling 800-245-2691 toll free or downloaded without charge from the HUD website at www.hud.gov/offices/lead.

2. Preventing Lead Poisoning in Young Children; Centers for Disease Control, October 1991. These guidelines can be obtained without charge by calling the CDC's toll-free number, 888-232-6789 or they can be downloaded from the HUD website at www.hud.gov/offices/lead.

3. Screening Young Children for Lead Poisoning: Guidance for State and Local Public Health Officials, November 1997; Centers for Disease Control and Prevention (CDC). These guidelines can be obtained without charge by calling the CDC's toll-free number, 888-232-6789 or they can be downloaded from the HUD website at www.hud.gov/offices/lead.

Reports

1. Putting the Pieces Together: Controlling Lead Hazards in the Nation's Housing, (Summary and Full Report); HUD, July 1995. A copy of this summary and report may be purchased by calling 800-245-2691 toll-free or through the HUD website at www.hud.gov/offices/lead.

2. The Healthy Homes Initiative: A Preliminary Plan (Summary and Full Report); HUD, April, 1999. A copy of this summary report may be obtained by calling NLIC's toll-free number, 800-424-LEAD, or downloaded from the HUD Web site at www.hud.gov/offices/lead.

3. Institute of Medicine. Indoor Allergens. Assessing and Controlling Adverse Health Effects. National Academy Press. Washington, DC 1993.

4. Mott L., Our Children at Risk. Natural Resources Defense Council. Washington, DC 1997. Can be ordered from the Internet from: www.nrdc.org.

5. Rom W.N., Ed. Environmental and Occupational Medicine. Little, Brown and Co., Boston. 1992.

6. President's Task Force on Environmental Health Risks and Safety Risks to Children. Asthma and The Environment: An Action Plan to Protect Children. Washington, DC 1999.

7. Eliminating Childhood Lead Poisoning: A Federal Strategy Targeting Lead Paint Hazards. Washington, DC, 2000. Can be downloaded from the Internet without charge from: www.epa.gov/children.

BILLING CODE 4210-32-P

BILLING CODE 4210-32-C

Appendix F: Administrative Costs

I. Purpose

The intent of this HUD grant program is to allow the Grantee to be reimbursed for the reasonable direct and indirect costs, subject to a top limit, for overall management of the grant. In some instances the grantee, whether a state or a local government, principally serves as a conduit to pass funding to sub-grantees, which are to be responsible for the conducting healthy homes-related work. Congress set a top limit of ten percent of the total grant sum for the grantee to perform the function of overall management of the grant program, including passing on funding to sub-grantees. The cost of that function, for the purpose of this grant, is defined as the “administrative cost” of the grant, and is limited to ten percent of the total grant amount. The balance of ninety percent or more of the total grant sum is reserved for sub-grantees or other direct-performers of healthy homes demonstration work. These activities include, but are not necessarily limited to outreach, training, enrollment, home assessments and remediation and parent/child and public education.

II. Administrative Costs: What They Are Not

For the purposes of this HUD grant program for states and local governments to provide support for the evaluation and remediation of health hazards in low- and moderate-income target housing, the term “administrative costs” should not be confused with the terms “general and administrative cost,” “indirect costs,” “overhead,” and “burden rate.” These are accounting terms usually represented by a government-accepted standard percentage rate. The percentage rate allocates a fair share of an organization's costs that cannot be attributed to a particular project or department (such as the chief executive's salary or the costs of the organization's headquarters building) to all projects and operating departments (such as the Fire Department, the Police Department, the Community Development Department, the Health Department or this program). Such allocated costs are added to those projects' or departments' direct costs to determine their total costs to the organization.

III. Administrative Costs: What They Are

For the purposes of this HUD grant program, “Administrative Costs” are the grantee's allowable direct costs for the overall management of the grant program plus the allocable indirect costs. The allowable limit of such costs that can be reimbursed under this program is 10 percent of the total grant sum. Should the grantee's actual costs for overall management of the grant program exceed 10 percent of the total grant sum, those excess costs shall be paid for by the grantee. However, excess costs paid for by the grantee may be shown as part of the requirement for cost-sharing funds to support the grant.

IV. Administrative Costs: Definition

A. General

Administrative costs are the allowable, reasonable, and allocable direct and indirect costs related to the overall management of the HUD grant for Healthy Homes activities. Those costs shall be segregated in a separate cost center within the grantee's accounting system, and they are eligible costs for reimbursement as part of the grant, subject to the ten percent limit. Such administrative costs do not include any of the staff and overhead costs directly arising from specific sub-grantee program activities eligible under Section III of this NOFA because those costs are eligible for reimbursement under a separate cost center as a direct part of project activities.

The grantee may elect to serve solely as a conduit to sub-grantees, who will in turn perform the direct program activities eligible under Section III(C)(1) of this NOFA, or the grantee may elect to perform all or a part of the direct program activities in other parts of its own organization, which shall have their own segregated, cost centers for those direct program activities. In either case, not more than 10 percent of the total HUD grant sum may be devoted to administrative costs, and not less than 90 percent of the total grant sum shall be devoted to direct program activities. The grantee shall take care not to mix or attribute administrative costs to the direct project cost centers.

B. Specific

Reasonable costs for the grantee's overall grant management, coordination, monitoring, and evaluation are eligible administrative costs. Subject to the 10 percent limit, such costs include, but are not limited to, necessary expenditures for the following goods, activities and services:

(1) Salaries, wages, and related costs of the grantee's staff, the staff of affiliated agencies or organizations, or other staff engaged in grantee's overall grant management activities. In charging costs to this category the recipient may either include the entire salary, wages, and related costs allocable to the program for each person whose primary responsibilities (more than 65 percent of their time) with regard to the grant program involve direct overall grant management assignments, or the pro rata share of the salary, wages, and related costs of each person whose job includes any overall grant management assignments. The grantee may use only one of these two methods during this program. Overall grant management includes the following types of activities:

(a) Preparing grantee program budgets and schedules, and amendments thereto;

(b) Developing systems for the selection and award of funding to sub-grantees and other sub-recipients;

(c) Developing suitable agreements for use with sub-grantees and other sub-recipients to carry out grant activities;

(d) Developing systems for assuring compliance with program requirements;

(e) Monitoring sub-grantee and sub-recipient activities for progress and compliance with program requirements;

(f) Preparing presentations, reports, and other documents related to the program for submission to HUD;

(g) Evaluating program results against stated objectives;

(h) Providing local officials and citizens with information about the overall grant program; however, a more general education program, helping the public understand the nature of home environmental triggers and their health consequences is a direct project support activity);

(i) Coordinating the resolution of overall grant audit and monitoring findings; and

(j) Managing or supervising persons whose responsibilities with regard to the program include such assignments as those described in paragraphs (a) through (i).

(2) Travel costs incurred for official business in carrying out the overall grant management;

(3) Administrative services performed under third party contracts or agreements, for services directly allocable to grant management such as: legal services, accounting services, and audit services;

(4) Other costs for goods and services required for and directly related to the overall management of the grant program; and including such goods and services as telephone, postage, rental of equipment, renter's insurance for the program management space, utilities, office supplies, and rental and maintenance (but not purchase) of office space for the program.

(5) The fair and allocable share of grantee's general costs that are not directly attributable to specific projects or operating departments such as salaries, office expenses and other related costs for university or local officials (e.g., mayor and city council members, dean, president etc.), and expenses for a city or university's legal or accounting department which are not charged back to particular projects or other operating departments. If a grantee has an established burden rate, it should be used; if not, the grantee shall be assigned a negotiated provisional burden rate, subject to final audit.

BILLING CODE 4210-32-P

Operation Lead Elimination Action Program (LEAP)

Overview Information

A. Federal Agency Name: Department of Housing and Urban Development, Office of Healthy Homes and Lead Hazard Control.

B. Funding Opportunity Title: Operation Lead Elimination Action Program (LEAP)

C. Announcement Type: Initial announcement.

D. Funding Opportunity Number: FR-4900-N-14, OMB Approval number 2539-0015.

E. Catalog of Federal Domestic Assistance (CFDA) Number: 14.903, Operation Lead Elimination Action Program.

F. Dates: Application Deadline: A completed original and three copies of your application must be submitted to HUD on or before the application due date. The application due date is July 13, 2004. Please see the General Section of the SuperNOFA for application submission, delivery and timely receipt requirements.

G. Additional Overview Content Information:

1. Purpose of the Program. The purpose of the Operation Lead Elimination Action Program (LEAP) is to provide grants to private sector and nonprofit organizations to conduct activities that leverage additional funding for addressing lead hazards in privately owned housing units and eliminating lead poisoning as a major public health threat to young children.

2. Available Funds. Approximately $9 million in Fiscal Year (FY) 2004 funds.

3. Eligible Applicants. To be eligible to apply for funding under this program, the applicant must be a tax-exempt nonprofit (501(c)(3)), or other non-profit or for-profit entity or firm. For-profit institutions are not allowed to earn a fee. Colleges and universities are also eligible to apply. National and local parent groups are encouraged to apply. States and units of general local government and their departments are not eligible.

Full Text of Announcement

I. Funding Opportunity Description

A. Program Description

Operation LEAP funds are for grants to private sector and nonprofit organizations for activities that leverage additional funding for addressing lead hazards in eligible privately owned housing units and eliminating lead poisoning as a major public health threat to young children. HUD's authority for making funding available under this NOFA is the Consolidated Appropriations Act for Fiscal Year (2004). Leveraged funds must be spent exclusively on addressing lead hazards in eligible privately owned housing units for which no other funding is available. Applicants are encouraged to employ creativity and initiative in mobilizing resources expeditiously for lead hazard control prevention efforts. Based upon the responses provided to the rating factors criteria described below, grants will be awarded to those entities that submit a detailed plan and strategy that demonstrates adequate capacity to implement the program and who demonstrate the ability to generate and use private sector resources for lead hazard control prevention efforts.

LEAP funds may also be used to eliminate lead-based paint hazards in low-income privately owned housing as well as implementing other lead hazard control strategies as defined by Title X of the Housing and Community Development Act of 1992 (42 U.S.C. 4851 et seq.). However, these activities are only eligible if they are tied directly to a leveraging strategy. For example, LEAP funds could be used to fund the replacement of windows that are determined to be a lead-based paint hazard, while leveraged funds from owners could be used to do paint stabilization elsewhere in the unit (or in other units) where lead-based paint hazards are present.

II. Award Information

Funding Available: Approximately $9 million in Fiscal Year (FY) 2004 funds. The maximum award shall be $2 million per grant. HUD anticipates that approximately 5-10 grants will be awarded. The period of performance is 42 months (24 months for leveraging private sector resources followed by 18 months of activities utilizing leveraged funds for lead-related work). HUD reserves the right to approve no cost time extensions for a period not to exceed 12 months.

III. Eligibility Information

See the General Section of the SuperNOFA for additional eligibility requirements applicable to HUD Programs.

A. Eligible Applicants

To be eligible to apply for funding under this program, the applicant must be a tax-exempt nonprofit (501(c)(3)), or other non-profit or for-profit entity or firm. For-profit institutions are not allowed to earn a fee. Colleges and universities are also eligible. National and local parent groups are encouraged to apply. States and units of general local government and their departments are not eligible. Applicants who received awards under the Fiscal Year 2003 Notice of Funding Availability published in the Federal Register on April 25, 2003 cycle are eligible to apply under this NOFA.

B. Cost Sharing or Matching

There is no match requirement for this grant.

C. Other

To be eligible for funding under this NOFA, the applicant must meet all federal statutory and regulatory requirements applicable to this program including 24 CFR part 84 and applicable OMB circulars (i.e., cost principal, uniform administrative requirements, audits). In addition, you will be required to comply with all State and local statutes, regulations or other applicable requirements.

1. Threshold Requirements. As an applicant, you and any subrecipient must meet all of the threshold requirements in section III. C. of the General Section of the SuperNOFA. Applications will not be rated or ranked if they do not meet the threshold requirements.

2. Eligible Activities. Activities conducted for the purpose of developing local or regional strategies designed to leverage or mobilize resources from the private sector. These activities may include, but are not necessarily limited to:

a. Providing technical lead safety training to workers or supervisors regarding lead safe work practices;

b. Conducting outreach and related activities that are directly tied to a leveraging strategy, and that will result in increased lead hazard control activities in low-income privately owned or owner occupied housing with lead-based paint hazards.

c. Lead hazard control activities tied directly to a leveraging strategy and conducted in low- and very low-income eligible privately-owned rental and occupied housing units, including:

(1) Performing dust, paint or soil testing, hazard screens, inspections, and risk assessments of eligible housing constructed before 1978 to determine the presence of lead-based paint and/or lead hazards from paint, dust, or soil;

(2) Conducting lead hazard control, which may include interim control of lead-based paint hazards in housing (which may include specialized cleaning techniques to address lead dust); or abatement of lead-based paint hazards, including soil and dust, by means of removal, enclosure, encapsulation, or replacement methods. Unless there are only a few surfaces coated with lead paint, complete abatement of all lead-based paint or lead-contaminated soil is not usually acceptable as a cost-effective strategy unless justification is provided and subsequently approved by HUD. Abatement of lead-contaminated soil should be limited to areas with bare soil in the immediate vicinity of the structure, i.e., drip line or foundation of the structure being treated, and children's play areas. All hazard control activities must comply with 24 CFR part 35, subpart R, the HUD Guidelines for the Evaluation and Control of Lead-Based Paint Hazards in Housing and all applicable Federal, State, and local regulations; in the case of a conflict between any of the above, the more stringent shall apply;

(3) Carrying out temporary relocation of families and individuals during the period in which lead hazard control is conducted and until the time the affected unit receives clearance for re-occupancy;

(4) Performing blood lead testing and air sampling to protect the health of the hazard control workers, supervisors, and contractors; and

(5) Undertaking minimal housing rehabilitation activities that are specifically required to carry out effective hazard control, and without which the hazard control could not be completed and maintained. Operation LEAP grant funds may be used for lead hazard control work done in conjunction with other housing rehabilitation programs. HUD strongly encourages integration of this grant program with housing rehabilitation, weatherization, and other energy conservation activities.

(6) Conducting clearance dust-wipe testing and associated laboratory analysis.

(7) Purchasing or leasing no more than two (2) X-ray fluorescence analyzers for use by the Program, if not already available.

d. Eligible costs that include providing all necessary administrative and indirect support, including rent, equipment, materials, travel expenses and logistics, and subcontractor/consultant costs necessary to carryout grant activities.

3. Program Requirements. In general, applicants conducting lead hazard control activities must ensure that work is conducted in compliance with the applicable requirements of HUD's Lead-Safe Housing Regulation, 24 CFR Part 35, and as clarified in HUD's Interpretive Guidance about the rule located at http://www.hud.gov/offices/lead/guidelines/leadsaferule/index.cfm.

a. Eligible Housing Units. LEAP funds may be used to support lead hazard control work in eligible low- and very low-income privately owned rental and occupied housing units. Refer to section IV. E of this NOFA for a list (Eligibility of HUD Assisted Housing) of the HUD-associated housing programs that meet the definition of eligible housing under this program.

b. Continued Availability of Lead-Safe Housing to Low-Income Families. Units in which lead hazards have been controlled under this program shall be occupied by and/or continue to be available to low-income families for at least three years as required by Title X (section 1011). The grantee must also notify the owner of the information that is collected so that the owner will comply with disclosure requirements under 24 CFR part 35, subpart A.

c. Testing. For applicants conducting lead hazard control activities, all testing and sampling shall conform to the current HUD Guidelines and Federal, State, or tribal regulations developed as part of the appropriate contractor certification program whichever is more stringent. Testing must be conducted according to the HUD Guidelines, located at http://www.hud.gov/offices/lead/guidelines/hudguidelines/index.cfm, and the EPA lead hazard standards rule at 40 CFR part 745. All test results must be provided to the owner in a timely fashion, together with a notice describing the owner's legal duty to disclose the results to tenants and buyers under 24 CFR part 35, subpart A. All units undergoing lead hazard control must have clearance testing performed.

(1) Lead-Based Paint and Lead-Based Paint Hazard Identification. For applicants conducting lead hazard control activities, an inspection or risk assessment is required. You should ensure that lead paint inspection and risk assessment reports are conducted in accordance with established protocols and sufficient to support hazard control decisions.

(2) Clearance Testing. For applicants conducting lead hazard control activities, clearance testing shall be completed in accordance with Chapter 15 of the HUD Guidelines and the EPA lead hazards standards rule at 40 CFR part 745 for abatement projects and the Lead-Safe Housing Regulation (24 CFR part 35) for lead hazard control activities or other abatement. The clearance standards shall be the more restrictive of those set by the local jurisdiction or by EPA or HUD.

(3) Blood Lead Testing: Before lead hazard control work begins, HUD recommends that each occupant who is under six years of age be tested for lead poisoning prior to proceeding with the housing intervention. Any child with an elevated blood lead level should be referred for appropriate medical follow-up. The standards for such testing are described in the Centers for Disease Control and Prevention (CDC) publications Preventing Lead Poisoning in Young Children (1991), and Screening Young Children for Lead Poisoning: Guidance for State and Local Public Health Officials (1997).

d. Written Policies and Procedures. For applicants conducting lead hazard control activities, you must have clearly established written policies and procedures for eligibility, program marketing, unit selection, expediting work on homes occupied by children with elevated blood lead levels, and all phases of lead hazard control, including risk assessment, inspection, development of specifications, pre-hazard control blood lead testing, financing, relocation, and clearance testing. Grantees, subcontractors, sub-grantees, sub-recipients, and their contractors must adhere to these policies and procedures.

e. Prohibited Practices. For applicants conducting lead hazard control activities, you must not engage in the following prohibited practices:

(1) Open flame burning or torching;

(2) Machine sanding or grinding without a high-efficiency particulate air (HEPA) exhaust control;

(3) Uncontained hydro blasting or high-pressure wash;

(4) Abrasive blasting or sandblasting without HEPA exhaust control;

(5) Heat guns operating above 1,100 degrees Fahrenheit;

(6) Chemical paint strippers containing methylene chloride or other volatile hazardous chemicals in a poorly ventilated space; and

(7) Dry scraping or dry sanding, except scraping in conjunction with heat guns or around electrical outlets or when treating no more than two square feet in any one interior room or space, or totaling no more than 20 square feet on exterior surfaces.

f. Research. In conformance with the Common Rule (Federal Policy for the Protection of Human Subjects, codified by HUD at 24 CFR part 60), for applicants conducting blood lead testing as part of a research effort, your organization must provide an assurance (e.g., a letter signed by an appropriate official) that the research has been reviewed and approved by an Institutional Review Board (IRB) before you can receive funds from HUD for activities that require IRB approval. Before receiving such funds, you must also provide the number for your organization's assurance (i.e., an “institutional assurance”) that has been approved by the Department of Health and Human Service's Office of Human Research Protections (OHRP). For additional information on what constitutes human subject research or how to obtain an institutional assurance see the OHRP Web site at http://ohrp.osophs.dhhs.gov/.

g. Conducting Business in Accordance with HUD Core Values and Ethical Standards. Refer to the General Section of the SuperNOFA for information about conducting business in accordance with HUD's core values and ethical standards.

4. DUNS Requirement. Refer to the General Section of the SuperNOFA for information regarding the DUNS requirement. You will need to obtain a DUNS number to receive an award from HUD.

5. Eligibility of HUD-Assisted Housing. The chart “Eligibility of HUD-Assisted Housing” below lists the “eligible” housing units that may participate under LEAP when lead hazard control is tied directly to a leveraging strategy.

BILLING CODE 4210-32-P

BILLING CODE 4210-32-C

IV. Application and Submission Information

A. Addresses To Request Application Package

1. Application Submission. See the General Section of the SuperNOFA for specific procedures concerning the form of application submission (e.g., mailed applications, express mail or overnight delivery). Be advised that there is no Application Kit for the Operation Lead Elimination Action Program. All the information required to submit an application is contained in this Notice of Funding Availability (NOFA).

a. Guidebook and Further Information. You may request general information, copies of the General Section and Program Sections of the SuperNOFA from the SuperNOFA Information Center (800-HUD-8929 or 800-HUD-2209 (TTY)) between the hours of 9 a.m. and 8 p.m. (eastern time) Monday through Friday, except on Federal holidays. When requesting information, please refer to the name of the program you are interested in. Be sure to provide your name, address (including zip code), and telephone number (including area code). To ensure sufficient time to prepare your application, requests for copies of the SuperNOFA or this NOFA can be made immediately following publication of the SuperNOFA. The SuperNOFA Information Center opens for business simultaneously with the publication of HUD's 2004 NOFAs. You can obtain information on this SuperNOFA and download application information for this SuperNOFA through the Web site http://www.grants.gov.

B. Content and Form of Application Submission

1. Application Submission Requirements for the Operation Lead Elimination Action Program (LEAP). Applicants under this category of the NOFA are to follow the submission requirements described below.

a. Application Information.

(1) Application Format. The application narrative response to the Rating Factors are limited to a maximum of 15 pages. Your response must be typewritten on one side only on 8½ × 11 inch paper, using a standard 12-point font, with not less than “ inch margins on all sides. Appendices should be referenced and discussed in the narrative response. Materials provided in the appendices should directly apply to the rating factor narrative.

(2) Application Checklist (voluntary). Your application must contain all of the required information noted in this Program Section and the General Section of the SuperNOFA. These items include the standard forms, certifications, and assurances listed in the General Section of this SuperNOFA that are applicable to this funding (collectively referred to as the “standard forms”). The standard forms can be found in the General Section of the SuperNOFA. The “Checklist and Submission Table of Contents” below includes a listing of the required items needed for submitting a complete application and receiving consideration for funding. You are to assemble the application in the order shown in the Checklist and Submission Table of Contents and note the corresponding page number where the response is located. Inclusion of this Checklist and Submission Table of Contents with your proposal is recommended but not required.

BILLING CODE 4210-32-P

BILLING CODE 4210-32-C

The following are the items to be included in an application:

(a) Transmittal Letter. A transmittal letter that identifies the applicant(s) submitting the application, the dollar amount requested, what the program funds are requested for, and the nature of involvement with community-based organizations. Also include the name, mailing address, telephone number, and principal contact person of the applicant. If you have consortium associates, sub-grantees, partners, major subcontractors, joint venture participants, or others contributing resources to your project, you must provide similar information for each of these partners;

(b) Checklist and Submission Table of Contents (voluntary)

(c) Abstract Summary. Provide an abstract summary describing the goals and objectives of the proposed program (two-page maximum); including—

(i) The total amount of the federal request and the amount of the matching contribution for the entire period of performance;

(ii) The specific activities that will be conducted;

(iii) The organization(s) that will participate in the program; and

(iv) Your prior activities, experience and achievements in related work.

(d) Forms. All standard forms as required by the General Section of the SuperNOFA and program Form HUD-96009 (Work Plan Development Worksheet With Minimum Benchmark Performance Standards).

(e) Budget. A total budget summary (total budget is the federal share and leveraged contribution) with supporting narrative and cost justifications for all budget categories of your grant request. A maximum of ten percent of the federal share can be for administrative costs.

An itemized breakout (using the HUD Form-424CBW) of leveraged contributions that are directly received by the project or subrecipients should be documented including:

(i) Values placed on donated in-kind services;

(ii) Letters or other evidence of commitment from donors; and

(iii) The amounts and sources of contributed resources; and

(f) Partners. Contracts, Memoranda of Understanding or Agreement, letters of commitment or other documentation must describe the proposed roles of agencies, local broad-based task forces, participating faith-based or other community- or neighborhood-based groups or organizations, local businesses, and others working with the program. For-profit entities and/or firms must clearly demonstrate and document how activities, including the lead-based paint hazard identification and control measures to be undertaken by the applicant will be coordinated with local organizations, state(s) or units of general local government to carry out lead hazard control and other program activities.

Other leveraged resources not received directly by the project and subrecipients but used to support program activities should be included in the narrative response to Rating Factor 3, but not on HUD Form 424-CBW. Applicants should describe their methodology for tracking leveraged resources not directly received by the project or subrecipients. c. Rating Factor Responses—Proposed Activities. All applications must, at a minimum, describe the proposed activities in the narrative responses to the rating factors. Your narrative statement must be numbered in accordance with each factor for award (Rating Factors 1 through 4).

C. Submission Dates and Times

1. Application Due Date. The application due date is July 13, 2004. Refer to the General Section of the SuperNOFA for additional submission requirements including acceptable submission methods, acceptable proof of delivery and other information to assist the applicant.

D. Intergovernmental Review

Not applicable.

E. Funding Restrictions

1. Ineligible Activities. You may not use grant funds for any of the following:

a. Purchase of real property;

b. Chelation or other medical treatment costs related to children with elevated blood lead levels; and

c. Lead hazard abatement activities in public housing, or project-based Section 8 housing.

F. Other Submission Requirements

Refer to the General Section of the SuperNOFA for other application submission requirements.

1. Addresses and Number of Copies. The applicant, must submit an original and three copies of a complete application to: HUD Headquarters, Robert C. Weaver Federal Building, 451 Seventh Street, SW., Room P3206, Washington, DC 20410; Attn: LEAP.

V. Application Review Information

A. Criteria

The factors for award used to evaluate and rate applications include:

• Rating Factor 1: Organizational Capacity.

• Rating Factor 2: Approach.

• Rating Factor 3: Leveraging Resources.

• Rating Factor 4: Achieving Results and Program Evaluation.

Applicants are encouraged to employ creativity and initiative in mobilizing resources expeditiously for lead hazard control prevention efforts. Based upon the responses provided to the rating factors described below, grants will be awarded to those entities who submit a detailed strategy that demonstrates adequate capacity to carry out the proposed use of funds and who demonstrate the ability to generate and use private sector resources for lead hazard control prevention efforts. The factors for rating and ranking applicants, and maximum points for each factor, are delineated below. The maximum number of points to be awarded is 100.

1. Rating Factor 1: Organizational Capacity (30 points)

This factor addresses the applicant's organizational capacity to successfully implement the proposed activities in a timely manner.

a. Staff Experience (20 points). Describe the knowledge and experience of the staff responsible for the following functions: Executive Direction; Finance, Marketing; and Program Coordination. The applicant must have sufficient qualified personnel or be able to quickly retain qualified experts or professionals in financial/grant management, marketing, and/or lead-based paint programs that will allow you to immediately begin your proposed work program and to perform your proposed activities within the 42-month period of performance.

The applicant's narrative should include information about your organizational and staff capacity in raising and/or leveraging funds, and in successfully garnering private sector support recently (e.g., within the past five years). Include a discussion of staff knowledge and expertise in raising and/or leveraging funds, possessing the prerequisite organizational skills, and lead poisoning prevention activities.

The discussion on capacity should include the depth, experience, the commitment of time to the program, salary information, and position titles of the program staff.

Resumes or detailed job announcements for the above key positions must be included as an appendix to your application. Indicate the percentage of time key personnel will devote to the proposed project. An applicant may demonstrate capacity by thoroughly describing prior experience in this type of activity and/or how the applicant will develop the necessary capacity to carryout proposed activities.

b. Grants Management (4 points). Describe the agency's or organization's ability to manage grants and leveraged program funds and activities.

c. Partner Expertise (4 points). Describe project participants/partners knowledge and experience regarding lead poisoning as a public health threat to children, and/or lead-based paint issues and hazard control. Use of staff with more recent, relevant, and demonstrated successful experience will result in a higher rating.

d. Removal of Barriers to Affordable Housing (2 points). A new applicant will be awarded up to two points under Rating Factor 1 for activities that remove barriers to affordable housing within their communities, support state and local efforts to streamline processes and procedures, eliminate redundant requirements, statutes, regulations, and codes which impede the availability of affordable housing. This priority relates to HUD's Strategic Goals for Increasing Homeownership Opportunities and Promoting Decent Affordable Housing.

2. Rating Factor 2: Approach (40 points)

This factor addresses the approach and strategy that the applicant intends to follow in meeting the goals and objectives of the program. This strategy should address the following:

a. Selection Process for Partner Organization (5 points). Describe the selection process for those organizations that are to conduct or coordinate work activities for lead hazard control, outreach, evaluation, etc and discuss how you intend to involve faith-based or other community-based organizations in your proposed activities.

b. Strategy and Approach (35 points). (1) Leveraging Strategy. Describe the proposed strategy for leveraging private sector resources including:

(a) Target audiences/constituencies;

(b) Use of contractors/subgrantees/partners and their method of selection;

(c) Methods of outreach/promotion;

(d) Types of leveraging to be employed;

(e) Proposed use and distribution of funds/resources leveraged;

(f) Overall project management and coordination; and

(g) Proposed schedule of activities within the 42-month period of performance.

(2) Work Plan Strategy. The work plan strategy narrative shall include:

(a) The management plan that describes how the project will be managed, and the timeline for staffing the program. Applicants should develop a work plan that includes specific, measurable and time-phased objectives for each major program activity. The applicant's work plan should reflect the benchmark standards with quarterly milestones for proposed program activities and expenditures, and that will provide HUD with measurable outcome results to be achieved with the requested funds. Measurable outcome results should be stated in terms relevant to the purpose of the program funds as a direct result of the work performed within the performance period of the grant.

(b) A detailed description of how assistance and funding will flow from the grantee to the actual performers of the work;

(c) The selection process for sub-grantees, sub-contractors and/or sub-recipients (if any);

(d) The evaluation process used to measure program performance;

(e) The overall objectives for activities. Quarterly performance milestones are to be developed to achieve the overall objectives for these activities;

(f) Performance benchmarks have been developed. The benchmarks referred to in this NOFA can also be found on the HUD Web site at: http://www.hud.gov/offices/lead/grantfrm/hudgrantee.cfm. Development of your work plan should include and reflect these benchmark standards.

(g) A successful applicant's award is contingent upon budget negotiation and approval of a work plan.

(3) Strategies/Approaches. The applicant is encouraged to employ creativity and initiative in achieving the objectives of the program. Some examples of possible strategies/approaches include the following:

(a) Enlisting the support and resource commitment of financial institutions, foundations, private industry, the general public, property owners, and others to make residential housing lead-safe and eliminate lead poisoning as a public health threat to children;

(b) Soliciting the support of national building materials providers, building component manufacturers, and housing-related national retail outlets to donate money and/or materials to lead hazard control programs in housing and health departments, landlords and owner-occupants to eliminate lead-based paint hazards in privately owned low-income dwellings: For example, a window, wallboard, or paint manufacturer/retailer could donate or coordinate the donation and distribution of windows or paint to lead-based paint and/or rehabilitation projects throughout the country. This strategy could also include the distribution of discount coupons for purchases of paint or other materials from national supplies;

(c) Forming partnerships with banks or other mortgage or financial institutions willing to provide no or low-interest home improvement loans to finance lead hazard control activities and abatement measures among low-income recipients who would not otherwise be served. By participating, banks could fulfill a major element of their responsibilities under the Community Reinvestment Act;

(d) Forming partnerships to facilitate the coordination and distribution of donated building materials, such as windows, trim molding, or paint, etc., to local projects involved in lead hazard control programs;

(e) Identifying and facilitating the availability and use of temporary relocation facilities for families who need to move out of their dwellings while lead hazard control work is being undertaken. For example, hotel chains, colleges, and other lead-safe sites could be contacted to make housing available for the temporary relocation of families during lead hazard control;

(f) Working with landlords, tenant groups and others to form consortia or otherwise engage landlords and owner-occupants to enroll their eligible housing units in local lead hazard control or rehabilitation programs. The applicant should obtain commitments from landlords to provide matching resources for work to be done on their units. For example, the lead hazard control program could offer landlords grant funds for replacement windows if the landlords contribute the cost of additional repairs (such as basic system upgrades, or other rehabilitation work including painting and maintenance) that is associated with lead hazard control. To encourage such commitments, efforts should be made to educate landlords about the primary benefits (effect on children's health) and supplementary benefits that can result from lead hazard reduction work such as improving an apartment's physical condition and marketability;

(g) Expanding dust testing and clearance testing, especially in high-risk communities;

(h) Promoting homebuilder, remodeler, or contractor associations to coordinate efforts to reduce lead hazards by contributing technical assistance, training, presentations and materials and/or labor to lead hazard control efforts;.

(i) Encouraging landscaping firms, nurseries, and landscape architects to contribute lead-safe soil, mulch, and other forms of vegetation cover and shrubbery designed to mitigate lead contamination of soil around the exterior/perimeter and play areas of affected housing units;

(j) Working with health, housing, and community development organizations or other entities to conduct lead poisoning prevention activities, including efforts to plan and/or facilitate or participate in strategic planning to eliminate lead poisoning as a public health threat to young children by 2010.

(k) Working with grassroots faith-based or other community-based organizations that are committed to improving the quality of life of young children in high risk housing; and

(l) Providing training for significant numbers of trades people to implement lead-safe work practices, such as window replacement and weatherization work.

3. Rating Factor 3: Leveraging Resources (20 points)

This factor addresses the applicant's ability to obtain and use private sector resources or leverage private sector activities that can be combined with HUD and other program resources to achieve program objectives. Private funds/resources do not include any public sector funds, e.g., funds provided by states and units of general local government including Community Development Block Grant (CDBG)/Home Investment Partnership (HOME) funds. Applicants are encouraged to use such funds as part of this program but these funds are not considered under this rating factor. Describe the types of public or private sector commitments, if any, currently available to devote to Operation LEAP grant program activities, and the anticipated future amounts to be generated. Based upon the estimated amount of funding anticipated for leveraging over the life of the award, identify the general geographic locations of the units that will be treated by this increased funding or leveraged resources. Also provide an estimate of the number of eligible housing units that can be expected to be treated and the number of low- and very low-income families that will benefit under LEAP. Generated resources may include cash or in-kind contributions of personnel, services, equipment, or supplies. In evaluating this factor, HUD will consider the extent to which the applicant has established working partnerships, memoranda of understanding, and/or firm agreements with other identified entities for the commitment of additional resources. Resources may be provided by any private source, including contributions of investor-owners. However, the donations of resources, goods, and services considered as leveraged resources should be based on market values and documented. Applicants that do not have such partnerships at the time of application will be required to establish partnerships immediately following notification of grant award. Only contributions that have a stated monetary value with supporting documentation from the contributing organization/entity authorized to make such commitment will be counted as leveraged funds. Firmly established commitments will be rated more highly than applications with commitments that have not yet been established. The most advantageous agreements will be those not solely dependent on LEAP funding, including those that create long-term commitments for leveraged funds beyond the period of the LEAP grant. Therefore it is preferable that LEAP funds act as “seed” funds so any future funding streams can be used to stimulate additional leveraging agreements and not simply support prior agreements. In evaluating this factor, HUD will examine the extent to which agreements provide for sustained contributions from non-public sources and allow for non-LEAP funds to support such leveraging in the future. Applicants that have targeted specific high-risk neighborhoods or geographic locations for leveraging/fundraising and abatement/control activities will receive a higher number of rating points. Describe what the organization has done in the recent past (e.g., within the past five years) that gives evidence of its ability and experience to leverage substantial private sector resources. Describe specific activities, the amount of funds or resources leveraged, and what the leveraged funds will be used to support. If an applicant has experience in generating funds or resources for purposes similar to addressing lead paint abatement or control measures, the applicant should describe those activities and the results achieved.

4. Rating Factor 4: Achieving Results and Program Evaluation (10 Points)

This factor emphasizes HUD's commitment to ensuring that applicants achieve the goals outlined in their work plan and other benchmark standards and assess their performance to ensure performance goals are met. Achieving results means you, the applicant, have clearly identified the benefits, or outcomes of your program. Outcomes are ultimate goals. Benchmarks or outputs are interim activities or products that lead to the ultimate achievement of your goals. Program evaluation requires that you, the applicant, identify program outcomes, interim products or benchmarks, and performance indicators that will allow you to measure your performance. Performance indicators should be objectively quantifiable and measure actual achievements against anticipated achievements. Your Evaluation Plan should identify what you are going to measure, how you are going measure it and the steps you have in place to make adjustments to your work plan if performance targets are not met within established timeframes. Applicants are required to complete the HUD Logic Form to supplement the narrative response to this rating factor.

a. An applicant is to identify and describe specific methods, measures, and tools that you will use (in addition to HUD reporting requirements) to measure progress, evaluate program effectiveness, and identify program changes necessary to improve performance. Describe how you will obtain, document and report the information. In evaluating this factor, HUD will consider how you have described outcome measures and benefits of your program including:

b. Ability to generate substantial private sector resources. The main objective of Operation LEAP is to leverage private sector resources to eliminate lead poisoning as a major public health threat to young children. The key terms here are “leverage private sector resources.” HUD is looking for those applicants that demonstrate the most realistic and successful fund raising and/or leveraging skills to mobilize substantial private sector resources for addressing lead hazards in housing.

c. Ability to demonstrate or develop a national and/or regional (multi-state) strategy for leveraging resources from the private sector is essential. Those resources should be realistic and achievable and made part of the work plan and benchmark activities of this proposal. The proposed budget should demonstrate how these leveraged funds will be used to address lead hazards in housing and make residential housing lead-safe and eliminate lead poisoning as a public health threat to children.

d. Results of any specific plans and objectives established to implement and/or maintain a registry (listing) of lead-safe housing that is available to the public, or to incorporate the inclusion of the lead-safe status of properties in another publicly accessible address-based property information system. Results could include how the information would be managed and affirmatively marketed to the public so that families (particularly low-income families with children under six years of age) can make informed decisions regarding their housing options. Applicants that demonstrate partnerships with national or regionally recognized material suppliers, e.g., sheet rock/drywall manufacturers or retailers, paint manufacturers or distributors, window manufacturers or distributors, etc., will receive stronger consideration.

e. The extent to which affirmatively furthering fair housing for all segments of the population is advanced by the proposed activities. Detail how the proposed work plan will support the community's efforts to affirmatively further affordable housing and discuss the impact of prior activities that have contributed to enhanced lead-safe housing opportunities.

f. How your program will be held accountable for meeting program goals, objectives, and the actions undertaken in implementing the grant program. Applicants should provide a description of the mechanism to assess progress and track performance in meeting the goals and objectives outlined in the work plan. Applicants should provide assurances that work plans and performance measures developed for the program will assist intended beneficiaries, and that work will be conducted in a timely and cost-effective manner.

B. Reviews and Selection Process

1. HUD's Strategic Goals

Refer to the General Section of the SuperNOFA for information on HUD's strategic goals.

2. Rating and Ranking

Please refer to the General Section of the SuperNOFA for details. Only those applications that meet the threshold review requirements will be rated and ranked according to their response to the Rating Factor Criteria included in this NOFA. The maximum number of points to be awarded is 100. A minimum score of 75 is required for fundable applications.

Rating factor | Maximum points
Rating Factor 1: Organizational Capacity | 30
Rating Factor 2: Approach | 40
Rating Factor 3: Leveraging Resources | 20
Rating Factor 4: Achieving Results and Program Evaluation | 10
Total | 100

VI. Award Administration Information

A. Award Notices

1. Successful applicants will receive a letter from the Office of Healthy Homes and Lead Hazard Control Grant Officer indicating that they have been selected for an award. This letter will provide additional details regarding the effective start date of the grant and any additional data and information to be submitted to execute a grant agreement. This letter is not an authorization to begin work or incur costs under the grant. A fully executed grant agreement is the authorizing document. Unsuccessful applicants will also be notified that their application was not selected for an award and will be afforded an opportunity to request a debriefing on the unsuccessful application according to the procedures outlined in the SuperNOFA.

2. Negotiation. Refer to the General Section of the SuperNOFA for additional details.

3. Adjustments to Funding. Refer to the General Section of the SuperNOFA for additional details.

4. Performance and Compliance Actions of Funding Recipients. HUD will measure and address the performance and compliance actions of funding recipients in accordance with the applicable standards and sanctions of their respective programs.

B. Administrative and National Policy Requirements

1. Environmental Requirements: Certain activities assisted under this program may be subject to HUD environmental review to the extent required under 24 CFR part 50. An award under the Lead Elimination Action Program (LEAP) does not constitute approval of specific sites where activities that are subject to environmental review may be carried out. Following grant award execution, HUD will be responsible for ensuring that any necessary environmental reviews are completed. You may not rehabilitate, convert, or repair property, or commit or expend grant funds or HUD-leveraged funds for any eligible property until you receive written notification from the appropriate HUD official that completed its environmental review and the property has been approved. The results of the environmental reviews may require that proposed activities be modified or proposed sites rejected. For assistance, contact Karen Choi, the Office of Healthy Homes and Lead Hazard Control Environmental Officer at (213) 894-8000, extension 3015 (this is not a toll-free number) or the HUD Environmental Review Officer in the HUD field office serving your area. If you are a hearing- or speech-impaired person, you may reach the telephone number via TTY by calling the toll-free Federal Information Relay Service at 800-877-8339. Recipients of a grant under this funded program will be given additional guidance in these responsibilities.

2. HUD Reform Act. Applicants must comply with the requirements for funding competitions established by the HUD Reform Act of 1989 (42 U.S.C. 3531 et seq.) as defined in the General Section of the SuperNOFA.

3. Other Requirements. Please review the General Section of the SuperNOFA for information on Statutory and Regulatory Requirements, Affirmatively Furthering Fair Housing, Economic Opportunities for Low- and Very Low-Income Persons (Section 3), ensuring the Participation of Small Businesses, Small Disadvantaged Businesses, and Woman-Owned Businesses, OMB Circulars and Governmentwide Regulations Applicable to Financial Assistance Programs, Conflicts of Interest, Prohibition Against Lobbying Activities, Accessible Technology, Improving Access to Services for Persons with Limited English Proficiency, Compliance with Fair Housing and Civil Rights Laws, and Executive Orders pertaining to this NOFA.

a. Participation in HUD-Sponsored Program Evaluation. As a condition of the receipt of financial assistance under this NOFA all successful applicants will be required to cooperate with all HUD staff or contractors performing HUD funded research and evaluation studies.

C. Reporting

Successful applicants will be required to submit quarterly, annual, and final program and financial reports according to the requirements of the Office of Healthy Homes and Lead Hazard Control. Specific guidance and additional details will be provided to successful applicants.

VII. Agency Contact(s)

1. For Further Information and Technical Assistance: You may contact Linda J. Ciancio, Acting Director, Program Management and Assurance Division, Office of Healthy Homes and Lead Hazard Control; 451 7th Street, SW., Washington, DC 20410. Or by telephone, fax, or email: telephone (202) 755-1785, extension 112 (this is not a toll-free number); if you are a hearing- or speech-impaired person, you may reach the above telephone number via TTY by calling the toll-free Federal Information Relay Service at 800-877-8339; fax: (202) 755-1000; or e-mail: Linda_J._Ciancio@hud.gov.

VIII. Other Information

Refer to the General Section of the SuperNOFA for details regarding other information on submitting application that meets HUD requirements.

A. Paperwork Reduction Act

The information collection requirements contained in this document have been approved by the Office of Management and Budget (OMB) under the Paperwork Reduction Act of 1995 (44 U.S.C. 3501-3520) and assigned OMB control number 2539-0015. In accordance with the Paperwork Reduction Act, HUD may not conduct or sponsor, and a person is not required to respond to, a collection of information unless the collection displays a currently valid OMB control number. Public reporting burden for the collection of information is estimated to average 80 hours per application and 16 hours per grant award. This includes the time for collecting, reviewing, and reporting the data. The information will be used for grantee selection & monitoring the administration of funds. Response to this request for information is required in order to receive the benefits to be derived.

B. Other Office of Healthy Homes and Lead Hazard Control Information

For additional general, technical, and grant program information pertaining to the Office of Healthy Homes and Lead Hazard Control, visit: http://www.hud.gov/offices/lead.

BILLING CODE 4210-32-P

Brownfields Economic Development Initiative (BEDI)

Overview Information

A. Federal Agency Name: Department of Housing and Urban Development, Office of Community Planning and Development.

B. Funding Opportunity Title: Brownfields Economic Development Initiative.

C. Announcement Type: Initial announcement.

D. Funding Opportunity Number: The Federal Register number is FR-4900-N-07. The OMB approval number is 2506-0153.

E. Catalog of Federal Domestic Assistance (CFDA) Number(s): Brownfields Economic Development Initiative (BEDI), 14.246.

F. Dates: The application due date is July 15, 2004.

G. Optional, Additional Overview Content Information:

BEDI funds are used to enhance the security of a loan guaranteed by HUD under section 108 of the Housing and Community Development Act of 1974, as amended, for the same brownfields economic development project, or to improve the viability of a brownfields economic development project financed with the section 108-guaranteed loan, in order to stimulate economic development by local governments and private sector parties at brownfields sites and to return those sites to productive, economic reuse. All BEDI grants must be used in conjunction with a new section 108-guaranteed loan commitment.

HUD encourages brownfields economic development projects that propose the redevelopment of a brownfields site through new investments by identified private sector parties and that will directly result in new business or job creation, increases in the local tax base or other near-term, measurable economic benefits.

Those interested in applying for funding under this program should review carefully the General Section of the SuperNOFA and the following additional information.

Full Text of Announcement

I. Funding Opportunity Description

A. Authority

BEDI is authorized pursuant to section 108(q), Title I, Housing and Community Development Act of 1974, as amended, (42 U.S.C. 5301); 24 CFR part 570.

B. Program Description

BEDI is designed to help local governments redevelop brownfields, defined in this NOFA as abandoned, idled, or underutilized real property, including industrial and commercial facilities, where expansion or redevelopment is complicated by the presence or potential presence of environmental contamination. A BEDI grant award will be conditioned upon, and must be used in conjunction with, a new (i.e., not previously approved) section 108-guaranteed loan commitment. Both section 108 loan guarantee proceeds and BEDI grant funds are initially made available by HUD to units of general local government eligible for assistance under HUD's Community Development Block Grant (CDBG) program (specifically, the Entitlement and State programs and for certain jurisdictions in the state of Hawaii, the Small Cities program). A local government may re-loan the section 108 loan proceeds and provide BEDI funds to a business or other public entity eligible to carry out a specific approved brownfields economic development project, or the public entity may carry out the eligible project itself, as provided in the approved application. In either case, BEDI grant funds and the 108 proceeds must be used to support the same eligible BEDI project.

Under this program, communities (and states, as applicable) pledge their continuing CDBG allocations as security for the section 108 loans guaranteed by HUD. BEDI grant funds are intended to reduce grantees' potential loss of future CDBG allocations by:

1. Strengthening the economic feasibility of a project financed with section 108 funds (and thereby increasing the probability that the project will generate enough cash to repay the guaranteed loan);

2. Directly enhancing the security of the section 108-guaranteed loan; or

3. Employing a combination of these or other risk mitigation techniques. BEDI funds are to be used as the stimulus for local governments and private sector parties to commence redevelopment or continue phased redevelopment efforts of brownfields sites where contamination is present or potentially present and a redevelopment plan exists. HUD desires to see BEDI and section 108 funds used to finance projects and activities that involve investment in the brownfields site by an identified private sector party and that will provide near-term results and measurable economic benefits, such as job creation and increases in the local tax base.

C. Program Definitions

Unless otherwise defined herein, terms defined in this NOFA shall have the same respective meanings as provided for in 24 CFR part 570.

Act means Title I, Housing and Community Development Act of 1974 (42 U.S.C. 5301 et seq.).

Application means a single set of documents, including a request for Section 108 loan guarantee assistance, submitted by an eligible applicant for BEDI grant funds, in accordance with the provisions of this NOFA to finance a brownfields economic development project. Section IV.B.1(e) of this NOFA provides additional information on the nature and forms of section 108 loan guarantee requests that must accompany each BEDI application.

Brownfields means abandoned, idled, or under-used real property (including industrial and commercial facilities) where expansion or redevelopment is complicated by the presence or potential presence of contamination.

Brownfields Economic Development Initiative (BEDI) funds means the appropriated funds made available for the competition under this NOFA from any available appropriation.

Brownfields Economic Development Initiative (BEDI) project or brownfields economic development project means an activity or activities (including mixed use projects with housing components) that are eligible under section 108(q) of the Act and under 24 CFR 570.703, and that will increase economic opportunity for persons of low- and moderate-income, stimulate or retain businesses or jobs, or otherwise lead to near-term, measurable economic benefits in connection with brownfields redevelopment.

CDBG funds means those funds collectively so defined at 24 CFR 570.3, including grant funds received pursuant to section 108(q) and this NOFA.

Economic Development Initiative (EDI) grant means the provision of economic development grant assistance under Section 108(q) of the Act, as authorized by section 232 of the Multifamily Housing Property Disposition Reform Act of 1994 (Pub. L. 103-233, approved April 11, 1994).

EPA means the U.S. Environmental Protection Agency.

Firm Commitment means either a written agreement or letter of understanding by which an applicant or a third party:

(1) Agrees to perform an activity or provide resources as specified in the application, and demonstrates their relationship to the proposed BEDI/Section 108 project;

(2) Specifies the dollar value of the commitment and demonstrates that it has the financial and organizational capacity to deliver the resources necessary to successfully complete the activity; and

(3) Irrevocably commits the resources to the activity either through cash or in-kind services or contributions; if any portion is to be financed through a grant or loan from another public or private organization, that institution's grant or loan commitment must be firmly committed as well.

Any such agreement or letter of understanding shall be understood as being contingent upon receipt of the BEDI grant. Funds expended prior to the submission of the BEDI application will not be considered as firmly committed funds for purposes of this NOFA.

Additional information related to firm commitments of other resources is provided in Section V.A.1 of this NOFA, Rating Factor 4 (Leveraging of Other Financial Resources).

Showcase Community means an applicant chosen by the federal government's Brownfields National Partnership for inclusion in the federal government's Brownfields Showcase Communities program. A list of the federally designated Brownfield Showcase Communities is provided in Appendix B in Section VIII of this NOFA and is also available from the SuperNOFA Information Center or through the HUD Web site, http://www.hud.gov.

Strategic Plan means a strategy or course of action developed and agreed to by the nominating local government(s) and state(s) and submitted in partial fulfillment of the application requirements for an Empowerment Zone, Enterprise Community, or a Renewal Community, designated pursuant to 24 CFR parts 597, 598 or 599.

D. Program Background

HUD has multiple programs that are intended to stimulate economic and community development and promote economic revitalization of distressed areas, and which can be effectively employed to address and remedy brownfields conditions. Primary among HUD's resources are the Community Development Block Grant (CDBG) program and the section 108 loan guarantee program.

1. CDBG. The CDBG program provides grant funds by formula to local governments (either directly or through states) to carry out community and economic development activities ($4.338 billion appropriated in FY2004). The section 108 loan guarantee program provides CDBG-eligible communities with a source of financing for economic development, public facilities, and other eligible large-scale physical development projects. HUD is authorized pursuant to section 108 to guarantee notes issued by CDBG entitlement communities and non-entitlement units of general local government eligible to receive funds under the CDBG States' program, as well as certain non-entitlement units of general local government in the state of Hawaii funded under 24 CFR part 570, subpart F. The section 108 program is subject to the regulations applicable to the CDBG program at 24 CFR part 570 as described in 24 CFR part 570, subpart M. BEDI grants must support section 108 loan guarantees as generally described in this NOFA.

2. Section 108 Loan Guarantees. For FY2004, the loan guarantee authority for the section 108 program is estimated at $510,337,000 including $236,960,000 in loan guarantee authority that will continue be to available in FY2004 under the FY2003 appropriation and $273,377,000 in loan guarantee authority for FY2004. The full faith and credit of the United States is pledged to the payment of all guarantees made under section 108. Under this program, communities (and states, as applicable) are required to pledge their continuing CDBG allocations as security for loans guaranteed by HUD. The section 108 program, however, does not require CDBG funds to be escrowed for loan repayment (unless such an arrangement is specifically negotiated as loan security and included in the applicable “Contract for Loan Guarantee Assistance”). This means that a community can ordinarily continue to spend its existing allocation for other CDBG purposes, unless needed for loan repayment.

3. Additional Security for Section 108 Loan Guarantees. Applicants should be aware of the need to provide additional security for the section 108 loan guarantee pursuant to 24 CFR 570.705(b)(3). Although a public entity is required by the Act to pledge its current and future CDBG allocations as security for the section 108 loan guarantee, it will usually be required to furnish additional collateral. In most cases, the additional collateral consists (in whole or in part) of the asset financed with the section 108 loan funds (e.g., a loan made to a business as part of an economic development project and the related mortgage from the business). Applications proposing uses for BEDI funding that directly enhance the value of the assets securing the section 108 loan will help ensure that the project-based asset(s) will satisfy the additional collateral requirements.

4. Integration of Other Government Economic Development and Brownfields Programs. HUD encourages local governments which are assisted by (a) other Federal or State economic development programs, (b) other Federal brownfields programs (e.g., the federal Brownfields Showcase Community program, EPA's Assessment, Revolving Loan Fund Cleanup or Grant programs), or (c) State-supported brownfields programs, to integrate efforts arising from those programs in developing projects for assistance under HUD's BEDI and section 108 programs. Applicants should elaborate upon these ties in their response to the rating factors, where appropriate in section V.A.1 of this NOFA (e.g., “Capacity of the Applicant,” “Soundness of Approach,” or “Leveraging Resources”—Rating Factors 1, 3, and 4 respectively.)

II. Award Information

A. Available Funds

HUD has available approximately, $25,352,500 for grant awards under this

BEDI NOFA. This amount consists of $24,725,130 in appropriations under the “Brownfields Redevelopment” heading in the Consolidated Appropriations Act, 2004 (Pub. L. 108-199, approved January 23, 2004, referred to as the FY2004 Appropriations Act); $127,370 of unobligated appropriated funds from the FY2003 HUD Appropriations Act (Pub. L. 108-7, approved February 20, 2003) under the “Brownfields Redevelopment” heading; and $500,000 of unobligated appropriated funds from the FY2001 HUD Appropriations Act (Pub. L. 106-377, approved October 27, 2000) under the “Brownfields” Redevelopment heading. All such funds are authorized by section 108(q) of the Act (as described above). If any additional funds become available for the BEDI program during FY2004, including through the deobligation and recapture of previous BEDI awards, HUD may either fund additional applicants in accordance with this NOFA, or may add these funds to funds available for future competitions pursuant to section 108(q) of the Act.

B. Maximum Award

The maximum amount of a BEDI award under this competition is $2 million per project. An application in excess of $2 million will be reduced to the extent HUD determines that such a reduction is appropriate and the project remains feasible.

C. Limitations on Grant Amounts

1. HUD expects to approve BEDI grant amounts for approvable applications with a range of ratios of BEDI grant funds awarded to new section 108 loan guarantee commitments for the same project, but the minimum ratio must be $1.00 of section 108 loan guarantee commitments for every $1.00 of BEDI grant funds in order to receive consideration for funding. Section V.A.1, Rating Factor 4 (Leveraging of Resources), provides additional information on the required ratio of BEDI to section 108 funds.

2. After selection, but prior to grant award, if HUD determines that an application can be funded at a lesser BEDI grant amount than requested and still be feasible and consistent with the proposed plan and the purposes of the Act, it reserves the right to reduce the amount of the BEDI award and/or increase the required section 108 loan guarantee commitment.

3. In the event a BEDI grant is awarded and has been reduced below the original request (e.g., the application contained some activities that were ineligible, exceeded the $2 million cap, or there were insufficient funds to fund the last competitive application at the full amount requested), the applicant will be required to modify the project plans and application to conform to the terms of HUD approval before HUD will execute a grant agreement.

4. HUD also may proportionately reduce or deobligate the BEDI award if a grantee does not submit an approvable section 108 loan guarantee application, issue section 108-guaranteed obligations and receive loan guarantee proceeds on a timely basis (including any extension authorized by HUD) in the amount required by the BEDI/108 leveraging ratio, which will be approved by HUD as a special condition of the BEDI grant award (see section IV.B.1(e)(2) of this NOFA).

5. In the case of a requested increase in guarantee assistance for a project with a previously approved section 108 loan guarantee commitment (as further discussed in section IV.B.1(e)(4) below), the BEDI assistance approved will be based only on the additional amount of section 108 loan guarantee assistance requested.

III. Eligibility Information

A. Eligible Applicants

Any public entity eligible to apply for section 108 loan guarantee assistance in accordance with 24 CFR 570.702 may apply for BEDI grant assistance under section 108(q). Eligible applicants are CDBG entitlement units of general local government and non-entitlement units of general local government eligible to receive loan guarantees under 24 CFR part 570, subpart M. Urban Counties, as defined at 24 CFR 570.3 and 570.307, are eligible applicants for BEDI funds; units of general local government that participate in an Urban County program are not independently eligible applicants. For non-entitlement applicants other than those subject to 24 CFR part 570, subpart F (which applies only to the state of Hawaii), applicants are required to provide evidence in the BEDI application from an authorized official of the state agency responsible for administering the State CDBG program stating that it supports the related section 108 loan with a pledge of its CDBG allocations pursuant to the requirements of 24 CFR 570.705(b)(2). Such evidence must be provided by form HUD-40122, titled “Section 108 Loan Guarantee: State Certifications Related to Nonentitlement Public Entities” included in section VIII of this NOFA, or which may be obtained by downloading from the Internet at http://www.grants.gov. Note that effective January 25, 1995, non-entitlement public entities in the state of Hawaii are authorized to apply to HUD for section 108 loans (see 59 FR 47510, December 27, 1994). Thus non-entitlement public entities in all 50 states and Puerto Rico are eligible to participate in the section 108 and BEDI programs, with assistance of the state's or commonwealth's pledge of CDBG allocations.

For application submission requirements, see section IV.B of this NOFA regarding mandatory submission requirements. See also section III.C of this NOFA regarding eligible and ineligible uses of grant funding.

B. Cost Sharing or Matching

As described further in section V.A.1 of this NOFA, under Rating Factor 4 (Leveraging of Resources), applications which evidence a greater level of other funds firmly committed to the BEDI project will receive more points under Rating Factor 4, to the extent consistent with the points available under Rating Factor 4. In addition, a BEDI grant is required to be used with at least an equal amount of section 108 loan guarantee proceeds for the same brownfields economic development project.

C. Other

1. Eligible Activities and National Objectives

a. BEDI grant funds and section 108 loan guarantee funds may be used for activities listed at 24 CFR 570.703, provided such activities are carried out as part of a BEDI project as described in this NOFA and meet the CDBG requirements at 24 CFR 570.200. Applicants are required to submit applications that seek funding for BEDI projects that will contribute to the redevelopment and revitalization of brownfields. Applications that fail to meet the threshold requirements found in section III.C.2 of the General Section of the SuperNOFA and the program requirements of this NOFA will not be rated, ranked, or otherwise considered by HUD.

b. Each activity assisted with section 108 loan guarantee or BEDI funds must meet a national objective of the CDBG program as described in 24 CFR 570.208. All applicants must clearly identify in their narrative statement (as described in section IV.B.1(c) of this NOFA) the CDBG national objective to be achieved by the proposed project and provide the appropriate CDBG national objective regulatory citation found at 24 CFR 570.208. Applicants must also address, when applicable, how the proposed activities will comply with the public benefit standards of the CDBG program as reflected in the regulation at 24 CFR 570.209.

c. A grantee's aggregate use of its CDBG funds, including any section 108 loan guarantee proceeds and section 108(q) (BEDI) funds provided pursuant to this NOFA, must comply with the CDBG primary objective requirements as described in section 101(c) of the Act and 24 CFR 570.200(a)(3) for entitlement grantees, or 570.484 in the case of a recipient under a State's program, requiring that, over the period of time specified in the applicant's CDBG certification, not less than 70 percent of the aggregate expenditures of CDBG funds be expended for activities benefiting low- and moderate-income persons under the criteria of 24 CFR 570.208(a) or 570.208(d)(5) or (6).

d. The following examples are offered only to illustrate some of the ways in which BEDI funds may be used to support section 108-guaranteed loans:

(1) Land Writedowns. Local governments may use a combination of section 108 and BEDI funds to acquire a brownfields site for purposes of reconveying the site to a private developer at a discount from its purchase price. This approach would provide the developer with an asset of enhanced value that could be used as collateral for other sources of funding and those other sources of financing could then be used to finance environmental remediation or other development costs. In such a circumstance, the level of BEDI assistance could approximate the difference between the original cost of the site and its remediation in comparison to the market value of the remediated property.

(2) Funding Reserves. The cash flow generated by an economic development project may be expected to be relatively “thin” in the early stages of the project, i.e., potentially insufficient to meet operating expenses and debt service obligations. The BEDI grant could be used by the grantee to either establish a debt service reserve held by a bank in a security account for the benefit of the grantee and HUD to cover interest on the section 108 loan, or as a grant to a business for working capital. In either case, the BEDI funds enhance the economic feasibility of the project.

(3) Provision of Financing to For-Profit Businesses at a Below Market Interest Rate. While the rates on loans guaranteed under section 108 are only slightly above the rates on comparable U.S. Treasury obligations, they may nonetheless be higher than can be afforded by businesses, non-profit groups or public entities in severely economically distressed neighborhoods. The BEDI grant can be used to make section 108 financing affordable by serving to “buy down” the interest rate up front, or make full or partial interest payments on the section 108 loan. This might increase the financial viability of the businesses or other entities in the early start-up period, which might not otherwise be possible with section 108 alone. This strategy would be particularly useful where a community was undertaking a large commercial or retail project in a brownfields area in order to act as a catalyst for other development in the area.

(4) Site Remediation Costs. Local governments may use BEDI funds in any of several ways to address site remediation costs. If the local government proposes to use section 108 funds to acquire real property, BEDI funds could be used to address assessment and site remediation costs as part of eligible demolition, clearance, or site preparation activities. If the local government uses section 108 funds to make a loan to a developer, BEDI funds could be granted or loaned to the developer for the purpose of addressing remediation costs as part of an economic development activity.

(5) Combination of Techniques. A combination of the above could be employed to implement a BEDI project successfully. BEDI is governed by Federal regulations applicable to the CDBG program and the section 108 Loan Guarantee program and this NOFA contains many specific references to those regulations. The full text of the CDBG and section 108 Loan Guarantee regulations can be accessed through the HUD Web site at www.hud.gov/offices/cpd/communitydevelopment/rulesandregs/regulations.

2. Ineligible Activities

Certain restrictions shall apply to the use of BEDI and section 108 funds, including those ineligible activities listed at 24 CFR 570.207 and those provided for in this NOFA:

a. BEDI grant funds must not be used as a resource immediately to repay the principal of a loan guaranteed under section 108. Repayment of principal is only permissible with BEDI grant funds as a matter of security if other sources projected for repayment of the principal prove to be unavailable.

b. Section 108 loan obligations may not be subordinated, directly or indirectly, to federally tax exempt obligations. Pursuant to Office of Management and Budget (OMB) Circular A-129 (Rev.) Appendix A, sections II.2.c. and d., (Policies for Federal Credit Programs and Non-Tax Receivables), section 108-guaranteed loan funds may not directly or indirectly support federally tax-exempt obligations.

c. BEDI grant funds shall not be used in any manner by grantees to provide public or private sector entities with funding to remediate conditions caused by their own actions, where the public entity (or other known prospective beneficiary of the proposed BEDI grant) has been determined responsible for causation and remediation by order of a court or a Federal, State, or local regulatory agency, or is responsible for the remediation as part of a settlement approved by such a court or agency. Applicants will be required in the BEDI Narrative Statement described in section IV.B.1(c) of this NOFA to indicate that the proposed BEDI project will not be used to provide assistance as prohibited herein.

d. Applicants may not propose projects on sites which are: (i) Listed or proposed to be listed on EPA's National Priority List (NPL); (ii) subject to unilateral administrative orders, court orders, administrative consent orders or judicial consent decrees issued or entered into by parties under the Comprehensive Environmental Response, Compensation, and Liability Act of 1980, as amended (CERCLA); or (iii) subject to the jurisdiction, custody, or control of the United States Government. Applicants will be required in the BEDI Narrative Statement described above in section IV.B.1(c) of this NOFA to indicate that the proposed BEDI project will not be undertaken at an ineligible site as provided herein.

e. BEDI grant assistance cannot be used to leverage a section 108 loan guarantee approved prior to the date of HUD's announcement of a BEDI grant pursuant to this SuperNOFA, unless the applicant requests to deobligate previously approved commitment authority as provided in section IV.B.1(e)(5) of this NOFA. In no event, however, may a previously approved section 108 commitment to be used with a prior BEDI or EDI award be subject to such deobligation. In an instance where a pending application for section 108 assistance is to be leveraged by the proposed BEDI grant, the BEDI grant may be awarded before HUD approval of the section 108 commitment if HUD determines that such award will further the purposes of the Act.

f. A BEDI award will not be made if the section 108 request contained in the application (see section IV.B1(e) of this NOFA) calls for the use of the section 108-guaranteed obligation solely as security for other financing on the project.

3. Threshold Requirements

a. Applicants for BEDI grant funds must comply with the statutory, regulatory, threshold, and public policy requirements listed in the General Section of the SuperNOFA, except as otherwise specifically provided in this NOFA. In particular, applicants should carefully review those provisions that could result in the failure to receive funding, including the DUNS Number Requirement at section II.C.2(b) of the General Section of the SuperNOFA, provisions relating to Delinquent Federal Debts (Section II.C.2(e)), and the Name Check Review (section II.C.2(g)).

b. The maximum number of points to be awarded under this NOFA is 104. To be eligible for funding, a BEDI application must obtain a total score of at least 75 points. All applications meeting threshold requirements and BEDI program requirements will be rated under the selection criteria provided in section V.A.1 below.

4. Program Requirements

a. BEDI Funding Request. A single BEDI application must contain a request for funds for a single BEDI/108 project. An applicant may submit an additional application for each additional unrelated BEDI/108 project, but in no event will HUD rate and rank more than one BEDI project per application.

b. Related Section 108 Loan Guarantee Request. Each BEDI application must be accompanied by a request for new section 108 loan guarantee assistance as described in section IV.B.1(e) of this NOFA. The request for section 108 Loan Guarantee assistance must provide for a minimum ratio of $1.00 of requested section 108 loan guarantee commitments for every $1.00 of BEDI grant funds requested, or a higher ratio, as needed for the project.

c. CDBG National Objectives and Eligible Activities. Each BEDI application must include citations to the specific regulatory subsections supporting eligibility of activities and compliance with National Objectives (see section III.C.1 of this NOFA).

d. Nonentitlement Applications. Applications submitted by nonentitlement public entities must provide for the state or commonwealth's certification agreeing to pledge its CDBG allocations to receive funding consideration, as evidenced by form HUD-40122, available in section VIII of this NOFA.

e. Narrative Response to Rating Factors. Each BEDI application must provide narrative statements in response to each of the rating factors below in section V.A.1 of this NOFA.

f. Time Frame for Submission of Section 108 Applications. All applications for Section 108 Loan Guarantee Assistance required for approved BEDI projects must be submitted within 60 days of written notice of BEDI selection, as provided for in section IV.B.1(e)(2) of this NOFA.

g. HUD Environmental Requirements. Beginning with the submission of a BEDI application through and after HUD's award of BEDI grant funds, pursuant to 24 CFR 570.604, each project or activity assisted under this program is subject to the provisions of 24 CFR part 58. This includes limitations on the commitment of HUD and non-HUD funds by the BEDI grantee and section 108 public entity, as well as other participants in the development process, prior to the completion of environmental review, notification, and release of funds. No such assistance will be released by HUD until a request for release of funds is submitted and the requirements of 24 CFR part 58 have been met. All public entities, including non-entitlement public entities, shall submit the request for release of funds and related certification, required pursuant to 24 CFR part 58, to the appropriate HUD field office for each project to be assisted.

h. Compliance with Environmental and Other Laws. An award of BEDI funding does not, in any way, relieve the applicant or third party users of BEDI funds from compliance with all applicable Federal, State, and local laws and regulations, particularly those addressing the environment. Applicants are further advised that HUD may require evidence that any project involving remediation has been or will be carried out in accordance with applicable law, including voluntary clean up programs.

i. CDBG Program Regulations. In addition to 24 CFR 570.701 (Definitions), 570.702 (Eligible applicants), and 570.703 (Eligible activities), the CDBG regulatory requirements cited in 24 CFR 570.707, including subparts J (Grant Administration), K (Other Program Requirements), and O (Performance Reviews), also govern the use of BEDI funds, as applicable.

j. Obligation to Affirmatively Further Fair Housing. All BEDI grantees are obliged to affirmatively further fair housing, even when the proposed activities do not appear to be directly related to housing. Therefore, applicants that propose to use BEDI funds must include in their applications an explanation of how they propose to further fair housing opportunities for persons on the basis of race, color, national origin, sex, religion, familial status, or disability. Applicants should respond to this requirement in section V.A.1, of this NOFA, under Rating Factor 3, subfactor (1)(c). Affirmative activities include, but are not limited to: initial and periodic assessments of the extent to which affordable and accessible housing opportunities are provided or denied to persons by race, color, national origin, sex, religion, familial status, or disability; outreach to persons in underserved population groups or advocacy organizations representing such persons; affirmative fair marketing of job or housing opportunities; furthering housing choice; addressing environmental justice concerns; or ensuring that employment, housing and other benefits of the BEDI grant are made available to those individuals and families living at or near the brownfields site prior to its redevelopment.

k. Policy Priorities. Applicants are reminded of the Department's Policy Priorities for FY2004 found in section V.B.2 General Section of the SuperNOFA, several of which apply to this NOFA, as described in section V.A.1 below, under Rating Factor 5 (Achieving Results and Program Evaluation).

IV. Application and Submission Information

A. Addresses to Request Application Package

1. For All Applicants. All information and forms necessary to complete and submit a valid application are contained in the General Section and this NOFA, and the appendices to the General Section and this NOFA. Copies of the NOFA and forms are also available on the Internet through the Web site http://www.grants.gov.

2. Further Information. Applicants may request general information and copies of the General Section and Program NOFAs of the SuperNOFA from the SuperNOFA Information Center (800-HUD-8929 or 800-HUD-2209 (TTY)) between the hours of 9 a.m. and 8 p.m. (eastern time) Monday through Friday, except on federal holidays. When requesting information, please refer to the name of the program that is of interest. Those requesting information should be sure to provide their name, address (including zip code), and telephone number (including area code). To ensure sufficient time to prepare an application, requests for copies of this SuperNOFA can be made immediately following publication of the SuperNOFA. The SuperNOFA Information Center opens for business simultaneously with the publication of the SuperNOFA. Application and other information on the SuperNOFA can also be obtained and downloaded through the Web site www.grants.gov.

3. Satellite Broadcasts. HUD will hold informational broadcasts via satellite for potential applicants to learn more about the BEDI program and the preparation of BEDI application(s). For more information about the date and time of the broadcast, consult the Web site http://www.hud.gov.

B. Content and Form of Application Submission

1. Content of Application

A complete application for a BEDI grant under this NOFA must contain the following items listed below to be complete. The standard forms, certifications, and assurances, which are required for the BEDI application (and listed in section IV.B.2 below) can be found in the General Section of the SuperNOFA. The remaining application items that are forms (i.e., excluding such items as narratives or letters, etc.), referred to as the “non-standard forms”, can be found in section VIII of this NOFA.

a. Transmittal Letter signed by the authorized representative of the eligible applicant indicating that it is submitting the application for funding under the Brownfields Economic Development Initiative Program and is requesting funding consideration for a BEDI project.

b. Checklist and Submission Table of Contents indicating the page numbers where the submission items can be found in the application (form HUD-40076-A EDI/BEDI).

c. BEDI Narrative Statement (not to exceed three double-spaced, 8½ × 11 inch pages, with one inch margins, combined) describing BEDI-funded eligible activities within the proposed project and indicating that funding will not be used for a prohibited purpose and that the proposed site for the project as described in paragraph (3) below, is not ineligible under the BEDI program. The BEDI narrative statement should:

(1) Describe the activities that will be carried out with the BEDI grant funds, and explain the nature and extent of the brownfields problem(s) actually or potentially affecting the site and/or structure(s) already on the site;

(2) Describe how the proposed uses of BEDI funds will qualify as eligible activities under 24 CFR 570.703 and meet the National Objectives under 24 CFR 570.208 of the CDBG program. In describing how the proposed uses will meet the National Objectives of the CDBG program and the activity eligibility requirements of the section 108 program, applications must also include citations to the specific regulatory subsections supporting eligibility of activities and compliance with National Objectives. (See Section III.C.1 of this NOFA) and;

(3) Indicate that:

(a) the proposed assistance will not be used to provide funding to parties to remediate conditions caused by their own actions for which they have been determined to be legally responsible, as specified in section III.C.2(c) of this NOFA; and

(b) that the proposed brownfields site is not ineligible as provided in Section III.C.2(d) of this NOFA.

d. EDI/BEDI/Section 108 Funding Eligibility Statement. A completed EDI/BEDI section 108 Funding Eligibility Statement (form HUD-40076-E EDI/BEDI).

e. Request for Loan Guarantee Assistance. A request for loan guarantee assistance under Section 108, as further described below. Full application requirements for the section 108 program are found at 24 CFR 570.704. Nonentitlement applicants must accompany this request with the State Certifications Related to Nonentitlement Public Entities (form HUD-40122) in order to be considered for BEDI funding.

The request for loan guarantee assistance may take any of the five forms defined in paragraphs (1), (2), (3), (4) or (5) below. Notwithstanding the form of the request for new section 108 loan guarantee assistance, the applicant must include citations to the specific regulatory subsection supporting activity eligibility and National Objectives compliance for the section 108 funds described in the application. (See section III.C.1 of this NOFA.) Both the BEDI and section 108 funds must be used in conjunction with the same BEDI project. The request for new section 108 guarantee assistance may be presented through a:

(1) Concurrent Application. A complete application for new section 108 loan guarantee(s), including the documents listed at 24 CFR 570.704(b). Any full application must also be submitted to the appropriate HUD field office concurrently with its submission to Headquarters. As described further in section V.A.1, in Rating Factor 3 (Soundness of Approach), two points will be awarded for the submission of a full section 108 loan guarantee application with a BEDI application.

(2) Subsequent Application. A brief description (not to exceed three pages) of the project to be applied for in a subsequent new section 108 loan guarantee application(s). Such a 108 application(s) shall be submitted within 60 days of written notice of BEDI selection, with HUD reserving the right to extend such period on a case-by-case basis where HUD determines there is evidence of good cause. BEDI awards will be conditioned on approval of actual section 108 loan commitments and loan guarantee proceeds in a specific ratio of BEDI funds to section 108 funds as approved by HUD in the BEDI award. The description provided in the BEDI application must be sufficient to support the basic eligibility of the proposed project and activities for section 108 assistance. (See section III.C.1 of this NOFA.)

(3) Pending, Unapproved Application. A copy of a pending, unapproved section 108 loan guarantee application, and any proposed amendments to the section 108 application which are related to the BEDI application. The applicant's submission of such a BEDI/section 108 application shall be deemed by HUD to constitute a request to suspend separate processing of the section 108 application. The section 108 application will not be approved until on or after the date of the related BEDI award.

(4) Increase to a Project Assisted Under a Previously Approved Application. A request for section 108 loan guarantee assistance (analogous to section IV.B.1(e)(1) or (2) above of this section) that proposes to increase the amount of section 108 assistance for a project assisted under a previously approved section 108 application. However, any amount of section 108 loan guarantee authority approved before HUD's announcement of a BEDI grant for the same project is not eligible to be used in conjunction with a BEDI grant under this NOFA.

(5) Deobligation of Previously Approved section 108 Authority. A request to deobligate a previous commitment of section 108 loan guarantee authority to the applicant that is no longer to be used by the applicant (except for an amount required as a condition of a previously approved BEDI or EDI award), combined with a new request or application for section 108 loan guarantee assistance. Such request or application may either be a full application as provided for in paragraph (1) above or a request for 108 assistance submitted within 60 days as provided for in paragraph (2) above.

(6) In no event may a section 108 loan guarantee amount that is required to be used in conjunction with a previously approved BEDI or EDI grant award as of the date of the submission of the application, whether or not the section 108 loan guarantee has been approved as of the date of this SuperNOFA, be used in conjunction with a new BEDI award under this SuperNOFA. For example, if a public entity has a previously approved section 108 loan guarantee commitment of $12 million, even if none of the funds have been utilized, or if the public entity had previously been awarded a BEDI grant of $1 million and had agreed to submit a section 108 loan application for $10 million in support of that BEDI grant, the public entity's application under this NOFA must propose to increase the amount of its total section 108 loan guarantee commitments beyond those amounts to which it has previously agreed. (i.e., the $12 million or $10 million section 108 loan guarantee commitments in this example).

f. Narrative Responses to Factors for Award (not to exceed 15 double-spaced, 8½ × 11 inch pages, with one inch margins, combined):

(1) Rating Factor 1: Capacity and Relevant Organizational Experience. Provide a narrative indicating the capacity of the applicant's organization and staff and any known third parties to perform the work for which it is requesting funding.

(2) Rating Factor 2: Need Statement Identifying the level of Distress/Extent of the Problem. Provide a narrative statement including any documentation supporting the statement of need, accompanied by a completed form HUD-40076-B EDI/BEDI.

(3) Rating Factor 3: Soundness of Approach. Include the activities, budget and time frame for conducting activities and providing project benefits in the narrative response, accompanied by Form HUD-40076-C EDI/BEDI.

(4) Rating Factor 4: Leveraging Resources. The response must include a completed copy of Form HUD-40076-D EDI/BEDI, “Rating Factor 4: Leveraging Resources—Sources and Uses Statement,” accompanied by any letters of firm commitment as defined in Section I.C of this NOFA.

(5) Rating Factor 5: Achieving Results and Program Evaluation: Provide a narrative response to this factor, accompanied by the logic model provided in the General Section of the SuperNOFA (form HUD-96010).

2. Forms, Certifications, and Assurances

a. In addition to any forms that have been submitted in response to Section IV.B.1 above (which may be found in Section VIII of this NOFA), the following forms and certifications must also be submitted in accordance with the General Section of the SuperNOFA and may be found in the General Section of the SuperNOFA:

(1) Application for Federal Assistance (SF-424);

(2) Applicant Assurances and Certifications (HUD-424-B);

(3) Applicant/Recipient Disclosure/Update Report, HUD-2880; and, if applicable,

(4) Certification of Consistency With EZ/EC Strategic Plan, HUD-2990.

If an applicant wishes to receive an acknowledgment of HUD's receipt of its application it should submit a completed Acknowledgment of Receipt of Application form (HUD-2993).

BILLING CODE 4210-32-P

BILLING CODE 4210-32-C

In addition, within 30 days after the due date for this NOFA applicants are invited, on a voluntary basis, to submit duplicate applications via the use of http://www.grants.gov. For FY2004 BEDI applications, use of http://www.grants.gov/apply is strictly voluntary and intended to help HUD test the system to ensure that future applications can be received at HUD without problems and also to help applicants become familiar with the use of the system. It is HUD's intent to move to electronic submissions in FY2005 and beyond. Applicants can help HUD in its planning by voluntarily submitting applications electronically within 30 days after the submission of paper copies of the application by the due date and time per the mailing instructions in this NOFA and the General Section of the SuperNOFA.

C. Submission Dates and Times

1. Application Due Date

Please submit your completed applications (one original and three copies) on or before July 15, 2004, to the addresses shown below. Applications must be postmarked on or before midnight eastern time of July 15, 2004, and be received within 15 days of such date in order to be considered.

2. Proof of Timely Submission

Please see the General Section of the SuperNOFA for information regarding proof of timely submission.

D. Intergovernmental Review

BEDI is not subject to the provisions of Executive Order 12372, “Intergovernmental Review of Federal Programs.”

E. Funding Restrictions

BEDI grant funds and Section 108 loan guarantee funds may be used only for activities listed at 24 CFR 570.703, provided such activities are carried out as part of a BEDI project as described in this NOFA and meet the CDBG requirements at 24 CFR 570.200, 570.207, 570.208 and 570.209.

F. Other Submission Requirements

1. Address for Submitting Applications

a. Applications to HUD Headquarters. Submit the completed application (an original and two copies) by mail or permitted delivery service to: HUD Headquarters; Robert C. Weaver Federal Building; 451 Seventh Street, SW., Room 7251; Washington, DC 20410, Attention: BEDI.

When submitting the application, please specify BEDI on any label or mailing container, and include the applicant's name, mailing address (including ZIP code), street address (if different from mailing address), and ZIP code, and voice and facsimile telephone numbers (including area code), along with the contact person's name, and voice and facsimile telephone numbers (including area code), and email address, if available.

b. Applications to HUD Field Offices. At the same time the application and copies are submitted to HUD Headquarters, an additional copy should be submitted to the Community Planning and Development Division of the appropriate HUD field office for the applicant's jurisdiction. HUD strongly suggests that applications submitted to HUD field offices be mailed via the United States Postal Service, as access by other delivery services cannot be guaranteed.

2. Application Submission Procedures

See the General Section of the SuperNOFA for specific procedures governing the submission and receipt of applications.

V. Application Review Information

A. Criteria

1. Factors for Award Used To Evaluate and Rate Applications

a. Response to Factors for Award. The applicant must provide in narrative form responses to each of the rating factors below. HUD will evaluate all applications for funding assistance based on the following factors, the responses to which demonstrate the quality of the proposed project or activities, and the applicant's capacity and commitment to use the BEDI funds in accordance with the purposes of the Act.

b. Responses to Rating Factors 1-5. Responses to Rating Factors 1-5 below shall not exceed 15 double-spaced, 8½ × 11 inch pages, with one-inch margins, combined.

Rating Factor 1: Capacity of the Applicant and Relevant Organizational Experience (20 Points Maximum)

This Factor addresses the extent to which the applicant has the organizational resources necessary to successfully implement the proposed activities in a timely manner. The rating of the “applicant” or the “applicant's organization and staff” will include any subcontractors, consultants, and sub-recipients that are firmly committed (see definition in section I.C above) to participate in the activities described in the application. In responding to subfactors (1) and (2) of this Factor, applications that merely summarize the amount of funds received, spent, or managed will receive fewer points than those providing specific measurable information on program activities undertaken, outcomes of these activities and their accomplishments. In rating this Factor, HUD will consider the following:

(1) Applicant Capacity (Up to 10 points). The applicant should demonstrate that it has the organization, the staff, and the financial resources in place to implement the specific steps required to successfully carry out its proposed BEDI/Section 108 project. The applicant should offer evidence of this capacity through a description that includes:

(a) Performance in the administration of its CDBG, HOME, or other HUD programs, including a description of successfully completed projects and other outcomes or accomplishments under these programs. In addition to citing specific projects, outcomes, or accomplishments, CDBG entitlement recipients must also indicate the extent to which the applicant has met the HUD standard that the total amount of its undisbursed entitlement grant funds may not be more than 1.5 times the entitlement grant amount for the current program year (see 24 CFR 570.902(a)(1)(i)).

(b) Performance, if any, in carrying out economic development projects similar to that proposed, including brownfields economic development or redevelopment projects, if any, and if applicable, the ability to conduct prudent underwriting;

(c) If applicable because the applicant has such designation, the capacity to achieve state and local commitments identified in its local implementation plan, including maximizing the federal tax benefits made available as a result of a federal Renewal Community/Empowerment Zone/Enterprise Community designation (including Enhanced Enterprise Community (EEC) designation). Applicants that have been designated as a Renewal Community (RC), Empowerment Zone (EZ), or Enterprise Community (EC/EEC) must respond to this subfactor even if the proposed brownfields economic development project is not to be located within the boundaries of the designated RC/EZ/EC; and

(d) An applicant that has previously received a BEDI or a competitive EDI grant award or, within the past five years, a section 108-guaranteed loan commitment, must describe the status of the implementation of those project(s) assisted with any BEDI or competitive EDI funds or with any section 108-guaranteed loan funds so approved within the last five years. An applicant must address any delays that have been encountered and the actions it is taking to overcome any such delays in carrying out the project(s) in a timely manner. For any such previously funded BEDI or competitive EDI grant projects, or for those section 108-guaranteed loan projects committed within the past five years, HUD will award more rating points for applications providing evidence of achievement of specific measurable outcomes in carrying out approved activities funded with such guaranteed loan or grant funds.

If any of the rating criteria listed under (a) through (d) above do not apply to an application, the rating for this subfactor (1) shall be based solely upon the other applicable criteria.

(2) Partner Capacity (Up to 10 points). In response to this subfactor (2), the applicant should describe the experience and performance of subrecipients, private developers and other businesses, nonprofit organizations (including grassroots faith-based and other community-based organizations), and other entities, if any, that have a role in implementing the proposed BEDI/108 program. Applicants are encouraged to identify specific economic development or other projects undertaken by each entity, which reflect the capacity of each entity to fulfill its responsibilities under the proposed brownfields economic development project, including the location, scale, and timeframe for completion of other relevant projects. If there are no third parties participating with the applicant in the proposed project, the 10 points available under this subfactor (2) will be added to the 10 points available under subfactor (1), with a maximum of 20 possible points then available under subfactor (1).

Experience will be judged in terms of recent (i.e., within the past 5 years) and successful performance of activities relevant to those proposed in the BEDI application. The more recent and extensive the experience, the greater the number of points that will be awarded for this Factor.

In addition to the application, HUD also may rely on information at hand or available from public sources such as newspapers, from performance and/or monitoring reports, Inspector General or Government Accounting Office reports or findings, hotline complaints that have been proven to have merit, audit reports, and other reliable public information in rating this Factor.

Rating Factor 2: Distress/Extent of the Problem (15 Points Maximum)

This Factor addresses the extent to which there is need for funding the proposed activities based on levels of distress in both the jurisdiction of the public entity that is the applicant and the geographic or target area that will benefit from the project. Applications will be evaluated on the extent to which the level of distress for the target area is documented and compared with national data and data for the jurisdiction.

(1) In applying this Factor, HUD will consider current levels of distress in the target area, as defined in standard geographic terms by the applicant. This may be Census Tract(s) or Block Groups immediately surrounding the project site up to a radius of one-half mile, or it may be the target area to be served by the proposed project. HUD will also consider the current levels of distress in the applicant public entity's jurisdiction, if different from the target area. The applicant should describe the nature of the distress that the project is designed to address and the rationale for its definition of the area to be benefited. Examples of project beneficiaries may include: (a) Those receiving or using products or services produced by the project, and (b) those employed by the project.

To the extent that the applicant's Consolidated Plan, its Analysis of Impediments to Fair Housing choice (AI), and/or its Anti-Poverty Strategy found therein identify the level of distress in the jurisdiction and the target area in which the project is to be carried out, references to such documents should be included in preparing the response to this Factor. Applications that fail to reference these sources will receive fewer points under this Factor.

Notwithstanding the above, an applicant proposing a project to be located outside the target area for which benefit is claimed could still receive points under this Factor if a clear rationale is provided linking the proposed project location and the benefits to be derived by persons living in the target area.

(2) Applicants should provide data that address the following specific indicators of distress:

(a) Poverty Rate (Up to 5 points). Data should be provided in both absolute and percentage form (i.e., whole numbers and percents) for both the target area and the applicant's jurisdiction as a whole; an application that compares the local poverty rate in the following manner to the national average at the time of submission will receive points under this section as follows:

(i) Less than the national average, but with a poverty rate in the target area that is greater than the applicant's jurisdiction: 2 points;

(ii) At least equal to, but less than twice, the national average: 3 points;

(iii) Twice or more the national average: 5 points.

(b) Unemployment Rate (Up to 5 points). An application that compares the local unemployment rate for the applicant's jurisdiction and the target area in the following manner to the national average at the time of submission will receive points under this Section as follows:

(i) Less than the national average, but with an unemployment rate in the target area that is greater than the applicant's jurisdiction: 2 points;

(ii) At least equal to, but less than twice, the national average: 3 points;

(iii) Twice or more the national average: 5 points.

(c) Other Indicators of Social and/or Economic Decline (Up to 5 points). Applicants should provide other indicators of social or economic decline that best capture the applicant's local situation. Examples that could be provided under this section include information demonstrating the target area and the jurisdiction's stagnant or falling tax base, including recent (within the last three years) commercial or industrial closings, downturns or layoffs; housing conditions, such as the number and percentage of substandard and/or overcrowded units; rent burden (defined as average housing cost divided by average income) for both the target area and jurisdiction; local crime statistics. The response to this subfactor (c) should paint a picture of the extent of need and distress in the target area and jurisdiction.

HUD requires use of sound and reliable data (e.g., U.S. Census data, state statistical reports, university studies/reports that are verifiable) to support distress levels cited in each application. A source for all information along with the publication or origination date must also be provided. Updated Census data are available as follows for the listed indicators:

Unemployment rate: Unemployment rates are estimated monthly for counties, with a two-month lag, while census tract unemployment rates are available through the 2000 U.S. Census;

Poverty rate: Poverty rates are provided through the 2000 U.S. Census and are estimated every two years, with a three-year lag. Census and other relevant data can be accessed through http://www.ffiec.gov. In rating applications under this Factor, HUD reserves the right to consider sources of available objective data other than, or in addition to, those provided by applicants, in order to compare such data to those provided by applicants.

Rating Factor 3: Soundness of Approach (35 Points Maximum)

This Factor addresses the quality and cost-effectiveness of the proposed plan for the brownfields economic development project. Applications that do not propose the productive reuse of a specific, identified site or sites and that do not result in near-term, measurable economic benefits, such as projects that involve only the preparation of a site for potential future reuse by an unidentified party, or the capitalization of a loan pool for loans to unidentified borrowers, will receive fewer points under this Factor. The relationship between the proposed site or sites, the proposed eligible activities and the community needs and purposes of the program funding must be clearly described, as set forth below, in order to receive points for this Factor. In rating this Factor, HUD will consider the following:

(1) Consistency/Appropriateness of Proposed Activities with Identified Needs (Up to 8 points). The applicant should address:

(a) The extent to which the proposed plan for use of BEDI grant/section 108-guaranteed loan funds will address the needs described in Rating Factor 2 above, regarding the distress and extent of the problem in the target area or area to be benefited and the long-term benefit for current residents of the target area. The applicant should provide a clear and quantified explanation of this relationship.

(b) How the project will achieve one of the National Objectives under the Community Development Block Grant program (see 24 CFR 570.208) and the eligible activities that will be carried out under 24 CFR 570.703, including citations to the specific regulatory subsections supporting eligibility of activities and compliance with National Objectives; and

(c) Any unmet needs identified in the jurisdiction's Consolidated Plan and pursuant to section III.C.4(j) of this NOFA, any impediments to fair housing identified in the jurisdiction's Analysis of Impediments to Fair Housing Choice, that will be directly addressed by the proposed project. In order to receive full points under this subfactor, applicants must address the unmet needs addressed in both its Consolidated Plan and in the Analysis of Impediments to Fair Housing Choice. See section III.C.4(j) of this NOFA for examples of general affirmative fair housing actions that may be undertaken to address a jurisdiction's Analysis of Impediments to Fair Housing Choice.

(2) Project Readiness (Up to 15 points). In responding to this subfactor (2), the applicant should demonstrate the extent to which the redevelopment plan for the brownfields site is logical, feasible, and likely to achieve its stated purpose and the extent to which the project will directly result in the productive reuse of the site and the delivery of near-term, measurable economic benefits. The applicant's response should demonstrate the extent to which the project is likely to be completed within a maximum of five years from the date of the BEDI award and will produce near-term, measurable economic benefits. Points for this subfactor will be awarded based upon the extent to which the following critical benchmarks for the redevelopment plan have been met or are approaching completion. The applicant's response to this subfactor should address:

(a) Environmental Investigation. This subfactor (a) will consider the extent to which the presence or potential presence of environmental contamination of the project site is known or understood. Proposed projects on sites where the nature and degree of environmental contamination is not well-quantified, where no environmental investigation has commenced, or that are the subject of on-going litigation or environmental enforcement actions will receive fewer points under this subfactor (a). Similarly, fewer points will be awarded to proposed projects at sites with exceptionally expensive contamination problems that may be beyond the scope of the BEDI and section 108 programs' financial resources or other resources firmly committed to the project as described in the application, and sites subject to pending and current litigation that may not be available for remediation and development or redevelopment in a time frame that will produce near-term and measurable economic benefits through the use of BEDI and section 108 funds. Alternatively, any applicant indicating the completion of environmental assessment or review and the issuance of HUD approval for a Request for Release of Funds for the project under 24 CFR part 58 will receive more points under this subfactor.

(b) Site Control. This subfactor (b) will consider the extent to which control of the proposed project site has been secured or is being sought. Points for this subfactor (b) will be awarded based upon the degree of site control secured by the applicant or its development partner. Projects, for instance, in which negotiation or litigation related to site control are underway or continuing will receive fewer points than projects in which an option to purchase has been secured. Projects in which the applicant or its development partner has secured site control through acquisition, eminent domain or other means at the time of application will receive full points under this subfactor (b). In responding to this subfactor (b), applicants are encouraged to accompany their narrative response with a map indicating the boundaries of the proposed site or sites on which BEDI-assisted improvements are proposed. Any map included by the applicant will not be counted in the fifteen page limitation on the narrative response to the Rating Factors as provided in section V.A.1(b) of this NOFA.

(c) Legislative, Regulatory, and Other Approvals. This subfactor (c) will consider the extent to which any required local legislative approvals, regulatory permits, zoning classifications, environmental regulatory approvals, waivers, general, and special use permits, assessment district designations, public easements or rights-of-way, or other similar approvals have been secured or are being sought. The greater the number of outstanding legislative, regulatory, or other approvals required and not yet secured, the fewer points will be awarded. In the case of a CDBG entitlement unit of general local government, such as a county, proposing to undertake a BEDI project within the jurisdiction of another CDBG entitlement unit of general local government, such as a city or other jurisdiction within that county, the applicant should also include a letter of support from the jurisdiction in which the BEDI project would be located.

(d) User Agreements. This subfactor (d) will consider the extent to which any development agreements, tenant leases, memoranda of understanding, or other agreements integral to returning the site to productive reuse and producing near-term measurable economic benefits, have been secured or are being sought. Applicants proposing projects that do not provide for new investment by an identified, committed private entity and the return of a brownfields site to productive reuse, with accompanying near-term, measurable economic benefits, will receive fewer points under this subfactor (d).

(e) Delivery of Economic Benefits. The response to this subfactor (e) must include the time frame in which the measurable economic benefits are to be delivered. For multi-phase projects, the response to this subfactor (e) must clearly delineate the different phases of the project and indicate whether or not they are to be funded by BEDI/section 108 funds. Brownfields economic development projects that provide near-term, measurable economic benefits directly through the creation or retention of jobs will receive a greater number of points under this subfactor (e). In response to this subfactor (2), the applicant should also provide a specific time schedule (with both beginning and end dates) for carrying out the project and identify all interim measurable benchmarks (acquisition, demolition, site improvements, relocation, construction, etc.) to be accomplished. The applicant should also include a proposed schedule for drawing down all funds necessary to complete the project, including BEDI and section 108 funds.

A timeline form is provided in Appendix A to this NOFA for the purpose of illustrating the project schedule (form HUD-40076-C EDI/BEDI), but HUD will consider the timeline form only as an illustration of the narrative response to this subfactor (e).

(3) Section 108 Application (Up to 2 points). BEDI applications accompanied by a request for new section 108 Loan Guarantee assistance as evidenced by a full and complete section 108 application will receive up to two points for this subfactor (3). BEDI applications accompanied by a copy of a currently pending but unapproved section 108 loan guarantee application for the same project described in the BEDI application will also receive up to two points under this subfactor (3).

(4) Financial Feasibility/Need (Up to 10 points). The applicant should demonstrate the economic necessity of the proposed BEDI and section 108 funds and the extent to which the project is not financially feasible in the absence of such funds. In responding to this subfactor (4), applicants are encouraged to accompany their narrative response, as appropriate, with a development and operating “pro forma” or similar analysis of the proposed project financing. Such pro forma or other financial analysis will not be counted in the fifteen page limitation on the narrative response to the Rating Factors as provided in section V.A.1(b) of this NOFA. In the narrative response, applicants must clearly address the question of why the BEDI funds are critical to the success of this project by providing the following items:

(a) Use of BEDI and section 108 Funds to Fill Financing Gaps. The applicant must provide an economic rationale that demonstrates how the use of the BEDI and section 108 funds will directly impact the financial feasibility of the proposed project. The response should discuss the critical gaps that exist in financing the proposed project, why those gaps exist and how the BEDI and section 108 funds will be used to fill those gaps. The narrative response, including any pro forma or similar analysis, should demonstrate how the proposed BEDI and section 108 financing will yield economic benefits critical to the success of the project, including, for example, increased rates of return or debt coverage ratios, reduced rents or other similar financial outcomes necessary to attract private investment.

(b) Project Costs and Financial Requirements. A funding sources and uses statement must also be provided that specifies the source of funds for each identified use or activity, along with the derivation of project costs.

Rating Factor 4: Leveraging Resources (15 Points Maximum)

In evaluating this Factor, HUD will consider the extent to which the response demonstrates the likelihood that the project will leverage both section 108 loan and other public or private funds as part of the total project resources. Points for this Factor will be awarded in two parts, for the following:

(1) Leverage of section 108 funds (Up to 8 points). The minimum ratio of section 108 funds to BEDI funds in any project may not be less than 1:1. Points will be awarded based upon the extent to which the proposed project leverages an amount of section 108 funds greater than a 1:1 ratio. If the application has a ratio of 1:1, it will not receive any points under this subfactor. The higher the ratio of additional new section 108 funds to BEDI funds proposed in an application, the more points it will receive under this subfactor, within the points available hereunder. (See Sections III.C.3(b) and Section VI.B.1(a) of this NOFA. regarding the conditioning of BEDI awards on achievement of a specific BEDI/section 108 leveraging ratio.)

(2) Leverage of Other Financial Resources (Up to 7 points). HUD will evaluate the extent to which other funds (public or private) are leveraged by BEDI grant funds, and the extent to which such other funds are firmly committed to the project. This could include the use of CDBG funds, other federal or state grants or loans, local general funds, project equity or commercial financing provided by private sources or funds from nonprofits or other sources. In order to receive points for other public and privately committed funds under this subfactor (2):

(a) Applicants must provide evidence that such funds are “firmly committed” as defined in section I.C. of this NOFA.

(b) Each agreement or letter of commitment must include the name of the organization making the commitment, the proposed total level of commitment, and the responsibilities of the organization as they relate to the proposed BEDI project.

(c) Each commitment—including the donation or purchase of real property or the provision of in-kind services—must be assigned a monetary value by the party making the commitment, accompanied by an indication of the basis for that assigned value.

(d) The commitment must be signed by an official of the organization legally authorized to make commitments on behalf of the organization, with a statement confirming that authority, and remain in effect for a period stated in the commitment.

(e) If a commitment is to be self-financed, such as a commitment by a private developer to provide a specified amount of equity investment in the project, the party making that commitment must evidence its financial capacity through the submission of a corporate or personal financial statement or other appropriate means in order to receive points under this subfactor (2).

(f) For Applicants Committing CDBG Funds: In order for an applicant's commitment of CDBG funds to be accepted by HUD as additional financing for a BEDI project, a resolution from the local governing body (e.g., city/borough council) authorizing the amount and permitted uses of the funds must be provided.

All such funds may also be committed subject to completion of a satisfactory environmental review required under 24 CFR part 58 for the project for purposes of this section.

Rating Factor 5: Achieving Results and Program Evaluation (15 Points Maximum)

This Factor emphasizes HUD's commitment to ensuring that applicants maintain commitments made in their application and assess their performance to ensure that performance goals are met. This Factor also evaluates the extent to which the results of the proposed BEDI project address the policy priorities of the Department. In addition to a narrative response, applicants must complete the logic model provided in the General Section of the SuperNOFA (form HUD-96010) in order to receive points under this Factor.

(1) Performance Measurement Plan (Up to 12 points). HUD requires applicants to develop an effective, quantifiable, outcome oriented performance measurement plan for measuring performance and determining that BEDI project goals have been met. The applicant's response to this subfactor (1) should identify: (a) Each of the specific project outcomes for the proposed BEDI project, i.e., the near-term, measurable economic benefits to be achieved; (b) all interim benchmarks of the project and the associated time frames for meeting each interim benchmark; and (c) the performance indicators selected by the applicant to measure its achievement of the identified interim benchmarks and project outcomes. The performance indicators selected by the applicant should be objectively quantifiable and measure actual achievements against anticipated results. The response to this subfactor (1) should identify what will be measured, how it will be measured, and the procedures or plans that are in place to make adjustments to the project redevelopment plan if performance targets are not met within established time frames.

In response to this subfactor (1), applicants should address any of the following applicable outcomes or ultimate goals identified by HUD for BEDI projects: the number of jobs to be created or retained; the amount of increased wages resulting from the creation or retention of jobs; the number of housing units to be constructed or rehabilitated; the total square feet of commercial and industrial space to be created; the total number of low- and moderate-income persons to benefit from the project; the total number of businesses assisted by the project; the number of acres of brownfields returned to productive economic use; and the amount of any increased land value that results from the BEDI project. Applicants may also propose additional quantifiable outcomes or goals related to other benefits expected for the neighborhood or for persons assisted, as part of the evaluation plan.

(2) Policy Priorities (Up to 3 points). The applicant's response to this subfactor (2) should address how the project will address the following policy priorities of the Department, as further detailed in section V.B.2 of the General Section of the SuperNOFA. The number of points to be awarded for each applicable policy priority addressed by the proposed BEDI project is indicated below:

(a) For BEDI projects that propose only housing activities:

(i) The extent to which the project will increase affordable housing and homeownership opportunities for low- and moderate-income persons, the disabled, the elderly, minorities, and families where English may be the second language, whether through the provision of housing or employment which will enable residents to access affordable housing and have a choice of such housing in environmentally healthy and revitalized neighborhoods (1 point); and

(ii) The extent to which the project will assist in breaking down regulatory barriers that impede the availability of affordable housing (up to 2 points).

(b) For all other BEDI projects:

(i) The extent to which the proposed project will improve the quality of life in the nation's communities, by bringing private capital to distressed communities (1 point);

(ii) The extent to which the proposed project will finance business investments that will grow new businesses or maintain and expand existing businesses (1 point); and

(iii) The extent to which the proposed project will create decent jobs for low-income persons (1 point).

Bonus Points

An application may receive up to four bonus points, until the maximum of four points are achieved. Two bonus points may be awarded for each of the following:

(1) Projects that are located either in federally designated Empowerment Zones, Enterprise, or Renewal Communities (see the General Section of the SuperNOFA for advice on locating a list of designated communities);

(2) Projects that are located in Brownfields Showcase Communities designated by EPA. A list of the federally designated Brownfields Showcase Communities is listed in Appendix B of section VIII of this NOFA and is also available from the SuperNOFA Information Center or through the HUD Web site, http://www.hud.gov.

B. Reviews and Selection Process

1. Reviews and Selection Process. All applications meeting BEDI program and threshold requirements will be rated under the selection criteria in section V.A. of this NOFA. Applications will be selected for funding as follows:

a. Fundable BEDI grant applications must meet the program and submission requirements of this NOFA and the threshold requirements stipulated in section III.C.2 of the General Section of the SuperNOFA or they will not be ranked.

b. All BEDI grant applications that meet threshold requirements will be ranked separately in order of points assigned with the applications receiving more points ranked above those receiving fewer points.

c. In the event two or more applications are given the same score, but there are insufficient funds to fund all of the tied applications, the application(s) with the highest score(s) on Rating Factor 3 (Soundness of Approach) shall be selected. If there is still a tie, the following Factors will be considered sequentially, with the application having the high score on each Factor in the following order taking precedence until the tie is broken: Rating Factor 1 (Capacity and Experience), Rating Factor 2 (Distress/Extent of the Problem), Rating Factor 4 (Leveraging Resources), and Rating Factor 5 (Achieving Results and Program Evaluation).

d. Fundable BEDI applications will be funded in rank order until the total aggregate amount of the approvable applications funded is equal to the maximum amount available in the competition (subject to the limitations described in section II.C above).

2. Corrections to Deficient Applications. The General Section of the SuperNOFA provides the procedures for corrections to deficient applications.

3. Applicant Debriefing. The General Section of the SuperNOFA provides information on applicant requests for a debriefing. Applicants requesting to be debriefed must send a written request to the contact person for the BEDI program, Mr. Frank McNally, at the address listed in section VII of this NOFA.

C. Anticipated Announcement and Award Dates

Historically, BEDI awardees have been notified of the approval of BEDI applications within approximately 90 days of the application deadline.

VI. Award Administration Information

A. Award Notices

1. Notice of Award and Obligation

BEDI award recipients will receive written notice of approval of their applications and the related terms and conditions of the award. An authorized official of the applicant receiving a BEDI award will be required to sign and return an acceptance of the BEDI award. BEDI funds shall be obligated for an approved application upon the return of a signed acceptance of the award to HUD and a countersignature of that acceptance by an authorized HUD official.

2. Award Disbursements and Amendments

a. Timing of Section 108 Approval and BEDI Grant Disbursements.

(1) To the extent a full and complete Section 108 application is submitted with the BEDI grant application, HUD will evaluate the Section 108 application immediately following the competition for BEDI grant funds. Note that the 108 application must be submitted to the appropriate HUD field office concurrently with submission to Headquarters.

(2) Notwithstanding any earlier obligation or award of BEDI funds to a grantee, or execution of a grant agreement, HUD will not permit the grantee to draw down BEDI funds before the issuance and at least partial funding of the obligations evidencing the related section 108-guaranteed loan.

(3) Pursuant to the FY2004 HUD Appropriations Act (under the “Brownfields Redevelopment” heading) and 31 U.S.C. 1552, FY 2004 BEDI funds must be obligated (i.e., awarded) by HUD by September 30, 2005, and must be disbursed by HUD to the grantee by September 30, 2010. FY2003 BEDI funds must be obligated by September 30, 2004, and must be disbursed by HUD to the grantee by September 30, 2009. FY2001 BEDI funds are not subject to statutory obligation or disbursement deadlines. In all cases, however, HUD reserves the right to require earlier disbursement under a BEDI grant agreement. Accordingly, a BEDI awardee must ensure the timely submission of its section 108 Loan Guarantee application, the execution of the section 108 Contract for Loan Guarantee Assistance and BEDI Grant Agreement, and the issuance of the section 108 Loan Guarantee Note.

B. Administrative and National Policy Requirements

1. Terms and Conditions

a. Ratio of BEDI to section 108 Loan Guarantee Funds. Because the proposed ratio of BEDI funds to section 108 funds presented in an approved BEDI application represents an applicant's financial commitment to a BEDI project, HUD will condition the BEDI grant award on the grantee's achievement of that specific ratio. The failure of the grantee to meet that condition by obtaining timely HUD approval of a commitment for, and issuance of, the required section 108 guaranteed obligations ratio may result in the cancellation and recapture of all or a proportionate share of the BEDI grant award.

b. Approval of section 108 Loan Guarantee Application and Disbursement of Funds. As a condition of any award under this NOFA, if the related section 108 application has not been submitted and approved within 10 months of written HUD notification of selection for potential funding under this NOFA, HUD may deobligate the BEDI funds. BEDI grant awards and grant agreements will contain conditions requiring grantees to adhere to time frames mutually agreed on by the applicant/grantee and HUD for implementing proposed projects and drawing section 108 and BEDI funds. If BEDI grant funds and section 108 loan proceeds are not disbursed to the applicant within the time frames specified in the BEDI grant agreement, HUD reserves the right to cancel the award and recapture all or a portion of the BEDI funds, as applicable under the grant agreement.

c. BEDI Application Amendments. Any modifications or amendments to an application approved pursuant to this NOFA, whether requested by the applicant or by HUD, must be within the scope of the approved original BEDI application in all respects material to rating the application, unless HUD determines that the revised application remains within the competitive range and is otherwise approvable under this NOFA. In addition, if the applicant proposes an amendment after the period during which appropriated funds are available for obligation (for FY2004 BEDI funds, after September 30, 2005), HUD will be unable to approve any amendment which materially changes the scope, purpose, or need for the original award. In such a case, the unused BEDI funds must be deobligated and returned to the U.S. Treasury.

a. Executive Order 12898 (Federal Actions to Address Environmental Justice in Minority Populations and Low-Income Populations) directs Federal agencies to develop strategies to address environmental justice. Environmental justice seeks to rectify the disproportionately high burden of environmental pollution that is often borne by low-income, minority, and other disadvantaged communities, and to ensure community involvement in policies and programs addressing this issue.

b. HUD expects that projects presented for BEDI funding will integrate environmental justice concerns and provide measurable economic benefits for affected communities and their current residents for the long term.

3. Other National Requirements. BEDI applicants are directed to the Section III.C of the General Section of the SuperNOFA, which provides the statutory, regulatory, threshold, and public policy requirements applicable to all HUD grantees. In particular, BEDI applicants should carefully review provisions relating to Executive Order 13202 (Preservation of Open Competition and Government Neutrality) and Federal laws governing the procurement of recovered materials.

C. Reporting

Post Award Reporting Requirements. CDBG regulations at 24 CFR 570.507 (for metropolitan city and urban counties) and 24 CFR 570.491 (for State grantees) require the submission of a Consolidated Annual Performance Evaluation Report (CAPER) describing the use of CDBG funds during the program year. 24 CFR 570.3 defines CDBG funds to include BEDI grants, and accordingly, grantees must report specifically on the use of BEDI grant funds and section 108 loan guarantee proceeds in the CAPER. For each reporting period, as part of the required report to HUD, grant recipients must include a completed Logic Model (form HUD 96010), which identifies output and outcome achievements.

VII. Agency Contact

For Technical Assistance. Contact: Frank McNally, Economic Development Specialist, Office of Economic Development, U.S. Department of Housing and Urban Development, 451 Seventh Street, SW., Room 7140, Washington, DC 20410; telephone (202) 708-0614, extension 7100 (this is not a toll-free number). Hearing or speech challenged persons may call the Federal Information Relay Service at 800-877-8339 (this is a toll-free number). Before the application due date, HUD staff will be available to provide general guidance and technical assistance about this BEDI NOFA. However, HUD staff are not permitted to assist in preparing a BEDI application. Following selection of applicants, but before awards are made, HUD staff are available to assist in clarifying or confirming information that is a prerequisite to the offer of an award by HUD. In addition, the Section 108 Loan Guarantee program is not a competitive program and therefore is not subject to those provisions of the HUD Reform Act pertaining to competitions that do not permit HUD staff to assist in the preparation of applications. HUD staff are available to provide advice and assistance to develop Section 108 loan applications.

VIII. Other Information

Appendices

1. Appendix A—Non-Standard BEDI Forms

The non-standard forms for the BEDI application follow.

BILLING CODE 4210-32-P

Self-Help Homeownership Opportunity Program (Shop)

Overview Information

A. Federal Agency Name: Department of Housing and Urban Development, Office of Community Planning and Development.

B. Funding Opportunity Title: Self-Help Homeownership Opportunity Program (SHOP).

C. Announcement Type: Initial announcement.

D. Funding Opportunity Number: The Federal Register number for this NOFA is FR-4900-N-15. The OMB paperwork approval number for this program is 2506-0157.

E. Catalog of Federal Domestic Assistance (CFDA) Number: 14.247 Self-Help Homeownership Opportunity Program

F. Dates: The application due date is on or before July 20, 2004. Please see the General Section of the SuperNOFA for application submission, delivery, and timely receipt requirements.

G. Optional, Additional Overview Content Information: SHOP funding is awarded to national and regional nonprofit organizations and consortia demonstrating experience in administering self-help housing programs in which the homebuyers contribute a significant amount of sweat-equity toward construction or rehabilitation of the dwelling.

The amount available for SHOP in Fiscal Year 2004 (FY) is approximately $26,840,700 to be awarded to eligible applicants.

Full Text of Announcement

I. Funding Opportunity Description

A. Program Description

SHOP funding is intended to facilitate and encourage innovative homeownership opportunities on a national geographically-diverse basis through self-help housing programs that require a significant amount of sweat-equity by the homebuyer toward the construction or rehabilitation of the dwelling.

SHOP programs are administered by national and regional nonprofit organizations and consortia. Units developed with SHOP funds must be decent, safe, and sanitary non-luxury dwellings and must be made available to eligible homebuyers at prices below the prevailing market prices. Eligible homebuyers are low-income individuals and families (i.e., those whose annual incomes do not exceed 80 percent of the median income for the area, as established by HUD) who would otherwise be unable to purchase a dwelling but for the provision of sweat equity. Housing assisted under this notice must involve labor contributed by homebuyers and volunteers in the construction of dwellings and by other activities that involve the community in the project.

B. Authority

The funding made available under this program section of the SuperNOFA is authorized by section 11 of the Housing Opportunity Program Extension Act of 1996 (42 U.S.C. 12805 note) (the “Extension Act”).

II. Award Information

The amount available for this program is $26,840,700 in FY2004. Any unobligated funds from previous competitions or additional funds that may become available due to deobligation or recapture from previous awards or budget transfers may be added to the FY2004 appropriation to fund applications submitted in response to this NOFA. Awards will be made to successful applicants in the form of a grant.

III. Eligibility Information

A. Eligible Applicants

You must be a national or regional nonprofit public or private organization or consortium that has the capacity and experience to provide or facilitate self-help housing homeownership opportunities. Your organization or consortium must undertake eligible SHOP activities directly and/or provide funding assistance to your local affiliates to carry out SHOP activities.

“National organization” is defined as an organization that carries out self-help housing activities or funds affiliates that carry out self-help housing activities on a national scope. A national organization must propose in its application to use a significant amount of SHOP funds in at least two states.

Regional organization is defined as an organization that carries out self-help housing activities or funds affiliates that carry out self-help housing activities on a regional scope. “Regional” is an area, such as the Southwest or Northeast, that must include at least two states. The regional organization must propose to use a significant amount of SHOP funds in at least two states. The states in the region need not be contiguous, and the service area of the organization need not precisely conform to state boundaries. Affiliates working under regional organizations must be located within the regional organization's service area.

“Consortium” is defined as two or more nonprofit organizations located in at least two states that individually have the capacity and experience to carry out self-help housing activities or fund affiliates that carry out self-help housing activities on a national or regional scope and enter into an agreement to submit a single application for SHOP funding on a national or regional basis. The consortium must propose to use a significant amount of SHOP funds in each state represented in the consortium. One organization must be designated as the lead entity. The lead entity must submit the application and, if selected for funding, execute the SHOP Grant Agreement with HUD and assume responsibility for the grant on behalf of the consortium in compliance with all program requirements.

A consortium agreement, executed, and dated by all consortium members, for the purpose of applying for and using FY2004 SHOP funds must be submitted with your application. All consortium members must be identified in your application. Your application must be one integrated document that demonstrates the consortium's comprehensive approach to self-help housing. If individual consortium members will use different program designs, your application must describe the program design of each consortium member. Upon being funded, the lead entity must enter into a separate agreement with each consortium member. The agreement must incorporate the requirements of the FY2004 SHOP Grant Agreement between HUD and the consortium and outline the individual consortium member's responsibilities for compliance with HUD's 2004 SHOP program.

“Affiliate” is defined as:

(1) A local public or private non-profit self-help housing organization which is a subordinate organization (i.e., chapter, local, post, or unit) of a central organization and covered by the group exemption letter issued to the central organization under section 501(c)(3) of the Internal Revenue Code;

(2) A local public or private non-profit self-help housing organization with which the applicant has an existing relationship (e.g., the applicant has provided technical assistance or funding to the local self-help housing organization); or

(3) A local public or private non-profit self-help housing organization with which the applicant does not have an existing relationship, but to which the applicant will provide necessary technical assistance and mentoring as part of funding under the application.

You must carry out eligible activities or you must fund affiliates to carry out eligible activities. If you are a consortium, each of your affiliates must be linked to an individual consortium member.

Your application may not propose to fund any affiliate or consortium member that is also included in another SHOP application. You must ensure that any affiliate or consortium member under your FY2004 application is not also seeking FY2004 SHOP funding from another SHOP applicant. If an affiliate applies for funds through more than one applicant, it may be disqualified for any funding.

B. Cost Sharing or Matching

There is no match requirement for the SHOP funds. However, you are expected to leverage resources for the construction of self-help housing assisted with SHOP. Failure to provide documentation of leveraged resources as described in rating factor 4 will result in a lower application score.

C. Other

1. Eligible Activities

Eligible activities are:

a. Land acquisition (including financing and closing costs), which may include reimbursing an organization, consortium, or affiliate, upon approval of any required environmental review, for non-grant amounts expended by the organization, consortium, or affiliate to acquire land before completion of the review;

b. Infrastructure improvements (installing, extending, constructing, rehabilitating, or otherwise improving utilities and other infrastructure, including removal of environmental hazards); and

c. Administration, planning, and management development, including the costs of general management, oversight, and coordination of the SHOP grant; staff and overhead costs of the SHOP grant; costs of providing information to the public about the SHOP grant; cost of providing civil rights training to local affiliates as well as any expenses involved in affirmatively furthering fair housing; and indirect costs (such as rent and utilities) of the grantee or affiliate in carrying out the SHOP activities.

2. Threshold Requirements

In addition to the statutory, regulatory, threshold, and public policy requirements listed in section III.C of the General Section of the SuperNOFA, each applicant must meet and comply with the following SHOP threshold requirements:

a. You must be eligible to apply under SHOP (see section III.A. of this program section).

b. The amount of funding you request must be sufficient to complete a minimum of 30 self-help housing units and may not exceed an average investment of $15,000 per unit of SHOP funding.

c. The population you propose to serve must be eligible for SHOP assistance. Eligible homebuyers are low-income individuals and families (i.e., those whose incomes do not exceed 80 percent of the median income for the area, as established by HUD). You must identify the definition of “annual income” to be used in your proposed program. You may use one of the following three definitions of “annual income” to determine whether a homebuyer is income eligible under SHOP:

(1) “Annual income” as defined at 24 CFR 5.609; or

(2) “Annual income” as reported under the Census long-form for the most recent available decennial Census; or

(3) “Adjusted gross income” as defined for purposes of reporting under Internal Revenue Service (IRS) Form 1040 series for individual Federal annual income tax purposes.

You may also adopt or develop your own definition of annual income for use in determining income eligibility under SHOP subject to review and approval by HUD.

d. You must demonstrate that you have successfully completed at least 30 self-help homeownership units in a national or regional area within the 24-month period immediately preceding the publication of this NOFA. To qualify as self-help homeownership units, the homebuyers must have contributed a significant amount of sweat-equity toward the construction of the dwellings as set forth in section III.C.2.e.

e. Your program must require homebuyers to contribute a minimum of 100 hours of sweat equity toward the construction or rehabilitation of their own homes. However, in the case of a household with only one adult, the requirement is 50 hours of sweat equity toward the construction of the home. This includes training for construction on the dwelling units, but excludes homebuyer counseling and home maintenance training. Reasonable accommodation must be permitted in the provision of sweat equity for persons with disabilities.

f. Your program must involve community participation in which volunteers assist in the construction of dwellings. Volunteer labor is work performed by an individual without promise, expectation or compensation for the work rendered. A homebuyer, who contributes sweat equity to his/her own home, counts as volunteer labor when working on other homes.

g. You must propose to use the SHOP funds for eligible activities (see sections III.C. and IV.E.). You must carry out the activities or you must fund affiliates to carry out the activities.

h. DUNS Number Requirement. All applicants must provide a DUNS number pursuant to the DUNS number requirement specified in section III.C.2.b. of the General Section. Failure to provide a DUNS number will be treated as a technical deficiency. Failure to correct the deficiency will result in your application not being eligible to receive funding.

3. Threshold Submission Requirements

You must describe how you qualify as an eligible applicant and provide evidence of your public or private non-profit status, such as a current Internal Revenue Service ruling that your organization is exempt from taxation under section 501(c)(3) or 501(c)(4) of the Internal Revenue Code of 1986. If you are a consortium, each participant in your consortium must be a nonprofit organization. Each consortium member must submit evidence of its nonprofit status to the lead entity for inclusion in the consortium's application package. In addition, your consortium agreement must be submitted.

Threshold requirements (b) through (g) do not require separate submissions. In order for your application to be rated and ranked, these requirements must be addressed under the submission requirements for the rating factors listed below in section V, Application Review Information Criteria, of this SHOP NOFA.

4. Statutory and Program Requirements

The operation of SHOP is governed by the statute, Public L. 104-120, § 11, 110 Stat. 841 (March 28, 1996), as amended; 42 U.S.C. 12805 note, and this NOFA. There are no program regulations. You must comply with all statutory requirements applicable to SHOP as cited in section I., Funding Opportunity Description, of this SHOP NOFA and the program requirements cited in this SHOP NOFA. Pursuant to these requirements, you must:

a. Develop, through significant amounts of sweat-equity by each homebuyer and volunteer labor, at least 30 dwelling units at an average cost of no more than $15,000 per unit in SHOP funds for land acquisition and infrastructure improvements;

b. Use your grant to leverage other sources of funding, including private or other public funds, to complete construction of the housing units;

c. Develop quality dwellings that comply with local building and safety codes and standards, that will be made available to homebuyers at prices below the prevailing market price;

d. Schedule SHOP activities to expend all grant funds awarded and substantially fulfill your obligations under your grant agreement, including timely development of the appropriate number of dwelling units. Grant funds must be expended within 24 months of the date that grant funds are first made available for draw-down in a line of credit established by HUD for the Grantee, except that grant funds provided to affiliates that develop five or more units must be expended within 36 months; and

e. Not require a homebuyer to make an up-front financial contribution to a housing unit other than cash contributed for downpayment or closing costs at the time of acquisition.

IV. Application and Submission Information

A. Address To Request Application Package

Application. There is no application kit. This notice contains all the information necessary for national and regional nonprofit organizations and consortia to submit an application for SHOP funding. Copies of the standard forms are located in the General Section of the SuperNOFA or you may request copies by calling HUD's NOFA Information Center at: 800-HUD-8929. If you have a hearing or speech impairment, please call the Center's TTY number at 800-HUD-2209. When requesting standard forms, you should refer to SHOP and provide your name and address (including ZIP code) and telephone number (including area code). See section IV.B.2., Assembly Format, for application submission requirements. You may also access the application requirements on the Internet through HUD's Web site at: http://www.grants.gov.

B. Content and Form of Application Submission

Your application should consist of the items listed in the section below called Assembly Format. The standard forms, certifications, and assurances applicable to this funding (collectively, referred to as the “standard forms”) can be found in the Appendices to the General Section of the SuperNOFA.

1. Page Limits. There are page limits for your responses to the five rating factors. A national or regional organization is limited to 60 pages of narrative for responding to the five rating factors. A consortium is permitted up to 10 additional pages total to accommodate the requirement to address the capacity and soundness of approach of its individual consortium members if they are different. All pages must be numbered sequentially from 1 through 60 or 70, for factors 1 through 5, and tabs must be inserted to separate each factor. Your application may contain only the narrative statements that address the five rating factors and the required forms, certifications, assurances, and appendices listed in Assembly Format below to be submitted for review. Any additional information provided outside the narrative statements to further explain information required in the five factors will not be considered in the scoring of the application. In responding to the five factors, information must be included in your narrative response to the factor, unless this NOFA states that it should be included as an appendix. Applicants are discouraged from submitting unnecessary documentation.

2. Assembly Format. Your FY2004 application should be assembled with tabs designating Application Overview, Narrative Statements (rating factors), Forms, and Appendices. In order to receive full consideration for funding, your application should be assembled according to the following checklist to ensure that all of the required items have been submitted.

a. Application Overview: (Not subject to the page limitations.)

___ SF-424, Application for Federal Assistance (signed by the authorized representative of the organization eligible to receive funds).

___ SF-424 Supplement, Survey on Ensuring Equal Opportunity for Applicants.

___ HUD-424B, Applicant Assurances and Certifications.

___ Narrative describing qualification as an eligible applicant and evidence of non-profit status.

___ Consortium Agreement, if applicable.

___ Program Summary.

b. Narrative Statements Addressing: (Subject to the page limitations described above.)

___ Factor 1—Capacity of the Applicant and Relevant Organizational Staff.

___ Factor 2—Need/Extent of the Problem.

___ Factor 3—Soundness of Approach.

___ Factor 4—Leveraging Resources.

___ Factor 5—Achieving Results and Program Evaluation. Program Outcome Logic Model, HUD-96010 (Evaluation Plan).

c. Forms, Certifications and Assurances: (Not subject to the page limitations.)

___ HUD-424CB, Grant Application Detailed Budget.

___ SF-LLL, Disclosure of Lobbying Activity, as applicable.

___ HUD-2880, Applicant/Recipient Disclosure/Update Report.

___ HUD-2990, Certification of Consistency with the RC/EZ/EC Strategic Plan.

___ HUD-2993, Acknowledgment of Application Receipt.

d. Appendices: (Not subject to the page limitations.)

___ Recent audit, if available.

___ A copy of your code of conduct and a narrative description of the methods you will use to ensure that all officers, employees and agents of your organization become aware of your code of conduct.

___ Leveraging documentation—firm commitment letters.

___ Survey of potential affiliates, if applicable (see Factor 2, element “a”).

___ Demonstration of past performance for new applicants (see Factor 1).

___ HUD-27300, Questionnaire for HUD's Initiative on Removal of Regulatory Barriers.

___ Evaluative criteria for Removal of Regulatory Barriers to Affordable Housing in affiliate selection process, if applicable.

3. Technical Deficiencies. Section V.B.4 of the General Section of the SuperNOFA provides the procedures for corrections to deficient applications.

C. Submission Dates and Times

To apply for SHOP funding, please follow these procedures and those noted in the General Section of this SuperNOFA.

1. Application Deadline. Applications for SHOP grants are due on or before 12 midnight eastern time on July 20, 2004. Please follow the specific Mailing and Receipt Procedures and Proof of Timely Submission located in section IV.F of the General Section as failure to comply with these procedures may disqualify your application.

2. Acceptance of Hand-Carried Submissions. Please follow the procedures for hand-carried submissions located in Section IV.F. of the General Section as failure to comply with these procedures may disqualify your application.

D. Intergovernmental Review

Executive Order 12372 review does not apply to SHOP.

E. Funding Restrictions

1. Administrative costs. Administrative costs may not exceed 20 percent of any SHOP grant. Indirect costs may only be charged to the SHOP grant under a cost allocation plan prepared in accordance with OMB Circular A-122.

2. Pre-agreement costs. After submission of the application, but before the effective date of the SHOP Grant Agreement, an applicant may incur costs which may be charged to its SHOP grant provided the costs are eligible (see section III.C.1.) and in compliance with the requirements of this NOFA (including environmental review requirements) and the application. Applicants incur costs at their own risk, because applicants that do not receive a SHOP grant cannot be reimbursed.

3. Ineligible Costs. Costs associated with the rehabilitation, improvement, or construction of dwellings and any other costs not identified in section III.C.1. are not eligible uses of program funds. Acquiring land for land banking purposes (i.e., holding land for an indefinite period) is an ineligible use of SHOP funds.

F. Other Submission Requirements

1. Application Mailing Procedures. Applicants must follow the specific Mailing and Receipt Procedures and Proof of Timely Submission located in section IV.F.1 and 2. of the General Section of this SuperNOFA.

2. Address for Submitting Applications. Submit one original and two copies of the application to: HUD Headquarters, Robert C. Weaver Federal Building, 451 Seventh Street, SW., Room 7251, Washington, DC 20410-7000, ATTN: Self-Help Homeownership Opportunity Program (SHOP).

V. Application Review Information Criteria

1. Rating Factor l: Capacity of the Applicant and Relevant Organizational Staff (30 points)

This factor examines the extent to which you, as a single applicant or consortium (including individual consortium members), have the experience and organizational resources necessary to carry out the proposed activities effectively and in a timely manner. Any applicant that does not receive at least 20 points under this factor will not be eligible for funding.

In evaluating this factor, HUD will consider your recent and relevant experience in carrying out the activities you propose, and your administrative and fiscal management capability to administer the grant, including the ability to account for funds appropriately. All applicants, including individual consortium members, must have capacity and experience in administering or facilitating self-help housing. If you are sponsoring affiliate organizations that do not have experience in developing self-help housing, HUD will assess your organization's experience in providing technical assistance and the ability to mentor new affiliates. For applicants that currently have open SHOP grants, HUD will assess your organization's past performance based upon performance reports that demonstrate your organization's completion of eligible SHOP activities, the number of families provided housing, financial status information focusing on timely use of funds, and other program outcomes. HUD will consider whether you have had funds deobligated for failure to meet your drawdown and construction schedules or funds were returned because of monitoring findings. HUD will also rely on monitoring reports, audit reports and other information available to HUD in making its determination under this factor. For applicants that currently have open SHOP grants from previous years, HUD will assess your pattern of meeting benchmarks in the most recent three years of participation in the program. If you are not a current recipient of SHOP funds, you must summarize your past performance in undertaking similar or the same activities during the past three years. You may supplement your narrative with existing internal or external performance reports or other information that will assist HUD in making this determination and submit it as an appendix. Failure to provide this information will result in a lower score.

Submission Requirements for Rating Factor 1

a. (10 points) Past Experience. You must describe your past experience in carrying out self-help housing activities (specify the time frame during which these activities occurred) that are the same as, or similar to, the activities you propose for funding, and demonstrate reasonable success in carrying out and completing those activities. You must include the average number of sweat-equity hours provided per family, and volunteer labor. You may demonstrate reasonable success by showing that your previous activities were carried out as proposed, consistent with the time frame you proposed for completion of all work. You must provide evidence regarding your performance in meeting established benchmarks for acquiring properties and completing housing construction and indicate that performance reports were submitted, as required. New applicants furnishing supplemental material should refer to the introduction to this rating factor. To the extent that you encountered delays that were beyond your control, please describe the circumstances causing the delays and the mitigating actions taken to overcome them to successfully complete your program.

b. (8 points) Management Structure. You must provide a description of your organization's or consortium's management structure. You must also describe your key staff and their specific roles and responsibilities for day-to-day management of your proposed SHOP program. If you elect to work with affiliates that do not have capacity and experience, you must describe how you will provide technical assistance and mentor these organizations to develop capacity either directly or indirectly.

c. (8 points) Financial Control. You must demonstrate your organization's ability to track financial resources with adequate financial control and accounting procedures. You must describe your financial control procedures for SHOP and how they meet 24 CFR 84.21, “Standards for Financial Management Systems.” Under 24 CFR 84.21, your financial management system must provide:

(1) Accurate, current, and complete disclosure of the financial results;

(2) Adequate identification of the source and application of funds including information pertaining to Federal awards, authorization, obligations, unobligated balances, assets, outlays, income and interest;

(3) Effective control over the accountability for all funds, property and other assets and adequately safeguards all such assets and assures they are used solely for authorized purposes;

(4) Written procedures to minimize the time elapsing between the transfer of funds to your organization from the U.S. Treasury and the issuance or redemption of checks, warrants, or payments by other means for program purposes by your organization;

(5) Written procedures for determining the reasonableness, allocability, and allowability of costs in accordance with the provisions of the applicable Federal cost principles and the terms and conditions of the award; and

(6) Accounting records including cost accounting records that are supported by source documentation.

You should submit a copy of your most recent audit, if one is required to be performed for your organization. A consortium only needs to submit an audit of the lead entity.

d. (4 points) Experience Developing Accessible Housing. You must demonstrate your experience in and ability to construct and alter homes by describing the kinds of features that you have used to design homes in accordance with universal design and visitability standards, or otherwise make homes accessible to the elderly or persons with disabilities. You must provide data on the number of accessible units you have completed and the timeframe during which units were constructed and/or altered.

2. Rating Factor 2: Need/Extent of the Problem (10 Points)

This factor examines the extent to which you demonstrate an urgent need for SHOP funds in your proposed target areas based on the need for affordable housing, and the quality of the data submitted to substantiate that need.

The purpose of this factor is to make sure that funding is provided where a need for funding exists. Under this factor, you must identify the community need or needs that your proposed SHOP activities are designed to address. If you plan to select some or all affiliates after application submission, you must demonstrate how the selection of affiliates will help to address the needs identified in the proposed target areas.

Submission Requirements for Rating Factor 2

a. (5 points) Extent of Need. Describe the extent of need for SHOP funds in the communities or areas in which your proposed activities will be carried out. You must specifically address the need for acquisition and/or infrastructure assistance for self-help housing activities in these areas. National and regional organizations and consortia that select affiliates after application submission must submit a list of affiliates surveyed upon which they are basing their need for SHOP funding and the specific criteria to be used to select communities or projects based on need.

b. (5 points) Documentation of Need. Information you submit to demonstrate the need or needs in the target areas must include, but is not limited to, the following:

(1) (3 points) Data describing:

(a) The housing market data in the proposed target areas including, but not limited to, low-income, minority, and disability populations; number of home sales and median sales price; and homeownership, rental and vacancy rates. This information can be obtained from state or regional housing plans, the American Housing Survey, the United States Census, Home Mortgage Disclosure Act data or other local data sources, such as Consolidated Plans, comprehensive plans, local tax assessor databases or relevant realtor information. Data included in your application must be specific to your proposed target areas.

(b) The housing problems in the proposed target areas such as overcrowding, cost burden, housing age or deterioration, low homeownership rate (especially among minority families, families with children, and families with members with disabilities) and lack of adequate infrastructure or utilities.

(2) (2 points) Data demonstrating:

(a) Need for accessible homes in the target area(s).

(b) Evidence of housing discrimination in the target area(s).

(c) Any need for housing shown in the local Analysis of Impediments to Fair Housing Choice, if addressed.

3. Rating Factor 3: Soundness of Approach (40 Points)

This factor examines the quality and soundness of your plan to carry out a self-help housing program. In evaluating this factor HUD will consider:

a. Your proposed use of SHOP funds, including the number of units and the type(s) of housing to be constructed, the use of sweat equity and volunteer labor; your schedule for expending funds and completing construction; including interim milestones; the appropriateness of proposed housing to the specific needs of target area(s); the proposed budget and cost effectiveness of your program; and your plan to reach all potentially-eligible homebuyers, including those with disabilities and others least likely to apply, and your criteria for selecting homebuyers.

b. How your planned activities further the Department's FY2004 policy priorities noted in section V.B.2 of the General Section. For FY2004, the four policy priorities that apply to SHOP are:

(1) Providing increased homeownership opportunities for low- and moderate-income persons, persons with disabilities, the elderly, minorities, and families with limited English proficiency.

(2) Encouraging accessible design features: Visitability in new construction and substantial rehabilitation and universal design.

(3) Providing full and equal access to grassroots faith-based and other community-based organizations in HUD program implementation; and

(4) Removal of regulatory barriers to affordable housing.

Submission Requirements for Factor 3

Activities. Describe the types of activities that you propose to fund with SHOP and the proposed number of units to be assisted with SHOP funding, the housing type(s) (single family or multifamily, or both) to be assisted and the form of ownership (fee simple, condominium, cooperative, etc.) you propose to use.

a. (5 points) Sweat Equity. Describe the individual sweat equity requirements (i.e., types of tasks and numbers of hours required of homebuyers) of your program, and describe how your program will provide reasonable accommodations for persons with disabilities by identifying sweat equity assignments that can be performed by the homebuyer regardless of the disability, such as doing administrative, clerical, organization, or other office work or minor tasks on site. Reasonable accommodation can include sweat equity by the homebuyer that can be performed regardless of the disability or substitution of a non-homebuyer designee(s) to perform the sweat equity assignments on behalf of the homebuyer. Include the dollar value of the sweat equity and volunteer labor contribution and specify the amount by which this contribution will reduce the sales price to the homebuyer. Applicants showing a larger reduction of the sales price as a result of the homebuyer's sweat equity and volunteer labor contributions will receive a higher score.

b. (5 points) Funds Expenditure, Construction, and Completion Schedules. Submit a construction and completion schedule that expends SHOP funds and substantially fulfills your obligations. You must define “substantially fulfills” by stating the percentage or number of properties that you propose to be completed and conveyed to homebuyers at the time all grant funds are expended. Your construction schedule must include the number of dwelling units to be completed within 24 months, or in the case of affiliates that develop five or more units, within 36 months, and a time frame for completing any unfinished units.

Your schedule must also include milestones or benchmarks against which HUD can measure your progress in selecting local affiliates if they are not specifically identified in the application, expending funds, and completing acquisition, infrastructure, and housing construction activities within these schedules. These milestones or benchmarks should be established at reasonable intervals (e.g., monthly, quarterly).

c. (3 points) Need. Describe how your proposed SHOP activities address the need or needs you identified under Rating Factor 2 above.

d. (6 points) Budget. Provide a detailed budget including a break out for each proposed task and each budget category (acquisition, infrastructure improvements, and administration) funded by SHOP in the HUD-424C and 424CB. If SHOP funds will be used for administration of your grant, you must include the cost of monitoring consortium members and affiliates at least once during the grant period. Your budget must also include leveraged funding to cover costs of completing construction of the proposed number of units.

e. (3 points) Cost Effective. Describe how the cost of your proposed SHOP units compare to similar units in the target area(s) that are not funded with SHOP. You must demonstrate that your SHOP costs will not exceed an average of $15,000 per unit, and that your proposed self-help housing activities are cost effective. Applicants should address costs of land, infrastructure, and housing construction for non-SHOP units.

f. (5 points) Policy Priorities. Describe how each of the four Department's policy priorities identified specifically for SHOP is furthered by your proposed activities. You will receive one point for policy priorities (a), (b), and (c) above based on how well your proposed work activities address the specific policy. You will receive up to two points for addressing policy priority (d), Removal of Regulatory Barriers to Affordable Housing, for which you must submit form HUD-27300, Questionnaire for HUD's Initiative on Removal of Regulatory Barriers (see Section V.B.2.g. of the General Section). Applicants that identify affiliate organizations and jurisdictions to be served in their application to HUD should address the questions in Part A or Part B for the jurisdiction in which the majority of services will be performed. Applicants that do not identify affiliates and communities to be served in their application to HUD, but select affiliates competitively or through another method after application submission to HUD, may address this policy priority by including it as an evaluative criterion in their affiliate selection process. Such applicants may receive up to two points by either requiring affiliate applicants for the awarded SHOP funds to complete the questions in Part A or Part B, as appropriate. In order to receive points, applicants that identify affiliates after application submission must include their evaluative criterion as an appendix. This does not count against the page limits identified in section IV.B.1., Page Limits.

g. (3 points) Program Outreach. Describe materials or services that will be used to reach potential homebuyers in all protected classes. For example, what alternative formats will be used to reach persons with a variety of disabilities and what language accommodations will be made for persons with limited English proficiency.

h. (5 points) Homebuyer Selection. Describe your criteria for selecting homebuyers, including the income range of targeted homebuyers, and selection procedures. If the selection criteria used by individual consortium members or affiliates are different from your criteria, you must describe the differences. Specify the definition of annual income that you will use to determine the income eligibility of homebuyers as described in section III.C.2.c. of this NOFA. If a consortium member's or affiliate's definition of annual income is different from your income definition, you must identify the consortium member or affiliate and its definition. For organizations that select affiliates after application submission, you must specify how you will impose this requirement in your selection of affiliates.

i. (5 points) Performance and Monitoring. Describe your plan for overseeing the performance of consortium members and affiliates, including a plan for monitoring each consortium member and affiliate for program compliance at least once during the term of the grant. Your plan should address when and how you will shift funds among consortium members and affiliates to ensure timely and effective use of SHOP funds within the schedule submitted for item b. above.

4. Rating Factor 4: Leveraging Resources (10 Points)

This factor addresses your ability to secure other resources that can be combined with HUD's program resources to fully fund your proposed program. When combined with the SHOP grant funds, homebuyer sweat equity, and volunteer labor, your leveraged resources must be sufficient to develop the number of units proposed in your application. HUD will consider only those leveraging contributions for which current firm commitments as described in this Factor have been provided. A firm commitment means a written agreement under which the applicant, a partner, or an entity agrees to perform services or provide resources for an activity specified in your application. Firm commitments in the form of cash funding (e.g., grants or loans), in-kind contributions, donated land and construction materials, and donated services will count as leverage. Leveraging does not include the dollar value of sweat equity and volunteer labor for your proposed activities. Leveraging does not include financing of mortgages to homebuyers. Firm commitments must be substantiated by the documentation described below.

Submission Requirements for Factor 4

(10 points) Firm Commitments of Resources. Provide firm commitments (letters, agreements, pledges, etc.) of leveraged resources or services from the source of the commitment. In order to be considered, leveraged resources or services must be committed in writing and include your organization's name, the contributing organization's name (including designation as a Federal, state, local, or private source), the proposed type of commitment and dollar value of the commitment as it relates to your proposed activities. Each letter of commitment must be signed by an official of the organization legally able to make the commitment on behalf of the organization. Each letter of commitment must specifically support your FY2004 SHOP application or specific projects in your FY2004 application. If your organization depends upon fundraising and donations from unknown sources/providers you must submit a separate letter committing a specific amount of dollars in fundraising to your proposed FY2004 SHOP program. Likewise, if you have received funds from organizations and agencies from previous years that are not committed to another activity and you have the sole discretion to commit these funds to your FY2004 SHOP program, you must submit a separate letter committing these dollars to your FY2004 SHOP program. Letters of commitment may be contingent upon your receiving a grant award. Letters of commitment must be included as an appendix to your application, and do not count toward the page limitation noted in section IV.B. Letters only expressing support of your organization or its proposal, unsigned, undated, or outdated letters, or those not specifically linking the resources to your FY2004 SHOP application or specific projects in your FY2004 application do not count as firm commitments.

To receive full credit for leveraging, an applicant's leveraging resources must be clearly identified for your FY2004 SHOP application and must total at least 50 percent of the amount needed to complete all properties, minus the proposed SHOP grant amount, homebuyer sweat equity, and volunteer labor.

5. Rating Factor 5. Achieving Results and Program Evaluation (10 points)

This factor emphasizes HUD's determination to track whether applicants meet commitments made in their applications and grant agreements and assess their performance in realizing performance goals. HUD requires SHOP applicants to develop an effective, quantifiable, outcome-oriented evaluation plan for measuring performance and determining whether goals have been met using the Logic Model, Form HUD-96010, provided in the General Section. “Outcomes” are benefits accruing to the families and/or communities during or after participation in the SHOP program. The self-help housing units developed are outputs as described under this Factor, not outcomes. Applicants must clearly identify the outcomes to be achieved and measured. Examples of outcomes include increasing the homeownership rate in a neighborhood or among low-income families by a certain percentage, increasing financial stability (e.g., increasing assets of the low-income homebuyer households through additional savings, home equity) or increasing housing stability (e.g., whether persons and families assisted remain in the home one, two, or five or more years after completion).

In addition, applicants must establish interim benchmarks and outputs for their proposed programs that lead to the ultimate achievement of outcomes. “Outputs” are the direct products of the applicant's program activities. Examples of outputs include the number of the houses constructed, number of sweat-equity hours, or number of homes rehabilitated. Outputs should produce outcomes for your program. “Interim benchmarks” are steps or stages in your activities that, if reached or completed successfully, will result in outputs for your program. Examples of interim benchmarks include income-qualifying homebuyers, obtaining building permits, or securing construction materials and equipment.

Program evaluation requires that you identify program outcomes, outputs, benchmarks, and performance indicators that will allow you to measure your performance. Performance indicators should be objectively quantifiable and measure actual achievements against anticipated achievements. Your evaluation plan should identify what you are going to measure, how you are going to measure it, and the steps you have in place to make adjustments to your work plan if performance targets are not met within established timeframes. This factor reflects HUD's goal to embrace high standards of ethics, management, and accountability.

Submission Requirements for Factor 5

(10 Points) Program Evaluation Plan. Using Logic Model, Form HUD-96010, provided in the General Section, you must submit a program evaluation plan that demonstrates how you will measure your own program performance. Your plan must identify the interim benchmarks, outputs, and outcomes you expect to achieve over the term of your proposed grant including timeframes for accomplishing these goals. Your plan must demonstrate how interim benchmarks relate to outputs, and subsequently to outcomes in your proposed program. Your plan must include performance indicators to measure actual accomplishments against anticipated achievements. You must indicate how your plan will measure the performance of individual consortium members and affiliates, including the standards and measurement methods, and the steps you have in place or how you plan to make adjustments if you begin to fall short of established benchmarks and time frames.

B. Reviews and Selection Process

1. Factors for Award Used To Evaluate Applications

HUD will evaluate all SHOP applications that successfully complete technical processing and meet threshold and submission requirements for Factors 1 through 5. The maximum number of points for this program is 102, which includes two Empowerment Zones/Enterprise Communities/Urban Enhanced Enterprise Communities/or Renewal Communities (RC/EZ/EC) bonus points, as described in section V.A.1.a. of the General Section of the SuperNOFA.

2. Rating

Applications that meet all threshold requirements listed in Section III.C. will be rated against the criteria in Factors 1 through 5 and given a score. Applications that do not meet all threshold factors will be rejected and not rated.

3. Ranking and Selection Procedures

Applications that receive a total rating of 75 points or more (without the addition of RC/EZ/ECs bonus points) will be eligible for selection. RC/EZ/EC bonus points will be awarded as follows: Two points to an applicant with over 25 percent of its proposed units in RC/EZ/ECs; one point for 10 to 25 percent of units in RC/EZ/ECs, and 0 points below 10 percent of units in zones. After adding any bonus points for RC/EZ/ECs, HUD will place applications in rank order. HUD will consider rank order, funds availability, and past performance in the selection and funding of applications.

a. HUD reserves the right to:

(1) Fund less than the amount requested by any applicant based on the application's rank, the applicant's past performance, and the amount of funds requested relative to the total amount of available funds; and

(2) Fund less than the full amount requested by any applicant to ensure a fair distribution of the funds and the development of housing on a national, geographically-diverse basis as required by the statute; and/or

(3) Not award funds to an applicant with significant performance problems.

HUD will not fund any portion of an application that is ineligible for funding under program statutory requirements, or which does not meet the requirements of the General Section of this SuperNOFA or the requirements in this SHOP section of the SuperNOFA. The minimum grant award shall be the amount necessary to complete at least 30 units at an average investment of not more than $15,000 per unit or a lesser amount if lower costs are reflected in the application. If any funds remain after all selections have been made, these funds may be available for other competitions.

VI. Award Administration Information

A. Award Notices

Upon selection and public announcement of grant award, successful applicants will receive an award letter stating that they were selected and the award amount. Following this award letter, grantees will receive a letter transmitting a grant agreement and financial documents to set up their lines of credit. The grant agreement must be signed and returned to HUD. Upon receipt of the executed grant agreement, HUD will establish a line of credit for the grantee. Grantees will be notified when they may begin to draw funds. The 24- and 36-month grant periods for grantees to expend funds begin at the time HUD makes funds available to grantees in their lines of credit.

B. Applicant Debriefing

In accordance with the requirements of Section VI.A.3. of the General Section of the SuperNOFA, applicants requesting a debriefing must send a written request to Ms. Lou Thompson, Office of Affordable Housing Programs, U.S. Department of Housing and Urban Development, 451 Seventh Street, SW., Room 7164, Washington, DC 20410-7000.

C. Administrative and National Policy Requirements

1. Environmental Requirements

The provisions contained in section 305(c) of the Multifamily Housing Property Disposition Reform Act of 1994, Environmental Review, implemented in the Environmental Review regulations at 24 CFR part 58, are applicable to properties assisted with SHOP funds. All SHOP assistance is subject to the National Environmental Policy Act of 1969 and related Federal environmental authorities. SHOP grant applicants are cautioned that no activity or project may be undertaken, or Federal or non-Federal funds or assistance committed, if the project or activity would limit reasonable choices or could produce a significant adverse environmental impact until all required environmental reviews and notifications have been completed by a unit of general local government, tribe, or state and until HUD approves a recipient's request for release of funds under the environmental provisions contained in 24 CFR part 58. Not withstanding the preceding sentence, in accordance with section 11(d)(2)(A) of the Housing Opportunity Extension Act of l996 and HUD Notice CPD-01-09, an organization, consortium, or affiliate receiving SHOP assistance may advance non-grant funds to acquire land prior to completion of an environmental review and HUD's approval of a request for release of funds and environmental certification. Any advances to acquire land prior to such approval are made at the risk of the organization, consortium or affiliate and reimbursement from SHOP funds for such advances will depend on the result of the environmental review.

2. HUD Reform Act of 1989

The provisions of the HUD Reform Act of 1989 that apply to this NOFA are explained in the General Section of the SuperNOFA at Section VIII.F.

D. Reporting

Grantees are required to submit quarterly and annual reports providing data on the construction status, unit characteristics, and income and racial and ethnic composition of homeowners in SHOP-funded properties. For each reporting period, as part of the required report to HUD, grant recipients must include a completed Logic Model (form HUD 96010), which identifies output and outcome achievements.

VII. Agency Contact

Further Information and Technical Assistance. You may contact Ms. Lou Thompson; Office of Affordable Housing Programs; U.S. Department of Housing and Urban Development; 451 Seventh Street, SW., Room 7164, Washington, DC 20410-7000; telephone (202) 708-2684 (this is not a toll-free number). This number can be accessed via TTY by calling the toll-free Federal Information Relay Service Operator at 800-877-8339.

Satellite Broadcast. HUD will hold an information broadcast via satellite for potential applicants to learn more about the program and preparation of the application. For more information about the date and time of the broadcast, you should consult the HUD Web site at: http://www.hud.gov/grants.

VIII. Other Information

A. Paperwork Reduction Act

The information collection requirements contained in this document have been approved by the Office of Management and Budget (OMB) under the Paperwork Reduction Act of 1995 (44 U.S.C. 3501-3520) and assigned OMB control number 2506-0157. In accordance with the Paperwork Reduction Act, HUD may not conduct or sponsor, and a person is not required to respond to, a collection of information unless the collection displays a currently valid OMB control number. Public reporting burden for the collection of information is estimated to average 60 hours per annum per respondent for the application and grant administration. This includes the time for collecting, reviewing, and reporting the data for the application, quarterly, and annual report, and final report. The information will be used for grantee selection and monitoring the administration of funds. Response to this request for information is required in order to receive the benefits to be derived.

BILLING CODE 4210-32-P

Youthbuild

Overview Information

A. Federal Agency Name: Department of Housing and Urban Development, Office of Community Planning and Development.

B. Funding Opportunity Title: Youthbuild.

C. Announcement Type: Initial announcement.

D. Funding Opportunity Number: The OMB approval number for this program is 2506-0142.

The Federal Register number for this NOFA is FR-4900-N-20.

E. Catalog of Federal Domestic Assistance (CFDA) Number(s): 14.243, Youthbuild Program

F. Dates: The application due date is on or before July 2, 2004. Please see the General Section of the SuperNOFA for application submission, delivery, and timely receipt requirements.

G. Additional Overview Content Information:

1. Purpose of the Program. The purpose of the Youthbuild program is to assist disadvantaged young adults in distressed communities in completing their high school education, to provide on-site construction training experiences, which also result in the rehabilitation or construction of housing for homeless persons and low- and very low-income families, to foster leadership skills, to further opportunities for placement in apprenticeship programs, and to promote economic self-sufficiency.

2. Available Funds. Approximately $ 59,397,475 in appropriated funds and carry over is available for Fiscal Year (FY) 2004, plus any funds available through recapture, minus any amount needed to correct errors.

3. Eligible Applicants. Eligible applicants are public or private nonprofit agencies, including grassroots faith-based and other community-based organizations, State or local housing agencies or authorities, State or units of local government, or any entity eligible to provide education and employment training under other Federal employment training programs, as further defined in HUD's regulation at 24 CFR 585.4.

4. Match. None

If you are interested in applying for funding under this program, please carefully review the General Section of the SuperNOFA and the following additional information.

Full Text of Announcement

I. Funding Opportunity Description

A. Program Description

The purposes of the Youthbuild Program are to:

1. Provide economically disadvantaged young adults with opportunities to obtain an educational experience that will enhance their employment skills, as a means to achieving self-sufficiency;

2. Foster the development of leadership skills and commitment to community;

3. Expand the supply of permanent affordable housing for homeless and low- and very low-income persons by providing implementation grants for carrying out a Youthbuild program;

4. Provide disadvantaged young adults with meaningful on-site training experiences in housing construction and rehabilitation that will enable them to render a service to their communities by helping to meet the housing needs of homeless persons and low-income families; and

5. Give to the greatest extent possible, job training, employment, contracting and other economic opportunities to low-income young adults.

B. Desirable Elements of a Youthbuild Program

You should document the extent to which HUD's initiatives are furthered by the proposed activities. Such initiatives include:

1. Providing increased homeownership and rental opportunities for low- and moderate- income persons, persons with disabilities, the elderly, minorities, and families with limited English proficiency;

2. Improving our nation's communities;

3. Encouraging accessible design features;

4. Providing full and equal access to grassroots faith-based and other community based organizations in HUD program implementation; and

5. Ending chronic homelessness within ten years.

C. Authority

This program is authorized under subtitle D of title IV of the Cranston-Gonzalez National Affordable Housing Act, as added by section 164 of the Housing and Community Development Act of 1992 (Pub. L. 102-550, 106 Stat. 3723, 42 U.S.C. 12899). The Youthbuild Program regulations are found in 24 CFR part 585.

II. Award Information

A. Available Funds

Approximately $59,397,475 in Fiscal Year (FY) 2004 funding and carry over will be made available through this program section of this SuperNOFA for the Youthbuild program. The breakdown of funding is discussed below.

B. The FY2004 HUD Appropriations Act

The Department of Veterans Affairs and Housing and Urban Development, and Independent Agencies Appropriations Act, 2004 (the “FY 2004 HUD Appropriations Act”) made $64,616,500 available of which $59,397,475 is allocated for grants.

C. Funding Categories

HUD will award up to $59,397,475 on a competitive basis. Funds will be divided among three categories of grants as described below. In each fiscal year, the Secretary shall reserve five percent of the amounts available for technical assistance activities under this subtitle pursuant to section 402 to carry out subsections (b) and (c), (Subtitle D-Hope for Youth: Section 458 (42 U.S.C. 12899g).

1. Category 1 Grants. New Applicants. HUD will award up to $10,000,000 for new applicants that have not previously received implementation grants since the inception of the Youthbuild Program and that have elected not to apply under Category 2 or 3. The maximum amount that may be awarded to a successful applicant in this category is $400,000, for a period not to exceed 30 months.

2. Category 2 Grants. Grants up to $700,000. HUD will award up to $39,456,475 for grants up to $700,000 for a period not to exceed 30 months. The maximum amount that may be awarded to a successful applicant in this category is $700,000. Any eligible applicant can apply in Category 2.

3. Category 3 Grants. Underserved and Rural Areas. HUD will award up to $ 9,941,000 (includes $10,000,000 in appropriated funds, less .59 percent rescission) for grants to organizations serving clients in underserved and rural areas as defined in this NOFA for a period not to exceed 30 months. The maximum amount that may be awarded to a successful applicant in this category is $400,000. Rural and Underserved areas are defined as follows:

a. Rural Area. A rural area is defined in one of five ways:

(1) A place having fewer than 2,500 inhabitants (within or outside of metropolitan areas).

(2) A county with an urban population of 20,000 inhabitants or fewer.

(3) Rural portions of extended cities, as identified by the U.S. Census Bureau.

(4) Open country, which is not part of or associated with an urban area. The United States Department of Agriculture (USDA) describes “open country” as a site separated by open space from any adjacent densely populated urban area. Open space includes undeveloped land, agricultural land or sparsely settled areas but does not include physical barriers (such as rivers and canals), public parks, commercial and industrial developments, small areas reserved for recreational purposes, and open space set aside for future development.

(5) Any place with a population not in excess of 20,000 and not located in a Metropolitan Statistical Area.

b. Underserved Area. An underserved area is defined as an area comprised of census tracts with the following distress criteria:

(1) A census tract where the unemployment remains high (50 percent or more above the nation's unemployment rate) and

(2) A census tract where high rates of poverty (50 percent or more above the national average) persists.

Applicants must indicate on their transmittal/cover letter which funding category they are applying for.

4. Grant Period. You must expend funds awarded within 30 months of the effective date of the grant agreement.

5. Maximum Awards. Under the competition established by this Youthbuild program section of the SuperNOFA, the maximum award for a Youthbuild grant is $700,000.

III. Eligibility Information

A. Eligible Applicants

Eligible applicants are public or private nonprofit agencies, including grassroots faith-based and other community-based organizations, State or local housing agencies or authorities, states or units of local government, or any entity eligible to provide education and employment training under other Federal employment training programs.

B. Cost Sharing or Matching

Under the Youthbuild program, there is no match required. Applicants that submit evidence of leveraging dollars under Rating Factor 4 “Leveraging Resources” will receive points under that factor.

C. Other

1. Eligible Activities

a. Work and activities associated with the acquisition, architectural and engineering work, rehabilitation or construction of housing, as defined in HUD's regulations at 24 CFR 585.309, 585.310, and 585.311.

b. Relocation payments and other assistance required to comply with HUD's regulation at 24 CFR 585.308;

c. Costs of ongoing training and technical assistance needs related to carrying out a Youthbuild program;

d. Education, job training, counseling, employment, leadership development services, and optional activities that meet the needs of the participants including entrepreneurial training, driver education, apprenticeship opportunities, financial literacy, credit counseling, assistance programs for those with learning disabilities, and in-house staff training;

e. Outreach to potential participants;

f. Wages, benefits, and need-based stipends for participants; and

g. Pursuant to the FY2004 HUD Appropriations Act, administrative costs must not exceed 10 percent of the grant award. HUD encourages you to use grant funds for outreach, recruitment, training, and other services for the participants that facilitate program implementation. Please refer to HUD's regulation at 24 CFR 585.305 for further details on eligible activities.

2. Threshold Requirements

a. Eligible Participants. Participants in a Youthbuild program must be very low-income high school dropouts between the ages of 16 and 24, inclusive, at the time of enrollment. Up to 25 percent of participants may be above very low-income, or may be high school graduates (or equivalent), but must have educational needs (such as lack of reading, writing, and communication skills) that justify their participation in the program.

b. Youthbuild Program Components. Applications that receive assistance under this Youthbuild program section of the SuperNOFA must contain the three components described as follows:

(1) Educational and job training services;

(2) Leadership training, counseling, and other support activities; and

(3) On-site training through actual housing rehabilitation and/or new construction work. (New construction may be subject to the accessible design and construction requirements of the Fair Housing Act (see the General Section of the SuperNOFA), including the provision of alternative training experiences that are necessary as a reasonable accommodation for students with disabilities.)

c. Identification of and Access to Property. Your application must identify the location of the site(s) or property(ies) (e.g., addresses, parcel numbers, etc.) that will be used for on-site construction. Your application MUST contain a letter from the property owner or property management company(ies) allowing access to the housing site(s) for on-site construction training. HUD may deem as ineligible any application that fails to specifically identify the location of the on-site construction. Guidance on evidence of site access is as follows:

(1) If the applicant or joint applicant has a contract or option to purchase the property, you should include a copy of the contract or option; and

(2) If a third party owns the property or has a contract or option to purchase, that third party must provide a letter to you stating the nature of the ownership and specifically providing you with access to the property for the purposes of the program and the time frame in which the property will be available. In the case of a contract or option, include a copy of the document.

d. Minimum Score. In order to be considered eligible for funding, your application must receive a minimum score of 75, including a minimum of 10 points in Factor 1.

3. Program Requirements

a. Locational Limitations. You may submit more than one application in the current competition if your program's participant recruitment and housing areas are in different jurisdictions. Each application you submit may only propose activities to carry out one Youthbuild program, i.e., to start a new Youthbuild program or to fund new classes of Youthbuild participants for an existing program.

b. Site Selection—In determining the site or the location of a federally assisted facility, the applicant may not select sites that will exclude qualified persons with disabilities, or otherwise subject them to discrimination under the Youthbuild program.

c. New Construction—Substantial Alterations—Other Alterations. If the applicant undertakes to participate in New Construction, Substantial Alterations, or Other Alterations, it must conform to the accessibility standards outlined in the regulations implementing the Rehabilitation Act of 1973 at 24 CFR part 8, §§ 8.22, 8.23(a) and § 8.23(b).

d. Training Requirement. Each program must be structured so that 50 percent of each participant's time is spent in on-site training and the other 50 percent in educational training.

e. Economic Opportunities for Low- and Very Low-Income Persons (Section 3). Section 3 of the Housing and Urban Development Act of 1968, (12 U.S.C. 1701u) is applicable to the Youthbuild program. Please see the General Section of the SuperNOFA.

f. Participation in Local Workforce Investment Act One-Stop Center. Youthbuild grantees are mandatory partners in one-stop centers authorized by the Workforce Investment Act of 1998 (Public Law 105-220).

g. First time applicants. If you are a first-time applicant applying for funding under Category 1, you must have a graduating class of not more than 20 participants.

h. Potential Environmental Disqualification. HUD reserves the right to disqualify an application where one or more environmental thresholds are exceeded if HUD determines that it cannot conduct the environmental review and satisfactorily complete the review within the HUD application review period. (See 24 CFR 585.307.) Environmental thresholds are explained in Appendix A of this program section of the SuperNOFA. Complete form 2C13a, 2C13b or 2C13c and form 2C15 only if you are proposing to use Youthbuild funds for new housing construction or rehabilitation.

i. Environmental Reviews. Environmental procedures apply to HUD approval of grants when you propose to use Youthbuild funds to cover any costs for the lease, acquisition, rehabilitation, or new construction of real property proposed for housing project development. Environmental procedures do not apply to HUD approval of your application when you propose to use your Youthbuild funds solely to cover costs for classroom and/or on-the-job construction training and support services.

If you propose to use your Youthbuild funds to cover any costs of the lease, acquisition, rehabilitation, or new construction of real property, you must submit all relevant environmental information in your application to support HUD decisionmaking in accordance with the environmental procedures and standards set forth in HUD's regulation at 24 CFR 585.307.

j. DUNS Requirement. Refer the General Section of the SuperNOFA for information regarding the DUNS requirement. You will need to obtain a DUNS number to receive an award from HUD.

k. Consistency with Consolidated Plan. You must provide the required certification that the proposed activities are consistent with the HUD-approved Consolidated Plan in accordance with 24 CFR part 91 and referenced in the General Section of the SuperNOFA. Youthbuild applicants will be rated on this certification under Rating Factor 2, subfactor (d).

l. Category 3 applicants only. You must state that the proposed project to be established will be located in an underserved and rural area as defined in Section II.C. of this program section of the SuperNOFA.

m. Funding Restrictions. Administrative costs must not exceed 10 percent of the grant award.

IV. Application and Submission Information

A. Addresses To Request Application Package

There is no application kit for the FY2004 Youthbuild NOFA. This SuperNOFA clearly describes the requirements for completing a successful application and all forms and certifications needed to complete the application are included in the General and Youthbuild Sections of the SuperNOFA.

B. Content and Form of Application Submission

1. Response to NOFA—Page Limitation. The total narrative response to all factors identified in Section V of this program NOFA must not exceed 15 pages, and must be submitted on 8.5 by 11 inch paper, using a standard 12 point font, with lines double-spaced and printed only on one side. Please note that submitting pages in excess of the page limit will not disqualify your application. However, HUD will not review or consider the information on any excess pages, which may result in a lower score or failure to meet a threshold.

2. Application Items. Your application must contain the items listed in this section. These items include the standard forms, certifications, and assurances listed in the General Section of the SuperNOFA that are applicable to this funding (collectively referred to as the “standard forms”). The standard forms can be found in Appendix A to the General Section of the SuperNOFA.

What to submit | Required content | Required form or format | When to submit it
Transmittal Letter | Category applying for Location of project; Number of participants; Number of houses to be constructed; Number of houses to be rehabbed; Major partners | None | On or before July 2, 2004.
Application |  | SF-424
Survey on Ensuring Equal Opportunity for Applicants |  | SF-424 supplement
Budget information | Total Youthbuild Grant Budget | Youthbuild Form 4A
Rating Factors: Narrative plus Exhibit 4B plus Logic Model Form | Described in Section V of this announcement
Assurances | (per required form) | HUD-424B
Applicant/Recipient Disclosure/Update Form | (per required form) | HUD-2880
Disclosure of Lobby Activities (if necessary) |  | SF-LLL
Certification of Consistency with RC/EZ/EC Strategic Plan |  | HUD-2990
Certification of Consistency with Consolidated Plan |  | HUD-2991
Acknowledgment of Application Receipt |  | HUD-2993
Client Comments and Suggestions |  | HUD-2994
Youthbuild Program Specific Forms* |  | HUD-40211
Exhibit 2C (Housing Site Description)
Exhibit 2C10 (Individual Housing Project Site Estimate)
*Exhibit 2C13a (Housing Project Certifications for Residential Rental Units)
*Exhibit 2C13b (Housing Project Certifications for Transitional Housing)
*Exhibit 2C13c (Housing Project Certifications for Homeownership)
*Exhibit 2C15 (Environmental Threshold Information for a Property Proposed for YB Funding)
Exhibit 4B (Non-Housing Program Resources)
Logic Model Form |  | HUD-96010
Site Access Letters
*These forms are required only if the applicant proposes to use Youthbuild funds for any part of acquisition, construction, or rehabilitation costs.

C. Submission Dates and Times

The application due date shall be on July 2, 2004. Please see the General Section of the SuperNOFA for application submission, delivery, and timely receipt requirements.

D. Other Submission Requirements

1. Address for Submitting Applications. Completed applications (one original signed application and two copies) must be submitted to: HUD Headquarters, Robert C. Weaver Federal Building, U.S. Department of Housing and Urban Development, 451 Seventh Street, SW., Room 7251, Washington, DC 20410; Attention: Youthbuild Program. When submitting your application, please include your name, mailing address (including Zip code), telephone number, and fax number (including area code). Also, please submit one copy of your complete application to the Community Planning and Development office that has jurisdiction for your program project area (refer to Appendix C to find your appropriate CPD office and address).

2. Application and Submission Information. Please refer to General Section of the SuperNOFA for information.

V. Application Review Information

The factors for rating and ranking applicants, and maximum points for each factor, are provided below. The maximum number of points for the program is 102. This includes two RC/EZ/EC bonus points, as described in the General Section of the SuperNOFA. The minimum fundable score is 75, including a minimum of 10 points in Factor 1.

Rating Factor 1: Capacity of the Applicant and Relevant Organizational Experience (20 Points, Minimum 10 Points)

This factor addresses the qualifications and experience of the applicant and participating parties to implement a successful young adult education training program in accordance with your work plan as further described in Factor 3. HUD will review and evaluate information provided documenting recent capability. Experience within the last 5 years will be considered recent. In addition, as described in the General Section of the SuperNOFA, HUD will take into account the applicant's past performance and may deduct points in this rating factor for previous inability to demonstrate performance. In reviewing this rating factor, HUD will evaluate the following sub-factors:

1. Team Member Composition and Experience (5 points). Your experience and the experience of your project director, core staff competencies including your day-to-day program manager, consultants, and contractors. You must demonstrate that your program manager has the background, experience, and capacity to implement all of the program components of the proposed work plan, as evidenced by recent work experience (within the last 5 years) in managing projects of the same or similar size, dollar amount, types of activities, and beneficiaries as those proposed in your work plan. If any gaps exist in your experience or organizational structure to carry out the program, describe how you will fill those gaps including the hiring of consultants or other outside parties.

2. Organizational Structure (5 points). The structure of your organization (include an organizational chart), management structure, including reporting relationships of key staff, a system for coordinating with outside contractors or third party service providers, a mechanism for an internal and external auditing relationship, and an accounting system which meets federal accounting system requirements. You should provide a clear description of how your organizational structure will operate to carry out your work plan.

3. Achievement of Performance Outcomes (10 points). The objectives and accomplishments of your past experience in conducting similar activities. You must describe your past project objectives and accomplishments that are similar to those of your proposed work plan to show your effectiveness and timeliness in managing similar projects. If you have received similar grants including previous Youthbuild grants, you must describe the effectiveness of your administration, including timeliness and meeting performance results from performance reports. In addressing timeliness of reports, you must compare when your reports were due with when they were actually submitted. You must describe your achievements, including specific measurable outcome objectives: number of youths recruited, trained, and received GEDs; number of youths obtaining jobs (i.e., those that are a part of a career path or apprenticeship program); number of youths participating in apprenticeships and number of housing units rehabilitated or constructed and made available for low- and very low-income persons (1) percent entered employment or enrolled in education and/or training first quarter after program exit, (2) percent of participants that earned a diploma, GED, or certificate, (3) percent that have attained literacy and numeracy skills by participants, (4) annual cost per participant.

Also, you must describe the extent to which you or participating partners have been successful in past education, training and employment programs and activities, including federally funded Youthbuild programs. If you have received a Youthbuild grant, you must submit copies of your last two progress reports or, if applicable, a closeout report. In applying the rating criteria, HUD will take into consideration your performance (including meeting target dates and schedules) as reported.

The more recent, relevant, and successful the experience of the proposed team members, organization and other participating entities in relation to the work plan, the greater the number of points that you will receive. For previous and existing Youthbuild grantees, applicants that can demonstrate a closer and greater linkage between the expected outcomes and the previously generated outcomes will receive a higher amount of points for this Factor. Previous and existing Youthbuild grantees' semi-annual reports will also be used to evaluate and score this subfactor.

Rating Factor 2: Need/Extent of the Problem (23 Points)

This Factor addresses the extent to which there is need for funding the proposed activities based on levels of distress and an indication of the urgency of meeting the need/distress in the applicant's target area. In responding to this Factor, applications will be evaluated on the extent to which the level of need for the proposed activity and the urgency in meeting the need are documented and compared to the target area and national data.

1. In applying this Factor, HUD will consider current levels of distress for the area (i.e., Census Tract(s) or Block Groups) immediately surrounding the project site or the target area to be served by the proposed project, and in the nation. This means that an application that provides data that show levels of distress in the target area expressed as a percent greater than the national average will be rated higher under this Factor.

Notwithstanding the above, an applicant proposing a project to be located outside the target area could still receive points under the Distress Factor if a clear rationale and linkage is provided linking the proposed project location and the benefits to be derived by persons living in more distressed area(s) of the applicant's target area.

2. Applicants should provide data that address indicators of distress, as follows:

a. Poverty (5 points)—data should be provided in both absolute and percentage form (i.e., whole numbers and percentages) for the target area(s); an application that compares the local poverty rate in the following manner to the national average at the time of submission will receive points under this section as follows:

(1) Less than the national average—0 points.

(2) Equal to but less than twice the national average—1 points.

(3) Twice but less than three times the national average—3 points.

(4) Three or more times the national average—5 points.

b. Unemployment (5 points)—for the project area;

(1) Less than the national average—0 points.

(2) Equal to but less than twice the national average —1 point.

(3) Twice but less than three times the national average— 2 points.

(4) Three but less than four times the national average—3 points.

(5) Four but less than five times the national average—4 points.

(6) Five or more times the national average—5 points.

c. High School Dropouts (10 points)—for the project area;

(1) Less than the national average—0 points.

(2) Equal to but less than twice the national average—2 points.

(3) Twice but less than three times the national average—4 points.

(4) Three but less than four times the national average—6 points.

(5) Four but less than five times the national average— 8 points.

(6) Five or more times the national average—10 points.

d. Concrete examples of social and/or economic decline that best capture the applicant's local situation (3 points). Examples that could be provided under this section are information on the community's stagnant or falling tax base, including recent commercial or industrial closings, housing conditions, such as the number and percentage of substandard and/or overcrowded units, rent burden (defined as average housing cost divided by average income) for the target area and urgency in addressing problems facing youth, local crime statistics, etc.

3. In rating applications under this Factor, HUD reserves the right to consider sources of available objective data, such as the U.S. Census, other than, or in addition to, those provided by applicants, and to compare such data to those provided by applicants and local crime statistics for the project site.

HUD requires use of sound and reliable data (e.g., U.S. Census data, state statistical reports, university studies/reports that are verifiable) to support distress levels cited in each application. A source for all information along with the publication or origination date must also be provided. Updated Census data are available as follows for the listed indicators:

a. Unemployment rate—estimated monthly, with a two-month lag;

b. High School Dropout rate;

c. Poverty rate—2001—data being the most recent available.

Rating Factor 3: Soundness of Approach (35 Points)

This factor addresses the extent to which your proposed program is coordinated with other ongoing and related activities in the area you propose to serve and how well your program outcomes result in increased independence and empowerment to your beneficiaries at the conclusion of the grant period. HUD will evaluate the extent to which your application meets the following three elements:

A. Coordination Elements—5 points as distributed below.

1. Coordination of activities (2 points). The extent to which you have coordinated your activities with other known organizations that are not directly in your proposed work activities, but with which you share common goals and objectives and are working toward meeting these objectives in a holistic and comprehensive manner. The goal of coordination is to ensure that programs do not operate in isolation. The more your activities are coordinated with other agencies in your service area, the more points you will receive. HUD will consider your signed Certification of Consistency with the Consolidated Plan in evaluating this subfactor. An example of coordination of activities would be the applicant's partnership with an existing child day care facility (which is not funded by program) that provides day care services to the Youthbuild participants during the hours they are being trained or receiving education.

2. Self-Sufficiency (1 point). The extent to which your application implements practical solutions within the grant term that result in assisting beneficiaries of grant program funds in achieving independent living, economic empowerment, educational opportunities, housing choice or improved environments which are free from environmental hazards such as lead hazards, brownfields, overcrowded housing, etc. Applicants that clearly describe the extent to which proposed activities result in increased independence and empowerment for their beneficiaries will receive higher points in this sub-factor.

3. Sustainability (2 points). The extent to which your program exhibits the potential to be financially self-sustaining by decreasing dependence on Youthbuild funding and relying more on state, local, and private funding so your activities can be continued after your grant award is complete. Applicants that demonstrate a reduced dependence on Youthbuild funds over the life of their award will receive a greater number of points for this sub-factor.

B. Youthbuild Program Work Plan. For each component, HUD will consider the overall quality and feasibility of your proposed work plan and budget that must be consistent with the Youthbuild program as measured by your specific activities and outcomes. You will receive a greater number of points if the program components are consistent with the purpose of the Youthbuild program and your project goals and the resources provided. Letters describing specific resources or services to be contributed by non-applicant organizations must be included in your application.

Specifically, HUD will consider the following categories when assessing your proposed work plan:

1. Program Components. (15 points)

a. Outreach strategy, recruitment strategy and selection activities. Points will be awarded based upon overall quality and feasibility of the outreach, recruitment and selection activities, the number and types of outreach activities, number of youths to be recruited including eligible participants who are harder to reach and comprehensiveness of the local selection process.

In evaluating this category, HUD will consider your selection strategies and your specific outreach efforts to recruit or contact:

(1) (Potential eligible participants who are unlikely to be aware of this program (because of race, color, national origin, religion, ethnicity, sex or disability);

(2) Young women, young women with dependent children, and persons receiving public assistance; and

(3) Public agencies, courts, homeless shelters, local school systems, local workforce development systems, one-stop centers and community-based organizations, etc.

b. Educational and job training services and activities.

Points will be awarded based upon the qualifications of instructors and proposed wages and stipends for youth participants. In evaluating this category, HUD will consider:

(1) The types of in-class academic and vocational instruction you will provide;

(2) The number and qualifications of program instructors and ratio of instructors to participants;

(3) Scheduling plan for classroom and on-the-job training needed to meet program requirements and ensure timely completion of your program; and

(4) Reasonable payments of participants' wages, stipends, and incentives. Amounts must be at least federal minimum wage.

c. Leadership development. Points will be awarded based upon your proposed leadership curriculum, qualifications of instructors, and the impact of the proposed leadership activities on the target area. You must describe the leadership development training you will offer to participants and strategies for providing the training to build group cohesion and peer support.

d. Support services.

You must assess the need for counseling and referral services during each stage of program implementation: Outreach strategy, recruitment strategy, youths interviewed and not selected for the program, program participants, youths who drop out of the program, and graduates of the program. Describe how the participant needs will be addressed, document counseling and referral services to be offered to participants, the type of counseling, social services, and/or need-based stipends you will provide.

e. Follow-up assistance and support activities to program graduates. You must describe the type of proposed assistance and support which should be based upon an assessment of the needs of the program graduates and should include continued linkage to the local Youthbuild program, counseling and social service referral services.

f. On-site training. Points will be awarded based upon the experience of proposed instructors, number of youth to be trained and wages or stipends for participants. HUD will consider:

(1) The housing construction or rehabilitation activities participants will undertake at the site(s) to be used for the on-site training component of the program as provided in the training curriculum and methodology for carrying out on-site training;

(2) The qualification and number of on-site supervisors;

(3) The ratio of trainers to participants;

(4) The number of participants per site; and

(5) The amounts, wages, and/or stipends you will pay to participants during on-site work.

Amounts must be at least federal minimum wage.

2. Strategy for Job Placement. (2 points). HUD will evaluate the quality and feasibility of your proposed strategy to place youth participants in permanent jobs.

You will be rated on the following factors: (a) Proposed number of youth to obtain jobs that promote economic self-sufficiency (i.e., those that are a part of career paths or apprenticeship programs); (b) proposed number of youths who will continue post-secondary or secondary education; and (c) proposed number of youths to receive entrepreneurship training. Two points of this factor will be awarded based upon the comprehensiveness and feasibility of your strategies and procedures to place youth participants in related apprenticeships and commitments from construction trade unions.

C. Housing Program Priority. (10 points). HUD will assign Housing Program Priority points to all applications that contain evidence that housing resources from other federal, state, local, or private sources are available and firmly committed to cover all costs, in full, for the following housing activities for the proposed Youthbuild program: acquisition, architect and engineering fees, construction, and rehabilitation. Applications that do not include proper documentation of firm financial commitments of non-Youthbuild resources or propose to use Youthbuild grant funds, in whole or in part, or do not evidence site control, for any one of the housing activities listed above will not be entitled to housing program priority points. For all applicants to receive the housing program priority points, each letter of commitment to cover the costs of the above activities must include the organization's name, the applicant's name, the proposed program, and the proposed level of commitment. The commitment letter must also be signed by an official of the organization legally able to make commitments on behalf of the organization and not earlier than the date that this NOFA is published. In documenting a firm commitment the applicant, the applicant's partner(s) or contributing entity (if the contribution is cash) must:

1. Specify the authority by which the commitment is made, the amount of the commitment and the use of funds. If the committed activity is to be self-financed, the applicant's partner or contributing entity must evidence its financial capability through a corporate or personal financial statement or other appropriate means. If any portion of the committed activity is to be financed through a lending institution, the participant must evidence the institution's commitment to fund the commitment.

2. State the amount and use of the commitment, and the relationship of the commitment to the proposed investment; and

3. Affirm that its investment is contingent only upon receipt of FY2004 Youthbuild funds and state a willingness on the part of the signatory to sign a legally binding commitment not earlier than the date this NOFA is published and (conditioned on HUD's environmental review and approval of a property, where applicable) upon award of the grant. Forms 2C, Housing Site Description, and 2C10, Youthbuild Grant Individual Housing Project Site Estimate, must be completed to receive the Housing Program Priority points.

D. Policy Priorities. (3 points). Policy Priorities are further defined in the General Section of the SuperNOFA. Applicants should document the extent HUD's policy priorities are enhanced by the proposed activities. Applicants that include activities that can result in the achievement of these departmental policy priorities, as described below and the General Section of this SuperNOFA, will receive higher rating points in evaluating their application for funding. Two departmental policy priorities are listed below. Policy Priorities include:

1. Ending chronic homelessness within ten years (1 point);

2. Removal of regulatory barriers to affordable housing (up to 2 points) (see the General Section of the SuperNOFA for further explanation);

Rating Factor 4: Leveraging Resources (10 Points)

(Exhibit 4B Non-Housing Program Resources must be completed and you must provide letters of firm commitment from the donor with the amount of cash or in-kind contribution). Applicants submitting letters of commitment without the Exhibit 4 completed, will not receive points for this Rating Factor. This factor addresses the ability of the applicant to secure non-HUD resources. This factor measures the extent to which you have established partnerships with other entities to secure resources for your proposed program. Each commitment described on Exhibit 4B for this Factor must have a firm commitment letter. Grantees who leverage significant resources will receive a greater number of points.

HUD will evaluate the extent to which firm commitments of resources are obtained from federal, state, local, private and nonprofit sources. HUD will award a greater number of points based upon a comparison of the extent of leveraged funds and the requested Youthbuild grant. The greater the amount of resources leveraged, the higher the points that will be awarded. In assigning points for this criterion, HUD will consider the level of resources obtained for cash or in-kind contributions to cover the following kinds of areas:

1. Social services (i.e., counseling and training);

2. Use of existing vocational, adult, and bilingual educational courses;

3. Donation of labor, resource personnel, supplies, teaching materials, classroom, and/or meeting space; and

4. Other commitments. Leveraging will only be counted if you have secured a current firm financial commitment. A firm commitment letter means an agreement by which an applicant, an applicant's partner or contributing entity agrees to perform an activity specified in the application and commits the resources to the activity either in cash, through in-kind services or contributions and is irrevocable, subject only to approval and receipt of a FY2004 Youthbuild grant.

For all applicants, each letter of commitment must include the organization's name, the applicant's name, the proposed program, the proposed total level of commitment, and responsibilities as they relate to the proposed program. The commitment letter must also be signed by an official of the organization legally able to make commitments on behalf of the organization and not earlier than the date that this NOFA is published.

5. Resources from other Federal, State, local governments or private entities. HUD encourages use of existing housing and homeless assistance programs administered by HUD or other Federal, State, local governments, or private and nonprofit housing programs as part of your Youthbuild program. In addition, HUD encourages use of other non-Youthbuild funds available for vocational, adult, and bilingual education programs, or for job training under the Workforce Investment Act and the Personal Responsibility and Work Opportunity Reconciliation Act of 1996 (48 U.S.C. 1601 et seq.).

Rating Factor 5: Achieving Results and Program Evaluation (12 Points)

This factor emphasizes HUD's commitment to ensuring that applicants keep promises made in their application to rigorously assess their performance and ensure performance goals are met. Achieving results means you, the applicant, have clearly identified the benefits, or outcomes of your program. Outcomes are ultimate goals. Benchmarks or outputs are interim activities or products that lead to the ultimate achievement of your goals. Performance measurement requires that you, the applicant, identify program outcomes, interim products or benchmarks, and performance indicators that will allow you to assess your performance. Performance indicators must be quantified and measure actual achievements against anticipated achievements. You should identify what you are going to measure, how you are going to measure it, and the steps you have in place to make adjustments to your work plan if performance targets are not met within established timeframes. Applicants are required to address this factor as a narrative as well as complete the Logic Model form (see appendix to the General Section). This rating factor reflects HUD's goal to embrace high standards of ethics, management and accountability.

An applicant should agree to cooperate with any HUD-approved evaluation by making staff available for interview, providing lists of participants and their contact information, and making available files under appropriate assurance of confidentiality of records.

At a minimum, your Logic Model must include the following program outcomes:

(1) Number of participants enrolled in the program;

(2) Number of participants that graduate;

(3) Number of housing units constructed;

(4) Number of housing units rehabilitated;

(5) Number and percent of GED's or certificates attained by participants (for percentage calculation, numerator: the number of participants who attain a diploma, GED or certificate; denominator: those who are participating in the Youthbuild program).

(6) Number and percent of participants placed in employment or education (for percentage calculation, numerator: the number of participants who have entered employment or enrolled in post secondary education; denominator: the number of graduates from the Youthbuild program); and

(7) Number and percentage of participants who made literacy and numeracy gains (measures the increase in literacy and numeracy skills of participants through a common assessment tool administered at program registration and regular intervals thereafter); for percentage calculation, numerator: the number of Youthbuild program participants who increase one or more education functioning levels; denominator: the number of Youthbuild program participants who have completed a year in the program).

(8) Efficiency or annual cost per participant (numerator: grant amount; denominator: number of Youthbuild participants.)

B. Reviews and Selection Process

1. Rating and Ranking. a. General. To review and rate applications, HUD may establish panels including officials from other Federal agencies and outside experts or consultants to obtain certain expertise and other outside points of view. In evaluating applications for funding, HUD will take into account an applicant's past performance in managing funds, including the ability to account for funds appropriately, timely use of funds received either from HUD or from other Federal, State or local programs and meeting performance targets for completion of activities and number of persons served or targeted for assistance. HUD may use information relating to these items based on information at hand or available from public sources such as newspapers, Inspector General, or Government Accounting Office Reports or Findings, hotline complaints that have been proven to have merit, or other such sources of information.

b. Rating. All applications for funding will be evaluated against the rating factors described in Section V. of this NOFA.

c. Ranking. Applications will be ranked separately within each of the three funding categories. Applications will be selected for funding in accordance with their rank order in each category.

2. Eligibility for Selection. To be eligible for funding, an application must have an overall minimum score of 75 points, including a minimum score of 10 points in Factor 1. If two or more applications are rated fundable and have the same score, but there are insufficient funds to fund all of them, HUD will select the application(s) with the highest score for Rating Factor 3 (Soundness of Approach). If two or more applications still have the same score, the highest score in the following factors will be selected sequentially until one highest score can be determined: Rating Factor 1 (Capacity of the Applicant and Relevant Organization); Rating Factor 4 (Leveraging of Resources) and Rating Factor 2 (Need/Extent of the Problem).

3. Adjustments to Funding. HUD reserves the right to utilize this year's funding to fund previous years' errors prior to rating and ranking this year's applications. HUD reserves the right to reallocate funds between categories to achieve the maximum allocation of funds. Any available funds that remain after all applications within funding range have been selected or obligated will be reallocated between categories 1 and 2 by rank order between applications at the discretion of the selecting official or designee.

4. Corrections to Deficient Applications. The General Section of the SuperNOFA provides the procedures for corrections to deficient applications.

C. Anticipated Announcement and Award Dates

HUD anticipates making award announcements no later than four months after the application submission deadline date.

VI. Award Administration Information

A. Award Notices

1. Notification of Approval or Disapproval. HUD will notify you whether or not you have been selected for an award. If you are selected, HUD's notice to you of the amount of the grant award based on the approved application will constitute HUD's CONDITIONAL approval, subject to negotiation and execution of the grant agreement by HUD.

2. Application Debriefing. Applicants requesting to be debriefed must send a written or email request (see the General Section of the SuperNOFA) to: Mr. Marty Horwath, Director; Youthbuild Program; Office of Economic Development; Office of Community Planning and Development, 451 Seventh Street, SW., Room 7218, Washington, DC 20410-7000. Debriefing information can be found in the General Section of the SuperNOFA.

B. Administrative and National Policy Requirements

1. Applicable OMB Circulars. Please refer to the General Section of the SuperNOFA for information regarding applicable OMB Circulars.

2. Applicable Executive Orders. Please note that Executive Order 13202 may apply to your program (see the General Section of the SuperNOFA) and section 6002 of the Solid Waste Disposal Act covering the procurement of recovered materials may also be applicable (the General Section of the SuperNOFA. Also, refer to the General Section of the SuperNOFA for applicable Executive Orders.

VII. Agency Contact(s)

For information concerning the HUD Youthbuild program, contact Ms. Phyllis Williams, Community Planning and Development Specialist, Office of Economic Development, Office of Community Planning and Development, U.S. Department of Housing and Urban Development, 451 Seventh Street, SW., Room 7218, Washington, DC 20410-7000; telephone (202) 708-2290 (this is not a toll-free number). Persons with speech or hearing impairments may access this number via TTY by calling the toll-free Federal Information Relay Service at 800-877-8339. For Technical Assistance. Prior to the application deadline, HUD's staff will be available to provide general guidance on the application submission process and location of information, but not guidance in preparing your application.

Satellite Broadcast. HUD will hold an information broadcast via satellite for potential applicants to learn more about the program and preparation of an application. For more information about the date and time of this broadcast, you should consult the HUD Web site at http://www.hud.gov.

Paperwork Reduction Act: The information collection requirements contained in this document have been approved by the Office of Management and Budget (OMB) under the Paperwork Reduction Act of 1995 (44 U.S.C. 3501-3520) and assigned OMB control number 2506.0142. In accordance with the Paperwork Reduction Act, HUD may not conduct or sponsor, and a person is not required to respond to, a collection of information unless the collection displays a currently valid OMB control number. Public reporting burden for the collection of information is estimated to average 45 hours per annum per respondent for the application and grant administration. This includes the time for collecting, reviewing, and reporting the data for the application, semi-annual reports, and final report. The information will be used for grantee selection and monitoring the administration of funds. Response to this request for information is required in order to receive the benefits to be derived.

Appendix A—Instructions for Completion of Youthbuild Environmental Requirements (Exhibit 2C(15))

A. Instructions to Applicants

1. If you propose to use Youthbuild funds to cover any costs of the lease, acquisition, rehabilitation, or new construction or real property, you shall submit all relevant environmental information in your application to support HUD decision making in accordance with the environmental procedures and standards described in 24 CFR 585.307. For each proposed Youthbuild property for which HUD environmental procedures apply, you are to prepare a separate Exhibit 2C(15) in which you supply HUD with environmental threshold information and letters from qualified data sources (see definition below) which support the information. HUD will review your submission and determine how, if necessary, HUD will comply with any federal laws and authorities that may be applicable to your property proposed for Youthbuild funding. If environmental procedures apply and Exhibit 2C(15) with supporting documentation is not included then the application will be deemed ineligible. You are to follow these instructions for preparing Exhibit 2C(15). The instructions advise you on how to obtain and document certain information to be supplied to HUD in this exhibit. Before selecting a property for Youthbuild funding, you should read these instructions and be advised that HUD encourages you to select, to the extent practicable, properties and locations that are free of environmental hazards and problems discussed in these instructions. The responses to the environmental criteria in Exhibit 2C(15) will be used to determine environmental approval or disapproval by HUD of proposals for physical development of properties.

2. After selecting a property for proposed Youthbuild funding, you are to determine the activities to be undertaken with your Youthbuild funds. You are to indicate in Section E whether the Youthbuild funds will be used for:

(a) Lease or purchase of a property;

(b) Minor rehabilitation;

(c) Major rehabilitation; or

(d) New construction of housing.

The activities proposed for Youthbuild funding will determine the kind of data that you will need to obtain from a qualified data source in order to complete Exhibit 2C(15).

3. Once you have selected a property and determined the activities for Youthbuild funding, you are advised to check with your city or county agency that administers HUD's Community Development Block Grant program and performs environmental reviews, or the local planning agency. This course of action is recommended in view of the fact that most, if not all of the data needed for preparing Exhibit 2C(15) is readily available from the local community development agency and the local planning agency. You are advised to ask the environmental staff of those agencies the following questions:

(a) Has the agency ever prepared an environmental review of the proposed Youthbuild property or the neighborhood in which the property is located, and if so, would it provide a copy to the applicant for use by HUD;

(b) Would the agency assist you in completing section G; or if the agency is not able to help complete any item in section G, would the agency advise you which local or state agency is the appropriate qualified data source for obtaining the information.

Also, you should check with the local planning agency before proceeding elsewhere for the information.

You are advised that the cost of preparing information and analyses needed for Exhibit 2C(15) is an eligible cost under the Youthbuild program and is reimbursable if you are approved for a grant.

4. Key terms used in these instructions are defined in the following section. Most of the other terms are technical and their definition would be known to qualified data sources.

(a) Qualified data source means any Federal, State or local agency with expertise or experience in environmental protection (e.g., the local community development agency; the land planning agency; the state environmental protection agency; the State Historic Preservation Officer) or any other source qualified to provide reliable information on the particular subject. Please attach a letter supporting the information from each qualified data source to Exhibit 2C(15).

(b) Minor rehabilitation refers to proposed repairs and renovations to

(1) A building for residential use (with one to four units):

A. Where the density is not increased beyond four units;

B. Where the land use is not changed; and

C. Where the footprint of the building is not increased in a floodplain or in a wetland; or

(2) A multifamily residential building (with more than four units):

A. Where the unit density is not changed more than 20 percent;

B. Where the land use is not changed to non-residential; and

C. Where the estimated cost of rehabilitation is less than 75 percent of the total estimated cost of replacement after rehabilitation.

(c) Major rehabilitation refers to proposed repairs and renovations to an existing building:

(i) Where the estimated cost of the work is 75 percent or more of the property value after completion;

(ii) That involves changes in land use from residential to nonresidential, or from nonresidential to residential;

(iii) That involves the demolition of one or more buildings, or parts of a building, containing the primary use served by the project; or

(iv) That increases unit density by more than 20 percent.

(d) Multifamily housing means any residential building that contains five or more apartments or rooming units.

(e) Single family housing means any residential building that contains one to four dwelling units.

Because each federal environmental law or authority has compliance requirements that differ according to the type of proposed activity to be funded, you are required to supply information in Exhibit 2C(15) only for the type of activity for which the Youthbuild grant will be used.

(f) If you propose new construction or major rehabilitation of multifamily housing, you must supply complete and reliable environmental threshold information for items 1 through 13 in section G.

(g) If you propose new construction of single family housing, you must supply complete and reliable environmental threshold information for items 1 through 12 in section G.

(h) If you propose minor rehabilitation of multifamily or single family housing, or the purchase or lease of a property, you must supply complete and reliable environmental threshold information for items 1 through 7 in section G.

5. Applicants subject to HUD's environmental procedures are to submit Exhibit 2C(15) and accompanying documentation to HUD with the applications for grant assistance. Such applicants are prohibited from committing or expending State, local or other funds in order to undertake property rehabilitation, construction (including demolition), or acquisition (including lease), until HUD and the grantee execute a grant agreement for the proposed Youthbuild project.

6. HUD reserves the right to disqualify any application where one or more environmental thresholds are exceeded if HUD determines that the compliance review cannot be conducted and satisfactorily completed within the HUD review period for Youthbuild applications.

B. Environmental Threshold and Documentation Requirements

The threshold and documentation requirements for each of the Federal environmental laws and authorities are described below, following the same order as they appear in section G.

1. Site within designated coastal barrier resources:

Threshold: Youthbuild applicants are prohibited by Federal law from using Federal financial assistance for properties if the properties are located within designated coastal barriers of the Atlantic Ocean, Gulf of Mexico, and the Great Lakes (Coastal Barrier Resources Act, 16 U.S.C. 3501).

*Documentation: You are to select either A or B for the condition that best describes the property and report the option selected in item 1 of section G.

A. Your program operates in a community that does not contain any shores along the Atlantic Ocean, the Gulf of Mexico, or the Great Lakes.

B. Your program operates in a community that does contain shores along the Atlantic Ocean, the Gulf of Mexico, or the Great Lakes. You must provide HUD with a finding made by a qualified data source stating that the proposed property is not located within a designated coastal barrier resource by citing the map panel number of the official maps issued by the Department of the Interior (DOI) on the basis of which the finding was made.

2. Site contaminated with toxic chemicals and radioactive materials:

Threshold: Under HUD policy, as described in 24 CFR 50.3 (i), HUD will not approve the provision of financial assistance to residential properties on sites where contamination could affect the health and safety of occupants or conflict with the intended utilization of the property. Sites known or suspected to be contaminated by toxic chemicals or radioactive materials include, but are not limited to, sites: (i) Listed on either an EPA Superfund National Priorities List (NPL) or CERCLA (Comprehensive Environmental Response, Compensation, and Liability Act) List, or equivalent state list; (ii) located within 3,000 feet of a hazardous or solid waste landfill site; or (iii) with an underground storage tank (which is not a residential fuel tank).

*Documentation: You are to select either A or B for the condition that best describes property and report the option selected in item 2 of section G.

A. You are providing HUD with a finding made by a qualified data source stating that the proposed Youthbuild property and any neighboring properties do not contain any sites known or suspected to be contaminated with toxic chemicals and radioactive materials.

B. You are providing any site contamination data by a qualified data source in your letter for HUD's evaluation of contamination and/or suspicion of any contamination of a proposed property or any neighboring properties.

3. Site affecting a floodplain:

Threshold: A property located within a floodplain and proposed for funding is subject to Executive Order 11988, Floodplain Management. The Executive Order directs HUD to avoid, where practicable, proposed financial support for any floodplain property, whenever HUD has options to approve properties in flood-free locations. The Order does not apply to existing single family properties proposed for purchase or lease except for: (a) Property that is located within a floodway or coastal high hazard area; and (b) substantial improvement. Substantial improvement for flood hazard purposes means any property rehabilitation which: (i) Increases the unit density of the property; or (ii) equals or exceeds 50 percent of the market value of the property before rehabilitation, but excluding the costs for correcting health, sanitary, and safety code violations. Note: Proposed funding for substantial improvement and new construction are subject to the Executive Order decision making process. This may result in a disqualification of your application (refer above to number 7 under “Instructions to Applicants”).

*Documentation: You are to select A or B for the condition that best describes your property and report the option selected in item 3 of section G.

A. You are providing HUD with a finding made by a qualified data source stating that the property is not located within the Special Flood Hazard Area (SFHA).

B. You are providing HUD with a finding made by a qualified data source that the property is located within the Special Flood Hazard Area (SFHA) and indicating if the property is located within a floodway or coastal high hazard area.

The information for A and B must provide HUD with the flood map panel number obtained either from the official maps issued for the National Flood Insurance Program or from the property appraisal report used to make the finding.

For all proposed rehabilitation of properties that are located within an SFHA, you must provide HUD with estimates of: (1) The property value before rehabilitation, and (2) the cost of the proposed rehabilitation. Provide the estimates in section F.

If the property is found to be located within a SFHA, proceed to item 4 on flood insurance protection. Otherwise proceed to item 5.

4. Building requiring flood insurance protection:

Threshold: HUD will estimate the amount and period of flood insurance coverage that is to be made a condition of approval of any HUD financial assistance for a building located within a Special Flood Hazard Area (SFHA). The Flood Disaster Protection Act of 1973 requires owners of HUD-assisted buildings to purchase and maintain flood insurance protection as a condition of approval of any HUD financial assistance for the proposed purchase, rehabilitation, or new construction of any SFHA building. The law prescribes the coverage period and dollar amount of flood insurance protection.

Proof of Purchase of Flood Insurance Protection: You must provide HUD with proof of purchase of flood insurance protection for any proposed Youthbuild building located within the SFHA, whenever HUD funding is being used for property purchase, rehabilitation, or new construction. The standard documentation for compliance is the Policy Declarations form issued by the National Flood Insurance Program (NFIP) or issued by any property insurance company offering coverage under the NFIP. Whenever the requirement applies to coverage that extends to future years, the grant agreement will require that the insured have its insurer automatically forward to HUD, in the same manner as to the insured, an information copy of the Policy Declarations form, which is used to verify compliance. The Youthbuild applicant's responsibility ceases in cases where a mortgage loan is approved requiring flood insurance as condition of loan approval by a lender (other than the Youthbuild applicant), whose responsibility is to assure flood insurance coverage for the loan.

*Documentation: You are to select either A or B for the condition that best describes your property and report the option selected in item 4 of section G.

A. You already own the property and attach a copy of the Policy Declarations form confirming that a current flood insurance policy is in effect and the policy provides adequate coverage for the building proposed for the Youthbuild project located within the Special Flood Hazard Area.

B. After you have purchased (or constructed, in the case of proposed new construction) the Youthbuild property, you must obtain and maintain flood insurance protection. For the term and amount of coverage prescribed by law, you must provide HUD with a copy of the Policy Declarations form confirming that the flood insurance policy is in effect and the policy provides adequate coverage for the Youthbuild building located within the Special Flood Hazard Area.

5. Site within clear zones or accident potential zones of airports and airfields:

Threshold: HUD policy as described in 24 CFR part 51, subpart D applies to HUD approval of financial assistance to: (a) Properties located within clear zones; and (b) in the case of new construction or major rehabilitation, properties located within accident potential zones.

(a) Clear zones: New construction and major rehabilitation of a property that is located on a clear zone site is prohibited. HUD financial assistance in a clear zone is allowed only for the proposed lease, purchase, or minor rehabilitation of properties (24 CFR 51.302(a)). For HUD funding approval for any property in a clear zone: (a) HUD will give advance written notice to the prospective property buyer in accord with 24 CFR 51.303(a)(3); and (b) a copy of the HUD notice signed by the prospective property buyer will be placed in the property file. The written notice informs the prospective property buyer of: (i) the potential hazards from airplane accidents, which studies have shown more likely to occur within clear zones than in other areas around the airport/airfield; and (ii) the potential acquisition by airport or airfield operators, who may wish to buy the property at some future date as part of a clear zone acquisition program.

(b) Accident potential zones: For properties located within the accident potential zone (APZ), HUD shall determine whether the use of the property is generally consistent with Department of Defense “Land Use Compatibility Guidelines for Accident Potential Zones.”

*Documentation: You are to select either A or B for the condition that best describes your property and report the option selected in item 5 of section G.

A. The property is not located within 3,000 feet of a civil airport or military airfield.

B. If your property is located within 3,000 feet of a civil airport or military airfield, you must provide HUD with a finding from the airport operator stating whether or not the property is located within a runway clear zone at a civil airport, or a clear zone or accident potential zone at a military airfield.

For properties that are located within a runway clear zone or a clear zone or accident potential zone, if you propose to rehabilitate such a property you must provide HUD with estimates of: (i) the cost of the proposed rehabilitation, and (ii) the property value after completion of the rehabilitation. The estimates are to be provided in section F.

6. Site is or affects an historic property:

Threshold: Only if a property is proposed for rehabilitation or new construction must HUD in consultation with the State Historic Preservation Officer (SHPO), and following the Department of the Interior's Standards and Guidelines for Evaluation, make a determination whether the property is:

(a) Listed on or formally determined to be eligible for listing on the National Register of Historic Places;

(b) Located within or directly adjacent to an historic district; or

(c) A property whose area of potential effects includes an historic district or property. Historic properties and districts are subject by law to special protection and historic preservation processing, which HUD must perform to comply with the regulations of the Advisory Council on Historic Preservation (ACHP: 36 CFR part 800). Note: If you are using information from the SHPO as a qualified data source you need to allow sufficient time to obtain the information from the SHPO. You may wish to make special arrangements with the SHPO for rapid review of the proposed property where this is practicable. In addition, for properties determined to be historic properties, HUD will require 30 to 90 days in most cases for HUD to perform historic preservation compliance with the ACHP regulations. This may result in a disqualification of the application (refer above to number 7 under “Instructions to Applicants”).

* Documentation: You are to select one of the following options that best describes the condition of your property and report the option selected in item 6 of section G.

A. You propose financial assistance for rehabilitation or new construction, and are providing HUD with a SHPO's finding that the proposed Youthbuild activity:

1. Is located within an area where there are no historic properties; or

2. Will have no effect on historic properties; or

3. Will have an effect on historic properties not considered adverse.

B. You propose financial assistance for rehabilitation or new construction, and are providing HUD with a SHPO's finding that the proposed Youthbuild activity will have an adverse effect on historic properties.

C. You are providing HUD with a copy of a letter from the SHPO stating any reasons for not being able to provide you with the requested information and finding.

7. Site near hazardous industrial operations:

Threshold: Properties that are located near hazardous industrial operations handling fuels or chemicals of an explosive or flammable nature are subject to HUD safety standards (24 CFR 51, Subpart C). However, under the Youthbuild program, these standards would apply only if you propose: (a) Construction of a building; (b) conversion of a non-residential land use to a residential land use including making habitable a building condemned for habitation; or (c) rehabilitation that increases the density of a residential structure by increasing the number of dwelling or rooming units. In the case of tanks containing common liquid fuels, the requirement for an acceptable separation distance (ASD) calculation only applies to storage tanks that have a capacity of more than 100 gallons. * Documentation: You are to select one of the following options that best describes the condition of the property, and report the option selected in item 7 of section G.

A. The proposed project does not include: (1) Construction of a building; (2) conversion of a non-residential land use to a residential land use including making habitable a building condemned for habitation; or (3) rehabilitation that increases the density of a residential structure by increasing the number of dwelling or rooming units.

B. The proposed project includes: (1) Construction of a building; (2) conversion of a non-residential land use to a residential land use including making habitable a building condemned for habitation; or (3) rehabilitation that increases the density of a residential structure by increasing the number of dwelling or rooming units; and you are providing HUD with a finding by a qualified data source that the proposed property is not located within the immediate vicinity of hazardous industrial operations handling fuel or chemicals of an explosive or flammable nature by citing data used and the maps used.

C. The applicant proposes: (1) Construction of a building; (2) conversion of a non-residential land use to a residential land use including making habitable a building condemned for habitation; or (3) rehabilitation that increases the density of a residential structure by increasing the number of dwelling or rooming units. The grantee provides HUD a finding made by a qualified data source stating: (1) That the proposed property is located within the immediate vicinity of hazardous industrial operations handling fuel or chemicals of an explosive or flammable nature; (2) the type and scale of such hazardous industrial operations; (3) the distance of such operations from the proposed property; (4) a preliminary calculation of the acceptable separation distance (ASD) between such operations and the proposed property; and (5) a recommendation as to whether it is safe to use the property in accord with 24 CFR part 51, subpart C.

8. Site near high noise source:

Threshold: For new construction that is to occur in high noise areas (i.e., exceeding 65 decibels), applicants shall incorporate noise attenuation features to the extent required by HUD environmental criteria and standards contained in subpart B (Noise Abatement and Control) of 24 CFR part 51. Approvals in a Normally unacceptable noise zone require a minimum of 5 decibels additional sound attenuation for buildings having noise-sensitive uses if the day-night average sound level is greater than 65 decibels but does not exceed 70 decibels, or a minimum of 10 decibels of additional sound attenuation if the day-night average sound level is greater than 70 decibels but does not exceed 75 decibels.

Proposed housing sites with above 75 decibels are unacceptable and the noise attenuation measures require the approval of the Assistant Secretary for Community Planning and Development. In Unacceptable noise zones, HUD strongly encourages conversion of noise-exposed sites to non-housing land uses compatible with the high noise levels.

For major rehabilitation projects involving five or more dwelling units located in the “Normally Unacceptable” and “Unacceptable” noise zones, HUD actively seeks to have project sponsors incorporate noise attenuation features, given the extent and nature of the rehabilitation being undertaken and the level of exterior noise exposure.

* Documentation: You are to select A or B for the condition that best describes their project and report the option selected in item 8 of section G.

A. You are providing HUD with a finding made by a qualified data source stating that the property proposed by the applicant for a major rehabilitation or new construction project involving five or more dwelling units is not located within: (1) 1,000 feet of a major noise source, road, or highway; (2) 3,000 feet of a railroad; or (3) 1 mile of a civil or 5 miles of a military airfield.

B. The applicant provides HUD with a finding made by a qualified data source: (1) Stating that the plans for the property proposed by the applicant for a major rehabilitation or new construction project involving five or more dwelling units will incorporate noise attenuation features in accord with HUD environmental criteria and standards contained in subpart B (Noise Abatement and Control) of 24 CFR part 51; (2) stating whether the property is located within a “Normally Unacceptable” or “Unacceptable” noise zone; and (3) providing HUD plans and a statement of the anticipated interior noise levels.

9. Site affecting coastal zone management:

Threshold: Only for proposed activities involving new construction or major rehabilitation of multifamily housing does the Coastal Zone Management (CZM) authority apply. Projects that can affect the coastal zone must be carried out in a manner consistent with the approved state coastal zone management program under section 307 of the Coastal Zone Management Act of 1972, as amended.

* Documentation: You are to select either A or B for the condition that best describes the project and report the option selected in item 9 of section G.

A. You state that your project is not located within a coastal zone, as defined by the States Coastal Zone Management Plan.

B. If your project is located within a coastal zone, you are providing HUD with a finding made by the state coastal zone management agency that the project proposed by the applicant is consistent with the approved state coastal zone management program.

10. Site affecting a sole source aquifer:

Threshold: The sole source aquifer authority applies primarily to activities involving proposed new construction or conversion to housing of non-residential property. Projects that can affect aquifers designated by the Environmental Protection Agency (EPA) must be reviewed for impact on such designated aquifer sources. The Safe Drinking Water Act of 1974 requires protection of drinking water systems that are the sole or principal drinking water source for an area and which, if contaminated, would create a significant hazard to public health.

* Documentation: You are to select either A or B for the condition that best describes the project and report the option selected in item 10 of section G.

A. You are providing HUD with a finding made by a qualified data source stating that the proposed property is not located on nor does it affect a sole source aquifer designated by EPA.

B. If your project proposes new construction or conversion activities that are located on or may affect any sole source aquifer designated by the EPA, you are identifying the aquifer and providing HUD with an explanation of the effect on the aquifer from a qualified data source, and/or a copy of any comments on the proposed project that have been received from the EPA Regional Office as well as from any state or local agency with jurisdiction for protecting the drinking water system.

11. Site affecting endangered species:

Threshold: The Endangered Species Protection (ESP) authority applies primarily to activities involving proposed new construction or conversion to housing of a non-residential property. Projects which can affect listed or proposed endangered or threatened species or critical habitats require consultation with the Department of the Interior or the Department of Commerce in compliance with the procedure of section 7 of the Endangered Species Act of 1973, as amended.

* Documentation: You are to select either A or B for the condition that best describes the property and report the option selected in item 11 of section G.

A. If your project proposes new construction or conversion activities, you are providing HUD with a finding made by a qualified data source that the project is not likely to affect any listed or proposed endangered or threatened species or critical habitat. The finding shall indicate whether the project is located within a critical habitat, and if so, explain why the project is not likely to affect the species or habitat.

B. If your project proposes new construction or conversion activities that are likely to affect listed or proposed endangered or threatened species or critical habitat, you are providing HUD with a statement from a qualified data source explaining the likely effect, and/or a finding made by the Fish and Wildlife Service of the Department of the Interior or the National Marine Fisheries Service of the Department of Commerce stating as acceptable the proposed mitigation that you will provide to protect any affected endangered or threatened species or critical habitat.

12. Site affecting a designated wetland:

Threshold: New construction or conversion to housing of a non-residential property located within a designated wetland is subject to Executive Order 11990, Protection of Wetlands. This Executive Order directs HUD to avoid, where practicable, financial support for new construction on wetland property. Note: Proposed funding for new construction or conversion is subject to the Executive Order decision making process. This may result in a disqualification of the application (refer above to number 7 under “Instructions to Applicants”).

* Documentation: You are to select A or B for the condition that best describes the property and report the option selected in item 12 of section G.

A. You are providing HUD with a finding made by a qualified data source stating that the property is not located within a designated wetland where new construction or conversion is proposed.

B. You are providing HUD with a finding made by a qualified data source that the property is located within a designated wetland, which applies only to property where new construction or conversion is proposed.

The information for A and B must provide HUD with the wetland panel number obtained from official maps issued by the Department of the Interior on the basis of which the finding was made, or where the Department of the Interior has not mapped the area, a letter or other documentation from the Army Corps of Engineers or other federal agency.

13. Significant impact to the human environment:

Threshold: HUD must perform an environmental assessment of any property proposed for either:

(1) Major rehabilitation of:

1. Multifamily residential buildings (with more than four units) that would: increase unit density by more than 20 percent, change the land use, or cost 75 percent or more of the total estimated cost of replacement after rehabilitation; or

2. Buildings for residential use (with one to four units) that would increase density beyond four units, change the land use, or increase the footprint of the building in a floodplain or in a wetland;

(2) New construction except for (A) and individual action on up to four dwelling units where there is a maximum of four units on any one site (the units can be four one-unit buildings or one four-unit building or any combination in between); and (B) an individual action on a project of five or more housing units developed on scattered sites, when the sites are more than 2,000 feet apart and there are not more than four housing units on any one site. It is the policy of the Department to reject proposals that have significant adverse environmental impacts and to encourage the modification of projects in order to enhance environmental quality and minimize environmental harm. This policy is authorized by the National Environmental Policy Act (NEPA) and the implementing regulations of the Council on Environmental Quality and HUD's Environmental regulations at 24 CFR part 50.

* Documentation: You are to provide HUD with any information on any adverse environmental impacts that affect the property or that the project would create. You are to report these data on a separate sheet and attach it to Exhibit 2C(15). Examples of adverse impacts are: soil instability and erodibility; natural or person-made hazards and nuisances; air pollution; inadequate infrastructure (e.g., water supply, waste water treatment, storm water management, solid waste collection), inadequate public services (i.e., fire, police, health care, social services, schools, parks) and transportation; and encroachment on prime farmlands and wild and scenic river areas. You are to identify any significant impacts to the human environment.

Appendix B

The non-standard forms which follow are required for your Youthbuild application. The Youthbuild forms were approved under OMB Approval No. 2506-0142 (expiration 12/31/06).

BILLING CODE 4210-32-P

HOUSING CHOICE VOUCHER FAMILY SELF-SUFFICIENCY PROGRAM COORDINATORS

Overview Information

A. Federal Agency Name: Department of Housing and Urban Development, Office of Public and Indian Housing, Office of Public Housing and Voucher Programs.

B. Funding Opportunity Title: Housing Choice Voucher Family Self-Sufficiency (FSS) Program Coordinators.

C. Announcement Type: Initial announcement.

D. Funding Opportunity Number: The Federal Register number for this NOFA is FR-4900-N-30. The OMB approval number for this program is 2577-0178.

E. Catalog of Federal Domestic Assistance (CFDA) Number: 14.871, Section 8 Housing Choice Vouchers.

F. Dates: Application Deadline: The application due date is June 22, 2004. Please see the General Section of the SuperNOFA for application submission, delivery, and timely receipt requirements.

G. Optional, Additional Overview Content Information: The purpose of the Housing Choice Voucher FSS program is to promote the development of local strategies to coordinate the use of assistance under the Housing Choice Voucher program with public and private resources to enable participating families to achieve economic independence and self-sufficiency. The FSS program and this FSS NOFA support the Department's strategic goals of increasing homeownership activities and helping HUD-assisted renters make progress toward self-sufficiency. The FSS program provides critical tools that can be used by communities to support welfare reform and help families develop new skills that will lead to economic self-sufficiency. As a result of their participation in the FSS program, many families have achieved stable, well-paid employment, which has made it possible for them to become homeowners. An FSS program coordinator assures that program participants are linked to the supportive services they need to achieve self-sufficiency.

FULL TEXT OF ANNOUNCEMENT

I. Funding Opportunity Description

A. Authority and Program Description

Title II of Division G of the Consolidated Appropriations Act 2004, (Pub. L. 108-199, approved January 23, 2004) allows funding for program coordinators under the Housing Choice Voucher FSS program. Through annual NOFAs, HUD has provided funding to public housing agencies (PHAs) that are operating Housing Choice Voucher FSS programs to enable those PHAs to employ program coordinators to support their Housing Choice Voucher FSS programs. In the Fiscal Year (FY) 2004 Housing Choice Voucher FSS Program Coordinator NOFA, HUD is again making funding available to PHAs to employ FSS program coordinators and FSS homeownership program coordinators for one year. Funding priority under this NOFA will be provided to applicants that demonstrate that their FSS families have participated in homeownership programs. HUD will accept applications from both new and renewal PHAs that have HUD approval to administer a Housing Choice Voucher FSS program. PHAs funded under an FSS NOFA in FY2002, or FY2003 are considered “renewal” PHAs in this NOFA. These renewal PHAs are invited to apply for funds to continue previously funded FSS program coordinator and FSS homeownership coordinator positions that they have filled. In addition, any renewal PHA that did not receive funding for a Housing Choice Voucher FSS homeownership coordinator under a previous FSS NOFA is invited to apply for funding for a coordinator position to support FSS homeownership activities. The maximum number of positions a renewal PHA may receive would be equal to the highest number of filled positions funded under the FY 2002 or FY2003 FSS NOFA, plus funding for an FSS homeownership coordinator if the PHA did not receive funding for a homeownership coordinator under a previous FSS NOFA.

Because of the importance of the FSS program in helping families increase earned income and develop assets, HUD will also accept applications from “new” PHAs; PHAs that do not qualify as renewal PHAs under this FSS NOFA. The maximum number of positions that a new applicant PHA, including new PHA joint applicants, may receive is one full-time FSS program coordinator. Preference in funding these “new” applicant PHAs will be given to applicants with qualifying existing homeownership programs serving FSS program participants and graduates. A definition of qualifying homeownership programs is listed below.

To support the Department's initiatives on Colonias, a selection preference is again included in this NOFA for “new” applicant PHAs that provide services and support to rural under-served communities in the Southwest Border regions of Arizona, California, New Mexico, and Texas. See section III.D.3.b. of this NOFA for requirements that must be met to qualify for the Colonias preference.

PHAs are encouraged to outreach to disabled Housing Choice Voucher program participants who might be interested in participating in the FSS program and to include agencies on their FSS Program Coordinating Committee (PCC) that work with and provide services for disabled families.

Applicants must administer the FSS program in accordance with HUD regulations and requirements in 24 CFR Part 984 which govern the Housing Choice Voucher FSS Program and must comply with the existing Section 8 Housing Choice Voucher program requirements, Notices and guidebooks.

B. Number of Positions for Which Eligible PHAs May Apply

Eligible PHAs may apply for funding for Housing Choice Voucher FSS program coordinator positions under this NOFA as follows:

1. Renewal PHAs. PHAs that qualify as eligible renewal PHAs under this NOFA, may apply for: (a) Continuation of each FSS coordinator position, including homeownership coordinator positions, most recently funded under an FSS NOFA in FY2002 or FY2003 that has been filled by the PHA. (b) New Position. Up to one initial full-time FSS homeownership program coordinator for renewal PHAs with qualifying homeownership programs that did not receive funding for an FSS homeownership coordinator under an earlier FSS NOFA.

2. New PHAs. A PHA that meets the requirements for a new PHA under this FSS NOFA, may apply for Housing Choice Voucher FSS program coordinator positions as follows: (a) Up to one full-time FSS coordinator position for a PHA with HUD approval to administer an FSS program of 25 or more FSS slots. (b) Up to one full-time position per application for joint PHA applicants that together have HUD approval to administer a total of at least 25 Housing Choice Voucher FSS slots.

C. Definitions

The following definitions apply to the funding available under this NOFA.

1. Renewal PHA Applicant. A PHA or PHAs that received funding under an FSS NOFA in FY2002 or FY2003.

2. New PHA Applicant. PHAs that did not receive funding under an FSS NOFA in FY 2002 or FY2003 that have HUD approval to administer a Housing Choice Voucher FSS program of at least 25 slots or that fulfill the 25 slot minimum by applying jointly with one or more other PHAs.

3. FSS Program Size. The total number of Housing Choice Voucher FSS program slots identified in the PHA's HUD-approved FSS Action Plan. The total may include both voluntary and mandatory Housing Choice Voucher FSS program slots.

4. Qualifying Homeownership Program. Qualifying programs include the Housing Choice Voucher program homeownership option or other programs that prepare Housing Choice Voucher program FSS participants for making the transition from renting to homeownership.

5. FSS Homeownership Percentage. A percentage that will be computed by HUD for the purpose of establishing the order of funding of eligible applicants under this NOFA. It is the total number of an applicant's Housing Choice Voucher FSS homeownership families as a percentage of the PHA's Housing Choice Voucher FSS program participants.

6. Total Number of FSS Homeownership Families. The total number of Housing Choice Voucher FSS homeownership families enrolled in the applicant's Qualifying Homeownership Program as of September 30, 2003, plus the number of its Housing Choice Voucher FSS graduates that moved to homeownership between October 1, 2000, and September 30, 2003. Homeownership participation of families is reported to HUD on the FSS program coordinator application and these numbers are subject to post audit.

7. The Number of Housing Choice Voucher FSS Program Participants. A number that is used to calculate the FSS Homeownership Percentage of the applicant. It is the total number of families shown in HUD's PIC data system as enrolled in the applicant's Housing Choice Voucher FSS program on September 30, 2003, plus the number of families that successfully completed their Housing Choice Voucher FSS contracts in the applicant's program between October 1, 2002, and September 30, 2003.

8. Percentage of Families with Positive FSS Escrow Balances. A percentage that will be computed by HUD and used to determine funding order under this NOFA. It is the number of Housing Choice Voucher FSS families with positive escrow balances as a percentage of Housing Choice Voucher FSS families with FSS progress reports submitted to HUD on the Form HUD-50058 FSS addendum. The data source is HUD's PIC data system records of Form HUD-50058 Housing Choice Voucher FSS program progress reports that were effective between October 1, 2002, and September 30, 2003.

9. Housing Choice Voucher Program Size. The number of Housing Choice Vouchers in a PHA's voucher program as determined by HUD using baseline data.

10. Local HUD Field Office. In this announcement, this means the local HUD field office Hub, not the local HUD field office Program Center. A listing of HUD field offices is included as an appendix to the General Section of the SuperNOFA.

II. Award Information

A. Available Funds

This NOFA announces the availability of up to $47.7 million in FY2004 to employ FSS program and FSS homeownership coordinators for the Housing Choice Voucher FSS program. If additional funding becomes available during FY2004, HUD may increase the amount available for Housing Choice Voucher FSS Program coordinators and FSS homeownership coordinators under this NOFA. A maximum of $63,000 is available for each full-time coordinator position funded. Salaries are to be based on local comparables.

III. Eligibility Information

A. Eligible Applicants

PHAs eligible to apply for funding under this NOFA are:

1. Renewal PHAs. Those PHAs that received funding under an FSS NOFA in FY2002 or FY2003. To continue to qualify as renewal PHAs, the FY2004 application of joint applicants must include at least one PHA applicant that meets this standard. Joint applicants can change the lead PHA in their FY2004 application. A PHA that was originally funded as part of a joint application, that wishes to now apply separately would continue to be considered a renewal PHA applicant for funding purposes, but must be able to meet the FSS minimum program size requirement of a HUD-approved Housing Choice Voucher program of at least 25 slots that applies to new applicant PHAs.

2. New PHAs. PHAs that were not funded under an FSS NOFA in FY2002 or FY2003. The new applicant PHA must be authorized through its HUD-approved FSS Action Plan to administer a Housing Choice Voucher FSS program of at least 25 slots, or be a PHA with HUD approval to administer Housing Choice Voucher FSS programs of fewer than 25 slots that applies jointly with one or more other PHAs so that together they have HUD approval to administer at least 25 Housing Choice Voucher FSS slots. Joint applicants must specify a lead co-applicant that will receive and administer the FSS program coordinator funding.

3. Moving to Work (MTW) PHAs. New and renewal PHAs that are under the MTW demonstration may qualify for funding under this NOFA if the PHA administers an FSS program. When determining the size of a MTW PHA's HUD-approved FSS program, the PHA may request that the number of FSS slots reflected in the PHA's MTW agreement be used instead of the number in the PHA's FSS Action Plan.

4. Troubled PHAs.

a. A PHA that has been designated by HUD as a troubled PHA under the Section 8 Management Assessment Program (SEMAP), or that has serious program management findings from Inspector General audits or serious outstanding HUD management review or Independent Public Accountant (IPA) audit findings for the PHA's Housing Choice Voucher or Moderate Rehabilitation programs that are resolved prior to application due date is eligible to apply under this NOFA. Serious program management findings are those that would cast doubt on the capacity of the PHA to administer its Housing Choice Voucher FSS program in accordance with applicable HUD regulatory and statutory requirements.

b. The requirements that apply to a PHA whose SEMAP troubled designation has not been removed by HUD or the major program management findings or other significant program compliance problems resolved by the due date are stated in Section III.C.3.e. of this NOFA.

B. Cost Sharing or Matching

None required.

C. Other

1. Eligible Activities

Funds awarded to PHAs under this FSS NOFA may only be used to pay salaries and fringe benefits of Housing Choice Voucher FSS program staff. Funding may be used to employ or otherwise retain for one year the services of Housing Choice Voucher FSS program coordinators and FSS homeownership coordinators. FSS Coordinator support positions funded under previous FSS NOFAs that made funding available for such FSS positions may be continued. A part-time program coordinator may be retained where appropriate.

2. Threshold Requirements

a. All Applicants.

(1) Each applicant must qualify as an eligible PHA under Section III.A. of this NOFA and must have submitted their FSS application by the application due date and in the format required in Section IV. of this NOFA.

(2) All applications must include a Dun and Bradstreet Universal Numbering System (DUNS) number. (See Section III.C.2.b. of the General Section of this SuperNOFA for further information about the DUNS number requirement.)

(3) Civil Rights Threshold, Non-discrimination, Affirmatively Furthering Fair Housing, and Economic Opportunities for Low- and Very Low-Income Persons (Section 3) requirements. For detail on these requirements, please see the General Section of the SuperNOFA, Section III.C.2.c. and C.4.a, b. and c.

(4) The PHA must have a financial management system that meets federal standards. See Section III.C.2.f. of the General Section of the SuperNOFA regarding those applicants that may be subject to HUD's arranging for a pre-award survey of an applicant's financial management system.

(5) Applicants must comply with the requirements for funding competitions established by the HUD Reform Act of 1989 (42 U.S.C. 3531 et seq.) and other requirements as defined in the General Section of the SuperNOFA.

b. Renewal Applicants.

(1) Continued funding for existing coordinator positions. In addition to meeting the requirements of Section III.A.of this FSS NOFA, renewal PHA applicants must continue to operate a Housing Choice Voucher FSS program, have filled eligible FSS program coordinator positions for which they are seeking renewal funding, executed FSS contracts of participation with Housing Choice Voucher FSS program families and submitted reports on participant families to HUD via the form HUD-50058 FSS/WtW Voucher Addendum.

(2) New position. Renewal PHAs applying for a Housing Choice Voucher FSS Homeownership Coordinator must meet all requirements in Section III.A. and III.C.2.a and b. above, must not have received funding for an FSS homeownership coordinator under an earlier Housing Choice Voucher FSS Program Coordinator NOFA and must administer or participate in a qualifying homeownership program that serves Housing Choice Voucher FSS program participants or graduates. Qualifying homeownership programs include the Housing Choice Voucher program homeownership option and other programs that prepare Housing Choice Voucher program FSS participants for making the transition from rental to homeownership.

c. New Applicants. New applicants must meet the requirements of Section III.A. and Section III C.2.a of this FSS NOFA.

3. Program Requirements

a. Salary Comparables. For all positions requested under this NOFA, evidence of salary comparability to similar positions in the local jurisdiction must be kept on file in the PHA office

b. FSS Action Plan. The requirements for the FSS Action Plan are stated in 24 CFR 984.201. For a new PHA applicant to qualify for funding under this NOFA, the PHA's initial FSS Action Plan or amendment to change the number of Housing Choice Voucher FSS slots in the PHA's previously HUD-approved FSS Action Plan must be submitted to and approved by the PHA's local HUD field office prior to the application due date of this FSS NOFA. An FSS Action Plan can be updated by means of a simple one-page addendum that reflects the total number of FSS slots (voluntary and /or mandatory slots) the PHA intends to fill. New PHA applicants with previously approved Housing Choice Voucher FSS Action Plans may wish to confirm the number of HUD-approved slots their local HUD field office has on record for the PHA. A MTW PHA may request that the number of FSS slots reflected in its MTW agreement be used instead of the number of slots in the PHA's FSS Action Plan.

c. Colonias Preference. New applicant PHAs claiming the Colonias preference must meet the requirements of Section III.A. and Section III.C.2.a and III.C.2.c. of this FSS NOFA and must operate in a Southwest border area that contains Colonia communities and administer programs that include outreach to members of those Colonia communities. Attachment A of this NOFA provides a listing of PHAs in Arizona, California, New Mexico, and Texas that HUD has identified as operating in areas containing Colonia communities. PHAs not listed in Attachment A that are claiming the Colonias preference will be required to include in their application submission a written request that HUD determine their eligibility for the preference.

d. Homeownership Preference. To qualify for preference, a PHA must administer or participate in a Qualifying Homeownership Program. See definition at Section I.C.4.

e. Troubled PHAs. A PHA whose SEMAP troubled designation has not been removed by HUD or the major program management findings or other significant program compliance problems resolved by the application due date, may apply if the PHA submits an application that designates another organization or entity that is acceptable to HUD that:

(1) Includes an agreement by the other organization or entity to administer the FSS program on behalf of the PHA; and

(2) In the instance of a PHA with unresolved major program management findings, includes a statement that outlines the steps the PHA is taking to resolve the program findings.

Immediately after the publication of this NOFA, the Office of Public Housing in the local HUD field office will notify, in writing, those PHAs that have been designated by HUD as troubled under SEMAP, and those PHAs with unresolved major program management findings or other significant program compliance problems that are not eligible to apply without such an agreement. Concurrently, the local HUD field office will provide a copy of each such written notification to the Director of the Grants Management Center.

f. Conducting Business in Accordance with Core Values and Ethical Standards. To reflect core values, all PHAs shall develop and maintain a written code of conduct in the PHA administrative plan that:

(1) Requires compliance with the conflict of interest requirements of the Housing Choice Voucher Program at 24 CFR 982.161; and

(2) Prohibits the solicitation or acceptance of gifts or gratuities, in excess of a nominal value, by any officer or employee of the PHA, or any contractor, subcontractor, or agent of the PHA. The PHA's administrative plan shall state PHA policies concerning PHA administrative and disciplinary remedies for violation of the PHA code of conduct. The PHA shall inform all officers, employees, and agents of its organization of the PHA's code of conduct.

IV. Application and Submission Information

A. Addresses to Request Application Package

1. Web site. A copy of this funding announcement for the Housing Choice Voucher FSS Program may be downloaded from the following HUD Web site: http://www.hud.gov/offices/adm/grants/fundsavail.cfm.

2. Application Kit. There is no application kit for this NOFA. This announcement contains all the information necessary for the submission of your application for Housing Choice Voucher FSS program coordinator funding.

3. Further Information. You may request general information, copies of the General Section and of a Program NOFA or NOFAs, from the NOFA Information Center (800-HUD-8929) or 800-HUD-2209 (TTY) between the hours of 9 a.m. and 8 p.m. (eastern time) Monday through Friday, except on Federal holidays. When requesting information, please refer to the name of the program you are interested in. Be sure to provide your name, address (including ZIP code), and telephone number (including area code). To ensure sufficient time to prepare your application, requests for copies of this NOFA can be made immediately following publication of the SuperNOFA. The NOFA Information Center opens for business simultaneously with the publication of the SuperNOFA. You can also obtain information on this SuperNOFA and download application information for this NOFA through the HUD Web site, www.hud.gov.

4. Technical Assistance. See Section VII. of this FSS funding announcement.

B. Content and Form of Application Submission

1. Content of Application. Each new and renewal PHA must complete the form SF-424, HUD-424B, the SF-LLL, if appropriate, and the Form HUD-52651, the new FSS application form. A copy of the HUD-52651 follows immediately after Attachment A of this NOFA. In completing the SF-424, renewal PHAs should select the continuation box on question 8, type of application. Both new and renewal PHA applicants should enter the proposed ACC amendment effective and ending dates for the FSS coordinator funding in 13 of the HUD-424. In section 15 of SF-424, estimated funding, complete only 15.a., which will be the amount requested from HUD in the FY2004 FSS application.

2. Forms, Certifications, and Assurances. Each applicant is required to submit signed copies of Assurances and Certifications. The Assurances and Certifications required for this FSS NOFA are on the Form HUD-424B, the new FSS application Form HUD-52651, and, if applicable, the SF-LLL, Disclosure of Lobbying Activities.

C. Submission Date and Time

Your completed application (an original and two copies) is due on or before June 22, 2004. See the paragraph titled “Addresses and Application Submission Procedures” in the General Section of the SuperNOFA regarding HUD's mailing, delivery and receipt procedures pertinent to the submission of your application.

D. Intergovernmental Review

Applicants submitting applications under this funding announcement are not subject to intergovernmental review; i.e., Executive Order (EO) 12372, Intergovernmental Review of Federal Program.

E. Funding Restrictions

1. Salary Cap. Awards under this NOFA are subject to a cap of $63,000 per year per full time coordinator position funded. Under this NOFA, if PHAs apply jointly, the $63,000 maximum amount that may be requested per position applies to up to one full time coordinator position for the application as a whole, not to each PHA separately.

2. Limitation on Renewal Funding Increases. For renewal coordinator positions, PHAs will be limited to a one percent increase above the amount of the most recent award for the position unless a higher increase is approved by the local HUD field office after review of the PHA's written justification and at least three comparables that must be submitted to the field office by the PHA with a copy of its FY2004 Housing Choice Voucher FSS Program Coordinator application. Examples of acceptable reasons for increases above one percent would be need for a coordinator with higher level of skills or to increase the hours of a part time coordinator to full time. Total positions funded cannot exceed the maximum number of positions for which the PHA is eligible under this NOFA.

3. Ineligible Activities.

a. Funds under this NOFA may not be used to pay the salary of an FSS coordinator for a public housing FSS program. In FY2004, funding for public housing FSS program coordinators is being made available through the Public Housing Resident Opportunities and Self-Sufficiency (ROSS) NOFA for Public Housing FSS Program Coordinators that is included in the FY2004 SuperNOFA.

b. Funds under this FSS NOFA may not be used to pay for services for FSS program participants.

F. Other Submission Requirements

1. Submission to the GMC. Submit your original application and one copy with an Acknowledgement of Receipt Form to: HUD Grants Management Center, 2001 Jefferson Davis Highway, Suite 703, Arlington, VA 22202, Attention: Housing Choice Voucher Family Self-Sufficiency Program Coordinators. The Grants Management Center is the official place of receipt for all applications in response to this announcement of funding availability. Applications not submitted to the Grants Management Center will not be considered.

2. Submission to Field Office. A copy of the application shall also be submitted to your local HUD field office by the application due date. Failure of the field office to receive the application by the due date will not automatically disqualify the application from further consideration. For ease of reference, the term “local HUD field office” as used in this announcement means the local HUD field office Hub, not the local HUD field office Program Center. A listing of HUD field office Hubs is in the General Section of the SuperNOFA.

V. Application Review Information

A. Criteria

The funds available under this NOFA are not being awarded on a competitive basis. Applications are reviewed by the local HUD field office and GMC to determine whether or not they are technically adequate based on the NOFA requirements. Field offices will provide to the GMC in a timely manner, as requested, information needed by the GMC to make its determination, such as the HUD-approved Housing Choice Voucher FSS program size of new PHA applicants and information on the administrative capabilities of PHAs. Categories of applications that will not be funded are stated in Section V.B.6. of this FSS NOFA.

B. Reviews and Selection Process

1. Technically Acceptable Applications. All technically adequate applications will be funded to the extent funds are available.

2. Funding Priority Categories. If HUD receives applications for funding greater than the amount made available under this NOFA, HUD will divide eligible applications into priority categories as follows:

Funding Category 1—Applications from eligible renewal PHAs with qualifying homeownership programs for continuation of eligible positions where the PHA has hired a coordinator.

Funding Category 2—Eligible new applicant PHAs with qualifying homeownership programs.

Funding Category 3—Applications from eligible renewal PHAs for an initial coordinator position to support FSS homeownership activities.

Funding Category 4—Applications from renewal PHAs without qualifying homeownership programs.

Funding Category 5—Applications from new applicant PHAs without qualifying homeownership programs.

3. Order of Funding. Starting with Funding Category 1, HUD will first determine whether there are sufficient monies to fund all eligible positions requested in the funding category. If available funding is not sufficient to fund all positions requested in the category, HUD will fund applications in the following order:

(a) Funding Category 1. HUD will calculate for each eligible applicant, the PHA's FSS Homeownership Percentage and Positive Escrow Percentage and will use these percentages in making funding decisions. Definitions and a description of the calculation of the FSS Homeownership Percentage and the Positive Escrow Percentage are included in Section I.C. of this NOFA.

HUD will begin funding eligible renewal applicants with Qualifying Homeownership Programs starting with the PHAs with the highest FSS Homeownership Percentage first. If monies are not sufficient to fund all applicants with the same FSS Homeownership Percentage, HUD will fund eligible applicants in order starting with those that have the highest Positive Escrow Percentage first. If funding is not sufficient to fund all applicants with the same FSS Homeownership Percentage and/or Positive Escrow Percentage, HUD will select among eligible applicants by Housing Choice Voucher program size starting with eligible applicants with the smallest Housing Choice Voucher program size first.

(b) Funding Category 2. If funding remains after funding all Funding Category 1 applications, HUD will then process eligible Funding Category 2 applications. HUD will calculate the FSS Homeownership Percentage and Positive Escrow Percentage for Funding Category 2 applicants as it did for Funding Category 1 applicants. If there are not sufficient monies to fund all Funding Category 2 applications, HUD will first fund applications from Category 2 PHAs eligible for the Colonias preference, starting with PHAs with the smallest Housing Choice Voucher program size first. If monies are still available, HUD will begin funding Funding Category 2 applications from PHAs with Qualifying Homeownership programs starting with applicants with the highest FSS Homeownership Percentage first. If there is not enough funding for all applicants with the same FSS Homeownership Percentage, HUD will use Positive Escrow Percentage to determine selection order, starting with applicants with the highest Positive Escrow Percentage. If monies are not sufficient to fund all applicants with the same FSS Homeownership Percentage and Positive Escrow Percentage, HUD will select eligible applicants by Housing Choice Voucher program size starting with eligible applicants with the smallest Housing Choice Voucher program size first.

(c) Funding Category 3. If funding remains after funding all Funding Category 1 and 2 applications, HUD will then process requests of eligible renewal PHAs for an initial coordinator position to support FSS homeownership activities. If there are not sufficient monies to fund all eligible positions requested, HUD will begin funding positions starting with PHAs with the highest FSS Homeownership Percentage first. If there are not sufficient monies to fund all applications with the same FSS Homeownership Percentage, HUD will fund those eligible applicants with the highest Positive Escrow Percentage first. If monies are not sufficient to fund all eligible applicants with the same FSS Homeownership Percentage and Positive Escrow Percentage, HUD will select eligible applicants in order by Housing Choice Voucher program size starting with eligible applicants with the smallest Housing Choice Voucher program size first.

(d) Funding Category 4. If funding remains, HUD will calculate the Positive Escrow Percentage of PHAs in Category 4 and will begin funding eligible applications starting with applicants with the highest Positive Escrow Percentage first. If monies are not sufficient to fund all applicants with the same Positive Escrow Percentage, HUD will select eligible applicants by Housing Choice Voucher program size starting with eligible applicants with the smallest Housing Choice Voucher program size first.

(e) Funding Category 5. If funding remains after funding all Category 1 through 4 applicants, HUD will then process applications from eligible Category 5 applicants for an initial coordinator position. If there are not sufficient monies to fund all eligible Category 5 applicants, HUD will first fund applications from eligible Category 5 applicants qualifying for the Colonias preference. If monies are still available, HUD will calculate the Positive Escrow Percentage for the remaining Category 5 applications and will begin funding Category 5 applications starting with applicants with the highest Positive Escrow Percentage first. If monies are not sufficient to fund all applicants with the same Positive Escrow Percentage, HUD will select eligible applicants by Housing Choice Voucher program size starting with eligible applicants with the smallest Housing Choice Voucher program size first.

4. Based on the number of applications submitted, the GMC may elect not to process applications for a funding priority category where it is apparent that there are insufficient funds available to fund any applications within the priority category.

5. Corrections to Deficient Applications.

a. The General Section of the NOFA provides the procedures for corrections to deficient applications. Examples of correctable technical deficiencies include, but are not limited to: submission of a Form SF-424 or FSS application Form HUD-52651 with missing information or that lacks an original signature by an authorized official or an application package that is not received by the HUD field office Hub by the due date.

6. Unacceptable Applications. After the technical deficiency correction period (as provided in the General Section), the GMC will disapprove PHA applications that it determines are not acceptable for processing. Applications from PHAs that fall into any of the following categories are ineligible for funding under this NOFA and will not be processed:

a. An application submitted by an entity that is not an eligible PHA as defined under Section III.A. and Section III.C. of this FSS NOFA or an application that does not comply with the requirements of Section IV.B., IV.C. and IV.F. of this FSS NOFA.

b. An application from a PHA that does not meet the fair housing and civil rights compliance requirements of the General Section of the NOFA.

c. An application from a PHA that does not comply with the prohibition against lobbying activities of this NOFA.

d. An application from a PHA that as of the application due date has not made progress satisfactory to HUD in resolving serious outstanding Inspector General audit findings, or serious outstanding HUD management review or IPA audit findings for the Housing Choice Voucher program and/or Moderate Rehabilitation program or a “troubled” rating under SEMAP, and has not designated another contractor acceptable to HUD to administer the FSS program on behalf of the PHA as required in Section III.C.3.e. of this FSS NOFA.

e. An application from a PHA that has been debarred or otherwise disqualified from providing assistance under the program.

f. An application that did not meet the application due date and timely receipt requirements as specified in this NOFA and the General Section of the SuperNOFA.

g. Applications will not be funded which do not meet the Threshold requirements identified in this NOFA and the General Section of the SuperNOFA.

C. Anticipated Announcement and Award Dates

It is anticipated the announcement of Housing Choice Voucher FSS program coordinator awards will take place during either the month of September or October 2004.

VI. Award Administration Information

A. Award Notices

Successful applicants will receive an award letter from HUD. Funding will be provided to successful applicants as an amendment to the Annual Contributions Contract (ACC) of the applicant PHA. In the case of awards to joint applicants, the funding will be provided as an amendment to the ACC of the lead PHA that was identified in the application.

Unsuccessful applicants will receive a notification of rejection letter from that GMC that will state the basis for the decision. The applicant may request an applicant debriefing. Beginning not less than 30 days after the awards for assistance are publicly announced in the Federal Register and for at least 120 days after awards for assistance are announced publicly, HUD will, upon receiving a written request, provide a debriefing to the requesting applicant. (See Section VI.A.3. of the General Section of the SuperNOFA for additional information regarding a debriefing.) Applicants requesting to be debriefed must send a written request to: Iredia Hutchinson, Director; Grants Management Center; U. S. Department of Housing and Urban Development, 501 School Street, SW., Suite 800, Washington, DC 20024.

B. Administrative and National Policy Requirements

1. Environmental Impact. No environmental review is required in connection with the award of assistance under this NOFA, because the NOFA only provides funds for employing a coordinator that provides public and supportive services, which are categorically excluded from environmental review under the National Environmental Policy Act of 1969 (42 U.S.C. 4321) and not subject to compliance actions for related environmental authorities under 24 CFR 50.19(b)(4) and (12).

2. HUD's Strategic Goals. HUD is committed to ensuring that programs result in the achievement of HUD's strategic mission. The FSS program and this FSS NOFA support the Department's strategic goals of increasing homeownership activities and helping HUD-assisted renters make progress toward self-sufficiency by giving funding preference to PHAs whose FSS programs show success in moving families to self-sufficiency and homeownership. You can find out about HUD's Strategic Framework and Annual Performance Plan at http://www.hud.gov/offices/cfo/reports/cforept.cfm.

3. HUD Policy Priorities. This NOFA supports the HUD policy priority of providing increased homeownership opportunities to program participants. In this NOFA, funding priority is given to those PHA applicants that demonstrate that their FSS families have participated in homeownership programs. See Section V.B.2. of the General Section of the SuperNOFA for a full discussion of HUD's policy priorities.

C. Reporting

Successful applicants must report activities of their FSS program participants through required submissions of the Form HUD-50058 FSS Addendum. HUD's assessment of the accomplishments of the FSS programs of PHAs funded under this NOFA will be based primarily on Public Housing Information Center (PIC) system data obtained from the Form HUD-50058. MTW PHAs that do not report to HUD on the Form HUD-50058 will be asked to submit an annual report to HUD with the same information on FSS program activities that is provided to HUD by non-MTW PHAs via the Form HUD-50058 FSS Addendum. In addition, HUD requires that funded recipients collect racial and ethnic beneficiary data. It has adopted the Office of Management and Budget's Standards for the Collection of Racial and Ethnic Data. In view of these requirements, funded recipients should use Form HUD-27061, Racial and Ethnic Data Reporting Form (found on http://www.HUDclips.org), a comparable program form, or a comparable electronic data system for this purpose.

VII. Agency Contacts

A. For Technical Assistance

For answers to your questions, you may contact the Public and Indian Housing Resource Center at 800-955-2232. Persons with hearing or speech impairments may access this number via TTY (text telephone) by calling the Federal Information Relay Service at 800-877-8339. (These are toll-free numbers). Prior to the application deadline, staff at the numbers given above will be available to provide general guidance, but not guidance in actually preparing the application. Following selection, but prior to award, HUD staff will be available to assist in clarifying or confirming information that is a prerequisite to the offer of an award by HUD.

B. Satellite Broadcast

HUD will hold an information broadcast via satellite for potential applicants to learn more about the Housing Choice Voucher FSS program and preparation of an application. For more information about the date and time of this broadcast, you should consult the HUD website at www.hud.gov.

VIII. Other Information

A. Electronic Application System

It is HUD's intention to move to a fully electronic application system in FY2005. Further information on this initiative can be found in the General Section of the SuperNOFA.

B. Paperwork Reduction Act

The information collection requirements contained in this document have been approved by the Office of Management and Budget (OMB) under the Paperwork Reduction Act of 1995 (44 U.S.C. 3501-3520) and assigned OMB control number 2577-0178. In accordance with the Paperwork Reduction Act, HUD may not conduct or sponsor, and a person is not required to respond to, a collection of information unless the collection displays a currently valid OMB control number. Public reporting burden for the collection of information is estimated to average one hour per annum per respondent for the application and grant administration. This includes the time for collecting, reviewing, and reporting the data for the application and other required reporting. The information will be used for grantee selection and monitoring the administration of funds. Response to this request for information is required in order to receive the benefits to be derived.

C. Public Access, Documentation, and Disclosure

See Section VIII. F. of the General Section of the SuperNOFA.

BILLING CODE 4210-32-P

Public Housing Neighborhood Networks Program

Overview Information

A. Federal Agency Name: Department of Housing and Urban Development, Office of Public and Indian Housing.

B. Funding Opportunity Title: Public Housing Neighborhood Networks Program.

C. Announcement Type: Initial announcement.

D. Funding Opportunity Number: The Federal Register number for this NOFA is: FR-4900-N-32. The OMB approval number for this program is 2577-0229.

E. Catalog of Federal Domestic Assistance (CFDA) Number(s): 14.870.

F. Dates: The application due date is June 17, 2004. Please see the General Section of the SuperNOFA for application submission, delivery, and timely receipt requirements.

G. Optional, Additional Overview Content Information:

1. Purpose of Program: The purpose of the Public Housing Neighborhood Networks program is to provide grants to public housing agencies (PHAs) to (a) update and expand existing Neighborhood Networks/community technology centers; or (b) establish new Neighborhood Networks (NN) community technology centers. Neighborhood Networks centers offer comprehensive services which are designed to help residents of public housing achieve long-term economic self-sufficiency.

2. Funding Available: The Department expects to award approximately $21.4 million under the Neighborhood Networks program in Fiscal Year 2004. This includes $14.9 million in Fiscal Year 2004 funds and approximately $6.5 million in carryover funds.

3. Award Amounts: Awards will range from $150,000 to $500,000.

4. Eligible Applicants. Eligible applicants are Public Housing Authorities (PHAs) only.

Tribes and tribally designated housing entities (TDHEs), nonprofit organizations, and resident associations are not eligible to apply for funding under the Public Housing Neighborhood Networks program.

5. Cost Sharing/Match Requirement: At least 25 percent of the requested grant amount is required as a match.

6. Grant term. The grant term for this funding category is three years from the execution date of the grant agreement.

Grant program | Total funding | Eligible applicants | Maximum grant amount
Neighborhood Networks | $21.4 million which includes $6.5 million in carryover funds | PHAs—existing centers | $150,000 for PHAs with 1-780 units. $200,000 for PHAs with 781-2,500 units. $300,000 for PHAs with 2,501-7,300 units. $400,000 for PHAs with 7,301 units or more.
|  | PHAs—new centers | $250,000 for PHAs with 1-780 units. $300,000 for PHAs with 781-2,500 units. $400,000 for PHAs with 2,501-7,300 units. $500,000 for PHAs with 7,301 units or more.

Full Text of Announcement

I. Funding Opportunity Description

A. Program Description

The Public Housing Neighborhood Networks program provides grants to PHAs to (1) update and expand existing Neighborhood Networks/community technology centers; or (2) establish new Neighborhood Networks (NN) community technology centers.

An existing computer center is: (1) A computer lab, or community technology center already owned and operated by a PHA which serves residents of public housing and which has not received prior Neighborhood Networks funding and therefore is not officially designated a HUD Public & Indian Housing (PIH) Neighborhood Networks center; (2) a computer lab officially designated a HUD PIH Neighborhood Networks center by virtue of prior funding received under this grant program, which seeks to expand its services; or (3) a computer lab in development which needs funding under this grant program to become fully operational and serve residents of public housing.

A new computer center is one that will be newly established (i.e., there is no infrastructure, space, or equipment currently in use for this purpose) with Neighborhood Networks grant funds.

Note: An applicant previously funded under Neighborhood Networks may apply under the “New Computer Center” category only if it will develop a new center in a development which cannot be served by the applicant's existing NN center(s).

Neighborhood Networks centers should be located within a public housing development, on PHA land, or within reasonable walking distance to the PHA development(s) being served by the center.

HUD is looking for applications that implement comprehensive programs within the three year grant term which will result in improved economic self-sufficiency for public housing residents. HUD is looking for proposals that involve partnerships with organizations that will help supplement and enhance the services grantees offer to residents.

NN centers provide computer and Internet access to public housing residents and offer a full range of computer and job training services. Applicants should submit proposals that will incorporate computer and Internet use to: Provide job training for youth, adults and seniors; expand educational opportunities for residents; promote economic self-sufficiency and help residents transition from welfare to work; increase residents' use of the Internet and computer technology; assist school-age children and youth with homework; provide guidance and preparatory programming to high school students (or other interested residents) for post-secondary education (college or trade schools); and other services as deemed necessary by results obtained from resident surveys.

All applicants must complete a business plan (see sample HUD-52766 provided in the Appendix) covering the three-year grant term. Applicants' business plan and narrative must indicate how the centers will become self-sustaining after the grant term expires. Proposed grant activities should build on the foundation created by previous NN grants, Resident Opportunity and Self-Sufficiency (ROSS) grants, or other Federal, State and local self-sufficiency efforts.

Note Any applicant that proposes one or more ineligible activity will not be funded.

B. Eligible Activities

1. Hiring of a Qualified Project Coordinator to Administer Grant Program. A qualified Project Coordinator must have two years of experience running a community technology center. The Project Coordinator should be hired for the entire term of your grant. The project coordinator should be responsible for ensuring that the center's programs achieve the proposal's goals and objectives. In addition, the project coordinator should be responsible for the following activities:

a. Marketing the program to residents;

b. Assessing participating residents' needs, interests, skills, and job-readiness;

c. Assessing participating residents' needs for supportive services, e.g. childcare, transportation;

d. Designing and coordinating grant activities based on residents' needs and interests; and

e. Monitoring the progress of program participants and evaluating the overall success of the program. For more information on how to measure performance, please see Rating Factor 5 in the “Application Review Information” section of this NOFA.

2. Literacy training and GED preparation;

3. Computer training, from basic to advanced;

4. College preparatory courses and information;

5. Job Training: Oral and written communication skills; work ethic; interpersonal and teamwork skills; resume writing; interviewing techniques, creating job training and placement programs with local employers and placement agencies; and post-employment follow-up to assist residents who are new to the workplace.

6. Physical improvements. Physical improvements must directly relate to providing space for a Neighborhood Networks center. Renovation, conversion, wiring, and repair costs may be essential parts of physical improvements. In addition, architectural, engineering, and related professional services required to prepare architectural plans or drawings, write-ups, specifications or inspections may also be part of the cost of implementing physical improvements.

a. Modifications to create a space that is accessible to persons with disabilities is an eligible use of funds. Refer to Office of Management and Budget (OMB) Circular A-87, “Cost Principles for State, Local and Indian Tribal Governments.”

b. The renovation, conversion, or joining of vacant dwelling units in a PHA development to create appropriate space for the equipment needs and activities of a NN center (computers, printers, and office space) are eligible activities for physical improvement.

c. The renovation, conversion of existing common areas in a PHA development to accommodate a NN center are eligible.

d. If renovation, conversion, or repair is done off-site, the PHA must provide documentation with its application that it has control of the proposed property for at least five years. Control can be demonstrated through a lease agreement, ownership documentation, or other appropriate documentation.

7. Maintenance and insurance costs. Includes installing and maintaining the hardware and software as well as insurance coverage for the space and equipment.

8. Purchase of computers, printers, software, and other peripheral equipment. Costs of computer hardware and software necessary to accommodate the needs of persons with disabilities are an eligible cost for this funding category;

9. Distance Learning Equipment. Distance learning equipment (including the costs for video casting and purchase/lease/rental of distance learning equipment) is an eligible use of funds provided your proposal indicates that the center will be working in a virtual setting with a college, university or other educational organization. If you operate more than one center, distance learning equipment can be used to link one or more centers so that residents using the different centers can benefit from courses being offered at only one site.

10. Security and related costs. Includes space and minor refitting, locks, and other equipment for safeguarding the center.

11. Hiring Residents. Grantees may hire residents to help with the implementation of this grant program.

12. Administrative costs. Administrative costs may include, but are not limited to, purchase of furniture, office equipment and supplies, local travel, and utilities. Administrative costs may not be used to pay for salaries of any kind. For both new and existing NN centers, administrative costs must not exceed 10 percent of the total grant amount requested from HUD. Administrative costs must adhere to OMB Circular A-87. Please use HUD-424-CBW to itemize your administrative costs. You may attach an additional sheet of paper to the HUD-424-CBW form if necessary in order to fully itemize your administrative costs.

C. Definition of Terms

1. Contract Administrator means an overall grant administrator or a financial management agent (or both) that oversees the implementation of the grant and/or the financial aspects of the grant. See the “Program Requirements” and “Threshold Requirements” sections for more information.

2. Senior person means a person who is at least 62 years of age.

3. Past Performance is a threshold requirement. Using Rating Factor 1, HUD's field offices will evaluate applicants for past performance to determine whether an applicant has the capacity to manage the grant for which they are applying. Field offices will evaluate the past performance of contract administrators for applicants required to have a contract administrator.

4. Person with disabilities means a person who:

a. Has a condition defined as a disability in section 223 of the Social Security Act;

b. Has a developmental disability as defined in section 102 of the Developmental Disabilities Assistance Bill of Rights Act; or

c. Is determined to have a physical, mental, or emotional impairment which:

(1) Is expected to be of long-continued and indefinite duration;

(2) Substantially impedes his or her ability to live independently; and

(3) Is of such a nature that such ability could be improved by more suitable housing conditions.

The term “person with disabilities” does not exclude persons who have acquired immunodeficiency syndrome (HIV/AIDS) or any conditions arising from the etiologic agent for AIDS. In addition, no individual shall be considered a person with disabilities, for purposes of eligibility for low-income housing, solely on the basis of any drug or alcohol dependence.

The definition provided above for persons with disabilities is the proper definition for determining program qualifications. However, the definition of a person with disabilities contained in section 504 of the Rehabilitation Act of 1973 and its implementing regulations must be used for purposes of reasonable accommodations.

5. Project Coordinator is a person who is responsible for coordinating the grantee's approved activities to ensure that grant goals and objectives are met. A qualified project coordinator is someone with at least two years of experience working on supportive services designed specifically for typically underserved populations. The project coordinator and grantee are both responsible for ensuring that all federal requirements are followed.

6. Secretary means the Secretary of Housing and Urban Development.

D. Regulations Governing the Neighborhood Networks Grant

The Neighborhood Networks program is governed by regulations in 24 CFR parts 905 and 968.

II. Award Information

A. Total Funding

The Department expects to award approximately $21.4 million under the Neighborhood Networks program in Fiscal Year 2004. Awards will be made as follows:

1. Fifty percent of available funding for Neighborhood Networks will provide grants for updating and expanding existing computer technology centers. The other 50 percent will provide grants to establish and operate new Neighborhood Networks centers.

2. PHAs must use the number of occupied conventional family public housing units as of September 30, 2003 per their budget to determine the maximum grant amount they are eligible for in accordance with the categories listed below. PHAs should clearly indicate on the Fact Sheet (HUD-52751) the number of units under management.

a. Funding Levels For Existing Centers:

Number of conventional units | Maximum funding
1-780 units | $150,000
781-2,500 units | $200,000
2,501-7,300 units | $300,000
7,301 or more units | $400,000

b. Funding Levels For New Centers:

Number of conventional units | Maximum funding
1-780 units | $250,000
781-2,500 units | $300,000
2,501-7,300 units | $400,000
7,301 or more units | $500,000

B. Grant Period

Three years. The grant period shall begin the day the grant agreement and the form HUD-1044, “Assistance Award/Amendment” are signed by both the grantee and HUD.

C. Grant Extensions

Requests to extend the grant term beyond the originally established grant term must be submitted in writing by the grantee to the local HUD field office. Such requests must be done prior to grant termination and with enough notice to give the field office a reasonable amount of time to fully evaluate the request. Requests must explain why the extension is necessary, what work remains to be completed, and what work and progress was accomplished to date.

D. Type of Award

Grant agreement.

E. Subcontracting

Subcontracting is permitted. Grantees must follow the HUD federal procurement regulations found at 24 CFR 85.36.

III. Eligibility Information

A. Eligible Applicants

Public Housing Authorities are eligible to apply for this funding category. Tribes/TDHEs, nonprofit organizations, and resident associations are not eligible to apply for this funding category.

B. Cost Sharing or Matching

All applicants are required to obtain a 25 percent cash or in-kind match. The match is a threshold requirement. Applicants who do not demonstrate the minimum 25 percent match will fail the threshold requirement and will not receive further consideration for funding. Please see the section below on threshold requirements for more information on what is required for the match.

C. Other

1. Threshold Requirements: Applicants must respond to each threshold requirement clearly and thoroughly by following the instructions below. If your application fails one threshold requirement (regardless of the type of threshold) it will be considered a failed application and will not receive consideration for funding.

a. Match. All applicants are required to have in place a firmly committed 25 percent match in cash or in-kind donations as defined in this paragraph. Joint applicants must together have at least a 25 percent match. Applicants who do not demonstrate the minimum 25 percent match will fail this threshold requirement and will not receive further consideration for funding. If you are also applying for funding under the ROSS grant program, you must use different sources of match donations for each grant application and you must indicate which additional ROSS grant(s) you are applying for by attaching an additional page to HUD budget Form 424-CBW stating the sources and amounts of each of your match contributions for this application as well as any other HUD grant program to which you are applying. Match donations must be firmly committed. Firmly committed means that the amount of match resources and their dedication to Neighborhood Networks-funded activities must be explicit, in writing and signed by a person authorized to make the commitment. Letters of commitment and Memoranda of Understanding (MOU) must be on organization letterhead, and signed by a person authorized to make the stated commitment whether it be in cash or in-kind services. The letters of commitment/MOUs must indicate the total dollar value of the commitment, be dated within two months of the application deadline, and indicate how the commitment will relate to the proposed program. The commitment should be available at time of award. Applicants proposing to use their own, non-HUD grant funds to meet the match requirement in whole or in part, must also include a letter of commitment indicating the type of match (cash or in-kind) and how the match will be used. Grant awards shall be contingent upon letters of commitment being submitted with your application.

Leveraging in excess of the 25 percent of the grant amount will receive a higher point value.

(1) Volunteer time and services shall be computed by using the normal professional rate for the local area or the national minimum wage rate of $5.15 per hour. (Note: applicants may not count their staff time towards the match.) If grantees propose to use volunteers for development or operations work that would otherwise be subject to payment of Davis-Bacon or HUD-determined prevailing wage rates (including construction, rehabilitation or maintenance) their services must be computed using the appropriate Davis-Bacon or HUD-determined wage rates. More information on these wage rates can be found at: http://www.hud.gov, by contacting HUD Field Office Labor Relations staff, or from the PHA. Such volunteers must also meet the requirements of section 12(b) of the United States Housing Act of 1937 and 24 CFR part 70;

(2) In order for HUD to determine the value of any donated material, equipment, staff time, building, or lease, your application must provide a letter from the organization making the donation stating the value of the contribution.

(3) Other resources/services that can be committed include: in-kind services such as contributions of administrative services provided to the applicant; funds from federal sources as allowed by statute, including for example Community Development Block Grant (CDBG); funds from any state or local government sources; and funds from private contributions. Applicants may also partner with other program funding recipients to coordinate the use of resources in the target area.

b. Past Performance. HUD's field offices will evaluate data provided by applicants as well as applicants' past performance to determine whether applicants have the capacity to manage the grant for which they are applying. Field offices will evaluate the contract administrators' past performance for applicants required to have a contract administrator. Using Rating Factor 1, the field office will evaluate applicants' past performance. Applicants should carefully review Rating Factor 1 to ensure their application addresses each of the criteria requested therein. If applicants fail to address what is requested in Rating Factor 1, their application will fail this threshold and will not receive further consideration.

c. Contract Administrator Partnership Agreement. PHAs that are troubled at time of application are required to submit a signed Contract Administrator Partnership Agreement. The agreement must be for the entire grant term. Grant awards shall be contingent upon having a signed Contract Administrator Partnership Agreement included in the application. Applicants required to have a Contract Administrator Partnership Agreement that fail to submit one will fail this threshold requirement and will not receive further consideration for funding.

Troubled PHAs are not eligible to be contract administrators. Grant writers who assist applicants prepare their Neighborhood Networks applications are also ineligible to be contract administrators

For more information on contract administrators, see the section “Program Requirements.”

d. Minimum Score for All Fundable Applications. Applications that pass all threshold requirements and go through the ranking and rating process, must receive a minimum score of 75 in order to be considered for funding.

e. The Dun and Bradstreet Universal Numbering System (DUNS) Number Requirement. Refer to the General Section of the SuperNOFA for information regarding the DUNS requirement. You will need to obtain a DUNS number to receive an award from HUD. This threshold requirement is curable.

f. Ineligible Activities. Any application that proposes an ineligible activity will be disqualified and not considered for funding.

g. Applicants that request funding in excess of the maximum grant which they are eligible to receive will not receive funding consideration.

2. Program Requirements:

a. Program Evaluations. A portion of grant funds should be reserved to ensure that evaluations can be completed for all participants who received training through this program. Applicants may, for example, propose to reserve one percent of grant funds for every 10 students they train for the purpose of evaluating students' success in the program.

b. Physical Improvements. All renovations must meet appropriate accessibility requirements, including the requirements of Section 504 of the Rehabilitation Act of 1973 at 24 CFR part 8, Architectural Barriers Act at 24 CFR part 40, the Americans with Disabilities Act and the Fair Housing Act. Compliance with the Uniform Federal Accessibility Standards shall be deemed to comply with the requirements of 24 CFR 8.21, 8.22, 8.232, and 8.25 with respect to buildings.

c. Contract Administrator. The contract administrator must assure that the financial management system and procurement procedures that will be in place during the grant term will fully comply with 24 CFR 85. CAs are expressly forbidden from accessing HUD's Line of Credit Control System (LOCCS) and submitting vouchers on behalf of grantees. Contract administrators must also assist PHAs meet HUD's reporting requirements, see Section VI.(C) “Reporting” for more information. Contract administrators may be: Local housing agencies; community-based organizations such as community development corporations (CDCs), churches, temples, synagogues, mosques; nonprofit organizations; state/regional associations and organizations. Troubled PHAs are not eligible to be contract administrators. Grant writers who assist applicants prepare their Neighborhood Networks applications are also ineligible to be contract administrators. Organizations that the applicant proposes to use as the contract administrator must not violate or be in violation of other conflicts of interest as defined in 24 CFR part 84 and 24 CFR part 85.

3. Number of Applications Permitted:

a. General. Applicants may submit only one application for a NN grant.

b. Joint applications. Two or more applicants may join together to submit a joint application for proposed grant activities. Joint applications must designate a lead applicant. Both lead and non-lead applicants are subject to threshold requirements. Applicants who submit joint applications may not also submit separate applications as sole applicants under this NOFA. NOTE: The lead applicant will determine the maximum funding amount the applicants are eligible to receive.

4. Eligible Participants: All program participants must be residents of conventional public housing. Participants in the Public Housing Family Self-Sufficiency (FSS) program (non Housing Choice Voucher FSS Program) are also eligible to participate in activities funded under Neighborhood Networks.

5. Eligible Developments: Only conventional public housing developments may be served by Neighborhood Networks grant funds. Other housing/developments, including, but not limited to: private housing, federally-insured housing, federally subsidized or assisted (i.e., assisted under Section 8, Section 202, Section 811, Section 236), and others are not eligible to participate in Neighborhood Networks.

6. Energy Star. HUD has adopted a wide-ranging energy action plan for improving energy efficiency in all program areas. As a first step toward implementing the energy plan, HUD, the Environmental Protection Agency (EPA) and the Department of Energy (DoE) have signed a joint partnership to promote energy efficiency in HUD's affordable housing efforts and programs. The purpose of the Energy Star partnership is to promote energy efficiency of the affordable housing stock, but also to help protect the environment. Applicants constructing, rehabilitating, or maintaining housing or community facilities are encouraged to promote energy efficiency in design and operations. They are urged especially to purchase and use Energy Star labeled products. Applicants providing housing assistance or counseling services are encouraged to promote Energy Star building by homebuyers and renters. Program activities can include developing Energy Star promotional and information materials, outreach to low- and moderate-income renters and buyers on the benefits and savings when using Energy Star products and appliances, and promoting the designation of community buildings and homes as Energy Star compliant. For further information about Energy Star, see http://www.energystar.gov or call 888-STAR-YES (888-782-7937) or for the hearing-impaired, 888-588-9920 TTY.

7. Environmental Impact. Some activities under this Neighborhood Networks program section will be categorically excluded and not subject to environmental review under 24 CFR 58.34(a)(3), (a)(8) or (a)(9), 58.35(b)(2) or (b)(3), 50.19(b)(3), (b)(8), (b)(9), (b)(12), or (b)(13) but some will be subject to environmental review. Any applicant proposing any long-term leasing or physical development activities, and its partners, are prohibited from constructing, rehabilitating, converting, leasing, repairing or constructing property, or committing or expending HUD or non-HUD funds for these types of program activities, until one of the following has occurred:

a. If the grantee is not a PHA or tribe/TDHE, HUD has completed an environmental review to the extent required by 24 CFR part 50, prior to grant award.

b. If the grantee is a PHA or tribe/TDHE, HUD has approved the grantee's Request for Release of Funds (HUD Form 7015.15) following a Responsible Entity's completion of an environmental review under 24 CFR part 58, where required, or if HUD has determined in accordance with § 58.11 to perform the environmental review itself under part 50, HUD has completed the environmental review.

8. Wage Rates. Laborers and mechanics employed in the development and operation of Neighborhood Networks facilities on property that is subject to an Annual Contributions Contract must be paid Davis-Bacon or HUD-determined prevailing wage rates, respectively, unless they meet the qualifications of a volunteer (see section III.C.1.a of this program section).

9. Compliance with Program Requirements. All applicants and grantees must comply with the program requirements contained in Section III (C) of the General Section of the SuperNOFA.

IV. Application and Submission Information

A. Addresses to Request Application Package

There is no application kit this year. All forms and necessary information for applying are contained within this NOFA. Please refer to the General Section of the SuperNOFA for information on how to obtain hard copies of this NOFA. You may also visit http://www.hud.gov for this information.

B. Content and Form of Application Submission

1. Application Preparation: Before preparing an application for Neighborhood Networks funding, applicants should carefully review the program description, program requirements, ineligible activities, and threshold requirements, which are contained in this NOFA. Applicants should also review each rating factor found in the “Application Review Information” section before writing a narrative response. Applicants' narratives should be as descriptive as possible, ensuring that every requested item is addressed. Applicants should make sure to include all requested information, according to the instructions found in this NOFA and where applicable, in the General Section of the SuperNOFA. This will help ensure a fair and accurate review of your application.

2. Content and Format for Submission: In order to be funded, applicants must propose programs which meet all the requirements and objectives of the Neighborhood Networks program as described in this NOFA. Applicants are reminded that any application proposing ineligible activities will not be funded. Finally, applicants must submit their applications according to the “Format” section below.

a. Content of Application:

Applicants must write narrative responses to each of the rating factors which follow this section. Applicants will be evaluated on whether their responses demonstrate that they have the necessary capacity to successfully manage this grant program. Applicants should ensure that their narratives are written clearly and concisely so that HUD reviewers, who may not be familiar with the Neighborhood Networks program, may fully understand your proposal. HUD encourages applicants to carefully review each rating factor, the regulations governing the Neighborhood Networks program, 24 CFR parts 905 and 968, and the General Section of the SuperNOFA prior to responding to the rating factors.

b. Format of Application:

(1) Applications may not exceed 35 narrative pages. Narrative pages must be typed, double-spaced, numbered, use Times New Roman font style, and font size 12. Applications should be submitted in a three-ring binder with materials organized behind tabs according to the outline provided below. Supporting documentation, required forms, and certificates will not be counted toward the 35 narrative page limit. However, applicants should make every effort to submit only what is necessary in terms of supporting documentation.

(2) Format for submission of SuperNOFA forms, NN forms and narrative responses.

TAB 1: Required Forms from the General Section of the SuperNOFA and other NN forms:

1. Application for Federal Assistance (SF-424);

2. Supplement to SF-424—Survey on Ensuring Equal Opportunity for Applicants (SF-23004);

3. Questionnaire for HUD's Initiative on Removal of Regulatory Barriers (HUD-27300);

4. Fact Sheet (HUD-52751);

5. Applicant Assurances and Certifications (HUD-424B);

6. Grant Application Detailed Budget (HUD-424-CB);

7. Grant Application Detailed Budget Worksheet (HUD-424-CBW);

8. Applicant/Recipient Disclosure/Update Report (HUD-2880);

9. Certification of Consistency with RC/EZ/EC Strategic Plan (HUD-2990) if applicable;

10. Certification of Consistency with the Consolidated Plan (HUD-2991) if applicable;

11. Disclosure of Lobbying Activities (HUD-SF-LLL)—if applicable;

12. Disclosure of Lobbying Activities Continuation Sheet (HUD-SF-LLL-A)—if applicable;

13. Acknowledgment of Application Receipt (HUD-2993); and,

14. Client Comments and Suggestions (HUD-2994). (Optional)

TAB 2: Threshold Requirements:

1. Letters from Partners attesting to match;

2. Letter from Applicant's organization attesting to match (if applicant is contributing to match); and

3. Contract Administrator Partnership Agreement (required for troubled PHAs) (HUD-52755).

TAB 3: Narrative for Rating Factor 1 and NN Program Forms

1. Narrative

2. Chart A: Program Staffing (HUD-52756)

3. Chart B: Applicant/Administrator Track Record (HUD-52757)

4. Resumes/Position Descriptions

TAB 4: Narrative for Rating Factor 2

TAB 5: Rating Factor 3

1. Narrative

2. Business Plan (see sample) (HUD-52766)

TAB 6: Narrative for Rating Factor 4

TAB 7: Narrative for Rating Factor 5 and NN Program Forms

1. Narrative

2. Logic Model (HUD-96010);

3. Sample Performance measures/outcomes are attached for applicants' information

C. Submission Dates and Times

1. Due Dates: Applications are due on June 17, 2004. Please see the General Section of the SuperNOFA for application submission, delivery, and timely receipt requirements.

2. Proof of Timely Submission. Please see the General Section of the SuperNOFA for more information about how to mail in your application to HUD and how HUD will determine whether your application is received by the deadline. Applicants that fail to meet the deadline for application receipt will not receive funding consideration.

D. Intergovernmental Review

Not applicable.

E. Funding Restrictions

1. Reimbursement for Grant Application Costs: Applicants who receive an award under NN are prohibited from using NN grant funds to reimburse any costs incurred in conjunction with preparation of their NN grant application.

2. Covered Salaries:

a. Project Coordinator: All applicants may propose to hire a qualified project coordinator to run the grant program. The Neighborhood Networks program will fund up to $ 63,000 in combined annual salary and fringe benefits for a full-time project coordinator. The project coordinator's salary and fringe benefits may not exceed more than 30 percent of the total grant amount. For audit purposes, applicants must have documentation on file demonstrating that the salary they pay the project coordinator is comparable to similar professions in their local area.

b. Hiring Residents: Grantees may hire residents to help with the implementation of this grant program. No more than five percent of grant funds can be used for this purpose.

c. NN funds may only be used for the types of salaries described in this section according to the restrictions described herein. NN funds may not be used to pay for salaries of any other kind.

3. Administrative Costs. Administrative costs may include, but are not limited to, purchase of furniture, office equipment and supplies, local travel, and utilities. Administrative costs may not be used to pay for salaries of any kind. Administrative costs must not exceed 10 percent of the total grant amount requested from HUD. Administrative costs must adhere to OMB Circular A-87. Please use HUD-424-CBW to itemize your administrative costs.

4. Ineligible Activities/Costs. Grant funds may not be used for ineligible activities:

a. Payment of wages and/or salaries to participants for receiving supportive services and/or training programs;

b. Purchase, lease, or rental of land;

c. Purchase, lease, or rental of vehicles;

d. Entertainment costs;

e. Purchasing food;

f. Service Coordinator salary and fringe benefits;

g. Stipends;

h. Cost of application preparation;

i. Costs which exceed limits identified in the NOFA for the following: Project Coordinator, resident salaries, physical improvements (see below) and administrative expenses; and

j. Costs not eligible under section 9(d)(1)(E) of the U.S. Housing Act of 1937.

5. Physical Improvements. For new centers, expenses for physical improvements may not exceed 20 percent of the total grant amount requested from HUD. For existing centers, expenses for physical improvements may not exceed 10 percent of the total grant amount.

F. Other Submission Requirements

1. Mailing Applications. Applicants to the NN program should send their applications to: HUD Grants Management Center, Mail Stop: Neighborhood Networks, 2001 Jefferson Davis Hwy, Suite 703; Arlington, VA 22202. Please see the General Section of the SuperNOFA for detailed mailing and delivery instructions.

2. Number of Copies. Applications must be submitted in triplicate (one original and two identical copies). The original and one identical copy must be sent to the Grants Management Center by the deadline. The other identical copy must be submitted to your local HUD field office by the deadline.

V. Application Review Information

A. Criteria

1. Factors for Award Used to Evaluate and Rate Applications to the Neighborhood Networks program: The factors for rating and ranking applicants and maximum points for each factor are provided below. The maximum number of points available for this program is 102. This includes two RC/EZ/EC bonus points. The SuperNOFA contains a certification that must be completed in order for the applicant to be considered for RC/EZ/EC bonus points. A listing of federally designated RCs, EZs, ECs, and EECs is included as an appendix to the General Section of the SuperNOFA and is also available from the NOFA Information Center, and the HUD Web site, http://www.hud.gov. The agency certifying to RC/EZ/EC status must be listed in the appendix of the SuperNOFA or on the http://www.hud.gov Web site.

Note: Applicants should carefully review each rating factor before writing a response. Applicants' narratives should be as descriptive as possible, ensuring that every requested item is addressed. Applicants should make sure their narratives thoroughly address the Rating Factors below and include all requested information, according to the instructions found in this NOFA. This will help ensure a fair and accurate application review.

a. Rating Factor 1: Capacity of the Applicant and Relevant Organizational Staff (25 Points)

This factor addresses whether the applicant has the organizational resources necessary to successfully implement the proposed activities within the grant period. In rating this factor HUD will consider the extent to which the proposal demonstrates that the applicant will have qualified and experienced staff dedicated to administering the program.

(1) Proposed Program Staffing (12 Points).

(a) Staff Experience (4 Points). The knowledge and experience of the proposed project coordinator, staff, and partners in planning and managing programs for which funding is being requested. Experience will be judged in terms of recent, relevant and successful experience of proposed staff to undertake eligible program activities. In rating this factor, HUD will consider experience within the last 5 years to be recent; experience pertaining to the specific activities being proposed to be relevant; and experience producing specific accomplishments to be successful. The more recent the experience and the more experience proposed staff members who work on the project have in successfully conducting and completing similar activities, the greater the number of points applicants will receive for this rating factor. If proposed staff has experience both in providing community technology services and in delivering social service programs to typically underserved populations, applicants will receive a maximum score. If proposed staff has experience in only one area, applicants will receive two points. If proposed staff has experience in neither area, applicants will receive a score of 0 for this subfactor.

The following information should be provided in order to provide HUD an understanding of the proposed staff's experience and capacity:

(i) The number of staff years (one staff year = 2080 hours) to be allocated to the program by each employee or expert as well as each of their roles in the program;

(ii) The staff's relevant educational background and/or work experience;

(iii) Relevant and successful experience running programs whose activities include social services and computer programs that are similar to the eligible program activities described in this NOFA;

(b) Hiring Residents (3 points). Three points will be awarded if applicants commit to hiring one to three residents. Small PHAs should hire one person, medium PHAs should hire one to two people, and large PHAs should hire three people in order to get the maximum score.

(c) Organizational Capacity (5 Points). Applicants will be evaluated based on whether they have, and/or whether their partners have sufficient qualified personnel to deliver the proposed activities in a timely and effective fashion. In order to enhance or supplement capacity, applicants should provide evidence of partnerships with nonprofit organizations or other organizations that have experience providing community technology services to typically underserved populations. Applicants' narrative must describe their ability to immediately begin the proposed work program. Attach resumes and position descriptions (where staff is not yet hired) for all key applicant and partner personnel. (Resumes/position descriptions do not count toward the 35-page limit.)

(2) Past Performance of Applicant/ Contract Administrator (6 Points) Applicants' narrative must describe how they (or their Contract Administrator) successfully implemented grant programs (including those listed below) designed to promote resident self-sufficiency or moving from welfare to work. Applicants' past experience may include, but is not limited to, running programs aimed at assisting residents of low-income housing achieve economic self-sufficiency; i.e. ROSS grants and Youthbuild. Applicants' narrative must indicate the grants they received and managed, the grant amounts, and grant terms (years) of the grants which they are counting towards past experience. Applicants will be evaluated according to the following criteria:

(a) Achievement of specific measurable outcomes and objectives in terms of benefits gained by participating residents. Applicants should describe results their programs have obtained, (e.g. higher incomes, improved grades, higher rates of employment, increased savings, improved literacy, etc.);

(b) Description of timely grant expenditure throughout the term of past grants. Timely means regular drawdowns throughout the life of the grant, i.e. quarterly drawdowns, with all funds expended by the end of the grant term;

(c) Description of past leveraging. Applicants must describe how they have leveraged funding or in-kind services beyond that which was originally proposed to be used for past projects;

(3) Program Administration and Fiscal Management. (7 Points)

(a) Program Administration. (4 Points). Applicants should describe how they will manage the program; how HUD can be sure that there is program accountability; and provide a description of proposed staff's roles and responsibilities. Applicants should also describe how grant staff, and partners will report to the project coordinator and other senior staff.

(b) Fiscal Management. (3 Points) In rating this factor, applicants' skills and experience in fiscal management will be evaluated. If applicants have had any audit or material weakness findings in the past five years, they will be evaluated on how well they have addressed them. Applicants must provide the following:

(i) A complete description of their fiscal management structure, including fiscal controls currently in place including those of a Contract Administrator for applicants required to have a Contract Administrator (i.e., troubled PHAs);

(ii) Applicants must list any audit findings in the past five years (HUD Inspector General, management review, fiscal, etc.), material weaknesses and what has been done to address them;

(iii) For applicants who are required to have a Contract Administrator, describe the skills and experience the Contract Administrator has in managing federal funds.

b. Rating Factor 2: Need/Extent of the Problem (20 Points)

This factor addresses the extent to which there is a need for funding an applicant's proposed program. In responding to this factor, applicants will be evaluated on the extent to which they describe and document the level of need for their proposed activities and the urgency for meeting the need.

Applicants should use statistics and analyses contained in data source(s) that are sound and reliable. Data that describes socioeconomic conditions at the local level can be found by going to the following Web sites: http://www.bls.gov (Bureau of Labor Statistics) or http://www.census.gov (US Census). Other types of sources include socioeconomic studies or reports conducted by academic, State, and local organizations. To the extent possible, the data applicants use should be specific to the area where the proposed activities will be carried out. Applicants should document needs as they apply to the area where activities will be targeted, and not the entire region or state.

In responding to this factor, applicants must include:

(1) Socioeconomic Profile (5 points). A thorough socioeconomic profile of the eligible residents to be served by an applicant's program, including education levels, income levels, the number of single-parent families, economic statistics for the local area, etc.

(2) Local Training Program Information (5 points). Information on training programs currently available and easily accessible to residents either through the PHA or other local or state community organizations.

(3) Local Social Services Information (5 points). Information on social service programs currently available and easily accessible to residents either through the PHA or other local or state community organizations.

(4) Demonstrated Link Between Proposed Activities and Local Need (5 points). Applicants' narrative must demonstrate a clear relationship between proposed activities, community needs and the purpose of the program funding in order for points to be awarded for this factor.

c. Rating Factor 3: Soundness of Approach (25 Points)

This factor addresses both the quality and cost-effectiveness of applicants' proposed business plan. The business plan must indicate a clear relationship between proposed activities, the targeted population's needs, and the purpose of the program funding. Applicants' activities must address HUD's policy priorities outlined in this Rating Factor.

In rating this factor HUD will consider:

(1) Quality of the Business Plan (13 points). This factor evaluates both the applicants' business plan and budget which will be evaluated based on the following criteria:

(a) Specific Services and/or Activities (5 points). Applicants' narrative must describe the specific services, course curriculum, and activities they plan to offer and who will be responsible for each. In addition to the narrative, applicants must also provide a business plan which must list the specific services, activities, and outcomes they expect. The business plan must show a logical order of activities and progress and must tie to the outcomes and outputs applicants identify in the Logic Model (see Rating Factor 5). Please see a sample business plan in the Appendix (HUD-52766). Applicants' narrative must explain how their proposed activities will:

(i) Involve community partners in the delivery of services; and

(ii) Offer comprehensive services versus a small range of services geared toward enhancing economic opportunities for residents.

(b) Feasibility and Demonstrable Benefits (4 points). This factor examines whether applicants' business plan is logical, feasible and likely to achieve its stated purpose during the term of the grant. HUD's desire is to fund applications that will quickly produce demonstrable results and advance the purposes of the Neighborhood Networks program.

(i) Timeliness. This subfactor evaluates whether applicants' business plan demonstrates that their project is ready to be implemented shortly after grant award, but not to exceed three months following the execution of the grant agreement. The business plan must indicate timeframes and deadlines for accomplishing major activities.

(ii) Description of the problem and solution. The business plan will be evaluated based on how well applicants' proposed activities address the needs described in Rating Factor 2.

(c) Budget Appropriateness/Efficient Use of Grant. (4 Points) The score in this factor will be based on the following:

(i) Justification of expenses. Applicants will be evaluated based on whether their expenses are reasonable, well-explained, and support the objectives of their proposal.

(ii) Budget Efficiency. Applicants will be evaluated based on whether their application requests funds commensurate with the level of effort necessary to accomplish their goals and anticipated results.

(2) Addressing HUD's Policy Priorities (12 points). HUD wants to improve the quality of life for those living in distressed communities. HUD's grant programs are a vehicle through which long-term, positive change can be achieved at the community level. Applicants' narrative and business plan will be evaluated based on how well they meet the following HUD policy priorities:

(a) Improving the Quality of Life in Our Nation's Communities (5 points). In order to receive points in this category, applicants' narrative and business plan must indicate the types of activities, services, and training programs applicants will offer which can help residents successfully transition from welfare to work and earn higher wages, or for elderly/disabled residents, to continue to live independently.

(b) Providing Full and Equal Access to Grassroots Faith-Based and Other Community-Based Organizations in HUD Program Implementation (5 points). HUD encourages applicants to partner with grassroots organizations, e.g., civic organizations, grassroots faith-based and other community-based organizations that are not usually effectively utilized. These grassroots organizations have a strong history of providing vital community services such as developing first-time homeownership programs, creating economic development programs, providing job training and other supportive services. In order to receive points under this factor, applicants' narrative and business plan must describe how applicants will work with these organizations and what types of services they will provide.

(c) Policy Priority for Increasing the Supply of Affordable Housing Through the Removal of Regulatory Barriers to Affordable Housing. (up to 2 points)

Under this policy priority, higher rating points are available to (1) governmental applicants that are able to demonstrate successful efforts in removing regulatory barriers to affordable housing, and (2) nongovernmental applicants that are associated with jurisdictions that have undertaken successful efforts in removing barriers. For applicants to obtain the policy priority points for efforts to successfully remove regulatory barriers, applicants should complete Form HUD-27300, “Questionnaire for HUD's Initiative on Removal of Regulatory Barriers.” A copy of HUD's Notice entitled America's Affordable Communities Initiative, HUD's Initiative on Removal of Regulatory Barriers: Announcement of Incentive Criteria on Barrier Removal in HUD's 2004 Competitive Funding Allocations'' can be found on HUD's Web site at http://www.hud.gov/grants/index.cfm. A description of the policy priority and a copy of Form HUD-27300 can be found in the General Section to the SuperNOFA. Applicants are encouraged to read the Notice as well as the general section of the SuperNOFA to obtain an understanding of this policy priority and how it can impact their score. A limited number of questions expressly request the applicant to provide brief documentation with their response. Other questions require that for each affirmative statement made, the applicant must supply a reference, URL, or a brief statement indicating where the back-up information may be found, and a point of contact, including a telephone number or email address.

d. Rating Factor 4: Leveraging Resources (20 Points)

This factor addresses the applicant's ability to secure community resources that can be combined with HUD's grant resources to achieve program purposes. Applicants are required to create partnerships with organizations that can help achieve their program's goals. PHAs are required by section 12(d)(7) of the U.S. Housing Act of 1937 (entitled “Cooperation Agreements for Economic Self-Sufficiency Activities”) to make best efforts to enter into such agreements with relevant state or local agencies. In rating this factor, HUD will look at the extent to which applicants partner, coordinate and leverage their services and resources with other organizations serving the same or similar populations.

Additionally, applicants must have at least a 25 percent cash or in-kind match. The match is a threshold requirement. Joint applicants must together have at least a 25 percent match. Applicants who do not demonstrate the minimum 25 percent match will fail the threshold requirement and will not receive further consideration for funding. Leveraging in excess of the 25 percent of the grant amount will receive a higher point value. In evaluating this factor HUD will consider the extent to which applicants have partnered with other entities to secure additional resources which will increase the effectiveness of the proposed program activities. The additional resources and services must be firmly committed, must support the proposed grant activities and must, in combined amount (including in-kind contributions of personnel, space and/or equipment, and monetary contributions) equal at least 25 percent of the grant amount requested in this application. “Firmly committed” means that the amount of resources and their dedication to Neighborhood Networks-funded activities must be explicit, in writing, and signed by a person authorized to make the commitment. Please see the section on Threshold Requirements for more information.

Points for this factor will be awarded based on the documented evidence of partnerships and firm commitments and the ratio of requested Neighborhood Networks funds to the total proposed grant budget.

Points will be assigned based on the following scale:

Percentage of match | Points awarded
25 | 5 points (with partnerships) 3 points (without partnerships).
26-50 | 10 points (with partnerships) 8 points (without partnerships).
51-75 | 15 points (with partnerships) 13 points (without partnerships).
76-99 or above | 20 points (with partnerships) 18 points (without partnerships).

e. Rating Factor 5: Achieving Results and Program Evaluation (10 Points)

An important element in this year's NOFA is the development and reporting of performance measures and outcomes. This factor emphasizes HUD's determination to ensure that applicants meet commitments made in their applications and grant agreements and that they assess their performance so that they realize performance goals. Applicants must demonstrate how they propose to measure their success and outcomes as they relate to the Department's Strategic Plan. HUD requires NN applicants to develop an effective, quantifiable, outcome-oriented plan for measuring performance and determining that goals have been met. Applicants must use the Logic Model Form (HUD-96010) for this purpose.

Applicants must establish interim benchmarks, or outputs, for their proposed program that lead to the ultimate achievement of outcomes. “Outputs” are the direct products of a program's activities. Examples of outputs are: the number of eligible families that participate in supportive services, the number of new services provided, the number of residents receiving counseling, or the number of households using a technology center. Outputs should produce outcomes for your program.

“Outcomes” are benefits accruing to the residents, families and/or communities during or after participation in the NN program. Applicants must clearly identify the outcomes to be achieved and measured. Examples of outcomes are: increasing the homeownership rates among residents of a development or from a particular housing authority, increasing residents' financial stability (e.g. increasing assets of a household through savings), or increasing employment stability (e.g., whether persons assisted obtain or retain employment for one or two years after job training completion). Outcomes are not the actual development or delivery of services or program activities.

This rating factor requires that applicants identify program outputs, outcomes, and performance indicators that will allow applicants to measure their performance. Performance indicators should be objectively quantifiable and measure actual achievements against anticipated achievements. Applicants' narrative, business plan, and Logic Model should identify what applicants are going to measure, how they are going to measure it, and the steps they have in place to make adjustments to their business plan and management practices if performance targets begin to fall short of established benchmarks and timeframes. Applicants' proposal must also show how they will measure the performance of partners and affiliates. Applicants must include the standards, data sources, and measurement methods they will use to measure performance.

In order to respond to this factor, applicants should use the sample performance measures located in the Appendix (HUD-52758) as a guide. Applicants will be evaluated based on how comprehensively they propose to measure their program's outcomes.

B. Review and Selection Process

1. Review Process. Four types of reviews will be conducted: a screening to determine if you are eligible to apply for funding under the Neighborhood Networks category; whether your application submission is complete, on time and meets threshold; a review by the field office to evaluate past performance; and a technical review to rate your application based on the five rating factors provided in this NOFA.

2. Selection Process: The selection process is designed to achieve geographic diversity of grant awards throughout the country. HUD will first select the highest ranked application from each of the ten federal regions. After this “round,” HUD will select the second highest ranked application in each of the ten federal regions for funding (the second round). HUD will continue this process with the third, fourth, and so on, highest ranked applications in each federal region until the last complete round is selected for funding. If available funds exist to fund some but not all eligible applications in the next round, HUD will make awards to those remaining applications in rank order (by score) regardless of region and will fully fund as many as possible with remaining funds. If remaining funds are too small to make an award, they will be applied to funding the Fiscal Year 2005 Neighborhood Networks program, assuming new funding is made available.

3. Tie Scores. In the event of a tie between two applications, HUD will select the application that was received first.

4. Deficiency Period. Applicants will have fourteen calendar days in which to provide missing information requested from HUD. For other information on correcting deficient applications, please see the General Section of the SuperNOFA.

VI. Award Administration Information

A. Award Notices

HUD will make announcements of grant awards after the rating and ranking process is completed. Grantees will be notified by letter and will receive instructions for what steps they must take to access funding and begin implementing grant activities.

Applicants who are not funded will also receive letters via U.S. postal mail. Applicants who are not funded may request a debriefing. Applicants requesting to be debriefed must send a written request to: Iredia Hutchinson, Director, Grants Management Center, 501 School Street, SW., Suite 800, Washington, DC 20024. Please refer to the General Section of the SuperNOFA for additional information on debriefings.

B. Administrative and National Policy Requirements

1. Applicable Requirements. Grantees are subject to regulations and other requirements found in:

a. 24 CFR part 85 “Administrative Requirements for Grants and Cooperative Agreements to State, Local, and Federally Recognized Indian Tribal Governments”.

b. 24 CFR part 905 “The Public Housing Capital Fund Program”.

c. 24 CFR part 968 “Public Housing Modernization”.

d. OMB Circular A-87 “Cost Principles for State, Local, and Indian Tribal Governments”.

e. OMB Circular A-133 “Audits of States, Local Governments, and Non-Profit Organizations”.

2. Economic Opportunities for Low- and Very Low-Income Persons (Section 3). Section 3 of the Housing and Urban Development Act of 1968 applies to the Neighborhood Networks Program. For further information see the General Section of the SuperNOFA.

3. Executive Order 13202, Preservation of Open Competition and Government Neutrality Towards Government Contractors' Labor Relations on Federal and Federally Funded Construction Projects. For further information see the General Section of the SuperNOFA.

4. Fair Housing and Civil Rights Laws. Applicants and their subrecipients must comply with all Fair Housing and Civil Rights laws, statutes, regulations, and Executive Orders as enumerated in 24 CFR 5.105(a), as applicable. Please see the General Section of the SuperNOFA for more information.

5. Procurement of Recovered Materials. State agencies and agencies of a political subdivision of a state that are using assistance under a HUD program NOFA for procurement, and any person contracting with such an agency with respect to work performed under an assisted contract, must comply with the requirements of Section 6002 of the Solid Waste Disposal Act, as amended by the Resource Conservation and Recovery Act.

6. Requirements Applicable to All Programs. Applicants should refer to “Requirements and Procedures Applicable to All Programs” of the General Section of the SuperNOFA for other requirements to which they may be subject.

C. Reporting

1. Semi-Annual Performance Reports. Grantees shall submit semi-annual performance reports to the local HUD field office. These progress reports shall include financial reports (SF-269A) and a narrative describing milestones, business plan progress, and problems encountered and methods used to address these problems. HUD anticipates that some of the reporting of financial status and grant performance will be through electronic or Internet-based submissions. Grantees shall use quantifiable data to measure performance against goals and objectives outlined in their business plan. Applicants that receive awards from HUD should be prepared to report on additional measures that HUD may designate at time of award. Performance reports are due to the field office on July 30 and January 31 of each year. If reports are not received by the due date, grant funds will not be advanced until reports are received.

2. Final Report. All grantees shall submit a final report to their local field office, which will include a financial report (SF-269A) and a narrative evaluating overall performance against their business plan. Grantees shall use quantifiable data to measure performance against goals and objectives outlined in their business plan. The financial report shall contain a summary of all expenditures made from the beginning of the grant agreement to the end of the grant agreement and shall include any unexpended balances. The final narrative and financial report shall be due to the field office 90 days after the termination of the grant agreement.

3. Racial and Ethnic Data. HUD requires that funded recipients collect racial and ethnic beneficiary data. It has adopted the Office of Management and Budget's Standards for the Collection of Racial and Ethnic Data. In view of these requirements, applicants should use HUD-27061, the Racial and Ethnic Data Reporting Form (instructions are included), which can be found at http://www.HUDclips.org; a comparable form; or a comparable electronic data system for this purpose.

4. Logic Model. For each reporting period, as part of your required report to HUD, you must include a completed Logic Model (Form HUD-96010), which identifies output and outcome achievements.

VII. Agency Contact(s)

For questions and technical assistance, applicants may call the Public and Indian Housing Information and Resource Center at 800-955-2232. For the hearing or speech impaired, please call the Federal Relay Service at 800-877-8339.

VIII. Other Information

A. Code of Conduct

See the General Section of the SuperNOFA for more information.

B. Transfer of Funds

HUD does not have the discretion to transfer funds for the Neighborhood Networks category to or from any other grant program.

C. Paperwork Reduction Act

The information collection requirements contained in this document have been approved by the Office of Management and Budget (OMB) under the Paperwork Reduction Act of 1995 (44 U.S.C. 3501-3520) and assigned OMB control number 2577-0229. In accordance with the Paperwork Reduction Act, HUD may not conduct or sponsor, and a person is not required to respond to, a collection of information unless the collection displays a currently valid OMB control number. Public reporting burden for the collection of information is estimated to average ten hours per annum per respondent for the application and grant administration. This includes the time for collecting, reviewing, and reporting the data for the application, semi-annual reports and final report. The information will be used for grantee selection and monitoring the administration of funds. Response to this request for information is required in order to receive the benefits to be derived.

D. Appendix of Forms

The forms specific to the Neighborhood Networks Program follow.

BILLING CODE 4210-32-P

Resident Service Delivery Models-Family, Resident Service Delivery Models-Elderly/Persons with Disabilities, and Homeownership Supportive Services Under the Resident Opportunity and Self-Sufficiency (ROSS) Program; Overview Information

A. Federal Agency Name: Department of Housing and Urban Development, Office of Public and Indian Housing.

B. Funding Opportunity Title: Resident Service Delivery Models-Family, Resident Service Delivery Models-Elderly/Persons with Disabilities, and Homeownership Supportive Services under the Resident Opportunity and Self-Sufficiency (ROSS) Program.

C. Announcement Type: Initial announcement.

D. Funding Opportunity Number: The Federal Register number for this NOFA is: FR-4900-N-31. The OMB approval number is: 2577-0229.

E. Catalog of Federal Domestic Assistance (CFDA) Number(s): Resident Opportunity and Self Sufficiency, 14.870.

F. Dates: Resident Service Delivery Models-Elderly/Persons with Disabilities: The application due date is July 1, 2004. Please see the General Section of the SuperNOFA for application submission, delivery, and timely receipt requirements.

Resident Service Delivery Models-Family: The application due date is July 16, 2004. Please see the General Section of the SuperNOFA for application submission, delivery, and timely receipt requirements.

Homeownership Supportive Services: The application due date is August 10, 2004. Please see the General Section of the SuperNOFA for application submission, delivery, and timely receipt requirements.

G. Optional, Additional Overview Content Information:

1. Purpose of Program: The purpose of the Public and Indian Housing Resident Opportunity and Self Sufficiency (ROSS) program is to provide grants to public housing agencies (PHAs), tribes/tribally designated housing entities (TDHEs), Resident Associations (RAs), and nonprofit organizations, including grassroots, faith-based and other community-based organizations for the delivery and coordination of supportive services and other activities designed to help public and Indian housing residents attain economic self-sufficiency and elderly residents and residents with disabilities continue to live independently.

2. Funding Available: A total of approximately $56.6 million is available for ROSS in Fiscal Year 2004. This includes $54.6 million in FY2004 funding and approximately $2 million in carryover funding. Of this amount, approximately $16 million is available for the Public Housing Family Self-Sufficiency program, which is announced in a separate NOFA under this SuperNOFA.

3. Award Amounts: Awards, depending on the grant category, unit count and type of grantee, will range from $125,000 to $1,000,000. Please see each program description for more specific information about funding amounts.

4. Eligible Applicants. Eligible applicants are PHAs; tribes/TDHEs; nonprofit organizations including grassroots, faith-based and other community-based organizations that have resident support or the support of tribes; RAs; resident councils (RCs); resident organizations (ROs); City-Wide Resident Organizations (CWROs); Intermediary Resident Organizations (IROs); Jurisdiction-Wide Resident Organizations; Regional Resident Organizations; Resident Management Corporations (RMCs); Site-Based Resident Organizations; Statewide Resident Organizations (SRO); and Tribal/TDHE resident groups. The term “resident association” or “RA” will be used to refer to all types of eligible resident organizations. Please see the section on “Definition of Terms” for a complete definition of each type of eligible resident organization.

Resident Associations are not eligible for the Homeownership Supportive Services program.

See each program for more specific eligibility information.

5. Cost Sharing/Match Requirement: At least 25 percent of the requested grant amount is required as a match. The match may be in cash and/or in-kind donations. The match is a threshold requirement.

6. Grant term. The grant term for each funding category is three years from the execution date of the grant agreement.

Grant program | Total funding | Eligible applicants | Maximum grant amount
Resident Service Delivery Models—Family | $16 million | PHAs | $250,000 for PHAs with 1-780 units. $350,000 for PHAs with 781-2,500 units. $500,000 for PHAs with 2,501-7,300 units. $1,000,000 for PHAs with more than 7,301 units.
|  | Resident Associations | $125,000.
|  | Non-profit entities | $125,000 per RA; Maximum award is $375,000.
|  | Tribes/TDHEs | $250,000 for Tribes with 1-780 units. $350,000 for Tribes with 781-2,500 units. $500,000 for Tribes with 2,501-7,300 units. $1,000,000 for Tribes with more than 7,301 units.
Resident Service Delivery Models—Elderly and Persons with Disabilities | $11.4 million | PHAs | $200,000 for PHAs with 1-217 units. $300,000 for PHAs with 218-1,155 units. $400,000 for PHAs with over 1,156 units.
|  | Resident Associations | $125,000.
|  | Non-profit entities | $125,000 per RA; Maximum award is $375,000.
|  | Tribes/TDHEs | $200,000 for Tribes with 1-217 units. $300,000 for Tribes with 218-1,155 units. $400,000 for Tribes with over 1,156 units.
Homeownership Supportive Services | $13.2 million | PHAs | $250,000 for PHAs with 1-780 units. $350,000 for PHAs with 781-2,500 units. $500,000 for PHAs with 2,501-7,300 units. $1,000,000 for PHAs with more than 7,301 units.
|  | Non-profit entities | $125,000 per RA; Maximum award is $375,000.
|  | Tribes/TDHEs | $250,000 for Tribes with 1-780 units. $350,000 for Tribes with 781-2,500 units. $500,000 for Tribes with 2,501-7,300 units. $1,000,000 for Tribes with more than 7,301 units.

Full Text of Announcement

I. Funding Opportunity Description

A. Resident Services Delivery Models-Family (RSDM-Family)

The purpose is to provide funding to assist PHAs, tribes/TDHEs, RAs, nonprofit organizations including grassroots, faith-based or other community-based organizations create programs which will help residents achieve economic self-sufficiency. Applicants must submit proposals that will: Provide job training; expand educational opportunities for residents; promote economic self-sufficiency; provide access to the Internet and computer technology, and meet other needs and interests of residents.

B. Resident Services Delivery Models-Elderly/Persons with Disabilities (RSDM-Elderly)

This category is intended to provide PHAs, Indian tribes/TDHEs, RAs, and nonprofit organizations with the resources to provide and coordinate supportive services that will help elderly and/or disabled Public and Indian Housing residents continue to live independently.

C. Homeownership Supportive Services (HSS)

The HSS category provides funds for PHAs, tribes/TDHEs, and qualified nonprofit organizations to deliver homeownership training, counseling and supportive services for residents of Public and Indian housing who are participating or have participated in self-sufficiency programs, such as ROSS, Public Housing Family Self-Sufficiency (FSS) or other Federal, State, or local self-sufficiency programs. HSS is designed to enhance other self-sufficiency efforts by providing public housing residents with the necessary preparation and supportive services they need in order to move from rental housing to homeownership. PHAs, tribes/TDHEs, and nonprofit organizations specializing in homeownership training and counseling are eligible to apply. Resident participants in any HSS funding activity cannot be public housing residents and section 8 voucher holders concurrently.

D. Definition of Terms

1. City-Wide Resident Organization consists of members from Resident Councils, Resident Management Corporations, and Resident Organizations who reside in public housing developments that are owned and operated by the same PHA within a city.

2. Community Facility means a non-dwelling structure that provides space for multiple supportive services for the benefit of public or Indian housing residents and others eligible for the services provided. Supportive services may include but are not limited to:

a. Job-training;

b. After-school activities for youth;

c. Neighborhood Networks (formerly Twenty/20 Education Communities (TECs), Campus of Learners activities);

d. English as a Second Language (ESL) classes; and

e. Child care.

3. Contract Administrator means an overall grant administrator or a financial management agent (or both) that oversees the implementation of the grant and/or the financial aspects of the grant. (See the “Program Requirements” and “Threshold Requirements” sections for more information.)

4. Elderly person means a person who is at least 62 years of age.

5. Jurisdiction-Wide Resident Organization means an incorporated nonprofit organization or association that meets the following requirements:

a. Most of its activities are conducted within the jurisdiction of a single housing authority;

b. There are no incorporated resident councils or resident management corporations within the jurisdiction of the single housing authority;

c. It has experience in providing start-up and capacity-building training to residents and resident organizations; and

d. Public housing residents representing unincorporated resident councils within the jurisdiction of the single housing authority must comprise a majority of the board of directors.

6. Tribally Designated Housing Entity (TDHE) is an entity authorized or established by one or more Indian tribe to act on behalf of each such tribe authorizing or establishing the housing entity.

7. Indian Tribe means any tribe, band, nation, or other organized group of a community of Indians, including any Alaska native village, regional, or village corporation as defined in or established pursuant to the Alaska Native Claims Settlement Act, and that is recognized as eligible for the special programs and services provided by the United States to Indians because of their status as Indians pursuant to the Indian Self Determination and Education Act of 1975.

8. Intermediary Resident Organizations means jurisdiction-wide resident organizations, city-wide resident organizations, statewide resident organizations, regional resident organizations, and national resident organizations.

9. NAHASDA-assisted resident means a resident of a tribe (as defined above) who has been assisted by the Native American Housing Assistance and Self-Determination Act (NAHASDA) of 1996.

10. National Resident Organization (NRO) is an incorporated nonprofit organization or association for public housing that meets each of the following requirements:

a. It is national (i.e., conducts activities or provides services in at least two HUD areas or two states);

b. It has the capacity to provide start-up and capacity-building training to residents and resident organizations; and

c. Public housing residents representing different geographical locations in the country are members of the board of directors.

11. Nonprofit organization is an organization that is exempt from federal taxation. A nonprofit organization can be organized for the following purposes: charitable, religious, educational, scientific, or other similar purposes in the public interest. In order to qualify, an organization must be a corporation, community chest, fund, or foundation. An individual or partnership will not qualify. To obtain nonprofit status, qualified organizations must file an application with the Internal Revenue Service (IRS) and receive designation as such by the IRS. For more information, go to http://www.irs.gov. Applicants who are in the process of applying for nonprofit status, but have not yet received nonprofit designation from the IRS, will not be considered nonprofit organizations. All nonprofit applicants must submit their IRS determination letter to prove their 501(c)(3) status. Please see the section on “Threshold Requirements” for more information. Nonprofit applicants must also provide letters of support as described in the “Threshold Requirements” section.

12. National nonprofit organizations work on a national basis and have the capacity to mobilize resources on both a national and local level. All nonprofit applicants must submit their IRS determination letter to prove their 501(c)(3) status. National nonprofit applicants must also provide letters of support as outlined in the “Threshold Requirements” section.

13. Past Performance is a threshold requirement. Using Rating Factor 1, HUD's field offices will evaluate applicants for past performance to determine whether an applicant has the capacity to manage the grant for which they are applying. The area Office of Native American Programs (ONAP) will review past performance for tribal/TDHE submissions. Field offices will evaluate the past performance of contract administrators for applicants required to have a contract administrator.

14. Person with disabilities means a person who:

a. Has a condition defined as a disability in section 223 of the Social Security Act;

b. Has a developmental disability as defined in section 102 of the Developmental Disabilities Assistance Bill of Rights Act; or

c. Is determined to have a physical, mental, or emotional impairment which:

(1) Is expected to be of long-continued and indefinite duration;

(2) Substantially impedes his or her ability to live independently; and

(3) Is of such a nature that such ability could be improved by more suitable housing conditions.

The term “person with disabilities” does not exclude persons who have acquired immunodeficiency syndrome (HIV/AIDS) or any conditions arising from the etiologic agent for AIDS. In addition, no individual shall be considered a person with disabilities, for purposes of eligibility for low-income housing, solely on the basis of any drug or alcohol dependence.

The definition provided above for persons with disabilities is the proper definition for determining program qualifications. However, the definition of a person with disabilities contained in section 504 of the Rehabilitation Act of 1973 and its implementing regulations must be used for purposes of reasonable accommodations.

15. Project Coordinator is a person who is responsible for coordinating the grantee's approved activities to ensure that grant goals and objectives are met. A qualified project coordinator is someone with at least two years of experience working on supportive services designed specifically for typically underserved populations. The project coordinator and grantees are responsible for ensuring that all federal requirements are followed.

16. Resident Association (RA) means any or all of the forms of resident organizations as they are defined elsewhere in this Definitions section and includes Resident Councils (RC), Resident Management Corporations (RMC), Regional Resident Organizations (RRO), Statewide Resident Organizations (SRO), Jurisdiction-Wide Resident Organizations, and National Resident Organizations (NRO). The NOFA will use “Resident Association” or “RA” to refer to all eligible types of resident organizations. See 24 CFR 964.115 for more information.

17. Regional Resident Organization (RRO) means an incorporated nonprofit organization or association for public housing that meets each of the following requirements:

a. The RRO is regional (i.e., not limited by HUD Areas);

b. The RRO has experience in providing start-up and capacity-building training to residents and resident organizations; and

c. Public housing residents representing different geographical locations in the region must comprise the majority of the board of directors.

18. Resident Management Corporation (RMC) means an entity that proposes to enter into, or enters into a contract to conduct one or more management activities of a PHA and meets the requirements of 24 CFR 964.120.

19. Resident Organization (RO) for tribal entities means an incorporated or unincorporated nonprofit tribal organization or association that meets each of the following criteria:

a. It shall consist of residents only, and only residents may vote;

b. If it represents residents in more than one development or in all of the developments of the tribal/TDHE community, it shall fairly represent residents from each development that it represents;

c. It shall adopt written procedures providing for the election of specific officers on a regular basis; and

d. It shall have democratically elected governing board. The voting membership of the board shall consist solely of the residents of the development or developments that the tribal RO represents.

20. Secretary means the Secretary of Housing and Urban Development.

21. Site-Based Resident Associations means resident councils or resident management corporations representing a specific public housing development.

22. Statewide Resident Organization (SRO) is an incorporated nonprofit organization or association for public housing that meets the following requirements:

a. The SRO is statewide;

b. The SRO has experience in providing start-up and capacity-building training to residents and resident organizations; and

c. Public housing residents representing different geographical locations in the state must comprise the majority of the Board of Directors.

23. Tribal/TDHE Resident Group means tribal/TDHE resident groups that are democratically elected groups such as IHA-wide resident groups, area-wide resident groups, single development groups, or resident management corporations (RMCs).

E. Regulations Governing the ROSS Grant

Resident Service Delivery Models-Family, Resident Service Delivery Models-Elderly/Persons with Disabilities, and Homeownership Supportive Services are governed by 24 CFR part 964.

II. Award Information

A. Information for All Grant Categories and All Applicants

1. Grant Period: Three years. The grant period shall begin the day the grant agreement and the form HUD-1044, “Assistance Award/Amendment” are signed by both the grantee and HUD.

2. Grant Extensions. Requests to extend the grant term beyond the originally established grant term must be submitted in writing by the grantee to the local HUD field office or area ONAP. Such requests must be done prior to grant termination and with enough notice to give the field office or area ONAP a reasonable amount of time to fully evaluate the request. Requests must explain why the extension is necessary, what work remains to be completed, and what work and progress was accomplished to date.

3. Type of Award: Grant agreement.

4. Subcontracting: Subcontracting is permitted. Grantees must follow federal procurement regulations found in HUD regulations at 24 CFR 84.40-84.48 and 24 CFR 85.36.

B. Resident Services Delivery Models-Family

1. Total Funding: The Department expects to award $16 million under this category. Awards will be made as follows:

a. PHAs must use the number of occupied conventional family public housing units as of September 30, 2003, per their budget to determine the maximum grant amount they are eligible for in accordance with the categories listed below. PHAs should clearly indicate on the Fact Sheet the number of units under management.

Number of conventional units | Maximum funding
1-780 units | $250,000
781-2,500 units | 350,000
2501-7,300 units | 500,000
7,301 or more units | 1,000,000

b. The maximum grant award is $125,000 for each RA.

c. Nonprofit organizations that have resident support or the support of tribes or RAs are limited to $125,000 for each RA. A nonprofit organization may submit a single application for no more than three different RAs from the same PHA for a maximum grant award of $375,000. Nonprofit organizations may submit more than one application provided they target residents of distinct PHAs or tribes/TDHEs. In cases where nonprofit applicants are not able to obtain support from RAs, they may alternatively obtain letters of support from PHAs, Resident Advisory Boards (RABs), local civic organizations, or units of local government.

Note: All nonprofit applicants that do not include letters of support from RAs must include a letter of support from PHAs or tribes/TDHEs (please see Threshold Requirements for more information).

Funding for nonprofit applicants that do not receive letters of support from RAs will be determined as follows (support letters from PHAs must indicate the developments to be served by the nonprofit organization as well as the number of occupied conventional family public housing units in those developments):

Number of conventional units | Maximum funding
1-2,500 units | $125,000
2501-7,300 units | 250,000
7,301 or more units | 375,000

d. Tribes/TDHEs should use the number of units counted as Formula Current Assisted Stock for Fiscal Year 2003 as defined in 24 CFR 1000.316. Tribes/TDHEs are eligible for the same amounts as PHAs within each category in (a) above. Tribes that have not previously received funds from the Department under the U.S. Housing Act of 1937 should count housing units under management that are owned and operated by the Tribe and are identified in their housing inventory as of September 30, 2003, for family units. Tribes should clearly indicate the number of units under management on the Fact Sheet.

C. Resident Services Delivery Models-Elderly/Persons with Disabilities

1. Total Funding: The Department expects to award $11,400,000 under this category. Awards will be made as follows:

a. PHAs must use the number of occupied elderly and disabled conventional public housing units as of September 30, 2003, per their budget to determine the maximum grant amount they are eligible for in accordance with the categories listed below. PHAs should clearly indicate the number of units under management on the Fact Sheet.

Number of conventional units | Maximum funding
1-217 units | $200,000
218-1,155 units | 300,000
1,156 or more units | 400,000

b. The maximum grant award is $125,000 for each RA.

c. Nonprofit organizations that have resident support or the support of tribes or RAs are limited to $125,000 for each RA. A nonprofit organization may submit a single application for no more than three different RAs from the same PHA for a maximum grant award of $375,000. Nonprofit organizations may submit more than one application provided they target residents of distinct PHAs or tribes/TDHEs. In cases where nonprofit applicants are not able to obtain support from RAs, they may alternatively obtain letters of support from PHAs, Resident Advisory Boards (RABs), local civic organizations, or units of local government.

Note: All nonprofit applicants that do not include letters of support from RAs must include a letter of support from PHAs or tribes/TDHEs (please see Threshold Requirements for more information).

Funding for nonprofit applicants that do not receive letters of support from RAs will be determined as follows (support letters from PHAs must indicate the developments to be served by the nonprofit organization as well as the number of occupied conventional elderly/disabled public housing units in those developments):

Number of conventional units | Maximum funding
1-217 units | $125,000
218-1,155 units | 250,000
1,156 or more units | 375,000

d. Tribes/TDHEs should use the number of units counted as Formula Current Assisted Stock for Fiscal Year 2003 as defined in 24 CFR 1000.316. Tribes/TDHEs are eligible for the same amounts as PHAs within each category in (a) above. Tribes that have not previously received funds from the Department under the 1937 Housing Act should count housing units under management that are owned and operated by the Tribe and are identified in their housing inventory as of September 30, 2003, for elderly/disabled units. Tribes should clearly indicate the number of units under management on the Fact Sheet.

D. Homeownership Supportive Services

1. Total Funding: The Department expects to award $13,200,000 under this category. Awards will be made as follows:

a. PHAs must use the number of occupied conventional family public housing units as of September 30, 2003, per their budget to determine the maximum grant amount they are eligible for in accordance with the categories listed below. PHAs should clearly indicate the number of units under management on the Fact Sheet.

Number of conventional units x | Maximum funding
1-780 units | $250,000
781-2,500 units | 350,000
2,501-7,300 units | 500,000
7,301 or more units | 1,000,000

b. Nonprofit organizations that have resident support or the support of tribes or RAs are limited to $125,000 for each RA. A nonprofit organization may submit a single application for no more than three different RAs from the same PHA for a maximum grant award of $375,000. Nonprofit organizations may submit more than one application provided they target residents of distinct PHAs or tribes/TDHEs. In cases where nonprofit applicants are not able to obtain support from RAs, they may alternatively obtain letters of support from PHAs, Resident Advisory Boards (RABs), local civic organizations, or units of local government. NOTE: All nonprofit applicants that do not include letters of support from RAs must include a letter of support from PHAs or tribes/TDHEs (please see Threshold Requirements for more information).

Funding for nonprofit applicants that do not receive letters of support from RAs will be determined as follows (support letters from PHAs must indicate the developments to be served by the nonprofit as well as the number of occupied conventional family public housing units in those developments):

Number of conventional units | Maximum funding
1-2,500 units | $125,000
2,501-7,300 units | 250,000
7,301 or more units | 375,000

RAs are not eligible to apply for funding under the HSS category.

c. Tribes/TDHEs should use the number of units counted as Formula Current Assisted Stock for Fiscal Year 2003 as defined in 24 CFR 1000.316. Tribes/TDHEs are eligible for the same amounts as PHAs within each category in (a) above. Tribes that have not previously received funds from the Department under the U.S. Housing Act of 1937 should count housing units under management that are owned and operated by the Tribe and are identified in their housing inventory as of September 30, 2003, for family units. Tribes should clearly indicate the number of units under management on the Fact Sheet.

III. Eligibility Information

A. Eligible Applicants

1. RSDM-Family: This funding category provides grants to PHAs, tribes/TDHEs, RAs, and nonprofit organizations supported by resident organizations or tribes/TDHEs.

2. RSDM-Elderly/Persons with Disabilities: This funding category provides grants to PHAs, tribes/TDHEs, RAs, and nonprofit organizations supported by resident organizations or tribes/TDHEs. PHAs that are recipients of the Elderly/Disabled renewal Service Coordinator grant are not eligible to apply for this ROSS funding category.

3. Homeownership Supportive Services: This funding category provides grants to PHAs, tribes/TDHEs and qualified nonprofit organizations that have resident support. Resident Associations are not eligible to apply for funding under this category.

B. Cost Sharing or Matching

Information for All Grant Categories and All Applicants: The match is a threshold requirement. Applicants who do not demonstrate the minimum 25 percent match will fail the threshold requirement and will not receive further consideration for funding. Please see the section below on threshold requirements for more information on what is required for the match.

C. Other

1. Eligible Activities: a. RSDM-Family: HUD is looking for applications that implement comprehensive programs within the three year grant term which will result in improved economic self-sufficiency for Public and Indian housing residents. HUD is looking for proposals that involve partnerships with organizations that will enhance grantees' ability to provide educational programs, housing counseling, including fair housing counseling, job training and other supportive services for residents. All applicants must complete a work plan (see sample, HUD-52764, provided in the Appendix “ROSS Forms”) covering the three-year grant term.

The eligible activities are listed in four categories, from basic to advanced: Life-Skills Training, Job Training, Job Search and Placement Assistance; Post Employment Follow-up; and finally, Activities to Support Career Advancement and Long-term Economic Self-Sufficiency. Applicants are not limited to choosing one category of activity, but rather should design their programs to address the specific needs of the population they are targeting. Applicants are encouraged to pull from all categories and activities listed. Funds may be used for the activities described below.

(1) Hiring of a qualified project coordinator to run the grant program. A qualified project coordinator must have at least two years of experience working on supportive services programs designed for typically underserved populations. The project coordinator should be hired for the entire three-year term of the grant. The project coordinator should be responsible for:

(a) Marketing the program to residents;

(b) Assessing participating residents' skills and job-readiness;

(c) Assessing participating residents' needs for supportive services, e.g., child care, transportation costs, etc.

(d) Assisting a tribe or TDHE to create a resident group to promote self-sufficiency efforts on the reservation;

(e) Designing and coordinating grant activities based on residents' needs and the local labor market; and

(f) Monitoring the progress of program participants and evaluating the overall success of the program. A portion of grant funds should be reserved to ensure that evaluations can be completed for all participants who received training through this program. For more information on how to measure performance, please see Rating Factor 5 in the “Application Review Information” section of this NOFA.

(2) Life-skills Training (for Youth and Adults). Applicants' proposals can cover the following types of activities:

(a) Credit. The importance of having good credit and how to maintain good credit.

(b) Banking and Money Management. How to open a bank account; balance a checkbook; create a weekly spending budget and establish contingency plans for child care and transportation, etc.

(c) Real Life Issues. Information on tax forms; voter registration; leases; car insurance; health insurance; long-term care insurance; etc.

(d) Literacy training and GED preparation.

(e) College preparatory courses and information.

(f) Goal setting.

(g) Mentoring

(h) Hiring residents to help with the implementation of this grant program. NOTE: Stipends and salaries serve different purposes. Resident salaries can only be used to hire residents to help grant program staff with the implementation of grant activities.

(3) Job Training, Job Search and Placement Assistance. Eligible activities include:

(a) Skills Assessment of participating residents.

(b) Applying for a job. How to complete employment forms; highlighting skills employers are looking for; researching job opportunities in the area; calculating net wages.

(c) Soft skills training including problem solving and other cognitive skills; oral and written communication skills; workplace norms (appropriate dress, punctuality, respectful communication, etc.), work ethic; interpersonal and teamwork skills.

(d) Creating job training and placement programs.

(e) Resume writing.

(f) Interviewing techniques.

(g) Employer linkage and job placement. Working with local employers and job placement providers to design and offer training that addresses local employers' needs, create a job placement program that refers trained residents to participating employers and other local area employers.

(h) Career advancement and planning programs. Such programs should be designed to:

(i) Help residents identify a career goal and a timeline for achieving it;

(ii) Provide strategies such as finding a strong professional mentor within an organization residents may be working for and focusing on the organization's priorities.

(iii) Reinforce welfare-to-work programs and focus efforts on increasing residents' earning capacity. Activities can include job counseling, helping residents secure better paying jobs or jobs in better work environments, preparing for work in a new job category, obtaining additional job skills and other job-related or educational training.

(iv) Working with local employers, to create opportunities that combine education and skills training with jobs. Strategies that promote work-based learning can offer the most effective method for giving new workers the tools they need to move on to a career ladder and achieve upward mobility.

(4) Post-employment follow-up. After placing residents in jobs, providing follow-up and ongoing support to newly hired residents can have a significant positive impact on long-term job retention.

(5) Activities to Support Career Advancement and Long-term Economic Self-Sufficiency.

(a) Individual Savings Accounts (ISAs). Applicants may create programs that encourage residents to save and contribute to match savings accounts such as Individual Development Accounts (IDAs). The programs should include financial counseling and education activities. ISAs may only be used for three purposes: (1) To purchase a first home that is existing or under construction when the purchase contract is signed; (2) to receive post-secondary education or training; or (3) to start a local business (other than acquiring, leasing, constructing, or rehabilitating real property in connection with the business). Applicants are encouraged to leverage RSDM funds by working with local financial organizations, which can also contribute to residents' ISAs. FSS escrow accounts may not be used as a match for RSDM-funded ISAs. Grantees shall consult the Internal Revenue Service regarding possible tax consequences of the ISAs to participating residents.

(b) Housing Counseling. This can include information to help residents move to market rate rental housing and/or “pre-purchase” homeownership counseling and training. This may include training on such subjects as credit and financial management; credit repair; housing search; how to finance the purchase of a home; fair housing; Individual Savings Accounts, Real Estate Settlement Procedures Act (RESPA); and home maintenance.

(6) Stipends. Stipends are an eligible use of grant funds. Stipends may be used for reasonable out-of-pocket costs. Stipends may be used to reimburse such things as local transportation to and from job training and job interviews, supplemental educational materials, and child care expenses. Stipends must be tied to residents' successful performance and regular attendance.

(7) Hiring of Residents. Grant funds may also be used to hire a resident(s) as program staff.

(8) Supportive Services.

(a) After school programs for school-age children to include tutoring, remedial training, educational programming using computers.

(b) Provision of information on the Earned Income Tax Credit Program, Food Stamps, Child Tax Credit Program, Medicaid, the State Child Health Insurance Program (S-CHIP), Student Loan Interest Deduction, tribal welfare programs, and other benefit programs that can assist individuals and families make a successful transition from welfare to work.

(c) Transportation costs as necessary to enable participating families to receive services or commute to training or employment.

(d) Child-care provision for ROSS-RSDM-Family program participants.

(e) Parenting courses.

(f) Nutrition courses.

(g) Healthcare information and services including referrals to mental health providers, alcohol and other drug abuse treatment programs.

(h) English as a second language (ESL) classes.

(i) Creating and maintaining linkages to local social service agencies, such as employment agencies, health departments, transportation agencies, economic/community development agencies, community colleges, recreational and cultural services, and other community organizations such as Boys & Girls Clubs, 4H-Clubs, Boy Scouts, Girl Scouts, etc.

b. RSDM-Elderly/Persons with Disabilities: HUD is looking for applications that implement comprehensive programs within the three-year grant term, which will result in improved living conditions for the elderly/persons with disabilities population. HUD is also looking for proposals that involve partnerships with organizations that will help grantees provide enhanced services to the elderly/persons with disabilities they will serve. All applicants must complete a work plan (see sample provided in the Appendix “ROSS Forms”) covering the three-year grant term.

Proposed grant activities should build on the foundation created by previous ROSS grants or other federal, state, and local efforts to assist this population. Eligible activities include the following:

(1) Hiring of a qualified project coordinator to run the grant program. A qualified project coordinator must have at least two years of experience working on supportive services programs designed for elderly and/or disabled people. The project coordinator will be responsible for:

(a) Assessing participating residents' needs for supportive services (e.g. Medicaid, Medicare, physician care, food stamps, rehabilitation services, veterans disability, state-funded programs such as nurse case management, housekeeping, Meals-on-Wheels; transportation etc.);

(b) Designing and coordinating grant activities based on residents' needs;

(c) Monitoring the progress of program participants and evaluating the overall success of the program. A portion of grant funds should be reserved to ensure that evaluations can be completed for all participants who received assistance through this program. For more information on how to measure performance, please see Rating Factor 5 in the “Application Review Information” section of this NOFA.

(2) Coordination and set up of meal services;

(3) Coordination and set-up of transportation services;

(4) Wellness programs including, health and nutrition programs, preventive health education, referral to rehabilitation services, and services for the disabled and other community resources;

(5) Personal emergency response;

(6) Congregate services—includes supportive services that are provided in a congregate setting at a conventional public housing development; and

(7) Case management.

c. Homeownership Supportive Services: HUD is looking for applications that implement comprehensive programs within the three year grant term which will result in increased rates of homeownership for residents of Public and Indian housing. Applicants should create linkages with HUD homeownership programs such as: the Housing Choice Voucher Homeownership Program, the PHA Homeownership Program also known as Section 32 (formerly the Section 5(h) Homeownership Program) and homeownership programs and resources offered by other organizations or state or local homeownership programs.

Tribes/TDHEs should create linkages with programs such as the Mutual Help Homeownership Opportunity Program, the Section 184 Program, and homeownership programs developed under the Indian Housing Block Grant Program such as mortgage assistance.

All applicants must complete a work plan (see sample provided in the Appendix “ROSS Forms”) covering the three-year grant term.

HUD is also looking for proposals that involve partnerships with organizations that will enhance the services grantees will offer. Applicants are strongly encouraged to partner with HUD-approved housing counseling agencies. For a list of HUD-approved housing counseling agencies, go to: http://www.hud.gov/offices/hsg/sfh/hcc/hccprof14.cfm. Applicants' programs should build on the foundation created by previous ROSS grants, or other state and local self-sufficiency efforts in which their target population may have participated.

Under this funding category, applicants must develop homeownership training programs and supportive services based on needs assessments of the residents they intend to serve. NOTE: any applicant that proposes an ineligible activity will not be funded. Eligible activities include the following:

Eligible activities include, but are not limited to:

(1) Hiring of a qualified project coordinator to run the grant program. A qualified project coordinator must have at least two years of experience working on homeownership and supportive services programs designed for typically underserved populations. The project coordinator should be responsible for:

(a) Assessing participating residents' needs;

(b) Designing and coordinating grant activities based on residents' needs;

(c) Monitoring the progress of program participants and evaluating the overall success of the program. A portion of grant funds should be reserved to ensure that evaluations can be completed for all participants who received assistance through this program. For more information on how to measure performance, please see Rating Factor 5 in the “Application Review Information” section of this NOFA.

(2) Training to include:

(a) Asset building;

(b) Credit counseling and credit scoring;

(c) Financial literacy and management;

(d) Selecting a real estate broker;

(e) Choosing a lender;

(f) Appraisals;

(g) Home inspections;

(h) Avoiding delinquency and predatory lending;

(i) Foreclosure prevention;

(j) Home maintenance and financial management for first-time homeowners;

(k) Real Estate Settlement Procedures Act (RESPA); and

(l) Fair Housing Counseling.

(3) Individual Savings Accounts (ISAs). You may create programs that encourage residents to save and contribute to match savings accounts such as Individual Development Accounts (IDAs). ISAs may be used only for (a) escrow accounts, (b) down payment assistance and (c) closing costs to assist the resident to purchase an existing dwelling unit or a dwelling unit under construction. You are encouraged to leverage HSS funds by working with local financial organizations, which can also contribute to residents' ISAs. FSS escrow accounts may not be used as a match for HSS-funded ISAs. FSS residents are not eligible to participate in the ISA provision.

2. Threshold Requirements. The criteria below apply to all grant categories and all applicants unless otherwise indicated:

Applicants must respond to each threshold requirement clearly and thoroughly by following the instructions below. If your application fails one threshold requirement (regardless of the type of threshold) it will be considered a failed application and will not receive consideration for funding.

a. Match. All applicants are required to have in place a firmly committed 25 percent match in cash or in-kind donations as defined in this NOFA. Joint applicants must together have at least a 25 percent match. Applicants who do not demonstrate the minimum 25 percent match will fail this threshold requirement and will not receive further consideration for funding. If you are applying for more than one ROSS grant, you must use different sources of match donations for each grant application and you must indicate which additional ROSS grant(s) you are applying for by attaching an additional page to HUD budget form 424-CBW stating the sources and amounts of each of your match contributions for this application as well as any other HUD programs to which you are applying. Match donations must be firmly committed which means that the amount of match resources and their dedication to ROSS-funded activities must be explicit, in writing, and signed by a person authorized to make the commitment. Letters of commitment, memoranda of understanding (MOU), or tribal resolution must be on organization letterhead, and signed by a person authorized to make the stated commitment whether it be in cash or in-kind services. The letters of commitment/MOUs/tribal resolutions must indicate the total dollar value of the commitment and be dated within two months of the application deadline, and indicate how the commitment will relate to the proposed program. The commitment should be available at time of award. Applicants proposing to use their own, non-ROSS grant funds to meet the match requirement in whole or in part, must also include a letter of commitment indicating the type of match (cash or in-kind) and how the match will be used.

Leveraging in excess of the 25 percent of the grant amount will receive a higher point value.

(1) Volunteer time and services shall be computed by using the normal professional rate for the local area or the national minimum wage rate of $5.15 per hour (Note: applicants may not count their staff time toward the match);

(2) In order for HUD to determine the value of any donated material, equipment, staff time, building, or lease, your application must provide a letter from the organization making the donation stating the value of the contribution.

(3) Other resources/services that can be committed include: in-kind services such as contributions of administrative services provided to the applicant; funds from federal sources (not including ROSS funds) as allowed by statute, including for example Community Development Block Grant (CDBG); funds from any state or local government sources; and funds from private contributions. Applicants may also partner with other program funding recipients to coordinate the use of resources in the target area.

b. Past Performance. HUD's field offices will evaluate data provided by applicants as well as applicants' past performance to determine whether applicants have the capacity to manage the grant for which they are applying. The area Offices of Native American Programs (ONAP) will review past performance for tribal and TDHE submissions. Field offices will evaluate the contract administrators' past performance for applicants required to have a contract administrator. Using Rating Factor 1, the field office/area ONAP will evaluate applicants' past performance. Applicants should carefully review Rating Factor 1 to ensure their application addresses each of the criteria requested therein. If applicants fail to address what is requested in Rating Factor 1, their application will fail this threshold and will not receive further consideration.

c. Contract Administrator Partnership Agreement. All nonprofit applicants, all resident organizations, and PHAs that are troubled at time of application are required to submit a signed Contract Administrator Partnership Agreement. The agreement must be for the entire grant term. Grant awards shall be contingent upon having a signed partnership agreement included in your application. Applicants required to have a Contract Administrator Partnership Agreement that fail to submit one will fail this threshold requirement and will not receive further consideration for funding.

Troubled PHAs are not eligible to be contract administrators. Grant writers who assist applicants prepare their ROSS applications are also ineligible to be contract administrators. For more information on contract administrators, see the section “Program Requirements.”

d. Letters of Support for Nonprofit Applicants. All nonprofit applicants must include letters of support from resident associations (RAs), Resident Advisory Boards (RABs), local civic organizations, or units of local government. In the event that RAs are inactive, or that applicants submit letters of support from other organizations such as RABs, nonprofit applicants must also submit letters from PHAs indicating support for their application. All letters of support must be signed by an authorized representative of the supporting organization and dated within two months of the application deadline.

Nonprofit applicants that do receive support from resident associations must submit Form HUD-52754 “List of Resident Associations Supporting Nonprofit Applicants.” Submitting this form is not applicable where RAs are inactive or where applicants do not submit letters of support from RAs.

In cases where nonprofit organizations are applying to serve tribes/TDHEs, nonprofit applicants must submit letters of support from tribes/TDHEs. Nonprofit organizations must also use Form HUD-52754 to list which tribes/TDHEs support their application.

Letters of support from RAs must describe to what extent they are familiar with the nonprofit applicant and indicate their support and understanding of the nonprofit organization's proposal/application. Letters from RAs must include contact information and the name and title of the person authorized to sign for the organization and should, whenever possible, be on RA letterhead.

Letters of support from RABs must describe to what extent the RAB is familiar with the nonprofit applicant and indicate its support and understanding of the nonprofit organization's proposal/application. Letters from RABs must include contact information and the name and title of the person authorized to sign for the organization, and should be on RAB or PHA letterhead.

Letters of support from civic organizations or units of local government must describe to what extent they are familiar with the nonprofit applicant and which programs the nonprofit applicant has operated or managed in the community that are similar to the applicant's proposal. Such letters of support must include contact information and the name and title of the person authorized to sign for the organization. The letter should be on organization letterhead.

All nonprofit applicants that do not provide letters of support from resident associations must provide letters of support from PHAs or tribes/TDHEs with jurisdiction over the developments the applicant proposes to serve. Letters from PHAs or tribes/TDHEs must describe the extent to which the nonprofit applicant is familiar with the needs of the community to be served, which programs the nonprofit applicant has operated or managed in the community that are similar to the applicant's proposal, and whether the nonprofit organization has the capacity to implement its proposed program. Letters from PHAs or tribes/TDHEs must also list the names of the developments to be served, the number of occupied conventional family or elderly/disabled public housing units (depending on the grant category) in those developments, certify that the units are conventional public housing, and identify the ROSS grant category to which the nonprofit organization is applying. PHA or tribe/TDHE letters of support must be signed by the Executive Director, tribal leader, or authorized designee and must be on PHA or tribe/TDHE letterhead.

Applications from nonprofit organizations, which do not submit the information requested in this section will fail this threshold requirement and will not be considered for funding.

e. Nonprofit status. All nonprofit applicants must submit their IRS determination letter to prove their 501(c)(3) status. Applicants that fail to submit this letter will fail this threshold requirement and will not be considered for funding.

f. Minimum Score for All Fundable Applications. Applications that pass all threshold requirements and go through the ranking and rating process, must receive a minimum score of 75 in order to be considered for funding.

g. Ineligible Activities. Any application that proposes an ineligible activity will be disqualified and not considered for funding.

h. Funding Requests in Excess of Maximum Grant Amount. Applicants that request funding in excess of the maximum grant amount which they are eligible to receive will not receive funding consideration.

i. PHA applicants to the Homeownership Supportive Services program. PHA applicants to the Homeownership Supportive Services program that administer a Homeownership Voucher Program will be required to provide 10 Homeownership Vouchers per year to eligible families who successfully complete training under the Homeownership Supportive Services grant program. Those PHAs which administer a Housing Choice Voucher program but have not elected to provide assistance under the Homeownership Voucher option and receive funding under this category, will be required to implement the Homeownership Voucher Program and make 10 Homeownership Vouchers available on an annual basis to eligible families who successfully complete training under this ROSS activity. PHA applicants as described in this section must provide a letter certifying that they will comply with this requirement.

j. Tribal/TDHE applicants. Tribal/TDHE applicants to the HSS program must have a Low-income Homeownership Program outlined in their current Indian Housing Plan. Tribes/TDHEs will also be required to provide homeownership assistance to a minimum of 10 eligible families as described above.

k. The Dunn and Bradstreet Universal Numbering System (DUNS) Number Requirement. Refer to the General Section of the SuperNOFA for information regarding the DUNS requirement. You will need to obtain a DUNS number to receive an award from HUD. This threshold requirement is curable.

3. Program Requirements:

a. Program Evaluations. A portion of grant funds should be reserved to ensure that evaluations can be completed for all participants who received training through this program. Applicants may, for example, propose to reserve one percent of grant funds for every 10 students they train for the purpose of evaluating students' success in the program.

b. Contract Administrator. The contract administrator must assure that the financial management system and procurement procedures that will be in place during the grant term will fully comply with either 24 CFR part 84 or part 85, as appropriate. CAs are expressly forbidden from accessing HUD's Line of Credit Control System (LOCCS) and submitting vouchers on behalf of grantees. Contract administrators must also assist PHAs meet HUD's reporting requirements, see Section VI.C. “Reporting” for more information. Contract administrators may be: Local housing agencies; community-based organizations such as community development corporations (CDCs), churches, temples, synagogues, mosques; nonprofit organizations; state/regional associations and organizations. Troubled PHAs are not eligible to be contract administrators. Grant writers who assist applicants prepare their applications are also ineligible to be contract administrators. Organizations that the applicant proposes to use as the contract administrator must not violate or be in violation of other conflicts of interest as defined in 24 CFR part 84 and 24 CFR part 85.

4. Number of Applications Permitted. Except as otherwise noted, the criteria below apply to all grant categories and all applicants.

a. General. Applicants including PHAs, tribes/TDHEs, RAs, and nonprofit organizations that have support from the resident associations they propose to serve or the support of tribes/TDHEs may submit one application for each ROSS funding category, however applicants must submit separate applications for each funding category. Nonprofit organizations may submit more than one application per funding category provided that they will be serving residents of distinct PHAs or Tribes/TDHEs.

b. More than one application per development. Applications from PHAs, tribes/TDHEs, RAs, and nonprofit organizations targeting the same public housing development/population will not all be funded. HUD suggests that in these cases, applicants work together to submit one application. Otherwise, the highest scoring application will be funded.

c. Joint applications. Two or more applicants may join together to submit a joint application for proposed grant activities. Joint applications must designate a lead applicant. Both lead and non-lead applicants are subject to threshold requirements. Joint applications may include PHAs, RAs, Tribes/TDHEs, and nonprofit organizations on behalf of resident organizations. Joint applications involving nonprofit organizations must also provide evidence of resident support or support from local civic organizations or from units of local government. PHAs, tribes/TDHEs, and resident organizations that are part of a joint application may not also submit separate applications as sole applicants under this NOFA.

Note: The lead applicant will determine the maximum funding amount the applicants are eligible to receive.

5. Eligible Participants: All program participants must be residents of conventional public housing or NAHASDA-assisted housing. Participants in the Public Housing Family Self-Sufficiency (FSS) program (non-Housing Choice Voucher FSS Program) are also eligible to participate in activities funded under ROSS.

6. Eligible Developments: Only conventional Public and Indian housing developments may be served by ROSS grant funds. Other housing/developments, including, but not limited to private housing, federally insured housing, federally subsidized or assisted (i.e., assisted under Section 8, Section 202, Section 811, Section 236), and others are not eligible to participate in ROSS.

7. Energy Star. HUD has adopted a wide-ranging energy action plan for improving energy efficiency in all program areas. As a first step toward implementing the energy plan, HUD, the Environmental Protection Agency (EPA) and the Department of Energy (DoE) have signed a joint partnership to promote energy efficiency in HUD's affordable housing efforts and programs. The purpose of the Energy Star partnership is to promote energy efficiency of the affordable housing stock, but also to help protect the environment. Applicants constructing, rehabilitating, or maintaining housing or community facilities are encouraged to promote energy efficiency in design and operations. They are urged especially to purchase and use Energy Star labeled products. Applicants providing housing assistance or counseling services are encouraged to promote Energy Star building by homebuyers and renters. Program activities can include developing Energy Star promotional and information materials, outreach to low- and moderate-income renters and buyers on the benefits and savings when using Energy Star products and appliances, and promoting the designation of community buildings and homes as Energy Star compliant. For further information about Energy Star, see http://www.energystar.gov or call 888-STAR-YES (888-782-7937) or for the hearing-impaired, 888-588-9920 (TTY).

IV. Application and Submission Information

A. Addresses to Request Application Package

There is no application kit this year. All forms and necessary information are contained within this NOFA. Please refer to the General Section of the SuperNOFA for information on how to obtain hard copies of this NOFA, or visit http://www.hud.gov for this information.

B. Content and Form of Application Submission

1. Application Format Information for All Grant Categories and All Applicants: Before preparing an application to any ROSS funding program, applicants should carefully review the program description, ineligible activities, program and threshold requirements, and the General Section of the SuperNOFA. Applicants should also review each rating factor found in the “Application Review Information” section before writing a narrative response. Applicants' narratives should be as descriptive as possible, ensuring that every requested item is addressed. Applicants should make sure to include all requested information, according to the instructions found in this NOFA and where applicable, in the General Section of the SuperNOFA. This will help ensure a fair and accurate review of your application.

2. Content and Format for Submission: In order to be funded, applicants must propose programs which meet all the requirements and objectives of the ROSS program to which they are applying to, as described in this NOFA. Applicants are reminded that any application proposing ineligible activities will not be funded. Finally, applicants must submit their applications according to the format provided in the “Format” section below.

a. Content of Application: Applicants must write narrative responses to each of the rating factors, which follow this section. Applicants will be evaluated on whether their responses demonstrate that they have the necessary capacity to successfully manage this grant program. Applicants should ensure that their narratives are written clearly and concisely so that HUD reviewers, who may not be familiar with the ROSS program, may fully understand your proposal.

b. Format of Application: (1) Applications may not exceed 35 narrative pages. Narrative pages must be typed, double-spaced, numbered, use Times New Roman font style, and font size 12. Applications should be submitted in a three-ring binder with materials organized behind tabs according to the outline provided below. Supporting documentation, required forms, and certificates will not be counted toward the 35 narrative page limit. However, applicants should make every effort to submit only what is necessary in terms of supporting documentation.

(2) Format for submission of SuperNOFA forms, ROSS forms, and narrative responses.

TAB 1: Required Forms from the General Section of the SuperNOFA and other ROSS forms:

1. Application for Federal Assistance (SF-424);

2. Supplement to SF-424—Survey on Ensuring Equal Opportunity for Applicants (SF-23004);

3. Questionnaire for HUD's Initiative on Removal of Regulatory Barriers (HUD-27300);

4. Fact Sheet (HUD-52751);

5. Applicant Assurances and Certifications (HUD-424B);

6. Grant Application Detailed Budget (HUD-424-CB);

7. Grant Application Detailed Budget Worksheet (HUD-424-CBW);

8. Applicant/Recipient Disclosure/Update Report (HUD-2880);

9. Certification of Consistency with RC/EZ/EC Strategic Plan (HUD-2990) if applicable;

10. Certification of Consistency with the Consolidated Plan (HUD-2991) if applicable;

11. Certification of Consistency with the Indian Housing Plan if applicable (HUD-52752);

12. Certification of Resident Council Board of Election (not required for tribes/nonprofit organizations working on behalf of tribes) (HUD-52753);

13. Disclosure of Lobbying Activities (HUD-SF-LLL)—if applicable;

14. Disclosure of Lobbying Activities Continuation Sheet (HUD-SF-LLL-A)—if applicable;

15. Acknowledgment of Application Receipt (HUD-2993); and,

16. Client Comments and Suggestions (HUD-2994). (Optional)

TAB 2: Threshold Requirements:

1. Letters from Partners attesting to match;

2. Letter from Applicant's organization attesting to match (if applicant is contributing to match);

3. Letters of Support from Resident Associations/ PHAs/tribes/TDHEs/ Resident Advisory Boards/local civic organizations and/or units of local government (Threshold requirement for all nonprofit applicants);

4. Chart of Resident Associations Participating (required for nonprofit applicants but not applicable to applications from tribes/TDHEs.) (HUD-52754);

5. IRS nonprofit determination letter proving 501(c)(3) status (Threshold requirement for all nonprofit applicants); and

6. Contract Administrator Partnership Agreement (required for nonprofit organizations, resident associations, and troubled PHAs) (HUD-52755).

TAB 3: Narrative for Rating Factor 1 and ROSS Program Forms:

1. Narrative

2. Chart A: Program Staffing (HUD-52756)

3.Chart B: Applicant/Administrator Track Record (HUD-52757)

4. Resumes/Position Descriptions

TAB 4: Narrative for Rating Factor 2.

TAB 5: Rating Factor 3:

1. Narrative

2. Work plan (see sample) (HUD-52764)

TAB 6: Narrative for Rating Factor 4.

TAB 7: Narrative for Rating Factor 5 and ROSS Program Forms:

1. Narrative

2. Logic Model (HUD-96010)

3. Sample Performance measures/outcomes are attached for applicants' information

C. Submission Dates and Times

1. Due Dates: Resident Service Delivery Models-Elderly/Persons with Disabilities: The application due date is July 1, 2004. Please see the General Section of the SuperNOFA for application submission, delivery, and timely receipt requirements.

Resident Service Delivery Models-Family: The application due date is July 16, 2004. Please see the General Section of the SuperNOFA for application submission, delivery, and timely receipt requirements.

Homeownership Supportive Services: The application due date is August 10, 2004. Please see the General Section of the SuperNOFA for application submission, delivery, and timely receipt requirements.

2. Proof of Timely Submission. Please see the General Section of the SuperNOFA for more information about how to mail in your application to HUD and how HUD will determine whether your application is received by the deadline. Applicants that fail to meet the deadline for application receipt will not receive funding consideration.

D. Intergovernmental Review

Not applicable.

E. Funding Restrictions

1. Reimbursement for Grant Application Costs: Applicants who receive an award under any ROSS funding category are prohibited from using ROSS grant funds to reimburse any costs incurred in conjunction with preparation of their ROSS grant application.

2. Covered Salaries: Applicable to all grant categories and all applicants:

a. Project Coordinator: All applicants may propose to hire a qualified project coordinator to run the grant program. The ROSS program will fund up to $63,000 in combined annual salary and fringe benefits for a full-time project coordinator. The project coordinator's salary and fringe benefits may not exceed 30 percent of the total grant amount. For audit purposes, applicants must have documentation on file demonstrating that the salary of the project coordinator is comparable to similar professions in their local area.

b. Resident Salaries. Only the RSDM-Family category permits grantees to use grant funds for this purpose. No more than five percent of RSDM-Family funds may be used to pay for resident salaries.

c. Types of Salaries. ROSS funds may only be used for the types of salaries described in this section according to the restrictions described herein. ROSS funds may not be used to pay for salaries of any other kind.

3. Administrative Costs. Administrative costs may include, but are not limited to, purchase of furniture, office equipment and supplies, local travel, and utilities. Administrative costs may not be used to pay for salaries of any kind. Nonprofit organizations only may use administrative funds to pay for rental of space. Administrative costs must not exceed 10 percent of the total grant amount requested from HUD. Administrative costs must adhere to OMB Circular A-87 or A-122 as appropriate. Please use HUD-424-CBW to itemize your administrative costs.

4. Individual Savings Accounts (ISAs). ROSS RSDM-Family and Homeownership Supportive Services funds can be used as matching funds for ISAs but no more than 20 percent of total grant funds may be used for this purpose.

5. Stipends. This applies to RSDM-Family only. No more than $200 of the grant award may be used per participant per month for stipends for active trainees and program participants. Stipends may only be used to reimburse reasonable out-of-pocket expenses related to participation in training and other program-related activities. Receipts for such expenses must be provided by the resident in order to obtain reimbursement. Stipends are not considered an administrative expense and therefore are not subject to the 10 percent limitation on administrative costs.

6. Ineligible Activities/Costs. Grant funds may not be used for ineligible activities:

a. Payment of wages and/or salaries to participants for receiving supportive services and/or training programs;

b. Purchase, lease, or rental of land;

c. New construction, costs for construction materials;

d. Rehabilitation or physical improvements;

e. Purchase, lease, or rental of vehicles;

f. Entertainment costs;

g. Purchasing food;

h. Elderly/Disabled Service Coordinator salary and fringe benefits;

i. Payment of wages and/or salaries to doctors, nurses or other staff (including health aids or companions) in relation to medical services provided to residents;

j. Purchase of non-prescription or prescription medications;

k. Stipends (Stipends are only allowed under RSDM-Family)

l. Down payment assistance (Note: Participants may use their ISAs under the RSDM-Family and Homeownership Supportive Services program for this purpose);

m. Revolving loan funds;

n. Costs, which exceed limits, identified in the NOFA for the following: Project Coordinator, resident salaries, ISAs, stipends, and administrative expenses; and

o. Cost of application preparation.

7. Other Budgetary Restrictions. Applicable to all grant categories and all applicants: Some long distance travel may be necessary during the term of the grant in order for professional grant staff to attend HUD-sponsored training conferences for ROSS grantees. Long distance travel costs for grant program staff may not exceed $5,000 for the life of the grant and must receive prior approval from the grantee's local HUD field office or area ONAP.

F. Other Submission Requirements

1. Mailing Applications. Applicants to the ROSS program should send their applications to: HUD Grants Management Center, Mail Stop: Insert Name of ROSS Funding Category, 2001 Jefferson Davis Highway, Suite 703, Arlington, VA 22202. Please see the General Section of the SuperNOFA for detailed mailing and delivery instructions.

In the case of tribes and TDHEs, please submit your original completed application to: Denver Program Office of Native American Programs (DPONAP), 1999 Broadway, Suite 3390, Denver, CO 80202, by mail using the United States Postal Service (USPS) or it may be delivered only via the following four carrier services: United Parcel Service (UPS), FedEx, DHL, or Falcon Carrier.

2. Number of Copies. Applications must be submitted in triplicate (one original and two identical copies). The original and one identical copy must be sent to the Grants Management Center by the deadline. The other identical copy must be submitted to your local HUD field office by the deadline. For tribal and TDHE applicants, the original and one copy must be sent to the Denver Program Office of Native American Programs (DPONAP), the other identical copy should be sent to the GMC by the deadline. Copies of applications from tribes/TDHEs should not be sent to the Area ONAP.

V. Application Review Information

A. Criteria

1. Factors for Award Used to Evaluate and Rate Applications to the ROSS program: The factors for rating and ranking applicants and maximum points for each factor are provided below. The maximum number of points available for this program is 102. This includes two RC/EZ/EC bonus points. The SuperNOFA contains a certification that must be completed in order for the applicant to be considered for RC/EZ/EC bonus points. A listing of federally designated RCs, EZs, ECs, and EECs is included as an appendix to the General Section of the SuperNOFA and is also available from the NOFA Information Center, and the Grants.gov Web site, http://www.grants.gov. The agency certifying to RC/EZ/EC status must be listed in the appendix of the SuperNOFA or on the http://www.grants.gov Web site.

Note: Applicants should carefully review each rating factor before writing a response. Applicants' narratives should be as descriptive as possible, ensuring that every requested item is addressed. Applicants should make sure their narratives thoroughly address the Rating Factors below. Applicants should include all requested information, according to the instructions found in this NOFA. This will help ensure a fair and accurate application review.

a. Rating Factor 1: Capacity of the Applicant and Relevant Organizational Staff (20 Points)

This factor addresses whether the applicant has the organizational resources necessary to successfully implement the proposed activities within the grant period. In rating this factor HUD will consider the extent to which the proposal demonstrates that the applicant will have qualified and experienced staff dedicated to administering the program.

(1) Proposed Program Staffing (7 Points).

(a) Staff Experience (4 Points). The knowledge and experience of the proposed project coordinator, staff, and partners in planning and managing programs for which funding is being requested. Experience will be judged in terms of recent, relevant and successful experience of proposed staff to undertake eligible program activities. In rating this factor, HUD will consider experience within the last 5 years to be recent; experience pertaining to the specific activities being proposed to be relevant; and experience producing specific accomplishments to be successful. The more recent the experience and the more experience proposed staff members who work on the project have in successfully conducting and completing similar activities, the greater the number of points applicants will receive for this rating factor. The following information should be provided in order to provide HUD an understanding of proposed staff's experience and capacity:

(i) The number of staff years (one staff year = 2080 hours) to be allocated to the proposed program by each employee or expert as well as each of their roles in the program;

(ii) The staff's relevant educational background and/or work experience; and

(iii) Relevant and successful experience running programs whose activities are similar to the eligible program activities described in the grant category to which you are applying.

(b) Organizational Capacity (3 Points). Applicants will be evaluated based on whether they have, or their partners have sufficient qualified personnel to deliver the proposed activities in a timely and effective fashion. In order to enhance or supplement capacity, applicants should provide evidence of partnerships with nonprofit organizations or other organizations that have experience providing supportive services to typically underserved populations. Applicants' narrative must describe their ability to immediately begin the proposed work program. Attach resumes and position descriptions (where staff is not yet hired) for all key personnel. (Resumes/position descriptions do not count toward the 35-page limit.)

(2) Past Performance of Applicant/Contract Administrator (6 Points).

Applicants' past experience may include, but is not limited to, running and managing programs aimed at:

RSDM-Family: assisting residents of low-income housing achieve economic self-sufficiency;

RSDM-Elderly: assisting elderly/persons with disabilities who reside in low-income housing to live independently;

Homeownership: assisting residents of low-income housing achieve economic self-sufficiency and homeownership.

Applicants' narrative must indicate past grants they received and managed, the grant amounts, and grant terms (years) of the grants, which they are counting toward past experience.

Applicants' narrative must describe how they (or their Contract Administrator) successfully implemented past grant programs designed to:

RSDM-Family—promote resident self-sufficiency, moving from welfare to work, and/or helping residents move to market rate rental housing;

RSDM-Elderly—assist elderly/persons with disabilities meet their daily living needs and enhance their access to needed services so they can continue to reside comfortably and productively in their current living environment;

Homeownership—promote moving from subsidized housing to homeownership. Applicants will be evaluated according to the following criteria:

(a) Achievement of specific measurable outcomes and objectives in terms of benefits gained by participating residents. Applicants should describe results their programs have obtained, such as:

RSDM-Family: reduced welfare dependency, higher incomes, higher rates of employment, increased savings, moving from subsidized housing to market rate rental housing;

RSDM-Elderly: less emergency care, improved health conditions of assisted population, access to greater number of social services;

Homeownership: number of families in homeownership counseling pipeline, rates of homeownership achieved through training programs.

(b) Description of success in attracting and keeping residents involved in past grant-funded training programs. HUD wants to see that applicants' grant-funded programs benefited a significant number of residents;

(c) Description of timely expenditure of program funding throughout the term of past grants. Timely means regular drawdowns throughout the life of the grant, i.e., quarterly drawdowns, with all funds expended by the end of the grant term;

(d) Description of Past Leveraging. Applicants must describe how they have leveraged funding or in-kind services beyond amounts which were originally proposed for past projects;

(3) Program Administration and Fiscal Management. (7 Points).

(a) Program Administration and Accountability. (4 Points) Applicants should describe how they will manage the program; how HUD can be sure that there is program accountability; and provide a description of proposed staff's roles and responsibilities. Applicants should also describe how grant staff and partners shall report to the project coordinator and other senior staff.

(b) Fiscal Management. (3 Points) In rating this factor, applicants' skills and experience in fiscal management will be evaluated. If applicants have had any audit or material weakness findings in the past five years, they will be evaluated on how well they have addressed them. Applicants must provide the following:

(i) A complete description of their fiscal management structure, including fiscal controls currently in place including those of a Contract Administrator for applicants required to have a Contract Administrator, (i.e., troubled PHAs, resident associations, and nonprofit applicants);

(ii) Applicants must list any audit findings in the past five years (HUD Inspector General, management review, fiscal, etc.), material weaknesses, and what has been done to address them;

(iii) For applicants who are required to have a Contract Administrator, describe the skills and experience the Contract Administrator has in managing federal funds.

b. Rating Factor 2: Need/Extent of the Problem (20 Points)

This factor addresses the extent to which there is a need for funding the proposed program. In responding to this factor, applicants will be evaluated on the extent to which they describe and document the level of need for their proposed activities and the urgency for meeting the need.

Applicants should use statistics and analyses contained in data source(s) that are sound and reliable. Data that describes socioeconomic conditions at the local level can be found by going to the following Web sites: http://www.bls.gov (Bureau of Labor Statistics) or http://www.census.gov (U.S. Census). Other types of sources include socioeconomic studies or reports conducted by academic, State, and local organizations. To the extent possible, the data applicants use should be specific to the area where the proposed activities will be carried out. Applicants should document needs as they apply to the area where activities will be targeted, and not the entire region or State.

In responding to this factor, applicants must include:

(1) Socioeconomic Profile (5 points). A thorough socioeconomic profile of the eligible residents to be served by the program, including education levels, income levels, the number of single-parent families, economic statistics for the local area, etc.

(2) Local Training Programs Information (For RSDM-Family and Homeownership Applicants only) (5 points). Information on training programs currently available and easily accessible to residents either through the PHA, tribe/TDHE, or other local or state community organizations.

(3) Local Social Services Information (For RSDM-Elderly Applicants only) (5 points). Information on social service programs currently available and easily accessible to residents either through the PHA, tribe/TDHE, or other local or State community organizations.

(4) Demonstrated Link Between Proposed Activities and Local Need (5 points). Applicants' narrative must demonstrate a clear relationship between proposed activities, community needs and the purpose of the program funding in order for points to be awarded for this factor.

c. Rating Factor 3: Soundness of Approach (30 Points)

This factor addresses both the quality and cost-effectiveness of applicants' proposed work plan. The work plan must indicate a clear relationship between proposed activities, the targeted population's needs, and the purpose of the program funding. Applicants' activities must address HUD's policy priorities outlined in this Rating Factor.

In rating this factor HUD will consider:

(1) Quality of the Work Plan (18 points). This factor evaluates both the applicant's work plan and budget, which will be evaluated based on the following criteria:

(a) Specific Services and/or Activities (8 points). Applicants' narrative must describe the specific services, course curriculum, and activities they plan to offer and who will be responsible for each. In addition to the narrative, applicants must also provide a work plan, which must list the specific services, activities, and outcomes they expect. The work plan must show a logical order of activities and progress and must tie to the outcomes and outputs applicants identify in the Logic Model (see Rating Factor 5). Please see a sample work plan in the Appendix. Applicants' narrative must explain how their proposed activities will:

(i) Involve community partners in the delivery of services (4 points);

(ii) Offer comprehensive services versus a small range of services geared toward achieving the following (2 points):

RSDM-Family: enhancing economic opportunities for residents;

RSDM-Elderly: enhancing residents' quality of life;

Homeownership: enhancing homeownership opportunities for residents; and

(iii) Link to other ROSS-funded self-sufficiency programs (2 points).

(b) Feasibility and Demonstrable Benefits (4 points). This factor examines whether applicants' work plan is logical, feasible and likely to achieve its stated purpose during the term of the grant. HUD's desire is to fund applications that will quickly produce demonstrable results and advance the purposes of the ROSS program.

(i) Timeliness. This subfactor evaluates whether applicants' work plan demonstrates that their project is ready to be implemented shortly after grant award, but not to exceed three months following the execution of the grant agreement. The work plan must indicate timeframes and deadlines for accomplishing major activities.

(ii) Description of the problem and solution. The work plan will be evaluated based on how well applicants' proposed activities address the needs described in Rating Factor 2.

(c) Budget Appropriateness/Efficient Use of Grant. (6 Points) The score in this factor will be based on the following:

(i) Justification of expenses. Applicants will be evaluated based on whether their expenses are reasonable and thoroughly explained, and support the objectives of their proposal.

(ii) Budget Efficiency. Applicants will be evaluated based on whether their application requests funds commensurate with the level of effort necessary to accomplish their goals and anticipated results.

(2) Addressing HUD's Policy Priorities (12 points). HUD wants to improve the quality of life for those living in distressed communities. HUD's grant programs are a vehicle through which long-term, positive change can be achieved at the community level. Applicants' narrative and work plan will be evaluated based on how well they meet the following HUD policy priorities:

(a) Improving the Quality of Life in Our Nation's Communities (For RSDM-Family and RSDM-Elderly Applicants only) (5 points). In order to receive points in this category, applicants' narrative and work plan must indicate the types of activities, service, and training programs applicants will offer which can help residents successfully transition from welfare to work and earn higher wages, or for elderly/disabled residents, to continue to live independently.

Providing Increased Homeownership and Rental Opportunities for Low- and Moderate-Income Persons, Persons with Disabilities, the Elderly, Minorities, and Families with Limited English Proficiency (For Homeownership Applicants only) (5 points). In order to receive points in this category, applicants' narrative and work plan must indicate the types of activities and training programs they will offer which can help residents successfully transition from subsidized housing to market-rate rental housing or homeownership.

(b) Providing Full and Equal Access to Grassroots Faith-Based and Other Community-Based Organizations in HUD Program Implementation (For all applicants) (5 points). HUD encourages applicants to partner with grassroots organizations, e.g., civic organizations, grassroots faith-based and other community-based organizations that are not usually effectively utilized. These grassroots organizations have a strong history of providing vital community services such as developing first-time homeownership programs, creating economic development programs, providing job training and other supportive services. In order to receive points under this factor, applicants' narrative and work plan must describe how applicants will work with these organizations and what types of services they will provide.

(c) Policy Priority for Increasing the Supply of Affordable Housing Through the Removal of Regulatory Barriers to Affordable Housing (up to 2 points).

Under this policy priority, higher rating points are available to (1) governmental applicants that are able to demonstrate successful efforts in removing regulatory barriers to affordable housing, and (2) nongovernmental applicants that are associated with jurisdictions that have undertaken successful efforts in removing barriers. For applicants to obtain the policy priority points for efforts to successfully remove regulatory barriers, applicants would have to complete form HUD 27300, “Questionnaire for HUD's Initiative on Removal of Regulatory Barriers.” A copy of HUD's Notice entitled America's Affordable Communities Initiative, HUD's Initiative on Removal of Regulatory Barriers: Announcement of Incentive Criteria on Barrier Removal in HUD's 2004 Competitive Funding Allocations' can be found on HUD's Web site at http://www.hud.gov/grants/index.cfm. A description of the policy priority and a copy of form HUD-27300 can be found in the General Section to the SuperNOFA. Applicants are encouraged to read the Notice as well as the General Section of the SuperNOFA to obtain an understanding of this policy priority and how it can impact their score. A limited number of questions expressly request the applicant to provide brief documentation with their response. Other questions require that for each affirmative statement made, the applicant must supply a reference, URL, or a brief statement indicating where the back-up information may be found, and a point of contact, including a telephone number and/or email address.

d. Rating Factor 4: Leveraging Resources (20 Points)

This factor addresses the applicant's ability to secure community resources that can be combined with HUD's grant resources to achieve program purposes. Applicants are required to create partnerships with organizations that can help achieve their program's goals. PHAs are required by section 12(d)(7) of the U.S. Housing Act of 1937 entitled “Cooperation Agreements for Economic Self-Sufficiency Activities”) to make best efforts to enter into such agreements with relevant state or local agencies. In rating this factor, HUD will look at the extent to which applicants partner, coordinate and leverage their services with other organizations serving the same or similar populations.

Additionally, applicants must have at least a 25 percent cash or in-kind match. The match is a threshold requirement. Joint applicants must together have at least a 25 percent match. Applicants who do not demonstrate the minimum 25 percent match will fail the threshold requirement and will not receive further consideration for funding. Leveraging in excess of the 25 percent of the grant amount will receive a higher point value. In evaluating this factor HUD will consider the extent to which applicants have partnered with other entities to secure additional resources, which will increase the effectiveness of the proposed program activities. The additional resources and services must be firmly committed, must support the proposed grant activities and must, in combined amount (including in-kind contributions of personnel, space and/or equipment, and monetary contributions) equal at least 25 percent of the grant amount requested in this application. “Firmly committed” means that the amount of resources and their dedication to ROSS-funded activities must be explicit, in writing and signed by a person authorized to make the commitment. Please see the section on Threshold Requirements for more information.

Points for this factor will be awarded based on the documented evidence of partnerships and firm commitments and the ratio of requested ROSS funds to the total proposed grant budget.

Points will be assigned based on the following scale:

Percentage of match | Points awarded
25 | 5 points (with partnerships) 3 points (without partnerships).
26-50 | 10 points (with partnerships) 8 points (without partnerships).
51-75 | 15 points (with partnerships) 13 points (without partnerships).
76-99 or above | 20 points (with partnerships) 18 points (without partnerships).

e. Rating Factor 5: Achieving Results and Program Evaluation (10 Points)

An important element in this year's NOFA is the development and reporting of performance measures and outcomes. This factor emphasizes HUD's determination to ensure that applicants meet commitments made in their applications and grant agreements and that they assess their performance so that they realize performance goals. Applicants must demonstrate how they propose to measure their success and outcomes as they relate to the Department's Strategic Plan.

HUD requires ROSS applicants to develop an effective, quantifiable, outcome-oriented plan for measuring performance and determining that goals have been met. Applicants must use the Logic Model form HUD-96010 for this purpose.

Applicants must establish interim benchmarks, or outputs, for their proposed program that lead to the ultimate achievement of outcomes. “Outputs” are the direct products of a program's activities. Examples of outputs are: The number of eligible families that participate in supportive services, the number of new services provided, the number of residents receiving counseling, or the number of households using a technology center. Outputs should produce outcomes for your program.

“Outcomes” are benefits accruing to the residents, families and/or communities during or after participation in the ROSS program. Applicants must clearly identify the outcomes to be achieved and measured. Examples of outcomes are: Increasing the homeownership rates among residents of a development or from a particular housing authority, increasing residents' financial stability (e.g., increasing assets of a household through savings), or increasing employment stability (e.g., whether persons assisted obtain or retain employment for one or two years after job training completion). Outcomes are not the actual development or delivery of services or program activities.

This rating factor requires that applicants identify program outputs, outcomes, and performance indicators that will allow applicants to measure their performance. Performance indicators should be objectively quantifiable and measure actual achievements against anticipated achievements. Applicants' narrative, work plan, and Logic Model should identify what applicants are going to measure, how they are going to measure it, and the steps they have in place to make adjustments to their work plan and management practices if performance targets begin to fall short of established benchmarks and time frames. Applicants' proposal must also show how they will measure the performance of partners and affiliates. Applicants must include the standards, data sources, and measurement methods they will use to measure performance.

In order to respond to this factor, applicants should use the sample performance measures HUD-52758 located in the Appendix as a guide. Applicants will be evaluated based on how comprehensively they propose to measure their program's outcomes.

B. Review and Selection Process

1. Review Process for All Grant Categories and All Applicants. Four types of reviews will be conducted: a screening to determine if you are eligible to apply for funding under the ROSS grant category to which you are applying; whether your application submission is complete, on time and meets threshold; a review by the field office to evaluate past performance; and a technical review to rate your application based on the five rating factors provided in this NOFA.

2. Selection Process for All Grant Categories and All Applicants: The selection process is designed to achieve geographic diversity of grant awards throughout the country. For each grant category, HUD will first select the highest ranked application from each of the ten federal regions and DPONAP for funding. After this “round,” HUD will select the second highest ranked application in each of the ten federal regions and DPONAP for funding (the second round). HUD will continue this process with the third, fourth, and so on, highest ranked applications in each federal region and DPONAP until the last complete round is selected for funding. If available funds exist to fund some but not all eligible applications in the next round, HUD will make awards to those remaining applications in rank order (by score) regardless of region and DPONAP and will fully fund as many as possible with remaining funds. If remaining funds in one grant category are too small to make an award, they may be transferred to another category under the ROSS program.

3. Tie Scores. In the event of a tie between two applications in the same category which target the same developments, HUD will select the application that was received first.

4. Deficiency Period. Applicants will have 14 calendar days in which to provide missing information requested from HUD. For other information on correcting deficient applications, please see the General Section of the SuperNOFA.

VI. Award Administration Information

A. Award Notices

HUD will make announcements of grant awards after the rating and ranking process is completed. Grantees will be notified by letter and will receive instructions for what steps they must take in order to access funding and begin implementing grant activities.

Applicants who are not funded will also receive letters via U.S. postal mail. Applicants who are not funded may request a debriefing. Applicants requesting to be debriefed must send a written request to: Iredia Hutchinson, Director, Grants Management Center, 501 School Street, SW., Suite 800, Washington, DC 20024. For applications submitted to the DPONAP, requests for a debriefing should be sent to Deborah Lalancette, Director, Grants Management, DPONAP, 1999 Broadway, Suite 3390, Denver, CO 80202. Please refer to the General Section of the SuperNOFA for additional information on debriefings.

B. Administrative and National Policy Requirements:

1. Environmental Impact. In accordance with 24 CFR 58.34(a)(3) or (a)(9), 58.35(b)(2), (b)(4) or (b)(5), 50.19(b)(3), (b)(9), (b)(12), (b)(14), or (b)(15) activities under this ROSS program are categorically excluded from the requirements of the National Environmental Policy Act of 1969 and are not subject to environmental review under related laws and authorities.

2. Applicable Requirements. Grantees are subject to regulations and other requirements found in:

a. 24 CFR 84 “Uniform Administrative Requirements for Grants and Agreements with Institutions of Higher Education, Hospitals, and Other Nonprofit Organizations”

b. 24 CFR 85 “Administrative Requirements for Grants and Cooperative Agreements to State, Local, and Federally Recognized Indian Tribal Governments”

c. 24 CFR 964 “Tenant Participation and Tenant Opportunities in Public Housing”

d. OMB Circular A-87 “Cost Principles for State, Local, and Indian Tribal Governments”

e. OMB Circular A-110 “Uniform Administrative Requirements for Grants and Other Agreements with Institutions of Higher Education, Hospitals and Other Non-Profit Organizations”

f. OMB Circular A-122 “Cost Principles for Non-Profit Organizations”

g. OMB Circular A-133 “Audits of States, Local Governments, and Non-Profit Organizations”

3. Economic Opportunities for Low- and Very Low-Income Persons (Section 3). For further information see the General Section.

4. Fair Housing and Civil Rights Laws. Applicants and their subrecipients must comply with all Fair Housing and Civil Rights laws, statutes, regulations, and Executive Orders as enumerated in 24 CFR 5.105(a), as applicable. Please see the General Section of the SuperNOFA for more information.

5. Requirements Applicable to All Programs. Applicants should refer to “Requirements and Procedures Applicable to All Programs” of the General Section of the SuperNOFA for requirements pertaining specifically to procurement of recovered materials and for information regarding other requirements to which they may be subject.

C. Reporting

1. Semi-Annual Performance Reports. Grantees shall submit semi-annual performance reports to the field office or area ONAP. These progress reports shall include financial reports (SF-269A) and a narrative describing milestones, work plan progress, and problems encountered and methods used to address these problems. HUD anticipates that some of the reporting of financial status and grant performance will be through electronic or Internet-based submissions. Grantees shall use quantifiable data to measure performance against goals and objectives outlined in their work plan. Applicants that receive awards from HUD should be prepared to report on additional measures that HUD may designate at time of award. Performance reports are due to the field office on July 30 and January 31 of each year. If reports are not received by the due date, grant funds will be suspended until reports are received.

2. Final Report. All grantees shall submit a final report to their local field office or area ONAP that will include a financial report (SF-269A) and a narrative evaluating overall performance against its work plan. Grantees shall use quantifiable data to measure performance against goals and objectives outlined in their work plan. The financial report shall contain a summary of all expenditures made from the beginning of the grant agreement to the end of the grant agreement and shall include any unexpended balances. The final narrative and financial report shall be due to the field office 90 days after the termination of the grant agreement

3. Final Audit. Grantees are required to obtain a complete final close-out audit of the grant's financial statements by a Certified Public Accountant (CPA), in accordance with generally accepted government audit standards. A written report of the audit must be forwarded to HUD within 60 days of issuance. Grant recipients must comply with the requirements of 24 CFR part 84 or 24 CFR part 85 as stated in OMB Circulars A-87, A-110, and A-122, as applicable.

4. Racial and Ethnic Data. HUD requires that funded recipients collect racial and ethnic beneficiary data. It has adopted the Office of Management and Budget's Standards for the Collection of Racial and Ethnic Data. In view of these requirements, you should use HUD-27061, the Racial and Ethnic Data Reporting Form (instructions are included), which can be found at: http://www.HUDclips.org; a comparable form; or a comparable electronic data system for this purpose.

5. Logic Model. For each reporting period, as part of your required report to HUD, you must include a completed Logic Model (Form HUD-96010), which identifies output and outcome achievements.

VII. Agency Contact(s)

For questions and technical assistance, you may call the Public and Indian Housing Information and Resource Center at 800-955-2232. For persons with hearing or speech impairments, please call the toll-free Federal Relay Service at 800-877-8339. In the case of tribes/TDHEs, please contact DPONAP at 800-561-5913 or (303) 675-1600 (this is not a toll-free number).

VIII. Other Information

A. Code of Conduct

Please see the General Section of the SuperNOFA for more information.

B. Transfer of Funds

If transfer of funds from any of the ROSS programs does become necessary, HUD will give first priority to Homeownership Supportive Services, second priority to Family Self-Sufficiency, third priority to RSDM-Family, and fourth priority to RSDM-Elderly.

C. Paperwork Reduction Act

The information collection requirements contained in this document have been approved by the Office of Management and Budget (OMB) under the Paperwork Reduction Act of 1995 (44 U.S.C. 3501-3520) and assigned OMB control number 2577-0229. In accordance with the Paperwork Reduction Act, HUD may not conduct or sponsor, and a person is not required to respond to, a collection of information unless the collection displays a currently valid OMB control number. Public reporting burden for the collection of information is estimated to average ten hours per annum per respondent for the application and grant administration. This includes the time for collecting, reviewing, and reporting the data for the application, semi-annual reports and final report. The information will be used for grantee selection and monitoring the administration of funds. Response to this request for information is required in order to receive the benefits to be derived.

D. Appendix of Forms

The forms specific to the ROSS Program follow.

BILLING CODE 4210-32-P

Public Housing Family Self-Sufficiency Program Under the Resident Opportunities and Self-Sufficiency (ROSS) Program; Overview Information

A. Federal Agency Name: Department of Housing and Urban Development, Office of Public and Indian Housing.

B. Funding Opportunity Title: This NOFA is for the Public Housing Family Self-Sufficiency program under the Resident Opportunities and Self-Sufficiency (ROSS) Program.

C. Announcement Type: Initial announcement.

D. Funding Opportunity Number: The Federal Register number for this NOFA is: FR-4900-N-33. The OMB approval number is: 2577-0229.

E. Catalog of Federal Domestic Assistance (CFDA) Number(s): Resident Opportunity and Self Sufficiency, 14.870.

F. Dates: The application due date is July 28, 2004. Please see the General Section of the SuperNOFA for application submission, delivery, and timely receipt requirements.

G. Optional, Additional Overview Content Information:

1. Purpose of Program: The purpose of the Family Self-Sufficiency (FSS) program for Public Housing is to provide funding for Public Housing Authorities (PHAs) to hire a program coordinator to link participating families to the supportive services they need to achieve self-sufficiency.

2. Funding Available: The Department expects to award a total of $16 million under the FSS program in Fiscal Year 2004.

3. Award Amounts: Award amounts will range based on locality pay rates for professions similar to that of an FSS program coordinator. Individual award amounts will not exceed $63,000 to pay for the annual salary and fringe benefits of the program coordinator plus an additional 10 percent of such amount to pay a portion of the cost of paying for the services of a Contract Administrator who will act on behalf of a troubled PHA to carry out activities described in this NOFA.

4. Eligible Applicants. Eligible applicants are PHAs that administer public housing programs. Renewal applicants and new applicants to the program must have an approved Public Housing FSS Action Plan on file with their local HUD field office prior to this NOFA's application deadline. Please see the Threshold Requirements section for more information.

Nonprofit organizations, resident associations, and tribes/tribally designated housing entities (TDHEs) are not eligible for funding under this program.

5. Cost Sharing/Match Requirement: There is no match requirement under this funding program.

6. Grant term. The grant term for FSS is one year from the execution date of the grant agreement.

Grant program | Total funding | Eligible applicants | Maximum Grant Amount
Public Housing Family Self-Sufficiency | $16 million | PHAs only | $63,000 maximum salary amount plus 10% of requested amount for troubled PHAs to use towards the services of a contract administrator.

Full Text of Announcement

I. Funding Opportunity Description

A. Program Description

The FSS program provides funding for PHAs to pay for the salary and fringe benefits of a program coordinator who will work with participating families to link them to the supportive services they need to achieve self-sufficiency and, for troubled PHAs only, a portion of the cost of obtaining the services of a contract administrator.

A PHA administering the FSS program must use a Program Coordinating Committee (PCC) to assist the PHA to secure the resources necessary to implement the FSS program. A PCC is made up of representatives of businesses, local government, job training and employment agencies, local welfare agencies, educational institutions, childcare providers, and nonprofit service providers, including faith-based and other community organizations. See 24 CFR 984.202 for more information.

HUD is looking for applications that either build on existing Public Housing FSS programs or propose to implement a new Public Housing FSS program. Applicants who propose to link to other ROSS-funded self-sufficiency programs will receive five additional points (see Rating Factor 3 1(a)(i)).

B. Definition of Terms

1. Action Plan describes the policies and procedures of the PHA for operation of a local FSS program, and contains the following information (for a full description of what at a minimum the Action Plan must contain, please see 24 CFR 984.201):

a. Family demographics. A description of the number, size, characteristics, and other demographics (including racial and ethnic data), and the supportive services needs of the families expected to participate in the FSS program;

b. Estimate of participating families. A description of the number of eligible FSS families who can reasonably be expected to receive supportive services under the FSS program, based on available and anticipated Federal, tribal, State, local, and private resources;

c. Eligible families from other self-sufficiency programs. The number of families participating in other federal, state, or local self-sufficiency programs (provide program name and sponsoring organization) that are expected to execute an FSS contract of participation.

d. FSS Family selection procedures. A statement indicating the procedures to be utilized to select families for participation in the FSS program.

e. Incentives to encourage participation. Description of the FSS account and other incentives the PHA will offer participating families.

f. Outreach efforts. The Action Plan must describe the efforts the PHA will make to recruit FSS participants.

g. FSS activities and supportive services consist of a description of the activities and supportive services to be provided by both public and private sources.

h. Additional requirements. Additional requirements are found in 24 CFR 984.201.

2. Contract Administrator means an overall grant administrator and/or a financial management agent that oversees the implementation of the grant and/or the financial aspects of the grant.

3. Past Performance is a threshold requirement. HUD's field offices will evaluate data provided by applicants as well as applicants' past performance to determine whether an applicant has the capacity to manage the grant for which they are applying. Please see the section on Threshold Requirements for more information.

4. Person with disabilities means a person who:

(1) Has a condition defined as a disability in section 223 of the Social Security Act;

(2) Has a developmental disability as defined in section 102 of the Developmental Disabilities Assistance Bill of Rights Act; or

(3) Is determined to have a physical, mental, or emotional impairment which:

(a) Is expected to be of long-continued and indefinite duration;

(b) Substantially impedes his or her ability to live independently; and

(c) Is of such a nature that such ability could be improved by more suitable housing conditions.

The term “person with disabilities” does not exclude persons who have acquired immunodeficiency syndrome (HIV/AIDS) or any conditions arising from the etiologic agent for AIDS. In addition, no individual shall be considered a person with disabilities, for purposes of eligibility for low-income housing, solely on the basis of any drug or alcohol dependence.

The definition provided above for persons with disabilities is the proper definition for determining program qualifications. However, the definition of a person with disabilities contained in section 504 of the Rehabilitation Act of 1973 and its implementing regulations must be used for purposes of reasonable accommodations.

5. Program Coordinator under the Family Self-Sufficiency (FSS) program is someone responsible for linking FSS program participants to supportive services; working with the Program Coordinating Committee and local service providers to ensure that the necessary services and linkages to community resources are being made; ensuring through case management that the services included in participants' contracts of participation are provided on a regular, ongoing and satisfactory basis; making sure that participants are fulfilling their responsibilities under the contracts and that FSS escrow accounts are established and properly maintained for eligible families. FSS coordinators may also perform job development functions for the FSS program.

6. Project is the same as “low-income housing project” as defined in section 3(b)(1) of the United States Housing Act of 1937 (42 U.S.C. 1437 a(b)(1)) (1937 Act).

7. Secretary means the Secretary of Housing and Urban Development.

C. Regulations Governing the FSS Program

The FSS program is governed by 24 CFR part 984.

II. Award Information

A. Total Funding

The Department expects to award $16 million under the PH Family Self-Sufficiency program. Funding amounts for individual grantees will be contingent upon HUD field office approval.

B. Grant Period

One year. The grant period shall begin the day the grant agreement and the form HUD-1044, “Assistance Award/Amendment” are signed by both the grantee and HUD.

C. Grant Extensions

Requests to extend the grant term beyond the originally established grant term must be submitted in writing by the grantee to the local HUD field office. Such requests must be done prior to grant termination and with enough notice to give the field office a reasonable amount of time to fully evaluate the request. Requests must explain why the extension is necessary, what work remains to be completed, and what work and progress was accomplished to date. Grants may be extended for a period of 6 months but not more than one year.

D. Type of Award

Grant agreement.

III. Eligibility Information

A. Eligible Applicants

Eligible applicants are public housing agencies (PHAs), which administer public housing programs. New and renewal applicants to the program must have an approved PH FSS Action Plan on file with their local HUD field office prior to this NOFA's application deadline.

Nonprofit organizations, resident associations, and tribes/TDHEs are not eligible for funding under this program.

B. Cost Sharing or Matching

There is no match requirement under this funding program.

C. Other

1. Threshold Requirements. Applicants must respond to each threshold requirement clearly and thoroughly by following the instructions below. If your application fails one threshold requirement (regardless of the type of threshold) it will be considered a failed application and will not receive consideration for funding. The following are threshold requirements that are applicable to this ROSS component:

a. Past Performance. HUD's field offices will evaluate data provided by applicants as well as applicants' past performance to determine whether an applicant has the capacity to manage the FSS program. For applicants required to have a contract administrator, field offices will evaluate the contract administrator for past performance. Using Rating Factor 1, the field office will evaluate applicants' past performance. If applicants fail to address what is requested in Rating Factor 1, their application will fail this threshold and will not receive further consideration.

b. Contract Administrator Partnership Agreement. PHAs that are troubled at the time of application are required to submit a signed Contract Administrator Partnership Agreement. The agreement must be for the entire grant term. Grant award shall be contingent upon having a signed Partnership Agreement included in your application. Troubled PHAs are not eligible to be contract administrators. Grant writers who assist applicants prepare their FSS applications are also ineligible to be contract administrators. For more information on contract administrators, please see the section on Program Requirements below.

c. FSS Action Plan. New applicants to the program must have a HUD approved Public Housing FSS Action Plan on file with their local HUD field office prior to this NOFA's application deadline. PHAs with previously approved Housing Choice Voucher (HCV) FSS Action Plans may either amend their HCV FSS Action Plan to include the PH FSS program or may submit a separate PH FSS Action Plan for HUD field office approval. New PH FSS Action Plans and amendments to existing Action Plans must be submitted to applicants' local HUD field office well enough in advance, but at least 30 days before the FSS NOFA deadline, to ensure enough time for field office approval of the PH FSS Action Plan prior to the NOFA deadline. FSS Action Plans must comply with 24 CFR 984.201.

d. Ineligible Activities. Any application that proposes one or more ineligible activity will be disqualified and not considered for funding.

e. Minimum Score for All Fundable Applications. Applications that pass all threshold requirements and go through the ranking and rating process, must receive a minimum score of 75 in order to be considered for funding.

f. The Dunn and Bradstreet Universal Numbering System (DUNS) Number Requirement. Refer to the General Section of the SuperNOFA for information regarding the DUNS requirement. You will need to obtain a DUNS number to receive an award from HUD. This threshold requirement is curable.

2. Program Requirements:

a. Hiring a Public Housing FSS program coordinator. Funds awarded to PHAs under this NOFA may only be used to employ or otherwise retain the services of a Public Housing FSS program coordinator for the one year grant term and for troubled PHAs, to pay for the services of a contract administrator (see item “h” below). A part-time program coordinator may be retained where appropriate. The FSS program coordinator must:

(1) Work with the PCC and with local service providers to ensure that Public Housing FSS program participants are linked to the supportive services they need to achieve self-sufficiency.

(2) Ensure through case management that the services included in participants' contracts of participation are provided on a regular, ongoing and satisfactory basis, that participants are fulfilling their responsibilities under the contracts and that FSS escrow accounts are established and properly maintained for eligible families. FSS coordinators may also perform job development functions for the FSS program.

(3) Under normal circumstances, a full-time FSS program coordinator should be able to serve approximately 50 FSS program participants, depending on the coordinator's case management functions.

(4) Monitor the progress of program participants and evaluate the overall success of the program. For more information on how to measure performance, please see Rating Factor 4 in the “Application Review Information” section of this NOFA.

b. Outreach. PHAs are encouraged to outreach to persons with disabilities who are Public Housing residents and might be interested in participating in the FSS program and to include agencies on their FSS PCC that work with and provide services for families with disabilities.

c. Eligible families. Current residents of public housing are eligible. Eligible families who are currently enrolled or participating in local public housing self-sufficiency programs are also eligible.

d. Contract of participation. Each family that is selected to participate in an FSS program must enter into a contract of participation with the PHA that operates the FSS program in which the family will participate. The contract shall be signed by the head of the FSS family.

e. Contract term. The contract with participating families shall be for five years during which time each family will be required to fulfill its contractual obligations. PHAs may extend contracts for no more than two years for any family that requests in writing an extension of its contract provided the PHA finds that good cause exists to provide an extension. See 24 CFR 984.303 for more information on contracts of participation.

f. Escrow accounts for very low or low income participating families. Such accounts shall be computed using the guidelines set forth in 24 CFR 984.305. NOTE: FSS families who are not low-income are not entitled to an escrow/credit.

g. Number of Program Coordinators.

(1) Renewal PHAs. PHAs that received funding from the Operating Fund may apply for renewal of each FSS coordinator position(s) that has been filled by the PHA in either of the past two years under the Operating Fund. Funding for more than one program coordinator position is contingent upon HUD field office approval. For renewal PHAs, HUD will fund a one percent increase over the amount most recently funded but not to exceed $63,000 for the FSS program coordinator(s) salary and fringe benefits.

(2) New PHAs. A PHA that has not received funding under the Operating Fund for a PH FSS Program Coordinator may apply for only one program coordinator position as follows:

(a) Up to one full-time FSS coordinator position for a PHA with HUD approval to administer an FSS program of 25 or more FSS slots.

(b) Up to one full-time position per application for joint PHA applicants that have HUD approval to administer a total of at least 25 Public Housing FSS slots between or among them.

h. Contract Administrator. The Contract Administrator must assure that the financial management system and procurement procedures that will be in place during the grant term will fully comply with 24 CFR part 85. CAs are expressly forbidden from accessing HUD's Line of Credit Control System (LOCCS) and submitting vouchers on behalf of grantees. Contract administrators must also assist PHAs meet HUD's reporting requirements, see Section VI.C. “Reporting” for more information. Contract administrators may be: Local Housing Agencies; community-based organizations such as Community Development Corporations (CDCs), churches, temples, synagogues, mosques; nonprofit organizations; State/Regional associations and organizations. Troubled PHAs are not eligible to be contract administrators. Grant writers who assist applicants prepare their FSS applications are also ineligible to be contract administrators. Troubled PHA applicants without a contract administrator in place at the time of grant application may request an additional amount to pay for the cost of obtaining the services of a contract administrator (such amount may not exceed 10 percent of the amount the PHA has requested for the program coordinator's salary and fringe benefits). For example, if a troubled PHA needs the services of a contract administrator, and is requesting $63,000 for the program coordinator's salary, the applicant may request an additional 10 percent or $6,300 to pay for a contract administrator. Organizations that the applicant proposes to use as the contract administrator must not violate or be in violation of conflicts of interest as defined in 24 CFR part 84 and 24 CFR part 85.

3. Number of Applications Permitted:

a. General. PHA applicants may submit only one application under this category. PHA applicants may submit one application for each of the other funding categories under ROSS (Resident Service Delivery Models-Family, Resident Service Delivery Models-Elderly/Persons with Disabilities and Homeownership Supportive Services) and one application under the Public Housing Neighborhood Networks grant program; however applicants must submit separate applications for each funding category.

b. Joint applications. Two or more PHAs may join together to submit a joint application under this NOFA. Joint applications must designate a lead applicant. Both lead and non-lead applicants are subject to threshold requirements. Applicants who submit joint applications may not also submit separate applications as sole applicants under this NOFA.

4. Eligible Participants: All program participants must be residents of conventional public housing.

5. Program Requirements. All applicants and grantees must comply with the program requirements contained in Section III.C. of the General Section of the SuperNOFA.

IV. Application and Submission Information

A. Addresses To Request Application Package

There is no application kit this year. All forms and necessary information for applying are contained within this NOFA. Please refer to the General Section of the SuperNOFA for information on how to obtain hard copies of this NOFA. You may also visit http://www.hud.gov to obtain a copy of this NOFA.

B. Content and Form of Application Submission

1. Application Format: Before preparing an application to the FSS program, applicants should carefully review the program description, ineligible activities and threshold requirements which are found in this NOFA. Applicants should also review each rating factor found in the “Application Review Information” section before writing a narrative response. Applicants' narratives should be as descriptive as possible, ensuring that every requested item is addressed. Applicants should make sure to include all requested information, according to the instructions found in this NOFA and where applicable, in the General Section of the SuperNOFA. This will help ensure a fair and accurate review of your application.

2. Content and Format for Submission: Applicants must propose programs which meet the program requirements as outlined above. Applicants are reminded that any application proposing one or more ineligible activities will not be funded. Finally, applicants must submit their applications according to the “Format” section below.

a. Content of Application:

Applicants must write narrative responses to each of the rating factors which follow this section. Applicants will be evaluated on whether their responses demonstrate that they have the necessary capacity to successfully manage this grant program. Applicants should ensure that their narratives are written clearly and concisely so that HUD reviewers, who may not be familiar with the FSS program, may fully understand your proposal. HUD encourages applicants to carefully review each rating factor, the regulations governing the FSS program, 24 CFR part 984, and the General Section of the SuperNOFA prior to responding to each rating factor.

b. Format of Application:

(1) Applications may not exceed 35 narrative pages. Narrative pages must be typed, double-spaced, numbered, use Times New Roman font style, and font size 12. Applications should be submitted in a three-ring binder with materials organized behind tabs according to the outline provided below. Supporting documentation, required forms, and certificates will not be counted towards the 35 page limit. However, applicants should make every effort to submit only what is necessary in terms of supporting documentation.

(2) Format for submission of SuperNOFA forms, FSS forms and narrative responses.

TAB 1: Required Forms from the General Section of the SuperNOFA and other ROSS forms: SF-424 Application for Federal Assistance;

1. SF-424 Supplement, Survey on Ensuring Equal Opportunity for Applicants;

2. Questionnaire for HUD's Initiative on Removal of Regulatory Barriers (HUD- 27300);

3. HUD-52751 Fact Sheet

4. HUD-424 B Applicant Assurances and Certifications;

5. HUD-424 CB Grant Application Detailed Budget;

6. HUD-2880 Applicant Disclosure/Update Report;

7. HUD-2990 Certification of Consistency with RC/EZ/EC Strategic Plan (if applicable);

8. HUD-2991 Certification of Consistency with the Consolidated Plan (if applicable);

9. SF-LLL Disclosure of Lobbying Activities (if applicable);

10. SF-LLL-A Disclosure of Lobbying Activities Continuation Sheet (if applicable);

11. HUD-2993 Acknowledgement of Application Receipt; and

12. HUD-2994 Client Comments and Suggestions (optional)

TAB 2: Threshold Requirements:

• Contract Administrator Partnership Agreement (required for troubled PHAs) (HUD-52755)

TAB 3: Narrative for Rating Factor 1 and ROSS Program Forms:

1. Narrative

2. Chart A: HUD52756 Program Staffing

3. Chart B: HUD 52757 Applicant/Administrator Track Record

4. Resume(s)/Position Description(s)

TAB 4: Narrative for Rating Factor 2.

TAB 5: Rating Factor 3:

1. Narrative

2. HUD 52767 Family Self-Sufficiency Funding Request Form

TAB 6: Narrative for Rating Factor 4.

TAB 7: Narrative for Rating Factor 4 and ROSS Program Forms:

1. Narrative 2. HUD 96010 Logic Model

C. Submission Dates and Times

1. Due Dates: The application due date is July 28, 2004. Please see the General Section of the SuperNOFA for application submission, delivery, and timely receipt requirements.

2. Proof of Timely Submission. Please see the General Section of the SuperNOFA for more information about how to submit your application to HUD. Applicants that fail to meet the deadline for application receipt will not receive funding consideration.

D. Intergovernmental Review

Not applicable.

E. Funding Restrictions

1. Reimbursement for Grant Application Costs: Applicants who receive an award under this program are prohibited from using FSS grant funds to reimburse any costs incurred in conjunction with preparation of their FSS grant application.

2. Covered Salaries:

a. Program Coordinator: All applicants may propose to hire a qualified program coordinator to run the grant program. The FSS program will fund up to $63,000 in combined annual salary and fringe benefits for a full-time program coordinator. For audit purposes, applicants must have documentation on file demonstrating that the salary they pay the program coordinator is comparable to similar professions in their local area.

b. Contract Administrator: Applicants may not request more than 10 percent of the total grant amount requested from HUD for the program coordinator's salary to pay for the services of a Contract Administrator. Only PHAs that are designated troubled at time of grant application may request additional funding for this purpose.

c. Eligible Salaries. FSS funds may only be used for the types of salaries described in this section according to the restrictions described herein. FSS funds may not be used to pay for salaries of any other kind.

3. Administrative Costs. FSS funds cannot be used to pay for administrative costs.

4. Ineligible Activities. Grant funds may not be used for ineligible activities such as:

a. The salary of an FSS coordinator for the Housing Choice Voucher FSS program;

b. Services for FSS program participants;

c. Elderly/Disabled Service Coordinator salary and fringe benefits;

d. Wages and/or salaries to participants for receiving supportive services and/or training programs;

e. The purchase of food;

f. The purchase, lease, or rental of land;

g. New construction, materials costs;

h. Rehab or physical improvements;

i. Entertainment costs;

j. Purchase, lease, or rental of vehicles;

k. Stipends;

l. Cost of application preparation; and

m. Costs which exceed limits identified in the NOFA for the following: Program Coordinator, and Contract Administrator.

5. Eligible Developments: Only conventional public housing developments may be served by FSS grant funds awarded under this NOFA. Other housing/developments, including, but not limited to, private housing, federally insured housing, federally subsidized or assisted (i.e., assisted under Section 8, Section 202, Section 811, Section 236), and others are not eligible to participate in this program.

F. Other Submission Requirements

1. Mailing Applications. Applicants to the PH FSS program should send their applications to: HUD Grants Management Center, Mail Stop: Public Housing Family Self-Sufficiency Program, 2001 Jefferson Davis Hwy, Suite 703, Arlington, VA 22202. Please see the General Section of the SuperNOFA for detailed mailing and delivery instructions.

2. Number of Copies. Applications must be submitted in triplicate (one original and two identical copies). The original and one identical copy must be sent to the Grants Management Center by the deadline. The other identical copy must be submitted to your local HUD field office by the deadline.

V. Application Review Information

A. Criteria

1. Factors for Award Used to Evaluate and Rate Applications to the FSS program: The factors for rating and ranking applicants and maximum points for each factor are provided below. The maximum number of points available for this program is 102. This includes two RC/EZ/EC bonus points. The SuperNOFA contains a certification that must be completed in order for the applicant to be considered for RC/EZ/EC bonus points. A listing of federally designated RCs, EZs, ECs, and EECs is included as an appendix to the General Section of the SuperNOFA and is also available from the NOFA Information Center. The agency certifying to RC/EZ/EC status must be listed in the appendix of the SuperNOFA to be eligible to receive the bonus points.

Note: Applicants should carefully review each rating factor before writing a response. Applicants' narratives should be as descriptive as possible, ensuring that every requested item is addressed. Applicants should make sure their narratives thoroughly address the Rating Factors below and to include all requested information, according to the instructions found in this NOFA. This will help ensure a fair and accurate application review.

a. Rating Factor 1: Capacity of the Applicant and Relevant Organizational Staff (35 Points)

In rating this factor, HUD will consider the extent to which the proposal demonstrates that the applicant will have qualified and experienced program coordinator(s) dedicated to administering the program.

(1) Proposed Program Staffing (10 Points).

(a) Staff Experience (5 Points). The knowledge and experience of the proposed program coordinator(s) in planning and managing programs for which funding is being requested. Experience will be judged in terms of recent, relevant and successful experience of the program coordinator(s) to undertake eligible program activities. In rating this factor, HUD will consider experience within the last 5 years to be recent; experience similar to the functions of an FSS program coordinator to be relevant; and experience producing specific accomplishments to be successful. The more recent the experience and the more experience proposed staff have in successfully conducting and completing similar functions, the greater the number of points applicants will receive for this rating factor. The following information should be provided in order to provide HUD an understanding of proposed staff's experience and capacity:

(i) The staff's relevant educational background and/or work experience; and

(ii) Relevant and successful experience running programs whose activities are similar to the FSS Program.

(b) Staff Capacity (5 Points). Applicants will be evaluated based on whether they have staff in place or will be able to quickly access qualified professional(s), to administer the FSS program in a timely and effective fashion. Applicants' narrative must describe their ability to immediately begin implementing an FSS program. Attach resumes and position descriptions (where staff is not yet hired) for the program coordinator position. (Resume(s)/position description(s) do not count toward the 35-page limit.)

(2) Past Performance of Applicant/Contract Administrator (15 Points) Applicants' narrative must describe how they (or their contract administrator) successfully implemented grant programs (including those listed below) designed to assist low-income families and individuals achieve economic self-sufficiency or move from welfare to work. Renewal applicants should include facts and statistics in their narrative from past annual performance reports and/or the FSS addendum to Form HUD-50058. Applicants' past experience may include, but is not limited to, running and managing programs aimed at assisting residents of low-income housing achieve economic self-sufficiency and/or moving from welfare to work, such as ROSS, FSS, or Youthbuild. Applicants' narrative must indicate the grants they received and managed, the grant amounts, and grant terms (years) of the grants that they are counting towards past experience.

Applicants will be evaluated according to the following criteria:

(a) Achievement of specific measurable outcomes and objectives in terms of benefits gained by participating residents. (5 Points). Applicants should describe results their programs have obtained, for example: higher incomes, higher rates of employment, increased savings; and moving out of subsidized housing to market-rate housing.

(b) Describe success in attracting and keeping residents involved in past grant-funded training programs. (5 Points) HUD wants to see that applicants' grant-funded programs benefited a significant numbers of residents;

(c) Description of timely fund expenditure throughout the term of past grants. (5 Points) Timely means regular drawdowns throughout the life of the grant, i.e. quarterly drawdowns, with all funds expended by the end of the grant term;

(3) Program Administration and Fiscal Management. (10 Points)

(a) Program Administration and Accountability. (5 Points). Applicants should describe how they will manage the program and how HUD can be sure that there is program accountability.

(b) Fiscal Management. (5 Points) In rating this factor, applicants' skills and experience in fiscal management will be evaluated. If applicants have had any audit or material weakness findings in the past five years, they will be evaluated on how well they have addressed them. Applicants must provide the following:

(i) A complete description of their fiscal management structure, including fiscal controls currently in place including those of a contract administrator for applicants required to have a contract administrator, (troubled PHAs);

(ii) Applicants must list any audit findings in the past five years (HUD Inspector General, management review, fiscal, etc.), material weaknesses and what has been done to address them;

(iii) Applicants who are required to have a contract administrator, must describe the skills and experience the contract administrator has in managing federal funds.

b. Rating Factor 2: Need/Extent of the Problem (20 Points)

In responding to this factor, you will be evaluated on the extent to which you describe and document the level of need for an FSS program coordinator in the communities you serve.

You should use statistics and analyses contained in data source(s) that are sound and reliable. Data that describes socioeconomic conditions at the local level can be found by going to the following Web sites: http://www.bls.gov (Bureau of Labor Statistics) or http://www.census.gov (US Census). Other types of sources include academic, state, and local sources. To the extent possible, the data you use should be specific to the population you propose to serve. You should document needs as they apply to the targeted population, rather than the entire region or state.

In responding to this factor, you must include:

(1) Socioeconomic Profile (10 points). A thorough socioeconomic profile of the eligible residents to be served by your program, including education levels, income levels, the number of single-parent families, economic statistics for the local area, etc.

(2) Local Training Program Information (10 points). Information on training programs currently available and easily accessible to residents either through the PHA or other local or state community organizations.

c. Rating Factor 3: Soundness of Approach (30 Points)

In rating this factor HUD will consider:

(1) Quality of Your Proposal (20 points). This factor evaluates your application based on the following criteria:

(a) Scope of Services (12 points). Your narrative should refer to the Public Housing FSS Action Plan submitted to your local HUD field office and it must describe how many people you plan to serve, whether you will expand your program over time, and how your program will:

(i) Link with other ROSS-funded self-sufficiency programs; (5 points)

(ii) Involve community partners in the delivery of services; (4 points) and

(iii) Link to comprehensive services versus a small range of services geared toward enhancing economic opportunities for residents (3 points).

(b) Feasibility and Demonstrable Benefits (4 points). This factor examines whether your proposal is logical, feasible and likely to achieve its stated purpose during the term of the grant. HUD's desire is to fund applications that will quickly produce demonstrable results and advance the purposes of the FSS program.

(i) Timeliness. This subfactor evaluates whether your proposal demonstrates that your project is ready to be implemented shortly after grant award, but not to exceed three months following the execution of the grant agreement. Your proposal must indicate timeframes and deadlines for accomplishing major activities.

(ii) Description of the problem and solution. Your proposal will be evaluated based on how well your proposal and approach to case management address the needs described in Rating Factor 2.

(c) Salary Appropriateness/Efficient Use of Grant. (4 Points)

You will be evaluated based on whether the salary you propose for the program coordinator is comparable to similar professions in your local area, your narrative must justify the salary you propose to pay the program coordinator by using local pay rates for comparable professions.

(2) Addressing HUD's Policy Priorities (10 points). HUD wants to improve the quality of life for those living in distressed communities. HUD's grant programs are a vehicle through which long-term, positive change can be achieved at the community level. Your proposal will be evaluated based on how well it meets the following HUD policy priorities:

(a) Improving the Quality of Life in Our Nation's Communities (5 points). In order to receive points in this category, your narrative must indicate how your FSS program will help residents successfully transition from welfare to work and earn higher wages.

(b) Providing Full and Equal Access to Grassroots Faith-Based and Other Community-Based Organizations in HUD Program Implementation (3 points). HUD encourages applicants to partner with grassroots organizations, e.g., civic organizations, grassroots faith-based and other community-based organizations that are not usually effectively utilized. These grassroots organizations have a strong history of providing vital community services such as developing first-time homeownership programs, creating economic development programs, providing job training and other supportive services. In order to receive points under this factor, your narrative must describe how you will work with these organizations and what types of services they will provide.

(c) Policy Priority for Increasing the Supply of Affordable Housing Through the Removal of Regulatory Barriers to Affordable Housing. (up to 2 points) Under this policy priority, higher rating points are available to (1) governmental applicants that are able to demonstrate successful efforts in removing regulatory barriers to affordable housing, and (2) nongovernmental applicants that are associated with jurisdictions that have undertaken successful efforts in removing barriers. For applicants to obtain the policy priority points for efforts to successfully remove regulatory barriers, applicants would have to complete form HUD 27300, “Questionnaire for HUD's Initiative on Removal of Regulatory Barriers.” A copy of HUD's Notice entitled “America's Affordable Communities Initiative, HUD's Initiative on Removal of Regulatory Barriers: Announcement of Incentive Criteria on Barrier Removal in HUD's 2004 Competitive Funding Allocations” can be found on HUD's Web site at http://www.hud.gov/grants/index.cfm. A description of the policy priority and a copy of form HUD 27300 can be found in the General Section to the SuperNOFA. Applicants are encouraged to read the Notice as well as the general section of the SuperNOFA to obtain an understanding of this policy priority and how it can impact their score. A limited number of questions expressly request the applicant to provide brief documentation with their response. Other questions require that for each affirmative statement made, the applicant must supply a reference, URL, or a brief statement indicating where the back-up information may be found, and a point of contact, including a telephone number and/or e-mail address.

d. Rating Factor 4: Achieving Results and Program Evaluation (15 Points)

An important element in this year's NOFA is the development and reporting of performance measures and outcomes. This factor emphasizes HUD's determination to ensure that applicants meet commitments made in their applications and grant agreements and that they assess their performance so that they realize performance goals. Applicants must demonstrate how they propose to measure their success and outcomes as they relate to the Department's Strategic Plan.

HUD requires FSS applicants to develop an effective, quantifiable, outcome-oriented plan for measuring performance and determining that goals have been met. Applicants must use the Logic Model Form (HUD-96010) for this purpose.

Applicants must establish interim benchmarks, or outputs, for their proposed program that lead to the ultimate achievement of outcomes. “Outputs” are the direct products of a program's activities. Examples of outputs are: The number of eligible families that participate in supportive services, the number of families enrolled, or the number of households that develop an escrow account. Outputs should produce outcomes for your program.

“Outcomes” are benefits accruing to the residents, families and/or communities during or after participation in the FSS program. Applicants must clearly identify the outcomes to be achieved and measured. Examples of outcomes are: Increasing residents' financial stability (e.g., increasing assets of a household through savings or escrow), increasing the number of FSS graduates, or increasing employment stability (e.g., whether persons assisted obtain or retain employment for one or two years after job training completion). Outcomes are not the actual development or delivery of services or program activities.

This rating factor requires that applicants identify program outputs, outcomes, and performance indicators that will allow applicants to measure their performance. Performance indicators should be objectively quantifiable and measure actual achievements against anticipated achievements. Applicants' narrative and Logic Model should identify what applicants are going to measure, how they are going to measure it, and the steps they have in place to make adjustments to their work or management practices if performance targets begin to fall short of established benchmarks and timeframes. Applicants must include the standards, data sources, and measurement methods they will use to measure performance.

In order to respond to this factor, applicants should use the sample performance measures (HUD-52758) located in the Appendix as a guide. Applicants will be evaluated based on how comprehensively they propose to measure their program's outcomes.

B. Review and Selection Process

1. Review Process: Four types of reviews will be conducted: A screening to determine if you are eligible to apply for funding under the FSS grant category; whether your application submission is complete, on time and meets threshold; a review by the field office to evaluate past performance and whether there is an approved PH FSS Action Plan on file with the field office; and a technical review to rate your application based on the four rating factors provided in this NOFA.

2. Selection Process: The selection process is designed to achieve geographic diversity of grant awards throughout the country. HUD will first select the highest ranked application from each of the ten federal regions for funding. After this “round,” HUD will select the second highest ranked application in each of the 10 federal regions (the second round). HUD will continue this process with the third, fourth, and so on, highest ranked applications in each federal region until the last complete round is selected for funding. If available funds exist to fund some but not all eligible applications in the next round, HUD will make awards to those remaining applications in rank order (by score) regardless of region and will fully fund as many as possible with remaining funds. If remaining funds are too small to make an award, they may be transferred to another ROSS funding category.

3. Tie Scores. In the event of a tie between two applications from the same region, HUD will select the application that was received first.

1. Deficiency Period. Applicants will have fourteen calendar days in which to provide missing information requested from HUD. For other information on correcting deficient applications, please see the General Section of the SuperNOFA.

VI. Award Administration Information

A. Award Notices

HUD will make announcements of grant awards after the rating and ranking process is completed. Grantees will be notified by letter and will receive instructions for what steps they must take to access funding and begin implementing grant activities.

Applicants who are not funded will also receive letters via U.S. postal mail. Applicants who are not funded may request a debriefing. Applicants requesting to be debriefed must send a written request to: Iredia Hutchinson, Director, Grants Management Center, 501 School Street, SW., Suite 800, Washington, DC 20024. See the General Section of the SuperNOFA for additional information on debriefings.

B. Administrative and National Policy Requirements

1. Environmental Impact. No environmental review is required in connection with the award of assistance under this NOFA, because the NOFA only provides funds for employing a coordinator that provides public and supportive services and/or a contract administrator that provides administrative and management services, which are categorically excluded from environmental review under the National Environmental Policy Act of 1969 (42 U.S.C. 4321) and not subject to compliance actions for related environmental authorities under 24 CFR 50.19(b)(3), (4) and (12).

2. Applicable Requirements. Grantees are subject to regulations and other requirements found in:

a. OMB Circular A-87 “Cost principles for State, Local, and Indian Tribal Governments”.

b. OMB Circular A-133 “Audits of States, Local Governments, and Non-Profit Organizations”.

c. HUD Regulations 24 CFR part 984 “Section 8 and Public Housing Family Self-Sufficiency Program”.

d. HUD Regulations 24 CFR part 85 “Administrative Requirements for Grants and Cooperative Agreements to State, Local, and Federally Recognized Indian Tribal Governments”.

3. Economic Opportunities for Low- and Very Low-Income Persons (Section 3).

For further information see the General Section at III.C.4.c.

4. Applicants and their subrecipients must comply with all Fair Housing and Civil Rights laws, statutes, regulations, and Executive Orders as enumerated in 24 CFR 5.105(a), as applicable. Please see Section III.C.2 of the General Section of the SuperNOFA for more information.

5. Applicants should refer to Section III C “Requirements and Procedures Applicable to All Programs” of the General Section of the SuperNOFA for other requirements to which they may be subject.

C. Reporting

1. Semi-Annual Performance Reports. Grantees shall submit semi-annual performance reports to the field office. These progress reports shall include financial reports (SF-269A), the Logic Model, and a narrative describing milestones, progress, and problems encountered and methods used to address these problems. Grantees shall use quantifiable data to measure performance against goals and objectives outlined in their Logic Model. Performance reports are due to the field office on July 30 and January 31 of each year. If reports are not received by the due date, grant funds will be suspended until reports are received.

2. Reporting Using HUD-50058 Addendum. Grantees must report on PH FSS program participants to PIC using the HUD-50058 addendum to report on the enrollment, progress, and exit of individual families. Failure to report to PIC is a violation of the program and may result in grant termination.

3. Final Report. All grantees shall submit a final report to their local field office which will include a financial report (SF-269A) and a narrative evaluating overall performance against their Logic Model. Grantees shall use quantifiable data to measure performance against goals and objectives outlined in their Logic Model. The financial report shall contain a summary of salary expenditures made from the beginning of the grant agreement to the end of the grant agreement and shall include any unexpended balances. The final narrative and financial report shall be due to the field office 90 days after the termination of the grant agreement.

4. Racial and Ethnic Data. HUD requires that funded recipients collect racial and ethnic beneficiary data. It has adopted the Office of Management and Budget's Standards for the Collection of Racial and Ethnic Data. In view of these requirements, you should use HUD-27061, the Racial and Ethnic Data Reporting Form (instructions are included) which can be found at www.HUDclips.org; a comparable form; or a comparable electronic data system for this purpose.

VII. Agency Contact(s)

For questions and technical assistance, you may call the Public and Indian Housing Information and Resource Center at 800-955-2232. For persons with hearing or speech impairments, please call the toll-free Federal Relay Service at 800-877-8339.

VIII. Other Information

A. Code of Conduct: See the General Section of the SuperNOFA for more information.

B. Transfer of Funds. If transfer of funds from any of the ROSS programs does become necessary, HUD will give first priority to Homeownership Supportive Services, second priority to Family Self-Sufficiency, third priority to RSDM-Family, and fourth priority to RSDM-Elderly. HUD does not have the discretion to transfer funds for the Neighborhood Networks program to any other funding category under ROSS.

C. Paperwork Reduction Act: The information collection requirements contained in this document have been approved by the Office of Management and Budget (OMB) under the Paperwork Reduction Act of 1995 (44 U.S.C. 3501-3520) and assigned OMB control number 2577-0229. In accordance with the Paperwork Reduction Act, HUD may not conduct or sponsor, and a person is not required to respond to, a collection of information unless the collection displays a currently valid OMB control number. Public reporting burden for the collection of information is estimated to average eight hours per annum per respondent for the application and grant administration. This includes the time for collecting, reviewing, and reporting the data for the application, semi-annual reports and final report. The information will be used for grantee selection and monitoring the administration of funds. Response to this request for information is required in order to receive the benefits to be derived.

D. Appendix of Forms. The forms specific to Public Housing FSS under the ROSS Program follow.

BILLING CODE 4210-32-P

Continuum of Care Homeless Assistance Programs

Overview Information

A. Federal Agency Name: Department of Housing and Urban Development, Office of Community Planning and Development.

B. Funding Opportunity Title: Funding Availability for Continuum of Care (CoC) Homeless Assistance Programs.

C. Announcement Type: Initial announcement.

D. Funding Opportunity Number: FR-4900-N-29. The OMB Approval number is 2506-0112. The Federal Register number for this NOFA is: FR-4900-N-29.

E. Catalog of Federal Domestic Assistance (CFDA) Numbers:

1. 14.235, Supportive Housing Program (SHP)

2. 14.238, Shelter Plus Care (S+C)

3. 14.249, Section 8 Moderate Rehabilitation Single Room Occupancy (SRO)

F. DATES: Application Deadline: July 27, 2004. Your completed applications (an original containing the signed documentation and two copies) are due on or before July 27, 2004 to the addresses shown in Section IV.F. Please carefully read Section IV.C. of this program section as well as the General Section for all the critical information on your submission and HUD's acceptance of applications.

G. Additional Overview Content Information:

1. Purpose of the Programs: The purpose of the CoC Homeless Assistance Programs is to assist homeless persons to move to self-sufficiency and permanent housing.

2. Available Funds: Approximately $1 billion is available for funding.

3. Eligible Applicants: The program summary chart in Section III.A.3 identifies the eligible applicants for each of the three programs under the CoC Homeless Assistance Programs.

4. Match: Matching funds are required from local, state, federal or private resources.

Full Text of Announcement

I. Funding Opportunity Description

A. Program Description

1. Overview

a. The purpose of the CoC Homeless Assistance Programs is to reduce the incidence of homelessness in CoC communities by assisting homeless individuals and families to move to self-sufficiency and permanent housing. Projects that sustain current successful interventions and fill gaps in locally developed CoC systems will be funded. To help meet the current Administration's goal of ending chronic homelessness by 2012, priority will be placed on programs that target the supportive housing needs of this population.

2. Major Changes for 2004

a. Application Requirements. New this year, the applying CoC must assemble the entire application, including all projects, and submit it as a single mailed or hand-delivered package to HUD. Each application will consist of the CoC Exhibit and projects from one or more applicants and project sponsors. Individual projects in a CoC should not be submitted to HUD separately. Also new this year, submitted applications should only include the actual application questions and responses being provided. Do not include HUD's application instructions or any blank tables and charts.

b. Chronic Homelessness Priority. To help reach the goal of ending chronic homelessness by 2012, at least 10 percent of the FY 2004 homeless appropriation must be awarded to projects predominantly serving individuals experiencing chronic homelessness. New or renewal, transitional, safe haven or permanent housing projects that have at least 70 percent of their clients who are chronically homeless will count toward this target. Within the “Process and Strategy” rating factor, HUD will be giving added weight to the community's response to the chronic homelessness strategy goals including design and implementation of state and local 10-year planning processes.

c. Performance Measurement. A new “Performance Measurement” section is included and will be given the added weight of up to 5 points in the scoring process.

d. HMIS Implementation. An “HMIS Implementation” section is included and will be given the added weight of up to 5 points in the scoring process.

e. SHP Funds for HMIS. Starting this year, HUD has reserved the right to fund lower rated eligible dedicated HMIS projects receiving 40 need points and at least 25 Continuum points for at least one year to work toward the congressional goal of improving homeless data collection.

f. The “Process and Strategy” scoring has been reduced from 20 to 17 points.

g. The “Gaps and Priorities” scoring has been reduced from 15 to 10 points.

h. A new scoring opportunity on “Removing Barriers to Affordable Housing” valued at up to 2 points has been added to the “Process and Strategy” rating factor.

i. Projects must receive a minimum score of 65 points in the competition in order to receive any funding consideration for lower-rated SHP renewals.

j. The permanent housing bonus will now be applied using a sliding scale based on a Continuum of Care's preliminary “Pro Rata Need” amount.

k. The Supplemental Resources section has been simplified by replacing an extensive narrative section with a multiple-choice chart and the scoring has been reduced to 13 points from 15.

l. For each project, applicants will estimate the number of chronically homeless persons that will be served. In addition, the CoC will be required to describe any changes in the number of chronically homeless persons reported from 2003 to 2004.

m. Each project will indicate which subpopulations it will target.

n. Starting this year, grant terms for all newly proposed Supportive Housing Program projects, excluding HMIS projects, will be three years.

3. Developing CoC Systems: Developing a CoC system should be an inclusive process to assist homeless persons. It should be coordinated with the community's larger effort of developing a HUD required Consolidated Plan. Coordination with state and local 10-year plans to end chronic homelessness and Interagency Councils on Homelessness is also crucial to developing an inclusive CoC system. For a community to successfully address its often complex and interrelated problems, including homelessness, the community must marshal its varied resources—community and economic development resources, social service resources, housing and homeless assistance resources—and use them in a coordinated and effective manner. The Consolidated Plan serves as the vehicle for a community to comprehensively identify each of its needs and to coordinate a plan of action for addressing them.

4. CoC Components. A CoC system consists of five basic components:

a. A system of outreach and assessment for determining the needs and conditions of an individual or family who is homeless;

b. Emergency shelters with appropriate supportive services to help ensure that homeless individuals and families receive adequate emergency shelter and referral to necessary service providers or housing search counselors;

c. Transitional housing with appropriate supportive services to help those homeless individuals and families who are not prepared to make the transition to permanent housing and independent living; and

d. Permanent housing, or permanent supportive housing, to help meet the long-term needs of homeless individuals and families.

e. Prevention strategies play an integral role in a community's plan to eliminate homelessness. By law, prevention activities are ineligible activities in the three programs for which funds are awarded in this competition but are eligible for funding under the Emergency Shelter Grant block grant program.

5. CoC Planning Process. A CoC system is developed through a community-wide or region-wide process involving nonprofit organizations (including those representing persons with disabilities), government agencies, public housing authorities, community and faith-based organizations, other homeless providers, housing developers and service providers, private businesses and business associations, law enforcement agencies, private funding providers, and homeless or formerly homeless persons. A CoC system should address the specific needs of each homeless subpopulation: those experiencing chronic homelessness, veterans, persons with serious mental illnesses, persons with substance abuse issues, persons with HIV/AIDS, persons with co-occurring diagnoses (may include diagnoses of multiple physical disabilities or multiple mental disabilities or a combination of these two types), victims of domestic violence, youth, and any others. To ensure that the CoC system addresses the needs of homeless veterans, it is particularly important that you involve veteran service organizations with specific experience in serving homeless veterans.

6. CoC Funding is provided through the programs briefly described below. Please refer to the CoC Homeless Assistance Programs Chart in Section III.A.3 for a summary of each program:

a. The Supportive Housing Program (SHP) funds the development of transitional supportive housing and services that help homeless persons transition from homelessness to living as independently as possible and permanent supportive housing and services for disabled homeless persons.

b. The Shelter Plus Care (S+C) Program provides funding for rental assistance giving applicants flexibility in devising appropriate housing and supportive services for homeless persons with disabilities.

c. The Section 8 Moderate Rehabilitation Single Room Occupancy (SRO) Program provides rental assistance on behalf of homeless individuals in connection with the moderate rehabilitation of SRO dwellings.

7. Glossary of Terms

a. Applicant. An entity that applies to HUD for funds. See the CoC Homeless Assistance Programs Chart in Section III.A.1 for a list of entities that are eligible. In order to be an applicant, you must submit a SF-424. If selected for funding, the applicant becomes the grantee and is responsible for the overall management of the grant, including drawing grant funds and distributing them to project sponsors. The applicant may also be a project sponsor.

b. Applicant Certification. The form, required by law, in which an applicant certifies that it will adhere to certain statutory requirements, such as the Civil Rights Act of 1964.

c. Chronically Homeless Person. An unaccompanied homeless individual with a disabling condition who has either been continuously homeless for a year or more OR has had at least four episodes of homelessness in the past three years. Disabling condition is defined as “a diagnosable substance use disorder, serious mental illness, developmental disability, or chronic physical illness or disability, including the co-occurrence of two or more of these conditions.” In defining the chronically homeless, the term “homeless” means “a person sleeping in a place not meant for human habitation (e.g., living on the streets) or in an emergency homeless shelter.”

d. Consolidated Plan. A long-term housing and community development plan developed by state and local governments and approved by HUD. The Consolidated Plan contains information on homeless populations and should be coordinated with the CoC plan. It can be a source of information for the Gaps Analysis Chart. The plan contains both narratives and maps, the latter developed by localities using software provided by HUD.

e. Consolidated Plan Certification. The form, required by law, in which a state or local official certifies that the proposed activities or projects are consistent with the jurisdiction's Consolidated Plan and, if the applicant is a state or unit of local government, that the jurisdiction is following its Consolidated Plan.

f. Continuum of Care. A collaborative funding approach that helps communities lan for and provide a full range of emergency, transitional, and permanent housing and service resources to address the various needs of homeless persons.

g. Current Inventory. An inventory of the community's existing beds and supportive services.

h. Homeless Management Information Systems (HMIS). An HMIS is a computerized data collection application designed to capture client-level information over time on the characteristics and service needs of men, women, and children experiencing homelessness, while also protecting client confidentiality. It is designed to aggregate client-level data to generate an unduplicated count of clients served within a community's system of homeless services. An HMIS may also cover a statewide or regional area, and include several CoCs. The HMIS can provide data on client characteristics and service utilization.

i. Homeless Person means a person sleeping in a place not meant for human habitation or in an emergency shelter; and a person in transitional or supportive housing for homeless persons who originally came from the street or an emergency shelter. For a more detailed discussion, see the Questions and Answers Supplement. The programs covered by this application are not for populations who are at risk of becoming homeless.

j. NOFA. Notice of Funding Availability, published in the Federal Register to announce available funds and application requirements.

k. Private Nonprofit Status. Private nonprofit status is documented by submitting either: (1) A copy of the Internal Revenue Service (IRS) ruling providing tax-exempt status under Section 501(c)(3) of the IRS Code; or (2) documentation showing that the applicant is a certified United Way agency; or (3) a certification from a designated official of the organization that no part of the net earnings of the organization inures to the benefit of any member, founder, contributor, or individual; that the organization has a voluntary board; that the organization practices nondiscrimination in the provision of assistance; and that the organization has a functioning accounting system that provides for each of the following (mention each in the certification):

(1) Accurate, current and complete disclosure of the financial results of each federally sponsored project.

(2) Records that identify adequately the source and application of funds for federally sponsored activities.

(3) Effective control over and accountability for all funds, property and other assets.

(4) Comparison of outlays with budget amounts.

(5) Written procedures to minimize the time elapsing between the transfer of funds to the recipient from the U.S. Treasury and the use of the funds for program purposes.

(6) Written procedures for determining the reasonableness, allocability and allowability of costs.

(7) Accounting records, including cost accounting records, that are supported by source documentation.

l. Public Nonprofit Status. Public nonprofit status is documented for community mental health centers by including a letter or other document from an authorized official stating that the organization is a public nonprofit organization.

m. Project Sponsor. The organization that is responsible for carrying out the proposed project activities. A project sponsor does not submit a SF-424, unless it is also the applicant. To be eligible to be a project sponsor, you must meet the same program eligibility standards as applicants do, except in the Sponsor-based rental assistance component of the S+C.

n. SF 424. The information sheet required to be submitted by applicants requesting HUD Federal Assistance.

o. Safe Haven. A Safe Haven is a form of supportive housing serving hard-to-reach homeless persons with severe mental illness or other debilitating behavioral conditions who are on the streets and have been unwilling or unable to participate in supportive services. Safe Havens may be transitional supportive housing, or permanent supportive housing if it has the characteristics of permanent housing and requires participants to sign a lease.

8. Applicant Roles and Responsibilities. An applicant will be responsible for the overall management and administration of a particular grant, including drawing down the grant funds, distributing them to the project sponsors, overseeing project sponsors, collecting and disseminating community-level data, and reporting to HUD. Applicants can submit applications for projects on behalf of project sponsors, who will actually carry out the proposed project activities. Applicants can also carry out their own projects. In these cases, the applicant is responsible for both administering and managing a grant (as the grantee) and carrying out the project activities (as the project sponsor).

II. Award Information

A. Amount Allocated. Approximately $1 billion is available for this CoC competition in FY 2004. Any unobligated funds from previous CoC competitions or additional funds that may become available as a result of deobligations or recaptures from previous awards or budget transfers may be used in addition to FY2004 appropriations to fund applications submitted in response to this program section of this SuperNOFA. The FY2004 HUD Appropriation Act requires HUD to obligate all CoC homeless assistance funds by September 30, 2006. These funds will remain available for expenditure for five years following that date, except that the 2004 HUD Appropriations Act provides for up to $20 million awarded for the Section 8 Moderate Rehabilitation Single Room Occupancy (SRO) Program to be available until expended. The funds available for the CoC competition can be used under any of the three programs that can assist in creating community systems for combating homelessness.

1. Distribution of Funds: As in previous NOFAs for the CoC Homeless Assistance Programs, HUD will not specify amounts for each of the three programs this year. Instead, the distribution of funds among the three programs will depend largely on locally determined priorities and overall demand.

a. Permanent Housing Requirement. Local priorities notwithstanding, the FY 2004 HUD Appropriations Act requires that not less than 30 percent of this year's Homeless Assistance Grants appropriation, excluding amounts provided for one-year renewals under the Shelter Plus Care Program, must be used for permanent housing projects.

b. Chronic Homelessness Requirement: The current Administration has established as a policy priority the goal of ending chronic homelessness by 2012. CoCs are strongly encouraged to use the funds available in this NOFA to target persons experiencing chronic homelessness in their communities. HUD encourages communities to select projects that will contribute to the achievement of this HUD policy priority. Further, CoCs are encouraged to work closely with appropriate state and local governments or Interagency Councils on Homelessness that may be establishing their own ten-year plans for eliminating chronic homelessness. To work towards this goal, HUD requires that 10 percent of the FY2004 appropriation be awarded to housing projects that predominantly serve individuals who are experiencing chronic homelessness. At least 10 percent of the appropriation will be awarded to new or renewal, transitional or permanent housing projects where at least 70 percent of the project's clients are expected to be chronically homeless (as defined by HUD) immediately prior to entry into the project. Housing projects include: SHP transitional housing, permanent housing and Safe Havens; S+C; and SRO projects. (Since the housing funding allocation set-aside requirements are expected to continue in future competitions and may affect project funding selections, you are strongly encouraged to begin planning for new housing projects, particularly those serving individuals experiencing chronic homelessness, and include them as part of your submission in this competition. See Section V.B.3.a and b of this program section of the SuperNOFA for additional information on the permanent housing and chronic homeless requirements.)

c. Lower-rated SHP Renewals. HUD reserves the authority to conditionally select for one year of funding lower-rated eligible SHP renewal projects that are assigned 40 need points in a CoC application receiving at least 25 points under the CoC scoring factor that would not otherwise receive funding for these projects. (See Section V.A.2.a and b of this NOFA for information on project rating and scoring.) However, the projects must receive a minimum score of 65 points. Although these lower-rated SHP renewal projects will have scored below the otherwise recognized funding line, their funding allows homeless persons to continue to be served and move towards self-sufficiency. Not renewing these projects would likely result in the closure of these projects and displacement of the homeless people being served.

2. Prioritizing Projects for Funding. Project priority decisions are best made by members of the local community, including community and faith-based organizations, which represent the various economic, housing and social resources within that community. For example, if HUD has funds available only to award 8 of 10 proposed projects, then it will award funding to the first 8 eligible projects listed, except as may be necessary to achieve the 30 percent overall permanent housing and the 10 percent chronic homelessness requirements; see Section V.B.3.a. and V.B.3.b. In such cases, higher priority non-permanent housing projects may be de-selected to fund lower priority permanent housing projects and projects predominantly serving those persons experiencing chronic homelessness.

III. Eligibility Information

A. Eligible Applicants

1. Eligible applicants for each program are those identified in the following chart.

2. Renewal Applicants. As a project applicant, you are eligible to apply for renewal of a grant only if you have executed a grant agreement for the project directly with HUD for SHP or S+C programs under the CoC NOFA. If you are a project sponsor or sub-recipient who has not signed such an agreement, you are not eligible to apply for renewal of these projects. HUD will reject applications for renewal submitted by ineligible applicants.

BILLING CODE 4210-32-P

BILLING CODE 4210-32-C

B. Matching (Cost Sharing)

You must match Supportive Housing Program funds provided for acquisition, rehabilitation, and new construction with an equal amount of cash from other sources. Since SHP by statute can pay no more than 75 percent of the total operating budget for supportive housing, you must provide at least a 25 percent cash match of the total annual operating costs. In addition, for all SHP funding for supportive services and Homeless Management Information Systems (HMIS) you must provide a 25 percent cash match. This means that of the total supportive services budget line item, no more than 80 percent may be from SHP grant funds. For example, 80 percent of a $125 supportive services budget is $100, the maximum that may be requested and the cash match required is $25. The cash source may be your agency, other federal programs, state and local governments, or private resources. You must match rental assistance provided through the Shelter Plus Care Program in the aggregate with supportive services. Shelter Plus Care requires a dollar for dollar match; the recipient's match source can be cash or in kind from any of the sources above.

C. Other

1. Eligible Activities

Eligible activities for the SHP, S+C, and SRO Programs are outlined in the preceding CoC Homeless Assistance Programs Chart at Section III.A.3.

a. To promote permanent housing, a special incentive is being provided to CoC systems that place an eligible, new permanent housing project in the number one priority slot on the priority list. The only eligible activities that will be counted toward the incentive for the number one priority project are housing activities and for SHP, administration. For the SHP program, housing activities include acquisition, new construction, rehabilitation, leasing of housing and operating costs for housing. S+C and SRO rental assistance are defined as housing activities and are eligible under the incentive as well. See Section V.B.3a of this program section of the SuperNOFA for a description of this incentive.

HUD will use the CoC priority list to award up to 40 points per project under the “Need” scoring factors. Higher priority projects will receive more points under Need than lower priority projects. A project priority chart is included with the attachments in Section VIII and should be completely filled out and submitted as part of your application.

2. Threshold Requirements

a. Project Eligibility Threshold. HUD will review projects to determine if they meet the following eligibility threshold requirements. If HUD determines the following standards are not met by a specific project or activity, the project or activity will be rejected from the competition.

(1) The population to be served must meet the eligibility requirements of the specific program as described in the program regulations and you must provide evidence of eligibility specified in the attachments in Section VIII. The application must clearly establish eligibility of program participants to be served pertaining to homelessness and disability status.

(2) Projects that involve rehabilitation or new construction must meet the accessibility requirements of Section 504 of the Rehabilitation Act of 1973, the design and construction requirements of the Fair Housing Act and the accessibility requirements of the Americans with Disabilities Act, as applicable.

(3) The project must be cost-effective, including costs associated with construction, operations and supportive services with such costs not deviating substantially from the norm in that locale for the type of structure or kind of activity.

(4) For those applicants applying for the Innovative component of SHP, whether or not a project is a considered innovative will be determined on the basis that the particular approach proposed is new and can be replicated.

(5) S+C renewal applications that are not submitted as part of a CoC application will not be considered as eligible for funding.

(6) Under the sponsor-based rental assistance S+C component, an applicant must subcontract with a private nonprofit organization or a community mental health agency established as a public nonprofit organization.

(7) For the Section 8 SRO program, only individuals meeting HUD's definition of homeless are eligible to receive rental assistance. Therefore, any individual occupying a unit at commencement of rehabilitation will not receive rental assistance if they return to their unit (or any other) upon completion of rehabilitation.

(8) Applicants agree to participate in a local HMIS system when it is implemented in their community.

b. Project Quality Threshold: HUD will review projects to determine if they meet the following quality threshold requirements. The housing and services proposed must be appropriate to the needs of the program participants and the community. HUD may find a project to be inappropriate if:

(1) The type, scale and general location of the housing or services do not fit the needs of the proposed participants. A S+C or SHP project renewal will be considered as having met this requirement through its previously approved grant application unless information to the contrary is received.

(2) A specific plan for ensuring that clients will be assisted to obtain the benefits of the mainstream health, social service, and employment programs for which they are eligible is not provided.

(3) The description of the project does not show how participants will be helped to access permanent housing and achieve self-sufficiency. A S+C project renewal will be considered as having met this requirement through its previously approved grant application.

(4) Projects do not evidence satisfactory performance for their existing grant.

c. Project Renewal Threshold. Your local needs analysis process must consider the need to continue funding for projects expiring in calendar year 2005. HUD will not fund competitive renewals out of order on the priority list except as may be necessary to achieve the 30 percent overall permanent housing requirement and the 10 percent requirement for individuals experiencing chronic homelessness requirement. It is important that SHP renewals and S+C non-competitive renewals meet minimum project eligibility, capacity and performance standards identified in this program section of the SuperNOFA or they will be rejected from consideration for either competitive or non-competitive funding.

d. Civil Rights Thresholds: You and the project sponsors must be in compliance with applicable civil rights laws and Executive Orders, and must meet the threshold requirements of the General Section of the SuperNOFA.

(1) Projects funded under this SuperNOFA shall operate in a fashion that does not deprive any individual of any right protected by the Fair Housing Act (42 U.S.C. 3601-19), Section 504 of the Rehabilitation Act of 1973 (29 U.S.C. 794), the Americans with Disabilities Act of 1990 (42 U.S.C. 12101 et seq.), Title VI of the Civil Rights Act of 1964 (42 U.S.C. 2000d) or the Age Discrimination Act of 1975 (42 U.S.C. 6101).

(2) Local Resident Employment. To the extent that any housing assistance (including rental assistance) funded through this program section of the SuperNOFA is used for housing rehabilitation (including reduction and abatement of lead-based paint hazards, but excluding routine maintenance, repair, and replacement) or housing construction, then it is subject to section 3 of the Housing and Urban Rehabilitation Act of 1968, and the implementing regulations at 24 CFR part 135. Section 3, as amended, requires that economic opportunities generated by certain HUD financial assistance for housing and community development programs shall, to the greatest extent feasible, be given to low- and very low-income persons, particularly those who are recipients of government assistance for housing, and to businesses that provide economic opportunities for these persons.

(3) Relocation. The SHP, S+C, and SRO programs are subject to the requirements of the Uniform Relocation Assistance and Real Property Acquisition Policies Act of 1970, as amended (URA). These requirements are explained in HUD Handbook 1378, Tenant Assistance, Relocation and Real Property Acquisition. Also see General Section.

(4) Environmental Reviews. All CoC assistance is subject to the National Environmental Policy Act and applicable related Federal environmental authorities. Conditional selection of projects under the CoC Homeless Assistance competition is subject to the environmental review requirements of 24 CFR 582.230, 583.230 (each as amended on September 29, 2003, 68 FR 56116), and 882.804(c), as applicable. The recipient, its project partners and their contractors may not acquire, rehabilitate, convert, lease (under TRA where participants are required to live in a particular structure or area as described in Section III.C.3.e.(3)(a)), repair, dispose of, demolish or construct property for a project under this CoC NOFA, or commit or expend HUD or local funds for such eligible activities, until the responsible entity has completed the environmental review procedures required by Part 58 and the environmental certification and Request for Release of Funds (RROF) have been approved or HUD has performed an environmental review under Part 50 and the recipient has received HUD approval of the property. The expenditure or commitment of Continuum of Care assistance or nonfederal funds for such activities prior to this HUD approval may result in the denial of assistance for the project under consideration.

3. Program Requirements

a. CoC Geographic Area. In deciding what geographic area you will cover in your CoC strategy, you should be aware that the single most important factor in being awarded funding under this competition will be the strength of your CoC strategy when measured against the CoC rating factors described in this program section of the SuperNOFA. When you determine what jurisdictions to include in your CoC strategy area, include only those jurisdictions that are fully involved in the development and implementation of the CoC strategy. Including jurisdictions that are not fully involved would adversely affect the CoC score.

The more jurisdictions you include in the CoC strategy area, the larger the pro rata need share that will be allocated to the strategy area (as described in Section V.B.2.b. of this program section of the SuperNOFA). If you are a rural county, you may wish to consider working with larger groups of contiguous counties to develop a region-wide or multi-county CoC strategy covering the combined service areas of these counties. The areas covered by CoC strategies should not overlap.

b. Expiring/Extended Grants. If your SHP or S+C grant will be expiring in calendar year 2005, or if your S+C Program grant has been extended beyond its original five-year term and is projected to run out of funds in FY 2005, you must apply as a renewal under this CoC program section of the SuperNOFA to get continued funding.

c. Coordination with Mainstream Resources. If your project is selected for funding as a result of the competition, you will be required to coordinate and integrate your homeless program with other mainstream (non-homeless targeted) health, social services, and employment programs for which homeless populations may be eligible, including Medicaid, Children's Health Insurance Program, Temporary Assistance for Needy Families, Food Stamps, and services funded through the Mental Health Block Grant and Substance Abuse Block Grant, Workforce Investment Act, Welfare-to-Work grant program and Veterans Health Care.

d. Prevention Strategies and Discharge Policies. In addition, as a condition for award, any governmental entity serving as an applicant must agree to develop and implement, to the maximum extent practical and where appropriate, policies and protocols for the discharge of persons from publicly funded institutions or systems of care (such as health care facilities, foster care or other youth facilities, or correction programs and institutions) in order to prevent such discharge from immediately resulting in homelessness for such persons. While the state or local governmental entity having jurisdiction in the area of the Continuum's application has the formal responsibility to enact the discharge policy, the Continuum is expected to actively involve itself in the planning and implementation of the discharge policy. This condition for award is intended to emphasize that States and units of general local government are primarily responsible for the care of these individuals, and to forestall attempts to use scarce McKinney-Vento Act homeless assistance funds to assist such persons in lieu of State and local resources.

e. Program-Specific Requirement. Please be advised that where an applicant for the SHP funding is a State or unit of general local government that utilizes one or more nonprofit organizations to administer the homeless assistance project(s), administrative funds provided as part of the SHP grant must be passed on to the nonprofit organization(s) in proportion to the administrative burden borne by them for the SHP project(s). HUD will consider States or units of general local government that pass on at least 50 percent of the administrative funds made available under the grant as having met this requirement. This requirement does not apply to either the SRO Program, since only PHAs administer the SRO rental assistance, or to the S+C Program, since paying the costs associated with the administration of these grants is ineligible by regulation.

(1) SHP—New Projects:

(a) Please note that this year the grant term for new non-HMIS SHP projects is three (3) years. Any requests for one (1) or (2) two year terms for new SHP projects will be automatically changed to a three-year term if funded. In this case, the one or two-year total budget will be changed to a three-year total budget and the applicant will provide the difference between the awarded SHP amount and the three-year total budget. If the applicant does not agree to these conditions, the award will be deselected. HMIS projects may request funding for either one (1), two (2) or three (3) year terms.

(b) HUD will require recordation of a HUD-approved use and repayment covenant (a form may be obtained from your field office) for all grants of funds for acquisition, rehabilitation or new construction. The covenant will enforce the use and repayment requirements found at section 423(b)(1) and (c) of the McKinney-Vento Act and must be approved by HUD counsel before execution and recordation.

(c) All project sponsors must meet applicant eligibility standards as described in Section III.A. As in past years, HUD will review sponsor eligibility as part of the selection process. New this year is the requirement that project sponsors submit evidence of their eligibility with the application.

(2) SHP—Renewal Projects:

(a) For the renewal of a SHP project, you may request funding for one (1), two (2) or three (3) years.

(b) The amount of the request for each renewable activity cannot exceed the average yearly amount received in your current grant for that activity (leasing, supportive services, and/or operations) plus up to five percent for administration. Since renewal projects may request renewal funds only for continuing a previously approved project at the same level of housing and services provided in the previous grant, renewal project budgets must be based upon the average of the term activities of the previous grant award. Renewal projects proposing both to renew the existing project and expand the number of units or number of participants receiving services must submit a new project proposal for the expansion portion of the project. HMIS activities being renewed should be included on the HMIS budget chart.

(c) HUD will recapture SHP grant funds remaining unspent at the end of the previous grant period when it renews a grant.

(3) S+C—New Projects

(a) A project may not include more than one component, e.g., combining Tenant-based Rental Assistance (TRA) with Sponsor-based Rental Assistance (SRA) is prohibited within the same grant. Under the TRA component, in order to help provide supportive services or for the purposes of controlling housing costs, a grantee may require participants to live in a particular structure for the first year of assistance or to live in a particular area for the entire rental assistance period. Where this option is exercised, an environmental review and clearance must be performed prior to any commitment to lease a particular structure or unit for participant occupancy as described in Section III.C.2.d.4, Environmental Reviews.

(b) S+C/SRO Component: If you are a State or a unit of general local government, you must subcontract with a Public Housing Authority to administer the S+C assistance. Also, no single project may contain more than 100 units.

(c) S+C SRA Component. Project sponsors must submit proof of their eligibility to serve as a project sponsor.

(4) S+C Renewal Projects

(a) For the renewal of a S+C project, including S+C SROs, the grant term will be one (1) year, as specified by Congress. For the renewal of S+C rental assistance that is Tenant-based (TRA), Sponsor-based (SRA) or Project-based (PRA), you may request up to the amount determined by multiplying the number of units under lease at the time of your application for renewal funding by the applicable 2004 Fair Market Rent(s) by 12 months. Current FMRs can be found at www.hudclips.org. For S+C grants having been awarded one year of renewal funding in 2003, the number of units requested for renewal this year must not exceed the number of units funded in 2003. While full funding of existing grants may be requested, there is no guarantee that the entire amount will be awarded. As is the case with SHP, HUD will recapture S+C grant funds remaining unspent at the end of the previous grant period when it renews a grant. The one-year term of non-competitively awarded S+C renewal projects may not be extended.

(b) The renewal of S+C SROs will also be non-competitively awarded under this NOFA. For the renewal of S+C SRO rental assistance, you may request up to the amount determined by multiplying the number of units under contract at the time of your application for renewal funding by the contract rent at the time of expiration by 12 months.

(c) Under the FY2004 HUD Appropriations Act, eligible S+C Program grants whose terms are expiring in FY2005, and S+C Program grants that have been extended beyond their original five-year terms but which are projected to run out of funds in FY2005, will be renewed for one year provided that they are determined to be needed by the CoC as evidenced by their inclusion on the priority chart. These projects must also demonstrate that their applicant and sponsor meet eligibility, capacity and performance requirements described in Section V.A.1 of this NOFA. Non-competitive S+C renewals should be submitted by the application deadline. These S+C renewal projects will not count against a continuum's pro rata need amount. On the other hand, no pro rata need renewal adjustment will be computed for any CoC using S+C renewal amounts since these projects are being funded outside of the competition.

(5) Section 8 Moderate Rehabilitation SRO Program—New Projects. As an applicant, the following limitations apply to the Section 8 SRO program:

(a) Under section 8(e)(2) of the United States Housing Act of 1937, no single project may contain more than 100 assisted units.

(b) Under 24 CFR 882.802, applicants that are private nonprofit organizations must subcontract with a Public Housing Authority to administer the SRO assistance.

(c) Under section 8(e)(2) of the United States Housing Act of 1937 and 24 CFR 882.802, rehabilitation must involve a minimum expenditure of $3,000 for a unit, including its prorated share of work to be accomplished on common areas or systems, to upgrade conditions to comply with the Physical Condition Standards.

(d) Under section 441(e) of the McKinney-Vento Act and 24 CFR 882.805(d)(1), HUD publishes the SRO per unit rehabilitation cost limit each year to take into account changes in construction costs. This cost limitation applies to rehabilitation that is compensated for in a Housing Assistance Payments (HAP) Contract. For purposes of Fiscal Year 2004 funding, the cost limitation is raised from $19,000 to $19,500 per unit to take into account increases in construction costs during the past 12-month period.

(e) The SRO Program is subject to the Federal standards at 24 CFR part 882, subpart H.

(f) Individuals assisted through the SRO Program must meet the definition of homeless individual found at section 103 of the McKinney-Vento Act.

(g) Resources outside the program pay for the rehabilitation, and rehabilitation financing. The rental assistance covers operating expenses of the SRO housing, including debt service for rehabilitation financing. Units may contain food preparation or sanitary facilities or both.

(6) Section 8 Moderate Rehabilitation SRO Program—Renewals: This program section of the SuperNOFA is not applicable to the renewal of funding under the Section 8 SRO program. The renewal of expiring Section 8 SRO projects is not part of the competitive SuperNOFA process. Rather, expiring Section 8 SROs will be identified at the beginning of the applicable year by the public housing authority and HUD field office. One-year renewal funds for expiring Section 8 SRO HAP contracts will be provided by HUD under a separate, non-competitive process. For further guidance on Section 8 SRO renewals, please contact your local HUD field office.

f. Timeliness Standards. As an applicant, you are expected to initiate your approved projects promptly in accordance with Section VI.A of this NOFA. In addition, HUD will take action if you fail to satisfy the following timeliness standards:

(1) SHP: HUD will deselect your award if you do not demonstrate site control within one (1) year of the date of your grant award letter, as required by the McKinney-Vento Act (see 42 U.S.C. 11386(a)(3)) and implemented in program regulations at 24 CFR 583.320(a). Subsequent loss of site control beyond the 12-month statutory limit will be cause for cancellation of the award and recapture of funds. HUD may deobligate SHP funds if the following additional timeliness standards are not met:

(a) You must begin construction activities within eighteen (18) months of the date of HUD's grant award letter and complete them within thirty-six (36) months after that notification.

(b) For activities that cannot begin until construction activities are completed, such as supportive service or operating activities that will be conducted within the building being rehabilitated or newly constructed, you must begin these activities within three (3) months after you complete construction.

(c) You must begin all activities that may proceed independent of construction activities, including HMIS, within twelve (12) months of the date of HUD's grant award letter. HUD may reduce a grant agreement term to one (1) year where implementation delays have reduced the amount of funds that reasonably can be used in the original term.

(2) S+C Except SRO Component. HUD may deobligate S+C funds if you do not meet the following timeliness standards:

(a) For Tenant-based Rental Assistance, for Sponsor-based Rental Assistance, and for Project-based Rental Assistance without rehabilitation, you must start the rental assistance within twelve (12) months of the date of HUD's grant award letter.

(b) For Project-based Rental Assistance with rehabilitation, you must complete the rehabilitation within twelve (12) months of the date of HUD's grant award letter.

(c) HUD may reduce a grant agreement term to one (1) year where implementation delays have reduced the amount of funds that reasonably can be used in the original term.

(3) Section 8 Moderate Rehabilitation SRO Program and SRO Component of the S+C Program. For projects carried out under the Section 8 SRO program and the SRO component of the S+C program, the rehabilitation work must be completed and the HAP contract executed within twelve (12) months of execution of the Annual Contributions Contract. HUD may reduce the number of units or the amount of the annual contribution commitment if, in HUD's determination, the Public Housing Authority fails to demonstrate a good faith effort to adhere to this schedule.

IV. Application and Submission Information

A. Addresses to Request Application Package. This year, to accommodate the new NOFA format required government-wide, a checklist of forms needed to complete the application is provided. Exhibits 1-4 and the Questions and Answers Section, which were in the separate application kit last year, are now attachments as described in Section VIII below. The Geographic Codes and Initial Pro Rata Need Amounts can be accessed at http://www.hud.gov/offices/adm/grants/fundsavail.cfm. An applicant may also obtain a copy of the NOFA by calling the SuperNOFA Information Center at 1-800-HUD-8929 (voice) (this is a toll free number) or you may download it by Internet at http://www.grants.gov. Please note that all sections of the NOFA are critical and must be carefully reviewed to ensure your application can be considered for funding.

B. Content and Form of Application Submission. This year, the only option for submitting an application under this program section of the SuperNOFA is to submit the entire Continuum of Care application, with all of its projects, together in a single package mailed or hand-delivered to HUD. Each application will consist of one Continuum of Care Exhibit and submissions from one or more applicants and project sponsors. Although HUD will accept an application for a project exclusive of participation in any community-wide or region-wide CoC development process, projects will receive few, if any, points under the CoC rating factors and are very unlikely to be funded. To ensure that no applicant is afforded an advantage in the rating of the CoC element (described in Section V.A.2) HUD is establishing a limitation of 30 pages, excluding required multiple page tables or charts but including any attachments, on the length of Exhibit 1 of any application submitted in response to this NOFA. HUD will not consider the contents of any pages exceeding this limit when rating the Continuum of Care element of any application. Please note, Exhibit 1, as well as Exhibits 2-4, should only include the actual application questions and responses being provided and should not include the HUD application instructions or any blank tables and charts. The General Section of the SuperNOFA contains certifications that the applicant will comply with fair housing and civil rights requirements, program regulations, and other federal requirements, and (where applicable) that the proposed activities are consistent with the HUD-approved Consolidated Plan of the applicable State or unit of general local government.

1. Application Submission Requirements

a. A completed application will include one Exhibit 1 (CoC) and any number of Exhibits 2 (SHP New), 2R (SHP Renewal), 3 (S+C New), 3R (S+C Renewal) and 4 (SRO New), depending on the number of projects and type of programs proposed for funding. For example, if you were proposing five SHP Renewal projects and one S+C New project, then you would submit one Exhibit 1, five Exhibits 2R and one Exhibit 3. No submission would be necessary for Exhibit 4 because funding is not being requested under the Section 8 SRO program in this example. Refer to Assembling Your Application below for full assembling instructions.

b. Exhibits 1-4 provide the application materials that must be used in applying for homeless assistance under this CoC NOFA. In addition to the required narratives, the items that you must submit to HUD as part of the application for homeless assistance funding are the following: Items (1) to (3) are found in the Exhibit Attachments described in Section VIII. Items (4) to (7) are standard forms found in the General Section of SuperNOFA.

c. There are two parts to the CoC Application. The first consists of the process and outcome for the community-based homeless assistance plan, which is your CoC for the community. The second consists of exhibits for the specific program funds for which you are applying. Each application should contain:

(1) 2004 Application Summary Form.

(2) Continuum of Care and Project Exhibits, including all required forms.

(3) Special Project Certifications—Coordination and Integration of Mainstream Programs, and Discharge Policy (as applicable).

(4) SF-424 Application for Federal Assistance. Starting this year, each SF-424 must include the applicant's DUN and Bradstreet Data Universal Numbering System (DUNS) number. Please see the General Section of the SuperNOFA for more information on obtaining a DUNS number. Submit for each applicant in the Continuum. Attached to each SF-424 must be a list of all the applicant's projects by priority number (in order), project name and requested amount.

(5) HUD-424B Applicant Assurances and Certifications.

(6) HUD-27300 Questionnaire for HUD's Initiative on Removal of Regulatory Barriers.

(7) Project Exhibits in priority order, following each project exhibit, the following items:

(a) HUD-2991, Certification of Consistency with the Consolidated Plan;

(b) HUD-299, Certification Regarding Debarment and Suspension;

(c) HUD-2880, Applicant/Recipient Disclosure/Update Report;

(d) HUD-23004, Survey on Ensuring Equal Opportunity for Applicants (for nonprofit applicants or sponsors only).

(8) Applicant and project sponsor private nonprofit documentation (SHP, SRO programs) and community mental health association documentation (for SHP and S+C SRA component public nonprofits only)—new projects only.

2. Assembly Format

a. Number all pages sequentially and insert tabs marking each exhibit. For Exhibit 1, CoC narrative, number pages from 1 up to 30 using letter suffixes where appropriate to indicate pages that do not count toward the 30 page limit as per the instructions for completing the CoC narrative. For example, the first page of a 4 page project leveraging chart would be numbered 23 while the next 3 pages of the chart would be numbered 23-A, 23-B, and 23-C.

b. Please use a two-hole punch to insert holes at the top of your application.

c. Please do not bind your application, since this impedes processing.

C. Submission Dates and Times:

1. Application Due Date. Your completed applications (an original containing the signed documentation and two copies) are due on or before July 27, 2004, to the addresses shown below.

a. Timeliness: Please see the General Section of the SuperNOFA for information on the timeliness of applications.

b. Field Office Copies: In the rare event that a CoC's entire application is not received at HUD Headquarters on time, HUD may similarly request proof that the field office copy was received on time as well as proof that the application for Headquarters was placed in transit on time and, if so, may use the copy received by the field office for review.

D. Intergovernmental Review. Not applicable. This funding opportunity is not subject to Executive Order (EO) 12372.

E. Funding Restrictions. Funding Restrictions are outlined in Sections V.B.3.a and 3b.

F. Security Procedures: Please see the General Section of the SuperNOFA for information on security procedures that pertain to the submission of applications.

1. Addresses for Submitting Applications

a. To HUD Headquarters: Submit your original completed application (the application with the original signed documentation) to: HUD Headquarters, Robert C. Weaver Federal Building, 451 Seventh Street, SW., Room 7270, Washington, DC 20410, Attention: Continuum of Care Programs.

b. To the Appropriate CPD Field Office: Also submit two copies of your completed application to the Community Planning and Development Division of the appropriate HUD field office for your jurisdiction.

V. Application Review Information

A. Criteria

Your application will receive a higher score under the CoC scoring factors if the application demonstrates the achievement of three basic goals:

—That you have provided maximum participation in the planning process by nonprofit organizations (including those representing persons with disabilities), government agencies, public housing authorities, faith-based and other community-based organizations, other homeless providers, housing developers and service providers, private businesses and business associations, law enforcement agencies, funding providers, and homeless or formerly homeless persons;

—That you have created, maintained and built upon a community-wide inventory of housing and services for homeless families and individuals; identified the full spectrum of needs of homeless families and individuals; and coordinated efforts to fill gaps between the current inventory and existing needs. This coordinated effort must appropriately address all aspects of the continuum, especially permanent housing; and

—That you have instituted a CoC-wide strategy to coordinate homeless assistance with mainstream health, social services and employment programs for which homeless individuals and families may be eligible. These programs include, but are not limited to, Medicaid, Children's Health Insurance Program, Temporary Assistance for Needy Families, Food Stamps, and services funded through the Mental Health Block Grant and Substance Abuse Block Grant, Workforce Investment Act, Welfare-to-Work grant program, and Veterans Health Care.

1. Applicant and sponsor eligibility, capacity and performance: HUD will review applications to ensure that the applicant and project sponsor meet the eligibility and capacity standards outlined in this section. If HUD determines these standards are not met, the project will be rejected from the competition. The eligibility, capacity and performance standards are as follows:

a. You must be eligible to apply for the specific program.

b. You must demonstrate ability to carry out the project(s). With respect to each proposed project, this means that, in addition to knowledge of and experience with homelessness in general, the organization carrying out the project, its employees, or its partners, must have the necessary experience and knowledge to carry out the specific activities proposed, such as housing development, housing management, and service delivery.

c. If you or the project sponsor is a current or past recipient of assistance under a HUD McKinney-Vento Act program, there must have been no delay in meeting applicable program timeliness standards unless HUD determines the delay in project implementation is beyond your or the project sponsor's control, no serious unresolved HUD monitoring finding, or no outstanding audit finding of a material nature regarding the administration of the program.

2. Review, Rating and Conditional Selection. HUD will use the same review, rating, and conditional selection process for all three programs (SHP, S+C and SRO). The standard factors for award identified in the General Section of this SuperNOFA have been modified in this program section as described below. Only the factors described in this program section—Continuum of Care and Need—will be used to assign points. Paragraphs 2a and 2b in this section describe selection factors. Up to 100 points will be assigned using these factors: including rating points for HUD's policy priority of ending chronic homelessness by 2012; and a new policy priority for removing regulatory barriers to affordable housing (see Section V.A.2.a.(1)(c) and (d) below on both policy priorities). There are no bonus points this year for proposing projects in an EC/EZ.

a. Continuum of Care. HUD will award up to 60 points as follows:

(1) Process and Strategy: HUD will award up to 17 points based on the extent to which your application demonstrates:

(a) The existence of a coordinated and inclusive community process, including organizational structure(s), for developing and implementing a CoC strategy which includes nonprofit organizations (such as veterans service organizations, organizations representing persons with disabilities, faith-based and other community-based organizations, and other groups serving homeless persons), state and local governmental agencies, public housing authorities, housing developers and service providers, law enforcement, hospital and medical entities, funding providers, local businesses and business associations, and homeless or formerly homeless persons; and

(b) That a well-defined and comprehensive strategy has been developed which addresses the components of a CoC system (i.e., prevention, outreach, intake, and assessment; emergency shelter; transitional housing; permanent independent housing; and permanent supportive housing) and that strategy has been designed to serve all homeless subpopulations in the community (e.g., seriously mentally ill, persons with multiple diagnoses, veterans, persons with HIV/AIDS), including those persons living in emergency shelters, supportive housing for homeless persons, or in places not designed for, or ordinarily used as, a regular sleeping accommodation for human beings.

(c) The existence of a realistic strategy for ending chronic homelessness that establishes past performance, current approach, future goals and action steps, and local coordination as outlined in Exhibit 1, Form HUD-40076 CoC-C.

(d) A local plan and/or existing policy to remove regulatory barriers to the production of affordable housing. As provided for in the General Section of the SuperNOFA, HUD will award up to 2 points, within the 17 points for this rating factor, based on the extent that the CoC's application demonstrates a local plan to remove regulatory barriers to affordable housing. Applicable activities include the support of state and local efforts to streamline processes, eliminate redundant requirements, statutes, regulations, and codes which impede the availability of affordable housing. The response (one questionnaire per CoC) should be submitted for consideration as a completed HUD Form 27300, Questionnaire for HUD's Initiative on Removal of Regulatory Barriers. The continuum should submit the questionnaire for the local jurisdiction where the majority of its CoC assistance will be provided. Please identify the name of the jurisdiction reported on the top of the first page of the returned questionnaire. This questionnaire can be found in the attachments to the General Section and should be submitted in Part O of Exhibit 1.

(e) Evidence that your Continuum will work with the appropriate local government entity to develop and implement a discharge policy for persons leaving publicly funded institutions or systems of care (such as health care facilities, foster care or other youth facilities, or correction programs and institutions) in order to prevent such discharge from immediately resulting in homelessness for such persons. This evidence may be in the form of memoranda of understanding, written commitments, etc. that demonstrates a working partnership on discharge policy.

(2) HMIS Implementation. HUD will award up to 5 points based upon the extent to which your application demonstrates progress in the planning, implementation and operation of an HMIS system covering at a minimum all street outreach, emergency shelters and transitional housing programs so that a reliable, unduplicated count of homeless persons on the street and in shelters may be conducted.

(3) Gaps and Priorities: HUD will award up to 10 points based on the extent to which your application:

(a) Describes the gap analysis performed, uses reliable information and sources that are presented completely and accurately; and

(b) Proposes projects that are not inconsistent with the gaps analysis described in the CoC strategy, describes a fair project selection process, explains how gaps identified through the analysis are being addressed, and correctly completes the priority chart.

When HUD reviews a community's CoC to determine the points to assign, HUD will consider whether the community took its renewal needs into account in preparing its project priority list.

(4) Leveraging Supplemental Resources: HUD will award up to 13 points based on the extent to which your application incorporates mainstream resources and demonstrates leveraging of funds requested under this program section of the SuperNOFA with other resources, including private, other public, and mainstream services and housing programs. To achieve the highest rating for this factor, applicants must evidence explicit Continuum-wide strategies to coordinate homeless assistance with mainstream health, social services and employment programs for which homeless populations may be eligible, and to use those benefits as appropriate and practicable to help offset supportive service costs of the programs that would otherwise be paid for with HUD funding. These include, but are not limited to, Medicaid, Children's Health Insurance Program, Temporary Assistance for Needy Families, Food Stamps, and services funding through the Mental Health Block Grant and Substance Abuse Block Grant, Workforce Investment Act, the Welfare-to-Work grant program, and Veterans Health Care.

(5) Emphasis on housing: HUD will award up to 10 points based upon the relationship between funds requested for housing activities and funds requested for supportive service activities among projects assigned 40 need points (excluding S+C renewals). Points will be awarded on a sliding scale with the Continuums with the highest percentage of approvable requests for funds for housing activities receiving the highest points. HUD will count as housing activity all approvable funds for rental assistance and approvable funds for acquisition, rehabilitation, construction, leasing and operations when used in connection with housing. HMIS costs and administrative costs will be excluded from this calculation as either a housing or supportive service cost.

(6) Performance Measurement: HUD will award up to 5 points based upon the CoC's progress in reducing homelessness. This will be measured by program participants' success in moving to and maintaining permanent housing. HUD will also be assessing the extent to which participants successfully access various mainstream services programs and become employed. These measures emphasize HUD's determination to assess grantees' performance in the prior program year and to determine if they are meeting the overall goal of the Homeless Assistance Grants under which they are funded. Both housing and supportive services will be assessed, using the data submitted in the Exhibit 1 CoC Project Performance on Form HUD 40076 CoC-M.

b. Need: HUD will award up to 40 points for need. There is a three-step approach to determining the need scores to be awarded to projects:

(1) Determining relative need: To determine the homeless assistance need of a particular jurisdiction, HUD will use nationally available data, including the following factors as used in the Emergency Shelter Grants (ESG) program: data on poverty, housing overcrowding, population, age of housing, and growth lag. Applying those factors to a particular jurisdiction provides an estimate of the relative need index for that jurisdiction compared to other jurisdictions applying for assistance under this program section of the SuperNOFA.

(2) Applying relative need: HUD will then apply that relative need index to the total amount of funding estimated to be competitively available under this program section of the SuperNOFA to determine a jurisdiction's pro rata need. However, in order to promote permanent housing for the homeless, if a CoC's number one priority project qualifies as an eligible, new permanent housing project, then the full amount of that project's eligible housing activities, up to the lesser of 100 percent of the CoC's preliminary pro rata need or the applicable amount indicated below, will be added to the final pro rata need amount for the Continuum. The maximum permanent housing bonus for a CoC with a preliminary pro rata need (PRN) amount of:

• $10.0 million or more is $2.0 million;

• $5.0 million up to $10.0 million is $1.5 million;

• less than $5.0 million is $750,000 or the PRN amount, whichever is less.

For this purpose, HUD will consider the same housing activities identified in Section V.A.2.a(5) above as counting toward the permanent housing bonus. HUD also reserves the right to adjust pro rata need, if necessary, to address SHP project renewals.

(3) Awarding need points to projects: Once HUD establishes the pro rata need, HUD applies it against the priority project list in the application. Starting from the highest priority project, HUD proceeds down the list to award need points to each project. An eligible project will receive the full 40 points for need if at least one half of its requested amount falls within the pro rata need amount for that CoC. Thereafter, HUD proceeds further down the priority project list and awards 10 points for need to each project if at least one half of its requested amount falls within the “second level” of pro rata need amount for that CoC. The “second level” is the amount between the pro rata need and twice the pro rata need for the CoC. Remaining projects each receive 5 points. If the projects for the Continuum are not prioritized, then all projects will receive 0 points for Need.

In the case of competing Continuums from a single jurisdiction or service area, projects in the application that received the highest score out of the possible 60 points for CoC are eligible for up to 40 points under Need. Projects in the competing applications with lower CoC scores will receive 0 points under “Need.”

B. Reviews and Selection Process

1. Ranking

To review and rate applications, HUD may establish panels. In order to obtain certain expertise and outside points of view, including views from other Federal agencies, these panels may include persons not currently employed by HUD. Two types of reviews will be conducted—threshold review and selection factor rating. Applicant and Sponsor Eligibility as well as Project Eligibility and Project Quality are threshold reviews. These reviews are explained in Section III.C.2 of this program section of the SuperNOFA, which covers eligible applicants and projects. HUD will add the score for CoC to the Need score to obtain a total score for each project. The projects will then be ranked from highest to lowest according to the total combined score.

2. Conditional Selection and Adjustments to Funding

a. Conditional Selection. Whether a project is conditionally selected, as described in Section VI.A, will depend on its overall ranking compared to others, except that HUD reserves the right to select lower rated eligible projects in order to meet the 30 percent overall permanent housing requirement, as well as the 10 percent chronic homeless requirement. (See Section V.B.3 for additional selection information.)

When insufficient funds remain to fund all projects in the competition having the same total score, HUD will first fund permanent housing projects if necessary to achieve the 30 percent overall permanent housing requirement. HUD will then fund non-permanent housing, safe haven and transitional housing projects that predominantly serve individuals experiencing chronic homelessness in order to achieve the 10 percent chronic homeless requirement. HUD will then break ties among the remaining projects with the same total score by comparing scores received by the projects for each of the following scoring factors, in the order shown: Need, Overall CoC score, CoC Process and Strategy, CoC Gaps and Priorities, CoC Supplemental Resources, Housing Emphasis and Performance. The final tie-breaking factor is the priority number of the competing projects on the applicable CoC priority list(s).

HUD has determined that the Congressional goal of enhancing homeless data collection at the CoC level is best achieved by assisting CoCs seeking dedicated Homeless Management Information Systems (HMIS) to receive Supportive Housing funds. To this end, HUD reserves the right to fund lower rated eligible dedicated HMIS projects receiving 40 need points and at least 25 Continuum points for at least one year.

b. Adjustments to Funding: HUD has determined that geographic diversity is an appropriate consideration in selecting homeless assistance projects in the competition. HUD believes that geographic diversity can be achieved best by awarding grants to as many CoCs as possible. To this end, in instances where any of the 50 States, the District of Columbia, the Commonwealth of Puerto Rico, Guam, the Northern Mariana Islands, the Virgin Islands, and American Samoa does not have at least one funded CoC, HUD reserves the right to fund eligible project(s) receiving 40 Need points in the CoC with the highest total score in that jurisdiction. To qualify for funding, the total score for these first level projects on the CoC priority list must be at least 65 points. In the case of two or more CoCs with the same total score, HUD will use the tie-breaking rules described above. In addition, if the highest priority project passing threshold requirements within a CoC fails to meet the criteria for receiving 40 Need points, HUD reserves the right to reduce the total requested amount for that project to allow it to qualify for 40 Need points. If you do not submit clear project priority designations for the Continuum, or if HUD, at its sole discretion, cannot determine the CoC's priority designations, then HUD will give all projects 0 Need points. Finally, if the total amount that would be awarded for first level projects in a CoC exceeds the final pro rata need amount for that CoC by more than $100,000, the lowest priority first level project being selected for funding will be reduced to the amount necessary to ensure that the total sum being awarded for such projects does not exceed the final pro rata need amount by more than $100,000. HUD may otherwise adjust funding of applications in accordance with the provisions of the General Section of the SuperNOFA. In addition, HUD reserves the right to ensure that a project that is applying for, and eligible for, selection under this competition is not awarded funds that duplicate activities. If the geography included in your CoC strategy geographically overlaps to the extent that it competes with another application, projects within the CoC application that receive the highest CoC score will be eligible for up to 40 Need points. Projects in the competing CoC application with the lower CoC score will receive 0 need points. In no case will the same geographical area be used more than one time in assigning Need points. The local HUD field office can help you determine if any of the areas proposed for inclusion by your CoC system is also likely to be claimed under another CoC system in this competition.

3. Additional Selection Considerations. HUD also will apply the limitations on funding described below in making conditional selections.

a. Thirty Percent Permanent Housing Requirement. In accordance with the appropriation for homeless assistance grants in the Fiscal Year 2004 Appropriation Act for HUD, HUD will use not less than 30 percent of the total FY 2004 Homeless Assistance Grants appropriation, excluding amounts provided for renewals under the S+C Program, to fund projects that meet the definition of permanent housing. Projects meeting the definition of permanent housing for this purpose are:

(1) New and renewal projects under the SHP that are designated as either permanent housing for homeless persons with disabilities or Safe Havens projects designated as having the characteristics of permanent housing for homeless persons with disabilities, including leases with the program participants. All such permanent housing projects chosen for this purpose must have received at least 10 Need points, and must be submitted as part of a CoC application receiving at least 25 points under the CoC scoring factor. However, no CoC applicant may receive more than 30 percent of its pro rata need, up to $3 million, for “second-level” permanent housing projects assigned 10 Need points that are selected for funding under this procedure. (See Section V.A.2.b (3) for definition of “second-level”.) As stated above, HUD will award no less than 30 percent of the total FY2004 Homeless Assistance Grants appropriation, excluding amounts for S+C renewals, for permanent housing projects unless an insufficient number of approvable permanent housing projects are submitted. In order to meet this permanent housing funding requirement and stay within the total funding amount available, initially selected Supportive Service Only (SSO) and non-permanent housing projects will be deselected if necessary to add an adequate number of permanent housing projects, even if they are lower scoring housing projects. HUD will, if necessary, first proceed to de-select new SSO projects initially selected, starting with lowest scoring new projects and proceeding to higher scoring new SSO projects initially selected. If the funding line is still exceeded, HUD will proceed to de-select the lowest scoring new non-permanent housing projects initially selected and proceed to higher scoring new non-permanent housing projects. Finally, if the funding line is still exceeded HUD will proceed to de-select SSO and then other non-permanent housing renewal projects until all selected projects are within the funding line.

(2) New S+C projects; and

(3) SRO projects.

b. Ten Percent Housing for Chronic Homeless Requirement: This year, HUD has implemented an additional requirement that at least 10 percent of the appropriation must be awarded for projects predominantly serving individuals experiencing chronic homelessness. To be considered predominantly serving chronically homeless people, at least 70 percent of the persons served meet HUD's definition of chronic homelessness. Permanent housing, transitional and safe haven housing projects, whether new or renewal, that commit to predominantly serving persons experiencing chronic homelessness will be counted for this purpose. To meet this requirement, HUD will also include permanent housing projects selected for the 30 percent requirement that predominantly serve chronically homeless persons. S+C renewals will then be screened to count projects predominantly serving chronically homeless persons. If the 10 percent requirement is not yet met, permanent, transitional and safe haven housing projects below the funding line that predominantly serve chronically homeless persons will also be selected to achieve this requirement.

c. Distribution of Selections: In accordance with section 429 of the McKinney-Vento Act, HUD will award Supportive Housing funds as follows: not less than 25 percent for projects that primarily serve homeless families with children; not less than 25 percent for projects that primarily serve homeless persons with disabilities; and not less than 10 percent for supportive services not provided in conjunction with supportive housing. After projects are rated and ranked, based on the factors described above, HUD will determine if the conditionally selected projects achieve these minimum percentages. If not, HUD will skip higher-ranked projects in order to achieve these minimum percentages.

In accordance with section 463(a) of the McKinney-Vento Act, as amended by the Housing and Community Development Act of 1992, at least 10 percent of S+C funds will be awarded for each of the four components of the program: Tenant-based Rental Assistance; Sponsor-based Rental Assistance; Project-based Rental Assistance; and Single Room Occupancy (provided there are sufficient numbers of approvable projects to achieve these percentages). After projects are rated and ranked, based on the factors described above, HUD will determine if the conditionally selected projects achieve these minimum percentages. If necessary, HUD will skip higher-ranked projects in order to achieve these minimum percentages.

In accordance with section 455(b) of the McKinney-Vento Act, no more than 10 percent of the assistance made available for S+C in any fiscal year may be used for programs located within any one unit of general local government. In accordance with section 441(c) of the McKinney-Vento Act, no city or urban county may have SRO Section 8 projects receiving a total of more than 10 percent of the assistance made available under this program. HUD is defining the 10 percent availability this fiscal year as $10 million for S+C and $10 million for Section 8 SRO. However, if the amount awarded under either of these two programs exceeds $100 million, then the amount awarded to any one unit of general local government (for purposes of the S+C Program) or city or urban county (for the purposes of the Section 8 SRO Program) could be up to 10 percent of the actual total amount awarded for that program.

Lastly, HUD reserves the right to reduce the amount of a grant if necessary to ensure that no more than 10 percent of assistance made available under this program section of the SuperNOFA will be awarded for projects located within any one unit of general local government or within the geographic area covered by any one Continuum of Care. If HUD exercises a right it has reserved under this program section of the SuperNOFA, that right will be exercised uniformly across all applications received in response to this program section of the SuperNOFA.

4. Corrections to Deficient Applications. The General Section of the SuperNOFA provides the procedures for corrections to deficient applications.

VI. Award Administration Information

A. Award Notices

1. Action on Conditionally Selected Applications. HUD will notify conditionally selected applicants in writing. HUD may subsequently request them to submit additional project information, which may include documentation to show the project is financially feasible; documentation of firm commitments for cash match; documentation showing site control; information necessary for HUD to perform an environmental review; and such other documentation as specified by HUD in writing to the applicant, that confirms or clarifies information provided in the application. HUD will notify SHP, SRO, S+C and S+C/SRO applicants of the deadline for submission of such information. If an applicant is unable to meet any conditions for fund award within the specified timeframe, HUD reserves the right not to award funds to the applicant and add them to funds available for the next competition for the applicable program.

2. Applicant Debriefing: See the General Section of the SuperNOFA.

3. Appeals Process: Applicants may appeal the results of HUD's review and selection process if they believe a HUD error has occurred. Appeals must be in writing to the Assistant Secretary for Community Planning and Development and must state what HUD error the applicant believes has occurred.

B. Administrative and National Policy Requirements

1. Administrative Requirements

a. The Government Performance and Results Act (GPRA) require federal agencies measure the performance of their programs. HUD captures this information not only from monitoring visits and APRs, but also on the data gathered in annual competitions. For example, the description of methods used in determining the project priority order submitted in Exhibit 1, Form HUD-40076 CoC-K, Project Priorities Chart, provides verification that projects are performing satisfactorily and are effectively addressing the needs for which they were designed. HUD's homeless assistance programs are measured in 2004 by the objective to “end chronic homelessness and to move homeless families and individuals to permanent housing.” This objective has a number of measurable indicators, five of which relate directly to the Continuum of Care homeless assistance programs. These five indicators are:

(1) At least 360 CoC communities or 90 percent of our continuums will have a Homeless Management Information System (HMIS) in 2004. This information is collected via Exhibit 1, Form HUD-40076 CoC-J, HMIS;

(2) The number of persons experiencing chronic homelessness declines by up to 50 percent by FY2008. This information is captured in Exhibit 1, Form HUD-40076 CoC-I, Homeless Population and Subpopulations Chart;

(3) HUD's homeless programs will help at least 80,000 homeless persons move into permanent housing in 2004. Stability in this permanent housing is addressed in Exhibit 1, Form HUD-40076 CoC-M, CoC Project Performance;

(4) At least 180,000 homeless persons become housed in HUD-funded transitional housing with supportive services in 2004.The success of transitional housing is addressed in Exhibit 1, Form HUD-40076 CoC-M, CoC Project Performance; and

(5) At least 45,000 homeless persons become employed while in HUD's homeless assistance projects in 2004. Obtaining employment is addressed in Exhibit 1, Form HUD-40076 CoC-M, Participation in Mainstream Programs and Employment Chart.

b. To achieve this objective and each of these measurable indicators, HUD needs your community's help. The emphasis in this year's competition on housing chronically homeless persons, using HUD funds for transitional and especially permanent housing, helping clients access mainstream service programs and jobs, and implementing HMIS are all aligned with this GPRA objective and its performance indicators.

2. Sanctions. Should HUD determine, in its sole discretion, that sufficient evidence exists to confirm that the entity responsible for convening and managing the CoC process in a community has failed to follow locally established or accepted procedures governing the conduct of that process or has failed to provide for a fair process, including a project priority selection process that gives equal consideration to projects proposed by nonprofit organizations, HUD reserves the authority to impose sanctions up to and including a prohibition on that entity and the individuals comprising that entity from participating in that capacity in the future. In making this determination, HUD will consider as evidence court proceedings and decisions, or the determinations of other independent and impartial review bodies. This authority cannot be exercised until after a description of procedural safeguards, including an opportunity for comment and appeal, and the specific process and procedures for imposing a prohibition or debarment, have been published in the Federal Register.

C. Reporting

Once conditionally selected applications advance to full award and execution of a grant agreement, they will be required to submit an Annual Progress Report (APR) to both HUD Headquarters and the respective field office each year. The APR for HUD's competitive homeless programs provides information to HUD necessary for program monitoring and evaluation. A key element that has been recently added to the APR is measuring the incidence of chronic homelessness and your Continuum's progress in moving individuals into permanent housing. The process of gathering and analyzing the information needed to complete the APR also assists local projects with their own program evaluation. The APR is the mechanism used by HUD Headquarters and field offices to review the performance of funding recipients on an annual basis. The reports permit HUD to understand what types of clients are being served in its homeless assistance programs and what the programs' success rate is in helping homeless families and individuals achieve residential stability and increase their skills and/or incomes. For the SHP and S+C programs, the APR also reports to HUD the amount of local match that has been provided to fulfill statutory and regulatory requirements.

The Department has used the reports to monitor grant execution and to evaluate the eligibility of the population being served and housed, as well as the supportive services offered to the participants. The APR helps identify how effective the grantee has been in helping program participants achieve residential stability, greater self-determination, and increase skills or income which are our program goals and objectives. This also allows the grantee to revise or set goals for the next year.

VII. Agency Contacts

A. For Further Information. You may contact the HUD field office serving your area, at the telephone number shown in the General Section of the SuperNOFA, or you may contact the Community Connections Information Center at 800-998-9999 or by Internet at: http://www.hud.gov. Individuals who are hearing- or speech-impaired should use the Information Relay Service at 800-877-8339 (these are toll-free numbers).

B. For Technical Assistance. Before the application deadline, HUD staff will be available to provide you with general guidance. HUD staff, however, cannot provide you with guidance in actually preparing your application. HUD field office staff also will be available to help you identify organizations in your community that are involved in developing the CoC system. Following conditional selection of applications, HUD staff will be available to assist selected applicants in clarifying or confirming information that is a prerequisite to the offer of a grant agreement or Annual Contributions Contract by HUD. However, between the application deadline and the announcement of conditional selections, HUD will accept no information that would improve the substantive quality of your application pertinent to HUD's funding decision.

C. Satellite Broadcast. HUD will hold one or more information broadcasts via satellite for potential applicants to learn more about the program and preparation of the application. Viewing of these broadcasts, which will provide critical information on the application process, is highly recommended. For more information about the date and time of the broadcast, you should consult the HUD Web site at: http://www.hud.gov.

VIII. Other Information

A. This final section describes the attachments that are critical to the application process:

1. Forms and instructions to complete Exhibit 1, CoC. These include:

Form HUD-40076 CoC-A—2004—Application Summary

Form HUD-40076 CoC-B—Planning Process Organizations

Form HUD-40076 CoC-C—Goals and System Under Development

Form HUD-40076 CoC-D—Discharge Planning Policy

Form HUD-40076 CoC-E—Unexecuted Grants Chart

Form HUD-40076 CoC-F—Service Activity Chart

Form HUD-40076 CoC-G—Housing Activity Chart

Form HUD-40076 CoC-H—Housing Gaps Analysis Chart

Form HUD-40076 CoC-I—Homeless Population and Subpopulations Chart/Information Collection Methods

Form HUD-40076 CoC-J—Homeless Management Information System

Form HUD-40076 CoC-K—Project Priorities Chart/Information

Form HUD-40076 CoC-L—Enrollment and Participation in Mainstream Programs

Form HUD-40076 CoC-M—CoC Project Performance

Form HUD-40076 CoC-N—Use of Other Resources Chart

Form HUD-40076 CoC-O—Removal of Regulatory Barriers to Affordable Housing

Form HUD-40076 CoC-P—Project Leveraging Chart

2. Forms and instructions to complete Exhibit 2, SHP—New Projects. These include:

SF-424—For Grantees Only

Form HUD-40076 CoC-2A—Project Narrative

Form HUD-40076 CoC-2B—Project Information

Form HUD-40076 CoC-2C—Existing Facilities and/or Activities

Form HUD-40076 CoC-2D—Number of Beds, Participants, and Supportive Services

Form HUD-40076 CoC-2E—HMIS Budget

Form HUD-40076 CoC-2F—Operating Costs Chart

Form HUD-40076 CoC-2G—Leasing Information

Form HUD-40076 CoC-2H—Project Budget

Form HUD-40076 CoC-2I—Additional Key Information

Other attachments as needed

3. Forms and instructions to complete Exhibit 2R, SHP—Renewal Projects. These include:

SF-424—For Grantees Only

Form HUD 40076 CoC-2RA—Project Information/Project Budget

Form HUD 40076 CoC-2RB—Supportive Services Chart

Form HUD 40076 CoC-2RC—HMIS Budget

Form HUD 40076 CoC-2RD—Operating Costs Chart

Other Attachments as needed

4. Forms and instructions to complete Exhibit 3, S+C—New Projects. These include:

SF 424—For Grantees Only

Form HUD 40076 CoC-3A—S+C Component Comparisons

Form HUD 40076 CoC-3B—Project Narrative

Form HUD 40076 CoC-3C—Project Component/Information/Participant Count/Major Milestones

Form HUD 40076 CoC-3D—TRA Project Budget

Form HUD 40076 CoC-3E—SRA Project Budget

Form HUD 40076 CoC-3F—PRA Project Budget

Form HUD 40076 CoC-3G—SRO Project Budget

Form HUD 40076 CoC-3H—Additional Key Information

Other attachments as needed

5. Forms and instructions to complete Exhibit 3R, S+C Renewal Projects. These include:

SF424—For Grantees Only

Form HUD 40076 CoC-3RA—Project Narrative/Performance/Component/Information

Form HUD 40076 CoC-3RB—Participant Count

Form HUD 40076 CoC-3RC—S+C Renewal Budget

Form HUD 40076 CoC-3RD—S+C Renewal Budget/SRO Only

Form HUD 40076 CoC-3RE—Additional Key Information

Other Required Attachments

6. Forms and instructions to complete Exhibit 4, SRO—New Projects. These include:

SF424—For Grantees Only

Form HUD 40076 CoC-4A—Project Narrative

Form HUD 40076 CoC-4B—Experience Narrative/Project Information

Form HUD 40076 CoC-4C—Budget

Form HUD 40076 CoC-4D—PHA Certification

Form HUD 40076 CoC-4E—Additional Key Information

Other attachments as needed

7. Questions and Answers

8. Applicant Certifications

BILLING CODE 4210-32-P

Housing Opportunities for Persons With AIDS (HOPWA) Overview Information

A. Federal Agency Name: Department of Housing and Urban Development, Office of Community Planning and Development (CPD), Office of HIV/AIDS Housing.

B. Funding Opportunity Title: Housing Opportunity for Persons With AIDS (HOPWA).

C. Announcement Type: Initial announcement.

D. Funding Opportunity Number: The Federal Register number for this NOFA is: FR-4900-N-17. The OMB approval number for this program is 2506-0133.

E. Catalog of Federal Domestic Assistance (CFDA) Numbers: 14.241 Housing Opportunities for Persons With AIDS Program.

F. Dates: The application due date shall be on July 14, 2004, for the renewal of expiring HOPWA projects which provide permanent supportive housing. Refer to the General Section of the SuperNOFA for application submission, delivery, and timely receipt requirements.

G. Additional Overview Information:

1. Purpose of the Program: To provide states and localities with the resources and incentives to devise long-term comprehensive strategies for meeting the housing and related supportive service needs of low-income persons with Human Immunodeficiency Virus/Acquired Immunodeficiency Syndrome (HIV/AIDS) and their families. Grant recipients will measure client outcomes in how housing assistance results in creating or maintaining stable housing, reduces risks of homelessness and improves access to health-care and other needed support. States, units of general local government, and nonprofit organizations interested in applying for funding under this grant program should carefully review the General Section of the SuperNOFA and this detailed information listed in the program NOFA. There is no separate Application Kit for this Program NOFA.

2. Available Funds. Approximately $29,227,000 in FY2004 funds is available to renew grant agreements for Special Projects of National Significance and projects in areas that do not receive HOPWA formula allocations. Funds will be made available under this program NOFA for the renewal of expiring HOPWA grants which provide permanent supportive housing as described in this Program NOFA.

3. Eligible Applicants. States, units of general local government, and nonprofit organizations that meet the requirements established in this notice for the renewal of expiring permanent supportive housing projects may apply for HOPWA competitive funding under this Program NOFA.

4. Match. As a new requirement under this notice, requests for HOPWA funding for supportive service activities must be matched on a one-to-one dollar amount; see instructions for match under Section III(B).

5. Other Types of Projects. HUD will issue a separate Notice of Funding Availability at a later date for new projects and projects which continue non-permanent supportive housing efforts, if funding remains after the award of funds under this program NOFA. Funding opportunities may also exist through states and cities, which receive HOPWA formula funds.

6. Authorities. If you are interested in applying for funding under this program, please review carefully the General Section of the SuperNOFA and the following sections of this Program NOFA. For more information on the program itself including eligible uses of funds, see the HOPWA program regulations at 24 CFR Part 574 and the AIDS Housing Opportunity Act (42 U.S.C. 12901-12912), which govern the information contained in this Program NOFA.

Full Text of Announcement:

I. Funding Opportunity Description

A. Program Description for the Renewal of Permanent Supportive Housing Grants

Under the provisions of the Consolidated Appropriations Act, 2004 (Pub. L. 108-199, approved January 23, 2004) (FY2004 Appropriations Act), the Secretary is required to renew qualifying expiring contracts for permanent supportive housing projects. Grants funded under prior HOPWA competitions that meet the stated eligibility requirements below and meet all program requirements will be renewed by HUD. Applications will be reviewed on a pass/fail threshold review system and are not required to address the Departmental policy priorities described in the General Section of the SuperNOFA.

1. Definitions

a. Permanent Supportive Housing is defined as housing in which the eligible person has a continuous legal right to remain in the unit and which provides the eligible person on-going supportive services through qualified providers. HUD will consider a grant to be providing permanent supportive housing if 51 percent or more of HOPWA program activity funds are used: (1) To provide permanent housing where on-going supportive services are made available through other resources; (2) to provide supportive services where permanent housing is provided through other resources; (3) or some combination of these. Projects primarily offering transitional, or emergency housing options are not eligible under this notice.

b. Expiring Grant is defined by the end date in the grant agreement signed with HUD on the existing project, including any amendment or one-year extension approved by HUD, under which the existing grant agreement will expire in federal fiscal year 2004 (i.e., after October 1, 2003), or will expire within 18 months after the date of the publication of this notice).

B. Statutory and Regulatory Requirements

If you are interested in applying for funding under this program, please review carefully the General Section of the SuperNOFA and the following sections of this Program NOFA. For more information on the program itself including eligible uses of funds, see the HOPWA program regulations at 24 CFR Part 574 and the AIDS Housing Opportunity Act (42 U.S.C. 12901), which govern any information contained in this NOFA.

C. Availability of Other HOPWA Resources

1. Other Competitive Funds. HUD is not requesting applications for new projects or projects which would continue non-permanent supportive housing programs under this notice. HUD will issue a separate Notice of Funding Availability at a later date, if funding is available for additional projects, after the award of funds for the renewal of permanent supportive housing Grants.

2. Formula Allocations. You should also consider seeking funds from the formula component of the HOPWA program and from other resources. Ninety percent of the HOPWA program is allocated by formula to eligible states and qualifying cities. In FY2004, a total of $263,039,000 was allocated by formula to the qualifying cities for 79 eligible metropolitan statistical areas (EMSAs) and to 38 eligible states for areas outside of EMSAs and recipients must follow HUD's Consolidated Plan process. Information on consolidated planning, including HOPWA formula programs and descriptions of previously awarded competitive grants, is available on the HUD Web site at www.hud.gov/grants.

3. National HOPWA Technical Assistance. To apply for funding to serve as a provider of HOPWA technical assistance, you must submit an application for funds under the Community Development Technical Assistance (CDTA) part of the SuperNOFA. The CDTA notice makes available up to $2,485,000 in FY2004 funds in HOPWA funds to organizations qualified to provide technical assistance support to HOPWA grantees and project sponsors on a national or regional basis. Organizations seeking help in managing their HOPWA project, such as in planning, operating, reporting to HUD and evaluating HOPWA programs, can request TA help by contacting the state or area CPD office.

II. Award Information

A. Total

Through this program NOFA, approximately $29,227,000 in FY2004 funds is being made available for HOPWA awards for the renewal of permanent supportive housing projects.

B. Number and Timing of Awards

HUD anticipates that 24-28 projects will be renewed under this notice and that awards will be announced by August 31, 2004. It is expected that the selected projects will continue program activities under a new grant agreement for an additional three years, to begin following the completion or termination of their existing grant agreement.

C. Maximum Grant Award

In order to fairly distribute available funding, the maximum grant award that you may receive for your project is:

1. For program activities: $1,300,000 (e.g., activities that directly benefit eligible persons);

2. For grant administrative costs of the grantee: 3 percent of the awarded grant amount (e.g., an additional $39,000 if the maximum grant is awarded);

3. For grant administrative costs for project sponsors: 7 percent of the amounts received by the project sponsor under the grant (e.g., an additional $91,000 if the maximum grant is awarded);

4. For data collection on project outcomes: An additional $25,000; and

5. Total for maximum renewal grant amount: $1,455,000.

D. Average Grant Award

Based on the results of the 2003 HOPWA competition, the average grant award for the 28 grants selected was $1,056,000.

E. Restrictions

Funding restrictions are found in Section IV(E) of this Program NOFA.

III. Eligibility Information

A. Eligible Applicants

1. General Eligibility on Expiring Grants for Permanent Supportive Housing. Eligible applicants are states, units of general local government, and nonprofit organizations, which have been awarded funds under a previous HOPWA national competition and operated their project under a signed grant agreement with HUD. To be eligible, your project must provide permanent supportive housing to eligible persons under an expiring grant and meet the threshold requirements established under this program NOFA for your proposal to continue this project.

2. Additional Eligibility for Grants to Nonprofit Organizations. If you are a nonprofit organization, you must also continue to satisfy the nonprofit requirements established in the definition of eligible nonprofit organization found in 24 CFR 574.3. In the case that your nonprofit status has changed since the time of your original application to HUD under the prior competition, or, in the case that a nonprofit organization is being added to your continuing project in your application, you will also need to submit the related required information described in Section IV(B) of this program NOFA.

3. Additional Eligibility for Grants That Meet Program Requirements. To be eligible, you must be operating your existing project in a manner that meets program requirements. This is evidenced by having no unresolved grants management issues with your existing project, such as unresolved actions pending under a HUD notice of default on your current grant. This is evidenced by no unresolved problems or weak performance on your existing grant, during the active competitive period from the date of publication of this program NOFA until the selection of renewal applications. Unresolved problems may include HUD knowledge that planned activities remain significantly delayed in their implementation, a significant number of planned housing units are vacant, annual progress reports are not filed with HUD, or significant citizen complaints are unresolved or not responded to with justified reasons. Weak performance is also evident if more than 50 percent of grant funds remain recorded as unexpended as of the application due date for renewals under this program NOFA, as measured by reimbursements filed with HUD's financial system, PAS (Performance Accounting System).

B. Cost Sharing or Matching

A new requirement for this program NOFA is a matching of funds for supportive services. All applicants for HOPWA funds for renewal must document the commitment of other funds equal to or greater than the amount requested for supportive services. The list or chart of commitments should be attached to your application and must include: (1) The name of the organization or entity that will contribute match funds and if the organization will serve as a project sponsor; (2) describe the work to be accomplished, such as the type of supportive service activities to be undertaken to support the project; (3) the value of cash match contribution related to the HOPWA supportive service funding requested; and (4) a letter from the organization or entity confirming this commitment of resources. The Department expects to collect information in annual progress reports that the cash match funds are used, as committed, in undertaking the renewal project. Failure to evidence such use of the additional resources could result in a notice of default and affect the project's continued access to federal funds. Supportive service requests are also subject to funding restrictions found in Section IV(E) of this program NOFA.

C. Other Eligibility Requirements

1. Threshold Requirements

HUD will review your application to determine that you are eligible for renewal funding, as follows:

a. Eligible Applicant. (1) Your application is consistent with the requirements of Section III of this program NOFA for eligibility based on applicant requirements, project sponsors and the lack of any unresolved management issues; and

(2) Your application complies with the Dun and Bradstreet Data Universal Numbering System (DUNS) Number Requirement. Beginning in federal Fiscal Year 2004, any applicant seeking funding directly from HUD must obtain a DUNS number and include it in their SF-424 Application for Federal Assistance submission. Failure to provide a DUNS number can prevent you from obtaining an award. This policy is pursuant to OMB Policy issued in the Federal Register on June 27, 2003 (68 FR 38402). More information on the requirement of the DUNS Number can be found in the General Section of this NOFA.

b. Expiring Grants. Your application is consistent with the definition for a HOPWA expiring grant in Section I(A)(1) of this program NOFA.

c. Permanent Supportive Housing Projects. Your application is consistent with the definition for a HOPWA expiring grant in Section I(A)(2) of this program NOFA.

d. Eligible Project Sponsors. Your application is consistent with the requirements for eligibility of project sponsors, as follows:

(1) If the project sponsor is a nonprofit organization, that organization must also continue to satisfy the nonprofit requirements established in the definition of eligible nonprofit organization found in 24 CFR 574.3. In the case that the organization's nonprofit status has changed since the time of your original application to HUD under the prior competition, or, in the case that a nonprofit organization is being added to your continuing project in your application, you will also need to submit the related required information described in Section IV(B) of this program NOFA.

The project should also continue with the same project sponsors, as documented in the prior HOPWA application or amendments to that application as approved by HUD. HUD will consider the merits for changing a project sponsor as sufficient if the new sponsor evidences the capacity to enhance project operations or improve responsiveness to eligible persons. Such examples for changing a project sponsor may be that a new project sponsor has greater management, financial, or program service delivery capacity to conduct program activities or a prior project sponsor is no longer in operation, had evidence of inefficient or unresponsive behavior under their prior service, or has merged with another entity.

2. Program Requirements

a. General Provisions. The provisions outlined within the General Section of the SuperNOFA apply to the HOPWA program unless otherwise stated within this program NOFA. Specifically, you are encouraged to review, Section III(C)—Other: Requirements and Procedures Applicable to All Programs. The threshold requirements in the General Section of the SuperNOFA apply to the HOPWA program and applicants must meet all threshold requirements to receive funding.

b. Environmental Reviews. All HOPWA assistance is subject to the National Environmental Policy Act and applicable related federal environmental authorities. This year's NOFA is limited to the renewal of expiring HOPWA projects that provide permanent supportive housing. While most eligible activities, such as tenant-based rental assistance, supportive services, operating costs, and administrative costs, are excluded from environmental review because of the lack of environmental impact, some activities may require environmental review. In accordance with Section 856(h) of the AIDS Housing Opportunities Act, environmental reviews for HOPWA activities are to be completed by responsible entities (including units of general local government, states, Indian tribes, and Alaska Native villages) in accordance with 24 CFR part 58. Applicants or grantees that are not states or units of general local government must request the unit of general local government to perform the environmental review. This statutory provision was implemented in a recent final amendment of the HOPWA regulation at 24 CFR 574.510 (68 FR 56130, published on September 29, 2003). HOPWA grantees and project sponsors may not commit or expend any grant or nonfederal funds on project activities until HUD has approved a Request for Release of Funds (RROF) and environmental certification from the responsible entity (other than those listed in 24 CFR 58.22(f), 58.34 or 58.35(b) for which the responsible entity documents its findings of exemption or exclusion for the environmental review record (24 CFR 58.34 (b) or 24 CFR 58.35 (d)). The recipient, its project partners and their contractors may not acquire, rehabilitate, convert, lease, repair, dispose of demolish, or construct property for a project, or commit or expend HUD or local funds for such eligible activities, until the responsible entity (as defined in 58.2) has completed the environmental review procedures required by 24 CFR part 58 and the environmental certification and RROF have been approved. The expenditure or commitment of HOPWA or nonfederal funds for such activities prior to this HUD approval may result in the denial of assistance for the project under consideration. The recipient shall supply all available, relevant information necessary for the responsible entity to perform, for each property, any environmental review required.

c. Required HOPWA Performance Goals. Grant recipients must conduct activities consistent with their planned annual housing assistance output goals, objectively measure actual achievements against anticipated achievements and report on their actual outputs. Please use the Renewal Project Information Form, found in Appendix A, for recording your summary of proposed accomplishments on housing assistance outputs. Also please use the HOPWA Renewal Budget Form, found in Appendix A, for recording the funding for housing assistance activities that is associated with these outputs, including any funding request for HOPWA funds and/or your commitment to use other funds for this purpose. If other funds were used in your current grant to provide the permanent housing support, please establish your annual output targets for continuing this housing assistance at a similar level of housing activity. Applicants should also establish a reasonable client outcome goal to be quantified as a baseline after each year of operation to demonstrate client outcomes.

(1) Required Output. The projected number of households by type of housing units, to be provided through your project during each operating year.

(2) Required Outcome. Increase the amount of housing assistance and related supportive services to eligible persons to establish or maintain housing stability, reduce the risk of homelessness, and access health care, and other support for eligible persons.

d. Optional Program Performance Goals.

(1) Outputs. Your application for the HOPWA Program may include other measures or annual indicators, such as the projected numbers of persons, client contacts by service, the number of permanent housing client plans established by case managers, the number of jobs created through a job training or skills development program or other measures of the numbers to be served through each activity during each project operating year.

(2) Outcomes. In addition, the applicant may establish other outcome goals, such as: Increase the access to permanent housing for eligible persons to enable these households to become more self-sufficient as evidenced by increase in income or reduced need for housing or other subsidies and support; improve the neighborhood housing conditions in which low-income and homeless eligible persons and their families live, by promoting the development of housing that is safe, decent, and sanitary. Results may be evidenced by increases in property values, improved neighborhood security, home-ownership rates, or other measurable indicators that would describe evidence of neighborhood stability and increased investment. In addition, outcomes should also address the challenge of homelessness for persons living with HIV/AIDS and their families, including persons who are chronically homeless, by enabling them to move to permanent housing with appropriate supportive services assistance. Results may be measured in coordination with measures used by the area's homeless assistance efforts, such as decreases in the number of chronically homeless individuals in the community.

e. HUD Logic Model. To illustrate the planning for the use of resources, project activities, outputs, outcomes, and goals please use the Logic Model (Form HUD-96010) in the General Section of the SuperNOFA to meet these application requirements. Applicants must make use of the required elements in paragraph (a) in this form.

3. Eligible Activities

a. Renewal Guidelines on Eligible Activities.

(1) The activities to be renewed must be on-going forms of support over three years, such as rental assistance and short-term rent, mortgage, and utility payments which establish or maintain stable permanent housing, reduce current resident's risks of homelessness, and improves eligible persons' access to health care and other needed support. The permanent supportive housing may also help maintain the client's current residence, establish a new residence, or provide operating costs for housing facilities, leasing of housing facilities, related supportive service costs, housing information services, resource identification activities, and technical assistance related to community residences. Housing information services and permanent housing placement services may also be used in order to assist beneficiaries in moving to other permanent housing, such as outplacement to independent living arrangements, homeownership, or other on-going housing, which do not involve HOPWA funds.

(2) Operating costs for permanent supportive housing facilities that involved the use of funding for its acquisition, new construction or rehabilitation in the prior or original grant, will be eligible to maintain the operation of these projects over the term of the renewal grant.

(3) Administrative costs for grantees and project sponsors and funds for data collection on project outcomes is available as part of your renewal budget request. HUD expects that the use of data collection funds will help to ensure strong program management and result in accurate reporting on the provision of planned housing assistance outputs and related client outcomes in achieving housing stability, reduced risks of homelessness and improved access to health-care and other support for beneficiaries.

b. General Guidelines on Eligible Activities. In addition to the above, eligible activities with their standards and limitations may be found in the HOPWA regulations at 24 CFR 574.300-340. A copy of the regulations may be downloaded from http://www.hud.gov/offices/cpd/aidshousing/lawsregs/index.cfm. You are encouraged to review the HOPWA regulations before seeking funding.

(1) Housing Assistance. Your renewal project must clearly address the permanent supportive housing needs of eligible persons. If you are proposing to continue some level of emergency or transitional housing assistance, your plan must include linkages to the provision of permanent supportive housing and show that the permanent supportive housing activity is the primary activity of your grant.

(2) Supportive Services. Many of the eligible persons who will be served by HOPWA may need services in addition to housing. It is important that you design programs which enhance access to those needed services, including access to existing mainstream resources of health-care, AIDS drug assistance, and other services funded through the Ryan White CARE Act or other federal, state, local, or private funds. To the extent possible, HUD encourages projects to incorporate mainstream resources into their project plans to maximize the benefit of requested HOPWA funds. Mainstream resources may include private, other public, and mainstream services and housing programs that provide benefits to eligible persons. Applicants are encouraged to create community wide strategies to coordinate assistance to eligible persons through these mainstream programs. These mainstream programs include Medicaid, Children's Health Insurance Program, Temporary Assistance for Needy Families, Food Stamps, and services funded through the Mental Health Block Grant and Substance Abuse Block Grant, Workforce Investment Act, and the Welfare-to-Work grant program. While HUD recognizes that there are many ways to ensure that eligible persons receive the services they need, to the extent possible, HUD encourages you to operate housing programs which do not require participation in services as a part of your or your project sponsor's tenancy requirements. Additional restrictions and limitations that apply to supportive services such as health care costs can be found in the program regulations at 24 CFR 574.300.

(3) Other Approved Activities. You may propose to continue other activities in your application based on HUD's prior approval of this activity under your current grant. Such other activities have included shallow rent subsidy programs and homeownership efforts. Please discuss the beneficial impact of these alternative activities in addressing housing needs of eligible persons in your application.

(4) Project Outcome Funding. You must request funding to conduct data collection on project outcomes to support accurate reporting to HUD on the performance outputs and outcomes of your service delivery model. Project outcome activities include:

(a) Defining monitoring questions that will be addressed and examined during the project period;

(b) Specifying additional measures, in addition to the use of standard HOPWA output and outcome measures, for your project as incorporated in the standard logic model.

(c) Developing instruments to assess project outcomes and systems outcomes;

(d) Training project staff in the collection of data, including the preparation of the standard HOPWA Annual Progress Report to HUD;

(e) Using Management Information System (MIS), including coordinating assistance for persons who are homeless and persons who are chronically homeless in collaboration with area Homeless Management Informative System (HMIS) efforts under the area's Continuum of Care;

(f) Monitoring data collection activities to assure that submissions are complete and accurate, including data coding and entry;

(g) Summarizing and analyzing data collected in an effort to identify project baseline data on outcomes and any statistical trends to determine program effectiveness for the clients served;

(h) Participating in HUD-sponsored collaborations and HUD-designated training events in order to prepare and disseminate the findings of reports on project accomplishments and lessons learned; and

(i) Applicants may include an expert third-party to conduct project outcome activities, but grantees are encouraged to train staff internally. Such training will increase the internal capacity of your organization and your partner organizations by learning how to make use of project outcome data in operating and adjusting assistance provided to eligible persons.

4. Ineligible Renewal Activities

Funds for acquisition, new construction or for rehabilitation costs will not be renewed. These capital development activities are not ongoing or available for additional sites. If you wish to undertake additional capital development activities or to add funding for new activities, such as operating costs and services, you must apply under a separate notice that will be issued by HUD, if funds remain available.

IV. Application and Submission Information

A. Addresses To Request Application Package

For Applications. All information required to complete and return a valid application is included in the General Section and this program NOFA of the SuperNOFA, including appendices. Copies of the General Section, this program NOFA, and appendices, including the application, are available and may be downloaded from http://www.grants.gov. If you are unable to download any of the materials in the SuperNOFA, program NOFA and its appendixes, please call the SuperNOFA Information Center at 800-HUD-8929 (800-483-8929) for a copy of the General Section and this program NOFA of the SuperNOFA. Persons with hearing or speech challenges may access the above number via TTY (text telephone) by calling the Federal Information Relay Service at 800-877-8339 (this is a toll-free number).

B. Content and Form of Application Submission

Applicants are requested to submit the following information:

1. Application for Federal Assistance (Form SF-424). You should complete this form and include these responses, as applicable, for items 1 through 18:

—Item 7—The applicable letters are “A” for state; “B, C, or D” for a unit of local government; or “O” for Nonprofit;

—Item 9—Enter U.S. Department of Housing and Urban Development or HUD if not preprinted;

—Item 10—Enter 14-241 and the title “Housing Opportunities for Persons With AIDS Program” or “HOPWA” for the Catalog of Federal Domestic Assistance;

—Item 15—You must complete the budget on page 1 and the HOPWA Renewal Project Budget Form. Please make sure that both the Total Amount on page 1 and the “Total Budget” section on the HOPWA Renewal Project Budget Form are the same. In the event that the total budgets are in conflict, HUD will refer to the HOPWA Project Budget form.

—Item 16—Check “No”.

2. Executive Summary and Synopsis. On no more than five double spaced pages, please provide an Executive Summary of the proposed renewal project, beginning with a two to three sentence synopsis of the focus or special purposes of your project. The summary should provide an overview of the main components of your planned HOPWA project, including any updated elements from the original project application. In the Executive Summary, please provide the name of the grantee and any project sponsors, along with contact names, phone numbers, and e-mail address.

3. HOPWA Renewal Project Information Form (see Appendix A). Complete the form including the following:

a. Project Sponsor. You must identify any organization that will receive HOPWA funds as a project sponsor and the amount of funds to be received.

b. Service Areas. Your application must identify the area(s) in which you are proposing to continue to provide housing, related supportive services and other assistance.

c. Planned Results. The form should summarize your proposed accomplishments in annual housing assistance outputs and the number of persons expected to be assisted for each year of the expected three-year operating period. As described in Section VI(C), the grantee is expected to report on client outcomes in achieving housing stability, reduced risks of homelessness and improved access to health-care and other needed support and an Outputs and Outcomes Worksheet is provided for informational purposes in developing your evaluation plans.

4. Organizational Capacity Narrative. If a new project sponsor(s) is added to the proposal, please describe the capacity of the project sponsor(s) to conduct program activities and attach to your application the documentation of the organization's nonprofit status and HIV/AIDS purposes, as described in Section III(A) on eligibility. Please provide this narrative information on no more than two double-spaced typed pages. If you are adding more than one project sponsor, you may include up to two additional pages per project sponsor. In your statement, please address the extent to which the project sponsor(s) have the past organizational experience and knowledge: In serving persons with HIV/AIDS and their families; in programs similar to those proposed in your application; in monitoring and evaluating program performance and disseminating information on project outcomes; and, in achieving the purpose for which funds were provided, as measured by expenditures and measurable progress in operating the project. In the case that your nonprofit status has changed since the time of your original application to HUD for which you were selected for funding, or, in the case that a nonprofit organization is being added to your continuing project in your application, you will also need to submit the related required information to establish that you are an eligible nonprofit organization and that your organizational documents include a purpose of significant activities related to providing services or housing to persons with HIV/AIDS. Please submit these items listed below.

a. We will accept as evidence of your nonprofit status:

(1) A copy of the Internal Revenue Service (IRS) ruling providing tax-exempt status under Section 501(c)(3), (4), (6), (7), (9) or (19) of the IRS code; or

(2) A ruling from the Treasury Department of the Commonwealth of Puerto Rico granting income tax exemption under section 101 of the Income Tax Act of 1954, as amended (13 LPRA 3101); or

(3) Documentation that the applicant is a certified United Way agency; or

(4) Copy of your most recent completed tax statement, Form IRS-990 or Form 990-EZ; or

(5) All of these:

(a) A certification by the appropriate official of the jurisdiction under whose laws the nonprofit was organized that your organization was so organized and is in good standing;

(b) A certification from a designated official of the organization that no part of the net earnings of the organization inures to the benefit of any member, founder, contributor, or individual; that the organization has a voluntary board; and that the organization practices nondiscrimination in the provision of assistance in accordance with applicable program requirements; and

(c) An opinion letter from an independent public accounting (IPA) firm that the nonprofit has a functioning accounting system that provides for each of these (the letter must mention all of them).

(i) Accurate, current, and complete disclosure of the financial results of each federally funded project;

(ii) Records that identify adequately the source and application of funds for federally funded activities;

(iii) Effective control over and accountability for all funds, property and other assets;

(iv) Comparison of outlays with budget amounts;

(v) Written procedures to minimize the time elapsing between the transfer of funds to the recipient from the U.S. Treasury and the use of funds for program purposes;

(vi) Written procedures for determining reasonableness, allocable, and allowable costs; and

(vii) Accounting records including cost accounting records that are supported by source documentation.

b. We will accept as evidence of your organization's HIV/AIDS-related purpose, a copy of the organization's articles of incorporation and by-laws, mission statement, program management plan, or other organizational policy document which evidences the organization's activities or objectives related to providing services or housing to persons with HIV/AIDS.

5. Provision of Current Permanent Supportive Housing Narrative. On no more than four double-spaced pages, demonstrate how your project provides permanent supportive housing through HOPWA and other resources, and report on how the project has been meeting housing assistance outputs compared to planned and approved number of households or units of housing under the current grant. Include the type of assistance and number of housing units being provided and a description of the supportive services provided. Additionally, your description should outline how HOPWA and other funding, if applicable, work together to provide permanent supportive housing, including any efforts that have helped clients achieve greater self-sufficiency through access to other on-going housing options, which do not depend on HOPWA funds. Describe how your project has been meeting planned performance benchmarks, as appropriate, in program development and operation; in meeting project performance goals, such as, that the number of persons assisted is comparable to the number that was planned at the time of the application; and in expending funds consistent with the existing agreement with HUD. Also describe how you evaluated project data on performance, adjusted program activities and shared information that you have gained from your lessons learned on these past activities.

6. Need for Renewal Chart. Additionally, you should complete the HOPWA Need for Renewal Chart, which demonstrates that your prior grant agreement with HUD will expired in federal fiscal year 2004 or will expire within eighteen months of the date of publication of this notice. You must complete the HOPWA Need for Renewal Chart (Appendix A).

7. Achieving New Results and Program Evaluation Narrative. On more than three pages identify the housing benefits or outcomes of your renewal program including your activities, benchmarks, and performance output indicators over the next three grant operating years. Your application should address your evaluation plan or your method for collecting data on HUD program measures to evidence achievement of your project's goals and objectives and to establish a baseline for client outcomes. You should also complete and attach to your application the Logic Model (Form HUD-96010) found in the General Section of the SuperNOFA, to illustrate you plans for the use of resources, project activities, outputs, outcomes, and goals.

8. HOPWA Renewal Budget Form. Please complete the HOPWA Renewal Budget Form (see Appendix A), which will provide a summary of the total budget for this project, the annual HOPWA amounts to be used in each of the three years of operations and description budget by project sponsor of the HOPWA funds to be used by each sponsor. You must provide a description of each of your requested budget line items and how the funds will be used, including the amount of requested funding by line item for you and your project sponsors.

9. Documentation of Match for Supportive Services. If your project requests funding for supportive services, you must match the HOPWA amount with evidence of commitments from other state, local, federal, or private resources to provide the housing or supportive services. You must document that such assistance will be provided throughout the term of the renewal grant. In your application, provide a list or chart of the commitments and include: (1) The name of the organization or entity that will contribute match funds and if the organization will serve as a project sponsor; (2) describe the work to be accomplished, such as the type of supportive service activities to be undertaken to support the project; (3) the value of cash match contribution; and (4) attach a letter from the organization or entity confirming this commitment of resources

10. Statutory Certifications. HOPWA applicants are not required to provide the forms, certifications, and assurances listed in the General Section of the SuperNOFA unless stated below. The following certifications must be included with your application. All certifications and forms, except those found in the General Section of the SuperNOFA, are included in the appendix in this program NOFA.

a. Certifications found in the General Section of the SuperNOFA

(1) Consolidated Plan Certification (HUD-2991). Except as stated below, you must include a Consolidated Plan certification from the applicable state or local government official responsible for submitting the appropriate plan. If your project will be carried out on a national basis or will be located on a reservation of an Indian tribe, or in one of the U.S. Territories of Guam, the Virgin Islands, American Samoa, or the Northern Mariana Islands, you are not required to include a Consolidated Plan certification with your application. The authorizing official from the state or local government must sign this certification.

(2) Assurances and Certifications (HUD-424 B).

(3) Consistency with the RC/EZ/EC Strategic Plan (HUD-2990)—if applicable to the service area of your project.

(4) Applicant/Recipient Disclosure/Update Report (HUD-2880).

(5) Disclosure of Lobbying Activities (SF-LLL).

b. HOPWA Applicant Certifications (see Appendix A of this program NOFA—one form).

(1) Fair Housing and Non-Discrimination for the HOPWA Eligible Population;

(2) Environmental Law and Authorities; and

(3) HOPWA Facility Use Periods.

C. Submission Dates

Application Due Date. Your completed applications (an original and one copy to HUD Headquarters and one additional copy to the CPD Division of HUD's state or area office that supports the applicants' project area) are due on July 14, 2004. Failure to meet this due date will make any application for renewal funding ineligible for funds to be awarded under this program NOFA. Please follow standards for the submission of your application which are established in the General Section of the SuperNOFA.

D. Intergovernmental Review

The HOPWA program is not subject to Executive Order (EO) 12372, Intergovernmental Review of Federal Programs.

E. Funding Restrictions

As an applicant for renewal funding, you must specify the annual amount needed to continue each activity for each of the planned three years if continuing operations or specify the number of years and related amounts for your request. HUD will review your application to determine the amount of approved funds, as follows:

1. Your request for funding is consistent with the following limitations on maximum grant amounts:

a. For program activities: A maximum of no more than $1,300,000 (e.g., activities that directly benefit eligible persons), subject to the limitations in this section;

b. For grant administrative costs of the grantee: A maximum of no more than an additional $39,000, subject to the limit on administrative costs of three percent of the amount requested for project activities in your application for grantees.

c. For grant administrative costs for project sponsors: A maximum of no more than an additional $91,000, subject to the limit on administrative costs of seven percent of the amount requested for project activities to be conducted by project sponsors in your application.

d. For data collection on project outcomes: A maximum of no more than an additional $25,000 for the purpose of the collection of data on program housing assistance outputs and client outcomes;

e. Total for maximum renewal grant amount: $1,455,000, subject to applicable limitations in this section and if funds are requested for a term of less than three years, HUD reserves the right to reduced these amounts in a proportionate manner.

2. Your request for the supportive services line item in program activities is consistent with the program limit of not more than 35 percent of the maximum program activity costs, (i.e., not more than $455,000 over a three-year period), and any such costs must be matched with other resources consistent with the requirements of Section III of this program NOFA.

3. Your request for the technical assistance for the community residences and resource identification activities line item in program activities is consistent with the program limit of not more than 5 percent of the maximum program activity costs, (i.e., not more than $65,000 over a three-year period).

4. Your request for program activity costs does not include a request for funds for acquisition, new construction, or for rehabilitation costs, or costs involving new housing facility sites, such as operating costs or leasing. These capital development activities are not on going and funds for additional facility sites are not being made available.

5. Your request for program activity costs requests amounts for continuing a previously approved project at about the same level of housing and/or services provided in the previous grant. The amounts must not be more than 120 percent of the amount awarded or approved by HUD in the current grant for an activity, including any amendments affecting this amount that were approved by HUD, prior to the publication of this program NOFA, except as provided in paragraph (6).

6. A reasonable amount of funds may be requested which exceed the limits of paragraph (5) in the case that:

(a) A permanent supportive housing project in which acquisition, new construction, or rehabilitation were the major components of the original project; or

(b) A project that was selected by HUD but the amount was reduced due to the lack of available competitive funds (i.e., the amount was not reduced due to an applicant's mathematical errors or for deletion of ineligible activities).

The renewal application may establish a three-year budget for the annual on going housing, operating and related supportive services costs to maintain these permanent supportive housing projects based on the scope of their previously approved project or their application, as adjusted under Subsection

(c). The amount requested must be based on information for the current costs for operating the project but the request may not exceed the other limits established in paragraphs (1) through (4) above. HUD reserves the right to adjust requests under this paragraph to the scale of projects of similar size and purpose.

7. HUD will not approve proposals that depend on future decisions on how funds are to be used, for example, a proposal to establish a local request-for-proposal process to select activities or project sponsors.

F. Other Submission Requirements

Where and How to Send Your Application. Your completed application shall consist of an original signed application and two copies. Submit the original application and one copy to: HUD Headquarters; Robert C. Weaver Federal Building; 451 Seventh Street, SW., Room 7251; Washington, DC 20410; Attn: HOPWA. Submit the additional one copy of your application to the CPD Division of the state or area office that serves the area in which activities are proposed. For multi-state efforts, you must submit the copy of your application to the field office that serves your main office. See the General Section of the SuperNOFA for addresses for area HUD state or area offices. When submitting your applications, please refer to HOPWA, and include your name, mailing address (including zip code), facsimile, email, and telephone number (including area code). For more information see the General Section of the SuperNOFA for specific procedures governing the form of application submission (e.g., mailed applications, express mail, or overnight delivery).

V. Application Review Information

A. Criteria

1. General. HUD will conduct a threshold review of all renewal applications based on the requirements found under Section III. (C)(1) to determine eligibility for the renewal of HOPWA grants that provide permanent supportive housing under an expiring grant.

2. Criteria on New Sponsors. In the case that a project sponsor is being added, HUD will also conduct a substantive review of project capacity under the following criteria:

a. HUD will review the project sponsor's ability to develop and operate your proposed program as a pass/fail review based on the requirements for an eligible project sponsor established in Section III and on a substantive review under this section. With regard to new project sponsor(s), HUD will consider the organization's past experience and knowledge: in serving persons with HIV/AIDS and their families; in programs similar to those proposed in your application; in monitoring and evaluating program performance and disseminating information on project outcomes; and in achieving the purpose for which funds were provided, as measured by expenditures and measurable progress in operating the project. A proposed sponsor, that fails to meet the conditions established for adding a sponsor or fails to demonstrate sufficient capacity will be ineligible to receive program funds.

b. In reviewing the elements of organizational capacity as stated above, HUD will rate the proposed sponsor on the basis of 20 points, with a minimum of 14 points required for selection of this sponsor as eligible in demonstrating sufficient capacity. HUD will consider the extent to which your proposal demonstrates the following capacity, and award the highest points (20 to 16 points) to those with direct, extensive, clear and satisfactory experience, moderate scores (15 to 10 points) to those with direct but not as extensive experience or where the experience covers most but not all of these items; and lower scores (9 to 2 point) if the experience is limited, indirect on only some of the items or for which only limited or no information is provided. An organization with unresolved management issues affecting their HOPWA proposal will be scored at the lowest level (1 point):

(1) The knowledge and experience of the proposed project director and staff, including the day-to-day program manager, consultants, and contractors in planning and managing the kind of activities for which you are requesting funds. The project sponsor will be reviewed in terms of recent, relevant, and successful experience of staff to undertake eligible program activities, including experience and knowledge in serving low-income persons with HIV/AIDS and their families.

(2) The project sponsor's experience in managing complex interdisciplinary programs, especially those involving housing and community development programs directly relevant to the work activities proposed and carrying out grant management responsibilities.

(3) If the project sponsor received funding in previous years in the program area for which you are currently seeking funding, the sponsor's past experience will be reviewed in terms of its ability to attain demonstrated measurable progress in the implementation of the grant award. Measurable progress is defined as: meeting performance benchmarks, as applicable, in program development and operation; meeting project goals and objectives, such as, that the number of persons assisted was comparable to the number that was planned at the time of application; submitting timely performance reports; and expending prior funding as outlined in the prior proposal with no outstanding audit or monitoring issues.

B. Reviews and Selection Process

1. Selection of Renewal Applications. To the degree that funds are available, the Department will select for funding all renewal requests from applicants that meet program requirements and pass a threshold review for a need for renewal. HUD will also review requests and adjust funding consistent with funding restrictions found in Section IV. (E). If the amount of the approvable request for renewal activities for all eligible applicants is greater than the amount made available by this notice, HUD will select all of the approvable applications and allocate awards to each based on a pro rata reduction to the amount available under this notice. This action will help to ensure that all eligible and performing renewal grants receive funding that allows their continued operation.

2. HUD Reviews. HUD staff will conduct this review, including staff from Headquarters' Office of HIV/AIDS Housing and in HUD's state and area field offices.

3. Policy Priorities. Applicants seeking renewal funding under this program NOFA are not required to address HUD's policy priorities. Applicants are encouraged to review and voluntarily address relevant HUD's policy priorities as outlined in the General Section of the SuperNOFA. Please note in your application if you undertake any of this optional program effort.

C. Anticipated Announcement and Award Dates

The anticipated announcement of the FY2004 HOPWA renewal awards is no later than August 31, 2004.

VI. Award Administration Information

A. Award Notices

1. Applicant Notification. HUD will notify the eligible applicants of their selection for award or non-selection by letter to be mailed to the applicant's authorized official and the address provided in your application. The CPD Division of HUD's state or area office will provide a second letter with a copy of a proposed grant agreement along with instructions on any adjustments to the grant amount requested and other conditions identified during the review for conducting planned activities and on the close out of the current grant. After the issuance of the selection notice letter, a grantee may be eligible for pre-award costs if necessary to continue delivery of the project activities. Such costs are subject to the recipient's own risk and other limitations, and require HUD approval to incur pre-award costs.

2. Applicant Debriefing. Applicants requesting to be debriefed must send a written request to: U. S. Department of Housing and Urban Development; Attention: Office of HIV/AIDS Housing; 451 Seventh Street, SW., Room 7212; Washington, DC 20401-7000. Telephone number is (202) 708-1934. Persons with hearing or speech challenges may access the above number via TTY (text telephone) by calling the Federal Information Relay Service at 800-877-8339 (this is a toll-free number). Additional information regarding debriefing can be found in the General Section of the SuperNOFA.

B. Administrative and National Policy Requirements

1. Grant Purposes and Agreements to Operate Eligible Permanent Supportive Housing Grants

Subject to penalties for false representation, and as a requirement for the receipt of these federal funds, the grant applicant agrees to maintain project eligibility and related documentation on the following:

a. Agreement to Continue the Provision of Permanent Housing. In applying for these renewal funds, your application constitutes an agreement that you will continue to provide permanent supportive housing support to HOPWA eligible persons over the operating period of this grant. This agreement must insure that at least 51 percent of the HOPWA program activity funds awarded to your grant are used for this purpose and any new funds and related commitment of other funds will continue to provide permanent supportive housing to eligible persons for the planned annual outputs. These output goals will be established in your application by recording your summary of proposed accomplishments on housing assistance outputs for each of the planned three years of operation. The output goals were established in connection with the plan for funding the housing assistance activities, including any funding request for HOPWA funds and/or your commitment to use other funds for this purpose. If other funds were used in your current grant to provide the permanent housing support, your application will establish your annual output targets for continuing this housing assistance, as addressed in the next paragraph. To determine whether your grant continues to meets this purpose, you may also adapt the use the Permanent Supportive Housing Worksheet found in the appendix. Failure to maintain this project purpose would constitute a grant default.

b. Agreement to Continue the Use of Other Resources. If your project has relied on other state, local, federal, or private resources to provide the permanent housing or supportive services portion of your project, you must agree to ensure that the other resources will continue to be available for that purpose throughout the term of the renewal grant. The continuing assistance must be substantially similar to the type or resources, which were documented within the original application to HUD (including any amendments approved by HUD and renewals), and the continuing resources will be used in conjunction with requested HOPWA funds. As a new requirement in 2004, the application must demonstrate commitments that match or exceed the amount of HOPWA funds requested for supportive services. See instruction under Section III. (B) for match requirements. Failure to maintain this project use of other resources would constitute a grant default.

c. Agreement to Evidence of Permanent Client Occupancy. Except for funds used for short-term mortgage, rent and utility payments, you must agree to maintain evidence that the client has a continuous legal right to remain in the unit or property and has access to on-going supportive services provided through qualified providers. You must include in your grant files a copy of the standard lease form or occupancy agreement used for residents of the project. The lease or occupancy agreement must be for a term of at least one month. The lease or occupancy agreement must also be automatically renewable upon expiration, except on reasonable prior notice by either the tenant or the landlord. The requirements governing termination of housing are located in 24 CFR 574.310(e). Failure to maintain this project documentation of the client's lease or occupancy agreement would constitute a grant default.

2. Performance Benchmark Requirements. All grantees receiving funds under this program NOFA are expected to meet the following benchmark requirements and operate activities in a consistent and on going manner over the expected three-year operating period. If a selected project does not meet the appropriate performance benchmark, HUD reserves the right to cancel or withdraw the grant funds.

a. Execution of Grant Agreement. Selected applicants must execute grant agreements, as soon as practicable but no later than six months after the notice of selection. HOPWA grants are obligated upon grant execution and the FY2004 Appropriations Act requires HUD to obligate funds by no later than September 30, 2005.

b. Disbursement of Funds. Grantees receiving awards under this program NOFA should fully expend their grant in a consistent and on going manner and complete the use of the funds by no later than three years following the effective date or the operation start date in the grant agreement. As a vehicle constraint on funding, the National Defense Authorization Act for Fiscal Year 1991 requires expenditure of all HOPWA funds awarded under the FY2004 Appropriations Act by September 30, 2010. After September 30, 2010, any unexpended funds (whether obligated or unobligated) shall be canceled and, thereafter, shall not be available for obligation or expenditure for any purpose.

3. Affirmatively Furthering Fair Housing. See Section III.C. of the General Section of the SuperNOFA for the information on how to meet this requirement.

4. Local Resident Employment (Section 3 Requirements). For grants in excess of $200,000, to the extent that grant funds are used for housing rehabilitation (including reduction and abatement of lead-based paint hazards, but excluding routine maintenance, repair, and replacement) or housing construction, the activity is subject to Section 3 of the Housing and Urban Development Act of 1968 and the implementing regulations at 24 CFR part 135. Section 3 requires recipients to ensure that training, employment, and economic opportunities shall, to the greatest extent feasible, will be directed to low- and very low-income persons, particularly those who are recipients of government assistance for housing, and to businesses that provide economic opportunities for these persons (also see Section III.C.4.c. of the General Section of the SuperNOFA).

5. Executive Order 13202, Preservation of Open Competition and Government Neutrality Toward Government Contractor's Labor Relations on Federal and Federally Funded Contract Project. See Section III.C. of the General Section of the SuperNOFA for the information on how to meet this requirement.

6. Procurement of Recovered Materials. See Section III.C. of the General Section of the SuperNOFA for the information on how to meet this requirement.

C. Reporting

1. Measuring Performance. You must report after each year of operation on the annual accomplishments of your projects under the HOPWA Annual Progress Report (form HUD-40110-B), including the required performance measures described in Section III. (C)2, including reporting on client outcomes in achieving housing stability, reduced risks of homelessness, and improved access to health-care and other needed support. See the Outputs and Outcomes Worksheet in attachment A to be used for informational purposes in developing your evaluation plans. HUD will use these reports and information obtained from HUD financial systems, along with any remote or on-site monitoring, to measure your progress and achievements in evaluating your performance on your HOPWA grant.

2. Beneficiary Information. HUD requires that funded recipients collect racial and ethnic beneficiary data. It has adopted the Office of Management and Budget's Standards for the collection of Racial and Ethnic Data. In view of these requirements, you should use one of the following:

• HUD-27061, Racial and Ethnic Data Reporting Form (instructions for its use) found on http://www.HUDclips.org;

• A comparable program form (HOPWA—Annual Performance Report (APR) form); or

• A comparable electronic data system for this purpose.

VII. Agency Contacts

A. For Further Information and Technical Assistance (TA)

You may call the HUD field office serving your area (find the telephone number on HUD's Web site: www.hud.gov/offices/cpd/about/local/index.cfm) or you may contact the Office of HIV/AIDS Housing, HUD at (202) 708-1934. HUD staff may assist with program questions, but may not assist in preparing your application. Persons with hearing or speech challenges may access the above number via TTY (text telephone) by calling the toll-free Federal Information Relay Service at 800-877-8339.

B. Seeking Technical Assistance (TA) in Developing a HOPWA Application

HOPWA TA providers may not provide technical assistance in the drafting of responses to HUD's NOFA due to the unfair advantage such assistance gives to one organization over another. If HUD determines that HOPWA technical assistance has been used to draft a HOPWA application, HUD reserves that right to reject the application for funding. If, after your application has been selected for an award, HUD determines that HOPWA technical assistance was used to draft your application, the award will be withdrawn and you may be liable to return to HUD any funds already spent.

C. Satellite Broadcast

HUD will hold information broadcasts via satellite for potential applicants to learn more about the program and preparation of the application. For more information about the date and time of the broadcast, you should consult the HUD Web site at http://www.hud.gov/grants.

VIII. Other Information

Paperwork Reduction Act. The information collection requirements contained in this document have been approved by the Office of Management and Budget (OMB) under the Paperwork Reduction Act of 1995 (44 U.S.C. 3501-3520) and assigned OMB control number 2506-0133. In accordance with the Paperwork Reduction Act, HUD may not conduct or sponsor, and a person is not required to respond to, a collection of information unless the collection displays a currently valid OMB control number. Public reporting burden for the collection of information is estimated to average 413 hours per annum per respondent for the application and grant administration. This includes the time collecting, reviewing, and reporting the data for the application, semi-annual reports and final report. The information will be used for grantee selection and monitoring the administration of funds. Response to this request for information is required in order to receive the benefits to be derived.

BILLING CODE 4210-32-P

Assisted Living Conversion Program (ALCP) for Eligible Multifamily Housing Projects Overview Information

A. Federal Agency Name: Department of Housing and Urban Development, Office of Housing Assistance and Grant Administration.

B. Funding Opportunity Title: The Assisted Living Conversion Program for Eligible Multifamily Projects.

C. Announcement Type: Initial announcement.

D. Funding Opportunity Number: The OMB Approval Number is: 2502-0542. The Federal Register number for this NOFA is: FR-4900-N-16.

E. Catalog of Federal Domestic Assistance (CFDA) Number: The Assisted Living Conversion Program for Eligible Multifamily Housing Projects is 14.314.

F. Dates: Application Deadline Date: The application is due to the appropriate HUD Multifamily Hub Office on July 22, 2004.

G. Optional, Additional Overview Content Information: The purpose of this program is to provide grants for the conversion of some or all of the dwelling units in an eligible project into assisted living facilities (ALFs) for frail elderly persons. Private nonprofit owners of eligible developments interested in applying for funding under this grant program should carefully review the General Section of the SuperNOFA and the detailed information listed in this program NOFA. Funding will only be provided for those items related to the conversion. There is no separate Application Kit for this NOFA.

The ALCP will fund those applications that may impact federal problem solving and policymaking and that are relevant to HUD's policy priorities and annual goals and objectives. (Refer to the General Section of the SuperNOFA for discussion of these priorities and annual goals and objectives).

Full Text of Announcement

I. Funding Opportunity Description

Program Description. Assisted living facilities (ALFs) are designed to accommodate frail elderly persons and people with disabilities who need certain support services (e.g., assistance with eating, bathing, grooming, dressing, and home management activities). ALFs must provide support services such as personal care, transportation, meals, housekeeping, and laundry. Frail elderly person means an individual 62 years of age or older who is unable to perform at least three activities of daily living (ADLs) as defined by the regulations for HUD's Section 202 Program (Supportive Housing for the Elderly) at 24 CFR 891.205. Assisted living is defined in section 232(b)(6) of the National Housing Act (12 U.S.C. 1715w).

The ALCP provides funding for the physical costs of converting some or all of the units of an eligible multifamily development into an ALF, including unit configuration and related common and services space and any necessary remodeling, consistent with HUD or the state's statute/regulations (whichever is more stringent). Typical funding will cover basic physical conversion of existing project units, as well as related common and services space. There must be sufficient community space to accommodate a central kitchen or dining facility, lounges, recreation, and other multiple-areas available to all residents of the project, or office/staff spaces in the ALF. When food is prepared at an off-site location, the preparation area of the facility must be of sufficient size to allow for the installation of a full kitchen, if necessary. You must provide supportive services for the residents either directly or through a third party. Your application must include a firm commitment for the supportive services to be offered within the ALF as part of the application. You may charge assisted living residents for meals and/or service fees. Residents may contract with third party agencies directly for nursing, therapy, or other services not offered by the ALF.

The Assisted Living Conversion Program is authorized by Section 202(b) of the Housing Act of 1959 (12 U.S.C. 1701q-2) and the Consolidated Appropriations Act, 2004 (Pub. L. 108-199, approved January 23, 2004) (FY2004 Appropriations Act). The FY2004 Appropriations Act provides $24,852,500 (which reflects a .59 percent across-the-board rescission pursuant to Public Law 108-199) for grants under Section 202b of the Housing Act of 1959 for the conversion of eligible projects to assisted living or related use and for emergency capital repairs. The Department has set-aside $10 million for emergency capital repairs. The eligibility requirements for obtaining funding for emergency capital repairs will be described in a separate Notice. Any unused funds from the emergency capital repairs set-aside will be returned to the funds allocated for eligible multifamily assisted projects.

II. Award Information

A. Available Funds

This NOFA makes available approximately $55.5 million including carryover funds. Approximately $7,500,000 will be provided for the conversion of up to two unused or underutilized commercial properties to ALFs. The remaining $47,980,500 will be fair shared and used for the physical conversion of eligible multifamily assisted housing projects or portions of projects to ALFs.

The allocation formula used to fair share the $47,980,500 for the ALCP reflects demographic characteristics of age and incidence of frailty that would be expected for program participants. The FY2004 formula consists of one data element from the 2000 decennial census: The number of non-institutional elderly population aged 75 years or older with a disability. A fair share factor for each state was developed by taking the sum of the persons aged 75 or older with a disability within each state as a percentage of the sum of the same number of persons for the total United States. The resulting percentage for each state was then adjusted to reflect the relative difference in the cost of providing housing among the states. The total of the grant funds available was multiplied by the adjusted fair share percentage for each state, and the resulting funds for each state were totaled for each Hub.

The ALCP grant funds fair share allocations, based on the formula above, to the 18 multifamily Hubs are as shown on the following chart:

B. FY2004 Allocation

FY2004 Allocation for the Assisted Living Conversion Program (ALCP) of Eligible Assisted Multifamily Projects
HUB | Grant authority
Boston | $2,907,396
Buffalo | 1,286,468
New York | 2,766,642
Philadelphia | 5,245,844
Baltimore | 1,958,343
Greensboro | 2,015,569
Atlanta | 3,514,056
Jacksonville | 4,149,827
Chicago | 3,664,614
Columbus | 2,057,739
Detroit | 1,681,452
Minneapolis | 1,748,837
Fort Worth | 3,673,859
Kansas City | 2,978,315
Denver | 1,063,086
Los Angeles | 2,813,804
San Francisco | 2,860,287
Seattle | 1,594,360
Total | 47,980,500

The ALCP Grant Agreement, when fully executed, obligates and contracts the HUD funds. This Agreement establishes the legal relationship between HUD and the ALCP award recipient. The period of performance will be based on the scope of work.

III. Eligibility Information

A. Eligible Applicants

Only private nonprofit owners of eligible multifamily assisted housing developments specified in section 683(2) (B), (C), (D), (E), and (F) of the Housing and Community Development Act of 1992 (Pub. L. 102-550, approved October 28, 1992) and private nonprofit owners of an unused or underutilized commercial property are eligible for funding.

1. Ineligible Applicants. Ineligible applicants are:

a. Owners of developments designed specifically for people with disabilities.

b. Owners of Section 232 developments.

c. Property management companies and agents of property management companies.

d. Limited dividend partnerships.

e. Nonprofit Public Agencies.

f. Owners of unused/underutilized hospitals or other health-related facility which are considered to be eleemosynary institutions rather than commercial enterprises.

2. Eligible Developments. Eligible projects must be owned by a private, nonprofit entity and designated primarily for occupancy by elderly persons. Projects must have been in occupancy for at least five years from the date the form HUD-92485, Permission to Occupy Project Mortgage, was approved by HUD's Construction Manager as Chief Architect, and have completed final closing. Additionally, eligible projects must meet one of the following criteria:

a. Section 202 direct loan projects with or without Section 8 rental assistance,

b. Section 202 capital advance projects receiving rental assistance under their Project Rental Assistance Contract (PRAC),

c. Section 515 rural housing projects receiving Section 8 rental assistance,

d. Other projects receiving Section 8 project-based rental assistance,

e. Projects subsidized with Section 221(d)(3) below-market interest mortgage,

f. Projects assisted under Section 236 of the National Housing Act.

g. Unused and underutilized commercial properties owned by a private nonprofit.

B. Cost Sharing or Matching

No matching required.

C. Other

1. Eligible conversion activities are:

a. Retrofitting to meet Section 504 accessibility requirements, minimum property standards for accessibility and/or building codes and health and safety standards for ALFs in that jurisdiction. Examples are items such as addition of:

(1) Sprinkler systems;

(2) An elevator or upgrades thereto;

(3) Lighting upgrades;

(4) Major physical or mechanical systems of projects necessary to meet local code or assisted living requirements;

(5) Upgrading to accessible units for the ALF with moveable cabinetry, accessible appliances, sinks, bathroom and kitchen fixtures, closets, hardware and grab bars, widening of doors, etc.;

(6) Upgrades to safety and emergency alert systems;

(7) Addition of hallway railings; and

(8) Medication storage and work stations;

b. Retrofitting to add, modify and/or outfit common space, office or related space for ALF staff including a service coordinator and file security, and/or a central kitchen/dining facility to support the ALF function (e.g., outfit lounge/common space/dining furniture, kitchen equipment for cooking/serving and dishware).

c. Retrofitting to upgrade a regular unit to an accessible unit for a person/family with disabilities who is being displaced from an accessible unit in the portion of the project that is being converted to the ALF, where another accessible unit is not available.

d. Temporary relocation (not applicable to commercial property).

e. Consultant, architectural, and legal fees.

f. Vacancy payments not more than 30 days after conversion to an ALF.

g. Any excess Residual Receipts (over $500/unit) and Reserve for Replacement funds (over $1000/unit) in Project Accounts that are not approved for another use at the time of application to HUD under this NOFA are considered available funds and must be applied toward the cost of conversion activities. Before making this determination, however, HUD staff will consider the extent of repair/replacement needs indicated in the most recent Real Estate Assessment Center (REAC) physical inspection and not yet approved and any ongoing commitments such as non-grant-based service coordinator or other funding, where existing, deduct the estimated costs of such items from the reserve for replacement and residual receipts balances to determine the extent of available residual receipts and reserve for replacement funds for the ALCP. (This paragraph is not applicable to commercial properties.)

2. Threshold Requirements. Applicants must meet the following requirements to receive funding for this program.

a. Be an eligible applicant. HUD will only award funding to eligible applicants.

b. Obtain a DUNS number. To receive ALCP funds, you must obtain a DUNS number. (Refer to Section III.C.2.b. of the General Section of the SuperNOFA for information regarding the DUNS requirement.)

c. You must be in compliance with all fair housing and civil rights laws, statutes, regulations, and executive orders as enumerated in Section III.C. of the General Section of the SuperNOFA.

d. You cannot request more funds than advertised in this NOFA.

e. You must provide commitment and funding support letters from the appropriate funding organizations and the appropriate licensing agency(ies). HUD will reject your application if the commitment and support letter(s) from the appropriate funding organizations and the appropriate licensing agency(ies):

(1) Are not submitted with your application;

(2) Indicate that the ALF units, facilities, meals and supportive services to be provided are not designed to meet the special needs of the residents who will reside in the ALF as defined in this NOFA;

(3) Do not show commitment for funding the meals and supportive services proposed; or

(4) Indicate that the project as proposed will not meet the licensing requirements of the appropriate state/local agency(ies).

f. You must comply with all applicable statutory requirements to the project specified in Section 202(b) and statutory requirements under Section 232(b)(6).

g. Minimum Size Limits for an ALF. An ALF must be economically feasible. Consistent with HUD Handbook 4600.1, CHG-1, the minimum size for an ALF is five units.

h. Conduct Business in Accordance with Core Values and Ethical Standards. ALCP applicants must develop and maintain a written code of conduct to receive an award. (Refer to Section III.C. of the General Section of the SuperNOFA for further information on this requirement.)

i. Name Check Review. Name checks are intended to reveal matters that reflect your management and financial integrity, or if any key individuals have been convicted or are presently facing criminal charges. HUD may deny funding based upon information obtained and verified through the Name Check Review. (Refer to Section III.C. of the General Section of the SuperNOFA for specific procedures regarding this requirement.)

j. False Statements. A false statement in this application is grounds for denial or termination of the ALCP award and grounds for possible punishment as provided in 18 U.S.C.1001.

3. Program Requirements.

a. Have a residual receipts account separate from the Reserve for Replacement account, or agree to establish this account as a condition for getting an award(s).

b. You must be in compliance with your Loan Agreement, Capital Advance Agreement, Regulatory Agreement, Housing Assistance Payment contract, Project Rental Assistance Contract, Rent Supplement or LMSA contract, or any other HUD grant or contract document. (Not applicable to applicants of unused and underutilized commercial property.)

c. You must file a form HUD-2530 for all construction contractors, architects, consultants, and service provider organizations under direct contract with you that will be engaged under this NOFA.

d. Your project must meet HUD's Uniform Physical Conditions Standards at 24 CFR part 5, subpart G. Meeting these standards as described, means that the project, based on the most recent REAC physical inspection report and responses thereto, must have a “satisfactory” rating as evidenced by a score of 60 or better or a HUD-approved and on schedule repair plan for developments scoring less than 60. Additionally, the project must have no uncorrected and outstanding Exigent Health and Safety violations. Finally, the project must not have on file a management review with a rating of “minimally satisfactory” or “unsatisfactory” with open and unresolved findings. (Not applicable to applicants of unused or underutilized commercial property)

e. You must submit an agreement to pursue appropriate ALF licensing in a timely manner.

f. Meals and Supportive Services. You must develop and submit a Supportive Services Plan (SSP) for the services and coordination of the supportive services, which will be offered in the ALF to the appropriate state or local organization(s), which are expected to fund those supportive services. (See below in Section IV.B.8. for information, which must be in the SSP.) You must submit one copy of your SSP to each appropriate state or local service funding organizations well in advance of the application deadline, for appropriate review. The state or local funding organization(s) must return the SSP to you with appropriate comments and an indication of the funding commitment, which you will then include with the application you submit to HUD.

g. Licensing Requirements. You must ALSO submit the SSP to the appropriate organization(s), which license ALFs in your jurisdiction. The licensing agency(ies) must approve your plan, and must also certify that the ALF and the proposed supportive services identified in your SSP, are consistent with local statute and regulations and well designed to serve the needs of the frail elderly and people with disabilities who will reside in the ALF portion of your project.

h. Your ALF facility must be licensed and regulated by the state (or if there is no state law providing such licensing and regulation, by the municipality or other subdivision in which the facility is located). Each assisted living unit must include its own kitchen, bathroom, bedroom, living/dining area (1 bedroom unit) or kitchen, bathroom, bedroom/living/dining area (efficiency unit) and must meet the state and/or local licensing, building, zoning, and other requirements for an ALF.

i. Your ALF must be available to qualified elderly persons and persons with disabilities, consistent with the rules and payment plans of the state, who need and want the supportive services in order to remain independent and avoid premature institutionalization.

j. Your ALF's residents must be tenants or residents of the multifamily project and must comply with the requirements applicable to the project. Thus, you cannot charge additional rent over what is charged to residents in the non-ALF portion of the project. All admissions to the ALF must be through the applicable project admissions office. However, persons accepted into the ALF also must sign an ALF admissions agreement, which shall be an addendum to the applicable project lease. (Not applicable to applicants of unused or underutilized commercial property.)

k. At a minimum, your ALF must provide room, board, and continuous protective oversight (CPO). CPO involves a range of activities and services that may include such things as awareness by management and staff of the occupant's condition and location as well as an ability to intervene in a crisis for dependent and relatively independent occupants on a 24-hour basis. The two occupant groups in an ALF are:

(1) Independent Occupants: Awareness by management and staff of the occupant's condition and whereabouts as well as the availability of assistance for the occupants as needed.

(2) Dependent occupants: Supervision of nutrition, assistance with medication and continuous responsibility for the occupants' welfare.

l. Anyone moving into an ALF unit must agree to accept as a condition of occupancy the board and services required for the purpose of complying with state and local law and regulation. m. Your ALF must provide three meals per day to each resident.

(1) Residents whose apartments have kitchens must take at least the number of meals a day provided by the facility, per their mandatory meals requirement, or as required by state or local rules, if more stringent. If the facility does not have a mandatory meals plan, then state and local rules govern.

(2) Residents in projects which were originally constructed without kitchens in their units must take such meals as required by their mandatory meals agreement, or by the state's mandated requirements if more stringent (e.g., two meals, two snacks daily).

In either case, ALF management must coordinate meal requirements with the needs of residents who are out part of the day (e.g., in day care). The meal program may not be operated at a profit by the project owner.

n. Priority admissions for ALF units are as follows: (Not applicable to applicants of unused or underutilized commercial structures.)

(1) Current residents desiring an ALF unit and meeting the program requirements (no resident can be required to accept an ALF unit).

(2) Qualified individuals or families needing ALF services who are already on the project's waiting list;

(3) Qualified individuals or families in the community needing ALF services wanting to be added to the project's waiting list.

(4) Qualified disabled non-elderly persons needing assisted living services are eligible to occupy these units on the same basis as elderly persons, except for section 202 project rental assistance contracts (PRAC) projects and unused/underutilized commercial properties.

o. The management of the project must set up a separate waiting list for ALF units. ALF units must be for eligible residents who meet the admissions/discharge requirements as established for assisted living by state and local licensing, or HUD frailty requirements under 24 CFR 891.205 if more stringent.

p. Upon receipt of a grant under this program, all project owners participating in the ALCP must provide a Declaration of Restrictive Covenants (DRC), which will be recorded with the land, to retain the low income character of the housing, and to maintain the project (including the ALF), as a moderate-, low-, or very low-income facility (as appropriate) for at least 20 years beyond the current 40-to-50-year term of the mortgage loan or capital advance. Recipients of grant funds to convert unused or underutilized commercial property must provide a DRC for at least 20 years or for the term of the mortgage on the property whichever is longer.

q. The ALCP requires service coordination for linking the ALF to available services in the community for low-income persons. All projects funded under this NOFA must have sufficient service coordination in place, or request additional funds, if appropriate, to ensure that services meeting licensing requirements are available to ALF residents on an ongoing basis. Service coordination must be described in the application (see Section IV.B.8.b. and c. of this NOFA). If you need to enhance an existing service coordination program or add one where it does not exist, you may apply for funding through the Service Coordinator NOFA, published elsewhere in this SuperNOFA, and attach a copy of the form SF-424 indicating the request to the ALCP application. Alternatively, you may show evidence that funding for the enhanced service coordination is provided by other sources and indicate such funding on the form SF-424 which is exhibit 10(a) of your ALF application. If you are funded under this NOFA and requested new or enhanced service coordination you will be funded first under the service coordinator NOFA.

(1) The ALF must be staffed either directly or through coordination with local agencies, depending on state regulations or local requirements. These may also serve non-ALF residents of the project on a time available and appropriate fee basis.

(2) If you are a Section 202 PRAC project owner or an owner with unused or underutilized commercial properties, you are NOT eligible to request funding under the service coordinator NOFA. Section 202 PRAC owners can pay for the service coordinator out of PRAC funds.

(3) The ALF may cater to the special needs of residents depending on their condition or diagnosis, such as Alzheimer's disease. If it does so, the design/environment of such facilities must accommodate those needs, e.g., dementia special care unit. However, the ALF CANNOT provide a service it is not licensed by the state or locality to provide.

(4) Owners of Section 202/PRAC projects are reminded that they may include a PRAC payment of up to $15/unit/month not to exceed 15 percent of the total program cost, consistent with 24 CFR 891.225(b)(2) to cover part of the cost of meals and/or supportive services for frail elderly residents, including residents of the ALF.

(5) Training for ALF staff is an eligible project cost under existing operating procedures. For further information on ALFs, please refer to Handbook 4600.1, CHG-1, “Mortgage Insurance for Residential Care Facilities,” Chapter 13. This Handbook and recent ALF program Notices are accessible through HUDCLIPS on HUD's Web site. The URL for the HUDCLIPS Database Selection Screen is http://www.hudclips.org/cgi/index.cgi. These notices are in the Handbooks and Notices—Housing Notices database. Enter only the number without the letter prefix (e.g., 99-16) in the “Document number” to retrieve the program notice.

For further guidance on service coordinators, please refer to Handbook 4381.5 REV-2, CHANGE-2, Chapter 8, “The Management Agent's Handbook,” which is also available through the HUDCLIPS database.

r. Your ALF's operation must be part of the project owner's management organization. Some or all of its functions may be contracted out. The ALF must predicate its budget on a two-tiered structure under which board and supportive service income and expenses must be maintained separately and independently from the regular income and expenses of the applicable project. The two components of ALF costs are:

(1) Charges/payment for board, which may be on a sliding scale or any other equitable fee system; and

(2) Charges/payment for necessary supportive services, which may include a combination of resident fees, Medicaid and/or other third party payments.

s. Prohibition Against Lobbying Activities. The Byrd Amendment prohibits ALCP recipients of federal contracts, grants, or loans from using appropriated funds for lobbying activities. (Refer to Section III.C. of the General Section of the SuperNOFA for further instructions regarding this requirement.)

4. Additional Non-discrimination and Other Requirements. Comply with the requirements of the Fair Housing Act, Title VI of the Civil Rights Act, the Age Discrimination Act of 1975, Section 3 of the Housing and Urban Development Act of 1968 (12 U.S.C. 1701u) and the implementing regulations at 24 CFR part 135, the affirmative fair housing marketing requirements of 24 CFR part 200, subpart M, and the implementing regulations at 24 CFR part 108, which requires that the project be marketed to those least likely to apply including those who are not generally served by the agency administering the program, and other applicable federal, state, and local laws prohibiting discrimination and promoting equal opportunity including affirmatively furthering fair housing, and other certifications listed in the application. (Refer to Section III.C.4.of the General Section of the SuperNOFA for additional requirements and information.)

a. Comply with section 232 of the National Housing Act, as applicable; the Uniform Federal Accessibility Standards (24 CFR 40.7); section 504 of the Rehabilitation Act of 1973 and HUD's implementing regulations at 24 CFR part 8; and the Americans with Disabilities Act of 1990 for all portions of the development physically affected by this proposal.

b. Comply with the Davis-Bacon requirements and the Contract Work Hours and Safety Standards Act as applied to this program. While it has been determined that Davis-Bacon does not apply statutorily to the ALCP, the Department has administratively determined that Davis-Bacon standards and overtime rates in accordance with the Contract Work Hours and Safety Standards Act will be adhered to in any ALCP conversion grant in which the total cost of the physical conversion to an ALF (and including any additional renovation work undertaken at the same time) is $500,000 or more (this includes ALCP grant funds, owner funds, or any third party funds loaned or granted in support of the conversion or other renovation for the project associated with this grant), AND in which the ALF portion of the project is 12 units or more.

c. Ensuring the Participation of Small Business, Small Disadvantaged Businesses, and Woman-Owned Businesses. HUD is committed to ensuring that small businesses, small disadvantage businesses, and woman-owned businesses participate fully in HUD's direct contracting and in contracting opportunities generated by HUD's financial assistance. (Refer to Section III.C.4.c. of the General Section of the SuperNOFA for further instructions regarding this requirement.)

d. Executive Order 13166, Improving Access to Persons with Limited English Proficiency (LEP). ALCP applicants must seek to improve access to persons with limited English proficiency by providing materials and information in languages other than English.

e. Executive Order 13279, Equal Protection of the Laws for Faith-Based and Community Organizations. HUD has undertaken a review of all policies and regulations that have implications for faith-based and community organizations, and has established a policy priority to provide full and equal access to grassroots faith-based and other community-based organizations. (Refer to Section III.C.4.g. of the General Section of the SuperNOFA for specific instructions regarding this requirement.)

f. Accessible Technology. The Rehabilitation Act Amendments of 1998 apply to all electronic information technology (EIT) used by an ALCP recipient for transmitting, receiving, using, or storing information to carry out the responsibilities of the ALCP awards. (Refer to Section III.C.4.h. of the General Section of the SuperNOFA for specific instructions regarding this requirement.)

g. Participation in HUD-Sponsored Program Evaluation. As a condition of the receipt of ALCP funds, successful applicants are required to cooperate with all HUD staff or contractors performing HUD-funded research and evaluation studies.

h. Comply with Executive Order 13202, Preservation of Open Competition and government Neutrality toward Government Contractors' Labor Relations on Federal and Federally Funded Construction Projects. (Refer to Section III.C.4.k. of the General Section of the SuperNOFA for additional information on this requirement).

i. OMB Circulars and Government-wide Regulations Applicable to Financial Assistance. ALCP applicants are subject to the Administrative Requirements of OMB Circular A-133, Audits of States, Local Governments and Non-Profit Organizations; OMB Circular A-122, Cost Principles for Non-Profit Institutions; the administrative requirements of 24 CFR Part 84; and the procurement requirements of 24 CFR 84.44. (Refer to the General Section of the SuperNOFA for additional information on this requirement).

j. Environmental Requirements. All ALCP projects must conform to the 500-year flood plain limitation. Your ALCP application is subject to the National Environmental Policy Act of 1969 and applicable related federal environmental authorities. (See 24 CFR part 50, as applicable.) An environmental review will be completed by HUD before awarding any grant under this program. Pursuant to 24 CFR part 55, ALCP projects are critical actions for purposes of flood plain management review.

Note: If your eligibility status changes during the course of the grant term, making you ineligible to receive the grant (e.g., prepayment of mortgage, sale/TPA of property, or opting out of a Section 8 Housing Assistance Payment (HAP) contract), HUD retains the right to terminate the grant and recover funds made available through this NOFA.

IV. Application and Submission Information

A. Addresses to Request Application Package. All information for requesting an application is included in this NOFA and Section IV. A. of the General Section of the SuperNOFA. You may obtain an ALCP application by calling the NOFA Information Center at (voice) 800-HUD-8929 (800-483-8929). Persons with a hearing or speech impairment may call the Center's TTY number at 800-HUD-2209. Please be sure to provide your name, address (including zip code), and telephone number (including area code). The application is also available on the Internet through the Web site at http://www.hud.gov/grants/index.cfm.

1. Application Kits. There is no application kit for the ALCP. All the information you need to apply for this program is available in this NOFA and available on http://www.hud.gov/grants/index.cfm. (Refer to Section IV. A. 1. of the General Section of the SuperNOFA for further information.)

2. For Technical Assistance. Before the ALCP application due date, HUD staff will be available to provide you with general guidance and technical assistance. However, HUD staff is not permitted to assist in preparing your application.

B. Content and Form of Application Submission. There are ten required exhibits under the ALCP, including prescribed forms and certifications. In cases where your articles of incorporation and by-laws have NOT changed since the project was originally approved by HUD, self-certification to that effect—that the documents on file with HUD are current—is sufficient. Exhibits for which self-certification of currency is possible are denoted below by double asterisks (**.)

In addition to the relief of paperwork burden, you will not have to submit certain new/recent information and exhibits you have previously prepared. See individual item descriptions, below to identify such items. An example of such an item may be the FY2003 Annual Financial Statement. Your application must include all of the information, materials, forms, and exhibits listed below:

1. Application Summary for the Assisted Living Conversion Program, Form HUD-92045, and Evidence that you are a private nonprofit organization or nonprofit consumer cooperative and have the legal ability to operate an ALF program, per the following:

a. Articles of Incorporation, constitution, or other organizational documents, or self-certification of these documents if there has been no change in the Articles since they were originally filed with HUD** and

b. By-laws, or self-certification of by-laws, if there has been no change in the by-laws since they were originally filed with HUD**

2. A description of your community support:

a. A description of your links to the community at large and to the minority and elderly communities in particular; and

b. A description of your efforts to involve elderly persons, including minority elderly persons and persons with disabilities in:

(1) The development of the application;

(2) The development of the ALF operating philosophy;

(3) Review of the application prior to submission to HUD; and

(4) Your intent whether or not to involve eligible ALF residents in the operation of the project.

Also, make applications and other materials available in languages other than English that are common in the community, if speakers of these languages are found in significant numbers and come into frequent contact with the program. For further guidance on serving persons with Limited English Proficiency (LEP) in HUD assisted programs, see the recently published HUD LEP Guidance at 68 FR 70968 or Section III of the General Section of the SuperNOFA.

c. A description of your involvement in your community's Consolidated Planning and Analysis of Impediments to Fair Housing (AI) processes including:

(1) An identification of the lead/facilitating agency(ies) that organizes and/or administers the process;

(2) A listing of the Consolidated Plan/AI issue areas in which you participate; and

(3) The level of your participation in the process, including active involvement with any neighborhood-based organizations, associations, or any committees that support programs and activities that enhance projects or the lives of residents of the projects, such as the one proposed in your application.

If you are not currently active, describe the specific steps you will take to become active in the Consolidated Planning and AI processes. (Consult the local HUD office for the identification of the Consolidated Plan community process for the appropriate area.)

d. A description of how the assisted living facility will implement practical solutions that will result in assisting residents in achieving independent living and improved living environment. The description should include a discussion of performance goals with performance indicators (refer to Section V.B.1. of the General Section of the SuperNOFA for further detail).

3. Evidence of your project being occupied for at least five years prior to the date of application to HUD. (Not applicable to applicants of unused or underutilized commercial property.)

4. A market analysis of the need for the proposed ALF units, including information from both the project and the housing market, containing:

a. Evidence of need for the ALF by current project residents: (Not applicable to applicants of unused or underutilized commercial property.)

(1) A description of the demographic characteristics of the elderly residents currently living in the project, including the current number of residents, distribution of residents by age, race, and sex, an estimate of the number of residents with frailties/limitations in activities of daily living, and an estimate of the number of residents in need of assisted living services. (Not applicable to applicants of unused or underutilized commercial property.)

(2) A description of the services currently available to the residents and/or provided on or off-site and what services are lacking; (Not applicable to applicants of unused or underutilized commercial property.)

b. Evidence of the need for ALF units by very low-income elderly and disabled households in the market area; a description of the trend in elderly and disabled population and household change; data on the demographic characteristics of the very low-income elderly in need of assisted living services (age, race, sex, household size, and tenure) and extent of residents with frailty/limitations in existing federally assisted housing for the elderly (HUD and Rural Housing Service); and an estimate of the very low-income elderly and disabled in need of assisted living taking into consideration any available state or local data.

c. A description of the extent, types, and availability and cost of alternate care and services locally, such as home health care; adult day care; housekeeping services; meals programs; visiting nurses; on-call transportation services; health care; and providers of supportive services who address the needs of the local low income population.

d. A description of how information in the community's Analysis of Impediments to Fair Housing Choice was used in documenting the need for the ALF (covering items in Section IV.B.4.2.c. above.

5. A description of the physical construction aspects of the ALF conversion, including the following:

a. How you propose to carry out the physical conversion (including a timetable and relocation planning).

b. A short narrative stating the number of units, special design features, community and office space/storage, dining and kitchen facility and staff space, and the physical relationship to the rest of the project. Also, you must describe how this design will facilitate the delivery of services in an economical fashion in the most integrated setting appropriate to the needs of the participating residents with disabilities and accommodate the changing needs of the residents over at least the next 10 years.

c. A copy of the original plans for all units and other areas of the development, which will be included in the conversion. (If you are applying to convert an unused or underutilized commercial facility to assisted living, provide a copy of the original plans of the facility as well as a copy of the plans of the facility as most recently operated, if different).

d. A description of the conversion must clearly address how the units will conform to the accessibility requirements described in the Uniform Federal Accessibility Standards (UFAS). (For example, all door openings must have a minimum clear opening of 32 inches; and, all bathrooms and kitchens must be accessible to and functional for persons in wheelchairs.)

e. Architectural sketches of the conversion to a scale of 1/4 inch to one foot that indicate the following:

(1) All doors being widened;

(2) Typical kitchen and bathroom reconfiguration: show all wheelchair clearances, wall reinforcing, grab bars, and elevations of counters and work surfaces;

(3) Bedroom/living/dining area modification, if needed;

(4) Any reconfigured common space;

(5) Added/reconfigured office and storage space;

(6) Monitoring stations, and

(7) The kitchen and dining facility.

All architectural modifications must meet section 504 and ADA requirements as appropriate.

f. A budget showing estimated costs for materials, supplies, fixtures, and labor for each of the items listed in Section IV.B.5.e, items (1) through (7), above.

g. Include firm financial commitment letters with specific dollar amounts from appropriate organization(s) for conversion needs (within the scope of the ALF conversion NOFA) which will be supported by non-HUD funding.

h. A description of any relocation of current tenants including a statement that: (Not applicable to applicants of unused or underutilized commercial property.)

(1) Indicates the estimated cost of temporary relocation payments and other related services;

(2) Identifies the staff organization that will carry out the relocation activities; and

(3) Identifies all tenants that will have to be temporarily moved to another unit within the development OR from the development during the period that the physical conversion of the project is under way.

Note: If any of the relocation costs will be funded from sources other than the ALCP grant, you must provide evidence of a firm financial commitment of these funds. when evaluating applications, HUD will consider the total cost of proposals (i.e., cost of conversion, temporary relocation, service coordinator, and other project costs).

6. A description of any retrofit or renovation that will be done at the project (with third party funds) that is separate and distinct from the ALF conversion. With such description, attach firm commitment letters from third party organizations in specific dollar amounts that will cover the cost of any work outside the scope of this NOFA.

7. A letter from the local zoning official indicating evidence of permissive zoning. Also, showing that the modifications to include the ALF into the project as proposed are permissible under applicable zoning ordinances or regulations.

8. A supportive services plan (SSP), a copy of which must be submitted to the appropriate state and/or local agency as instructed in Section III.C.2.f. above in this NOFA. For those applicants needing to contact state Medicaid offices, a list is provided on the Internet at http://www.cms.hhs.gov/medicaid. The SSP must include:

a. A description of the supportive services needed for the frail elderly the ALF is expected to serve. This must include at least (1) meals and such other supportive services required locally or by the state, and (2) such optional services or care to be offered on an “as needed” basis.

Examples of both mandatory and optional services (which will vary from state to state) are: Two meals and two snacks or three meals daily; 24-hour protective oversight; personal care; housekeeping services; personal counseling, and transportation.

b. A description of how you will provide the supportive services to those who are frail and have disabilities (i.e., on or off-site or combination of on or off-site), including an explanation of how the service coordination role will facilitate the adequate provision of such services to ALF residents, and how the services will meet the identified needs of the residents. Also indicate how you intend to fund the service coordinator role.

c. A description of how the operation of your ALF will work. Address: (1) General operating procedures; (2) ALF philosophy and how it will promote the autonomy and independence of the frail elderly and persons with disabilities; (3) what will the service coordination function do and the extent to which this function already exists, or will be augmented or new; (4) ALF staff training plans; and (5) the degree to which and how the ALF will relate to the day-to-day operations of the rest of the project.

d. The monthly individual rate for board and supportive services for the ALF listing the total fee and components of the total fee for the items required by state or local licensing, and list the appropriate rate for any optional services you plan to offer to the ALF residents. Provide an estimate of the total annual costs of the required board and supportive services you expect to provide and an estimate of the amount of optional services you expect to provide.

e. List who will pay for the board and supportive services (e.g., $____for meals by sponsor; $____ for housekeeping services by city government; $____ for personal care by State Department of Health; $____ for ____ by state ____ program; $____ in fees by tenants; and, $____ by ____).

The amounts and commitments from both tenants and/or providers must equal the estimated amounts necessary to cover the monthly rates for the number of people expected to be served. If you include tenant fees in the proposal, list and show any proposed scaling mechanism. All amounts committed/collected must equal the annualized cost of the monthly rates calculated by the expected percentage of units filled.

f. A support/commitment letter from EACH listed proposed funding source per paragraph e. above, for the planned meals and supportive services listed in the application. The letter must cover the total planned annual commitment (and multiyear amount total, if different), length of time for the commitment, and the amounts payable for each service covered by the provider/paying organization. There must be a letter from EACH participating organization listed in paragraph e, above.

g. A support letter from EACH governmental agency that provides licensing for ALFs in that jurisdiction.

h. A description of your relevant experience in arranging for and/or delivering supportive services to frail residents. (If you are applying to convert an unused or underutilized commercial facility to assisted living, provide information on your relevant experience in arranging for and/or delivering supportive services to frail elderly persons). The description should include any supportive services facilities owned/operated; your past or current involvement in any project-based programs that demonstrates your management capabilities. The description should include data on the facilities and specific meals and/or supportive services provided on a regular basis, the racial/ethnic composition of the populations served, if available, and information and testimonials from residents or community leaders on the quality of the services.

Note: If a funds request for service coordination for the ALF and/or the whole project is included as part of this application, the Form SF-424, indicating the dollars requested must be attached as Exhibit 10(a). Do NOT attach the whole service coordinator application.

9. A description of your project's resources: (Items (9)(a)-(b) are not applicable to applicants of unused or underutilized commercial property.)

a. A copy of the most recent project Reserve and Replacement account statement, and a Reserve for Replacement analysis showing plans for its use over the next five years, and any approvals received from the HUD field office to date.

b. A copy of the most recent Residual Receipts Account statement. Indicate any approvals for the use of such receipts from the field office for over $500/unit.

c. Annual Financial Statement (AFS). If your FY2004 AFS was due to REAC more than 120 days BEFORE the due date for this application, in the interest of reducing work burden, only include the date that it was sent to REAC. If the AFS was due to REAC 120 days or less from the due date of this application, you MUST include a paper copy of your AFS. For commercial properties, submit the most recent financial statement or annual report.

10. Forms and Certifications. The following exhibits, forms, certifications, and assurances are required:

a. Form SF-424, Application for Federal Assistance*, and compliance with Executive Order 12372 (a certification that you have submitted a copy of your application, if required, to the state agency (Single Point of Contact) for state review in accordance with Executive Order 12372 (refer to the General Section of the SuperNOFA for instructions in submitting this form).

b. SF-424 Supplement, Survey for Ensuring Equal Opportunity for Applicants* (optional)

c. Form HUD-424B, Applicant Assurances and Certifications*

d. Form HUD-2880, Applicant/Recipient Disclosure/Update Report*, including Social Security and Employment Identification numbers. A disclosure of assistance from other government sources received in connection with the project.

e. Form HUD-2991, Certification of Consistency with the Consolidated Plan* for the jurisdiction in which the proposed ALF will be located. The certification must be made by the unit of general local government if it is required to have, or has, a complete Plan. Otherwise, the certification may be made by the state, or by the unit of general local government if the project will be located within the jurisdiction of the unit of general local government authorized to use an abbreviated strategy, and if it is willing to prepare such a Plan.

All certifications must be made by the public official responsible for submitting the plan to HUD. The certifications must be submitted as part of the application by the application submission deadline date set forth herein. The Plan regulations are published in 24 CFR part 91.

f. Form HUD-2530, Previous Participation Certification. This form will provide HUD with a report of all your previous participation in HUD multifamily projects. This is in addition to the “Name Check Review” process. Refer to the General Section of the SuperNOFA for information on this requirement under “Name Check Review”.

g. Standard Form-LLL, Disclosure of Lobbying Activities*.

h. Form HUD-96010, Program Outcome Logic Model*.

i. Form HUD-27300, Removal of Regulatory Barriers*

*Copies of these forms may be found in Appendix 1 of the General Section of the SuperNOFA.

C. Submission Date and Time

1. Application Due Date. Your completed application (one original and four copies) is due to the appropriate local HUD Multifamily Hub on July 22, 2004. (Refer to Section IV.F. of the General Section of the SuperNOFA for further instructions on the delivery and receipt of applications.

D. Intergovernmental Review

1. Executive Order 12372. ALCP applicants are subject to the Executive Order 12372 process. Standard Form 424, Application for Federal Assistance, includes compliance with Executive Order 12372 (a certification that you have submitted a copy of your application, if required, to the state agency (Single Point of Contact) for state review. (Also, refer to Section IV.D. of the General Section of the SuperNOFA for instructions on the intergovernmental review process.)

2. You must submit a Supportive Services Plan (SSP) for the services and coordination of the supportive services that will be offered in the assisted living facility (ALF) to the appropriate state or local organization(s) which are expected to fund those supportive services. You must submit one copy of your SSP to each appropriate state or local service funding organizations well in advance of the application deadline, for appropriate review. The state or local funding organization(s) must return the SSP to you with appropriate comments and an indication of the funding commitment, which you will then include with the application you submit to HUD.

You must also submit the SSP to the appropriate organization(s) that license ALFs in your jurisdiction. The licensing agency(ies) must approve your plan, and must also certify that the ALF and the proposed supportive services identified in your SSP, are consistent with local statute and regulations and well designed to serve the needs of the frail elderly and people with disabilities who will reside in the ALF portion of your project.

E. Funding Restrictions

1. Costs of meals and supportive services are NOT covered by this HUD grant. These items must be paid for through other sources (e.g., a mix of resident fees and/or third party providers). Evidence of third party commitment(s) must be included as part of the application. The assisted living supportive services program must promote independence and provide personal care assistance based on individual needs in a home-like environment. In accordance with Section 504 of the Rehabilitation Act of 1973 and HUD's regulations at 24 CFR 8.4(d), the project must deliver services in the most integrated setting appropriate to the needs of qualified individuals with disabilities.

2. This program does not allow permanent displacement of any resident living in the project at the time the application was submitted to HUD. (HUD will only provide temporary relocation costs for current tenants if they must vacate their unit while conversion work is underway (normal temporary relocation costs include increases in rent, reconnection of telephones, moving costs, and appropriate out-of-pocket expenses). (Not applicable to applicants of commercial property.)

3. Ineligible Activities. You may not use funds available through this NOFA to:

a. Add additional dwelling units to the existing project (not applicable to applicants of commercial property);

b. Pay the costs of any of the necessary direct supportive services needed to operate the ALF;

c. Purchase or lease additional land;

d. Rehabilitate (see definition at 24 CFR 891.105) the project for needs unrelated directly to the conversion of units and common space for assisted living.

e. Use the ALCP to reduce the number of accessible units in the project that are not part of the ALF (not applicable to applicants of commercial property);

f. Permanently displace any resident out of the project (permanent relocation is prohibited under this program)

g. Increase the management fee.

h. Cover the cost of activities not directly related to the conversion of the units and common space. (i.e., if an applicant is applying to convert 24 units on 2 floors of a 5-story elderly housing development and the inspection by the Fire Marshal reveals that sprinklers must be installed in the entire building, ALCP funds will be used only to install sprinklers for the 24 units on the 2 floors requested in the application. The cost to install sprinklers in the remaining units must be paid for out of other resources.

F. Other Submission Requirements:

1. Mailing and Receipt Procedures. HUD has implemented new procedures that impact application submission procedures. Refer to Section IV.F.1. of the General Section of the SuperNOFA for specific procedures for the mailing of applications.

2. Proof of Timely Submission. ALCP applicants must be able to provide proof of timely submission of their application. (Refer to the General Section of the SuperNOFA for specific procedures regarding proof of timely submission of applications.)

3. Addresses for submitting applications. The official place for receipt of your application is only in the appropriate HUD Multifamily Hub office. Submit an original and four copies of the ALCP application to the Director of the appropriate HUD Multifamily Hub office with jurisdiction over your development. (Refer to Appendix 1 of this NOFA for a list of HUD Multifamily Hub offices. For your use in determining the appropriate HUD Multifamily Hub office to which you must submit your application, HUD Program Centers are under each Hub.) Note: Do not use the list of addresses in the General Section for the mailing of ALCP applications.

V. Application Review Information

A. Criteria. HUD will rate ALCP applications that successfully complete technical processing using the Rating Factors set forth below and in accordance with the application submission requirements identified in Section IV.B. above. The maximum number of points an application may receive under this program is 100.

HUD wants to make its programs more effective, efficient, and accessible by expanding opportunities for grassroots organizations to participate in developing solutions for their own neighborhood. The Department encourages applicants to partner, fund, or sub-contract with grassroots organizations, including faith-based and other community-based organizations in conducting their work programs. (Refer to the General Section of the SuperNOFA for the definition of “grassroots organizations”).

1. Rating Factor 1: Capacity of the Applicant and Relevant Organizational Staff (20 Points)

This factor addresses your capacity to carry out the conversion in a timely, cost-conscious and effective manner. It also addresses your experience with the supportive services the ALF intends to provide to elderly residents, especially in such areas as meals, 24-hour staffing and on-site health care. Submit information responding to this factor in accordance with Application Submission Requirements in Sections IV.B.5.a. and b. and 8.a. through c. and h. of this NOFA.

In rating this factor, HUD will consider the extent to which your application demonstrates your ability to carry out a successful conversion of the project and to implement the plan to deliver the supportive services on a long term basis, considering the following:

a. (9 points). The time frame planned for carrying out the physical conversion of the development to the ALF.

b. (10 points). Your past experience in providing or arranging for supportive services either on or off site for those who are frail. (If you are applying to convert an unused or underutilized commercial facility to assisted living and you do not own or operate a project with frail elderly residents, you must provide information on any past experience in providing or arranging supportive services for those who are frail.) Examples are: Meals delivered to apartment of resident or in a congregate setting (2 points), arranging for or providing personal care (3 points), providing 24-hour staffing (1 point), providing or making available on-site preventive health care (2 points) and other support services (2 points).

c. (1 point). The Department will provide 1 point to those applicants who currently or propose to partner, fund, or subcontract with grassroots organizations. HUD will consider an organization a “grassroots organization” if the organization is headquartered in the local community and has a social services budget of $300,000 or less; or has six or fewer full-time equivalent employees. (Refer to the General Section of the SuperNOFA for further information on grassroots organizations.)

2. Rating Factor 2: Need/Extent of the Problem (20 Points)

This factor addresses the extent to which the conversion is needed by the categories of elderly persons and persons with disabilities that the ALF is intended to serve (very low-income elderly persons and persons with disabilities who have limitations in three or more activities of daily living). The application must include evidence of current needs among project residents (not applicable to applicants proposing to convert unused or underutilized commercial facilities) and needs of potential residents in the housing market area for such persons including economic and demographic information on very low-income, frail, elderly, and persons with disabilities and information on current assisted living resources in the market area.

The factor also addresses your inability to fund the repairs or conversion activities from existing financial resources. In making this determination, HUD will consider project financial information or the organization's financial information for unused or underutilized commercial facilities. Submit information responding to this factor in accordance with Application Submission Requirements in Section IV.B.4. a. through d., 2.c. and 9. a. through c. of the NOFA. In evaluating this factor, HUD will consider:

a. (7 points). The need for assisted living among the elderly and disable residents of the project taking into consideration those currently in need and the depth of future needs given aging in place. (Not applicable to applications to convert unused or underutilized commercial facilities to assisted living.)

b. (3 points (10 points for applications to convert unused or underutilized commercial facilities to assisted living.)). The need for assisted living among very low-income elderly persons and persons with disabilities in the housing market area.

c. (9 points). Insufficient funding for any needed conversion work, as evidenced by the project's financial statements and specifically the lack of excess Reserve for Replacement dollars and residual receipts. If the available Reserve for Replacement and residual receipts are less than 10 percent of the total funds needed = 9 points; if the available Reserve for Replacement and residual receipts are 10-50 percent of need = 5 points; and, if the available Reserve for Replacement and residual receipts are 51 percent or more of the total funds needed = 0 points). For commercial properties, if the available working capital is 10 percent or more of the total conversion = 5 points; if the working capital is less than 10 percent of the total conversion = 9 points.

d. (1 point). The Department will provide one point to those applications which establish a connection between the proposed ALF and the community's Analysis of Impediments to Fair Housing Choice (AI) or other planning document that analyzes fair housing issues and is prepared by a local planning or similar organization.

3. Rating Factor 3: Soundness of Approach (40 Points)

This factor addresses the quality and effectiveness of your proposal in addressing the proposed conversion, effectiveness of service coordination and management planning and the meals and supportive services which the ALF intends to provide and the extent to which you have evidenced general support for conversion by participating in your community's Consolidated Planning Process, involving the residents in the planning process (not applicable to applications proposing to convert unused or underutilized commercial facilities). There must also be a relationship between the proposed activities, the project's and the community's needs and purposes of the program funding for your application to receive points for this factor. Submit information responding to this factor in accordance with Application Submission Requirements in Sections IV.B.2.a. through c., IV.B.5.b. through e., IV.B.8.a. through e., g., and h. of this NOFA. In evaluating this factor, HUD will consider the following:

a. (12 points). The extent to which the proposed ALF design will meet the special physical needs of frail elderly persons or persons with disabilities expected to be served at reasonable cost (consider the ALF design: Meets needs = 12 points; ALF design partially meets needs = 6 points; and ALF design does not meet needs = 0 points).

b. (12 points). The extent to which the ALF's proposed management and operational plan ensures that the provision of both meals and supportive services planned will be accomplished over time. (Consider ALF design/management plan: Meets needs of management operations = 12 points; ALF design/management plan partially meets needs of management operations = 6 points; and ALF design/management plan does not meet needs of management operations = 0 points.)

c. (7 points). The extent to which the proposed supportive services meet the anticipated needs of the frail elderly and disabled residents (does meet = 7 points; partially meets needs = 4 points; and, does not meet needs = 0 points); and

d. (7 points). The extent to which the service coordination function is addressed and explained as onsite and sufficient, onsite and augmented or new, and addresses the ongoing procurement of needed services for the residents of the ALF (does meet = 7 points, partially meets = 4 points, does not meet = 0 points).

e. (2 points). The extent to which you demonstrated that you have been actively involved (or if not currently active, the steps you will take to become actively involved) in your community's Consolidated Planning/AI processes to identify and address a need/problem that is related in whole or part, directly or indirectly to the proposed project;

4. Rating Factor 4: Leveraging Resources (10 Points)

This factor addresses your ability to secure other community resources that can be combined with HUD's grant funds to achieve program purposes. For the ALCP to succeed, you must generate local funding for the necessary supportive services to operate the ALF. HUD also encourages local funding for some of the necessary conversion work, or other work needed in the project (e.g., general modernization) which is not specifically linked to the ALF).

Submit information responding to this factor in accordance with Application Submission Requirements in Section IV.B.5.f., g., and B.6. and B.8.f. of this NOFA.

a. (5 points). The extent to which there are commitments for the funding needed for the meals and the supportive services planned for the ALF and that the total cost of the estimated budget of the ALF is covered. Consider 90 percent or more commitment of the total budget with no more than 10 percent for meals and services = 5 points; 80-89.9 percent with no more than 20 percent for meals and services = 4 points; 65-79.9 percent with no more than 35 percent for meals and services = 3 points; 40-64.9 percent with more than 60 percent for meals and services = 2 points; less than 40 percent commitment of the total budget with no more than 60 percent support for meals and services = 0 points.

b. (3 points). The extent of local organizations' support which is firmly committed to providing at least 50 percent of the total cost of ALF conversion (consider 50% or more = 3 points, 20-49.9 percent = 2 points, and under 20 percent = 0 points).

c. (2 points). The extent of local organizational support which is firmly committed to providing funds for additional repair or retrofit necessary for the project NOT specifically directed to activities eligible under this NOFA (funds firmly committed = 2 points, funds not committed = 0 points).

5. Rating Factor 5: Achieving Results and Program Evaluation (10 Points)

This factor reflects HUD's goal to embrace high standards of ethics, management and accountability. This factor emphasizes HUD's commitment to ensure that promises you make in the application are kept; and to ensure performance goals with outcomes are established and are met (refer to Section V.B.1. of the General Section of the SuperNOFA for more detail). Outcomes may include the extent to which your project will implement practical solutions that will result in assisting residents in achieving independent living and an improved living environment, as well as the extent to which the project will be viable absent HUD funds but rely more on state, local, and private funds. Submit information responding to this factor in accordance with Application Submission Requirements in Section IV.B.5.a. through g., 2.d., 8.a. through e. of this NOFA.

a. (4 points). Describe the extent to which your conversion time frame reflects the length of time it will take to convert the units describing how residents will benefit from the conversion of the units; and how the converted units will result in ALF residents being able to age in place;

b. (2 points). Describe the extent to which your assisted living facility will implement practical solutions that will result in assisting residents in achieving independent living and improved living environment.

c. (2 points). Demonstrate how the project will be viable absent HUD funds while relying more on state, local, and private funds.

d. (2 point). Describe the extent to which the ALFs operating philosophy promotes the autonomy and independence of the frail elderly persons it is intended to serve (is fully addressed = 2 points, no or not addressed = 0 points).

B. Reviews and Selection Process

1. The ALCP will fund those applications that may impact federal problem solving and policymaking and that are relevant to HUD's policy priorities and annual goals and objectives. (Refer to the General Section of the SuperNOFA for discussion of these priorities and annual goals and objectives).

2. Review for Curable Deficiencies. You should ensure that your application is complete before submitting it to HUD.

HUD will screen all applications received by the deadline for curable deficiencies. With respect to correction of deficient applications, HUD may not, after the application due date and consistent with HUD's regulations in 24 CFR part 4, subpart B, consider any unsolicited information an applicant may want to provide. HUD may contact an applicant to clarify an item in the application or to correct curable deficiencies. Please note, however, that HUD may not seek clarification of items or responses that improve the substantive quality of a response to any rating factors. In order not to unreasonably exclude applications from being rated and ranked, HUD may contact applicants to ensure proper completion of the application and will do so on a uniform basis for all applicants. Examples of curable (correctable) deficiencies include failure to submit the proper certifications or failure to submit an application that contains an original signature by an authorized official. In each case, under this NOFA, the appropriate HUD Multifamily Hub office will notify you in writing by describing the clarification or curable deficiency. You must submit clarifications or responses to curable deficiencies in accordance with the information provided by the Hub office within 14 calendar days of the date of HUD notification. (If the due date falls on a Saturday, Sunday, or federal holiday, your correction must be received by HUD on the next day that is not a Saturday, Sunday, or federal holiday.) If the deficiency is not corrected within this time period, HUD will reject the application as incomplete, and it will not be considered for funding. The following is a list of the deficiencies that will be considered curable in ALCP applications:

Exhibits

• *Application Summary.

• *Articles of Incorporation, or certification of Articles of Incorporation.

• *By-laws, or certification of by-laws.

• Evidence of occupancy for at least five years (not applicable to commercial facilities).

• Original project plans.

• Relocation Plan (not applicable to commercial property).

• Evidence of Permissive Zoning.

3. Certifications and Forms.

a. Standard Form-424, Application for Federal Assistance, including Compliance with Executive Order 12372.

b. SF-424 Supplement, Survey for Ensuring Equal Opportunity for Applicants (optional).

c. Form HUD-424B, Applicant Assurances and Certifications, Certification to Influence Federal Transaction and Standard Form-LLL, Disclosure of Lobbying Activities and

d. Form HUD-2880, Applicant/Recipient Disclosure/Update Report including Social Security and Employment Identification numbers.

e. Form HUD-2991, Certification of Consistency with the Consolidated Plan (Plan), for the Jurisdiction in which the Proposed ALF will be located.

f. Form HUD-2530, Previous Participation Certification.

g. Standard Form-LLL, Disclosure of Lobbying Activities.

h. Form HUD-96010, Program Outcome Logic Model.

i. Form HUD-27300, Removal of Regulatory Barrier.

The appropriate Hub office will notify you in writing if your application is missing any of the exhibits listed above and you will be given 14 days from the date of the HUD notification to submit the information required to cure the noted deficiencies. The exhibits identified by an asterisk (*) must be dated on or before the application deadline date. If not so dated the application will be rejected.

After the completeness review, HUD staff will review your application to determine whether the application meets the threshold requirements.

4. Threshold Review. Only those ALCP applications that meet all threshold requirements will be eligible to receive an award. Applications that do not pass threshold will be rejected. (See Section III.C 2. above of this NOFA for threshold requirements).

5. Appeal Process. Upon rejection of an ALCP application, HUD must send a letter to the Owner outlining all reasons for rejection. The Owner has 14 calendar days from the date of the letter to appeal the rejection. If the Owner submits an appeal, which causes the rejection to be overturned, the application is then rated, ranked, and submitted to the selection panel for consideration. If the Owner does not appeal or does appeal but the rejection is not overturned, the application remains a reject.

6. Review Panels. The Office of Housing's Multifamily Hubs will establish panels to review all eligible applications that have passed threshold.

7. Rating of Applications (See paragraph below for selection of applications for commercial properties).

HUD staff teams will review and rate ALCP applications in accordance with the Ranking and Selection procedures outlined below. All applications will be either rated or technically rejected at the end of technical review. If your application meets all program eligibility requirements after completion of technical review, it will be rated according to the rating selection factors in Section V.A. above of this NOFA. HUD reserves the right to reduce the amount requested in the application if any proposed components are ineligible or if the cost of items is not deemed reasonable. HUD will not reject an ALCP application based on technical review without notifying you of that rejection with all the reasons for the rejection, and providing you an opportunity to appeal. As discussed above, you will have 14 calendar days from the date of HUD's written notice to appeal a technical rejection to the Multifamily Hub where the applications were sent originally. HUD staff will make a determination on an appeal before finalizing selection recommendations.

8. Ranking and Selection Procedures. (Paragraphs (5)(a)-(d) are not applicable to applications from owners of commercial properties.)

Applications submitted in response to this NOFA that are eligible, pass threshold and have a total score of 75 points (or more) are eligible for ranking and selection. (Applications for the conversion of commercial properties with a score of at least 75 points will not be ranked but will be submitted to HUD Headquarters for selection.)

a. Hub staff teams will be established for ALCP review in each Hub to do the application ratings.

b. From within rank order, Hub staff teams in each of the 18 Hubs will select the highest ranked applications from within that Hub in rank order, which can be funded from within the dollars available. Each Hub will select applications based on rank order up to and including the last application that can be funded out of each Hub's allocation. Hubs must not skip over any applications in order to select one based on the funds remaining.

c. After making the initial selections, however, Hubs may use any residual funds to select the next rank-ordered application by reducing the dollars requested by no more than 10 percent and reducing the number of units proposed, but in no case reducing the number of units below the financial threshold feasibility of five ALF units.

d. Funds remaining after these processes are completed will be returned to HUD Headquarters. HUD Headquarters will use these funds to restore units to any project reduced as a result of using the residual grant funds in a Hub. Finally, HUD will use these funds for selecting one or more additional applications based on the Hubs rating and rankings, beginning with the highest rated application within the 18 Hubs. Only one application will be selected per Hub from the national residual amount. If there are no approvable applications in other Hubs, the process will begin again with the selection of the next highest rated application within the remaining Hubs. This process will continue until all approvable applications are selected using the available remaining funds. If there is a tie score between two or more applications, and there are insufficient residual funds to cover all tied applications, HUD Headquarters staff will choose the winning application(s) by lottery and/or reduction of grant requests consistent with the instructions above.

e. Up to two applications will be selected using the $7.5 million set-aside to provide grant funds to nonprofit applicants proposing to convert unused or underutilized commercial properties into assisted living. HUD Multifamily Hubs will review applications for commercial properties for completeness and compliance with the eligibility criteria set forth in Section III.C. of this NOFA. Hub staff will forward applications to Headquarters providing the application was received by the deadline date, meets all eligibility criteria, proposes reasonable costs for eligible activities, includes all technical corrections by the designated deadline date and must have received a score of 75 points or more. Headquarters will select no more than two applications on a first-come, first-served basis that can be funded within the money available.

Note: Only applications that can be fully funded will be selected. Any remaining funds after this selection process will be returned to the funds allocated for eligible multifamily assisted projects.

VI. Award Administration Information

A. Award Notices

1. The Grant Agreement, and the Form HUD-1044, signed by both the Recipient and Grant Officer, shall serve as the authorizing award documents. Unsuccessful applicants will be notified, by mail, within 30 days of the announcement of the awards.

2. Adjustments to Funding.

a. HUD will not fund any portion of your application that is not eligible for funding under specific program statutory or regulatory requirements; does not meet the requirements of this notice; or may be duplicative of other funded programs or activities. Only the eligible portion of your application will be funded.

3. Applicant Debriefing. All requests for debriefing must be made in writing and submitted to the local Hub in which you applied for assistance. Materials provided to you during your debriefing will include the final scores you received for each rating factor, final evaluator comments for each rating factor, and the final assessment indicating the basis upon which assistance was provided or denied. Information regarding this procedure may be found in the General Section of the SuperNOFA.

B. Administrative and National Policy Requirements

None.

C. Reporting

1. Recipients of funding under this program NOFA shall submit a progress report every six months after the effective date of the Grant Agreement. Progress reports shall include reports on both performance and financial progress.

VII. Agency Contacts

A. For Further Information and Technical Assistance. You should contact the Multifamily Hub where you will be mailing your ALCP Application. (Please refer to Hub telephone numbers in Appendix 1 of this NOFA.)

You also may contact Faye Norman, Housing Project Manager at (202) 708-3000, extension 2482 or Aretha Williams, Director, Grant Policy and Management Division, Room 6138 at (202) 708-3000, extension 2480 for questions regarding the ALF grant award process. These are not toll-free numbers. Ms. Norman can be reached by e-mail at Faye_L._Norman@hud.gov and Ms. Williams at aretha_m._williams@hud.gov. Both Ms. Norman and Ms. Williams are located at the Department of Housing and Urban Development, 451 Seventh Street, SW., Washington, DC 20410.

If you have a hearing or speech impairment, you may access the telephone number via TTY by calling the Federal Information Relay Service at 800-877-8339.

Application. All information for the submission of your application is included in this NOFA and the General Section of the SuperNOFA. You may also obtain an ALCP application by calling the SuperNOFA Information Center at (voice) 800-HUD-8929 (800-483-8929). Persons with a hearing or speech impairment may call the Center's TTY number at 800-HUD-2209. Please be sure to provide your name, address (including zip code), and telephone number (including area code). The application is also available on the Internet through the HUD Web site at http://www.hud.gov.grants/index.cfm.

Note: There is a separate application for service coordinator funds (which is necessary for those needing to enhance or add service coordination per Section III.C.3. of this NOFA).

VIII. Other Information

A. Paperwork Reduction Act. The information collection requirements contained in this document have been approved by the Office of Management and Budget (OMB) under the Paperwork Reduction Act of 1995 (4 U.S.C. 3501-3520) and assigned OMB control number 2502-0542. In accordance with the Paperwork Reduction Act, HUD may not conduct or sponsor, and a person is not required to respond to, a collection of information unless the collection displays a currently valid OMB control number. Public reporting burden for the collection of information is estimated to average 2,550 hours per annum per respondent for the application and grant administration. This includes the time for collecting, reviewing, and reporting data for the application, semi-annual reports, and final report. The information will be used for grantee selection and monitoring the administration of funds. Response to this request for information is required in order to receive the benefits to be derived.

B. Appendices. Appendix 1 presents the list of HUD offices. Appendix 2 to this NOFA provides the forms that are specific to this NOFA.

BILLING CODE 4210-32-P

Service Coordinators in Multifamily Housing Overview Information

A. Federal Agency Name: Department of Housing and Urban Development, Office of the Assistant Secretary for Housing-Federal Housing Commissioner.

B. Funding Opportunity Title: Service Coordinators In Multifamily Housing.

C. Announcement Type: Initial announcement.

D. Funding Opportunity Number: The Federal Register number for this NOFA is FR-4900-N-19. The OMB approval number for this program is 2502-0447.

E. Catalog of Federal Domestic Assistance (CFDA) Number: 14.191, Multifamily Housing Service Coordinators.

F. Application Due Date: The application due date is July 22, 2004.

G. Optional Additional Overview Information:

1. Available Funds. Approximately $25 million, Fiscal Year 2004 funds.

2. Purpose of the program: The Service Coordinator program allows multifamily housing owners to assist elderly individuals and people with disabilities living in HUD-assisted housing and in the surrounding area to obtain needed supportive services from the community, in order to enable them to continue living as independently as possible in their own homes.

3. Eligible Applicants: Only owners of eligible multifamily assisted developments may apply for and become the recipient of grant funds.

Full Text of Announcement

I. Funding Opportunity Description

A. The Service Coordinator Program. The Service Coordinator Program provides funding for the employment and support of Service Coordinators in insured and assisted housing developments that were designed for the elderly and persons with disabilities and continue to operate as such. Service Coordinators help residents obtain supportive services from the community that are needed to enable independent living and aging in place. A Service Coordinator is a social service staff person hired or contracted by the development's owner or management company. The Service Coordinator is responsible for assuring that elderly residents, especially those who are frail or at risk, and those non-elderly residents with disabilities are linked to the supportive services they need to continue living independently in their current homes. All services should meet the specific desires and needs of the residents themselves. The Service Coordinator may not require any elderly individual or person with a disability to accept any specific supportive service(s).

You may want to review the Management Agent Handbook 4381.5 REVISION-2, CHANGE-2, Chapter 8 for further guidance on service coordinators. This Handbook is accessible through HUDCLIPS on HUD's Web site at http://www.hudclips.org. The Handbook is in the Handbooks and Notices—Housing Notices database. Enter the Handbook number in the “Document Number” field to retrieve the Handbook.

B. Authority

Section 808 of the Cranston-Gonzalez National Affordable Housing Act (Pub. L. 101-625, approved November 28, 1990), as amended by sections 671, 674, 676, and 677 of the Housing and Community Development Act of 1992 (Pub. L. 102-550, approved October 28, 1992), and section 851 of the American Homeownership and Economic Opportunity Act of 2000 (Pub. L. 106-569, approved December 27, 2000).

C. Definition of Terms Used in this Program NOFA

1. “Activities of daily living (ADLs)” means eating, dressing, bathing, grooming, and household management activities, as further described below:

a. Eating—May need assistance with cooking, preparing, or serving food, but must be able to feed self;

b. Bathing—May need assistance in getting in and out of the shower or tub, but must be able to wash self;

c. Grooming—May need assistance in washing hair, but must be able to take care of personal appearance;

d. Dressing—Must be able to dress self, but may need occasional assistance; and

e. Home management activities—May need assistance in doing housework, grocery shopping, laundry, or getting to and from activities such as going to the doctor and shopping, but must be mobile. The mobility requirement does not exclude persons in wheelchairs or those requiring mobility devices.

2. “At-risk elderly person” is an individual 62 years of age or older who is unable to perform one or two ADLs, as defined in the above paragraph.

3. “Frail elderly person” means an individual 62 years of age or older who is unable to perform at least three ADLs as defined in the above paragraph.

4. “People with disabilities” means those individuals who:

a. Have a disability as defined in Section 223 of the Social Security Act;

b. Have a physical, mental, or emotional impairment expected to be of long, continued, and indefinite duration that impedes the individual's ability to live independently; or

c. Have a developmental disability.

5. “Reasonable costs” mean that costs are consistent with salaries and administrative costs of similar programs in your Field office's jurisdiction.

D. Functions of a Service Coordinator. The major functions of the Service Coordinator include the following:

1. Refer and link the residents of the development to supportive services provided by the general community. Such services may include case management, personal assistance, homemaker, meals-on-wheels, transportation, counseling, occasional visiting nurse, preventive health screening/wellness, and legal advocacy.

2. Educate residents on service availability, application procedures, client rights, etc.

3. Establish linkages with agencies and service providers in the community. Shop around to determine/develop the best “deals” in service pricing, to assure individualized, flexible, and creative services for the involved resident. Provide advocacy as appropriate.

4. Provide case management when such service is not available through the general community. This might include evaluation of health, psychological and social needs, development of an individually tailored case plan for services, and periodic reassessment of the resident's situation and needs. Service Coordinators can also set up a Professional Assessment Committee (PAC) to assist in performing initial resident assessments. (See the guidance in the Congregate Housing Services Program (CHSP) regulations at 24 CFR 700.135 (or 1944.258 for Rural Housing developments).

5. Monitor the ongoing provision of services from community agencies and keep the case management and provider agency current with the progress of the individual. Manage the provision of supportive services where appropriate.

6. Help the residents build informal support networks with other residents, family and friends.

7. Work and consult with tenant organizations and resident management corporations. Provide training to the development's residents in the obligations of tenancy or coordinate such training.

8. Create a directory of providers for use by both development staff and residents.

9. Educate other staff of the management team on issues related to aging in place and Service Coordination, to help them to better work with and assist the residents.

E. Basic Qualifications of Service Coordinators and Aides

1. Service Coordinator qualifications include the following:

a. A Bachelor of Social Work or degree in Gerontology, Psychology or Counseling is preferable; a college degree is fully acceptable. You may also consider individuals who do not have a college degree, but who have appropriate work experience.

b. Knowledge of the aging process, elder services, disability services, eligibility for and procedures of federal and applicable state entitlement programs, legal liability issues relating to providing Service Coordination, drug and alcohol use and abuse by the elderly, and mental health issues.

c. Two to three years experience in social service delivery with senior citizens and people with disabilities. Some supervisory or management experience may be desirable if the Service Coordinator will work with aides.

d. Demonstrated working knowledge of supportive services and other resources for senior citizens and non-elderly people with disabilities available in the local area.

e. Demonstrated ability to advocate, organize, problem-solve, and provide results for the elderly and people with disabilities.

2. Aides working with a Service Coordinator should either have a college degree or appropriate experience in working with the elderly and/or people with disabilities. An example of an aide position could be an internship or work-study program with local colleges and universities to assist in carrying out some of the Service Coordinator's functions.

II. Award Information

A. Available Funding. The Consolidated Appropriations Act, 2004 (Pub. L. 108-199, approved January 23, 2004) provides $29,823,000, which reflects a .59 percent across-the-board rescission, to fund Service Coordinators and the continuation of existing Congregate Housing Services Program (CHSP) grants. Of this amount, approximately $25 million will be used to fund new Service Coordinator programs. The remaining amount, plus carryover funds, will be used to fund one-year extensions to expiring Service Coordinator and CHSP grants.

B. Maximum Grant Award. There is no maximum grant amount. The grant amount you request will be based on the Service Coordinator's salary and the number of hours worked each week by that Service Coordinator (and/or aide). You should base your determination of the appropriate number of weekly work hours on the number of people in the development who are frail, at-risk, or non-elderly people with disabilities. Under normal circumstances, a full-time Service Coordinator should be able to serve about 50-60 frail or at-risk elderly or non-elderly people with disabilities on a continuing basis. Your proposed salary must also be supported by evidence of comparable salaries in your area. Gather data from programs near you to compare your estimates with the salaries and administrative costs of currently operating programs. HUD Field staff can provide you with contacts at local program sites. HUD provides funding in the form of three-year grants. HUD may renew grants subject to the availability of funds and acceptable program performance.

III. Eligibility Information

A. Eligible Applicants

1. You must meet all of the applicable eligibility requirements of Section III.C of the General Section of the SuperNOFA.

2. You must be an owner of a development assisted under one of the following programs:

a. Section 202 Direct Loan;

b. Project-based Section 8 (including Section 8 Moderate Rehabilitation), or

c. Section 221(d)(3) below-market interest rate, and 236 developments that are insured or assisted.

3. You must be approved to conduct new business with the Department, based on HUD's evaluation of the applicant's previous participation activities as reported on the “Previous Participation Certification”, form HUD-2530.

4. Additionally, developments listed in paragraph III.A.2, above, are eligible only if they meet the following criteria:

a. Have frail or at-risk elderly residents and/or non-elderly residents with disabilities who together total at least 25 percent of the building's residents. (For example, in a 52-unit development, at least 13 residents must be frail, at-risk, or non-elderly people with disabilities.)

b. Were designed for the elderly or persons with disabilities and continue to operate as such. This includes any building within a mixed-use development that was designed for occupancy by elderly persons or persons with disabilities at its inception and continues to operate as such, or consistent with title VI, subtitle D of the Housing and Community Development Act of 1992 (Pub. L.102-550). If not so designed, a development in which the owner gives preferences in tenant selection (with HUD approval) to eligible elderly persons or persons with disabilities, for all units in that development.

c. If FHA insured or financed by a Section 202 Direct Loan, are current in mortgage payments or are current under a workout agreement.

d. Meet HUD's Uniform Physical Conditions Standards (codified in 24 CFR part 5, subpart G), based on the most recent physical inspection report and responses thereto, as evidenced by a score of 60 or better on the last physical inspection or by an approved plan for developments scoring less than 60.

e. Are in compliance with their regulatory agreement, Housing Assistance Payment (HAP) Contract, and any other outstanding HUD grant or contract document.

f. Have no available project funds (i.e., Section 8 operating funds, residual receipts, or excess income) that could pay for a Service Coordinator program. (“Available funds” are those that require HUD approval for their use and are not needed to meet critical project needs.) Field office staff will make this determination based on financial records maintained by the Department and information provided by the applicant in the grant application.

5. If your eligibility status changes during the course of the grant term, making you ineligible to receive a grant (e.g., due to prepayment of mortgage, sale of property, or opting out of a Section 8 HAP contract), HUD has the right to terminate your grant.

6. Ineligible Applicants and Developments.

a. Property management companies, area agencies on aging, and other like organizations are not eligible applicants for Service Coordinator funds. Such agents may prepare applications and sign application documents if they provide written authorization from the owner corporation as part of the application. In such cases, the owner corporation must be indicated on all forms and documents as the funding recipient.

b. Developments not designed for the elderly, people with disabilities, or those no longer operating as such;

c. Section 221(d)(4) and Section 515 developments without project-based Section 8 assistance;

d. Section 202 and 811 developments with a Project Rental Assistance Contract (PRAC). Owners of Section 202 PRAC developments may obtain funding by requesting an increase in their PRAC payment consistent with Handbook 4381.5 REVISION-2, CHANGE-2, Chapter 8;

e. Conventional public housing, as such term is defined in section 3(b) of the United States Housing Act of 1937), and Units assisted by project-based Housing Choice Vouchers, as set forth in 24 CFR Part 983.

f. Renewals of existing Section 8 Service Coordinator subsidy awards or grants. HUD currently provides one-year extensions to these subsidy awards and grants through a separate funding action.

B. Cost Sharing or Matching Requirement.

None required.

C. Other

1. Eligible Activities.

a. Service Coordinator Program grant funds may be used to pay for the salary, fringe benefits, and related support costs of employing a service coordinator. Support costs may include quality assurance, training, travel, purchase of office furniture, equipment, and supplies, computer hardware, software, and Internet service, and indirect administrative costs.

b. You may use grant funds to pay for Quality Assurance (QA) in an amount that does not exceed ten percent of the Service Coordinator's salary. Eligible QA activities are those that evaluate your program, to assure that the position and program are effectively implemented. A qualified, objective third party must perform the program evaluation work and must have work experience and education in social or health care services. Your QA activities must identify short and long term program outcomes and performance indicators that will help you measure your performance. On-site housing management staff cannot perform QA and you may not augment current salaries of in-house staff for this purpose.

c. You may propose reasonable costs associated with setting up a confidential office space for the Service Coordinator. Such expenses must be one-time only administrative start-up costs. Such costs may involve acquisition, leasing, rehabilitation, or conversion of space. HUD Field office staff must approve both the proposed costs and activity and must perform an environmental assessment on such proposed work prior to grant award.

d. You may use funds to augment a current Service Coordinator program, by increasing the hours of a currently employed Service Coordinator, or hiring an additional Service Coordinator or aide on a part- or full-time basis. Likewise, ALCP applicants may apply for new or augmented Service Coordinator costs to serve Assisted Living residents and/or all residents of the development.

e. You may use funds to continue a Service Coordinator program that has previously been funded through other sources. In your application, you must provide evidence that this funding source has already ended or will discontinue within six months following the application deadline date and that no other funding mechanism is available to continue the program. This applies only to funding sources other than the subsidy awards and grants provided by the Department through program Notices beginning in FY1992. HUD currently provides one-year extensions to these subsidy awards and grants through a separate funding action.

f. You may provide service coordination to low-income elderly individuals or people with disabilities living in the vicinity of an eligible development. Community residents should come to your housing development to meet with and receive service from the Service Coordinator, but you must make reasonable accommodations for those individuals unable to travel to the housing site.

2. Threshold Requirements.

a. At the time of submission, grant applications must contain the materials in Section IV.B.2.a and d of this Program NOFA in order to be considered for funding. If any of these items is missing, HUD will immediately reject your application.

b. In cases where field office staff request information in response to technical deficiencies in applications, applicants must submit the response by the designated deadline date. If requested responses are not received by this date, HUD will reject the application.

c. DUN and Bradstreet Universal Numbering System (DUNS) Number Requirement. Refer to the General Section of the SuperNOFA for information regarding the DUNS requirement. You will need to obtain a DUNS number to receive an award from HUD.

3. Program Requirements. In managing your Service Coordinator grant, you must meet the requirements of this Section. These requirements apply to all activities, programs, and functions used to plan, budget, and evaluate the work funded under your program

a. You must make sufficient separate and private office space available for the Service Coordinator and/or aides to meet with residents, without adversely affecting normal activities.

b. The Service Coordinator must maintain resident files in a secured location. Files must be accessible ONLY to the Service Coordinator, unless residents provide signed consent otherwise. These policies must be consistent with maintaining confidentiality of information related to any individual per the Privacy Act of 1974.

c. Grantees must ensure that the Service Coordinator receives appropriate supervision, training, and ongoing continuing education, consistent with statutory and HUD administrative policies. This includes 36 hours of training in age-related and disability issues during the first year of employment, if the Service Coordinator has not received recent training in these areas, and 12 hours of continuing education each year thereafter.

d. Grantees are responsible for any budget shortfalls during the three-year grant term.

e. As a condition of receiving a grant, Section 202 developments without a dedicated residual receipts account must amend their regulatory agreement and open such an account, separate from their Reserve for Replacement account.

f. Subgrants and Subcontracts. You may directly hire a Service Coordinator or you may contract with a qualified third party to provide this service.

g. Environmental Requirements. It is anticipated that most activities under this program are categorically excluded from the National Environmental Policy Act (NEPA) and related environmental authorities under 24 CFR 50.19(b)(3), (4), (12), or (13). If grant funds will be used to cover the cost of any activities which are not exempt from environmental review requirements—such as acquisition, leasing, construction, or building rehabilitation, HUD must perform an environmental review to the extent required by 24 CFR part 50, prior to grant award.

4. Submission Information.

a. Single Applications.

(1) You may submit one application for one or more developments that your corporation owns.

(2) You may submit more than one application to a single field office, if you wish to increase your chances of selection in the lottery. Each application must propose a stand-alone program at separate developments. The developments must all be located in the same field office jurisdiction.

(3) If you wish to apply on behalf of developments located in different field office jurisdictions, you must submit a separate application to each field office.

b. Joint Applications. You may join with one or more other eligible owners to share a Service Coordinator and submit a joint application. In the past, joint applications have been used by small developments that joined together to hire and share a part or full-time Service Coordinator.

c. Application Submission Requirements for ALCP Applicants.

(1) If you are an ALCP applicant and you request new or additional Service Coordinator funds specifically for your proposed Assisted Living Program, you must submit an application containing all required documents listed in Section IV.B of this Program NOFA. You may provide a copy of all standard forms in your Service Coordinator application.

(2) Be sure to indicate the amount of grant funds you are requesting for both programs on your SF-424 forms. HUD field office staff will review both applications simultaneously.

(3) If you currently do not have a Service Coordinator working at the development proposed in your ALCP application and your ALCP application is selected to receive an award, HUD will fund a Service Coordinator to serve either ALCP residents only or all residents of the development dependent upon your request. If your development currently has a Service Coordinator, you may request additional hours for the Service Coordinator to serve the Assisted Living residents. If you request additional hours, you must specify the number of additional hours per week and provide an explanation based on the anticipated needs of the Assisted Living residents. If you request Service Coordinator funding to serve all residents of your development, indicate whether or not your request should be entered into the national lottery if your ALCP application is not selected to receive an award. Provide this information in your related narrative, pursuant to paragraph IV.B.2.d(6) of this NOFA.

IV. Application and Submission Information

A. Addresses to Request Application Package. Application Kits. Please note that all information needed for the preparation and submission of your application is included in this program NOFA and in the General Section of the SuperNOFA. HUD will not provide a separate application kit.

SuperNOFA, Guidebook, and Further Information. You may request general information, copies of the General Section and Program Sections of the SuperNOFA, and the SuperNOFA Guidebook from the NOFA Information Center (800-HUD-8929 or 800-HUD-2209 (TTY)) between the hours of 9 a.m. and 8 p.m. (eastern time) Monday through Friday, except on federal holidays. When requesting an application, please refer to the Multifamily Housing Service Coordinator Program and provide your name, address (including zip code) and telephone number (including area code). To ensure sufficient time to prepare your application, you may request copies of this Program section of the SuperNOFA immediately following publication. The NOFA Information Center opens for business simultaneously with the publication of the SuperNOFA. You can also obtain information on this Program section of the SuperNOFA from http://www.grants.gov.

B. Content and Form of Application Submission. Your application must contain the items listed in paragraphs 1 and 2, following. These items include the standard forms, certifications, and assurances listed in the General Section of the SuperNOFA that are applicable to this funding (collectively referred to as the “standard forms”). The standard forms and other required forms can be found following the General Section of the SuperNOFA. The items are as follows:

1. Standard Forms.

a. Application for Federal Assistance (SF-424)

b. SF-424 Supplement “ Survey on Ensuring Equal Opportunity for Applicants.

c. Applicant Assurances and Certifications (HUD-424B)

d. If engaged in lobbying, the Disclosure Form Regarding Lobbying (SF-LLL)

e. Applicant/Recipient Disclosure/Update Report Form (HUD-2880)

f. Acknowledgment of Application Receipt (HUD-2993)

g. Client Comments and Suggestions (HUD-2994), optional

2. Other Application Items. All applications for funding under the Service Coordinator Program must contain the following documents and information:

a. Service Coordinator First-Time Funding Request, form HUD-91186.

b. Previous Participation Certification, form HUD-2530.

c. If more than one owner is proposing to share a Service Coordinator, one agency must designate itself the “lead”. This lead agency must submit a letter along with the completed application materials from each owner. The letter must be on organization letterhead and contain the number of developments, their names and addresses, and the dollar amount requested for each site. The legal signatory for the owner corporation must sign the letter, indicating agreement to administer grant funds for the housing developments listed in the letter.

d. Evidence of comparable salaries in your local area.

e. Narrative Statements Describing Your Program.

(1) Explain your method of estimating how many residents of your development are frail or at-risk elderly or non-elderly people with disabilities. Please document that individuals meeting these criteria make up at least 25 percent of your resident population. (Do not include elderly individuals or people with disabilities who do not live in the eligible developments included in your application.)

(2) Explain how you will provide on-site private office space for the Service Coordinator, to allow for confidential meetings with residents. If construction is planned, also include a plan and a cost-estimate.

(3) Your quality assurance program evaluation activities and itemized list of estimated expenses for this activity if included in your request for funding. Indicate the type of professional or entity that will perform the work if known at this time or the criteria you will use to select the provider.

(4) If you wish to augment an existing program, describe your program's needs and explain how the additional staff hours requested will help meet these needs. .

(5) A description of your plan to address community resident needs, if applicable to your program.

(6) If you are applying for an Assisted Living Conversion Program (ALCP) grant in conjunction with your Service Coordinator application, describe how the new or additional Service Coordinator hours will support your proposed assisted living program (by following the instruction provided in the ALCP NOFA), and indicate if you want your Service Coordinator application entered into the lottery if your ALCP application is not selected to receive an award.

f. Evidence that no project funds are available to fund a Service Coordinator program. You must include a copy of your development's most recent bank statement, showing the project's current residual receipts or excess income balance (if any). It is incumbent upon the applicant to demonstrate that no such project funds are available.

g. If applicable, evidence that prior funding sources for your development's Service Coordinator program are no longer available or will expire within six months following the application deadline date.

h. If an agent is preparing the application for an owner, an authorizing letter from the owner.

C. Submission Dates and Times. Your application will be considered timely filed if it is received by the designated HUD field office or postmarked on or before July 22, 2004. Applicants must follow the timely submission requirements in the General Section.

D. Intergovernmental Review: Intergovernmental review is not applicable to this program.

E. Funding Restrictions.

1. Alternative Funding for Service Coordinators. If your development has available Section 8 operating funds, residual receipts, or excess income, not needed for critical project expenses, you must use these project funds prior to receiving grant monies. Owners may submit requests to use Section 8 operating funds, residual receipts, or excess income pursuant to instructions in Housing's Management Agent Handbook 4381.5, REVISION-2, CHANGE-2, Chapter 8 and Housing Notice H 02-14. HUD field staff may approve use of these project funds at any time, consistent with current policy. You should discuss these alternative funding options with your field office staff prior to submitting a grant application.

2. Ineligible Activities and Program Costs.

a. You may not use funds available through this NOFA to replace currently available funding from other sources for a Service Coordinator or for some other staff person who performs service coordinator functions.

b. Owners with existing service coordinator subsidy awards or grants may not apply for renewal or extension of those programs under this NOFA. HUD will provide extension funds through a separate funding process.

c. You cannot hire an additional part or full-time Service Coordinator for the sole purpose of serving community residents.

d. Grant recipients may not use grant funds to pay for supervision performed by property management staff; (Management fees already pay for such supervision).

e. Cost overruns associated with creating private office space and usual audit and legal fees are not eligible uses of grant funds.

f. The cost of application preparation is not eligible for reimbursement.

g. Grant funds cannot be used to increase a project's management fee.

h. Grant funds may not cover the cost of Service Coordinator-related training courses for members of a development's management staff who do not directly provide Service Coordination. Owners must use their management fees to pay this expense.

i. Owners/managers cannot use Reserve for Replacement funds to pay costs associated with a Service Coordinator program.

j. Congregate Housing Services Program grantees may not use these funds to meet statutory program match requirements and may not use these funds to replace current CHSP program funds to continue the employment of a service coordinator.

k. Grantees cannot use grant funds to pay PAC members for their services.

l. The grant amount allowed for QA may not exceed ten percent of the Service Coordinator's salary.

3. Prohibited Service Coordinator Functions. During work hours paid for by this grant, Service Coordinators may not perform the following activities:

a. Act as a recreational or activities director;

b. Provide supportive services directly;

c. Act as a Neighborhood Networks program director or coordinator;

d. Perform property management work, regardless of the funding source used to pay for these activities.

F. Other Submission Requirements:

1. Application Copies. You must submit an original and two copies of your application.

2. Application Delivery. You must submit your application to the field office that has jurisdiction over the housing developments included in your application. Also see the General Section of the SuperNOFA for more application delivery information including delivery times and timely submission requirements.

3. Use the field office list provided in the appendix to this NOFA to address your applications and to contact your local HUD field office staff. Use this list rather than the field office list provided in the General Section of the SuperNOFA.

V. Application Review Information

A. Criteria

1. HUD will not award Service Coordinator Program grant funds through a rating and ranking process. Instead, the Department will hold one national lottery for all eligible applications forwarded from Multifamily Hub and Multifamily Program Centers.

2. Threshold Eligibility Review. HUD Multifamily field office staff will review applications for completeness and compliance with the eligibility criteria set forth in Section III of this NOFA. Field office staff will forward application information to Headquarters for entry into the lottery if the application was received by the deadline date, meets all eligibility criteria, proposes reasonable costs for eligible activities, and includes all technical corrections received by the designated deadline date.

B. Review and Selection Process

1. Funding Priorities.

a. Prior to the lottery, HUD will fund Service Coordinator applications submitted by FY2004 ALCP applicants, whose ALCP applications are selected for funding under that program's NOFA. HUD estimates that approximately $1 million will be used to fund ALCP Service Coordinator applications. Any funds not used by the ALCP program to fund service coordinators will be added to the funds available for the National Lottery.

b. After setting aside funds for ALCP applicants, and prior to the lottery, HUD will next fund all applications submitted by owners who are applying for grant funds to continue a currently operating program previously funded by project funds. As stated in paragraph III.A.4.f of this NOFA, such applications are eligible only if project funds are no longer available to continue the program.

2. Selection Process.

a. HUD will use remaining funds to make grant awards through the use of a national lottery. A computer program performs the lottery by randomly selecting eligible applications. b. HUD will fully fund as many applications as possible with the given amount of funds available. After all fully fundable applications have been selected by lottery, HUD may make an offer to partially fund the next application on the lottery's list, in order to use the entire amount of funds allocated. If the applicant selected for partial funding turns down the offer, HUD will make an offer to partially fund the next application on the lottery list. HUD will continue this process until an applicant accepts the partial funding offer.

3. Reduction in Requested Grant Amount. HUD may make an award in an amount less than requested, if:

a. HUD determines that some elements of your proposed program are ineligible for funding;

b. There are insufficient funds available to make an offer to fully fund the application;

c. HUD determines that reduced grant amount would prevent duplicative federal funding.

4. Corrections to Deficient Applications. Section V.B.4 of the General Section of the SuperNOFA provides the procedures for corrections to deficient applications.

VI. Award Administration Information

A. Award Notices

HUD field staff will send, by postal or overnight mail, selection letters and grant agreements to the award recipient organization. The grant agreement is the obligating document and funds are obligated once the HUD grant officer signs the agreement. Field staff will send non-selection letters during this same period of time. If your application is rejected, field staff may notify you by letter any time during the application review process.

B. Administrative and National Policy Requirements

C. Reporting

1. All award recipients must submit the following reports on a yearly basis:

a. Two Semi-Annual Financial Status Reports (SF-269-A), for each half-year period of the federal fiscal year;

b. Two Semi-Annual Service Coordinator Performance Reports, (HUD-92456), for each half-year period of the federal fiscal year. The objectives of the Service Coordinator program are to enhance a resident's quality of life and ability to live independently and age in place. The data that HUD collects on the performance report measures the grantee's success in meeting these intended program outcomes. The data reported include the numbers of residents served, their ages, frailty levels, and the range of services provided to them. In addition, the performance report assesses the Service Coordinator's efficiency in providing coordination, by reporting the number of hours worked, the amount of time spent doing administrative tasks, the types of professional training attended, and examples of problems encountered throughout the course of their work.

c. Periodic reimbursement requests (i.e., Payment Voucher, form HUD-50080-SCMF), providing program expenses for the associated time period, and submitted in accordance with the due dates stated in the grant agreement. Grantees must request grant payments directly following the end of each agreed-upon time period and the funds must reimburse those program costs already incurred.

2. If your grant includes Quality Assurance activities, you must submit a copy of at least one annual QA Report. Your report is due on October 30 of each year, along with the semi-annual financial and performance reports.

VII. Agency Contacts

You may contact your local HUD field office staff for questions you have regarding this program section of the SuperNOFA and your application. Please contact the Multifamily Housing Resident Initiatives Specialist or Service Coordinator contact person in your local office. If you are an owner of a Section 515 development, contact the HUD field office that monitors your Section 8 contract. If you have a question that the field staff is unable to answer, please call Carissa Janis, Housing Project Manager; Office of Housing Assistance and Grants Administration; U. S. Department of Housing and Urban Development; 451 Seventh Street, SW., Room 6146; Washington, DC 20410; (202) 708-3000, extension 2487 (this is not a toll-free number). If you are hearing- or speech-impaired, you may access this number via TTY by calling the Federal Information Relay Service at 800-877-8339.

VIII. Other Information

A. Satellite Broadcast. HUD will hold an information program for potential applicants via satellite broadcast to learn more about the program and preparation of the application. For more information about the date and time of the broadcast, you should contact your local field office staff or consult the HUD Web site at http://www.hud.gov.

B. Paperwork Reduction Act. The information collection requirements contained in this document has been approved by the Office of Management and Budget (OMB) under the Paperwork Reduction Act of 1995 (44 U.S.C. 3501-3520) and assigned OMB control number 2502-0447. In accordance with the Paperwork Reduction Act, HUD may not conduct or sponsor, and a person is not required to respond to, a collection of information unless the collection displays a currently valid OMB control number. Public reporting burden for the collection of information is estimated to average 50.25 hours per annum per respondent for the application and grant administration. This includes the time for collecting, reviewing, and reporting the data for the application, semi-annual reports and final report. The information will be used for grantee selection and monitoring the administration of funds. Response to this request for information is required in order to receive the benefits to be derived.

C. Appendices. Appendix A to this NOFA presents the list of HUD offices. Appendix B to this NOFA provides the forms that are specific to this NOFA.

Appendix

Local HUD Offices

Notes: 1. Your application must be sent to the appropriate local HUD Office having jurisdiction over the locality in which your project is located. If you send your application to the wrong local HUD Office, it will be rejected. Therefore, if you are uncertain as to which local HUD Office to submit your application, you are encouraged to contact the local HUD Office below that is closest to your project's location to ascertain the Office's jurisdiction and ensure that you submit your application to the correct local HUD Office.

2. If your project is located within the jurisdiction of the Boston, Massachusetts Office, your application must be submitted to the Manchester, New Hampshire Office.

BILLING CODE 4210-32-P

Funding Availability for the Section 202 Supportive Housing for the Elderly Program (Section 202 Program)

Overview Information

A. Federal Agency Name: Department of Housing and Urban Development, Office of Housing.

B. Funding Opportunity Title: Section 202 Supportive Housing for the Elderly.

C. Announcement Type: Initial announcement.

D. Funding Opportunity Number: OMB Approval Number: 2502-0267. The Federal Register number for this NOFA is: FR-4900-N-27.

E. Catalog of Federal Domestic Assistance (CFDA) Number(s): 14.157, Section 202 Supportive Housing for the Elderly.

F. Dates: Application Deadline Date: July 7, 2004. Refer to Section IV below and the General Section for information on application submission requirements.

G. Optional, Additional Overview Content Information:

1. Purpose of the Program. This program provides funding for the development and operation of supportive housing for very low-income persons 62 years of age or older.

2. Available Funds. Approximately $495.2 million in capital advance funds, plus associated project rental assistance contract (PRAC) funds and any carryover funds available.

3. Types of Funds. Capital advance funds will cover the cost of developing the housing. PRAC funds will cover the difference between the HUD-approved operating costs of the project and the tenants' contributions toward rent (30 percent of their adjusted monthly income).

4. Eligible Applicants. Private nonprofit organizations and nonprofit consumer cooperatives. (See Section VI.B.6. of this program NOFA for further details and information regarding the formation of the Owner corporation).

5. Eligible Activities. New construction, rehabilitation, or acquisition (with or without rehabilitation) of housing. (See Section III.C.1. below of this program NOFA for further information.

6. Match Requirements. None required.

7. Local HUD Offices. The local HUD Office structure, for the purpose of implementing the Section 202 program, consists of 18 Multifamily Hub Offices. Within the Multifamily Hubs, there are Multifamily Program Centers with the exception of the New York Hub, the Buffalo Hub, the Denver Hub and the Los Angeles Hub. All future references shall use the term “local HUD Office” unless a more detailed description is necessary as in Limitations on Applications and Ranking and Selection Procedures, below.

Full Text of Announcement

I. Funding Opportunity Description

A. Program Description. HUD provides capital advances and contracts for project rental assistance in accordance with 24 CFR part 891. Capital advances may be used for the construction or rehabilitation of a structure, or acquisition of a structure with or without rehabilitation (including structures from the Federal Deposit Insurance Corporation (FDIC)). Capital advance funds bear no interest and are based on development cost limits in Section IV.E.3. below. Repayment of the capital advance is not required as long as the housing remains available for occupancy by very low-income elderly persons for at least 40 years.

Project rental assistance contract (PRAC) funds are used to cover the difference between the tenants' contributions toward rent (30 percent of adjusted income) and the HUD-approved cost to operate the project. PRAC funds may also be used to provide supportive services and to hire a service coordinator in those projects serving frail elderly residents. The supportive services must be appropriate to the category or categories of frail elderly residents to be served (see Section G.3. above).

B. Authority. The Section 202 Supportive Housing for the Elderly Program is authorized by section 202 of the Housing Act of 1959 (12 U.S.C. 1701q), as amended by section 801 of the Cranston-Gonzalez National Affordable Housing Act (Pub. L. 101-625; approved November 28, 1990); the Housing and Community Development Act of 1992 (Pub. L. 102-550; approved October 28, 1992), the Rescissions Act (Pub. L. 104-19; enacted on July 27, 1995); the American Homeownership and Economic Opportunity Act of 2000 (Pub. L. 106-569; approved December 27, 2000); and the Consolidated Appropriations Act, 2004 (Pub. L. 108-199, approved January 23, 2004).

C. Calculation of Fund Reservation. If selected, you will receive a fund reservation that will consist of both a reservation of capital advance funds and a reservation of contract authority (one year) and budget authority (five years) for project rental assistance.

1. Capital Advance Funds. The reservation of capital advance funds is based on a formula which takes the development cost limit for the appropriate building type (elevator, non-elevator) and unit size(s) and multiplies it by the number of units of each size (including a unit for a resident manager, if applicable) and then multiplies the result by the high cost factor for the area. The development cost limits can be found in Section IV.E.3. of this program section of the SuperNOFA.

2. PRAC Funds. The PRAC contract authority is determined by multiplying the number of revenue units for elderly persons by the appropriate operating cost standard and then multiplying the result by 12 (months). The PRAC budget authority is determined by multiplying the PRAC contract authority by 5 (years). The operating cost standards will be published by Notice.

II. Award Information

A. Available Funds. For FY2004, approximately $495.2 million is available for capital advances for the Section 202 Supportive Housing for the Elderly Program. The Consolidated Appropriations Act, 2004 (Pub. L. 108-199, approved January 23, 2004) provides $ 699,171,000 for capital advances, including amendments to capital advance contracts, for supportive housing for the elderly as authorized by section 202 of the Housing Act of 1959 (12 U.S.C. 1701q), as amended by section 801 of the Cranston-Gonzalez National Affordable Housing Act (Pub. L. 101-625, approved November 28, 1990), for project rental assistance, amendments to contracts for project rental assistance, and renewal of expiring contracts for such assistance for up to a one-year term, for supportive housing for the elderly under section 202(c)(2) of the Housing Act of 1959 as well as the amount of $467,000 to be transferred to the Working Capital Fund all of which reflect a .59 percent across-the-board rescission pursuant to Public Law 108-199.

Additionally, the FY2004 Consolidated Appropriations Act provide $20,000,000 for a Section 202 Demonstration Planning Grant Program for predevelopment grants to private nonprofit organizations and consumer cooperatives in connection with the development of housing under the Section 202 program. The announcement of the availability of these funds will be addressed in a separate NOFA.

In accordance with the waiver authority provided in the FY2004 Consolidated Appropriations Act, the Secretary is waiving the following statutory and regulatory provision: The term of the project rental assistance contract is reduced from 20 years to 5 years. HUD anticipates that at the end of the contract terms, renewals will be approved subject to the availability of funds. In addition to this provision, HUD will reserve project rental assistance contract funds based on 75 percent rather than on 100 percent of the current operating cost standards for approved units in order to take into account the average tenant contribution toward rent.

The allocation formula used for Section 202 reflects the “relevant characteristics of prospective program participants,” as specified in 24 CFR 791.402(a). The FY2004 formula consists of one data element from the 2000 Census: number of one-person elderly renter households (householder age 62 and older) with incomes at or below the applicable Section 8 very low-income limit, and with housing conditions. Housing conditions are defined, as paying more than 30 percent of income for gross rent, or occupying a unit lacking some or all kitchen or plumbing facilities, or occupying an overcrowded unit (1.01 persons per room or more).

Under Section 202, 85 percent of the total capital advance amount is allocated to metropolitan areas and 15 percent to nonmetropolitan areas. In addition, each local HUD Office jurisdiction receives sufficient capital advance funds for a minimum of 20 units in metropolitan areas and 5 units in nonmetropolitan areas. The total amount of capital advance funds to support these minimum set-asides are subtracted from the respective (metropolitan or nonmetropolitan) total capital advance amounts available. The remainder is fair shared to each local HUD Office jurisdiction whose fair share exceeds the minimum set-aside based on the allocation formula fair share factors described below.

Note: The allocations for metropolitan and nonmetropolitan portions of the local HUD Office jurisdictions reflect the definitions of metropolitan and nonmetropolitan areas as of the 2000 Census, as defined by the Office of Management and Budget at that time.

A fair share factor is developed for each metropolitan and nonmetropolitan portion of each local HUD Office jurisdiction by dividing the number of elderly renter households in the respective metropolitan and nonmetropolitan portion of the jurisdiction by the total number of elderly rental households in the metropolitan and nonmetropolitan portions of the United States. The resulting percentage for each local HUD Office jurisdiction is then adjusted to reflect the relative cost of providing housing among the local HUD Office jurisdictions. The adjusted needs percentage for the applicable metropolitan or nonmetropolitan portion of each jurisdiction is then multiplied by the respective total remaining capital advance funds available nationwide. Based on the allocation formula, HUD has allocated the available capital advance funds as shown on the following chart:

BILLING CODE 4210-32-P

BILLING CODE 4210-32-C

B. Type of Award. Capital Advance and Project Rental Assistance Contract Funds for new Section 202 applications.

C. Type of Assistance Instrument. The Agreement Letter stipulates the terms and conditions for the Section 202 fund reservation award as well as the submission requirements following the fund reservation award. The duration of the fund reservation award for the capital advance is 18 months from the date of issuance of the fund reservation.

D. Anticipated Start and Completion Date. Immediately upon your acceptance of the Agreement Letter, you are expected to begin work toward the submission of a Firm Commitment Application, which is the next application submission stage. You are required to submit a Firm Commitment Application to the local HUD office within 180 days from the date of the Agreement Letter. Initial closing of the capital advance and start of construction of the project are expected to be accomplished within the duration of the fund reservation award period as indicated in the above paragraph regarding the Type of Assistance Instrument. Final closing of this capital advance is expected to occur no later than six months after completion of project construction.

III. Eligibility Information

A. Eligible Applicants. Private nonprofit organizations and nonprofit consumer cooperatives who meet the threshold requirements contained in the General Section of the SuperNOFA and Section III.C. 2. below are the only eligible applicants under this Section 202 program. Neither a public body nor an instrumentality of a public body is eligible to participate in the program.

Applicant eligibility for purposes of applying for a Section 202 fund reservation under this NOFA has not changed; i.e., all Section 202 Sponsors and Co-Sponsors must be private nonprofit organizations and nonprofit consumer cooperatives. However, the Owner corporation, when later formed by the Sponsor, may be (1) A single-purpose private nonprofit organization that has tax-exempt status under Section 501(c)(3) or Section 501(c)(4) of the Internal Revenue Code of 1986, (2) nonprofit consumer cooperative, or (3) for purposes of developing a mixed-finance project pursuant to the statutory provision under Title VIII of the American Homeownership and Economic Opportunity Act of 2000, a for-profit limited partnership with a nonprofit entity as the sole general partner.

See Section IV.E.2. below regarding limits on the total number of units and projects for which you may apply for funding.

B. Cost Sharing or Matching. No cost sharing or match is required; however, you are required to make a commitment to cover the estimated start-up expenses, the minimum capital investment of one-half of one percent of the HUD-approved capital advance, not to exceed $10,000 or for a national Sponsor not to exceed $25,000, and any funds required in excess of the capital advance, including the estimated cost of any amenities or features (and operating costs related thereto) which are not covered by the capital advance. You make such a commitment by signing the Sponsor's Resolution for Commitment to Project in Exhibit 8(h) of the application found in Section IV.B. below.

C. Other:

1. Eligible Activities. Section 202 capital advance funds must be used to finance the development of housing through new construction, rehabilitation, or acquisition with or without rehabilitation. Capital advance funds may also be used in combination with other non-Section 202 funding sources leveraged by a for-profit limited partnership (of which a single-purpose private nonprofit organization is the sole general partner) to develop a mixed-finance project, including a mixed-finance project for additional units over and above the Section 202 units. The development of a mixed-use project in which the Section 202 units are mortgaged separately from the other uses of the structure is not considered a mixed-finance project. Project rental assistance funds are provided to cover the difference between the HUD-approved operating costs and the amount the residents pay (each resident pays 30 percent of adjusted income) as well as to provide supportive services to frail elderly residents.

Note: For purposes of approving Section 202 capital advances, HUD will consider proposals involving mixed-financing for additional units over and above the Section 202 units. However, you must obtain funds to assist the additional units with other than PRAC funds. HUD will not provide PRAC funds for non-Section 202 units.

A portion of the PRAC funds (not to exceed $15 per unit/per month) may be used to cover some of the cost of any supportive services for those frail elderly or those elderly determined to be at-risk of being institutionalized. The balance of the cost for services must be paid for from sources other than the capital advance or PRAC funds. Also, the cost of employing a service coordinator for those projects serving principally the frail elderly (when at least 25 percent of the residents will be frail or determined to be at-risk of being institutionalized) is an eligible use of PRAC funds. Section 202 projects receiving Congregate Housing Services assistance under Section 802 of the National Affordable Housing Act are not eligible to use capital advance or PRAC funds for supportive services or the cost of a service coordinator.

2. Threshold Requirements for Funding Consideration. In addition to the threshold criteria outlined in the General Section of the SuperNOFA (such as the inclusion of a DUN and Bradstreet Data Universal Numbering System (DUNS) Number on the SF-424), the following threshold requirements must be met:

a. Non-Responsive Application. Your application will be considered non-responsive to the NOFA and will not be accepted for processing if you:

(1) Submit less than the required number of copies (an original and four copies are required);

(2) Request more units than were allocated in either the metropolitan or nonmetropolitan allocation category to the local HUD Office to which you submitted your application or 125 units, whichever is less (see the allocation chart in Section II.A. above); or

(3) Request less than the minimum number of 5 units per site.

b. Other Criteria. (1) You, or a Co-Sponsor, must have experience in providing housing or services to elderly persons.

(2) You and any Co-Sponsor must be eligible private nonprofit organizations or nonprofit consumer cooperatives with tax exempt status under Internal Revenue Service code.

(3) Your application must contain acceptable evidence of site control (see Exhibit 4(d)(i) of the application in Section IV.B. of this program section of the SuperNOFA).

(a) Evidence of Site Control. You must provide evidence of site control as described in this section and Exhibit 4(d)(i) of Section IV.B. of this program section of the SuperNOFA).

(b) Historic Preservation. You are required to send a letter to the State/Tribal Historic Preservation Officer (SHPO/THPO) that attempts to initiate consultation with their office and requests their review of your determinations and findings with respect to the historical significance of your proposed project. Appendix B to this program section of the SuperNOFA contains a sample letter to the SHPO/THPO that you may adapt for your use, if you so choose. You must include a copy of your letter to the SHPO/THPO in your application. You must also include in your application either:

(i) The response letter(s) from the SHPO/THPO, or

(ii) A statement from you that you have not received a response letter(s) from the SHPO/THPO.

(c) Contamination. HUD must determine if a proposed site contains contamination and, if so, HUD must be satisfied that it is eliminated to the extent necessary to meet non site-specific Federal, State or local health standards. You must assist HUD by doing the following:

(i) Phase I Environmental Site Assessment (ESA). You must submit a Phase I ESA, prepared in accordance with the ASTM Standards E 1527-00, as amended, completed or updated no earlier than six months prior to the application deadline date. The Phase I ESA must be completed and submitted with the application. Therefore, it is important that you start the Phase I ESA process as soon after publication of the SuperNOFA as possible. To help you choose an environmentally safe site, HUD invites you to review the document “Choosing an Environmentally Safe Site” which is available on HUD's Web site at http://www.hud.gov/grants/index.cfm and the “Supplemental Guidance, Environmental Information”, in Appendix C to this program section of the SuperNOFA.

(ii) Phase II ESA. If the Phase I ESA indicates the possible presence of contamination and/or hazards, you must decide whether to continue with this site or choose another site. Should you choose another site, the same Phase I ESA process identified above must be followed for the new site. However, if you choose to continue with the original site on which the Phase I ESA indicated contamination or hazards, you must undertake a detailed Phase II ESA by an appropriate professional. In order for your application to be considered for review under this FY2004 funding competition, the Phase II must be submitted to the local HUD Office on or before August 6, 2004.

(iii) Clean-up—If the Phase II ESA reveals site contamination, the extent of the contamination and a plan for clean-up of the site must be submitted to the local HUD Office. The plan for clean-up must include a contract for remediation of the problem(s) and an approval letter from the applicable federal, state, and/or local agency with jurisdiction over the site. In order for your application to be considered for review under this FY2004 funding competition, you must submit this information to the local HUD Office on or before August 6, 2004.

Note: Clean-up could be an expensive undertaking. You must pay for the cost of any clean-up and/or remediation. If the application is approved, clean-up must be completed prior to initial closing. Completion of clean-up means that hud must be satisfied that the contamination has been eliminated to the extent necessary to meet non site-specific federal, state or local health standards, with no active or passive remediation still taking place, no capping over of any contamination, and no monitoring wells. However, it is acceptable if contamination remains solely in groundwater that is at least 25 feet below the surface.

(d) Asbestos. Asbestos is a hazardous substance commonly used in building products until the late 1970s. Therefore, you must submit one of the following with your application:

(i) If there is no pre-1978 structure on the site, a statement to this effect, or

(ii) If there is a pre-1978 structure on the site, an asbestos report which is based on a thorough inspection to identify the location and condition of asbestos throughout any structures. In those cases where suspect asbestos is found, it would either be assumed to be asbestos or would require confirmatory testing. If the asbestos report indicates the presence of asbestos or the presence of asbestos is assumed, and if the application is approved, HUD will condition the approval on an appropriate mix of asbestos abatement and an asbestos Operations and Maintenance Plan.

(4) There must be a market need for the number of units proposed in the area of the project location.

(5) You are required to include a Supportive Services Plan that describes the supportive services proposed to be provided to the anticipated occupants, including a description of the public or private funds that are expected to fund the proposed services and the manner in which the services will be provided to the proposed residents (see Exhibit 5 in Section IV.B. of this program section of the SuperNOFA). You must not require residents to accept any supportive services as a condition of occupancy or admission.

(6) Delinquent Federal Debt. Refer to the General Section of the SuperNOFA for information regarding delinquent Federal debt.

3. Program Requirements. By signing Form HUD-92015-CA, Application for Section 202 Capital Advance, you are certifying that you will comply with all program requirements listed in the General Section of the SuperNOFA as well as the following requirements:

a. Statutory and Regulatory Requirements. In addition to the statutory, regulatory, threshold and public policy requirements listed in the General Section of this SuperNOFA, you must comply with all statutory and regulatory requirements listed in Sections I and III of this program NOFA.

b. Application/Project Size Limits.

(1) Application Limits Applicable to Sponsors or Co-Sponsors. A Sponsor or Co-sponsor may not apply for more than 200 units of housing for the elderly in a single Hub or more than 10 percent of the total units allocated to all HUD Offices. Affiliated entities (organizations that are branches or offshoots of a parent organization) that submit separate applications are considered a single entity for the purpose of this limit.

(2) Maximum Project Size. No single application may propose the development of a project for more than the number of units allocated to a local HUD Office (in either the metropolitan or nonmetropolitan allocation category, depending on the location of your proposed project) or 125 units, whichever is less. For example, the local HUD Office, which has jurisdiction over the area of your proposed project, was allocated 80 units (metropolitan) and 20 units (nonmetropolitan) for a total of 100 units. You cannot apply for more than 80 units if your proposed project is in a metropolitan area and no more than 20 units if the project is in a nonmetropolitan area.

(3) Minimum Project Size. The minimum number of units that can be applied for in one application is five units. If the proposed project will be a scattered-site development, the five-unit minimum requirement will apply to each site.

c. Minimum Capital Investment. If selected, you must provide a minimum capital investment of one-half of one percent of the HUD-approved capital advance amount, not to exceed $10,000 in accordance with § 891.145, with the following exception. If you, as Sponsor or Co-Sponsor, have one or more Section 202 or one or more Section 811 project(s) under reservation, construction, or management in two or more different HUD geographical regions (Hubs), the minimum capital investment shall be one half of one percent of the HUD-approved capital advance amount, not to exceed $25,000.

d. Accessibility. Your project must meet accessibility requirements published at 24 CFR 891.120, 24 CFR 891.210, and Section 504 of the Rehabilitation Act of 1973, and, if new construction, the design and construction requirements of the Fair Housing Act and HUD's implementing regulations at 24 CFR part 100. In addition, 24 CFR 8.4(b)(5) prohibits the selection of a site or location which has the purpose or effect of excluding persons with disabilities from the federally assisted program or activity. HUD will award higher points to applications that add accessible design features beyond those required under civil rights laws and regulations. Refer to Section V.A. below and the General Section of the SuperNOFA for information regarding the policy priority of encouraging accessible design.

e. Conducting Business in Accordance with HUD Core Values and Ethical Standards. You Section are not subject to the requirements of 24 CFR parts 84 and 85 as outlined in the General Section of the SuperNOFA. However, you are still subject to the core values and ethical standards as they relate to the conflict of interest provisions in 24 CFR 891.130. To ensure compliance with the program's conflict of interest provisions, you are required to sign a Conflict of Interest Resolution and include it in your Section 202 application. Further, if awarded a Section 202 fund reservation, the officers, directors, board members, trustees, stockholders and authorized agents of the Section 202 Sponsor and Owner entities will be required to submit to HUD individual certifications regarding compliance with HUD's conflict of interest requirements.

f. National Environmental Policy Act. You must comply with the National Environmental Policy Act of 1969 (NEPA) (42 U.S.C. 4321) and applicable related environmental authorities at 24 CFR 50.4, HUD's programmatic implementing regulations at 24 CFR part 50 and 24 CFR 891.155(b), especially, but not limited to, the provision of information to HUD at 24 CFR 50.31(b) and you must comply with any environmental “conditions and safeguards” at 24 CFR 50.3(c).

Under 24 CFR Part 50, HUD has the responsibility for conducting the environmental reviews. HUD cannot approve any site unless it first completes the environmental review. In rare cases where HUD is not able to complete the environmental review, it is due to a complex environmental issue that could not be resolved during the time period allocated for application processing. Thus, HUD requires you to attempt to obtain comments from the State/Tribal Historic Preservation Officer (see Exhibit 4(d)(ix) of Section IV.B. below) to help HUD complete the environmental review on time. It is also why HUD may contact you for additional environmental information. So that you can review the type of information that HUD needs for its preparation of the environmental review as well as the type of information requests that HUD may make to you, you are invited to go to the following website to view the HUD form 4128, including the Sample Field Notes Checklist, which HUD uses to record the environmental review: http://www.hud.gov/utilities/intercept.cfm?/offices/cpd/energyenviron/environment/compliance/forms/4128.pdf.

g. Executive Order 13202, Preservation of Open Competition and Government Neutrality Towards Government Contractors' Labor Relations on Federal and Federally Funded Construction Projects. Refer to the General Section of the SuperNOFA for information regarding Executive Order 13202.

IV. Application and Submission Information

A. Addresses to Request Application Package. All information required to complete and return a valid application is included in the General Section and this program section of the SuperNOFA, including appendices. Copies of the General Section, this program section, and the required forms and appendices are available and may be downloaded from HUD's Web site at http://www.hud.gov/grants/index.cfm.

You may request general information, copies of the General Section and program section of the SuperNOFA (including appendices), and required forms from the NOFA Information Center (800-HUD-8929 or 800-HUD-2209 (TTY)) between the hours of 9 a.m. and 8 p.m. (Eastern Time) Monday through Friday, except on federal holidays. When requesting information, please refer to the name of the program you are interested in. Be sure to provide your name, address (including zip code), and telephone number (including area code). To ensure sufficient time to prepare your application, requests for copies of the SuperNOFA can be made immediately following its publication. The NOFA Information Center opens for business simultaneously with the publication of the SuperNOFA.

B. Content and Form of Application Submission. The exhibits to be included in your application are contained in the body of this program section of the SuperNOFA. There will not be a separate Application Kit provided this year. Before preparing your application, you should carefully review the requirements of the regulations (24 CFR Part 891) and general program instructions in Handbook 4571.3 REV-1, Section 202 Capital Advance Program for Housing the Elderly. Note: Section 1001 of Title 18 of the United States Code (Criminal Code and Criminal Procedure, 72 Stat. 967 applies to all information supplied in the application submission). (18 U.S.C. 1001, among other things, provides that whoever knowingly and willfully makes or uses a document or writing containing any false, fictitious, fraudulent statement or entry, in any matter within the jurisdiction of any department or agency of the United States, shall be fined not more than $10,000 or imprisoned for not more than five years, or both.)

The Application for a Section 202 Capital Advance consists of four parts with a total of eight Exhibits. Included with the eight Exhibits are prescribed forms, certifications and resolutions. The components of the Application are:

Part 1—Application Form for Section 202 Supportive Housing—Capital Advance (Exhibit 1)

Part 2—Your Ability to Develop and Operate the Proposed Project (Exhibits 2 and 3)

Part 3—The Need for Supportive Housing for the Target Population in the Area to be Served, Site Control and Suitability of Site, Adequacy of the Provision of Supportive Services and of the Proposed Project (Exhibits 4 and 5)

Part 4—General Application Requirements, Certifications and Resolutions (Exhibits 6 through 8).

Appendix A—Listing of Local HUD Offices

Appendix B—Letter Requesting SHPO/THPO Review

Appendix C—Supplemental to Choosing an Environmentally Safe Site

Your application must include all of the information, materials, forms, and exhibits listed below (unless you were selected for a Section 202 fund reservation within the last three funding cycles). If you qualify for this exception, you are not required to submit the information described in Exhibits 2(a), (b), and (c), which are the articles of incorporation, (or other organizational documents), by-laws, and the IRS tax exemption, respectively. If there has been a change in any of these documents since your previous HUD approval, you must submit the updated information in your application. The local HUD Office will verify your indication of previous HUD approval by checking the project number and approval status with the appropriate local HUD Office based on the information submitted.

In addition to this relief of paperwork burden in preparing applications, you will be able to use information and exhibits previously prepared for prior applications under Section 202, Section 811, or other funding programs. Examples of exhibits that may be readily adapted or amended to decrease the burden of application preparation include, among others, those on previous participation in the Section 202 or Section 811 programs, your experience in the provision of housing and services, supportive services plans, community ties, and experience serving minorities.

You must contact the appropriate local HUD Office to obtain information about the submission of applications within the jurisdiction of that Office as well as information relating to the Phase I Environmental Site Assessment, Exhibit 4(d)(vii).

Note: You may propose a scattered site project in one application, in which case the minimum unit requirement per site and the maximum number of units per application as specified in Section III.C.3.b. above apply.

Please submit your application using the following format provided in this program section of the SuperNOFA, indexed and tabbed accordingly.

1. Table of Contents (This is also to be used as a checklist to assist you in submitting a complete application. After your application is complete, insert the page number on the blank line associated with the Exhibit or portion of the Exhibit.)

BILLING CODE 4210-32-P

BILLING CODE 4210-32-C

2. General Applications Requirements

a. Part I—Application Form for Section 202 Supportive Housing—Capital Advance

(1) Exhibit 1—Form HUD-92015-CA, Application for Section 202 Supportive Housing Capital Advance. Refer to Section IV.B.3. of this program section for a copy of this form.

b. Part II—Your Ability To Develop and Operate the Proposed Project

(1) Exhibit 2—Evidence of your legal status (Private nonprofit or nonprofit consumer cooperative (If another organization(s) is co-sponsoring the application with you, each Co-Sponsor must also submit the following):

(a) Articles of Incorporation, constitution, or other organizational documents;

(b) By-laws;

(c) IRS tax exemption ruling (this must be submitted by all Sponsors, including churches).

[Exception: If you received a section 202 Fund Reservation within the last three funding cycles, you are not required to submit the documents described in (a), (b), and (c) above. Instead, submit the project number of the latest application and the local HUD office to which it was submitted. If there have been any modifications or additions to the subject documents, indicate such, and submit the new material.]

(2) Exhibit 3—Your purpose, community ties and experience:

(a) A description of your purpose(s), current activities, and how long you have been in existence.

(b) A description of your ties to the community in which your project will be located and to the minority and elderly communities in particular, including a description of the specific geographic area(s) in which you have served.

(c) A description of local government support for the project (including financial assistance, donation of land, provision of services, etc.).

(d) Letters of support for your organization and for the proposed project from organizations familiar with the housing and supportive services needs of the target population that you expect to serve in the proposed project.

(e) A description of your housing and/or supportive services experience. The description should include any rental housing projects and/or supportive services facilities that you sponsored, own and/or operate, your past or current involvement in any programs other than housing that demonstrates your management capabilities (including financial management) and experience, your experience in serving the target population (the elderly and/or families and minorities); and the reasons for receiving any increases in fund reservations for developing and/or operating previously funded Section 202 or Section 811 projects. The description should include data on the facilities and services provided, the racial/ethnic composition of the populations served, if available, and information and testimonials from residents or community leaders on the quality of the activities. Examples of activities that could be described include housing counseling, nutrition and food services, special housing referral, screening and information projects.

(f) A description of your efforts to involve members of the target population (elderly persons, including minority elderly persons) in the development of the application as well as your intent to involve the target population in the development and operation of the project.

(g) A description of the practical solutions you will implement which will enable residents of your project to achieve independent living. In addition, describe the educational opportunities you will provide for the residents and how you will provide them. This description should include any activities that will enhance the quality of life for the residents. And, finally, describe how your proposed project will be an improved living environment for the residents when compared to their previous place of residence.

(h) Describe your plan for completing the proposed project. Include a project development timeline which lists the major development stages for the project with associated dates that must be met in order to get the project to initial closing and start of construction within the 18-month fund reservation period as well as the full completion of the project, including final closing. Completion of Exhibit 8(k), Logic Model, will assist you in completing your response to this Exhibit.

(i) Describe how you will ensure that your proposed project will remain viable as housing with the availability of supportive services for the target population for the 40-year capital advance period. This description should address the measures you would take should any of the following occur:

(i) funding for any of the needed supportive services becomes depleted;

(ii) if, for any state-funded services for your project, the state changes its policy regarding the provision of supportive services to projects such as the one you propose; or

(iii) if the need for housing for the population you will be serving wanes over time, causing vacancies in your project.

(j) A description of the activities you have undertaken to remove barriers to affordable housing in the community in which your proposed project will be located. In this description include how you have supported state and local efforts to streamline processes and procedures, eliminate redundant requirements, statutes, regulations, and codes which impede the availability of affordable housing. Completion of Exhibit 8(l), Questionnaire for HUD's Initiative on Removal of Regulatory Barriers, will assist you in completing your response to this Exhibit.

c. Part III—The Need for Supportive Housing for the Target Population, Site Control and Suitability of Site, Adequacy of the Provision of Supportive Services and of the Proposed Project

(1) Exhibit 4—Need and Project Information

(a) Evidence of need for supportive housing. Include a description of the category or categories of elderly persons the housing is intended to serve and evidence demonstrating sustained effective demand for supportive housing for that population in the market area to be served, taking into consideration the occupancy and vacancy conditions in existing federally assisted housing for the elderly (HUD and the Rural Housing Service (RHS)) e.g., public housing, state or local data on the limitations in activities of daily living among the elderly in the area; aging in place in existing assisted rentals; trends in demographic changes in elderly population and households; the numbers of income eligible elderly households by size, tenure and housing condition; the types of supportive services arrangements currently available in the area; and the use of such services as evidenced by data from local social service agencies or agencies on aging. Also, a description of how information in the community's or (where applicable) the State's Consolidated Plan, Analysis of Impediments to Fair Housing Choice (AI) or other planning document that analyzes fair housing issues was used in documenting the need for the project.

(b) A description of how the proposed project will benefit the target population and the community in which it will be located.

(c) Description of the project.

(i) Narrative description of the building design including a description of the number of units with bedroom distribution, any special design features, including any features that incorporate visitability standards and universal design, amenities, and/or commercial and community spaces, and how this design will facilitate the delivery of services in an economical fashion and accommodate the changing needs of the residents over the next 10-20 years.

Note: If the community spaces, amenities, or features do not comply with the project design and cost standards of 24 CFR 891.120(a) and (c) and the special standards of 24 CFR 891.210, you must demonstrate your ability and willingness to contribute both the incremental development cost and continuing operating cost associated with the community spaces, amenities, or features;

(ii) Describe whether and how the project will promote energy efficiency, including any plans to incorporate energy efficiency features in the operation of the project through the use of Energy Star labeled products and appliances and, if applicable, innovative construction or rehabilitation methods or technologies to be used that will promote efficient construction.

(iii) If you are proposing to develop a mixed-finance project by developing additional units (i.e., in addition to the 202 units), a description of any plans and actions you have taken to create such a mixed-finance project with the use of 202 capital advance funds, in combination with other funding sources. Provide the number of non-Section 202 units to be included in the mixed-finance project (also provide the number of additional units in the appropriate space on Form HUD-92015-CA). Also, provide copies of any letters you have sent seeking outside funding for the non-202 units and any responses thereto. Your response to this Exhibit will be used to rate your application for Rating Factor 4.c., under Leveraging Resources.

Notes: (1) If you propose to develop a mixed-finance project for additional units, you must complete the development of such a proposal. If you are later unable to develop a mixed-finance project for additional units, you will not be permitted to proceed with a Section 202 project without additional units and your fund reservation will be canceled. This is due to the fact that the project would have received points in the rating of the application in consideration of the additional units and, if selected for funding, a later change in the proposal to exclude the additional units would alter the fairness of the competition. (2) Section 202 capital advance amendment money will not be approved for projects proposing mixed-financing for additional units. (3) If approved for a reservation of capital advance funds, you will be required to submit with your Firm Commitment Application, the additional documents required by HUD for mixed-finance proposals. (4) A mixed-finance project does not include the development of a mixed-use project in which the Section 202 units are mortgaged separately from the other uses of the structure.

(d) Evidence of site control and permissive zoning.

(i) Acceptable evidence of site control is limited to any one of the following:

(A) Deed or long-term leasehold which evidences that you have title to or a leasehold interest in the site. If a leasehold, the term of the lease must be at least 50 years with renewable provisions for 25 years;

(B) Contract of sale for the site that is free of any limitations affecting the ability of the seller to deliver ownership to you after you receive and accept a notice of Section 202 capital advance. (The only condition for closing on the sale can be your receipt and acceptance of the capital advance.) The contract of sale cannot require closing earlier than the Section 202 closing;

(C) Option to purchase or for a long-term leasehold, which must remain in effect for six months from the date on which the applications are due, must state a firm price binding on the seller, and be renewable at the end of the six-month period. The only condition on which the option may be terminated is if you are not awarded a fund reservation;

(D) If the site is covered by a mortgage under a HUD program, (e.g., a previously funded Section 202 or Section 811 project or an FHA-insured mortgage) you must submit evidence that consent to release the site from the mortgage has been obtained or is being requested from HUD and from the mortgagee, if other than HUD (approval to release the site from the mortgage must be done before the local HUD Office makes its selection recommendations to HUD Headquarters); or

(E) For sites to be acquired from a public body, evidence is needed that the public body possesses clear title to the site and has entered into a legally binding agreement to lease or convey the site to you after you receive and accept a notice of Section 202 capital advance. Where HUD determines that time constraints of the funding round will not permit you to obtain all of the required official actions (e.g., approval of Community Planning Boards) that are necessary to convey publicly-owned sites, you may include in your application a letter from the mayor or director of the appropriate local agency indicating that conveyance or leasing of the site is acceptable without imposition of additional covenants or restrictions, and only contingent on the necessary approval action. Such a letter of commitment will be considered sufficient evidence of site control.

(ii) Whether you have title to the site, a contract of sale, an option to purchase, or are acquiring a site from a public body, you must provide evidence (a title policy or other acceptable evidence) that the site is free of any limitations, restrictions, or reverters which could adversely affect the use of the site for the proposed project for the 40-year capital advance period under HUD's regulations and requirements (e.g., reversion to seller if title is transferred). If the title evidence contains restrictions or covenants, copies of the restrictions or covenants must be submitted with the application. If the site is subject to any such limitations, restrictions, or reverters, the application will be rejected. Purchase money mortgages that will be satisfied from capital advance funds are not considered to be limitations or restrictions that would adversely affect the use of the site. If the contract of sale or option agreement contains provisions that allow a Sponsor not to purchase the property for reasons such as environmental problems, failure of the site to pass inspection, or the appraisal is less than the purchase price, then such provisions are not objectionable and a Sponsor is allowed to terminate the contract of sale or the option agreement.

Note: A proposed project site may not be acquired or optioned from a general contractor (or its affiliate) that will construct the Section 202 project or from any other development team member.

(iii) Evidence that the project, as proposed, is permissible under applicable zoning ordinances or regulations or a statement of the proposed action required to make the proposed project permissible and the basis for the belief that the proposed action will be completed successfully before the submission of the firm commitment application (e.g., a summary of the results of any requests for rezoning and/or the procedures for obtaining special or conditional use permits on land in similar zoning classifications and the time required for such rezoning, or preliminary indications of acceptability from zoning bodies, etc.).

(iv) Evidence of compliance with the URA requirement that the seller has been provided, in writing, with the required information regarding a voluntary, arm's length purchase transaction (i.e., (1) applicant does not have the power of eminent domain and, therefore, will not acquire the property if negotiations fail to result in an amicable agreement, and (2) of the estimate of the fair market value of the property).

Note: This information should have been provided before making the purchase offer. However, in those cases where there is an existing option or contract, the seller must be provided the opportunity to withdraw from the agreement or transaction, without penalty, after this information is provided.

(v) Narrative describing topographical and demographic aspects of the site, the suitability of the site and area (as well as a description of the characteristics of the neighborhood), how use of the site will promote greater housing opportunities for minority elderly and elderly persons with disabilities, and how use of the site will affirmatively further fair housing.

Note: You can best demonstrate your commitment to affirmatively furthering fair housing by describing how your proposed activities will assist the jurisdiction in overcoming impediments to fair housing choice identified in the applicable jurisdiction's Analysis of Impediments (AI) to Fair Housing Choice, which is a component of the jurisdiction's Consolidated Plan or any other planning document that addresses fair housing issues. The applicable Consolidated Plan and AI may be the community's, the county's, or the state's, to which input should have been provided by local community organizations, agencies in the community and residents of the community. Alternatively, a document that addresses fair housing issues and remedies to barriers to fair housing in the community that was previously prepared by a local planning, or similar organization, may be used. Applicable impediments could include the need for improved housing quality and services for elderly minority families, lack of affirmative marketing and outreach to minority elderly persons, and the need for quality eldercare services within areas of minority concentration when compared with the type and quality of similar services and housing in nonminority areas.

(vi) A map showing the location of the site, the racial composition of the neighborhood, and any areas of racial concentration.

Note: For this competition, when determining the racial and ethnic composition of the neighborhood surrounding the proposed site, use data from the 2000 Census of Population. Data from the 2000 Census may be found at: http:www.factfinder.census.gov/servlet/BasicFactsServlet.

(vii) A Phase I Environmental Site Assessment (ESA), in accordance with the ASTM Standards E 1527-00, as amended, must be completed and submitted with the application. In order for the Phase I ESA to be acceptable, it must have been completed or updated no earlier than six months prior to the application deadline date. Therefore, it is important to start the site assessment process as soon after the publication of the NOFA as possible. If the Phase I ESA indicates possible presence of contamination and/or hazards, you must decide whether to continue with this site or choose another site. Should you choose another site, the same Phase I ESA process identified above must be followed for the new site. If the property is to be acquired from the FDIC/RTC, include a copy of the FDIC/RTC prepared Transaction Screen Checklist or Phase I ESA and applicable documentation, per the FDIC/RTC Environmental Guidelines. If you choose to continue with the original site on which the Phase I ESA indicated contamination or hazards, you must undertake a detailed Phase II ESA by an appropriate professional. If the Phase II Assessment reveals site contamination, you must submit the extent of the contamination and a plan for clean-up of the site including a contract for remediation of the problem(s) and an approval letter from the applicable federal, state, and/or local agency with jurisdiction over the site to the local HUD office. The Phase II and any necessary plans for clean-up do not have to be submitted with the application but must be submitted to the local HUD office by August 6, 2004. If it is not submitted by that date, the application will be rejected.

Note: You must pay for the cost of any clean-up or remediation which can be very expensive.

(viii) You must submit one of the following:

(A) If there is no pre-1978 structure on the site, a statement to this effect, or

(B) If there is a pre-1978 structure on the site, an asbestos report which is based on a thorough inspection to identify the location and condition of asbestos throughout any structures.

Note: In those cases where suspect asbestos is found, it would either be assumed to be asbestos or would require confirmatory testing. If the asbestos report indicates the presence of asbestos, or the presence of asbestos is assumed, and if the application is approved, HUD will condition the approval on an appropriate mix of asbestos abatement and an asbestos Operations and Maintenance Plan.

(ix) The letter you sent to the State/Tribal Historic Preservation Officer (SHPO/THPO) initiating consultation with their office and requesting their review of your determinations and findings with respect to the historical significance of your proposed project. Appendix B to this program section of the SuperNOFA contains a sample letter that you may adapt and send to the SHPO/THPO.

(x) The SHPO/THPO response to your letter or a statement that you have not received a response letter from the SHPO/THPO.

(2) Exhibit 5—Supportive Services Plan

(a) A detailed description of the supportive services proposed to be provided to the anticipated occupancy.

(b) A description of public or private sources of assistance that reasonably could be expected to fund the proposed services.

(c) The manner in which such services will be provided to such persons (i.e., on or off-site), including whether a service coordinator will facilitate the adequate provision of such services, and how the services will meet the identified needs of the residents.

Note: You may not require residents, as a condition of admission or occupancy, to accept any supportive services.

d. Part IV—General Application Requirements, Certifications and Resolutions

(1) Exhibit 6: A list of the applications, if any, you have submitted or are planning to submit to any other local HUD office in response to the Section 202 or Section 811 NOFA. Indicate by local HUD office, the proposed location by city and state and the number of units requested for each application. Include a list of all FY2003 and prior year Section 202 and Section 811 capital advance projects to which you are a party. Identify each by project number and local HUD office and include the following information:

(a) whether the project has initially closed and, if so, when;

(b) if the project was older than 24 months when it initially closed (specify how old) or if older than 24 months now (specify how old) and has not initially closed, provide the reasons for the delay in closing;

(c) whether amendment money was or will be needed for any project in (b) above; and,

(d) those projects which have not been finally closed.

(2) Exhibit 7: A statement that:

(a) identifies all persons (families, individuals, businesses and nonprofit organizations) by race/minority group, and status as owners or tenants occupying the property on the date of submission of the application for a capital advance.

(b) indicates the estimated cost of relocation payments and other services.

(c) identifies the staff organization that will carry out the relocation activities.

(d) identifies all persons that have moved from the site within the past 12 months.

[Note: If any of the relocation costs will be funded from sources other than the section 202 Capital Advance, you must provide evidence of a firm commitment of these funds. When evaluating applications, HUD will consider the total cost of proposals (i.e., cost of site acquisition, relocation, construction and other project costs).]

(3) Exhibit 8: Certifications and Resolutions. With the exception of Form HUD-424CB and Form HUD-424CBW listed in the General Section of the SuperNOFA, and OMB Circulars A-87 and A-21, you are required to submit signed copies of the following:

(a) Standard Form 424—Application for Federal Assistance, including a DUNS number, an indication of whether you are delinquent on any federal debt, and compliance with Executive Order 12372 (a certification that you have submitted a copy of your application, if required, to the State agency (Single Point of Contact) for state review in accordance with Executive Order 12372). Refer to the General Section of the SuperNOFA for a copy of this form and instructions on how to obtain a DUNS number.

(b) Standard Form 424 Supplement, Survey on Ensuring Equal Opportunity for Applicants. Although the information on this form will not be considered in making funding decisions, it will assist the federal government in ensuring that all qualified applicants have an equal opportunity to compete for federal funding. Refer to the General Section of the SuperNOFA for a copy of this form.

(c) Form HUD-424B, Applicant Assurances and Certifications. Refer to the General Section of the SuperNOFA for a copy of this form.

(d) Standard Form LLL—Disclosure of Lobbying Activities (if applicable). A disclosure of activities conducted to influence any federal transactions. Refer to the General Section of the SuperNOFA for a copy of this form.

(e) Form HUD-2880, Applicant/Recipient Disclosure/Update Report, including Social Security and Employee Identification Numbers. A disclosure of assistance from other government sources received in connection with the project. Refer to the General Section of the SuperNOFA for a copy of this form.

(f) Form HUD-2991, Certification of Consistency with the Consolidated Plan (Plan) for the jurisdiction in which the proposed project will be located. The certification must be made by the unit of general local government if it is required to have, or has, a complete Plan. Otherwise, the certification may be made by the state, or by the unit of general local government if the project will be located within the jurisdiction of the unit of general local government authorized to use an abbreviated strategy, and if it is willing to prepare such a Plan. All certifications must be made by the public official responsible for submitting the Plan to HUD. The certifications must be submitted as part of the application by the application submission deadline date set forth in the program section of the SuperNOFA. The Plan regulations are published in 24 CFR part 91. Refer to the General Section of the SuperNOFA for a copy of this form.

(g) Form HUD-92041, Sponsor's Conflict of Interest Resolution. A certified Board Resolution that no officer or director of the Sponsor or Owner has or will have any financial interest in any contract with the Owner or in any firm or corporation that has or will have a contract with the Owner, including a current listing of all duly qualified and sitting officers and directors by title and the beginning and ending dates of each person's term. Refer to Section IV.B.3. below for a copy of this Resolution.

(h) Form HUD-92042, Sponsor's Resolution for Commitment to Project. A certified Board Resolution acknowledging responsibilities of sponsorship, long-term support of the project(s), your willingness to assist the Owner to develop, own, manage and provide appropriate services in connection with the proposed project, and that it reflects the will of your membership. Also, it shall indicate your willingness to fund the estimated start-up expenses, the Minimum Capital Investment (one-half of one-percent of the HUD-approved capital advance, not to exceed $10,000 or for national Sponsors, not to exceed $25,000), and the estimated cost of any amenities or features (and operating costs related thereto) that would not be covered by the approved capital advance. Refer to Section IV.B.3. below for a copy of this Resolution.

(i) Form HUD-2990, Certification of Consistency with the RC/EZ/EC Strategic Plan. A certification that the project is consistent with the RC/EZ/EC strategic plan, is located within the RC/EZ/EC, and serves RC/EZ/EC residents. (This certification is not required if the project site(s) will not be located in an RC/EZ/EC.) Refer to the General Section of the SuperNOFA for a copy of this form.

(j) Form HUD-2530, Previous Participation Certification. This form must be submitted for the Sponsor and all of the Officers and Directors of the Board of the Sponsor, including any Co-Sponsor, if applicable. This form provides HUD with a certified report of all your previous participation in HUD multifamily housing projects. The information is used to determine if you meet the standards established to ensure that all principal participants in HUD projects will honor their legal, financial and contractual obligations and are acceptable risks from the underwriting standpoint of an insurer, lender or governmental agency. Refer to Section IV.B.3. below for a copy of this form.

(k) Form HUD-96010, Logic Model. In addition to the Project Development Timeline to be submitted in Exhibit 3(h) above, the information provided in the Logic Model will be used in rating your application for Rating Factor 5, Achieving Results and Program Evaluation. Refer to the General Section of the SuperNOFA for a copy of this form.

(l) Form HUD-27300, Questionnaire for HUD's Initiative on Removal of Regulatory Barriers. In addition to the information you provided in response to Exhibit 3(j) above, this Questionnaire will be considered in the rating of your application for Rating Factor 3.k. Refer to the General Section of the SuperNOFA for a copy of this form.

3. Required Forms. In addition to the required forms that are found in the General Section of the SuperNOFA as specified above, the following required forms (HUD-92015-CA, HUD-92041, HUD-92042, and HUD-2530) are specific to the Section 202 program.

BILLING CODE 4210-32-P

BILLING CODE 4210-32-C

C. Submission Dates and Time. You must submit an original and four (4) copies of your application. Applications may be hand delivered, mailed or submitted by courier service. If mailed by the United States Postal Service, the original and four copies must be postmarked on or before midnight of July 7, 2004, and received in the local HUD Office within 15 days of the due date. If hand delivered or submitted by courier service, the original and four copies must be received on or before the close of business for the appropriate office on the application due date. Please refer to the General Section of the SuperNOFA for further instructions regarding application mailing and receipt procedures.

D. Intergovernmental Review.

1. State Review. This funding opportunity is subject to Executive Order (EO) 12372, “Intergovernmental Review of Federal Programs”. You must contact your State's Single Point of Contact (SPOC) to find out about and comply with the State's process under EO 12372. The names and addresses of the SPOCs are listed in the Office of Management and Budget's home page at http://www.whitehouse.gov/omb/grants/spoc.html. If required by the State, the submission to the State needs to occur before the Section 202 application due date. It is recommended that you provide the State with sufficient time to review the application. Therefore, it is important that you consult with the SPOC for State review timeframes and take that into account when submitting the application.

2. HUD/RHS Agreement. HUD and the Rural Housing Service (RHS) have an agreement to coordinate the administration of the agencies' respective rental assistance programs. As a result, HUD is required to notify RHS of applications for housing assistance it receives. This notification gives RHS the opportunity to comment if it has concerns about the demand for additional assisted housing and possible harm to existing projects in the same housing market area. HUD will consider RHS” comments in its review and application selection process.

E. Funding Restrictions.

1. Ineligible Activities. Section 202 funds may not be used for:

a. Nursing homes;

b. Infirmaries;

c. Medical facilities;

d. Mobile home projects;

e. Community centers;

f. Headquarters for organizations for the elderly;

g. Nonhousekeeping accommodations;

h. Refinancing of sponsor-owned facilities without rehabilitation, or

i. Projects licensed or to be licensed as assisted living facilities.

Note: You may propose to rehabilitate an existing currently-owned or leased structure that does not already serve elderly persons, except that the refinancing of any Federally-funded or assisted project or project insured or guaranteed by a Federal agency is not permissible under this Section 202 NOFA. HUD does not consider it appropriate to utilize scarce program resources to refinance projects that have already received some form of assistance under a Federal program. (For example, Section 202 or Section 202/8 direct loan projects cannot be refinanced with capital advances and project rental assistance.)

2. Application Limits (Units/Projects). Refer to Section III.C.3.b. of this program section of the SuperNOFA for information applicable to the limitations on the number of units you may apply for in a single application and the project sizes.

3. Development Cost Limits.

a. The following development cost limits, adjusted by locality as described in Section IV.E.3.b. below must be used to determine the capital advance amount to be reserved for projects for the elderly. You are responsible for any costs over and above the capital advance amount including costs associated with any excess amenities and design features.

(1) The capital advance amount for the project attributable to dwelling use (less the incremental development cost and the capitalized operating costs associated with any excess amenities and design features and other costs you must pay for) may not exceed:

Non-elevator structures:

$42,980 per family unit without a bedroom;

$49,557 per family unit with one bedroom;

$59,766 per family unit with two bedrooms;

For elevator structures:

$45,232 per family unit without a bedroom;

$51,849 per family unit with one bedroom;

$63,049 per family unit with two bedrooms 1624

(2) These cost limits reflect those costs reasonable and necessary to develop a project of modest design that complies with HUD minimum property standards; the accessibility requirements of § 891.120(b); and the project design and cost standards of § 891.120 and § 891.210.

b. Increased development cost limits.

(1) HUD may increase the development cost limits set forth above, by up to 140 percent in any geographic area where the cost levels require, and may increase the development cost limits by up to 160 percent on a project-by-project basis. This increase may include covering additional costs to make dwelling units accessible through rehabilitation.

Note: In applying the applicable high cost percentage, the local HUD Office may use a percentage that is higher or lower than that which is assigned to the local HUD Office if it is needed to provide a capital advance amount that is comparable to what it typically costs to develop a Section 202 project in that area.

(2) If HUD finds that high construction costs in Alaska, Guam, the Virgin Islands, or Hawaii make it infeasible to construct dwellings, without the sacrifice of sound standards of construction, design, and livability, within the development cost limits provided above, the amount of the capital advances may be increased to compensate for such costs. The increase may not exceed the limits established under this section (including any high cost area adjustment) by more than 50 percent.

4. Commercial Facilities. A commercial facility for the benefit of the residents may be located and operated in the Section 202 project. However, the commercial facility cannot be funded with the use of Section 202 capital advance or PRAC funds. The maximum amount of space permitted for a commercial facility cannot exceed 10 percent of the total project cost. An exception to this 10 percent limitation is if the project involves acquisition or rehabilitation and the additional space was incorporated in the existing structure at the time the proposal was submitted to HUD. Commercial facilities are considered public accommodations under Title III of the Americans with Disabilities Act of 1990 (ADA), and thus must comply with all the accessibility requirements of the ADA.

5. Expiration of Section 202 Funds. The Consolidated Appropriations Act, 2004, requires HUD to obligate all Section 202 funds appropriated for FY 2004 by September 30, 2006. Under 31 U.S.C. Section 1551, no funds can be disbursed from this account after September 30, 2011. Under Section 202, obligation of funds occurs for both capital advances and project rental assistance upon fund reservation and acceptance. If all funds are not disbursed by HUD and expended by the project Owner by September 30, 2011, the funds, even though obligated, will expire and no further disbursements can be made from this account. In submitting an application you need to carefully consider whether your proposed project can be completed through final capital advance closing no later than September 30, 2011. Furthermore, all unexpended balances, including any remaining balance on PRAC contracts, will be cancelled as of October 1, 2011. Amounts needed to maintain PRAC payments for any remaining term on the affected contracts beyond that date will have to be funded from other current appropriations.

F. Other Submission Requirements:

1. Address for Submitting Applications. Submit an original and four copies of your completed application to the Director of the appropriate local HUD Office listed in Appendix A below.

Note: Do not use the listing in Attachment B to the General Section of the SuperNOFA.

V. Application Review Information

A. Criteria.

Policy Priorities. HUD encourages applicants to undertake specific activities that will assist the Department in implementing its policy priorities and which help the Department achieve its strategic goals for FY 2004. Refer to the General Section of the SuperNOFA for information regarding HUD's Strategic Goals and Policy Priorities. For the Section 202 program, applicants who include work activities that specifically address the policy priorities of encouraging accessible design features by incorporating visitability standards and universal design, and removing barriers to affordable housing will receive additional points. A Notice pertaining to the removal of barriers to affordable housing was published in the Federal Register and may be downloaded from the HUD Web site at www.hud.gov/grants/index.cfm.

Rating Factors. HUD will rate applications that successfully complete technical processing using the Rating Factors set forth below and in accordance with the application submission requirements in this program Section of the SuperNOFA. The maximum number of points an application may receive under this program is 102. This includes two (2) RC/EZ/EC bonus points, as described in the General Section of the SuperNOFA and Section V.A.6. below.

1. Rating Factor 1: Capacity of the Applicant and Relevant Organizational Staff (25 Points)

This factor addresses the extent to which you have the organizational resources to successfully implement the proposed activities in a timely manner. Submit information responding to this factor in accordance with Application Submission Requirements in Exhibits 3(a), 3(b), 3(e), 5 and 6 of Section IV.B. of this program section of the SuperNOFA. In rating this factor, HUD will consider the extent to which your application demonstrates your ability to develop and operate the proposed housing on a long-term basis, considering the following:

a. (15 points). The scope, extent, and quality of your experience in providing housing or related services to those proposed to be served by the project and the scope of the proposed project (i.e., number of units, services, relocation costs, development, and operation) in relationship to your demonstrated development and management capacity as well as your financial management capability.

b. (10 points) The scope, extent and quality of your experience in providing housing or related services to minority persons or families and your ties to the community at large and to the minority and elderly communities in particular.

(1) (5 points). The scope, extent, and quality of your experience in providing housing or related services to minority persons or families.

(2) (5 points). The scope, extent, and quality of your ties to the community at large and to the minority and elderly communities in particular.

To earn the maximum number of points under sub criteria (b)(1) and (b)(2) above, you must describe both your relationships over time with the minority community and significant previous experience in providing housing and/or supportive services to minorities generally and to minority elderly in particular. For the purpose of this competition, “significant previous experience” means that the previous housing assistance or related services to minorities, i.e., the percentage of minorities being provided housing or related services in your current developments, was equal to or greater than the percentage of minorities in the jurisdiction where the previous housing or services occurred.

c. (−2 to −4 points). HUD will deduct (except if the delay was beyond your control) 2 points if a fund reservation you received under either the Section 202 Program of Supportive Housing for the Elderly or the Section 811 Program of Supportive Housing for Persons with Disabilities in FY 1999 or later has been extended beyond 24 months, 3 points if beyond 36 months, and 4 points if beyond 48 months. Examples of such delays beyond your control include, but are not limited to, initial closing delays that are: (1) directly attributable to HUD, (2) directly attributable to third party opposition, including litigation, and (3) due to a disaster, as declared by the President of the United States.

d. (−1 point). HUD will deduct 1 point if amendment money was required as a result of the delay (except if the delay was beyond your control).

2. Rating Factor 2: Need/Extent of the Problem (15 Points)

This factor addresses the extent to which there is a need for funding the proposed activities to address a documented problem in the target area. Submit information responding to this factor in accordance with Application Submission Requirements in Exhibits 4(a) and 4(b) of Section IV.B. of this program section of the SuperNOFA. HUD will take into consideration the following in evaluating this factor:

The extent of the need for the project in the area based on a determination by the local HUD Office. In making this determination, HUD will consider your evidence of need in the area, as well as other economic, demographic, and housing market data available to the local HUD Office. The data should include a general assessment of the current conditions in the market for the type of housing proposed, an estimate of the demand for additional housing of the type proposed in the applicable housing market area; as well as, information on the numbers and types of existing comparable Federally assisted housing units for the elderly (HUD and RHS), current occupancy in such housing and recent market experience, comparable assisted housing for the elderly under construction or for which fund reservations have been issued, and, in accordance with an agreement between HUD and RHS, comments from RHS on the demand for additional comparable subsidized housing and the possible harm to existing projects in the same housing market areas. The Department will also review more favorably those applications that establish a connection between the proposed project and the community's Analysis of Impediments to Fair Housing Choice (AI) or other planning document that analyzes fair housing issues and is prepared by a local planning or similar organization. You must show how your proposed project will address an impediment to fair housing choice described in the AI or meet a need identified in the other type of planning document.

In evaluating this factor, HUD will rate your application as follows:

a. (12 points). The extent of the need for the project in the area based on a determination by the local HUD Office, taking into consideration the Sponsor's evidence of need in the area, as well as other economic, demographic and housing market data available to HUD.

b. (3 points). The extent that a connection has been established between the project and the community's Consolidated Plan, Analysis of Impediments to Fair Housing Choice (AI) or other planning document that analyzes fair housing issues and is prepared by a local planning or similar organization.

3. Rating Factor 3: Soundness of Approach ( 45 Points)

This factor addresses the quality and effectiveness of your proposal and the extent to which you involved elderly persons, including elderly minority persons, in the development of the application and will involve them in the development and operation of the project, and whether you have undertaken activities that will remove barriers to affordable housing within the community where the proposed project will be located. There must be a clear relationship between your proposed design, proposed activities, the community's needs and purposes of the program funding for your application to receive points for this factor. Submit information responding to this factor in accordance with Application Submission Requirements in Exhibits 3(f), 3(j), 4(c)(i), 4(d)(iii), 4(d)(v), 4(d)(vi) and 5 of Section IV.B. of this program section of the SuperNOFA. In evaluating this factor, HUD will consider the following:

a. (20 points). The proximity or accessibility of the site to shopping, medical facilities, transportation, places of worship, recreational facilities, places of employment, and other necessary services to the intended occupants; adequacy of utilities and streets; freedom of the site from adverse environmental conditions; compliance with site and neighborhood standards (24 CFR 891.125(a), (d) and (e)).

b. (−1 point). The site(s) is not permissively zoned for the intended use.

c. (10 points). The suitability of the site from the standpoints of promoting a greater choice of housing opportunities for minority elderly persons/families, and affirmatively furthering fair housing. In reviewing this criterion, HUD will assess whether the site meets the site and neighborhood standards at 24 CFR 891.125(b) and (c) by examining relevant data in your application or in the local HUD Office. Where appropriate, HUD may visit the site.

(1) The site will be deemed acceptable if it increases housing choice and opportunity by expanding housing opportunities in non-minority neighborhoods (if located in such a neighborhood). The term “nonminority area” is defined as one in which the minority population is lower than 10 percent; or contributing to the revitalization of and reinvestment in minority neighborhoods, including improvement of the level, quality and affordability of services furnished to minority elderly. You should refer to the Site and Neighborhood Standards provisions of the regulations governing the Section 202 Supportive Housing for the Elderly program (24 CFR 891.125(b) and (c)) when considering sites for your project.

(2) For the purpose of this competition, the term “minority neighborhood (area of minority concentration)” is defined as one where any one of the following statistical conditions exists:

(a) The percentage of persons of a particular racial or ethnic minority is at least 20 points higher than the minority's or combination of minorities' percentage in the housing market area as a whole;

(b) The neighborhood's total percentage of minority persons is at least 20 points higher than the total percentage of minorities for the housing market as a whole; or,

(c) In the case of a metropolitan area, the neighborhood's total percentage of minority persons exceeds 50 percent of its population.

d. (2 points). The extent to which your proposed design will meet the special physical needs of elderly persons.

e. (2 points). The extent to which the proposed size and unit mix of the housing will enable you to manage and operate the housing efficiently and ensure that the provision of supportive services will be accomplished in an economical fashion.

f. (2 points). The extent to which the proposed design of the housing will accommodate the provision of supportive services that are expected to be needed, initially and over the useful life of the housing, by the category or categories of elderly persons the housing is intended to serve.

g. (2 points). The extent to which the proposed supportive services meet the identified needs of the anticipated residents.

h. (2 points). The extent to which you demonstrate that the identified supportive services will be provided on a consistent, long-term basis.

i. (1 point). The proposed design incorporates visitability standards and/or universal design in the construction or rehabilitation of the project. Refer to the General Section of the SuperNOFA for further information.

j. (2 points). Your involvement of elderly persons, particularly minority elderly persons, in the development of the application and your intent to involve elderly persons, particularly minority elderly persons, in the development and operation of the project.

k. (2 points). You have undertaken activities that will remove barriers to affordable housing within the community in which the proposed project will be located, such as supporting State and local efforts to streamline processes and procedures, eliminate redundant requirements, statutes, regulations and codes which impede the availability of affordable housing. Refer to the General Section of the SuperNOFA for further information.

4. Rating Factor 4: Leveraging Resources (5 Points)

This factor addresses your ability to secure other funding sources, including funding sources to develop a mixed-finance project for additional units for elderly over and above the Section 202 units, if proposed, and community resources that can be combined with HUD's program resources to achieve program purposes. Submit information responding to this factor in accordance with Application Submission Requirements in Exhibits 3(a), 3(b), 3(c), 3(d), 3(e), 4(c)(iii) and 5(b) of Section IV.B. of this program section of the SuperNOFA.

a. (1 point). The extent of local government support (including financial assistance, donation of land, provision of services, etc.) for the project.

b. (2 points). The extent of your activities in the community, including previous experience in serving the area where the project is to be located, and your demonstrated ability to enlist volunteers and raise local funds.

c. (2 points). The extent of your plans to develop a mixed-finance project for additional units for the elderly over and above the Section 202 units.

(1) (1 point). The proposed project involves mixed-financing for additional units in which the non-Section 202 units represent 30 percent or less of the Section 202 units in the project; or

(2) (2 points). The proposed project involves mixed-financing for additional units in which the non-Section 202 units represent over 30 percent of the Section 202 units in the project.

Note: If you are proposing a mixed-financed project for additional units over and above the Section 202 units, your application may receive a maximum of 2 points under Rating Factor 4(c). Your application will receive either 1 or 2 points under this Rating Factor, depending upon the number of non-Section 202 units to be developed in the project. If your project will not involve mixed-financing for additional units, no points will be assigned for Rating Factor 4(c).

5. Rating Factor 5: Achieving Results and Program Evaluation (10 Points)

This factor reflects HUD's goal to embrace high standards of ethics, management and accountability and, as such, emphasizes HUD's commitment to ensuring that you keep the promises made in your application. This factor requires that you clearly identify the benefits or outcomes of your project and develop an evaluation plan to measure performance, which includes what you are going to measure, how you are going to measure it, and the steps you will have in place to make adjustments to your project development timeline should you not be able to achieve any of the major milestones. Completion of Exhibit 8(k), Logic Model, will assist you in completing your response to this rating factor. This rating factor also addresses the extent to which your project will implement practical solutions that result in residents achieving independent living, educational opportunities, and improved living environments. Finally, this factor addresses the extent to which the long-term viability of your project will be sustained for the duration of the 40-year capital advance period. Submit information responding to this factor in accordance with Application Submission Requirements in Exhibits 3(g), 3(h), 3(i) and 8(k) of Section IV.B. of this program section of the SuperNOFA.

a. (5 points). The extent to which your project development timeline is indicative of your full understanding of the development process and will, therefore, result in the timely development of your project.

b. (2 points). The extent to which your project will implement practical solutions that will result in assisting residents in achieving independent living, educational opportunities, and improved living environments.

c. (3 points). The extent to which you demonstrated that your project will remain viable as housing with the availability of supportive services for very low-income elderly persons for the 40-year capital advance period.

6. Bonus Points (2 bonus points). Location of proposed site in an RC/EZ/EC area, as described in the General Section of the SuperNOFA. Submit the information responding to the bonus points in accordance with the Application Submission Requirements in Exhibit 8(h) of Section IV.B. of this program section of the SuperNOFA.

B. Reviews and Selection Process

1. Review for Curable Deficiencies. You should ensure that your application is complete and that you have an original and four copies before submitting it to the appropriate HUD Office. Submitting fewer than an original and the required four copies is not a curable deficiency and will cause your application to be considered nonresponsive to the NOFA and returned to you. HUD will screen all applications received by the deadline to determine if there are any curable deficiencies. A curable deficiency is a missing Exhibit or portion of an Exhibit that will not affect the rating of the application. Refer to the General Section of the SuperNOFA for additional information regarding procedures for corrections to deficient applications. The following is a list of the only deficiencies that will be considered curable in a Section 202 application:

BILLING CODE 4210-32-P

BILLING CODE 4210-32-C

The local HUD Office will notify you in writing if your application is missing any of the above exhibits or portions of exhibits and you will be given 14 days from the date of the HUD notification to submit the information required to cure the noted deficiencies. The items identified by an asterisk (*) must be dated on or before the application deadline date. If an Exhibit or portion of an Exhibit listed above as curable is not discovered as missing until technical processing, HUD will provide you with 14 calendar days in which to cure the deficiency.

2. Rating. HUD will review and rate your application in accordance with the Review and Selection Process in the General Section of this SuperNOFA except as described in 3. Appeal Process below. Your application will be either rated or technically rejected at the end of technical review. If your application meets all program eligibility requirements after completion of technical review, including HUD approval of you, the Section 202 applicant, based on HUD's evaluation of the applicant's previous participation activities as reported on Form HUD-2530, Previous Participation Certification, it will be rated according to the rating factors in Section V.A. above.

3. Appeal Process. HUD will not reject your application based on technical review without notifying you of the rejection with all the reasons for rejection and providing you an opportunity to appeal. You will have 14 calendar days from the date of HUD's written notice to appeal a technical rejection to the local HUD Office. The local HUD Office will make a determination on any appeals before making its selection recommendations.

4. Ranking and Selection Procedures. Applications submitted in response to the advertised metropolitan allocations or nonmetropolitan allocations that have a total base score of 75 points or more (without the addition of RC/EC/EZ bonus points) and meet all of the applicable threshold requirements of the General Section of the SuperNOFA and this program NOFA will be eligible for selection, and HUD will place them in rank order per metropolitan or nonmetropolitan allocation. These applications, after adding any bonus points for RC/EC/EZ, will be selected based on rank order, up to and including the last application that can be funded out of each HUD Multifamily Program Center's metropolitan or nonmetropolitan allocation. HUD Multifamily Program Centers will not skip over any applications in order to select one based on the funds remaining. After making the initial selections in each allocation area, however, HUD Multifamily Program Centers may use any residual funds to select the next rank-ordered application by reducing the number of units by no more than 10 percent, rounded to the nearest whole number, provided the reduction will not render the project infeasible. For this purpose, however, HUD will not reduce the number of units in projects of five units or less.

Once this process has been completed, HUD Multifamily Program Centers may combine their unused metropolitan and nonmetropolitan funds in order to select the next highest ranked application in either category, using the unit reduction policy described above, if necessary.

After the HUD Multifamily Program Centers have funded all possible projects based on the process above, combined metropolitan and nonmetropolitan residual funds from all HUD Multifamily Program Centers within each Multifamily Hub will be combined. First, these funds will be used to restore units to projects reduced by HUD Multifamily Program Centers based on the above instructions. Second, additional applications within each Multifamily Hub will be selected in rank order with only one application selected per HUD Multifamily Program Center. More than one application may be selected per HUD Multifamily Program Center if there are no approvable applications in other HUD Multifamily Program Centers within the Multifamily Hub. This process will continue until there are no more approvable applications within the Multifamily Hub that can be selected with the remaining funds. However, the Multifamily Hub may use any remaining residual funds to select the next highest rated application by reducing the number of units by no more than 10 percent rounded to the nearest whole number, provided the reduction will not render the project infeasible or result in the project being less than five units. Applications may not be skipped over to select one based on funds remaining. However, the Multifamily Hub may use any remaining residual funds to select the next highest rated application by reducing the number of units by no more than 10 percent rounded to the nearest whole number, provided the reduction will not render the project infeasible or result in the project being less than five units.

Funds remaining after the Multifamily Hub selection process is completed will be returned to Headquarters. HUD Headquarters will use these residual funds first to restore units to projects reduced by HUD Multifamily Program Centers or Multifamily Hubs as a result of the instructions for using their residual funds. Second, HUD Headquarters will use these funds for selecting applications based on HUD Multifamily Program Centers' rankings, beginning with the highest rated application nationwide. However, after restoring units to projects where necessary, priority will be given to those applications for projects in non-metropolitan areas, if necessary to meet the statutory requirement of Section 202 of the Housing Act of 1959 pertaining to Section 202 funding in nonmetropolitan areas. Only one application will be selected per HUD Multifamily Program Center from the national residual amount. If there are no approvable applications in other HUD Multifamily Program Centers, the process will begin again with the selection of the next highest rated application nationwide. This process will continue until all approvable applications are selected using the available remaining funds. In order to use as much of the available remaining funds as possible, HUD Headquarters may skip over a higher-rated application.

5. HUD Error. In the event HUD commits an error that, when corrected, would result in selection of an otherwise eligible applicant during the funding round of this NOFA, HUD may select that applicant when sufficient funds become available.

VI. Award Administration Information

A. Award Notices

1. Agreement Letter. If you are selected to receive a Section 202 fund reservation, you will receive an Agreement Letter that stipulates the terms and conditions for the Section 202 fund reservation award as well as the submission requirements following the fund reservation award. The duration of the fund reservation award for the capital advance is 18 months from the date of issuance of the fund reservation.

Immediately upon your acceptance of the Agreement Letter, you are expected to begin work towards the submission of a Firm Commitment Application, which is the next application submission stage. You are required to submit a Firm Commitment Application to the local HUD Office within 180 days from the date of the Agreement Letter. Initial closing of the capital advance and start of construction of the project are expected to be accomplished within the duration of the fund reservation award. Final closing of the capital advance is expected to occur no later than six months after completion of project construction.

2. Non-Selection Letter. If your application is approvable but unfunded due to insufficient funds or receives a rating that is below the minimum threshold score established for funding eligibility, you will receive a letter to this effect.

3. Debriefing. Refer to the General Section of the SuperNOFA for further information regarding debriefings, except that the request for a debriefing must be made to the Director of Multifamily Housing in the appropriate local HUD Office.

B. Administrative and National Policy Requirements

1. Ensuring the Participation of Small Businesses, Small Disadvantaged Businesses, and Women-Owned Businesses. Although the Section 202 program is not subject to the provisions of 24 CFR 85.36(e) as described in the corresponding paragraph in the General Section of the SuperNOFA, you are required to comply with Executive Order 12432, Minority Business Enterprise Development and Executive Order 11625, Prescribing Additional Arrangements for Developing and Coordinating a National Program for Minority Business Enterprise as they relate to the encouragement of HUD grantees to utilize minority business enterprises.

2. Fair Housing Requirements. Refer to the General Section of the SuperNOFA for information regarding fair housing requirements.

3. Economic Opportunities for Low and Very Low-Income Persons (Section 3). You must comply with Section 3 of the Housing and Urban Development Act of 1968, 12 U.S.C. 1701u (Economic Opportunities for Low and Very Low-Income Persons) and its implementing regulations at 24 CFR part 135. You must ensure that training, employment and other economic opportunities shall, to the greatest extent feasible, be directed toward low and very low-income persons, particularly those who are recipients of government assistance for housing and to business concerns which provide economic opportunities to low and very low-income persons. To comply with Section 3 requirements you are hereby certifying that you will strongly encourage your general contractor and subcontractors to participate in local apprenticeship programs or training programs registered or certified by the Department of Labor's Office of Apprenticeship, Training, Employer and Labor Services or recognized State Apprenticeship Agency.

4. Design and Cost Standards. You must comply with HUD's Section 202 design and cost standards (24 CFR 891.120 and 891.210), the Uniform Federal Accessibility Standards (24 CFR 40.7), Section 504 of the Rehabilitation Act of 1973 and HUD's implementing regulations at 24 CFR part 8, and for covered multifamily dwellings designed and constructed for first occupancy after March 13, 1991, the design and construction requirements of the Fair Housing Act and HUD's implementing regulations at 24 CFR part 100, and, where applicable, the Americans with Disabilities Act of 1990.

HUD has adopted a wide-ranging energy action plan for improving energy efficiency in all program areas. As a first step in implementing the energy plan, HUD, the Environmental Protection Agency (EPA) and the Department of Energy (DoE) have signed a joint partnership to promote energy efficiency in HUD's affordable housing efforts and programs. The purpose of the Energy Star partnership is to promote energy efficiency of the affordable housing stock, but also to help protect the environment. Although it is not a requirement, you are nonetheless encouraged to promote energy efficiency in design and operations. You are urged especially to purchase and use Energy Star-labeled products. Program activities can include developing Energy Star promotional and information materials, outreach to low- and moderate-income renters on the benefits and savings when using Energy Star products and appliances, and promoting the designation of community buildings and homes as Energy Star compliant. For further information about Energy Star, see http://www.energystar.gov or call 1-888-STAR-YES (1-888-782-7937) or for the hearing-impaired, 1-888-588-9920 TTY.

5. Acquisition and Relocation. You must comply with the Uniform Relocation Assistance and Real Property Acquisition Policies Act of 1970, as amended (49 CFR part 24, and 24 CFR 891.155(e)) (URA), which covers the acquisition of sites, with or without existing structures, and with 24 CFR 8.4(b)(5) of the Section 504 regulations which prohibits discrimination based on disability in determining the site or location of a Federally-assisted facility. However, you are exempt from complying with the site acquisition requirements of the URA if you do not have the power of eminent domain and prior to entering into a contract of sale, option to purchase or any other method of obtaining site control, you inform the seller of the land in writing (1) that you do not have the power of eminent domain and, therefore, you will not acquire the property if negotiations fail to result in an amicable agreement, and (2) of the estimate of the fair market value of the property. An appraisal is not required to meet this requirement, however, your files must include an explanation (with reasonable evidence) of the basis for the estimate. Evidence of compliance with this advance notice requirement must be included in Exhibit 4(d)(iv) of your application.

6. Formation of Owner Corporation. You must form an Owner entity (in accordance with 24 CFR 891.205) after issuance of the capital advance fund reservation and must cause the Owner entity to file a request for determination of eligibility and a request for capital advance, and must provide sufficient resources to the Owner entity to ensure the development and long-term operation of the project, including capitalizing the Owner entity at firm commitment processing in an amount sufficient to meet its obligations in connection with the project over and above the capital advance amount.

7. Davis-Bacon. You must comply with the Davis-Bacon requirements (12 U.S.C. 1701q(j)5) and the Contract Work Hours and Safety Standards Act.

8. Flood Disaster Protection Act of 1973 and Coastal Barrier Resources Act. You must comply with the requirements under the Flood Disaster Protection Act of 1973 (42 U.S.C. 4001-4128) and the Coastal Barrier Resources Act (16 U.S.C. 3601).

C. Reporting

1. The Regulatory Agreement (Form HUD-92466-CA) requires the Owner of the Section 202 project to submit an annual financial statement for the project. This financial statement must be audited by an Independent Public Accountant who is a Certified Public Accountant or other person accepted by HUD and filed electronically with HUD's Real Estate Assessment Center (REAC) through the Financial Assessment Subsystem for Multifamily Housing (MF-FASS). The submission of annual financial statements is required throughout the 40-year term of the mortgage.

2. HUD requires that funded recipients collect racial and ethnic beneficiary data. It has adopted the Office of Management and Budget's Standards for the Collection of Racial and Ethnic Data. In view of these requirements, you should use Form HUD-27061, Racial and Ethnic Data Reporting Form (and instructions for its use), found at http://www.hudclips.org, a comparable program form, or a comparable electronic data system for this purpose.

VII. Agency Contact(s)

For Technical Assistance. You may contact the appropriate local HUD Office, or Evelyn Berry at HUD Headquarters at (202) 708-3000 (this is not a toll-free number), or access the Internet at http://www.hud.gov/grants/index.cfm. Persons with hearing and speech impairments may access the above number via TTY by calling the Federal Relay Service at 1-800-877-8339 (this is a toll-free number).

VIII. Other Information

A. Field Office Workshop. HUD encourages minority organizations and grassroots organizations (e.g., civic organizations, faith-communities and grassroots faith-based and other community-based organizations) to participate in this program and strongly recommends that prospective applicants attend the local HUD Office workshop. At the workshops, HUD will explain application procedures and requirements, as well as address concerns such as local market conditions, building codes and accessibility requirements, contamination identification and remediation, historic preservation, floodplain management, other environmental requirements, displacement and relocation, zoning, and housing costs. If you are interested in attending the workshop, make sure that your name, address and telephone number are on the appropriate local HUD Office's mailing list so that you will be informed of the date, time and place of the workshop. Persons with disabilities should call the appropriate local HUD Office to assure that any necessary arrangements can be made to enable their attendance and participation in the workshop.

If you cannot attend the workshop, call the appropriate local HUD Office if you have any questions concerning the submission of applications to that particular office and to request any materials distributed at the workshop.

B. Satellite Broadcast. HUD will hold an information broadcast via satellite for potential applicants to learn more about the program and preparation of the application. It is strongly recommended that potential applicants, especially those who may be applying for Section 202 funding for the first time, tune in to this broadcast, if at all possible. Copies of the broadcast tapes are also available from the NOFA Information Center. For more information about the date and time of the broadcast, you should consult the HUD Web site at http://www.hud.gov/grants/index.cfm.

C. Related Programs. Please note that funding for a related program, Section 202 Demonstration Planning Grant Program, is available to provide predevelopment grants to private nonprofit organizations and consumer cooperatives in connection with the development of housing under the Section 202 program. The announcement of the availability of funding under this program will be addressed in a separate NOFA.

D. Paperwork Reduction Act

The information collection requirements contained in this document have been approved by the Office of Management and Budget (OMB) under the Paperwork Reduction Act of 1995 (44 U.S.C. 3501-3520) and assigned OMB control number 2502-0267. In accordance with the Paperwork Reduction Act, HUD may not conduct or sponsor, and a person is not required to respond to, a collection of information unless the collection displays a currently valid OMB control number. Public reporting burden for the collection of information is estimated to average 37.42 hours per annum per respondent for the application and grant administration. This includes the time for collecting, reviewing, and reporting the data for the application, semi-annual reports and final report. The information will be used for grantee selection and monitoring the administration of funds. Response to this request for information is required in order to receive the benefits derived.

Appendix A—Local HUD Offices

Notes

1. Your application must be sent to the appropriate local HUD Office having jurisdiction over the locality in which your project will be located. If you send your application to the wrong local HUD Office, it will be rejected. Therefore, if you are uncertain as to which local HUD Office to submit your application, you are encouraged to contact the local HUD Office below that is closest to your proposed project location(s) to ascertain the Office's jurisdiction and ensure that you submit your application to the correct local HUD Office.

2. Applications for projects proposed to be located within the jurisdiction of the Sacramento, California Office must be submitted to the San Francisco, California Office.

3. Applications for projects proposed to be located within the jurisdiction of the Cincinnati, Ohio Office must be submitted to the Columbus, Ohio Office.

4. Applications for projects proposed to be located within the jurisdiction of the Washington, DC Office must be submitted to the Baltimore, Maryland Office.

5. Applications for projects proposed to be located within the jurisdiction of the Grand Rapids, Michigan Office must be submitted to the Detroit, Michigan Office.

6. Applications for projects proposed to be located within the jurisdiction of the Boston, Massachusetts Office must be submitted to the Manchester, New Hampshire Office.

BILLING CODE 4210-32-P

Funding Availability for the Section 811 Program of Supportive Housing for Persons With Disabilities (Section 811 Program) Overview Information

A. Federal Agency Name: Department of Housing and Urban Development, Office of Housing

B. Funding Opportunity Title: Section 811 Supportive Housing for Persons with Disabilities

C. Announcement Type: Initial announcement.

D. Funding Opportunity Number: OMB Approval Number: 2502-0462. The Federal Register number for this NOFA is: FR-4900-N-28.

E. Catalog of Federal Domestic Assistance (CFDA) Number: 14.181, Section 811 Supportive Housing for Persons with Disabilities

F. Dates: Application Deadline Date: July 7, 2004. Refer to Section IV. below and the General Section for information on application submission requirements.

G. Optional, Additional Overview Content Information:

1. Purpose of the Program. This program provides funding for the development and operation of supportive housing for very low-income persons with disabilities who are at least 18 years old. If you receive funding through this program, you must assure that supportive services are identified and available.

2. Available Funds. Approximately $117.7 million in capital advance funds, plus associated project rental assistance contract (PRAC) funds and any carryover funds available.

3. Types of Funds. Capital advance funds will cover the cost of developing the housing. PRAC funds will cover the difference between the HUD-approved operating costs of the project and the tenants' contributions toward rent (30 percent of their adjusted monthly income).

4. Eligible Applicants. Nonprofit organizations that have a section 501(c)(3) tax exemption from the Internal Revenue Service. (See Section VI.B.6. below of this program NOFA for further details and information regarding the formation of the Owner corporation.)

5. Eligible Activities. New construction, rehabilitation, or acquisition (with or without rehabilitation) of housing. (See Section III.C.1. below of this program NOFA for further information.)

6. Match Requirements. None required.

7. Local HUD Offices. The local HUD Office structure, for the purpose of implementing the Section 811 program, consists of 18 Multifamily Hub Offices. Within the Multifamily Hubs, there are Multifamily Program Centers with the exception of the New York Hub, the Buffalo Hub, the Denver Hub and the Los Angeles Hub. All future references shall use the term “local HUD Office” unless a more detailed description is necessary as in Limitations on Applications and Ranking and Selection Procedures, below.

Full Text of Announcement:

I. Funding Opportunity Description

A. Program Description

HUD provides capital advances and contracts for project rental assistance in accordance with 24 CFR part 891. Capital advances may be used for the construction or rehabilitation of a structure or acquisition of a structure with or without rehabilitation (including structures from the Federal Deposit Insurance Corporation (FDIC)), to be developed into a variety of housing options described in Section III.C. below. Capital advance funds bear no interest and are based on development cost limits in Section IV.E.3. below. Repayment of the capital advance is not required as long as the housing remains available for occupancy by very low-income persons with disabilities for at least 40 years. PRAC funds are used to cover the difference between the tenants' contributions toward rent (30 percent of adjusted income) and the HUD-approved cost to operate the project.

B. Authority

42 U.S.C. 8013 (Section 811 of the Cranston-Gonzalez National Affordable Housing Act (Pub. L. 101-625, approved November 28, 1990)(NAHA), as amended by the Housing and Community Development Act of 1992) (Pub.L. 102-550, approved October 28, 1992)(HCD Act of 1992); the Rescissions Act (Pub.L. 104-19, approved July 27, 1995); the American Homeownership and Economic Opportunity Act of 2000 (Pub. L. 106-569, approved December 27, 2000) and the Consolidated Appropriations Act, 2004 (P.L. 108-199, approved January 23, 2004) authorized a new supportive housing program for persons with disabilities, and replaced assistance for persons with disabilities previously covered by section 202 of the Housing Act of 1959 (section 202 continues, as amended by section 801 of the NAHA, and the HCD Act of 1992, to authorize supportive housing for the elderly)).

C. Eligible Occupancy

You may propose a Section 811 project to serve persons with physical disabilities, developmental disabilities, chronic mental illness, or any combination of the three as defined in 24 CFR 891.305. In addition, you may request HUD approval to restrict occupancy to a subcategory of one of these three defined categories (e.g., HIV/AIDS is a subcategory of physical disability). If restricted occupancy is approved, however, you cannot deny occupancy to any otherwise qualified person that meets the definition of the overall category of disability.

D. Calculation of Fund Reservation

If selected, you will receive a fund reservation that will consist of both a reservation of capital advance funds and a reservation of contract authority (one year) and budget authority (five years) for project rental assistance.

1. Capital advance funds. The reservation of capital advance funds is based on a formula which, for an independent living project (including condominiums), takes the development cost limit for the appropriate building type (elevator, non-elevator) and unit size(s) and multiplies it by the number of units of each size (including a unit for a resident manager, if applicable) and then multiplies the result by the high cost factor for the area. For a group home, the formula is based on the number of persons with disabilities in the appropriate disability category (excluding any unit for a resident manager since such a unit is already incorporated in the development cost limit) multiplied by the high cost factor for the area. The development cost limits can be found in Section IV.E.3. of this program section of the SuperNOFA.

2. PRAC funds. The PRAC contract authority is determined by multiplying the number of units for residents with disabilities in an independent living project or the number of residents with disabilities in a group home by the appropriate operating cost standard and then multiplying the result by 12 (months). The PRAC budget authority is determined by multiplying the PRAC contract authority by 5 (years). The operating cost standards will be published by Notice.

II. Award Information

A. Available Funds. For FY 2004, approximately $117.7 million is available for capital advances for the Section 811 Program of Supportive Housing for Persons with Disabilities. The Consolidated Appropriations Act, 2004 (Pub. L. 108-199, approved January 23, 2004) provides $249,092,000 for capital advances, including amendments to capital advance contracts, for supportive housing for persons with disabilities as authorized by section 811 of the National Affordable Housing Act of 1990 (NAHA); for project rental assistance for supportive housing for persons with disabilities under section 811 of the NAHA, including amendments to contracts for such assistance and renewal of expiring contracts for such assistance for up to a one-year term and for tenant-based rental assistance contracts and renewal of expiring contracts for such assistance entered into pursuant to section 811 of the NAHA, and $467,000 to be transferred to the Working Capital Fund all of which reflect a .59% across-the-board rescission pursuant to Public Law 108-199. $75 million will be provided for tenant-based rental assistance for persons with disabilities administered through public housing agencies (PHAs) and nonprofit organizations under the Mainstream Housing Opportunities for Persons with Disabilities Program.

In accordance with the waiver authority provided in the FY2004 Consolidated Appropriations Act, the Secretary is waiving the following statutory and regulatory provision: The term of the project rental assistance contract is reduced from 20 years to 5 years. HUD anticipates that at the end of the contract terms, renewals will be approved subject to the availability of funds. In addition to this provision, HUD will reserve project rental assistance contract funds based on 75 percent rather than on 100 percent of the current operating cost standards for approved units in order to take into account the average tenant contribution toward rent.

The allocation formula used for Section 811 reflects the “relevant characteristics of prospective program participants,” as specified in 24 CFR 791.402(a). The FY2004 formula consists of the following data element from the 2000 Census: the number of non-institutionalized persons age 16 to 64 with a disability. The data on disability status were derived from answers to a two-part question that asked about the existence of the following long-lasting conditions: (a) blindness, deafness, or a severe vision or hearing impairment (sensory disability) and (b) a condition that substantially limits one or more basic physical activities, such as walking, climbing stairs, reaching, lifting, or carrying (physical disability); and a four-part question that asked if the individual had a physical, mental, or emotional condition lasting 6 months or more that made it difficult to perform certain activities. The four activity categories were: (a) learning, remembering, or concentrating (mental disability); (b) dressing, bathing, or getting around inside the home (self-care disability); (c) going outside the home alone to shop or visit a doctor's office (going outside the home disability); and (d) working at a job or business (employment disability).

Under the Section 811 Program, each local HUD office jurisdiction receives sufficient capital advance funds for a minimum of 10 units. The total amount of capital advance funds to support this minimum set-aside is then subtracted from the total capital advance available. The remainder is fair shared to each local HUD office jurisdiction whose fair share would exceed the set-aside based on the allocation formula fair share factors described below.

The fair share factors were developed by taking the count of disabilities in the data element for each state, or state portion, of each local HUD office jurisdiction as a percent of the data element from the 2000 Census, described above, for the total United States. The resulting percentage for each local HUD office is then adjusted to reflect the relative cost of providing housing among the local HUD office jurisdictions. The adjusted needs percentage for each local HUD office is then multiplied by the total amount of capital advance funds available nationwide.

The Section 811 capital advance funds have been allocated, based on the formula above, to 51 local HUD offices as shown on the following chart:

BILLING CODE 4210-32-P

BILLING CODE 4210-32-C

B. Type of Award. Capital Advance and Project Rental Assistance Contract Funds for new Section 811 applications.

C. Type of Assistance Instrument. The Agreement Letter stipulates the terms and conditions for the Section 811 fund reservation award as well as the submission requirements following the fund reservation award. The duration of the fund reservation award for the capital advance is 18 months from the date of issuance of the fund reservation.

D. Anticipated Start and Completion Date. Immediately upon your acceptance of the Agreement Letter, you are expected to begin work toward the submission of a Firm Commitment Application, which is the next application submission stage. You are required to submit a Firm Commitment Application to the local HUD office within 180 days from the date of the Agreement Letter. Initial closing of the capital advance and start of construction of the project are expected to be accomplished within the duration of the fund reservation award as indicated in the above paragraph regarding the Type of Assistance Instrument. Final closing of this capital advance is expected to occur no later than six months after completion of project construction.

III. Eligibility Information

A. Eligible Applicants: Nonprofit organizations with a section 501(c)(3) tax exemption from the Internal Revenue Service and who meet the threshold requirements contained in the General Section of the SuperNOFA and Section III.C.2. below are the only eligible applicants for this program.

Applicant eligibility for purposes of applying for a Section 811 fund reservation under this NOFA has not changed; i.e., all Section 811 Sponsors and Co-Sponsors must be nonprofit organizations. However, the Owner corporation, when later formed by the Sponsor, may be (1) a single-purpose nonprofit organization that has tax-exempt status under Section 501(c)(3) of the Internal Revenue Code of 1986, OR (2) for purposes of developing a mixed-finance project pursuant to the statutory provision under Title VIII of the American Homeownership and Economic Opportunity Act of 2000, a for-profit limited partnership with a nonprofit entity as the sole general partner.

See Section IV.E.2. below regarding limits on the total number of units and projects for which you may apply for funding.

B. Cost Sharing or Matching: No cost sharing or match is required; however, you are required to make a commitment to cover the estimated start-up expenses, the minimum capital investment of one half of one percent of the HUD-approved capital advance, not to exceed $10,000, and any funds required in excess of the capital advance, including the estimated cost of any amenities or features (and operating costs related thereto) which are not covered by the capital advance. You must make such a commitment by signing the Sponsor's Resolution for Commitment to Project in Exhibit 8(h) of the application found in Section IV.B. below.

C. Other:

1. Eligible Activities. Section 811 capital advance funds must be used to finance the development of housing through new construction, rehabilitation, or acquisition with or without rehabilitation. Capital advance funds may also be used in combination with other non-Section 811 funding sources leveraged by a for-profit limited partnership (of which a single-purpose nonprofit organization with a 501(c)(3) tax exemption is the sole general partner) to develop a mixed-finance project, including a mixed-finance project for additional units over and above the Section 811 units. The development of a mixed-use project in which the Section 811 units are mortgaged separately from the other uses of the structure is not considered a mixed-finance project. Project rental assistance funds are provided to cover the difference between the HUD-approved operating costs and the amount the residents pay (each resident pays 30 percent of adjusted income). The types of housing that can be developed with Section 811 capital advance funds include independent living projects, dwelling units in multifamily housing developments, condominium and cooperative housing and small group homes.

Note: For purposes of approving Section 811 capital advances, HUD will consider proposals involving mixed-financing for additional units over and above the Section 811 units if you have legal control of an approvable site and the additional units do not cause the project, as a whole, to exceed the project size limits if the additional units will also house persons with disabilities (unless your project will be an independent living project and you request and receive HUD approval to exceed the project size limits (See IV.B.2.c.(1)(d)(xii).) However, you must obtain funds to assist the additional units with other than PRAC funds. HUD will not provide PRAC funds for non-Section 811 units.

2. Threshold Criteria for Funding Consideration. In addition to the threshold criteria outlined in the General Section of the SuperNOFA (such as the inclusion of a DUN and Bradstreet Data Universal Numbering System (DUNS) Number on the SF-424), the following threshold requirements must be met:

a. Non-Responsive Application. Your application will be considered non-responsive to the NOFA and will not be accepted for processing if you:

(1) submit less than the required number of copies (an original and four copies are required);

(2) request more units than were allocated to the local HUD Office to which you submitted your application (See the allocation chart in Section II.A. above);

(3) request less than the minimum number of units for persons with disabilities in an independent living project (5 units) or a group home (2 units); or

(4) request more than the maximum number of units for a group home (6 units).

b. Other Criteria. (1) You, or a Co-Sponsor, must have experience in providing housing or services to persons with disabilities.

(2) You and any Co-Sponsor must be eligible nonprofit organizations with tax exempt status under Section 501(c)(3) of the Internal Revenue Service code.

(3) Your application must contain evidence of site control or the identification of a site. Section 811(d)(3) of the National Affordable Housing Act requires you to provide either evidence of site control or a reasonable assurance that you will have control of a site within six months of the date of the Agreement Letter notifying you that you have been selected to receive a Section 811 fund reservation. Accordingly, you must include in your application, the required information specified below for evidence of site control, or the required information specified below under site identification as a reasonable assurance that site control will be obtained within six months of the date of the Agreement Letter.

(a) Evidence of Site Control—If you have control of a site at the time you submit your application, you must provide the information in Exhibit 4(d) in IV.B. of this program section of the SuperNOFA relative to site control.

or

(b) Site Identification—If you do not have site control of one or more of your sites, you must provide the information required in Exhibit 4(e) in IV.B. of this program section of the SuperNOFA under “Identification of Site” for any site not under control as a reasonable assurance that site control will be obtained within six months of fund reservation notification.

If your application contains evidence of site control where either the evidence or the site is not approvable, your application will not be rejected provided you indicate in your application that you are willing to seek an alternate site and provide an assurance that site control will be obtained within six months of fund reservation notification. During the selection process, all applications with acceptable evidence of site control for all proposed sites and all proposed sites have been found approvable will be grouped in Category A. All applications that are submitted as “site identified” as well as those that are submitted with site control but the evidence of control and/or site(s) are not approvable (if the Sponsor indicates that it is willing to seek a different site if the proposed site is unapprovable) will be grouped in Category B. All applications in Category A will be selected before any applications are selected from Category B. See Section V.B.4. for further information on the selection process.

(c) Historic Preservation. If you submit an application with evidence of site control, you are required to send a letter to the State/Tribal Historic Preservation Officer (SHPO/THPO) that attempts to initiate consultation with their office and requests their review of your determinations and findings with respect to the historical significance of your proposed project. Appendix B to this program section of the SuperNOFA contains a sample letter to the SHPO/THPO that you may adapt for your use, if you so choose. You must include a copy of your letter to the SHPO/THPO in your application. You must then also include in your application either:

(i) The response letter(s) from the SHPO/THPO, or

(ii) A statement from you that you have not received a response letter(s) from the SHPO/THPO.

(d) Contamination. HUD must determine if a proposed site contains contamination and, if so, HUD must be satisfied that it is eliminated to the extent necessary to meet non site-specific Federal, State or local health standards. If you submit an application with evidence of site control, you must assist HUD by doing the following:

(i) Phase I Environmental Site Assessment (ESA)—You must submit a Phase I ESA, prepared in accordance with the ASTM Standards E 1527-00, as amended, completed or updated no earlier than six months prior to the application deadline date, in order for the application to be considered as an application with site control. The Phase I ESA must be completed and included in your application. Therefore, it is important that you start the Phase I ESA process as soon after publication of the SuperNOFA as possible. To help you choose an environmentally safe site, HUD invites you to review the document “Choosing An Environmentally Safe Site” which is available on HUD's Web site at http://www.hud.gov/grants/index.cfm and the “Supplemental Guidance, Environmental Information” in Appendix C to this program section of the SuperNOFA.

(ii) Phase II ESA—If the Phase I ESA indicates the possible presence of contamination and/or hazards, you must decide whether to continue with this site or choose another site. Should you choose another site, the same Phase I ESA process identified above must be followed for the new site. However, if you choose to continue with the original site on which the Phase I ESA indicated contamination or hazards, you must undertake a detailed Phase II ESA by an appropriate professional. In order for your application to be considered as an application with site control, the Phase II must be submitted to the local HUD office on or before August 6, 2004.

(iii) Clean-up—If the Phase II ESA reveals site contamination, the extent of the contamination and a plan for clean-up of the site must be submitted to the local HUD office. The plan for clean-up must include a contract for remediation of the problem(s) and an approval letter from the applicable federal, state, and/or local agency with jurisdiction over the site. In order for your application to be considered as an application with site control, you must submit this information to the appropriate local HUD office on or before August 6, 2004.

Note: Clean-up could be an expensive undertaking. You must pay for the cost of any clean-up and/or remediation. If the application is approved, clean-up must be completed prior to initial closing. Completion of clean-up means that HUD must be satisfied that the contamination has been eliminated to the extent necessary to meet non site-specific federal, state or local health standards, with no active or passive remediation still taking place, no capping over of any contamination, and no monitoring wells. However, it is acceptable if contamination remains solely in groundwater that is at least 25 feet below the surface.

(e) Asbestos. Asbestos is a hazardous substance commonly used in building products until the late 1970s. Therefore, if you submit an application with evidence of site control, you must submit one of the following with your application:

(i) If there is no pre-1978 structure on the site, a statement to this effect, or

(ii) If there is a pre-1978 structure on the site, an asbestos report which is based on a thorough inspection to identify the location and condition of asbestos throughout any structures. In those cases where suspect asbestos is found, it would either be assumed to be asbestos or would require confirmatory testing. If the asbestos report indicates the presence of asbestos or the presence of asbestos is assumed, and if the application is approved, HUD will condition the approval on an appropriate mix of asbestos abatement and an asbestos Operations and Maintenance Plan.

(4) There must be a market need for the number of units proposed in the area of the project location.

(5) Your application must contain a Supportive Services Plan and a Certification from the appropriate state or local agency that the Supportive Services Plan is well designed to address the individual health, mental health and other needs of persons with disabilities who will live in your proposed project. Exhibit 5 in Section IV.B. of this program section of the SuperNOFA, below, outlines the information that must be in the Supportive Services Plan. You must submit one copy of your Supportive Services Plan to the appropriate State or local agency well in advance of the application submission deadline date for the state or local agency to review your Supportive Services Plan and complete the Supportive Services Certification and return it to you so that you can include it in the application you submit to HUD.

(i) HUD will reject your application if the Supportive Services Certification:

A Is not submitted with your application and is not submitted to HUD within the 14-day cure period; or

B Indicates that the provision of supportive services is not well designed to address the individual health, mental health and other needs of persons with disabilities who will live in your project; or

C Indicates that the provision of supportive services will not enhance independent living success or promote the dignity of the persons with disabilities who will live in your proposed project.

(ii) In addition, if the agency completing the certification will be a major funding or referral source for your proposed project or be responsible for licensing the project, HUD will reject your application if either the agency's Supportive Services Certification indicates—or, where the agency fails to complete item 3 or 4 of the certification, HUD determines that:

A You failed to demonstrate that supportive services will be available on a consistent, long-term basis; and/or

B The proposed housing is not consistent with state or local agency plans/policies addressing the housing needs of people with disabilities.

Any prospective resident of a Section 811 project who believes he/she needs supportive services must be given the choice to be responsible for acquiring his/her own services or to take part in your Supportive Services Plan which must be designed to meet the individual needs of each resident.

You must not require residents to accept any supportive services as a condition of occupancy or admission.

(6) Delinquent Federal Debt. Refer to the General Section of the SuperNOFA for information regarding delinquent federal debt.

3. Program Requirements. By signing Form HUD-92016-CA, Application for a Section 811 Capital Advance, you are certifying that you will comply with the program requirements listed in the General Section of the SuperNOFA as well as the following requirements:

a. Statutory and Regulatory Requirements. In addition to the statutory, regulatory, threshold and public policy requirements listed in the General Section of the SuperNOFA, you must comply with all statutory and regulatory requirements listed in Sections I and III of this program NOFA.

b. Project Size Limits. (1) Independent living project. The minimum number of units for persons with disabilities that can be applied for in one application is five units for persons with disabilities. All of the units are not required to be in one structure and they may be on scattered sites. The maximum number of persons with disabilities that can be housed in an independent living project on one or adjacent sites is 14 plus one additional one- or two-bedroom unit for a resident manager, if necessary. If the proposed independent living project will be located on the same site or on an adjacent site containing existing housing for persons with disabilities, the total number of persons with disabilities housed in both the existing and the proposed project cannot exceed 14.

(2) Exception to project size limit for an independent living project. If you are submitting an application for an independent living project with site control, you may request an exception to the above project size limit by providing the information required in Exhibit 4(d)(xii) of Section IV.B. below in this program section of the SuperNOFA.

(3) Group home. The minimum number of persons with disabilities that can reside in a group home is two, and the maximum number is six. An additional one-bedroom unit can be provided for a resident manager. Only one person per bedroom is allowed, unless two residents choose to share one bedroom or a resident determines he/she needs another person to share his/her bedroom. If you are applying for more than one group home, they cannot be located on the same or adjacent sites.

(4) Condominium Units. Condominium units are treated the same as units in an independent living project except that you cannot request an additional condominium unit for a resident manager.

c. Minimum Capital Investment. If selected, you must provide a minimum capital investment of one-half of one percent of the HUD-approved capital advance amount, not to exceed a maximum of $10,000 in accordance with 24 CFR 891.145.

d. Accessibility. Your project must meet accessibility requirements published at 24 CFR 891.120, 24 CFR 891.310 and Section 504 of the Rehabilitation Act of 1973, and, if new construction, the design and construction requirements of the Fair Housing Act and HUD's implementing regulations at 24 CFR part 100. In addition, 24 CFR 8.4(b)(5) prohibits the selection of a site or location which has the purpose or effect of excluding persons with disabilities from the Federally assisted program or activity. HUD will award higher points to applications that add accessible design features beyond those required under civil rights laws and regulations. Refer to Section V.A. below and the General Section of the SuperNOFA for information regarding the policy priority of encouraging accessible design.

e. Conducting Business in Accordance With Core Values and Ethical Standards. You are not subject to the requirements of 24 CFR parts 84 and 85 as outlined in the General Section of the SuperNOFA. However, you are still subject to the core values and ethical standards as they relate to the conflict of interest provisions in 24 CFR 891.130. To ensure compliance with the program's conflict of interest provisions, you are required to sign a Conflict of Interest Resolution and include it in your Section 811 application. Further, if awarded a Section 811 fund reservation, the officers, directors, board members, trustees, stockholders and authorized agents of the Section 811 Sponsor and Owner entities will be required to submit to HUD individual certifications regarding compliance with HUD's conflict of interest requirements.

f. National Environmental Policy Act. You must comply with the National Environmental Policy Act of 1969 (NEPA) (42 U.S.C. 4321) and applicable related environmental authorities at 24 CFR 50.4, HUD's programmatic implementing regulations at 24 CFR part 50 and 24 CFR 891.155(b), especially, but not limited to, the provision of information to HUD at 24 CFR 50.31(b), and you must comply with any environmental “conditions and safeguards” at 24 CFR 50.3(c).

Under 24 CFR Part 50, HUD has the responsibility for conducting the environmental reviews. HUD cannot approve any site for which you have site control unless it first completes the environmental review. In rare cases where HUD is not able to complete the environmental review, it is due to a complex environmental issue that could not be resolved during the time period allocated for application processing. Thus, if you submit an application with evidence of site control, HUD requires you to attempt to obtain comments from the State/Tribal Historic Preservation Officer (see Exhibit 4(d)(ix) of Section IV.B. below) to help HUD complete the environmental review on time. It is also why HUD may contact you for additional environmental information. So that you can review the type of information that HUD needs for its preparation of the environmental review as well as the type of information requests that HUD may make to you, you are invited to go to the following Web site to view the HUD form 4128, including the Sample Field Notes Checklist, which HUD uses to record the environmental review: http://www.hud.gov/utilities/intercept.cfm?/offices/cpd/energyenviron/environment/compliance/forms/4128.pdf.

g. Lead-Based Paint. You must comply with the requirements of the Lead-Based Paint Poisoning Prevention Act (42 U.S.C. 4821-4846) and implementing regulations at 24 CFR part 35.

h. Executive Order 13202, Preservation of Open Competition and Government Neutrality Towards Government Contractors' Labor Relations on Federal and Federally Funded Construction Projects. Refer to the General Section of the SuperNOFA for information regarding Executive Order 13202.

IV. Application and Submission Information

A. Addresses to Request Application Package. All information required to complete and return a valid application is included in the General Section and this program section of the SuperNOFA, including appendices. Copies of the General Section, this program section, the required forms, and appendices, are available and may be downloaded from HUD's Web site at http://www.hud.gov/grants.

You may request general information, copies of the General Section and program section of the SuperNOFA (including appendices), and required forms from the NOFA Information Center (800-HUD-8929 or 800-HUD-2209 (TTY)) between the hours of 9 a.m. and 8 p.m. (eastern time) Monday through Friday, except on federal holidays. When requesting information, please refer to the name of the program you are interested in. Be sure to provide your name, address (including zip code), and telephone number (including area code). To ensure sufficient time to prepare your application, requests for copies of the SuperNOFA can be made immediately following its publication. The NOFA Information Center opens for business simultaneously with the publication of the SuperNOFA.

B. Content and Form of Application Submission. The exhibits to be included in your application are contained in the body of this program section of the SuperNOFA below. There will not be a separate Application Kit provided this year. Before preparing your application, you should carefully review the requirements of the regulations (24 CFR Part 891) and general program instructions in Handbook 4571.2, Section 811 Capital Advance Program for Housing Persons with Disabilities. Note: Section 1001 of Title 18 of the United States Code (Criminal Code and Criminal Procedure, 72 Stat. 967 applies to all information supplied in the application submission). (18 U.S.C. 1001, among other things, provides that whoever knowingly and willfully makes or uses a document or writing containing any false, fictitious, fraudulent statement or entry, in any matter within the jurisdiction of any department or agency of the United States, shall be fined not more than $10,000 or imprisoned for not more than five years, or both.)

The Application for a Section 811 Capital Advance consists of four parts with a total of eight Exhibits. Included with the eight Exhibits are prescribed forms, certifications and resolutions. The components of the Application are:

Part 1—Application Form for Section 811 Supportive Housing—Capital Advance (Exhibit 1).

Part 2—Your Ability to Develop and Operate the Proposed Project (Exhibits 2 and 3).

Part 3—The Need for Supportive Housing for the Target Population in the Area to be Served, Site Control and/or Identification of Site, Suitability of Site, Adequacy of the Provision of Supportive Services and of the Proposed Project (Exhibits 4 and 5).

Part 4—General Application Requirements, Certifications and Resolutions (Exhibits 6 through 8).

Appendix A—Listing of Local HUD offices

Appendix B—Letter Requesting SHPO/THPO Review

Appendix C—Supplemental to Choosing An Environmentally Safe Site

Your application must include all of the information, materials, forms, and exhibits listed below (unless you were selected for a Section 811 fund reservation within the last three funding cycles). If you qualify for this exception, you are not required to submit the information described in Exhibit 2(a), (b), and (c), which are the articles of incorporation (or other organizational documents), by-laws, and the IRS tax exemption, respectively. If there has been a change in any of these documents since your previous HUD approval, you must submit the updated information in your application. The local HUD office will verify your indication of previous HUD approval by checking the project number and approval status with the appropriate local HUD office based on information submitted.

In addition to this relief of paperwork burden in preparing applications, you are able to use information and exhibits previously prepared for prior applications under Section 811, Section 202, or other funding programs. Examples of exhibits that may be readily adapted or amended to decrease the burden of application preparation include, among others, those on previous participation in the Section 202 or Section 811 programs, your experience in the provision of housing and services, supportive services plans, community ties, and experience serving minorities.

You must contact the appropriate local HUD office to obtain information about the submission of applications within the jurisdiction of that Office as well as information relating to the Phase I Environmental Site Assessment, Exhibit 4(d)(vii).

Note: You may apply for a scattered site project in one application, in which case the project size limits in III.C.3.b. above apply on a per-site basis.

Please submit your application using the following format provided in this program section of the SuperNOFA, indexed and tabbed accordingly.

1. Table of Contents (This is also to be used as a checklist to assist you in submitting a complete application. After your application is complete, insert the page number on the blank line associated with the Exhibit or portion of the Exhibit.)

BILLING CODE 4210-32-P

BILLING CODE 4210-32-C

2. General Applications Requirements

a. Part I—Application Form for Section 811 Supportive Housing—Capital Advance

(1) Exhibit 1—Form HUD-92016-CA, Application for Section 811 Supportive Housing Capital Advance. Refer to Section IV.B.3. of this program section for a copy of this form.

b. Part II—Your Ability to Develop and Operate the Proposed Project

(1) Exhibit 2—Evidence of your legal status (Nonprofit with 501(c)(3) IRS tax exemption) (If another organization(s) is co-sponsoring the application with you, each Co-Sponsor must also submit the following):

(a) Articles of Incorporation, constitution, or other organizational documents

(b) By-laws

(c) IRS tax exemption ruling (this must be submitted by all Sponsors, including churches)

(Exception: If You Received a Section 811 Fund Reservation Within the Last Three Funding Cycles, You Are Not Required To Submit the Documents Described in (a), (b), and (c) Above. Instead, Submit the Project Number of the Latest Application and the Local HUD Office to Which It Was Submitted. If There Have Been any Modifications or Additions to the Subject Documents, Indicate Such, and Submit the New Material.)

(d) The number of people on your board and the number of board members who have disabilities.

(2) Exhibit 3—Your purpose, community ties and experience:

(a) A description of your purpose(s), current activities, and how long you have been in existence.

(b) A description of your ties to the community in which your project will be located and to the minority and disability communities in particular, including a description of the specific geographic area(s) in which you have served.

(c) A description of local government support for the project (including financial assistance, donation of land, provision of services, etc.).

(d) Letters of support for your organization and for the proposed project from organizations familiar with the housing and supportive services needs of the target population (e.g., the local center for independent living, the Statewide Independent Living Council) that you expect to serve in the proposed project.

(e) A description of your housing and/or supportive services experience. The description should include any rental housing projects (including any integrated housing developments) and/or supportive services facilities that you sponsored, own and/or operate, your past or current involvement in any programs other than housing that demonstrates your management capabilities (including financial management) and experience, your experience in serving the target population (persons with disabilities and minorities); and the reasons for receiving any increases in fund reservations for developing and/or operating previously funded Section 202 or Section 811 projects. The description should include data on the facilities and services provided, the racial/ethnic composition of the populations served, if available, and information and testimonials from residents or community leaders on the quality of the activities. Examples of activities that could be described include housing counseling, nutrition and food services, special housing referral, screening and information projects.

(f) A description of your efforts to involve members of the target population (persons with disabilities including minority persons with disabilities and persons with disabilities similar to those of the prospective residents) in the development of the application as well as your intent to involve the target population in the development and operation of the project.

(g) A description of the practical solutions you will implement which will enable residents of your project to achieve independent living and economic empowerment. In addition, describe the educational opportunities you will provide for the residents and how you will provide them. This description should include the activities you will undertake to improve computer access, literacy and employment opportunities (e.g., provide programs that can teach residents how to use computers to become educated as well as achieve economic self-sufficiency through job training and placement). And, finally, describe how your proposed project will be an improved living environment for the residents when compared to their previous place of residence.

(h) Describe your plan for completing the proposed project. Include a project development timeline which lists the major development stages for the project with associated dates that must be met in order to get the project to initial closing and start of construction within the 18-month fund reservation period as well as the full completion of the project, including final closing. Completion of Exhibit 8(l), Logic Model, will assist you in completing your response to this Exhibit.

(i) Describe how you will ensure that your proposed project will remain viable as housing with the availability of supportive services for the target population for the 40-year capital advance period. This description should address the measures you would take should any of the following occur:

(i) funding for any of the needed supportive services becomes depleted;

(ii) if, for any state-funded services for your project, the state changes its policy regarding the provision of supportive services to projects such as the one you propose; or

(iii) if the need for housing for the population you will be serving wanes over time, causing vacancies in your project.

(j) A description of the steps you took to coordinate your application with other organizations (e.g., the local center for independent living) that will not be directly involved in your project but with which you share common goals and objectives, to complement and/or support the proposed project so that the project will provide a comprehensive and holistic solution to the needs of persons with disabilities.

(k) A description of your efforts to consult with Continuum of Care organizations in the community where the project will be located about the ways you can assist persons with disabilities who are chronically homeless as defined in the General Section of the SuperNOFA.

(l) A description of the activities you have undertaken to remove barriers to affordable housing in the community in which your proposed project will be located. In this description include how you have supported state and local efforts to streamline processes and procedures, eliminate redundant requirements, statutes, regulations, and codes which impede the availability of affordable housing. Completion of Exhibit 8(m), Questionnaire for HUD's Initiative on Removal of Regulatory Barriers, will assist you in completing your response to this Exhibit.

c. Part III—The Need for Supportive Housing for the Target Population, Site Control and/or Identification of Site and Suitability of Site, Adequacy of the Provision of Supportive Services and of the Proposed Project

(1) Exhibit 4—Need and Project Information

(a) Evidence of need for supportive housing. Include a description of the proposed population and evidence demonstrating sustained effective demand for supportive housing for the proposed population in the market area to be served, taking into consideration the occupancy and vacancy conditions in existing comparable subsidized housing for persons with disabilities, state or local needs assessments of persons with disabilities in the area, the types of supportive services arrangements currently available in the area, and the use of such services as evidenced by data from local social service agencies. Also, a description of how information in the community's or (where applicable) the State's Consolidated Plan, Analysis of Impediments to Fair Housing Choice (AI) or other planning document that analyzes fair housing issues was used in documenting the need for the project.

(b) A description of how the proposed project will benefit the target population and the community in which it will be located.

(c) Description of the project.

(i) Narrative description of the building(s) including the number and type of structure(s), number of units with bedroom distribution if independent living units including dwelling units in multifamily housing developments, condominiums and cooperatives, number of bedrooms if group home, number of residents with disabilities, and any resident manager per structure; identification of all commercial and community spaces, amenities or features planned for the housing and a description of how the spaces, amenities, or features will be used, and the extent to which they are necessary to accommodate the needs of the proposed residents. A narrative description of the building design (both interior and exterior), including any special design features, as well as any features that incorporate visitability standards and universal design. Also include a description of how the design of the proposed project will facilitate the integration of the residents into the surrounding community and promote the ability of the residents to live as independently as possible.

Note: If the community spaces, amenities, or features do not comply with the project design and cost standards of 24 CFR 891.120(a) and (c), and the special project standards of 24 CFR 891.310(a), you must demonstrate your ability and willingness to contribute both the incremental development cost and continuing operating cost associated with the community spaces, amenities, or features.

(ii) Describe whether and how the project will promote energy efficiency, including any plans to incorporate energy efficiency features in the operation of the project through the use of Energy Star labeled products and appliances and, if applicable, innovative construction or rehabilitation methods or technologies to be used that will promote efficient construction.

(iii) For site control applications, if you are proposing to develop a mixed-finance project by developing additional units (i.e., in addition to the 811 units), a description of any plans and actions you have taken to create such a mixed-finance project with the use of 811 capital advance funds, in combination with other funding sources. Provide the number of non-Section 811 units to be included in the mixed-finance project (also provide the number of additional units in the appropriate space on Form HUD-92016-CA). Also, provide copies of any letters you have sent seeking outside funding for the non-811 units and any responses thereto. Your response to this Exhibit will be used to rate your application for Rating Factor 4.c. under Leveraging Resources.

Notes: (1) If you propose to develop a mixed-finance project for additional units, you must complete the development of such a proposal. If you are later unable to develop a mixed-finance project for additional units, you will not be permitted to proceed with a Section 811 project without additional units and your fund reservation will be canceled. This is due to the fact that the project would have received points in the rating of the application in consideration of the additional units and, if selected for funding, a later change in the proposal to exclude the additional units would alter the fairness of the competition. (2) Section 811 capital advance amendment money will not be approved for projects proposing mixed-financing for additional units. (3) If approved for a reservation of capital advance funds, you will be required to submit with your Firm Commitment Application, the additional documents required by HUD for mixed-finance proposals. (4) A mixed-finance project does not include the development of a mixed-use project in which the Section 811 units are mortgaged separately from the other uses of the structure. (5) For a Section 811 mixed-finance project, the additional units cannot cause the project to exceed the project size limit for the type of project proposed, unless you request and receive HUD approval to exceed the project size limit if the project will be an independent living project (See IV.B.2.c.(1)(d)(xii).) or the additional units will house people who do not have a disability.

(d) Evidence of site control and permissive zoning.

Note: If you are applying for Section 811 funding without control of any or all of your proposed sites, you must provide the information under (e) Identification of a Site below for any site you are submitting without evidence of control of that site.

(i) Acceptable evidence of site control is limited to any one of the following:

(A) Deed or long-term leasehold which evidences that you have title to or a leasehold interest in the site. If a leasehold, the term of the lease must be 50 years with renewable provisions for 25 years;

(B) Contract of sale for the site that is free of any limitations affecting the ability of the seller to deliver ownership to you after you receive and accept a notice of Section 811 capital advance. (The only condition for closing on the sale can be your receipt and acceptance of the capital advance.) The contract of sale cannot require closing earlier than the Section 811 closing;

(C) Option to purchase or for a long-term leasehold, which must remain in effect for six months from the date on which the applications are due, must state a firm price binding on the seller, and be renewable at the end of the sixth month period. The only condition on which the option may be terminated is if you are not awarded a fund reservation;

(D) If the site is covered by a mortgage under a HUD program, (e.g., a previously funded Section 202 or Section 811 project or an FHA-insured mortgage) you must submit evidence that consent to release the site from the mortgage has been obtained or is being requested from HUD and from the mortgagee, if other than HUD (approval to release the site from the mortgage must be done before the local HUD Office makes its selection recommendations to HUD Headquarters); or

(E) For sites to be acquired from a public body, evidence is needed that the public body possesses clear title to the site and has entered into a legally binding agreement to lease or convey the site to you after you receive and accept a notice of Section 811 capital advance. Where HUD determines that time constraints of the funding round will not permit you to obtain all of the required official actions (e.g., approval of Community of Planning Boards) that are necessary to convey publicly-owned sites, you may include in your application a letter from the mayor or director of the appropriate local agency indicating that conveyance or leasing of the site is acceptable without imposition of additional covenants or restrictions, and only contingent on the necessary approval action. Such a letter of commitment will be considered sufficient evidence of site control.

(ii) Whether you have title to the site, a contract of sale, an option to purchase, or are acquiring a site from a public body, you must provide evidence (a title policy or other acceptable evidence) that the site is free of any limitations, restrictions, or reverters which could adversely affect the use of the site for the proposed project for the 40-year capital advance period under HUD's regulations and requirements (e.g., reversion to seller if title is transferred). If the title evidence contains restrictions or covenants, copies of the restrictions or covenants must be submitted with the application. If the site is subject to any such limitations, restrictions, or reverters, the site will be rejected and the application will be considered a “site identified” application. Purchase money mortgages that will be satisfied from capital advance funds are not considered to be limitations or restrictions that would adversely affect the use of the site. If the contract of sale or option agreement contains provisions that allow a Sponsor not to purchase the property for reasons such as environmental problems, failure of the site to pass inspection, or the appraisal is less than the purchase price, then such provisions are not objectionable and a Sponsor is allowed to terminate the contract of sale or the option agreement.

Note: A proposed project site may not be acquired or optioned from a general contractor (or its affiliate) that will construct the Section 811 project or from any other development team member.

(iii) Evidence that the project, as proposed, is permissible under applicable zoning ordinances or regulations, or a statement of the proposed action required to make the proposed project permissible and the basis for the belief that the proposed action will be completed successfully before the submission of the firm commitment application (e.g., a summary of the results of any requests for rezoning and/or the procedures for obtaining special or conditional use permits on land in similar zoning classifications and the time required for such rezoning, or preliminary indications of acceptability from zoning bodies, etc.).

Note: You should be aware that under certain circumstances the Fair Housing Act requires localities to make reasonable accommodations to their zoning ordinances or regulations to offer persons with disabilities an opportunity to live in an area of their choice. If you are relying upon a theory of reasonable accommodation to satisfy the zoning requirement, then you must clearly articulate the basis for your reasonable accommodation theory.

(iv) Evidence of compliance with the URA requirement that the seller has been provided, in writing, with the required information regarding a voluntary, arm's length purchase transaction (i.e., (1) applicant does not have the power of eminent domain and, therefore, will not acquire the property if negotiations fail to result in an amicable agreement, and (2) of the estimate of the fair market value of the property).

Note: This information should have been provided before making the purchase offer. However, in those cases where there is an existing option or contract, the seller must be provided the opportunity to withdraw from the agreement or transaction, without penalty, after this information is provided.”

(v) Narrative describing topographical and demographic aspects of the site, the suitability of the site and area (as well as a description of the characteristics of the neighborhood), how use of the site will promote greater housing opportunities for minority persons with disabilities, and how use of the site will affirmatively further fair housing.

Note: You can best demonstrate your commitment to affirmatively furthering fair housing by describing how your proposed activities will assist the jurisdiction in overcoming impediments to fair housing choice identified in the applicable jurisdiction's Analysis of Impediments (AI) to Fair Housing Choice, which is a component of the jurisdiction's Consolidated Plan or any other planning document that addresses fair housing issues. The applicable Consolidated Plan and AI may be the community's, the county's, or the state's, to which input should have been provided by local community organizations, agencies in the community and residents of the community Alternatively, a document that addresses fair housing issues and remedies to barriers to fair housing in the community that was previously prepared by a local planning, or similar organization, may be used. Applicable impediments could include a lack of units that are accessible to persons with disabilities, a lack of transportation services or other assistance that would serve persons with disabilities, or the need for improved quality and services for all persons with disabilities.

(vi) A map showing the location of the site, the racial composition of the neighborhood, and any areas of racial concentration.

Note: For this competition, when determining the racial and ethnic composition of the neighborhood surrounding the proposed site, use data from the 2000 Census of Population. Data from the 2000 Census may be found at http://www.factfinder.census.gov/servlet/BasicFactsServlet.

(vii) A Phase I Environmental Site Assessment (ESA), in accordance with the ASTM Standards E 1527-00, as amended, must be completed and submitted with the application. In order for the Phase I ESA to be acceptable, it must have been completed or updated no earlier than six months prior to the application deadline date. Therefore, it is important to start the site assessment process as soon after the publication of the NOFA as possible. If the Phase I ESA indicates possible presence of contamination and/or hazards, you must decide whether to continue with this site or choose another site. Should you choose another site, the same Phase I ESA process identified above must be followed for the new site. If the property is to be acquired from the FDIC/RTC, include a copy of the FDIC/RTC prepared Transaction Screen Checklist or Phase I ESA and applicable documentation, per the FDIC/RTC Environmental Guidelines. If you choose to continue with the original site on which the Phase I ESA indicated contamination or hazards, you must undertake a detailed Phase II ESA by an appropriate professional. If the Phase II Assessment reveals site contamination, your must submit the extent of the contamination and a plan for clean-up of the site including a contract for remediation of the problem(s) and an approval letter from the applicable federal, state and/or local agency with jurisdiction over the site to the local HUD office. The Phase II and any necessary plans for clean-up do not have to be submitted with the application but must be submitted to the local HUD office by August 6, 2004. If it is not submitted by that date, the site will be rejected and the application will be considered a “site identified” application.

Note: You must pay for the cost of any clean-up or remediation which can be very expensive.

(viii) If you submit an application with evidence of site control, you must submit one of the following:

(A) If there is no pre-1978 structure on the site, a statement to this effect, or

(B) If there is a pre-1978 structure on the site, an asbestos report which is based on a thorough inspection to identify the location and condition of asbestos throughout any structures.

Note: In those cases where suspect asbestos is found, it would either be assumed to be asbestos or would require confirmatory testing. If the asbestos report indicates the presence of asbestos, or the presence of asbestos is assumed, and if the application is approved, HUD will condition the approval on an appropriate mix of asbestos abatement and an asbestos Operations and Maintenance Plan.

(ix) The letter you sent to the State/Tribal Historic Preservation Officer (SHPO/THPO) initiating consultation with their office and requesting their review of your determinations and findings with respect to the historical significance of your proposed project. Appendix B to this program section of the SuperNOFA contains a sample letter that you may adapt and send to the SHPO/THPO.

(x) The SHPO/THPO response to your letter or a statement that you have not received a response letter from the SHPO/THPO.

(xi) A statement that you are willing to seek a different site if the preferred site is unapprovable and that site control will be obtained within six months of notification of fund reservation.

(xii) If an exception to the project size limits is being requested, describe why the site was selected and demonstrate the following: (Only for applications for independent living projects [not group homes] with site control)

(A) People with disabilities have indicated their acceptance or preference to live in housing with as many units/people as proposed for the project.

(B) The increased number of units/people is warranted by the market conditions in the area in which the project will be located.

(C) Your project is compatible with other residential development and the population density of the area in which the project is to be located.

(D) The increased number of people will not prohibit their successful integration into the community.

(E) The project is marketable in the community.

(F) The size of the project is consistent with state and/or local policies governing similar housing for the proposed population.

(G) A statement that you are willing to have your application processed at the project size limit should HUD not approve the exception.

(e) Identification of a Site. If you have identified a site, but do not have it under control, you must submit the following information:

Note: If an application is submitted without evidence of site control and does not provide a specific street address for the identified site(s) (e.g., only an indication that the project will be developed in a particular part of town but a site(s) has not been chosen) the application will be rejected.

(i) A description of the location of the site, including its street address, its unit number (if condominium), neighborhood/community characteristics (to include racial and ethnic data), amenities, adjacent housing and/or facilities, how the site will promote greater housing opportunities for minority persons with disabilities and affirmatively further fair housing. You can best demonstrate your commitment to affirmatively furthering fair housing by describing how your proposed activities will assist the jurisdiction in overcoming impediments to fair housing choice identified in the community's AI or any other planning document that addresses fair housing issues. Examples of the applicable impediments include the need for improved housing quality and services for minority persons with disabilities and the need for quality services for persons with disabilities within the type and quality of similar services and housing in minority areas.

(ii) A description of the activities undertaken to identify the site, as well as what actions must be taken to obtain control of the site, if approved for funding.

(iii) An indication as to whether the site is properly zoned. If it is not, an indication of the actions necessary for proper zoning and whether these can be accomplished within six months of fund reservation award, if approved for funding.

(iv) A status of the sale of the site.

(v) An indication as to whether the site would involve relocation.

(2) Exhibit 5—Supportive Services Plan

Note: Your supportive services plan and the Supportive Services Certification (Exhibit 8(k)) must be sent to the appropriate state or local agency (identified by the local HUD office) far enough in advance of the application deadline date so that the agency can review the plan, complete the certification and return both to you for inclusion in your application to HUD.

(a) A detailed description of whether the housing is expected to serve persons with physical disabilities, developmental disabilities, or chronic mental illness or any combination of the three. Include how and from whom/where persons will be referred and admitted for occupancy in the project. You may, with the approval of the Secretary, restrict occupancy within housing developed under the SuperNOFA to a subcategory of one of the three main categories of disability noted above (e.g., AIDS is a subcategory of physical disability). However, the Owner must permit occupancy by any qualified person with a disability that qualifies under the main category of disability.

(b) If requesting approval to restrict occupancy, also submit the following:

(i) A description of the population of persons with disabilities to which occupancy will be limited.

(ii) An explanation of why it is necessary to restrict occupancy of the proposed project(s) to the population described in (i) above, including the following:

(A) An explanation of how restricting occupancy to a subcategory of persons with disabilities promotes the goals of the Section 811 program.

(B) An explanation of why the housing and/or service needs of this population cannot be met in a more integrated setting.

(iii) A description of your experience in providing housing and/or supportive services to proposed occupants.

(iv) A description of how you will ensure that occupants of the proposed project will be integrated into the neighborhood and community.

(c) A detailed description of the supportive service needs of the persons with disabilities that the housing is expected to serve.

(d) A list of community service providers, (including consumer-controlled providers), including letters of intent to provide services to proposed residents from as many potential providers as possible.

(e) The evidence of each service provider's capability and experience in providing such supportive services (even if you will be the service provider).

(f) Identification of the extent of state and/or local agency involvement in the project (i.e., funding for the provision of supportive services, referral of residents, or licensing the project). If there will be any state or local agency involvement, a description of the State/local agency's philosophy/policy concerning housing for the population to be served and a demonstration that your application is consistent with state and/or local agency plans and policies governing the development and operation of housing for persons with disabilities.

(g) If you will be making any supportive services available to the residents or will be coordinating the availability of any supportive services, a letter providing:

(i) A description of the supportive services that you will make available to the residents or, if you will be coordinating the availability of any supportive services, a description of the supportive service(s) and how the coordination will be implemented;

(ii) An assurance that any supportive services that you will make available to the residents will be based on their individual needs; and

(iii) A commitment to make the supportive services available or coordinate their availability for the life of the project.

(h) A description of how the residents will be afforded opportunities for employment.

(i) An indication as to whether the project will include a unit for a resident manager.

(j) A statement that you will not condition admission or occupancy on the resident's acceptance of any supportive services.

d. Part IV—General Application Requirements, Certifications and Resolutions

(1) Exhibit 6: A list of the applications, if any, you have submitted or are planning to submit to any other local HUD office in response to the Section 202 or Section 811 NOFA. Indicate by local HUD office, the proposed location by city and state and the number of units requested for each application. Include a list of all FY2003 and prior year Section 202 and Section 811 capital advance projects to which you are a party. Identify each by project number and local HUD office and include the following information:

(a) whether the project has initially closed and, if so, when;

(b) if the project was older than 24 months when it initially closed (specify how old) or if older than 24 months now (specify how old) and has not initially closed, provide the reasons for the delay in closing;

(c) whether amendment money was or will be needed for any project in (b) above; and,

(d) those projects which have not been finally closed.

(2) Exhibit 7: A statement that: (applicable to applications with site control only)

(a) identifies all persons (families, individuals, businesses and nonprofit organizations) by race/minority group, and status as owners or tenants occupying the property on the date of submission of the application for a capital advance.

(b) indicates the estimated cost of relocation payments and other services.

(c) identifies the staff organization that will carry out the relocation activities.

(d) identifies all persons that have moved from the site within the past 12 months.

Note: If any of the relocation costs will be funded from sources other than the Section 811 capital advance, you must provide evidence of a firm commitment of these funds. When evaluating applications, HUD will consider the total cost of proposals (i.e., cost of site acquisition, relocation, construction and other project costs).

(3) Exhibit 8: Certifications and Resolutions—With the exception of Form HUD-424CB and Form HUD-424CBW listed in the General Section of the SuperNOFA, and OMB Circulars A-87 and A-21, you are required to submit signed copies of the following:

(a) Standard Form 424—Application for federal Assistance, including a DUNS number, an indication of whether you are delinquent on any federal debt, and compliance with Executive Order 12372 (a certification that you have submitted a copy of your application, if required, to the State agency (Single Point of Contact) for state review in accordance with Executive Order 12372). Refer to the General Section of the SuperNOFA for a copy of this form and instructions on how to obtain a DUNS number.

(b) Standard Form 424 Supplement, Survey on Ensuring Equal Opportunity for Applicants. Although the information on this form will not be considered in making funding decisions, it will assist the federal government in ensuring that all qualified applicants have an equal opportunity to compete for federal funding. Refer to the General Section of the SuperNOFA for a copy of this form.

(c) Form HUD-424B, Applicant Assurances and Certifications. Refer to the General Section of the SuperNOFA for a copy of this form.

(d) Standard Form LLL—Disclosure of Lobbying Activities (if applicable). A disclosure of activities conducted to influence any federal transactions. Refer to the General Section of the SuperNOFA for a copy of this form.

(e) Form HUD-2880, Applicant/Recipient Disclosure/Update Report, including Social Security and Employee Identification Numbers. A disclosure of assistance from other government sources received in connection with the project. Refer to the General Section of the SuperNOFA for a copy of this form.

(f) Form HUD-2991, Certification of Consistency with the Consolidated Plan (Plan), for the jurisdiction in which the proposed project will be located. The certification must be made by the unit of general local government if it is required to have, or has, a complete Plan. Otherwise, the certification may be made by the state, or by the unit of general local government if the project will be located within the jurisdiction of the unit of general local government authorized to use an abbreviated strategy, and if it is willing to prepare such a Plan. All certifications must be made by the public official responsible for submitting the Plan to HUD. The certifications must be submitted as part of the application by the application submission deadline date set forth in the program section of the SuperNOFA. The Plan regulations are published in 24 CFR part 91. Refer to the General Section of the SuperNOFA for a copy of this form.

(g) Form HUD-92041, Sponsor's Conflict of Interest Resolution. A certified Board Resolution that no officer or director of the Sponsor or Owner has or will have any financial interest in any contract with the Owner or in any firm or corporation that has or will have a contract with the Owner, including a current listing of all duly qualified and sitting officers and directors by title and the beginning and ending dates of each person's term. Refer to Section IV.B.3. below for a copy of this Resolution.

(h) Form HUD-92042, Sponsor's Resolution for Commitment to Project. A certified Board Resolution acknowledging responsibilities of sponsorship, long-term support of the project(s), your willingness to assist the Owner to develop, own, manage and provide appropriate services in connection with the proposed project, and that it reflects the will of your membership. Also, it shall indicate your willingness to fund the estimated start-up expenses, the Minimum Capital Investment (one-half of one-percent of the HUD-approved capital advance, not to exceed $10,000), and the estimated cost of any amenities or features (and operating costs related thereto) that would not be covered by the approved capital advance. Refer to Section IV.B.3.below for a copy of this Resolution.

(i) Form HUD-2990, Certification of Consistency with the RC/EZ/EC Strategic Plan. A certification that the project is consistent with the RC/EZ/EC strategic plan, is located within the RC/EZ/EC, and serves RC/EZ/EC residents. (This certification is not required if the project site(s) will not be located in an RC/EZ/EC.) Refer to the General Section of the SuperNOFA for a copy of this form.

(j) Form HUD-2530, Previous Participation Certification. This form must be submitted for the Sponsor and all of the Officers and Directors of the Board of the Sponsor, including any Co-Sponsor, if applicable. This form provides HUD with a certified report of all your previous participation in HUD multifamily housing projects. The information is used to determine if you meet the standards established to ensure that all principal participants in HUD projects will honor their legal, financial and contractual obligations and are acceptable risks from the underwriting standpoint of an insurer, lender or governmental agency. Refer to Section IV.B.3. below for a copy of this form.

(k) Form HUD-92043, Supportive Services Certification. A certification from the appropriate state or local agency (identified in the application or obtained from the local HUD office), indicating whether the:

(i) Provision of supportive services is well designed to serve the needs of persons with disabilities the housing is expected to serve;

(ii) The provision of supportive services will enhance independent living success and promote the dignity of those who will access your proposed project;

(iii) Supportive services will be available on a consistent, long-term basis; and

(iv) Proposed housing is consistent with state or local plans and policies addressing the housing needs of people with disabilities if the state or local agency will provide funding for the provision of supportive services, refer residents to the project or license the project. (The name, address, and telephone number of the appropriate agency can also be obtained from the appropriate local HUD Office.) Refer to Section IV.B.3. below for a copy of this form.

(l) Form HUD-96010, Logic Model. In addition to the Project Development Timeline to be submitted in Exhibit 3(h) above, the information provided in the Logic Model will be used in rating your application for Rating Factor 5, Achieving Results and Program Evaluation. Refer to the General Section of the SuperNOFA for a copy of this form.

(m) Form HUD-27300, Questionnaire for HUD's Initiative on Removal of Regulatory Barriers. In addition to the information you provide in response to Exhibit 3(l) above, this Questionnaire will be considered in the rating of your application for Rating Factor 3.j. Refer to the General Section of the SuperNOFA for a copy of this form.

3. Required Forms. In addition to the required forms that are found in the General Section of the SuperNOFA as specified above, the following required forms (HUD-92016-CA, HUD-92041, HUD-92042, HUD-2530, and HUD-92043) are specific to the Section 811 program.

BILLING CODE 4210-32-P

BILLING CODE 4210-32-C

C. Submission Dates and Time

You must submit an original and four copies of your application. Applications may be hand delivered, mailed or submitted by courier service. If mailed by the United States Postal Service, the original and four copies must be postmarked on or before midnight of July 7, 2004, and received in the local HUD Office within 15 days of the due date. If hand delivered or submitted by courier service, the original and four copies must be received on or before the close of business for the appropriate office on the application due date. Please refer to the General Section of the SuperNOFA for further instructions regarding application mailing and receipt procedures.

D. Intergovernmental Review

1. State Review. This funding opportunity is subject to Executive Order (EO) 12372, “Intergovernmental Review of Federal Programs”. You must contact your State's Single Point of Contact (SPOC) to find out about and comply with the state's process under EO 12372. The names and addresses of the SPOCs are listed in the Office of Management and Budget's home page at http://www.whitehouse.gov/omb/grants/spoc.html. If required by the state, the submission to the state needs to occur before the Section 811 application due date. It is recommended that you provide the state with sufficient time to review the application. Therefore, it is important that you consult with the SPOC for state review time frames and take that into account when submitting the application.

2. HUD/RHS Agreement. HUD and the Rural Housing Service (RHS) have an agreement to coordinate the administration of the agencies' respective rental assistance programs. As a result, HUD is required to notify RHS of applications for housing assistance it receives. This notification gives RHS the opportunity to comment if it has concerns about the demand for additional assisted housing and possible harm to existing projects in the same housing market area. HUD will consider RHS comments in its review and application selection process.

E. Funding Restrictions

1. Ineligible Activities. Section 811 funds may not be used for any of the following:

a. Supportive Services

b. Nursing homes, infirmaries and medical facilities;

c. Transitional housing;

d. Manufactured housing;

e. Intermediate care facilities;

f. Community centers, with or without special components for use by persons with disabilities;

g. Sheltered workshops and centers for persons with disabilities;

h. Headquarters for organizations for persons with disabilities; and

i. Refinancing of Sponsor-owned facilities without rehabilitation.

Note: You may propose to rehabilitate an existing currently-owned or leased structure that does not already serve persons with disabilities, except that the refinancing of any federally funded or assisted project or project insured or guaranteed by a federal agency is not permissible under this Section 811 NOFA. HUD does not consider it appropriate to utilize scarce program resources to refinance projects that have already received some form of assistance under a federal program or that currently house persons with disabilities. (For example, Section 202, Section 202/8 or Section 202/PAC direct loan projects cannot be refinanced with capital advances and project rental assistance.)

2. Application Limits (Units/Projects). A Sponsor or Co-Sponsor may not apply for more than 70 units of housing or 4 projects (whichever is less) for persons with disabilities in a single Hub or more than 10 percent of the total units allocated to all local HUD offices. Affiliated entities (organizations that are branches or offshoots of a parent organization) that submit separate applications are considered a single entity for the purpose of these limits. In addition, no single application may propose more units in a given local HUD office than allocated for the Section 811 program in that local HUD office. If the proposed project will be an independent living project, your application must request at least five units for persons with disabilities, not necessarily in one structure. If your proposed project will be a group home, you must request at least two units for persons with disabilities per group home. If your proposed project will be a combination of an independent living project and a group home, your application must request at least the minimum number of units for each project type (i.e., 5 units for an independent living project and 2 units for a group home).

3. Development Cost Limits.

a. The following development cost limits, adjusted by locality as described in Section IV.E.3.b. below must be used to determine the capital advance amount reserved for projects for persons with disabilities. You are responsible for any costs over and above the capital advance amount including costs associated with any excess amenities and design features.

(1) For independent living projects and dwelling units in multifamily housing developments, condominium and cooperative housing: The capital advance amount for the project attributable to dwelling use (less the incremental development cost and the capitalized operating costs associated with any excess amenities and design features and other costs you must pay for) may not exceed:

Non-elevator Structures

$42,980 per family unit without a bedroom;

$49,557 per family unit with one bedroom;

$59,766 per family unit with two bedrooms;

$76,501 per family unit with three bedrooms;

$85,225 per family unit with four bedrooms.

For Elevator Structures

$45,232 per family unit without a bedroom;

$51,849 per family unit with one bedroom;

$63,049 per family unit with two bedrooms;

$81,563 per family unit with three bedrooms;

$89,531 per family unit with four bedrooms.

(2) For group homes only (the development cost limits are capped by type of occupancy and number of person with disabilities):

Type of Disability
Residents | Physical/developmental | Chronic mental illness
2 | $172,303 | $166,325
3 | 185,287 | 178,860
4 | 198,273 | 189,995
5 | 211,257 | 201,130
6 | 224,228 | 212,265

(3) These cost limits reflect those costs reasonable and necessary to develop a project of modest design that complies with HUD minimum property standards; the minimum group home requirements of 24 CFR 891.310(a) (if applicable); the accessibility requirements of 24 CFR 891.120(b) and 891.310(b); and the project design and cost standards of 24 CFR 891.120. b. Increased development cost limits.

(1) HUD may increase the development cost limits set forth above, by up to 140 percent in any geographic area where the cost levels require, and may increase the development cost limits by up to 160 percent on a project-by-project basis. This increase may include covering additional costs to make dwelling units accessible through rehabilitation.

Note: In applying the applicable high cost percentage, the local HUD office may use a percentage that is higher or lower than that which is assigned to the local HUD office if it is needed to provide a capital advance amount that is comparable to what it typically costs to develop a Section 811 project in that area.

(2) If HUD finds that high construction costs in Alaska, Guam, the Virgin Islands or Hawaii make it infeasible to construct dwellings, without the sacrifice of sound standards of construction, design, and livability, within the development cost limits provided above, the amount of capital advances may be increased to compensate for such costs. The increase may not exceed the limits established under this section (including any high cost area adjustment) by more than 50 percent.

(3) For group homes only, local HUD offices may approve increases in the development cost limits in Section IV.E.3.a.(2), above, in areas where you can provide sufficient documentation that high land costs limit or prohibit project feasibility. An example of acceptable documentation is evidence of at least three land sales that have actually taken place (listed prices for land are not acceptable) within the last two years in the area where your project is to be built. The average cost of the documented sales must exceed ten percent of the development cost limit for your project in order for an increase to be considered.

4. Commercial Facilities. A commercial facility for the benefit of the residents may be located and operated in the Section 811 project. However, the commercial facility cannot be funded with the use of Section 811 capital advance or PRAC funds. The maximum amount of space permitted for a commercial facility cannot exceed 10 percent of the total project cost. An exception to this 10 percent limitation is if the project involves acquisition or rehabilitation and the additional space was incorporated in the existing structure at the time the proposal was submitted to HUD. Commercial facilities are considered public accommodations under Title III of the Americans with Disabilities Act of 1990 (ADA), and thus must comply with all the accessibility requirements of the ADA.

5. Expiration of Section 811 Funds. The Consolidated Appropriations Act, 2004, requires HUD to obligate all Section 811 funds appropriated for FY 2004 by September 30, 2006. Under 31 U.S.C. 1551, no funds can be disbursed from this account after September 30, 2011. Under Section 811, obligation of funds occurs for both capital advances and project rental assistance upon fund reservation and acceptance. If all funds are not disbursed by HUD and expended by the project Owner by September 30, 2011, the funds, even though obligated, will expire and no further disbursements can be made from this account. In submitting an application, you need to carefully consider whether your proposed project can be completed through final capital advance closing no later than September 30, 2011. Furthermore, all unexpended balances, including any remaining balance on PRAC contracts, will be cancelled as of October 1, 2011. Amounts needed to maintain PRAC payments for any remaining term on the affected contracts beyond that date will have to be funded from other current appropriations.

F. Other Submission Requirements

Address for Submitting Applications. Submit an original and four copies of your completed application to the Director of the appropriate local HUD office listed in Appendix A below.

Note: Do not use the listing in Attachment B to the General Section of the SuperNOFA.

V. Application Review Information

A. Criteria

Policy Priorities. HUD encourages applicants to undertake specific activities that will assist the Department in implementing its policy priorities and which help the Department achieve its strategic goals for FY2004. Refer to the General Section of the SuperNOFA for information regarding HUD's Strategic Goals and Policy Priorities. For the Section 811 program, applicants who include work activities that specifically address the policy priorities of encouraging accessible design features by incorporating visitability standards and universal design, ending chronic homelessness and removing barriers to affordable housing will receive additional points. A Notice pertaining to the removal of barriers to affordable housing was published in the Federal Register and may be downloaded from the HUD Web site at http://www.hud.gov/grants/index.cfm.

Rating Factors. HUD will rate applications that successfully complete technical processing using the Rating Factors set forth below and in accordance with the application submission requirements in this program section of the SuperNOFA. The maximum number of points an application may receive under this program is 102. This includes two (2) RC/EZ/EC bonus points, as described in the General Section of the SuperNOFA and Section V.A.6 below.

Rating Factor 1: Capacity of the Applicant and Relevant Organizational Staff (30 Points)

This factor addresses the extent to which you have the organizational resources to successfully implement the proposed activities in a timely manner. Submit information responding to this factor in accordance with Application Submission Requirements in Exhibits 3(a), 3(b), 3(e), 5 and 6 of Section IV.B. of this program section of the SuperNOFA. In rating this factor, HUD will consider the extent to which your application demonstrates your ability to develop and operate the proposed housing on a long-term basis, considering the following:

a. (15 points) The scope, extent, and quality of your experience in providing housing or related services to those proposed to be served by the project and the scope of the proposed project (i.e., number of units, services, relocation costs, development, and operation) in relationship to your demonstrated development and management capacity as well as your financial management capability.

b. (10 points) The scope, extent, and quality of your experience in providing housing or related services to minority persons or families and your ties to the community at large and to the minority and disability communities in particular.

(1) (5 points) The scope, extent, and quality of your experience in providing housing or related services to minority persons or families.

(2) (5 points) The scope, extent, and quality of your ties to the community at large and to the minority and disability communities in particular.

To earn the maximum number of points under subcriteria (b)(1) and (b)(2) above, you must describe both your relationships over time with the minority community and significant previous experience in providing housing and/or supportive services to minorities generally and to minority persons with disabilities, in particular. For the purpose of this competition, “significant previous experience” means that the previous housing assistance or related services to minorities, i.e., the percentage of minorities being provided housing or related services in your current developments, was equal to or greater than the percentage of minorities in the jurisdiction where the previous housing or services occurred.

c. (-2 to -4 points) HUD will deduct (except if the delay was beyond your control) 2 points if a fund reservation you received under either the Section 811 program of Supportive Housing for Persons with Disabilities or the Section 202 program of Supportive Housing for the Elderly in FY1999 or later has been extended beyond 24 months, 3 points if beyond 36 points, and 4 points if beyond 48 months. Examples of delays beyond your control include, but are not limited to, initial closing delays that are: (1) directly attributable to HUD, (2) directly attributable to third party opposition, including litigation, and (3) due to a disaster, as declared by the President of the United States.

d. (-1 point) HUD will deduct 1 point if amendment money was required as a result of the delay (except if the delay was beyond your control).

e. (5 points) You have experience in developing integrated housing and/or the proposed project will be an integrated housing model (e.g., condominium units scattered within one or more buildings or non-contiguous independent living units on scattered sites).

2. Rating Factor 2: Need/Extent of the Problem (15 Points)

This factor addresses the extent to which there is a need for funding the proposed activities to address a documented problem in the target area. Submit information responding to this factor in accordance with Application Submission Requirements in Exhibits 4(a) and 4(b) of Section IV.B. of this program section of the SuperNOFA. HUD will consider the following in evaluating this factor:

The extent of the need for the project in the area based on a determination by the local HUD office. In making this determination, HUD will consider your evidence of need in the area, as well as other economic, demographic, and housing market data available to the local HUD office. The data should include a general assessment of the current conditions in the market for the type of housing proposed, an estimate of the demand for additional housing of the type proposed in the applicable housing market area; as well as, information on the numbers and types of existing comparable subsidized housing for persons with disabilities, current occupancy in such housing and recent market experience, comparable subsidized housing for persons with disabilities under construction or for which fund reservations have been issued, and, in accordance with an agreement between HUD and RHS, comments from RHS on the demand for additional comparable subsidized housing and the possible harm to existing projects in the same housing market area. The Department also will review more favorably those applications which establish a connection between the proposed project and the community's Analysis of Impediments to Fair Housing Choice (AI) or other planning document that analyzes fair housing issues and is prepared by a local planning or similar organization. You must show how the proposed project will address an impediment to fair housing choice described in the AI or meet a need identified in the other type of planning document.

In evaluating this factor, HUD will rate your application as follows:

a. (12 points) The extent of the need for the project in the area based on a determination by the local HUD office, taking into consideration the Sponsor's evidence of need in the area, as well as other economic, demographic and housing market data available to HUD.

b. (3 points) The extent that a connection has been established between the project and the community's Consolidated Plan, Analysis of Impediments to Fair Housing Choice (AI) or other planning document that analyzes fair housing issues and is prepared by a local planning or similar organization.

3. Rating Factor 3: Soundness of Approach (40 Points)

This factor addresses the quality and effectiveness of your proposal, the extent to which you involved persons with disabilities, including minority persons with disabilities, in the development of the application and will involve them in the development and operation of the project, the extent to which you coordinated your application with other organizations, including local independent living centers, with which you share common goals and objectives and are working toward meeting these objectives in a holistic and comprehensive manner, whether you consulted with Continuum of Care organizations to address efforts to assist persons with disabilities who are chronically homeless as defined in the General Section of the SuperNOFA, and whether you have undertaken activities that will remove barriers to affordable housing within the community where the proposed project will be located. There must be a clear relationship between the proposed design, the proposed activities, the community's needs and purposes of the program funding for your application to receive points for this factor. Submit information responding to this factor in accordance with Application Submission Requirements in Exhibits 2(d), 3(f), 3(j), 3(k), 3(l), 4(c)(i), 4(d)(iii), 4(d)(v), 4(d)(vi), 4(e)(i) and 5 of Section IV.B. of this program section of the SuperNOFA. In evaluating this factor, HUD will consider the following:

a. (14 points) Site approvability—The proximity or accessibility of the site to shopping, medical facilities, transportation, places of worship, recreational facilities, places of employment, and other necessary services to the intended occupants; adequacy of utilities and streets, and freedom of the site from adverse environmental conditions (based on site visit for site control projects only); and compliance with site and neighborhood standards in 24 CFR 891.125(a), (d), and (e) and 24 CFR 891.320. Sites where amenities are accessible other than by project residence or private vehicle will be rated more favorably;

b. (-1 point) One or more of your proposed sites is not permissively zoned for the intended use.

c. (10 points) The suitability of the site from the standpoints of promoting a greater choice of housing opportunities for minorities and persons with disabilities and affirmatively furthering fair housing. In reviewing this criterion, HUD will assess whether the site meets the site and neighborhood standards at 24 CFR 891.125(b) and (c) by examining relevant data in your application or in the local HUD office. If appropriate, HUD may visit the site.

(1) The site will be deemed acceptable if it increases housing choice and opportunity by expanding housing opportunities in non-minority neighborhoods (if located in such a neighborhood). The term “non-minority area” is defined as one in which the minority population is lower than 10 percent; or contributing to the revitalization of and reinvestment in minority neighborhoods, including improvement of the level, quality and affordability of services furnished to minority persons with disabilities. You should refer to the Site and Neighborhood Standards provisions of the regulations governing the Section 811 Supportive Housing Program (24 CFR 891.125(b) and (c)) when considering sites for your projects.

(2) For the purpose of this competition, the term “minority neighborhood (area of minority concentration)” is defined as one where any one of the following statistical conditions exists:

(a) The percentage of persons of a particular racial or ethnic minority is at least 20 points higher than the minority's or combination of minorities' percentage in that housing market as a whole;

(b) The neighborhood's total percentage of minority persons is at least 20 points higher than the total percentage of minorities for the housing market area as a whole; or

(c) In the case of a metropolitan area, the neighborhood's total percentage of minority persons exceeds 50 percent of its population.

d. (2 points) The extent to which the proposed design of the project (exterior and interior) and its placement in the neighborhood will meet the individual needs of the residents and will facilitate their integration into the surrounding community and promote their ability to live as independently as possible.

e. (1 point) The proposed design incorporates visitability standards and universal design in the construction or rehabilitation of the project. Refer to the General Section of the SuperNOFA for further information.

f. (5 points) At least 51 percent of your board members are persons with disabilities.

g. (3 points) You involved persons with disabilities (including minority persons with disabilities) in the development of the application, and will involve persons with disabilities (including minority persons with disabilities) in the development and operation of the project.

h. (2 points) The extent to which you coordinated your application with other organizations (including local independent living centers; a list of such can be obtained from the local HUD office) that will not be directly participating in your project, but with which you share common goals and objectives and are working toward meeting these goals and objectives in a holistic and comprehensive manner.

i. (1 point) You consulted with the Continuum of Care organizations in the community in which your proposed project will be located and have developed ways in which the proposed project will assist persons with disabilities who have been experiencing chronic homelessness become more productive members of society. Refer to the General Section of the SuperNOFA for further information.

j. (2 points) You have undertaken activities that will remove barriers to affordable housing within the community in which the proposed project will be located, such as supporting state and local efforts to streamline processes and procedures, eliminate redundant requirements, statutes, regulations and codes which impede the availability of affordable housing.

4. Rating Factor 4: Leveraging Resources (5 Points)

This factor addresses your ability to secure other funding sources, including funding sources to develop a mixed-finance project for additional units over and above the Section 811 units, if proposed, and community resources that can be combined with HUD's program resources to achieve program purposes. Submit information responding to this factor in accordance with Application Submission Requirements in Exhibits 3(a), 3(b), 3(c), 3(d), 3(e), 4(c)(iii) and 5(f) of Section IV.B. of this program section of the SuperNOFA.

a. (1 point) The extent of local government support (including financial assistance, donation of land, provision of services, etc.) for the project.

b. (2 points) The extent of your activities in the community, including previous experience in serving the area where the project is to be located, and your demonstrated ability to enlist volunteers and raise local funds.

c. (2 points) The extent of your plans to develop a mixed-finance project for additional units over and above the Section 811 units.

(1) (1 point) The proposed project involves mixed-financing for additional units in which the non-Section 811 units represent 30 percent or less of the Section 811 units in the project; or

(2) (2 points) The proposed project involves mixed-financing for additional units in which the non-Section 811 units represent over 30 percent of the Section 811 units in the project.

Note: If you are proposing a mixed-finance project for additional units over and above the Section 811 units, your application may receive a maximum of 2 points under Rating Factor 4(c). Your application will receive either 1 or 2 points under this Rating Factor, depending upon the number of non-Section 811 units to be developed in the project. If your project will not involve mixed-financing for additional units, no points will be assigned for Rating Factor 4(c).

5. Rating Factor 5: Achieving Results and Program Evaluation (10 Points)

This factor reflects HUD's goal to embrace high standards of ethics, management and accountability and, as such, emphasizes HUD's commitment to ensuring that you keep the promises made in your application. This factor requires that you clearly identify the benefits or outcomes of your project and develop an evaluation plan to measure performance, which includes what you are going to measure, how you are going to measure it, and the steps you will have in place to make adjustments to your project development timeline should you not be able to achieve any of the major milestones. Completion of Exhibit 8(l), Logic Model, will assist you in completing your response to this rating factor. This rating factor also addresses the extent to which your project will implement practical solutions that result in residents achieving independent living, economic empowerment, educational opportunities and improved living environments. Finally, this factor addresses the extent to which the long-term viability of your project will be sustained for the duration of the 40-year capital advance period. Submit information responding to this factor in accordance with Application Submission Requirements in Exhibits 3(g), 3(h), 3(i), and 8(l) of Section IV.B. of this program section of the SuperNOFA.

a. (5 points) The extent to which your project development timeline is indicative of your full understanding of the development process and will, therefore, result in the timely development of your project.

b. (2 points) The extent to which your project will implement practical solutions that will result in assisting residents in achieving independent living, economic empowerment, educational opportunities, and improved living environments (e.g., activities that will improve computer access, literacy and employment opportunities).

c. (3 points) The extent to which you demonstrated that your project will remain viable as housing with the availability of supportive services for very low income persons with disabilities for the 40-year capital advance period.

6. Bonus Points (2 bonus points) Location of proposed site in an RC/EZ/EC area, as described in the General Section of the SuperNOFA. Submit the information responding to the bonus points in accordance with the Application Submission Requirements in Exhibit 8(i) of Section IV.B. of this program section of the SuperNOFA.

B. Reviews and Selection Process

1. Review for Curable Deficiencies. You should ensure that your application is complete and that you have an original and four copies before submitting it to the appropriate local HUD office. Submitting fewer than an original and the required four copies is not a curable deficiency and will cause your application to be considered nonresponsive to the NOFA and returned to you. HUD will screen all applications received by the deadline to determine if there are any curable deficiencies. A curable deficiency is a missing Exhibit or portion of an Exhibit that will not affect the rating of the application. Refer to the General Section of the SuperNOFA for additional information regarding procedures for corrections to deficient applications. The following is a list of the only deficiencies that will be considered curable in a Section 811 application:

BILLING CODE 4210-32-P

BILLING CODE 4210-32-C

The local HUD office will notify you in writing if your application is missing any of the above exhibits or portions of exhibits and will give you 14 days from the date of the HUD notification to submit the information required to cure the noted deficiencies. The items identified by an asterisk (*) must be dated on or before the application deadline date. If an Exhibit or portion of an Exhibit listed above as curable is not discovered as missing until technical processing, HUD will provide you with 14 calendar days in which to cure the deficiency.

2. Rating. HUD will review and rate your application in accordance with the Reviews and Selection Process in the General Section of the SuperNOFA except as described in 3. Appeal Process below. Your application will be either rated or technically rejected at the end of technical review. If your application meets all program eligibility requirements after completion of technical review, including HUD approval of you, the Section 811 applicant, based on HUD's evaluation of the applicant's previous participation activities as reported on Form HUD-2530, Previous Participation Certification, it will be rated according to the rating factors in Section V.A. above.

3. Appeal Process. HUD will not reject your application based on technical review without notifying you of the rejection with all the reasons for rejection and providing you an opportunity to appeal. You will have 14 calendar days from the date of HUD's written notice to appeal a technical rejection to the local HUD office. The local HUD office will make a determination on any appeals before making its selection recommendations.

4. Ranking and Selection Procedures. Applications that have a total base score of 75 points or more (without the addition of RC/EC/EZ bonus points) and meet all of the applicable threshold requirements in the General Section of the SuperNOFA and this program NOFA will be eligible for selection and will be placed in rank order in two categories; Category A and Category B. Category A will consist of approvable applications that contain acceptable evidence of control of all proposed sites and all proposed sites have been found approvable. Category B will consist of the following approvable applications: (a) Those that were submitted with identified sites; (b) those that were submitted with evidence of site control where the evidence and/or any of the proposed sites were found unapprovable provided you indicate your willingness to locate another site(s) should the proposed site(s) be found unapprovable; and (c) those that were submitted with a combination of sites under control and identified sites. Each HUD Multifamily Program Center will select applications, after adding any bonus points for RC/EC/EZ, based on rank order, from Category A first that most closely approximates the capital advance authority available in its allocation. If capital advance authority remains after selecting all approvable applications from Category A, each HUD Multifamily Program Center shall then select applications, in rank order, from Category B that most closely approximates the capital advance authority remaining in its allocation. HUD Multifamily Program Centers will not skip over any applications in order to select one based on the funds remaining. After making the initial selections from the applicable category, however, HUD Multifamily Program Centers may use any residual funds to select the next rank-ordered application in that category by reducing the number of units by no more than 10 percent, rounded to the nearest whole number, provided the reduction will not render the project infeasible. For this purpose, however, HUD will not reduce the number of units in projects of five units or less.

After the HUD Multifamily Program Centers have funded all possible projects based on the process above, residual funds from all HUD Multifamily Program Centers within each Multifamily Hub will be combined. First, these funds will be used to restore units to projects reduced by HUD Multifamily Program Centers based on the above instructions. Second, additional approvable applications within each Multifamily Hub will be selected in rank order, first from Category A, and if sufficient funds remain, from Category B, with only one application selected per HUD Multifamily Program Center. More than one application may be selected per HUD Multifamily Program Center if there are no approvable applications in other HUD Multifamily Program Centers within the Multifamily Hub. This process will continue until there are no more approvable applications within the Multifamily Hub that can be selected with the remaining funds. Applications may not be skipped over to select one based on funds remaining. However, the Multifamily Hub may use any remaining residual funds to select the next rank-ordered application in the applicable category by reducing the number of units by no more than 10 percent rounded to the nearest whole number, provided the reduction will not render the project infeasible or result in the project being less than 5 units.

Funds remaining after the Multifamily Hub selection process is completed will be returned to Headquarters. HUD Headquarters will use these residual funds first to fund the Mental Illness Recovery Center, Inc. and MHA Clarendon County, in the jurisdiction of the Columbia Multifamily Program Center, two FY2003 applications that were not funded due to HUD error. Second, HUD Headquarters will use the residual funds to restore units to projects reduced by HUD Multifamily Program Center or Multifamily Hub as a result of the instructions for using their residual funds. Third, HUD Headquarters will use these funds for selecting applications based on HUD Program Centers' rankings, beginning with the highest rated application nationwide in Category A. Only one application will be selected per HUD Multifamily Program Center in Category A from the national residual amount, excluding the Columbia Multifamily Program Center, already funded. If there are no approvable applications in Category A in other HUD Multifamily Program Centers, then the next highest rated application in Category B in another HUD Multifamily Program Center will be selected, excluding the Columbia Multifamily Program Center, already funded. This process will begin again with the selection of the next highest rated application in Category A nationwide. Once each HUD Multifamily Program Center that has approvable applications in Category A receives another selection then the next highest rated application in Category B will be selected. This process will continue until all approvable applications are selected using the available remaining funds. Headquarters may skip over a higher rated application in order to use as much of the available remaining funds as possible.

5. HUD Error. In the event HUD commits an error that, when corrected, would have resulted in selection of an otherwise eligible applicant during the funding round of the SuperNOFA, HUD may select that applicant when sufficient funds become available.

VI. Award Administration Information

A. Award Notices

1. Agreement Letter. If you are selected to receive a Section 811 fund reservation, you will receive an Agreement Letter that stipulates the terms and conditions for the Section 811 fund reservation award as well as the submission requirements following the fund reservation award. The duration of the fund reservation award for the capital advance is 18 months from the date of issuance of the fund reservation.

Immediately upon your acceptance of the Agreement Letter, you are expected to begin work towards the submission of a Firm Commitment Application, which is the next application submission stage. You are required to submit a Firm Commitment Application to the local HUD Office within 180 days from the date of the Agreement Letter. Initial closing of the capital advance and start of construction of the project are expected to be accomplished within the duration of the fund reservation award. Final closing of the capital advance is expected to occur no later than six months after completion of project construction.

2. Non-selection Letter. If your application is approvable but unfunded due to insufficient funds or receives a rating that is below the minimum threshold score established for funding eligibility, you will receive a letter to this effect.

3. Debriefing. Refer to the General Section of the SuperNOFA for further information regarding debriefings except that the request must be made to the Director of Multifamily Housing in the appropriate local HUD office.

B. Administrative and National Policy Requirements

1. Ensuring the Participation of Small Businesses, Small Disadvantaged Businesses, and Women-Owned Businesses. Although the Section 811 program is not subject to the provisions of 24 CFR 85.36(e) as described in the corresponding paragraph in the General Section of the SuperNOFA, you are required to comply with Executive Order 12432, Minority Business Enterprise Development and Executive Order 11625, Prescribing Additional Arrangements for Developing and Coordinating a National Program for Minority Business Enterprise as they relate to the encouragement of HUD grantees to utilize minority business enterprises.

2. Fair Housing Requirements. Refer to the General Section of the SuperNOFA for information regarding fair housing requirements.

3. Economic Opportunities for Low and Very Low-Income Persons (Section 3). You must comply with Section 3 of the Housing and Urban Development Act of 1968, U.S.C. 1701u (Economic Opportunities for Low and Very Low-Income Persons) and its implementing regulations at 24 CFR part 135. You must ensure that training, employment and other economic opportunities shall, to the greatest extent feasible, be directed toward low and very low-income persons, particularly those who are recipients of government assistance for housing and to business concerns which provide economic opportunities to low and very-low income persons. To comply with Section 3 requirements you are hereby certifying that you will strongly encourage your general contractor and subcontractors to participate in local apprenticeship programs or training programs registered or certified by the Department of Labor's Office of Apprenticeship, Training, Employer and Labor Services or recognized State Apprenticeship Agency.

4. Design and Cost Standards. You must comply with HUD's Section 811 project design and cost standards (24 CFR 891.120 and 891.310), the Uniform Federal Accessibility Standards (24 CFR 40.7), Section 504 of the Rehabilitation Act of 1973 and HUD's implementing regulations at 24 CFR part 8, and for covered multifamily dwellings designed and constructed for first occupancy after March 13, 1991, the design and construction requirements of the Fair Housing Act and HUD's implementing regulations at 24 CFR part 100, and, where applicable, the Americans with Disabilities Act of 1990.

HUD has adopted a wide-ranging energy action plan for improving energy efficiency in all program areas. As a first step in implementing the energy plan, HUD, the Environmental Protection Agency (EPA) and the Department of Energy (DoE) have signed a joint partnership to promote energy efficiency in HUD's affordable housing efforts and programs. The purpose of the Energy Star partnership is to promote energy efficiency of the affordable housing stock, but also to help protect the environment. Although it is not a requirement, you are nonetheless encouraged to promote energy efficiency in design and operations. You are especially urged to purchase and use Energy Star-labeled products. Program activities can include developing Energy Star promotional and information materials, outreach to low- and moderate-income renters on the benefits and savings when using Energy Star products and appliances, and promoting the designation of community buildings and homes as Energy Star compliant. For further information about Energy Star, see http://www.energystar.gov or call 888-STAR-YES (1-888-782-7937) or for the hearing-impaired, 888-588-9920 TTY.

5. Acquisition and Relocation. You must comply with the Uniform Relocation Assistance and Real Property Acquisition Policies Act of 1970, as amended (49 CFR part 24 and 24 CFR part 891.155(e)) (URA), which covers the acquisition of sites, with or without existing structures, and with 24 CFR 8.4(b)(5) of the Section 504 regulations which prohibits discrimination based on disability in determining the site or location of a federally-assisted facility. However, you are exempt from complying with the site acquisition requirements of the URA if you do not have the power of eminent domain and prior to entering into a contract of sale, option to purchase or any other method of obtaining site control, you inform the seller of the land in writing: (1) That you do not have the power of eminent domain and, therefore, you will not acquire the property if negotiations fail to result in an amicable agreement, and (2) of the estimate of the fair market value of the property. An appraisal is not required to meet this requirement; however, your files must include an explanation, (with reasonable evidence) of the basis for the estimate. Evidence of compliance with this advance notice requirement must be included in Exhibit 4(d)(iv) of your application.

6. Formation of Owner Corporation. You must form an “Owner” entity (in accordance with 24 CFR 891.305) after issuance of the capital advance fund reservation and must cause the Owner entity to file a request for determination of eligibility and a request for capital advance, and must provide sufficient resources to the Owner entity to ensure the development and long-term operation of the project, including capitalizing the Owner entity at firm commitment processing in an amount sufficient to meet its obligations in connection with the project over and above the capital advance amount.

7. Davis-Bacon. You must comply with the Davis-Bacon Requirements (42 U.S.C. 8013(j)6) and the Contract Work Hours and Safety Standards Act.

8. Flood Disaster Protection Act of 1973 and Coastal Barriers Resources Act. You must comply with the requirements under the Flood Disaster Protection Act of 1973 (42 U.S.C. 4001-4128) and the Coastal Barrier Resources Act (16 U.S.C. 3601).

C. Reporting

1. The Regulatory Agreement (Form HUD-92466-CA) requires the Owner of the Section 811 project to submit an annual financial statement for the project. This financial statement must be audited by an Independent Public Accountant who is a Certified Public Accountant or other person accepted by HUD and filed electronically with HUD's Real Estate Assessment Center (REAC) through the Financial Assessment Subsystem for Multifamily Housing (MF-FASS). The submission of annual financial statements is required throughout the 40-year term of the mortgage.

2. HUD requires that funded recipients collect racial and ethnic beneficiary data. It has adopted the Office of Management and Budget's Standards for the Collection of Racial and Ethnic Data. In view of these requirements, you should use Form HUD-27061, Racial and Ethnic Data Reporting Form (and instructions for its use), found at: http://www.hudclips.org, a comparable program form, or a comparable electronic data system for this purpose.

VII. Agency Contact(s)

For Technical Assistance. You may contact the appropriate local HUD office, or Gail Williamson at HUD Headquarters at (202) 708-3000 (this is not a toll-free number), or access the Internet at: http://www.hud.gov/grants/index.cfm. Persons with hearing and speech impairments may access the above number via TTY by calling the Federal Relay Service at 800-877-8339 (This is a toll-free number).

VIII. Other Information

A. Field Office Workshop

HUD encourages minority organizations and grassroots organizations (e.g., civic organizations, faith-communities and grassroots faith-based and other community-based organizations) to participate in this program and strongly recommends prospective applicants attend the local HUD office workshop. At the workshops, HUD will explain application procedures and requirements, as well as address concerns such as local market conditions, building codes and accessibility requirements, contamination identification and remediation, historic preservation, floodplain management, other environmental requirements, displacement and relocation, zoning, and housing costs. If you are interested in attending the workshop, make sure that your name, address and telephone number are on the appropriate local HUD office's mailing list so that you will be informed of the date, time and place of the workshop. Persons with disabilities should call the appropriate local HUD office to assure that any necessary arrangements can be made to enable their attendance and participation in the workshop.

If you cannot attend the workshop, call the appropriate local HUD office if you have any questions regarding the submission of applications to that particular office and to request any materials distributed at the workshop.

B. Satellite Broadcast

HUD will hold an information broadcast via satellite for potential applicants to learn more about the program and preparation of the application. It is strongly recommended that potential applicants, especially those who may be applying for Section 811 funding for the first time, tune in to this broadcast, if at all possible. Copies of the broadcast tapes are also available from the NOFA Information Center. For more information about the date and time of the broadcast, you should consult the HUD Web site at: http://www.hud.gov/grants/index.cfm.

C. Related Programs

Section 811 funding for tenant-based assistance is administered by public housing agencies and nonprofit organizations through the Mainstream Housing Opportunities for Persons with Disabilities Program.

D. Paperwork Reduction Act

The information collection requirements contained in this document have been approved by the Office of Management and Budget (OMB) under the Paperwork Reduction Act of 1995 (44 U.S.C. 3501-3520) and assigned OMB control number 2502-0462. In accordance with the Paperwork Reduction Act, HUD may not conduct or sponsor, and a person is not required to respond to, a collection of information unless the collection displays a currently valid OMB number. Public reporting burden for the collection of information is estimated to average 35.92 hours per annum per respondent for the application and grant administration. This includes the time for collecting, reviewing, and reporting the data for the application, semi-annual reports and final report. The information will be used for grantee selection and monitoring the administration of funds. Response to this request for information is required in order to receive the benefits derived.

Appendix A—Local HUD Offices

Notes:

1. Your application must be sent to the appropriate local HUD Office having jurisdiction over the locality in which your project will be located. If you send your application to the wrong local HUD Office, it will be rejected. Therefore, if you are uncertain as to which local HUD Office to submit your application, you are encouraged to contact the local HUD Office below that is closest to your proposed project location(s) to ascertain the Office's jurisdiction and ensure that you submit your application to the correct local HUD Office.

2. Applications for projects proposed to be located within the jurisdiction of the Sacramento, California Office must be submitted to the San Francisco, California Office.

3. Applications for projects proposed to be located within the jurisdiction of the Cincinnati, Ohio Office must be submitted to the Columbus, Ohio Office.

4. Applications for projects proposed to be located within the jurisdiction of the Washington, DC Office must be submitted to the Baltimore, Maryland Office.

5. Applications for projects proposed to be located within the jurisdiction of the Grand Rapids, Michigan Office must be submitted to the Detroit, Michigan Office.

6. Applications for projects proposed to be located within the jurisdiction of the Boston, Massachusetts Office must be submitted to the Manchester, New Hampshire Office.

BILLING CODE 4210-32-P

Mainstream Housing Opportunities for Persons with Disabilities (Mainstream Program)

Overview Information

A. Federal Agency Name: U.S. Department of Housing and Urban Development, Office of Public and Indian Housing, Office of Public Housing and Voucher Programs.

B. Funding Opportunity Title: Mainstream Housing Opportunities for Persons With Disabilities (Mainstream Program).

C. Announcement Type: Initial announcement.

D. Funding Opportunity Number: The Federal Register number for this NOFA is FR-4900-N-21. The OMB approval number is 2577-0169.

E. Catalog of Federal Domestic Assistance (CFDA) Number: 14.871, Section 8 Housing Choice Vouchers.

F. Dates: Application Deadline: Applications must be submitted on or before July 16, 2004. Please see the General Section of the SuperNOFA for application submission, delivery, and timely receipt requirements.

G. Optional, Additional Overview Content Information: The purpose of the Mainstream Program is to provide vouchers under the Housing Choice Voucher Program to enable persons with disabilities (elderly and non-elderly) to access affordable private housing. Public housing agencies (PHA) and nonprofit organizations that provide services to the disabled are eligible to apply. Those PHAs and nonprofits interested in applying for the approximately $11.8 million in five-year budget authority (anticipated to fund approximately 320 vouchers) under this funding announcement should carefully review the General Section of the SuperNOFA and the detailed information contained in this Mainstream Program funding announcement. The available funding is derived from FY 2004 Section 811 funding.

Full Text of Announcement

I. Funding Opportunity Description

A. Authority and Purpose. Authority for this program is found in the Consolidated Appropriations Act, FY 2004 (Pub. L. 108-199, approved January 22, 2004). The Secretary has established a Mainstream Housing Opportunities for Persons with Disabilities Program (Mainstream Program) to provide vouchers to enable persons with disabilities to access affordable private housing of their choice. The Mainstream Program will assist PHAs and nonprofit organizations in providing housing choice vouchers to a segment of the population recognized by HUD's housing research as having one of the worst housing needs of any group in the United States, i.e., very low-income households with adults with disabilities. In addition, the Mainstream Program will assist persons with disabilities who often face difficulties in locating suitable and accessible housing on the private market. The vouchers that HUD will provide under this announcement must be made available to eligible disabled families regardless of their type of disability. (See the definition of disabled family in section I.B.1. of this announcement.) The Mainstream Program vouchers must not be issued by the administering agency on the basis of any preference system favoring any particular type of disability over another, nor shall the vouchers be issued solely on the basis of an administering agency's waiting list which is based on that agency heretofore having served only certain types of disabled persons. The Housing Choice Voucher Program regulations provide at 24 CFR 982.207(b)(3) that a PHA may give preference for admission of families that include a person with disabilities; however, the PHA may not give preference for admission of persons with a specific disability. This regulatory requirement is also applicable to nonprofit organizations that receive funding under this announcement; as such organizations must comply with the regulatory requirements applicable to the Housing Choice Voucher Program. Because Mainstream vouchers are targeted for use by disabled persons, each successful applicant will need to revise the administrative plan for its voucher program to clearly indicate Mainstream vouchers will be issued only to disabled persons. Preferences within the disability category; e.g., disabled veterans, etc., may be used as long as the result is not to give a preference to the admission of persons with any specific type of disability.

B. Definitions. The following definitions apply to the approximately $11.8 million in five-year budget authority available under this funding announcement.

1. Disabled Family. Disabled family means a family whose head, spouse, or sole member is a person with disabilities. It may include two or more persons with disabilities living together, or one or more persons with disabilities living with one or more live-in aides.

2. Person With Disabilities.

a. Means a person who:

(1) Has a disability as defined in 42 U.S.C. 423;

(2) Is determined, pursuant to HUD regulations, to have a physical, mental or emotional impairment that:

(a) Is expected to be of long-continued and indefinite duration;

(b) Substantially impedes his or her ability to live independently; and

(c) Is of such a nature that the ability to live independently could be improved by more suitable housing conditions; or

(3) Has a developmental disability as defined in 42 U.S.C. 6001.

b. Does not exclude persons who have the disease of acquired immunodeficiency syndrome or any conditions arising from the etiologic agent for acquired immunodeficiency syndrome;

c. For purposes of qualifying for low-income housing, does not include a person whose disability is based solely on any drug or alcohol dependence.

Note: HUD is exercising its waiver authority under the “Housing for Persons With Disabilities” section of the Consolidated Appropriations Act, 2004, to use the definition of “person with disabilities” found at section 3(b)(3)(E) of the U.S. Housing Act of 1937, as implemented in the HUD regulations for the Housing Choice Voucher Program at 24 CFR 5.403, in lieu of the definition of “person with disabilities” found at 24 CFR 811 (k)(2).

3. Housing Choice Voucher Search Assistance. Assistance to increase access by program participants to housing units in a variety of neighborhoods (including areas with low poverty concentrations) and to locate and obtain units suited to their needs.

II. Award Information

A. Available Funds

1. Available Funding for Mainstream Program. Approximately $11.8 million in five-year funding is available for approximately 320 vouchers. This allocation is consistent with the Consolidated Appropriations Act, FY 2004 (Pub. L. 108-199, approved January 22, 2004), which provides that the Secretary of HUD may designate up to 25 percent of the amounts appropriated for supportive housing for persons with disabilities, excluding amounts for voucher renewals, under section 811 of the Cranston-Gonzalez National Affordable Housing Act (NAHA) (42 U.S.C. 12701 et seq.), for tenant-based assistance. All future references in this funding announcement to five-year budget authority are based upon this funding source. The five-year budget authority made available to applicants under this Mainstream Program funding announcement does not exceed 25 percent of the $250,750,000 million made available for the Section 811 Program under the FY 2004 Consolidated Appropriations Act, excluding amounts for voucher renewals. All of the approximately $11.8 million in Mainstream funding is for use in the housing of persons with disabilities.

2. Funding for the Section 811 Program. The Section 811 Program of Supportive Housing for Persons With Disabilities, located elsewhere in the SuperNOFA, provides capital advances and project rental assistance in FY 2004. The Section 811 Program of Supportive Housing for Persons With Disabilities will provide funding to nonprofit organizations (sponsors) for the development and operation of small, scattered-site housing to enable adults with disabilities to live as independently as possible in the community. The capital advance does not need to be repaid as long as the housing is used for its intended purpose for at least 40 years. The project rental assistance funds cover the difference between the HUD-approved operating expenses of the housing and the tenant's contribution towards rent, which is 30 percent of adjusted income. The types of housing that are typically developed through the program are small group homes for no more than six persons, independent living projects containing individual apartment units for no more than 14 persons, and condominium units. Sponsors are required to ensure that residents have access to any necessary supportive services but cannot require the acceptance of such as a condition of occupancy.

B. Housing Choice Voucher Funding

1. Determination of Funding Amount for the Applicant's Requested Number of Vouchers. HUD's Housing Voucher Financial Management Division will determine the amount of funding that an applicant will be awarded under this announcement based upon an actual annual per unit cost {except for Moving to Work (MTW) agencies in which the per unit cost will be calculated in accordance with the agency's MTW Agreement for MTW units}, using the following two-step process:

a. HUD will extract the total expenditures for the PHA's housing choice voucher program and the unit months leased information, as reported on the PHA's most recent year-end statement, Form HUD-52681, or as subsequently submitted to HUD by the PHA on Form HUD-52681-B, Voucher for Payment of Annual Contributions and Operating Statement. HUD will divide the total expenditures for the PHA's housing choice voucher program by the unit months leased to derive an average monthly per unit cost.

b. HUD will multiply the monthly per unit cost by 12 (months) to obtain an annual per unit cost.

III. Eligibility Information

A. Eligible Applicants. PHAs and nonprofit organizations that provide services to the disabled (as defined in Section I.B.1. of this announcement) are eligible applicants for the five-year budget authority funding available under this funding announcement. PHAs with less than 300 vouchers under an annual contributions contract (ACC), nonprofit organizations not previously funded under the Mainstream Program, as well as PHAs or nonprofit organizations that fall into any of the categories in Section III. C. 1. of this announcement, are ineligible to have an application funded under this announcement. Indian Housing Authorities (IHAs), Indian tribes and their tribally designated housing entities are not eligible to apply for new increments of housing choice voucher funding because the Native American Housing Assistance and Self-Determination Act of 1996, (25 U.S.C. 4101 et seq.) does not allow HUD to enter into new housing choice voucher annual contributions contracts (ACC) with IHAs after September 30, 1997.

B. Cost Sharing or Matching. None required.

C. Other

1. Program Related Threshold Requirements. An applicant must be eligible under the following threshold requirements at the time of the application due date, as well as at such subsequent time of HUD's selection of awardees. The Grants Management Center will use information available within HUD's information systems, as well as coordinate with HUD's local HUD Field Offices, in assessing whether applicants fall into any of the threshold categories. Applications from PHAs or nonprofit organizations that fall into any of the following threshold categories will not be processed:

a. PHAs or nonprofit organizations that do not meet the fair housing and civil rights compliance threshold requirements of Sections III.C 2.c. and Section III.C 4 a. and b. of the General Section of the SuperNOFA.

b. The applicant is designated as troubled by HUD under SEMAP, or has major program management findings in an Inspector General audit for its voucher program that are unresolved, or has other significant program compliance problems that are not resolved. Major program management findings, or significant program compliance problems, are those that would cast doubt on the capacity of the applicant to effectively administer any new housing choice voucher funding in accordance with applicable HUD regulatory and statutory requirements. The only exception to this category is if the applicant has been identified under the policy established in Section III.C.2.(c.) of this announcement and the applicant makes application with a designated contract administrator.

c. The PHA or nonprofit organization has failed to achieve a lease-up rate of 97 percent for its voucher units under contract. The lease-up percentage for a PHA's or nonprofit organization's voucher program will be calculated by HUD Headquarters' Housing Voucher Financial Management Division based upon the lease-up rate information submitted electronically to HUD on a quarterly basis for the most recent 12-month period (prior to the Mainstream application due date) on Form HUD-52681-B, Voucher for Payment of Annual Contributions and Operating Statement. The lease-up rate will be determined by HUD comparing unit months leased to unit months available for the period. (In the absence of current and complete PHA reporting on the Form HUD-52681-B, the leasing level reported by the PHA on the last HUD-approved Year End Settlement Statement, Form HUD-52681, will be used by HUD to determine the PHA's voucher lease-up percentage.) (Note: Lease-up rates of 96.5 percent but less than 97 percent shall be rounded up to 97 percent.) See Section IV.B.1.f. of this funding announcement which addresses the certification to be submitted by MTW agencies in connection with the 97 percent lease-up requirement referenced above.

d. The PHA or nonprofit organization is involved in litigation and HUD determines that the litigation may seriously impede the ability of the applicant to administer the vouchers.

e. An application that does not comply with the requirements of 24 CFR 982.103 and this program section after the expiration of the seven-calendar day technical deficiency correction period will be rejected from processing.

f. The application was submitted after the application due date.

g. The application was not submitted to the official place of receipt as indicated in the paragraph entitled “Other Submission Requirements” in Section IV.F. of this funding announcement.

h. The applicant has been debarred or otherwise disqualified from providing assistance under the program.

i. The PHA did not have its PHA plans approved by HUD for the FY2002 plan cycle on the application due date for this funding announcement. (This category of ineligibility does not apply to nonprofit organizations whose housing choice voucher program is based solely upon previously approved housing choice vouchers under the Mainstream Program.)

j. The applicant does not have a financial management system that meets Federal standards. See Section III.C.2.f. of the General Section of the SuperNOFA regarding those applicants that may be subject to HUD's arranging for a pre-award survey of an applicant's financial management system.

k. The PHA (does not apply to nonprofit applicants) does not have a HUD-approved designated housing plan, as of the application due date under this funding announcement.

2. PHA Program Requirements

a. A PHA may submit only one application under this announcement. This one application per PHA limit applies regardless of whether or not the PHA is a State or regional PHA, except in those instances where such a PHA has more than one PHA code number due to its operating under the jurisdiction of more than one HUD Field Office. In such an instance, a separate application under each code shall be considered for funding, with the cumulative total of vouchers applied for under the applications not to exceed the maximum of 20 vouchers the PHA is eligible to apply for under Section IV.E. of this announcement, i.e., no more than the number of vouchers the same PHA would be eligible to apply for if it only had one PHA code number.

b. PHAs are encouraged to involve nonprofit organizations that provide services to disabled families, as defined in Section III.C.3. of this announcement, in the administration of the Mainstream Program's vouchers. In the past, such organizations have frequently demonstrated a capacity to assist disabled families, as well as have an in-depth knowledge of the disability community.

(1) A nonprofit organization could function as either a contract administrator for the PHA's Mainstream vouchers, or as a subcontractor responsible for providing case management services or assisting disabled families to locate suitable housing, gain access to supportive services, or identify private funding sources to cover the costs of unit modifications needed as a reasonable accommodation.

(2) Such contractual arrangements must, however, ensure equal opportunity among the wide variety of disabled populations in the PHA's service area.

c. In some cases an applicant currently administering the housing choice voucher program has, at the time of publication of the SuperNOFA, been designated by HUD as troubled under the Section 8 Management Assessment Program (SEMAP), has major program management findings from Inspector General audits that are unresolved, or has other significant program compliance problems. HUD will not accept an application from such an applicant as a contract administrator if, on the application due date, the troubled designation under SEMAP has not been removed by HUD, and the findings or other significant program compliance problems are not resolved. If the applicant wants to apply for funding under this announcement, it must submit an application that designates another contractor that is acceptable to HUD. The application must include an agreement by the other contractor to administer the new funding increment on behalf of the applicant, and (in the instance of an applicant with unresolved major program management findings or other significant program compliance problems) a statement that outlines the steps the applicant is taking to resolve the program findings or compliance problems.

Immediately after the publication of this SuperNOFA, the Office of Public Housing in the local HUD Field Office will notify, in writing, those PHAs and nonprofit organizations that have been designated by HUD as troubled under SEMAP, and those PHAs and nonprofit organizations with unresolved major program management findings or other significant program compliance problems that are not eligible to apply without such an agreement. Concurrently, the local HUD Field Office will provide a copy of each such written notification to the Director of the Grants Management Center (GMC). The applicant may appeal the decision, in writing, if HUD has mistakenly classified the applicant as having unresolved major program findings or other significant program compliance problems. The applicant may not appeal its designation as troubled under SEMAP. Any appeal with respect to unresolved major program management findings or other significant program compliance problems must be accompanied by conclusive evidence of HUD's error (i.e., documentation showing that the finding has been cleared or the program compliance problem has been resolved) and must be received prior to the application deadline. The appeal should be submitted to the local HUD Field Office where a final determination shall be made. Concurrently, the local HUD Field Office shall provide the Grants Management Center with a copy of the applicant's written appeal and the Field Office's written response to the appeal. Copies of all letters of ineligibility and matters that relate to PHA appeals referenced in this paragraph must be submitted to the GMC by the Field Office so as to be received by the GMC no later than 10 days after the application deadline date. Major program management findings, or significant program compliance problems, are those that would cast doubt on the capacity of the applicant to effectively administer any new housing choice voucher funding in accordance with applicable HUD regulatory and statutory requirements.

(Note: If any additional PHAs or nonprofit disability organizations fall into the above category prior to HUD's announcement of awards under this NOFA, but subsequent to the local HUD Field Office's notification of the GMC addressed above, the Field Office shall immediately notify the GMC of the applicant's name and the category into which the applicant falls, i.e., designated as troubled under SEMAP, major unresolved OIG management findings, or other significant program compliance problems. As indicated in Section III.C.1. of this NOFA, an applicant must be eligible for funding at the time of the application due date, as well as at such subsequent time of HUD's selection of awardees. No PHA appeals, based upon Field Office letters of ineligibility issued after the application deadline date, shall be considered for purposes of eligibility for funding under this funding announcement.)

3. Nonprofit Organization Program Requirements. A nonprofit organization may submit only one application under this announcement. For purposes of the Mainstream Program, a nonprofit organization shall be defined as an organization, no part of the net earnings of which inures to the benefit of any member, founder, contributor, or individual, that provides services to persons with disabilities and has received a federal tax-exempt designation, under section 501(c)(3) of the Internal Revenue Code, from the U.S. Internal Revenue Service.

a. The nonprofit entity must:

(1) Have a voluntary board;

(2) Be authorized by its charter or State law to enter into a contract with the Federal Government to provide housing assistance to persons with disabilities;

(3) Have a functioning accounting system that is operated in accordance with generally accepted accounting principles, or designate an entity that will maintain a functioning accounting system for the organization in accordance with generally accepted accounting principles;

(4) Practice nondiscrimination in the provision of assistance; and

(5) Provide services to the disabled as part of its ongoing activities and responsibilities.

b. Nonprofit organizations are encouraged to seek out PHAs in their geographic area to develop cooperative contractual relationships under the Mainstream Program, and to enhance services to disabled families. In addition to contacting local PHAs, nonprofit organizations may also wish to contact regional (multi-county), or statewide PHAs.

4. Eligible Participants. Only a disabled family that is income eligible under 24 CFR 982.201(b)(1), as well as otherwise eligible under the regulations at 24 CFR 982.201, may receive a voucher awarded under the Mainstream Program. Applicants with disabilities must be selected from the PHA's or nonprofit organization's housing choice voucher waiting list. Additional information on those families and individuals eligible to receive a voucher is located at the following HUD Web site: http://www.hud.gov/offices/pih/programs/hcv.

IV. Application and Submission Information

A. Addresses to Request Application Package

1. Web Site. A copy of this funding announcement for the Mainstream Program, the forms to be submitted with the application, and reference materials for use in preparing an application are located at, and may be downloaded from, the following Web site at: http://www.grants.gov/Find.

2. Application Kit. An application kit is not necessary for submitting an application in response to this announcement. This announcement contains all the information necessary for the submission of your application for voucher funding for the Mainstream Program.

3. Further Information. You may request general information, copies of the General Section and Program Sections of the SuperNOFA from the NOFA Information Center (800-HUD-8929) or {800-HUD-2209 (TTY)} between the hours of 9 a.m. and 8 p.m. (eastern time) Monday through Friday, except on Federal Holidays. When requesting information, please refer to the name of the program you are interested in. Be sure to provide your name, address (including zip code), and telephone number (including area code). To ensure sufficient time to prepare your application, requests for copies of the SuperNOFA can be made immediately following publication of the SuperNOFA. The NOFA Information Center opens for business simultaneously with the publication of the SuperNOFA. You can also download application information for the SuperNOFA through the http://www.grants.gov/FIND Web site.

B. Content and Form of Application Submission

1. Content of Application. Applicants are requested to read this section very carefully, as it addresses the specific information that must be in the applications submitted to HUD under this NOFA. Applications failing to provide this information will be determined either ineligible for processing, or in the instance of an application having a curable (correctable) technical deficiency (see the General Section of the SuperNOFA), the applicant will be requested to submit additional information. Those application submission items identified below in this Section IV.B.1. as “not curable” shall mean that any item, e.g., Mainstream Program Operating Plan, for which the applicant does not provide all the requested information shall result in the application being determined ineligible for processing. The turnaround times established by HUD in the instance of curable technical deficiencies are relatively brief, so the initial submission of a carefully prepared and complete application is extremely important. Applicants should also carefully review Sections III.C.1.(b) and (c). of this funding announcement to determine if their SEMAP designation, OIG status, existence of significant program compliance problems, or voucher lease-up rate will require the submission of additional information with their application.

a. Form HUD-52515. All applicants must complete and submit Form HUD-52515, Funding Application, for the Housing Choice Voucher Program. Applicants are required to enter their housing authority code number (for example, CT002), telephone number, facsimile number, and electronic mail address at the top of the form where they are also to enter their name and mailing address. Section C of the form should be left blank. Each applicant is required to submit signed copies of Assurances and Certifications. The standard Assurances and Certifications required to be submitted by each applicant are on the Form HUD-52515 which includes the Equal Opportunity Certification, and the Certification Regarding Lobbying. The form must be completed in its entirety, with the exception of Section C. A copy of Form HUD-52515 is included in the forms found in the General Section of the SuperNOFA. Copies of the form may also be downloaded from the grants.gov Web site at: http://www.grants.gov/FIND.

The Form HUD-52515 must be signed and dated by the applicant. The signature and date shall signify that the information provided on the form is complete and accurate, and that all other information provided by the applicant in its application (including any certifications) are complete and accurate.

b. Letter of Intent and Narrative. The applicant must state in its cover letter to the application whether it is a PHA or a nonprofit organization applying for funding. The applicant also must indicate the number of vouchers being requested, whether it will accept a reduction in the number of vouchers, and the minimum number of vouchers the applicant will accept, since the funding is limited and HUD may only have enough funds to approve an amount smaller than the number of vouchers requested. The maximum number of vouchers that an applicant may apply for under this announcement is limited to 20, and the minimum number of vouchers an applicant may apply for is 10.

The letter of intent and narrative should also include information addressing how the applicant meets the selection criteria in Section V.A. of this NOFA. Failure of the applicant to provide information in connection with selection criterion 1 shall result in the GMC scoring the applicant solely on the basis of information HUD already has on-hand. An applicant (with the exception of a Block Grant MTW PHA) is not required to submit any information with its application relative to selection criterion 2, as HUD will determine the applicant's voucher lease-up rate based upon information already available within HUD's data systems. Failure of the applicant to provide the information called for under selection criteria 3, 4, 5 and 6 shall be considered not curable, but shall not make the application ineligible for processing. Failure to provide the information shall simply mean that the applicant is ineligible for the points under the categories for which it failed to provide the information requested in this funding announcement.

c. Description of Need for Mainstream Program Vouchers. The PHA's and nonprofit organization's application must demonstrate a need for Mainstream Program vouchers by providing information documenting that the demand for housing for non-elderly and elderly persons with disabilities would equal or exceed the requested number of vouchers. The applicant must assess and document the housing need for elderly and non-elderly persons with disabilities using a range of sources including, but not limited to: census data, information from the applicant's waiting list (both public housing and housing choice voucher), statistics on recent public housing admissions and housing choice voucher use, data from local advocacy groups and local public and private service agencies familiar with the housing needs of elderly and non-elderly persons with disabilities, and pertinent information from the Consolidated Plan [including the Analysis of Impediments to Fair Housing Choice (AI)] applicable to the applicant's jurisdiction. {See 24 CFR 91.205(d).} Failure of the applicant to provide the information required under this section (c) shall be determined not curable and the application deemed ineligible for processing.

d. Mainstream Program Operating Plan. The application must include a plan for operating a program to serve eligible disabled families. This Mainstream Program Operating Plan must, at a minimum, address the following:

(1) How the applicant will carry out its responsibilities under 24 CFR 8.28 to assist recipients in locating units with needed accessibility features;

(2) How the applicant will identify private or public funding sources to help participants cover the costs of modifications that need to be made to their units as reasonable accommodations to their disabilities; and

(3) How the applicant will use a nonprofit organization or PHA under a contract to administer the Mainstream Program vouchers or to otherwise provide services. (This area need be addressed only if the applicant intends to partner with a PHA or nonprofit organization as part of its efforts to serve eligible disabled families receiving Mainstream vouchers.)

Failure of the applicant to provide the information required under this section (d) shall be determined not curable and the application deemed ineligible for processing.

e. Statement Regarding the Steps the PHA and Nonprofit Organization Will Take to Affirmatively Further Fair Housing. The statement must include specific steps to address the categories outlined in section III. C. 4. b. in the General Section of the HUD SuperNOFA.

f. Block Grant Moving to Work (MTW) PHA Certification. Block Grant MTW agencies must submit a certification with their application certifying to HUD that their voucher program funds have been used to meet the commitments of their MTW Agreement. Block Grant MTW PHAs that cannot rightfully submit such a certification shall submit a statement with their application explaining specifically why such a certification would not be accurate. (MTW PHAs in this latter category will have the number of Mainstream vouchers they are requesting evaluated by HUD on a case-by-case basis.)

Failure of a Block Grant MTW PHA to provide the certification or statement required under this section (f) shall be determined not curable and the application deemed ineligible for processing.

g. Form HUD-2993. All applicants must complete and submit Form HUD-2993, Acknowledgement of Application Receipt. In addition to the applicant's entering its name and address on the form, the full title of the program under which the applicant is seeking funding must also be entered. This form is located in the General Section of the SuperNOFA and is also available at the following Web site: http://www.grants.gov/Find.

h. Identification of Primary Market Area. Each applicant must specify in the application its primary market area, i.e., the geographic area in which it is legally authorized to operate and where the vouchers will be issued. This information may be different from that entered by such an applicant on the Form HUD-52515, as the form calls for the applicant to identify its “legal area of operation” which may be far more geographically expansive than the specific city, county, or area within a State where a PHA (particularly a regional or State PHA), or nonprofit organization intends to issue the vouchers. This information is critical because, as indicated in Section V.A2.a. of this funding announcement, the geographic area in which the vouchers are intended to be issued and in which the applicant is legally authorized to operate a Housing Choice Voucher Program will be used by the applicant (and subsequently by the GMC during the review of applications) to determine the percentage of the nation's housing needs for disabled persons at or below the poverty level that are within the applicant's primary market area. For example, although an applicant may be legally authorized to operate throughout the entire county in which it is located, if the vouchers will be issued only in two cities within that county then the primary market area is those two cities and not the entire county. Conversely, if the applicant is planning to issue vouchers to all cities within a county, then the applicant must list the county only and not list the individual cities within that county (the county is the sum of all housing needs for cities within a county). If, in addition to the county, there are individual cities outside the county where the applicant also will be issuing vouchers, the PHA then also must list these cities. A State PHA or nonprofit organization legally authorized to operate throughout the entire State, but which intends to issue the Mainstream vouchers in only one county, must list solely that county as its primary market area. In addition, the primary market area shall not include a geographic area in which the applicant is issuing vouchers, outside its normal, legally authorized area of operation, based upon an agreement with another agency/PHA to issue vouchers in the other agency's/PHA's jurisdiction.

i. DUN and Bradstreet Universal Numbering System (DUNS) Number Requirement. Each applicant is required to submit within its application a separate page that lists the DUNS number assigned to the applicant. (See Section III.C.2.b. in the General Section of the SuperNOFA concerning how an applicant obtains a DUNS number.) An applicant will need to obtain a DUNS number in order to receive an award of Mainstream vouchers from HUD.

2. SF 424 Supplement, Survey on Ensuring Equal Opportunity for Applicants. Non-profit applicants are invited to respond to a survey questionnaire. This survey is designed to help HUD assess the availability of our funding opportunities to grass roots community-based organizations, including faith-based organizations. A copy of the survey form can be found in the General Section of the SuperNOFA.

C. Submission Date and Time. Submit your completed application (an original and one copy) to HUD on or before July 16, 2004. This application deadline date is firm. In the interest of fairness to all competing PHAs and nonprofit organizations, HUD will not consider any application that is submitted after the application deadline. Applicants should take this practice into account and make early submission of their materials to avoid any risk of loss of eligibility brought about by unanticipated delays or other delivery-related problems. HUD will not accept, at any time during the competition under this funding announcement, application materials sent via facsimile (FAX) transmission. See the paragraph titled Addresses and Application Submission Procedures in the General Section of the SuperNOFA regarding HUD's mailing, delivery and receipt procedures pertinent to the submission of your application.

D. Intergovernmental Review. Applicants submitting an application under this funding announcement are not subject to intergovernmental review; i.e., Executive Order (EO) 12372, Intergovernmental Review of Federal Programs.

E. Funding Restrictions. There is a limit on the minimum and maximum number of vouchers that may be requested. An eligible applicant may apply for not less than 10 vouchers and no more than a maximum of 20 vouchers. No less than 10 vouchers and no more than 20 vouchers will be awarded to any applicant under the FY 2004 Mainstream Program. Any application incorrectly requesting more than 20 vouchers shall have its voucher request reduced by HUD to 20 vouchers. Likewise, because an applicant is not to request less than 10 vouchers under this NOFA, any applicant requesting less than 10 vouchers shall have that voucher request increased by HUD to 10 vouchers.

F. Other Submission Requirements. Your completed application consists of the original and one copy. Submit your original application and one copy to: Grants Management Center, Mail Stop: Mainstream Program, 2001 Jefferson Davis Hwy, Suite 703, Arlington, VA 22202.

The Grants Management Center (GMC) is the official place of receipt for all applications in response to this announcement of funding availability. Applications not submitted to the GMC will not be considered. A copy of the application is not required to be submitted to the local HUD Field Office. For ease of reference, the term “local HUD Field Office” will be used in this announcement to mean the local HUD Field Office Hub and the local HUD Field Office Program Center. A listing of HUD Field Offices is attached to the General Section of the SuperNOFA.

V. Application Review Information

A. Criteria

1. Rating and Ranking. After the Grants Management Center has screened and disapproved any applications found unacceptable for further processing, it will review all acceptable applications to ensure they are technically adequate and responsive to the requirements of this announcement. HUD Headquarters will fund all applications from PHAs and nonprofit organizations that are recommended for funding by the Grants Management Center unless HUD receives approvable applications for more funds than are available. HUD will select applicants to be funded based upon the methodology indicated in Section V.B.1. of this NOFA. Applications meeting all the application submission requirements of Section IV.B. of this NOFA will be rated and ranked on the basis of their score under the selection criteria in section V. A. of this NOFA. The maximum score under the selection criteria is 100 points.

2. Selection Criteria.

a. Selection Criterion 1, Disabled Persons at or Below the Poverty Level, (40 Points)

(1) Description. This criterion assesses the number of disabled persons at or below the poverty level in the primary market area served by the applicant, as a percentage of such disabled persons on a national basis using 2000 census data. The primary market area is defined as the geographic area in which the applicant is legally authorized to operate and where the vouchers will be issued. (See Section IV.B.1.h. of this NOFA regarding the description of the primary market area required to be included in each PHA's/nonprofit organization's application.) A table listing all the cities and counties with a population of 10,000 or more persons within the nation (States and territories) will be listed with this funding announcement at the following HUD Web site: http://www.grants.gov/FIND. Also indicated on the table will be the number of disabled persons/percentage of such disabled persons at or below the poverty level within each city or county, as a percentage of the number of disabled persons at or below the poverty level within the nation. An applicant (and the GMC during the review of applications) will use the table to determine the percentage of disabled persons at or below the poverty level that is in the applicant's primary market area. The percentage will determine the number of points that the applicant is eligible for under Selection Criterion 1.

(2) Rating and Assessment. Points will be assigned based upon the number of disabled persons at or below the poverty level in the applicant's primary market area, as a percentage of such persons within the nation. For each tenth of one percent (.001) within the applicant's primary market area the applicant will receive 5 points. Percentages of .0015, .0025, etc. or higher but less than the next whole tenth of one percent, i.e., .002, .003, etc. shall be rounded to the next whole tenth of a percentage point. An applicant having a primary market area with less than one-tenth of one percent for disabled persons, or a population of 10,000 or fewer, or for which disability percentages are not listed on the table, will receive 5 points under Selection Criterion 1. Likewise, an applicant having a primary market area comprised of more than one community with a population of 10,000 or fewer shall receive a total of 5 points for all such communities combined. In addition, an applicant with a primary market area comprised of one or more cities and/or counties, for which the total combined percentage is equal to or less than .00149 shall receive 5 points. A maximum of 40 points is available under Selection Criterion 1 regardless of how high a percentage of disabled persons at or below the poverty level is located within the applicant's primary market area.

b. Selection Criterion 2, Lease-Up Rate, (20 Points)

(1) Description. This criterion focuses on a PHA's and nonprofit organization's success in leasing its housing choice vouchers. While a PHA or nonprofit organization must have a lease-up rate of at least 97 percent under Section III.C.1.c. of this NOFA in order to have an acceptable application, Selection Criterion 2 provides for the award of selection points to those PHAs and nonprofit organizations having a voucher lease-up rate of 99 percent or higher. The lease-up percentage for a PHA's or nonprofit organization's voucher program will be calculated by HUD Headquarters' Housing Voucher Financial Management Division based upon the lease-up rate information submitted electronically to HUD on a quarterly basis for the most recent 12-month period (prior to the Mainstream application due date) on Form HUD-52681-B, Voucher for Payment of Annual Contributions and Operating Statement. The lease-up rate will be determined by HUD comparing unit months leased to unit months available for the period. (In the absence of current and complete PHA reporting on the Form HUD-52681-B, the leasing level reported by the PHA on the last HUD-approved Year End Settlement Statement, Form HUD-52681, will be used by HUD to determine the PHA's voucher lease-up percentage.) Lease-up rates of a half or more of one percentage point will be rounded to the next highest percentage point for purposes of qualifying for the points available under Selection Criterion 2 (for example, 98.5 percent will be rounded up to 99 percent).

See section IV.B.1.f. of this NOFA regarding the certification requirement applicable to Block Grant MTW PHAs in connection with qualifying for the points available under Selection Criterion 2.

(2) Rating and Assessment. The GMC will assign 20 points if the PHA or nonprofit organization has a lease-up rate for its voucher program of 99 percent.

c. Selection Criterion 3, Homeownership Option Under Housing Choice Voucher Program, (15 Points)

(Note: Selection Criterion 3 addresses HUD's homeownership policy priority.)

(1) Description. Applicants are encouraged, consistent with 24 CFR 982.625-982.641, to establish a homeownership component or to expand upon an existing component within their housing choice voucher program. Points will be awarded under this NOFA to applicants that are able to meet the rating and assessment criteria listed below.

(2) Rating and Assessment. The GMC will assign points under Selection Criterion 3 as follows:

(a) 5 points: The applicant has established a housing choice voucher homeownership program as evidenced by its submission with its application of a copy of the Board resolution approving changes to its administrative plan for the implementation of the homeownership option under its housing choice voucher program.

(b) 10 points: The applicant qualifies for the five points under the paragraph immediately above and has had one or more closings under its homeownership program, as evidenced by the applicant's submission of information to HUD's Public and Indian Housing Information Center (PIC) on Form HUD-50058, Family Report, indicating at least one homeownership unit has completed the closing process.

(Note: The applicant can only qualify for the ten points under this paragraph if it has first qualified for the five points under the paragraph immediately above.)

d. Selection Criterion 4, Family Self-Sufficiency (FSS) Slots Filled, (15 Points)

(1) Description. PHAs are encouraged, consistent with 24 CFR 984, to fill the slots required under a mandatory FSS program, and to establish a voluntary FSS program and fill slots under that program where a mandatory FSS program is not required. Points will be awarded under this NOFA to PHAs submitting a certification with their application certifying that they have filled 60 percent or more of the required slots under a mandatory FSS program, or that have filled one or more slots under a voluntary FSS program, and that these slots have been reported to HUD's PIC on the Form HUD-50058. Prior to calculating the percentage of mandatory FSS slots filled, PHAs must reduce the number of mandatory slots to reflect any HUD-approved exception and/or program graduates.

(Note: Nonprofit organizations may also qualify for points under this selection criterion, but the basis upon which they may do so is different than for PHAs, as indicated below.)

(2) Rating and Assessment for PHAs. The GMC will assign rating points under Selection Criterion 4 as follows (PHAs may receive a maximum of 15 points under the Mandatory FSS Program category or 15 points under the Voluntary FSS Program category, but shall not receive more than a combined maximum total of 15 points under Selection Criterion 4):

(a) Mandatory FSS Program (percentages rounded to the nearest whole percent)

(i) 15 points: 80 percent or more of the applicant's FSS slots are filled.

(ii) 10 points: 60-79 percent of the applicant's FSS slots are filled.

(iii) 0 points: Less than 60 percent of the applicant's FSS slots are filled.

(b) Voluntary FSS Program

(i) 15 points: 25 or more of the applicant's FSS slots are filled.

(ii) 10 points: 1 to 24 of the applicant's FSS slots are filled.

(iii) 0 points: None of the applicant's FSS slots are filled

(3) Rating and Assessment for Nonprofit Organizations: The GMC will assign rating points under Selection Criterion 4 as follows:

(i) 15 points: A certification is submitted with the application certifying that the nonprofit organization will assist 80 percent or more of its Mainstream voucher families either directly, or indirectly through referrals to other agencies, with such needs as child care, transportation, educational and job training opportunities, employment, money management, and such other similar needs as are necessary to assist these families in achieving economic independence and self-sufficiency.

(ii) 10 points: A certification is submitted with the application certifying that the nonprofit organization will assist 50 to 79 percent of its Mainstream voucher families either directly, or indirectly through referrals to other agencies, with such needs as child care, transportation, educational and job training opportunities, employment, money management, and such other similar needs as are necessary to assist these families in achieving economic independence and self-sufficiency.

(iii) 0 points: The nonprofit organization submits neither of the certification statements indicated immediately above.

e. Selection Criterion 5, Commitments from Outside Agencies, (5 Points)

(Note: Selection Criterion 5's category for five points addresses HUD's grass roots faith-based and other community-based organizations policy priority.)

(1) Description. The applicant documents that it has entered into agreements with one or more organizations to assist disabled families with moving costs, security deposits, utility hook-up fees, utility deposits, medical care, transportation, educational opportunities, employment and child care.

(2) Rating and Assessment: The GMC will assign points as follows:

(a) 5 points: The applicant provides copies of the agreements that it has entered into with three or more organizations to assist disabled families with moving costs, security deposits, utility hook-up fees, utility deposits, medical care, transportation, educational opportunities, employment and child care. The applicant must also provide information indicating it has taken one or more of the activities to promote the participation of grass roots and other community based organizations indicated in Section II (6) of the General Section of the SuperNOFA, as relates to the aforementioned agreements. The applicant's provision of the former, but not the latter information, shall result in the application receiving no more than 3 points under this Selection Criterion 5, as indicated below.

(b) 3 points: The applicant provides copies of the agreements that it has entered into with three or more organizations to assist disabled families with moving costs, security deposits, utility hook-up fees, utility deposits, medical care, transportation, educational opportunities, employment and child care.

(c) 2 points: The applicant provides copies of the agreements it has entered into with two organizations to assist disabled families with moving costs, security deposits, utility hook-up fees, utility deposits, medical care, transportation, educational opportunities, employment and child care.

(d) 1 point: The applicant provides copies of the agreements it has entered into with one organization to assist disabled families with moving costs, security deposits, utility hook-up fees, utility deposits, medical care, transportation, educational opportunities, employment and child care.

f. Selection Criterion 6, Achieving Results and Program Evaluation (5 Points)

(1) Description. This criterion emphasizes HUD's determination to ensure that applicants meet commitments made in their applications and assess their performance in meeting performance goals. HUD requires Mainstream Program applicants to develop an effective, quantifiable, out-come oriented monitoring and evaluation plan for measuring performance and determining that goals have been met. The plan must include interim products or activities that lead to the ultimate achievement of the applicant's goals. Performance indicators must also be developed by the applicant to measure performance. Performance indicators must be objectively quantifiable and measure actual achievements against planned achievements. The applicant's evaluation and monitoring plan must identify what it is going to measure, how it will be measured, and the steps that will be taken to make adjustments to the plan if performance targets are not met within established deadlines. An example of a goal is that the applicant will have 100 percent of the Mainstream vouchers under lease by disabled families within 180 days of the effective date of the Annual Contributions Contract (ACC) for the funding increment. Examples of interim activities to achieve such a goal might include assisting disabled families with transportation to rental properties, efforts to identify and provide lists of accessible units, approval of exception payment standards, or use of special housing types. An example of related performance indicators might include assisting disabled families with transportation needs within 24 hours of a disabled family's request to visit a potential rental unit, and that 50 percent of all the Mainstream vouchers are to be under lease within 90 days of the ultimate goal of having all vouchers under lease within 180 days. Examples of other areas in which applicants may wish to consider establishing goals are with respect to Selection Criterion 3, Selection Criterion 4, Selection Criterion 5, and any one or more of the areas to be addressed in the applicant's Mainstream Program Operating Plan, etc.

(2) Rating and Assessment. The GMC will assign points 5 points if the applicant submits a monitoring and evaluation plan meeting the descriptive requirements outlined immediately above.

B. Reviews and Selection Process

1. Selection for Funding. HUD will select applications for funding that meet all of the application submission requirements in Section IV.B. of this NOFA and that score a sufficient number of points under the selection criteria listed in section V. A. of this NOFA. Applications will be ranked from highest to lowest score in descending order, with the highest ranked application selected first for funding, and so forth. Where two or more applicants have exactly the same score under the selection criteria in Section V.A. of this NOFA and insufficient funding remains to fund all of them, applicants will be funded in the order of the exact percentage of disabled persons at or below the poverty level that is in each applicant's primary market area. The applicant with the highest percentage will be funded first, etc. HUD will limit the number of applications selected for funding from any State to 10 percent of the budget authority available for the Mainstream Program. If establishing this geographic limit would result, however, in unreserved budget authority, HUD may modify this limit to assure that all available funds are used. When remaining budget authority is insufficient to fund the last selected application in full, the application will be funded to the extent of the funding available, unless the applicant indicates that it will only accept a higher number of units. In that event, the next selected application shall be the one indicating a willingness to accept the lesser amount of funding for the units available.

2. Deficient Applications. The application must include all of the information specified in Section IV.B.1., Content of Application, of this announcement. The General Section of the SuperNOFA provides the procedures for corrections to deficient applications. (Note: The submission by applicants of clarifications or corrections of technical deficiencies under this funding announcement must be provided to HUD within seven (7) calendar days (not the 14 calendar days indicated in the General Section of the SuperNOFA) of receipt of the HUD notification.)

3. Unacceptable Applications. After the 7-calendar day technical deficiency correction period, the Grants Management Center will disapprove all applications from PHAs and nonprofit organizations that the Grants Management Center determines are not acceptable for processing. The Grants Management Center's notification of rejection letter must state the basis for the decision. The applicant may request an applicant debriefing. Beginning 30 days after the awards for assistance are publicly announced in the Federal Register, and for at least 120 days thereafter, HUD will, upon receiving a written request from the applicant, provide a debriefing to the requesting applicant. (See the General Section of the SuperNOFA for additional information regarding a debriefing.) Applicants requesting to be debriefed must send a written request to Iredia Hutchinson, Director, Grants Management Center, Department of Housing and Urban Development, 501 School Street, SW., Suite 800, Washington, DC 20024.

C. Anticipated Announcement and Award Dates

The announcement of Mainstream awards is anticipated to occur during the month of September or October, 2004.

VI. Award Administration Information

A. Award Notices

Successful applicants will receive a letter from HUD Headquarters' Office of Public and Indian Housing (OPIH) advising of their having been selected to receive an award of Mainstream vouchers. Shortly thereafter the awardee will receive award documents from OPIH's Financial Management Center (FMC) providing the awardee with notification of its Mainstream voucher award, contract documents, and a funding exhibit.

B. Administrative and National Policy Requirements

1. Housing Choice Voucher Program Regulations. Applicants must administer the Mainstream Program in accordance with HUD regulations and requirements governing the Housing Choice Voucher Program. The only exception to this requirement shall be for nonprofit organizations which shall not be required to comply with the requirements of 24 CFR part 903, subpart B concerning the requirement for a PHA Plan.

2. Housing Choice Voucher Program Admission Requirements. Housing choice voucher assistance must be provided to eligible disabled families in conformity with regulations and requirements governing the Housing Choice Voucher Program and the PHA's administrative plan.

3. Turnover. When a voucher under this announcement becomes available for reissue (e.g., the family initially selected for the program drops out of the program or is unsuccessful in the search for a unit), the voucher may be used only for another family eligible for assistance under this announcement for five years from the date the rental assistance is placed under an annual contributions contract (ACC). In addition, any renewal by HUD of the five-year voucher funding shall require the continued reissuance of the vouchers to disabled families.

If there is ever an insufficient pool of disabled families on the PHA's or nonprofit organization's housing choice voucher waiting list, the PHA or nonprofit organization shall conduct outreach to encourage eligible persons to apply for this special allocation of vouchers. Outreach may include contacting independent living centers, advocacy organizations for persons with disabilities, and medical, mental health, and social service providers for referrals of persons receiving such services who would benefit from housing choice voucher assistance. If the PHA's or nonprofit organization's housing choice voucher waiting list is closed, and if the PHA or nonprofit organization has insufficient applicants on its housing choice voucher waiting list to use all awarded vouchers under this announcement, the PHA or nonprofit disability organization should open the waiting list for applications from disabled families. PHAs and nonprofit organizations must take care to keep track of the number of disabled vouchers they have been awarded under this funding announcement versus the number of such vouchers they have actually issued to disabled families.

4. PHA and Nonprofit Organization Responsibilities. In addition to the responsibilities under the Housing Choice Voucher Program and HUD regulations concerning nondiscrimination based on disability (24 CFR 8.28) and to affirmatively further fair housing, PHAs and nonprofit organizations that receive voucher funding shall:

a. Where requested by an individual, assist program participants to gain access to supportive services available within the community, but not require eligible applicants or participants to accept supportive services as a condition of participation or continued occupancy in the program.

b. Identify public and private funding sources to assist participants in covering the costs of modifications that need to be made to their units as a reasonable accommodation for their disabilities.

c. Not deny persons who qualify for rental assistance under this program other housing opportunities, or otherwise restrict access to PHA or nonprofit organization programs to eligible applicants who choose not to participate.

d. Provide housing choice voucher search assistance.

e. In accordance with regulatory guidance, provide higher rents to owners necessary for the provision of accessible units and structural modifications for persons with disabilities.

f. Provide technical assistance to owners for making reasonable accommodations or making units accessible to persons with disabilities.

5. Conducting Business in Accordance With Core Values and Ethical Standards. To reflect core values, all PHAs shall develop and maintain a written code of conduct in the PHA administrative plan that (1) requires compliance with the conflict of interest requirements of the Housing Choice Voucher Program at 24 CFR 982.161, and (2) prohibits the solicitation or acceptance of gifts or gratuities, in excess of a nominal value, by any officer or employee of the PHA, or any contractor, subcontractor or agent of the PHA. The PHA's administrative plan shall state PHA policies concerning PHA administrative and disciplinary remedies for violation of the PHA code of conduct. The PHA shall inform all officers, employees and agents of its organization of the PHA's code of conduct.

6. Environmental Impact. In accordance with 24 CFR 50.19(b)(11) and 58.35(b)(1) of the HUD regulations, tenant-based rental activities under this program are categorically excluded from the requirements of the National Environmental Policy Act of 1969 (NEPA) and are not subject to environmental review under the related laws and authorities. Activities under the homeownership option of this program are categorically excluded from NEPA requirements and excluded from other environmental requirements under 24 CFR 58.5 in accordance with 24 CFR 58.35(b)(5), but PHAs and nonprofit organizations are responsible for the environmental requirements in 24 CFR 982.626(c).

C. Reporting

Reporting requirements are the same as for regular vouchers under the Housing Choice Voucher Program. In addition, HUD requires that funded recipients collect racial and ethnic beneficiary data. It has adopted the Office of Management and Budget's Standards for the Collection of Racial and Ethnic Data. In view of these requirements, funded recipients should use form HUD-27061, Racial and Ethnic Data Reporting Form (found on http://www.HUDclips.org), a comparable program form, or a comparable electronic data system for this purpose.

VII. Agency Contacts

A. For Technical Assistance

Prior to the application due date, you may contact George C. Hendrickson, Housing Program Specialist, Room 4214, Office of Public Housing and Voucher Programs, Department of Housing and Urban Development, 451 Seventh Street, SW., Washington, DC 20410; telephone (202) 708-0477, ext. 4064. Subsequent to application submission, you may contact the Grants Management Center at (202) 358-0221. (These are not toll-free numbers.) Persons with hearing or speech impairments may access these numbers via TTY (text telephone) by calling the Federal Information Relay Service at 800-877-8339 (this is a toll-free number).

B. Satellite Broadcast

HUD will hold an information broadcast via satellite for potential applicants to learn more about the Mainstream Program and the preparation of an application. For more information about the date and time of this broadcast, you should consult the HUD Web site at http://www.hud.gov.

VIII. Other Information

A. Increasing the Participation of Faith-Based and Community-Based Organizations in HUD Program Implementation

HUD believes that grassroots organizations, e.g., faith communities, civic organizations, and other community-based organizations, have not been effectively utilized. These grassroots organizations have a strong history of providing vital community services such as assisting the homeless and preventing homelessness; counseling individuals and families on fair housing rights; providing elderly housing opportunities; developing first time homeownership programs; increasing homeownership and rental housing opportunities; developing affordable and accessible housing in neighborhoods across the country; and creating economic development programs. The goal of this policy priority is to make HUD's housing choice voucher program more effective, efficient, and accessible by expanding opportunities for faith-based and other community-based organizations to participate in developing solutions for their own neighborhoods. Applicants are encouraged to coordinate with and otherwise involve faith-based and other community-based organizations in those activities under the housing choice voucher program where their services, expertise and knowledge may be most effective.

B. Paperwork Reduction Act

The information collection requirements contained in this document have been approved by the Office of Management and Budget (OMB) under the Paperwork Reduction Act of 1995 (44 U.S.C. 3501-3520) and assigned OMB control number 2577-0169. In accordance with the Paperwork Reduction Act, HUD may not conduct or sponsor, and a person is not required to respond to, a collection of information unless the collection displays a currently valid OMB control number. Public reporting burden for the collection of information is estimated to average one hour per annum per respondent for the application and grant administration. This includes the time for collecting, reviewing, and reporting the data for the application, semi-annual reports and final report. The information will be used for grantee selection and monitoring the administration of funds. Response to this request for information is required in order to receive the benefits to be derived.

[FR Doc. 04-10548 Filed 5-13-04; 8:45 am]

BILLING CODE 4210-32-P